DEPARTMENT OF THE INTERIOR

Fish and Wildlife Service

50 CFR Part 17

[FWS-R2-ES-2008-0055; 92210-1117-0000-FY09-B4]

RIN 1018-AV46

Endangered and Threatened Wildlife and Plants; Revised Designation of Critical Habitat for the Wintering Population of the Piping Plover (Charadrius melodus) in Texas

AGENCY: Fish and Wildlife Service, Interior.

ACTION: Final rule.

SUMMARY: We, the U.S. Fish and Wildlife Service (Service), designate revised critical habitat for the wintering population of the piping plover (Charadrius melodus) in 18 specific units in Texas under the Endangered Species Act of 1973, as amended (Act). In total, approximately 139,029 acres (56,263 hectares) fall within the boundaries of the revised critical habitat designation. The revised critical habitat is located in Cameron, Willacy, Kenedy, Kleberg, Nueces, Aransas, Calhoun, Matagorda, and Brazoria Counties, Texas. Other previously designated critical habitat for the wintering piping plover in Texas or elsewhere in the United States remains unaffected.

DATES: This final rule becomes effective on June 18, 2009.

ADDRESSES: This final rule, the associated final economic analysis, and the final environmental assessment are available on the Internet at http://www.regulations.gov or www.fws.gov/southwest/es/Library/. Comments and materials we received, as well as supporting documentation we used in preparing this final rule, are available for public inspection, by appointment, during normal business hours, at the U.S. Fish and Wildlife Service, Corpus Christi Ecological Services Field Office, 6300 Ocean Drive, TAMU-CC, Unit 5837, Corpus Christi, TX 78412-5837.

FOR FURTHER INFORMATION CONTACT: Allan Strand, Field Supervisor, U.S Fish and Wildlife Service, Corpus Christi Ecological Services Office (see ADDRESSES); telephone 361-994-9005; facsimile 361-994-8262. If you use a telecommunications device for the deaf (TDD), call the Federal Information Relay Service (FIRS) at 800-877-8339.

SUPPLEMENTARY INFORMATION:

Background

It is our intent to discuss only those topics directly relevant to the development and designation of revised critical habitat for the wintering population of the piping plover in Texas in this final rule. For more information on the biology and ecology of the wintering population of the piping plover, refer to the final listing rule we published in the Federal Register on December 11, 1985 (50 FR 50726). For information on piping plover wintering critical habitat, refer to the final rule designating critical habitat for the wintering populations of the piping plover we published in the Federal Register on July 10, 2001 (66 FR 36038), and the proposed rule to designate revised critical habitat for the wintering population of the piping plover in Texas we published in the Federal Register on May 20, 2008 (73 FR 29294). We made available the associated draft economic analysis and draft environmental assessment for the proposed rule to designate revised critical habitat via publication in the Federal Register on, December 9, 2008 (73 FR 74675).

Previous Federal Actions

We listed the piping plover as endangered in the Great Lakes watershed and threatened elsewhere within its range on December 11, 1985 (50 FR 50726). All piping plovers on migratory routes outside of the Great Lakes watershed or on their wintering grounds are listed as threatened under the Act due to the difficulty of knowing where they bred or were hatched.

On July 10, 2001, we designated 142 areas along the coasts of North Carolina, South Carolina, Georgia, Florida, Alabama, Mississippi, Louisiana, and Texas as critical habitat for the wintering population of the piping plover (66 FR 36038). This designation included approximately 1,798 miles (mi) (2,892 kilometers (km)) of mapped shoreline and approximately 165,211 acres (ac) (66,881 hectares (ha)) of mapped areas along the Gulf and Atlantic coasts and along margins of interior bays, inlets, and lagoons.

In February 2003, Dare and Hyde Counties, North Carolina, and the Cape Hatteras Access Preservation Alliance challenged the designation of four critical habitat units on the Cape Hatteras National Seashore, North Carolina. A November 1, 2004, court opinion vacated and remanded these units for reconsideration (Cape Hatteras Access Preservation Alliance v. U.S. Department of the Interior (344 F. Supp. 2d108 (D.D.C. 2004)). On June 12, 2006, we published a proposed rule in the Federal Register (71 FR 33703) to amend the Service's critical habitat designation in North Carolina. We revised that proposal on May 15, 2008 (73 FR 28084), and published a final designation on October 21, 2008 (73 FR 62816).

The Texas General Land Office (GLO) filed suit on March 20, 2006, challenging our designation of 19 units of critical habitat along the Texas coast (Units 3, 4, 7, 8, 9, 10, 14, 15, 16, 17, 18, 19, 22, 23, 27, 28, 31, 32, and 33). In a July 26, 2006, stipulated settlement agreement and court order, the court vacated and remanded the designation for reconsideration (Texas General Land Office v. U.S. Department of the Interior, et al., No. 06-CV-00032 (S.D. Tex.). This rule addresses only the court-vacated and remanded units (the 19 units referenced above). It also addresses minor edits to the regulatory language found in 50 CFR 17.95(b). All other areas remain as designated in the July 10, 2001, final critical habitat rule (66 FR 36038), including Texas Units 1, 2, 5, 6, 11, 12, 13, 20, 21, 24, 25, 26, 29, 30, 34, 35, 36, and 37.

Summary of Comments and Recommendations

We requested written comments from the public on the proposed revised designation of critical habitat for the piping plover during two comment periods. The first comment period, associated with the publication of the proposed rule (73 FR 29294), opened on May 20, 2008, and closed on July 21, 2008. We also requested comments on the associated draft economic analysis and draft environmental assessment during a second comment period, which opened December 9, 2008, and closed on January 8, 2009 (73 FR 74675). We did not receive any requests for a public hearing. We coordinated with the Texas General Land Office and also maintained project by project contact with other Federal, State, and local agencies and interested parties working in the South Texas coastal area as they needed assistance in determining presence of piping plover habitat and critical habitat. Additionally Federal, State, and local agencies; scientific organizations; and other interested parties could respond to the proposed rule and draft economic analysis during the comment periods.

During the first comment period, we received five sets of comments addressing the proposed critical habitat designation. During the second comment period, we received a single set of comments, from the GLO, on the draft economic analysis and environmental assessment. Comments were grouped into general issues relating to the proposed critical habitat designation for the wintering piping plover, and are addressed in the following summary and incorporated into the final rule as appropriate.

Peer Review

In accordance with our policy published on July 1, 1994 (59 FR 34270), we solicited expert opinions from five knowledgeable individuals with scientific expertise that included familiarity with the species, the geographic region in which the species occurs, and conservation biology principles. We received a response from one of the five peer reviewers. The peer reviewer generally concurred with our methods and conclusions and provided additional information, clarifications, and suggestions to improve the final critical habitat rule. Peer reviewer comments are addressed in the following summary and incorporated into the final rule as appropriate.

Peer Reviewer Comments:

(1) Comment: Designating critical habitat may not radically change the protection for the plover as it already has protection from take under section 7 of the Act. Also, designating critical habitat may not change the economic impacts from piping plover habitat protection since occupied habitat is still protected, also by section 7, regardless of critical habitat designation.

Our Response: We have noted these comments and addressed them in the economic analysis and environmental assessment for this rule. The economic impact (cost) in the areas we are designating as critical habitat is substantially lower than costs resulting from listing the species. However, the economic analysis anticipates that some impacts of the designation will be incurred, particularly from avoidance of stockpiling materials on sandflats and avoidance of discharging freshwater on tidal flats. The impacts of critical habitat designation are further discussed in the Economic Analysis section under Exclusions, below.

(2) Comment: The peer reviewer generally approved of the methods used to map critical habitat, but expressed concerns at the use of mean lower low water (MLLW) as the lower boundary for critical habitat, because during extreme low tides plovers feed in the exposed flats. He recommended adding a buffer to the MLLW boundary to capture the areas exposed during extreme low tides when piping plovers are present.

Our Response: The extreme low tides expose areas classified by our National Wetland Inventory (NWI) as subtidal with rooted vascular vegetation, usually seagrass. We are aware the plovers feed on organisms found on and around seagrass on the rare occasions when the seagrass is exposed during extreme low tides. Wintering piping plovers are active during daylight hours and spend the majority of that time foraging (Johnson and Baldassarre 1988, pp. 216-217). However, seagrass beds are usually submerged and unavailable to the plovers for foraging, so we do not consider them to be features essential to the conservation of the species (primary constituent elements).

A critical habitat designation does not signal that habitat outside the designated area is unimportant. Since we are aware that, when exposed, these areas provide food to the wintering plovers, we will focus on individual section 7 consultation jeopardy analyses to consider impacts to the species in these areas.

(3) Comment: The peer reviewer questioned the use of 2005 National Agriculture Imagery Program (NAIP) imagery and asked us to specify the Geographic Positioning System (GPS) unit used.

Our Response: The 2005 NAIP aerial photography was the most recent imagery available to us that covered all of the area we were considering for this revised designation of critical habitat. When using aerial photography in a Geographic Information System (GIS), the 2-dimensional photographs are applied to a 3-dimensional system that accounts for the curvature of the Earth. When that is done, each aerial photograph becomes distorted, with some parts of the photograph distorted more than others. We have no information on how GPS was used to generate the NAIP photographs. However, we used a Trimble GeoXT GPS unit with TerraSync version 3.01 software to measure the level of distortion in order to be certain that we are not including built structures in the units we are designating. See the Criteria Used To Identify Critical Habitat section, under Critical Habitat, below for additional discussion on our use of GPS.

(4) Comment: The peer reviewer commented on the dynamic nature of the coast and occurrence of hurricanes that might make it imprudent to designate critical habitat boundaries so precisely. Also, there was concern with the use of NWI dataset, which is about 15 years old. However, the reviewer believed these concerns might be ameliorated if occupied habitat is adequately protected under existing Endangered Species Act regulations.

Conversely, the GLO expressed interest in us establishing boundaries more precisely, commenting that more precise boundaries should limit the need for buffers. Also, they expressed concern that corrections of the gulf-side MLLW data using Unit TX-3 might have led to a false 184-foot (ft) (56-meter (m)) average that was too generalized and that this overgeneralization was then applied to all lower unit boundaries. Also, the GLO questions what was used to define boundaries, if the vegetation line was not used to delineate the landward limit.

Our Response: In Cape Hatteras Access Preservation Alliance v. U.S. Dept. of the Interior, 344 F. Supp. 2d 108 (D.D.C. 2004), the Court found that PCEs must be present in any occupied habitat, in order for us to designate that habitat. We are designating only occupied habitat for the piping plover wintering population in Texas. We have not included additional unoccupied coastal areas in the designation at this time because we cannot predict when and where a dynamic coastline shift may occur, and whether this will result in new or different areas that will develop the PCEs, or if these areas may support plovers.

In our proposed designation, we created the lines which make up the polygons delineating areas containing the essential features by using an unadjusted high level of precision for calculating the Universal Transverse Mercator coordinates (UTMs). In preparing this final designation, we realized that this was an artificial level of precision, because the aerial photographs we used in generating boundaries have some distortions (see our response to Comment 3 above), and because of other GIS-processing reasons (see Methods section under Critical Habitat). In other words, the data used did not actually have the degree of detail to provide accurate and consistent information to that level of precision. It was our desire to eliminate an unintentionally confusing and potentially inaccurate degree of precision in our calculations. To better reflect the degree of reasonable precision available from the existing data and techniques, we decided to smooth the lines defining the critical habitat polygons using a known and well-published algorithm with a 10-meter tolerance. We therefore recalculated the UTM coordinates using the resulting smoothed polygons. Using the smoothed polygons allowed us to determine the most accurate and reasonably precise delineation of the polygons, using the best available science.

We have effected this change in this final designation, and in so doing we have also responded to the comments of both the peer reviewer and the GLO by using the most appropriate scale and reasonable level of precision, by smoothing the edges of the polygons of critical habitat slightly to avoid implying a false level of precision. We believe this provides the most accurate boundaries we can, using the best scientific information available. In the Methods section (under Critical Habitat), we describe our use of a polygon smoothing algorithm; it added and deleted slivers of area in all of the units and subunits. This resulted in a slight addition of area overall, although some units lost a small amount of area while others gained a small amount.

We chose to use the NWI maps and data in bayside areas because it allowed us to identify the types of habitat used by the plover and map those habitat types. We used this methodology only for bayside areas because those areas did not change appreciably over time. The Criteria Used To Identify Critical Habitat section below explains how we adjusted for areas where changes did occur.

In order to determine the MLLW, we used digitized data from the National Oceanic and Atmospheric Administration (NOAA) of the gulf coast in the area of Unit TX-3. It is important to include wetted beach areas exposed at low tides in our designation because they are heavily used by wintering plovers for foraging. We considered using Light Detection and Ranging imagery to map the MLLW; however, recent imagery that maps coastal areas that are under water was not available for much of the portion of the Texas coast where we are designating critical habitat. Therefore, the NOAA digitized data was the best scientific information available for use in determining the MLLW.

Using the NOAA digitized MLLW presented problems because, for most of the coastline we were mapping, erosion and accretion from storm events had shifted the beach and MLLW from what was digitized by NOAA. The exception was with the MLLW for Unit TX-3. The NOAA-defined MLLW for that unit runs approximately parallel to the shoreline, following the contours of the gulf floor. The metadata provided for the NOAA-defined MLLW did not provide the year when the MLLW was defined. However, based on the alignment of the MLLW approximately parallel to the shoreline in Unit TX-3, the MLLW may have been defined more recently for that area of the coast than for the other areas where we are designating critical habitat. We chose to measure the distance from the shoreline to the NOAA-defined MLLW every 328 ft (100 m) for over 30 miles (48 kilometers) in Unit TX-3 because that provided the most accurate way to estimate the MLLW available. We then calculated the average of the shoreline to MLLW distance, which was 184 ft (56 m), and applied that calculation to the other units.

We agree with the GLO that using a single number to estimate the MLLW is generalizing the MLLW. However, the average was calculated from 90 measurements from the shoreline to the NOAA-defined MLLW in TX-3, and we were unable to identify a better alternative. We used NOAA tidal station and bathymetric (ocean water depth) data to confirm that the 184-ft (56-m) distance from shore provided a reasonable estimate of the MLLW. See the Criteria Used To Identify Critical Habitat section below for additional discussion. We continue to believe that this method utilizes the best scientific information available to us in making this critical habitat designation.

The vegetation line in the NAIP photographs was used to delineate the landward limit in all but a few cases. We have added an explanation to the Criteria Used To Identify Critical Habitat section (under Critical Habitat) below of how we mapped the landward limit when the vegetation line was not used.

(5) Comment: The peer reviewer asked what distance was used to determine whether a unit was valuable to piping plovers due to the particular unit's proximity to other wintering piping plover occurrences.

Our Response: In this revised designation of critical habitat, we did not include areas that were in the original designation that were too small or too fragmented (i.e., separated from a larger area) to be of utility. In determining whether to include such areas in our revised designation, we also considered whether an area was occupied by the plover at least 2 years between 1997 and 2007, to compare more recent census data to the areas originally occupied at time of listing. We have modified our Methods section (under Critical Habitat) to reflect our use of these criteria. We did not use plover dispersal capability as a criterion for including the small or separated areas in the revised designation, and we did not use a specific size or distance to define them.

(6) Comment: The peer reviewer notes that piping plovers are highly mobile and may use different sites, depending on daily and seasonal tide conditions, and surveys need to be done more frequently to be really knowledgeable of site usage. The reviewer cautions against excluding Unit TX-17 due to lack of plover sightings there since 1997, and recommends we include all sites that have been occupied over the decades, so that we do not exclude a site because of potentially inadequate surveys.

Our Response: We deleted TX-17 as a critical habitat unit, because it has been reduced in size from 14 ac (6 ha) to less than 3 ac (1 ha) since the original designation. The best available science does not support the conclusion that this unit is still used by plovers, due to its small size and the lack of plovers documented there since 1997.

(7) Comment: What criteria explicitly define current occupancy?

Our Response: We define current occupancy as one or more wintering plovers being documented to be present in a unit two or more years from 1997 to 2007. We relied on international piping plover wintering survey data, peer-reviewed articles with survey data, Masters thesis results, Christmas Bird Count data, survey data obtained from Federal project reports, and data from local biologists. If there was a question as to whether a piping plover was reported from an area two or more times between 1997 and 2007, Ecological Services field office biologists made a site visit during the wintering season at the appropriate tidal range to confirm presence.

Further, all revised critical habitat units in Texas are within areas that we have determined were occupied at the time of listing, and that contain the PCEs in the appropriate spatial arrangement needed to support life history functions essential for the conservation of the species where it winters. All units which we designate as critical habitat have occurrence data that indicate a consistent use. That is, occupancy has been documented over two or more wintering seasons, which is the same criterion used in the original 2001 designation.

Comments from States

Section 4(i) of the Act states, “the Secretary shall submit to the State agency a written justification for his failure to adopt regulations consistent with the agency's comments or petition.” Comments received from the Texas GLO regarding the proposal to revise critical habitat designation for the wintering piping plover are addressed below.

(1) Comment: The GLO questioned whether we provided sufficient justification for designating the additional areas of vacated critical habitat (in addition to the areas that were not vacated), to show that habitat is essential to the conservation of the piping plover.

Our Response: We believe the proposed rule justifies designating the vacated critical habitat areas, because they contain features essential to the conservation of the plovers. These areas are used by wintering plovers that are endangered on their breeding grounds in the Great Lakes region and are, thus, in danger of extinction. These endangered individuals spend up to 10 months of the year on the wintering grounds, thus emphasizing the importance of sufficient and suitable wintering habitat (Drake et al. 2001, p. 260). Because piping plovers spend most of the annual cycle on nonbreeding areas, they would be negatively affected by loss of those sites, emphasizing the importance of conserving nonbreeding areas for this species. While on their wintering grounds in Texas, plovers are dependent on a mosaic of habitat patches, and move among these patches (Drake et al. 2001, pp. 262-264). The areas we are designating were occupied by the species at least twice in the last 10 years, and they contain the primary constituent elements for wintering plovers as required by our regulations at 50 CFR 424.12. Thus, we have determined that these areas have features which are essential to the conservation of the species.

(2) Comment: The GLO believes oil and gas exploration, including seismic survey, and production would be limited due to restrictions imposed by the Service due to critical habitat. They cited an example of a 2006 letter where the Service recommended that seismic crews stay out of critical habitat and a buffer of 1,000 feet around it.

Our Response: The Service has not made such recommendations to stay out of critical habitat when performing seismic work since 2006. On August 27, 2008, the Corpus Christi Ecological Services Office issued a memorandum that provides current guidance for conducting section 7 consultations for the wintering piping plover population in Texas. The guidance recommends ways to avoid or minimize adverse effects to the birds and their habitat, but it does not recommend avoidance of critical habitat areas. We anticipate that activities (including oil and gas exploration) could occur in critical habitat areas without conflicting with endangered species prohibitions. The Service's section 7 handbook states: “In evaluating project effects on critical habitat, the Service must be satisfied that the constituent elements of the critical habitat likely will not be altered or destroyed by proposed activities to the extent that the survival and recovery of affected species would be appreciably reduced. Modification or destruction of designated critical habitat that does not reach this threshold is not prohibited by section 7.” The constituent elements for wintering piping plover critical habitat are listed in the Primary Constituent Elements (PCEs) section under Critical Habitat below.

(3) Comment: The GLO questioned what authority the Service might have to control future impacts in critical habitats in areas not covered by Federal permits/section 7.

Our Response: To the extent that a particular activity affecting designated critical habitat does not involve a federal action, the Service has no direct regulatory authority with respect to such activities. The Service, is however, responsible for enforcing the prohibitions on unauthorized taking of a listed species under section 9 of the Act. Take is defined in the Act as “to harass, harm, pursue, hunt, shoot, wound, kill, trap, capture, or collect [a listed species], or attempt to engage in any such conduct.” Where there is no federal action to which section 7 would apply, the Service can authorize take under section 10 of the Act. Section 10 provides authority to permit the take of listed species by non-Federal entities such as private landowners, cities, or counties. This is done through a permitting process where project effects must be mitigated, including effects to habitat.

(4) Comment: The GLO commented that the Service did not list the physical and biological features determined essential to the conservation of the piping plover.

Our Response: In our proposed rule we referenced the text of the July 10, 2001, rule (66 FR 36038), which specifies the physical and biological features essential to the conservation of the species. We consider these physical and biological features essential to the conservation of the species where it winters to be the primary constituent elements (PCEs) laid out in the appropriate quantity and spatial arrangement for the conservation of the species, and which may require special management considerations or protection. The PCEs are listed below in the section Primary Constituent Elements. In this rule, we are designating as critical habitat areas which contain one or more of these eight features for this revised designation. We did not designate any areas in this rule containing salterns, which are bare sand flats in the center of mangrove ecosystems, because they do not occur in Texas, although they occur in other States where the plover winters.

(5) Comment: The GLO inquired as to what information the Service has that elevates normal recreational use to being a threat in 2008 when it was not considered a threat in 2001.

Our Response: We have observed more development on the South Texas coast and increased beach usage by pedestrians and motorists over the intervening 7 years. Increased beach use has produced conditions, such as increased numbers of joggers, cyclists, and unleashed dogs near the water's edge, that lead to additional disturbance to foraging and roosting piping plovers.

(6) Comment: The GLO observed that the Texas Open Beaches Act controls access to the beaches, requiring local governments to address access in Dune Protection and Beach Access Plans. There are concerns that in areas where there is critical habitat for the plover, the Service could impose beach driving closures or driving limitations during the plover wintering season, which would yield an economic loss for local governments.

Our Response: The Service has not recommended the closure of beaches in Texas due to the presence of wintering plovers, whether the beaches are in critical habitat areas or not. We may make recommendations to minimize driving in cases where driving has the potential to destroy or adversely modify critical habitat. For instance, when some oil and gas activities are planned that require the use of heavy trucks, we have recommended that the trucks form a convoy to limit tire rutting on beaches and to smooth over extensive ruts. We have not limited recreational driving in wintering plover critical habitat areas in the past, and we do not anticipate doing so in the future.

(7) Comment: The GLO asked how beach nourishment and cleaning might be detrimental to critical habitat in the long term.

Our Response: Critical habitat can be adversely modified by movement of sand that changes beach elevation and causes vegetation to encroach. Critical habitat could also be affected for one or more seasons by beach-cleaning vehicles making ruts, or beach nourishment activities that bury the shoreline benthic zone under extra sand so plover prey items are not as accessible. Cleaning activities that remove sargassum and natural debris such as driftwood also remove part of the prey base and objects behind which plovers take shelter when resting.

(8) Comment: The GLO suggested that, if the Service does designate the proposed critical habitat, it would be wise to develop a general permit type of approach to potential piping plover consultations. It would help to develop guidelines to allow legal activities to occur consistently and efficiently.

Our Response: We agree, and we will pursue developing a list of best management practices for the critical habitat and programmatic consultations for Clean Water Act permits often required for work in piping plover habitat.

(9) Comment: The GLO expressed concern that minimizing beach driving, if it results in denied access, would conflict with the Texas Open Beaches Act (OBA). Also specifying the size and location of driving lanes could conflict with the OBA.

Our Response: As we explain in our response to GLO comment 2, our August 27, 2008, guidance does not recommend avoidance of critical habitat areas. In critical habitat areas, in instances where there is a federally permitted or funded activity that would involve creating driving lanes, we may suggest reducing the size of driving lanes to minimize effects to the plover, and would recommend that they not be in the intertidal zone where piping plovers feed.

(10) Comment: The GLO commented that there were not enough details to determine if the proposed restrictions would increase the cost of local government maintenance or conflict with the OBA. Also, local governments' costs for training staff on plover protection and preparation of annual reports are not eligible for reimbursement under the State Beach Cleaning and Maintenance Assistance Program.

Our Response: As noted above, there are no restrictions due to critical habitat alone, but rather recommendations in cases where Federal funding or permitting exists. Municipalities have no requirements to train staff, monitor piping plovers, or prepare annual monitoring reports based on the designation of piping plover critical habitat.

(11) Comment: The GLO commented that there may be areas of conflict between the OBA or private use and designated critical habitat such as: Preventing fill in sand flats, preventing planting of vegetation in sand flats, and placing fences to exclude beach access.

Our Response: Designation of critical habitat does not prohibit or require any of these activities. If activities in critical habitat areas are federally funded or permitted, such as some filling or planting activities, they would require consultation under section 7, in order for the federal funding or permit to be issued. Our August 27, 2008, guidance on section 7 consultations on critical habitat recommends not filling in sandflats, but designation of critical habitat will likely affect such filling only if a federal action agency determines that the filling would result in a federal action destroying or adversely modifying critical habitat.

Fencing is addressed in our economic analysis only with respect to minimizing the effects of residential development adjacent to designated critical habitat. Fencing would not prevent access to the beach, but only exclude access to it from the area under development.

(12) Comment: The GLO commented that further details are needed on how the Service plans to define “harassment” under the Endangered Species Act, as it applies to recreational beach activities like vehicle driving, pedestrian usage, and pet restrictions.

Our Response: The Act prohibits “harassment” of listed species. The Service's regulations define “harassment” as an intentional or negligent act or omission which creates the likelihood of injury to wildlife by annoying it to such an extent as to significantly disrupt normal behavioral patterns which include, but are not limited to, breeding, feeding, or sheltering. For example, harassment in the form of disturbance from the increased use of vehicles, pedestrians, or pets may include noise and increased activity that may flush a bird from the habitat it uses to feed. The bird's inability to feed may lead to poor body condition. Additionally, flushing a bird from an area where it is sheltering may cause that bird to become more susceptible to predation. If any of the activities of concern (vehicular use, pedestrian use, or the presence of dogs on the beach) cause significant disruptions of normal behavior patterns, then such actions could meet the definition of harassment.

(13) Comment: The GLO noted that some possible areas for exclusion may be the Willacy County portion of Unit TX-3A, the Kleberg County portion of TX-3D, Unit TX-16, TX-22, TX-32, TX-10(A), and also the critical habitat in the Mollie Beattie Coastal Habitat Community in Unit TX-06.

Our Response: We have reviewed the areas identified above in the GLO's comment. We considered excluding areas based on specific protection plans being in place for the piping plover and its wintering habitat. We appreciate that the Coastal Barrier Resources Act (CBRA) and the OBA offer protection to the Willacy County portion of TX-3A by discouraging future development. The GLO-managed land in the Kleberg County portion of TX-3D is also CBRA protected and GLO protected and managed, with deed restrictions to prevent additional development. Also, we understand that the nonprofit organization, The Nature Conservancy, is to buy this property from GLO and transfer it to the Padre Island National Seashore. Shamrock Island, Unit TX-10(A), is owned by The Nature Conservancy. Units TX-16, TX-22, and TX-32 also all have CBRA protection and limited access because of their remote locations without roads or connections to the mainland. These authorities may provide some habitat protection, but none of these plans specifically target piping plover protection for those areas. The Mollie Beattie Coastal Habitat Community is in Unit TX-06 and was not vacated and, therefore, was not reconsidered for designation in this rule. We gratefully acknowledge the efforts of the GLO, Texas Parks and Wildlife Department, Coastal Bend Bays and Estuary Program, Coastal Conservation Association, Texas A&M University—Corpus Christi Center for Coastal Studies, and the Saltwater—Fisheries Enhancement Association for efforts in conservation of piping plover and other coastal resources at the 1100-ac Mollie Beattie preserve.

Public Comments

In addition to the comments from the Texas General Land Office, we received substantive comments from one individual and from two organizations, the Center for Biological Diversity and the Gulf Coast Bird Observatory. Comments are grouped into general issues relating to the proposed critical habitat designation for the wintering piping plover and are addressed below.

(1) Comment: The Center for Biological Diversity supports designation of critical habitat for the piping plover in Texas and elsewhere and believes the current proposal should be expanded to include additional currently unoccupied habitat so that plovers and their habitats can move and adapt to changing climate conditions and rising sea levels.

Our Response: Climate conditions are discussed in the Environmental Assessment for the rule. Climate change may cause changes in the arrangement of suitable habitat patches. We also believe the Texas coast may experience high rates of sea-level rise as well as increases in the frequency and intensity of storms. However, the information currently available on the effects of climate change does not make sufficiently accurate estimates of the location and magnitude of the effects, so we are unable to determine what additional areas would be needed, nor where they would be located. We believe the critical habitat designated includes the areas that meet the definition of occupied critical habitat, and based on the best scientific and commercial data available, we have determined that the addition of unoccupied areas in Texas is not essential for the conservation of the species. This is discussed further in the Criteria Used To Identify Critical Habitat section below. We recognize that critical habitat designated at a particular point in time may not include all of the habitat areas we may later (with the benefit of additional information) determine are necessary for the recovery of the species. For this reason, a critical habitat designation does not signal that habitat outside the designated area is unimportant or may not promote the recovery of the species.

(2) Comment: The Service does not account for the destructive nature of off-road vehicle (ORV) use in plover habitat, as these can significantly reduce the overall abundance and diversity of benthic food items for the birds. The commenter cites a study of the reduction in abundance and diversity of benthic species conducted in Australia, where the beach received an average of 727 vehicles per day.

Our Response: We do not have evidence that South Texas beaches are receiving these levels of use, and data are not available regarding effects on benthic species for Texas beaches used by piping plovers. Our decision to designate critical habitat must be based on the best available data and the conclusions we can draw from it. We are aware of possible effects, and we review projects or situations on a case-by-case basis for data and indications of diminished or damaged food sources that might harm wintering plovers.

(3) Comment: The proposal to exclude National Wildlife Refuge lands is inappropriate.

Our Response: We considered whether to propose to exclude National Wildlife Refuge lands under section 4(b)(2) of the Act and have determined that we will not exclude them. The Refuge lands are included in the critical habitat designation.

(4) Comment: The Service needs to explain the difference in the size of the units designated in 2009 versus the same units described back in 2001.

Our Response: The units changed in size with removal of areas that do not contain PCE's, based on National Wetlands Inventory data, and they also changed in size due to shifts in coastal habitat patches since the 2001 mapping. This is explained in greater detail below in the Criteria Used To Identify Critical Habitat section.

(5) Comment: The Gulf Coast Bird Observatory is completing a 1-year study of the piping plover on the upper Texas coast that includes critical habitat Units TX-27, TX-28, TX-31, TX-32, and TX-33. The Gulf Coast Bird Observatory submitted piping plover sighting data and believes resizing some of these critical habitat units may affect the birds. Additionally, they are concerned that the Service may delete TX-29, TX-30, TX-34, TX-35, TX-36, TX-37 based on maps from http://criticalhabitat.fws.gov.

Our Response: We appreciate the plover sighting survey data and information from on-site field investigations showing bird usage and human threats. Units TX-29, TX-30, TX-34, TX-35, TX-36, and TX-37 remain as critical habitat and were not vacated by the settlement agreement, so they are not a subject of this revised designation. We reviewed the map viewer version of the map for the plover at http://criticalhabitat.fws.gov, and found the currently designated units in Texas to be correct as they were mapped for the original 2001 designation. The 19 units that were vacated by the court do not show. Following this revised designation, the map at http://criticalhabitat.fws.gov will be updated to reflect this designation.

Comments Related to the Draft Economic Analysis (DEA)

(1) Comment: One commenter states that the DEA must analyze and calculate all of the benefits of designating critical habitat. Since critical habitat contributes to the survival and recovery of the species, the economic analysis needs to consider the benefits of these contributions.

Our Response: The Service considers the designation of critical habitat to be of high benefit to the species by affording opportunities for conservation. In general, we may only exclude areas that meet the definition of critical habitat when the benefits of exclusion outweigh the benefits of designation, and the effect of the exclusion would not result in extinction of the species. The Secretary must consider economic and other relevant impacts as part of the final decision-making process under section 4(b)(2) of the Act. The Act also states that its purpose is to conserve threatened and endangered species and the ecosystems upon which they depend. The non-economic related benefits of designation are appropriately considered in the balancing portion of a 4(b)(2) exclusion analysis.

(2) Comment: One commenter states that previous economic analyses have overestimated the costs of the designation of critical habitat by ascribing coextensive costs to critical habitat. The commenter goes on to state that the Service must separate out all costs in the economic analysis that are attributable to listing alone, required by biological opinions, habitat conservation plans, state laws, or other regulatory measures, and that the costs associated with critical habitat must be considered alone.

Our Response: This economic analysis considers the costs associated with critical habitat separate from those likely to occur under the baseline, to the extent possible. Specifically, the economic analysis employs “without critical habitat” and “with critical habitat” scenarios. The “without critical habitat” scenario represents the baseline for the analysis, considering protections already accorded the piping plover; for example, under the Federal listing and other Federal, State, and local regulations. The “with critical habitat” scenario includes the incremental impacts associated specifically with the designation of critical habitat for the species (since all of the potential economic impacts associated with the designation of critical habitat are considered incremental). The incremental conservation efforts and associated impacts are those not expected to occur absent the designation of critical habitat for the piping plover. These impacts are summarized in the Executive Summary under “Summary of Incremental Impacts and Exhibit ES-4.”

(3) Comment: One public commenter states that higher exploration and development costs associated with oil and gas operations in coastal and marine environments, combined with time delays, regulatory uncertainty, and stigma associated with critical habitat could result in industry avoidance of critical habitat areas. Thus, critical habitat represents a functional condemnation of the State's mineral estate.

Our Response: Section 3.6.3 of the FEA acknowledges that increased impact minimization costs for oil and gas activities could lead to some voluntary avoidance of critical habitat areas by industry due to perceived limitations. However, these are not real limitations except in the very unlikely event that there is a federal action that would adversely modify or destroy the critical habitat. So the likelihood of this potential avoidance behavior is not known. The economic impacts of avoiding critical habitat areas could vary from no impacts, if a known resource can be tapped without directional drilling from outside the critical habitat, to appreciable impacts (i.e., $125,000 to $520,000 per year), if the resource can only be accessed from within critical habitat areas, or if data that would have been gathered during a seismic survey fails to locate a resource that otherwise would have been found. The FEA assumes that restrictions on proposed drilling activities within critical habitat areas will result in use of suboptimal drilling locations that require directional drilling to access the resource. The FEA assumes that seismic exploration activities would be modified to avoid impacts related to driving in habitat areas.

(4) Comment: One commenter states that the assumption made in the DEA that the geographic distribution of seismic survey and drilling effort in the past is indicative of future activities is invalid based upon current trends. First, there is a trend towards unconventional reservoirs, such as shales, which are currently the focus of much activity within the oil and gas sector in the mid-continental U.S. Second, mid-depth, deep-depth, and ultra-deep depth development have not been fully explored. With these deeper depths to be evaluated it is unrealistic to believe that there will be a “constant rate of well drilling over the next 20 years.” Third, seismic imaging of the transition zone (the shallow water area near shorelines) only began recently—prior to this development the transition zone was under explored. Just because an area was surveyed several times between 1989 and 2007 does not mean that with continued improvements in seismic imaging that it will not be resurveyed in the next 20 years.

Our Response: Section 3 of the FEA highlights that “the primary source of uncertainty in this analysis is the potential number and location of future seismic survey efforts and drilling sites.” As the FEA and the commenter point out, and as confirmed by two academic experts in this field, specific projections of the future location and number of future seismic surveys and drilling sites are not available for critical habitat areas. As such, past data for this area, covering a 19-year span, was used to project future rates of drilling activity over the next 20 years. Although the drilling data suggests some increase in activity in the past three years of the study period, it is not clear that these years alone represent the likely future rate of drilling, particularly when taking into account the changing economic climate. As such, the analysis draws on data from a longer time period to capture what may be a more representative sample of data. Similarly, assumptions about the rate of seismic surveys draw from the past ten years of data (1998-2007). In both cases, however, a high level of uncertainty remains regarding the level of future surveying and drilling activity in critical habitat areas. In response to these public comments, Section 3.2 of the analysis has been revised to specifically acknowledge that contributing factors to the uncertainty surrounding the potential number and location of future seismic survey efforts and drilling sites within critical habitat areas include changes in the rate of oil and gas development activities, including exploration of new areas and depths.

(5) Comment: One commenter states that restrictions on and modifications of the shot point and receiver arrays for seismic surveys on or near the critical habitat designation will decrease fold and negatively impact the data acquired, even to the point that it is useless for evaluation of the subsurface. Further, gaps in an array caused by the exclusion of areas within the array reduce data quality not only within the excluded area but extend on each side for about the width of the excluded area, depending upon the depth being imaged. Therefore, the impacts to oil and gas exploration will affect areas many times larger than the critical habitat designation alone, and thereby will have an affect many times greater annually than the dollar amount estimated.

Our Response: As stated in section 3.3.4 of the FEA, the Service states that, in the future, it is more likely to recommend a series of project modifications for work within critical habitat than it is to recommend avoidance of the habitat areas altogether. The project modifications identified as likely to be recommended by the Service are summarized in Exhibit 3-7 of the FEA, and do not include avoiding surveying critical habitat areas. Therefore, the current estimates of likely impacts to surveying activities remain unchanged from the DEA.

(6) Comment: One commenter states that the DEA attempts to marginalize the Gulf Coast by stating that the “largest concentration of oil reserves in Texas are found in West Texas, while the largest deposits of natural gas are found in the northeastern part of the State. Neither of these concentrations lies near proposed critical habitat for the piping plovers”.

Our Response: Section 3.3.2 of the FEA intends to provide context for understanding the importance of the Gulf Coast oil and gas development by providing information on production in other parts of Texas. The section FEA also states: “The Gulf Coast Region, where critical habitat for the plover is located, produces a significant amount of oil and gas, with 15,484 active oil and 20,218 active gas wells operating in the nine counties that contain critical habitat. Gulf Coast wells comprise 22 percent and 10 percent of Texas wells, respectively”.

(7) Comment: One commenter states that the Texas General Land Office has leased significant amounts of acreage in the past several years that have not experienced extensive oil and gas activity in the past 18 years. Exploration and development of these lands will likely require access to areas proposed for critical habitat designation. The commenter states that, in many cases, potential environmental impacts are lessened by locating drilling and production equipment onshore for wells that are directionally drilled to a location underlying state waters, eliminating the need for access channels.

Our Response: The extent to which future drilling in critical habitat areas may occur in order to access resources located in offshore state waters is not known. As stated in earlier, specific projections of the future location and number of future drilling sites are not available for critical habitat areas. As such, the FEA uses past drilling data for this area to project future rates of well drilling in critical habitat areas. To the extent that directionally drilling from critical habitat areas to offsite areas did not occur in the past, but will occur in the future, this activity would be underrepresented in our data and projections, and could result in an underestimate of the number of expected drilling sites in critical habitat. A caveat has been added to the analysis to this effect.

(8) Comment: One commenter states that insufficient details were provided in the DEA to determine if the new proposed restrictions to beach maintenance activities (specifically, minimizing beach driving from August to March and specifications for the size and placement of driving lanes) will increase the cost of local government maintenance or conflict with the Texas Open Beaches Act.

Our Response: The FEA does not contemplate modification of beach maintenance projects to minimize beach driving from August to March, as there is no indication that the Service would recommend this modification for these projects. While specifications for the size and placement of driving lanes have been recommended as part of an ongoing consultation with the City of Corpus Christi on beach maintenance activities, the City has not identified costs associated with meeting this recommendation to date. As such, no additional costs associated with modifying the size and placement of driving lanes are quantified in the analysis. There has been no indication that these restrictions would lead to a denial of beach access that would conflict with the Texas Open Beaches Act.

(9) Comment: One commenter states that some threats to plover posed by development activities may represent conflicts with the Open Beaches Act or private use. These situations include: (1) preventing fill in sandflats that are not intertidal; the Beach/Dune regulations discourage, but do not prohibit fill in sand flats for the purpose of land development; (2) Preventing planting of vegetation in sandflats that are not intertidal; landowners who build in sandflats often construct new vegetated sand dunes to protect against storm surge; (3) Exclusion fencing that restricts beach access would potentially violate the Texas Open Beaches Act.

Our Response: To date, the Service has recommended avoidance of dredge/fill activities during peak plover use, avoidance of planting vegetation in flats habitat, and use of exclusion fencing as project modifications for several planned development projects. However, none of these projects have been constructed, for various reasons unrelated to the plover. Chapter 4 of the economic analysis acknowledges that in the future such requirements could conflict with some planned private use, which would need to be modified to fit the plover needs. Costs associated with implementing the Service's recommendations are summarized in Section 4.1.1.

(10) Comment: The GLO expressed the concern that the economic impacts to oil and gas industries may be high, and that we should consider excluding areas on this basis.

Our Response: Section 4(b)(2) of the Act states that the Secretary may exclude an area from critical habitat if he determines that the benefits of such exclusion outweigh the benefits of specifying such area as part of the critical habitat, unless he determines, based on the best scientific data available, that the failure to designate such area as critical habitat will result in the extinction of the species. In making that determination, the legislative history is clear that the Secretary has broad discretion regarding which factor(s) to use and how much weight to give to any factor. Wintering plovers in Texas include plovers that are federally endangered on their breeding grounds in the Great Lakes region, as well as plovers that are federally threatened on their breeding grounds in the northern Great Plains and along the Atlantic coast. Those in the Great Lakes region number only about 60 breeding pairs and, by being listed as endangered, are considered by the Service to be in danger of extinction. These endangered individuals spend up to 10 months of the year on the wintering grounds, thus emphasizing the importance of sufficient and suitable wintering habitat. Although they are listed as federally threatened on their wintering grounds, impacts to their wintering habitat can affect whether they return to the Great Lakes region to breed or their breeding success while there. Thus, destruction or adverse modification of wintering habitat essential to plovers that breed in the Great Lakes region may increase their risk of extinction, emphasizing the importance of conserving nonbreeding habitat and essential features for this species through designation of critical habitat. By designating critical habitat for wintering plovers in Texas, the areas designated will be provided some regulatory protections so the plovers are not forced to other areas that are not designated and may be suboptimal. In designating critical habitat, the Service must also consider the recovery needs of the species, such that the essential features and habitat that are identified, if managed, could provide for the conservation of the species.

Weighing the potential economic effects and other potential regulatory effects of designating critical habitat for the piping plover in Texas, against the unique needs of wintering grounds in Texas for those plovers whose breeding grounds are in the Great Lakes, we have determined not to exercise our discretion to exclude areas from the final designation.

Summary of Changes From Proposed Rule

In preparing the final critical habitat revised designation for the wintering population of the piping plover in Texas, we reviewed and considered public and peer reviewer comments on the May 8, 2008, proposed designation of critical habitat (73 FR 29294) and the December 9, 2008, draft economic analysis and environmental assessment (73 FR 74675). Our final designation includes 18 of the 19 vacated units, as put forward in the May 8, 2008, proposed revised designation of critical habitat for the wintering population of the piping plover in Texas (Units TX-3, TX-4, TX-7, TX-8, TX-9, TX-10, TX-14, TX-15, TX-16, TX-18, TX-19, TX-22, TX-23, TX-27, TX-28, TX-31, TX-32, and TX-33), totaling approximately 138,881 ac (56,206 ha). We are not designating critical habitat for court-vacated Unit TX-17, because it did not meet our occupancy criterion (plovers were not documented there over two wintering seasons between 1997 and 2007).

Also, in 50 CFR § 17.95(b), “Piping Plover (Charadrius melodus) Wintering Habitat,” we are revising the text at paragraph 1 differently than proposed. In the May 8, 2008 proposed designation, we referred to mud flats as “(between annual low tide and annual high tide)”, whereas in this final rule we describe the mud flats as “(between mean lower low water line and annual high tide)”, as explained earlier in this preamble.

Moreover, we are not revising the text of the current 50 CFR § 17.95(b), “Piping Plover (Charadrius melodus) Wintering Habitat,” paragraph 2 as proposed (which describes areas not included in the critical habitat). Instead, we are maintaining the current CFR text for that paragraph, which was set forth in the final rule of October 21, 2008 (73 FR 62839), pertaining to wintering habitat for piping plover in North Carolina. We are doing this because we believe that the text established in the North Carolina final rule is more representative of the critical habitat areas that are excluded for all the States in the wintering habitat for piping plover.

Critical Habitat

Background

Critical Habitat is defined in section 3 of the Act as:

(i) The specific areas within the geographical area occupied by a species, at the time it is listed in accordance with the Act, on which are found those physical or biological features

(a) essential to the conservation of the species, and

(b) that may require special management considerations or protection; and

(ii) specific areas outside the geographical area occupied by a species at the time it is listed, upon a determination that such areas are essential for the conservation of the species.

Conservation, as defined under section 3 of the Act, means the use of all methods and procedures that are necessary to bring any endangered species or threatened species to the point at which the measures provided under the Act are no longer necessary. Such methods and procedures may include, but are not limited to, all activities associated with scientific resources management such as research, census, law enforcement, habitat acquisition and maintenance, propagation, live trapping, transplantation, and, in the extraordinary case where population pressures within a given ecosystem cannot be otherwise relieved, regulated taking.

Critical habitat receives protection under section 7 of the Act through the prohibition against Federal agencies carrying out, funding, or authorizing the destruction or adverse modification of critical habitat. Section 7(a)(2) of the Act requires consultation on Federal actions that may affect critical habitat. The designation of critical habitat does not affect land ownership or establish a refuge, wilderness, reserve, preserve, or other conservation area. Such designation does not allow the government or public to access private lands. Such designation does not require implementation of restoration, recovery, or enhancement measures by non-Federal landowners. Where a landowner seeks or requests Federal agency funding or authorization for an action that may affect a listed species or critical habitat, the consultation requirements of section 7(a)(2) of the Act would apply. However, even in the event of a destruction or adverse modification finding, the landowner's obligation is not to restore or recover the species, but to implement reasonable and prudent alternatives to avoid destruction or adverse modification of critical habitat.

For inclusion in a critical habitat designation, the habitat within the geographical area occupied by the species at the time of listing must contain the physical and biological features that are essential to the conservation of the species, and be included only if those features may require special management consideration or protection. Critical habitat designations identify, to the extent known and using the best scientific data available, habitat areas that provide essential life cycle needs of the species (areas on which are found those physical and biological features laid out in the appropriate quantity and spatial arrangement for the conservation of the species). Under the Act and regulations at 50 CFR 424.12, we can designate critical habitat in areas outside the geographical area occupied by the species at the time it is listed only when we determine that those areas are essential for the conservation of the species and that designation limited to those areas occupied at the time of listing would be inadequate to ensure the conservation of the species.

Section 4 of the Act requires that we designate critical habitat on the basis of the best scientific and commercial data available. Further, our Policy on Information Standards Under the Endangered Species Act (published in the Federal Register on July 1, 1994 (59 FR 34271)), the Information Quality Act (section 515 of the Treasury and General Government Appropriations Act for Fiscal Year 2001 (Pub. L. 106-554; H.R. 5658)), and our associated Information Quality Guidelines, provide criteria, establish procedures, and provide guidance to ensure that our decisions are based on the best scientific data available. They require our biologists, to the extent consistent with the Act and with the use of the best scientific data available, to use primary and original sources of information as the basis for recommendations to designate critical habitat.

When we are determining which areas should be proposed as critical habitat, our primary source of information is generally the information developed during the listing process for the species. Additional information sources may include the recovery plan for the species, articles in peer-reviewed journals, conservation plans developed by States and counties, scientific status surveys and studies, biological assessments, or other unpublished materials and expert opinion or personal knowledge.

Habitat is often dynamic, and species may move from one area to another over time. Furthermore, we recognize that critical habitat designated at a particular point in time may not include all of the habitat areas we may later determine are necessary for the recovery of the species. For these reasons, a critical habitat designation does not signal that habitat outside the designated area is unimportant or may not be required for recovery of the species.

Areas that are important to the conservation of the species, but are outside the critical habitat designation, will continue to be subject to conservation actions we implement under section 7(a)(1) of the Act. Areas that support populations are also subject to the regulatory protections afforded by the section 7(a)(2) jeopardy standard, as determined on the basis of the best available scientific information at the time of the agency action. Federally funded or permitted projects affecting listed species outside their designated critical habitat areas could result in jeopardy findings in some cases. Similarly, critical habitat designations made on the basis of the best available information at the time of designation will not control the direction and substance of future recovery plans, habitat conservation plans (HCPs), or other species' conservation planning efforts if new information available at the time of these planning efforts calls for a different outcome.

Primary Constituent Elements (PCEs)

In accordance with section 3(5)(A)(i) and 4(b)(1)(A) of the Act and the regulations at 50 CFR 424.12, in determining which areas within the geographical area occupied at the time of listing to designate as critical habitat, we consider the physical and biological features essential to the conservation of the species where it winters to be the primary constituent elements (PCEs) laid out in the appropriate quantity and spatial arrangement for the conservation of the species, and which may require special management considerations or protection. These include, but are not limited to:

(1) Space for individual and population growth and for normal behavior;

(2) Food, water, air, light, minerals, or other nutritional or physiological requirements;

(3) Cover or shelter;

(4) Habitats that are protected from disturbance or are representative of the historic, geographical, and ecological distributions of a species.

Data concerning the wintering population of the piping plover found along the Texas Gulf Coast indicate that wintering piping plovers are found on islands along the Texas Gulf Coast as well as on certain areas of the mainland. These islands, known as barrier islands, form barriers to the direct action of the ocean tides on the Texas mainland. These barrier islands parallel much of the Texas coast, forming bays between the islands and the mainland. The ocean side of the barrier islands and the areas of the unprotected mainland are directly exposed to the wave action of the Gulf of Mexico, causing them to regularly erode and accrete. The coastal systems along the bays of the barrier islands and the mainland are less dynamic because they are not directly exposed to the wave action of the Gulf of Mexico.

We derive the specific PCEs required for the wintering population of the piping plover from the biological needs of the wintering population of the piping plover. Behavioral observations of piping plovers on the wintering grounds suggest that they spend the majority of their time foraging (Johnson and Baldassarre 1988, p. 217; Drake 1999, pp. 9-12). Primary prey for wintering plovers includes polychaete marine worms, various crustaceans, insects, and occasionally bivalve mollusks (Zonick and Ryan 1996, p. 26), which they peck from on top or just beneath the surface of moist or wet sand, mud, or fine shell. In some cases, this substrate may be covered by a mat of blue-green algae. When not foraging, plovers undertake various maintenance activities, including roosting, preening, bathing, aggressive encounters (with other piping plovers and other species), and moving among available habitat locations (Zonick and Ryan 1996, p. 27; Haig and Elliott-Smith 2004). The habitats used by wintering birds include beaches, mud flats (nearly flat areas made up of mud), sand flats (nearly flat areas made up of sand), algal flats (nearly flat areas with a layer of algae growing on a moist mud or sand substrate), and washover passes (areas where breaks in the sand dunes result in an inlet). Wintering plovers are dependent on a mosaic of habitat patches, and move among these patches, depending on local weather and tidal conditions (Drake et al. 2001, pp. 262-263).

These biological needs and the PCEs required for the wintering population of the piping plover were originally described in the Critical Habitat section of the original rule designating critical habitat for the wintering population of the piping plover (July 10, 2001, 66 FR 36038). In Cape Hatteras Access Preservation Alliance v. U.S. Dept. of the Interior, 344 F. Supp. 2d 108 (D.D.C. 2004), the Court upheld the PCEs identified in our July 10, 2001, final rule designating critical habitat for the wintering population of the piping plover (66 FR 36038). Thus, we did not change PCEs previously identified, which remain based on the best available scientific information. They constitute the features that are essential for the conservation of wintering piping plovers along the coasts of North Carolina, South Carolina, Georgia, Florida, Alabama, Mississippi, Louisiana, and Texas.

Under the Act and its implementing regulations, we are required to identify the known physical and biological features within the geographical area known to be occupied at the time of listing that are essential to the conservation of the piping plover and which may require special management considerations or protections. The physical and biological features are those PCEs laid out in a specific spatial arrangement to be essential to the conservation of the species. All areas designated as critical habitat for the wintering population of the piping plover are occupied, are within the species' historic geographic range, and contain sufficient PCEs to support at least one life history function.

Based on the needs and our current knowledge of the life history, biology, and ecology of the species and the requirements of the habitat to sustain the essential life history functions of the species in its wintering grounds, we have determined that wintering piping plover's PCEs are the habitat components that support foraging, roosting, and sheltering and the physical features necessary for maintaining the natural processes that support these habitat components. The primary constituent elements are:

(1) Intertidal sand beaches (including sand flats) or mud flats (between the MLLW and annual high tide) with no, or very sparse, emergent vegetation for feeding. In some cases, these flats may be covered or partially covered by a mat of blue-green algae.

(2) Unvegetated or sparsely vegetated sand, mud, or algal flats above annual high tide for roosting. Such sites may have debris or detritus and may have micro-topographic relief (less than 20 in (50 cm) above substrate surface) offering refuge from high winds and cold weather.

(3) Surf-cast algae for feeding.

(4) Sparsely vegetated backbeach, which is the beach area above mean high tide seaward of the dune line, or in cases where no dunes exist, seaward of a delineating feature such as a vegetation line, structure, or road. Backbeach is used by plovers for roosting and refuge during storms.

(5) Spits, especially sand, running into water used for foraging and roosting.

(6) Salterns, or bare sand flats in the center of mangrove ecosystems that are found above mean high water and are only irregularly flushed with sea water.

(7) Unvegetated washover areas with little or no topographic relief for feeding and roosting. Washover areas are formed and maintained by the action of hurricanes, storm surges, or other extreme wave actions.

(8) Natural conditions of sparse vegetation and little or no topographic relief mimicked in artificial habitat types (e.g., dredge spoil sites).

This final designation is designed for the conservation of the PCEs necessary to support the life history functions that were the basis for the proposal and the areas containing those PCEs in the appropriate spatial arrangement essential for the conservation of the species where it winters. Because not all life history functions require all the PCEs, not all critical habitat will contain all the PCEs.

Furthermore, because this revised critical habitat designation is only for the wintering piping plover population in Texas, we did not consider features that are essential to the conservation of the species where it breeds.

Methods

As required by section 4(b)(1)(A) of the Act, we used the best scientific and commercial data available in determining areas occupied at the time of listing that contain the physical or biological features essential to the conservation of the wintering population of the piping plover, areas unoccupied at the time of listing that are essential to the conservation of the wintering population of the piping plover, or both. We only designate areas outside the geographical area occupied by a species when a designation limited to its present range would be inadequate to ensure the conservation of the species (50 CFR 424.12(e)). We are not designating any areas outside the geographical area presently occupied by the species, because occupied areas are sufficient for the conservation of the species, as explained in Criteria Used To Identify Critical Habitat, below.

We have also reviewed available information that pertains to the habitat requirements of this species. These sources included, but were not limited to, data in reports submitted during section 7 consultations and by biologists holding section 10(a)(1)(A) recovery permits, research published in peer-reviewed articles and presented in academic theses and agency reports, and recovery plans. We conducted additional censuses to verify that there are still present occurrences at the original occurrences at time of listing (1985). To determine the most current distribution of wintering piping plovers in Texas, we evaluated these areas using wintering piping plover occurrence data from 1991, 1996, 2001, and 2006 international piping plover winter population censuses. We considered these data along with other occurrence data (including presence or absence survey data), research published in peer-reviewed articles and presented in academic theses and agency reports, and information received during the development of the July 10, 2001, designation of critical habitat for the wintering population of the piping plover (see final rule at 66 FR 36038).

To map bayside areas containing physical and biological features determined to be essential to the conservation of the species (see Primary Constituent Elements for the Wintering Population of the Piping Plover section below), we used data on known piping plover wintering locations, 1992 National Wetlands Inventory (NWI) data (except for Unit TX-22, which had 2001 data available) fitted to 2005 NAIP aerial photographs, and regional GIS coverages that defined shorelines. Based on their NWI classification, 10 wetland habitats for the bayside areas met our definition of PCEs (see Primary Constituent Elements section above). Their NWI codes and brief descriptions are provided below.

• M2USN - Marine sandy coastline (beach), regularly inundated by tides.

• M2USP - Marine sandy coastline (beach), irregularly inundated by tides.

• E2AB1N - Estuarine (bayside) algal mud or sand flats, regularly inundated by tides. Algal flats are nearly flat areas with a layer of algae growing on a moist mud or sand substrate; they are otherwise devoid of vegetation.

• E2AB1P - Estuarine (bayside) algal mud or sand flats, irregularly inundated by tides.

• E2AB3M - Estuarine (bayside) grass flats of mud or sand, irregularly inundated by tides. Grass flats are flat or nearly flat areas of mud or sand with seagrass.

• E2USM - Estuarine (bayside) sandy shore (beach/sandbar), rarely exposed due to tidal fluctuation.

• E2USN - Estuarine (bayside) sandy shore (beach/sandbar), regularly inundated by tides.

• E2USP - Estuarine (bayside) sandy shore (beach/sandbar), irregularly inundated by tides.

• L1UBKhs - Impounded, artificially flooded open water dredge spoil pit, greater than 20 ac (8 ha).

• L2USKhs - Impounded, artificially flooded sandy bottom dredge spoil pit, greater than 20 ac (8 ha).

We are aware that wintering piping plovers in Texas also use a NWI wetland habitat that is classified as subtidal with rooted vascular vegetation (submerged plants with roots in the sand or mud), which is usually five or more species of seagrass. Although that habitat is classified as subtidal and appears in the NAIP aerial photographs as such, when portions of it are occasionally exposed at very low tides, wintering plovers forage in them. However, seagrass beds are usually submerged and unavailable to the plovers for foraging, so we do not consider them to be features essential to the conservation of the species (primary constituent elements).

To map the gulfside areas, we used 2005 NAIP imagery as a base from which the vegetation and water lines were digitized at a scale of 1:5,000 (using ESRI ArcMap 9.2 software) to produce polygons of critical habitat. These polygons are our best and most accurate representation of vegetation lines, MLLW, and other boundaries. The MLLW was used as the lower limit of the intertidal habitat used by wintering piping plovers. For most of the coastline we were mapping, erosion and accretion from storm events had shifted the beach and, thus, the true MLLW from what was defined by NOAA. Therefore, the MLLW lines created by NOAA were often misaligned with the shoreline in the 2005 NAIP aerial photography, and did not run approximately parallel to the beach as the MLLW generally does. The exception was with the MLLW for Unit TX-3. The NOAA-defined MLLW for that unit runs approximately parallel to the beach, following the contours of the gulf floor. We used the NOAA-defined MLLW for Unit TX-3 to estimate the true MLLW for the other areas we are designating. In that unit, we measured the average distance from the well-aligned MLLW line to the shoreline in the 2005 NAIP aerial photographs. We took measurements every 328 ft (100 m) on the NAIP photography along Unit TX-3, and averaged them. The 184-ft (56-m) average distance was then used as the estimated MLLW line that was applied in all coastal (gulfside) areas. The only NOAA tidal station located along the gulfside of the coast in the area where critical habitat is being designated measured the MLLW at 4 ft (1.2 m) below the mean tide line at that site. Using NOAA bathymetric (ocean water depth) data, we confirmed that 184 ft (56 m) distance from shore provided a reasonable estimate of that MLLW. The landward limit of the gulfside critical habitat units was usually defined by densely vegetated dunes, which do not provide habitat for piping plovers. The vegetation line in the NAIP photographs was used to delineate the landward limit in all but a few cases. We excluded one building from the boundary by mapping around it. Where narrow beach access roads have been cut through the dunes, we mapped a line across the road to connect the gulfside edge of the vegetation on either side of the road. Access roads cut in the vegetated portion of dunes are not included within the critical habitat boundaries.

In our proposed designation, we created the lines delineating areas containing the essential features by using an unadjusted high level of precision for calculating the UTMs. In preparing this final designation, we realized that this was an artificial level of precision, because of several reasons, including but not limited to the following: the aerial photographs we used in generating boundaries characteristically have distortions; we used multiple sources of reference data with varying resolutions and precisions; and the heads-up digitizing utilized either directly or during development of source data may have introduced some error during our GIS processing. In other words, the data used did not actually have the degree of detail to accurately provide information to an unadjusted high level of precision. It was our desire to eliminate an unintentionally confusing and potentially inaccurate degree of precision in our calculations. To better reflect the degree of reasonable precision available from the existing data, we applied a smoothing algorithm to the lines defining the critical habitat polygons using a 10 meter tolerance. The type of polygon smoothing/simplification that we utilized during our GIS processing applied a published algorithm (Douglas and Peucker, 1973) with enhancements and is known within the ESRI ArcMap toolset as 'POINT_REMOVE'. The process removes extraneous bends and small intrusions and extrusions from a line without destroying its essential shape. It keeps the so-called critical points that depict the essential shape of a polygon and removes all other redundant details. We therefore recalculated the UTM coordinates using the resulting smoothed polygons. Leaving the calculations and coordinates at an unaltered high level of precision would, effectively, be inaccurate, and using the smoothed polygons allows us to determine the most accurate and reasonably precise delineation of the polygons, using the best available science.

All polygons generated in our mapping process were simplified using tools in ArcGIS 9.3 software as described above. The location of each remaining UTM coordinate point was then generated for Federal Register publication using XTools 5.2 software. The polygon smoothing function altered the edges of polygons; in so doing, it added and deleted slivers of area in all of the units and subunits. This resulted in a slight addition of area overall, although some units lost a small amount of area, while others gained a small amount of area. The smoothing resulted in a net gain of 148 ac. The use of the smoothing algorithm with a 10-meter tolerance resulted in a 99.6 per cent overlap of the original polygons, reduced extraneous and potentially erroneous, data points by 75 per cent, and resulted in a very slight size alteration (a 0.11 per cent increase) of the originally proposed 138,881 acres. This also allowed a greater efficiency in the production of the description of designated areas, and results in one fourth the number of coordinate pairs required to describe the polygons. We believe this provides the most accurate and reasonably precise boundaries we can, using the best scientific information available.

When determining critical habitat boundaries within this final rule, we made every effort to avoid including developed areas such as lands covered by buildings, pavement, and other structures, because such lands lack PCEs for the piping plover. The scale of the maps we prepared under the parameters for publication within the Code of Federal Regulations may not reflect the exclusion of such developed lands.

We measured the accuracy of the aerial photographs we used by gathering GPS readings at 29 locations and plotting them over the photographs to determine how close those photo points were to actual locations. The offset distance ranged from 10 to 43 ft (3 to 13 m). This information is in the GIS metadata to document the data's horizontal accuracy. This offset distance was sufficiently small that we were able to conclude we had excluded built structures. Any such lands inadvertently left inside critical habitat boundaries shown on the maps of this final rule have been excluded by text in the rule and are not designated as critical habitat. Therefore, a Federal action involving these lands will not trigger section 7 consultation with respect to critical habitat and the requirement of no adverse modification, unless the specific action would affect the physical and biological features essential for the conservation of the species in the adjacent critical habitat.

The NWI data allowed areas without PCEs to be excluded from critical habitat designation and PCEs to be delineated more precisely. Areas without PCEs appear as holes in the designated unit or subunit. The maps that are included in this rule are at such a large scale that the holes where critical habitat is not designated do not appear in them. However, the GIS coverages that we used to generate those maps can be viewed at a finer scale so that the holes where critical habitat is not designated within a unit or subunit boundary can be seen. Those GIS coverages can be accessed at http://criticalhabitat.fws.gov.

We included those areas within or adjacent to the 19 court-vacated units that contain essential physical or biological features along bay and gulf shorelines for which occurrence data indicate a consistent use by piping plovers, with observations over two or more wintering seasons between 1997 and 2007. We have not included the area of Allyn's Bight (court-vacated Unit TX-17), because plovers were not documented there over two wintering seasons between 1997 and 2007. While Unit TX-17 continues to have some PCEs in two small, disjunct fragments, they are no longer in sufficient qualtity nor appropriate spatial arrangement to function in providing for the needs of the species, and, therefore, this unit is not included in this revised designation. It is not suitable for critical habitat designation. Within the remaining 18 court-vacated units, we also did not include very small areas (generally less than 5 ac (2.0 ha)) and areas separated from larger polygons containing the PCEs. We are unable to now determine, but believe that when these areas were mapped in our original designation in 2001, either there were PCEs present that connected them to the larger polygons of PCEs or they were included in error because our mapping methodology was not as precise as the methodology we are using for this revised designation. Plovers were not documented in these small and disjunct areas over two wintering seasons between 1997 and 2007. In contrast, we expanded the boundaries of units to capture complete polygons of PCEs, which we believe have shifted outside the boundaries we designated originally due to storms or other natural events. The boundaries of these units have expanded slightly in these areas, but their use by plovers and their occupancy have not significantly changed. By expanding some boundaries to capture larger polygons and shrinking other boundaries to remove small and disjunct polygons, we have provided an appropriate spatial arrangement of critical habitat for the wintering population of the piping plover in Texas.

Delineating specific locations for designation as critical habitat for the wintering population of the piping plover is difficult because the coastal areas they use are constantly changing due to storm surges, flood events, and other natural geophysical alterations of beaches and shoreline. Our textual descriptions of the boundaries of each unit use reference points (such as roads or channels), latitude/longitude coordinates, the edge of a PCE (such as the edge of a sand flat or mud flat), the MLLW line, or the edge of a management unit (such as a park or municipality). Within the external boundary for each unit, the unit itself is restricted to only those areas that contain the physical and biological features needed by wintering plovers (the PCEs). Within the external boundary, those areas that do not contain the PCEs were identified and explicitly excluded in the designation by drawing internal boundary lines around them. Unit boundaries were drawn to exclude manmade structures, such as roads or cuts to allow boat traffic. However, bollards, which are small posts placed to preclude driving on the beach, are not PCEs, and we exclude them from the boundary of critical habitat, although they are too small to delete from maps at the scale of 1:5,000 that we used to delineate the critical habitat boundaries.

Special Management Considerations or Protections

When designating critical habitat, we assess whether the specific areas within the geographical area occupied by the species at the time of listing contain the features that are essential to the conservation of the species and that may require special management considerations or protections. Activities that may destroy or adversely modify critical habitat are those for which the affected critical habitat would not remain functional to serve its intended conservation role for the species. More specifically, such activities could eliminate or reduce the habitat necessary for foraging by eliminating or reducing the piping plovers' food base; destroying or removing available upland habitats necessary for protection of the birds during storms or other harsh environmental conditions; increasing the amount of vegetation to levels that make foraging or roosting habitats unsuitable; and/or increasing recreational activities to such an extent that the amount of available undisturbed foraging or roosting habitat is reduced, with direct or cumulative adverse effects to individuals and completion of their life cycles. Examples of actions that have effects on wintering piping plover habitats include, but are not limited to:

(1) Disturbance of foraging and roosting plovers by humans, vehicles, and domestic animals;

(2) Predation, especially by falcons, hawks, coyotes, bobcats and feral cats;

(3) Beach maintenance (e.g., nourishment (adding sand) and cleaning) and stabilization efforts (e.g., construction of jetties and other hard structures).

(4) Oil and other hazardous materials spills and cleanup;

(5) Discharge of freshwater from oil and gas activities;

(6) Construction of dwellings, roads, marinas, and other structures, and associated activities including staging of materials and equipment; and/or

(7) Dredging and dredge spoil placement, and associated activities including staging of equipment and materials.

These activities may destroy or adversely modify critical habitat by:

(1) Reducing the value of a site by significantly disturbing plovers from activities such as foraging and roosting (including levels of human presence, and predators that follow human presence, significantly greater than those currently experienced);

(2) Significantly and detrimentally altering the topography of a site (such alteration may affect hydrology of an area or may render an area unsuitable for roosting);

(3) Significantly and detrimentally altering the inputs of sediments and nutrients necessary for the maintenance of beach-shaping and biologic processes that ensure appropriately configured and productive systems;

(4) Introducing significant amounts of vegetation (through changes in hydrology such as severe rutting or changes in storm or wastewater discharges);

(5) Significantly and detrimentally altering the hydrology of tidal flats;

(6) Significantly and detrimentally altering water quality, which may lead to decreased diversity or productivity of prey organisms or may have direct detrimental effects on piping plovers (as in the case of an oil spill); and

(7) Impeding natural processes that create and maintain washover passes and sparsely vegetated intertidal feeding habitats.

As described in more detail in the unit descriptions below, we find that the PCEs within each unit may require special management considerations or protection due to threats to the wintering population of the piping plover or its habitat.

Criteria Used To Identify Critical Habitat

As required by section 4(b)(1)(A) of the Act, we used the best scientific and commercial data available in determining areas that contain the features that are essential to the conservation of the wintering population of the wintering population of the piping plover. All revised critical habitat units in Texas are within areas that we have determined were occupied at the time of listing, and that contain the PCEs in the appropriate spatial arrangement needed to support life history functions essential for the conservation of the species where it winters. All units which we designate as critical habitat have occurrence data that indicate a consistent use. That is, occupancy has been documented over two or more wintering seasons, which is the same criterion used in the original 2001 designation. We used the best scientific data available in determining areas that contain the features that are essential to the conservation of the wintering population of the piping plover, as discussed in the Methods section above. We have not included additional unoccupied coastal areas in the designation at this time that might become occupied at some point, because we cannot predict when and where a dynamic coastline shift may occur, and whether this will result in new or different areas that will develop the PCEs, or if these areas may support plovers.

The units were delineated by compiling existing relevant spatial data of the unit descriptions described in our 2001 final rule designating critical habitat for the wintering population of the piping plover (66 FR 36038), refining the existing descriptions using our National Wetlands Inventory data, and mapping in such a manner that the units contain the PCEs (as described) and do not contain any structures or other features that are not identified as PCEs. However, bollards are excluded, but are too small to be removed digitally from our maps. To further ensure that no manmade features are included in critical habitat, bollards are expressly excluded by text in the rule and are not included for designation as critical habitat. Using the information compiled above, GIS was used to analyze and integrate the relevant data layers for the areas of interest in order to determine those areas that include PCEs. See the Methods section above for additional discussion of mapping techniques.

We did not designate areas that do not contain one or more of the PCEs or areas that: (1) Are highly degraded and not restorable; and (2) are small, highly fragmented, or isolated and may provide little or no long-term conservation value. We included areas containing one or more PCEs where occurrence data exist and where the area: (1) Provides a patchwork of the features essential for the conservation of the species; (2) offers dispersal capabilities or is in proximity to other wintering piping plover occurrences that would allow for survival and recolonization following major natural disturbance events (e.g., hurricanes); (3) is of sufficient size to maintain the quantity and appropriate spatial arrangement of the physical and biological features to support occurrences; and (4) is representative of the historic geographic distribution of occupied areas that will help prevent further range collapse of the species and will provide for the conservation of the species.

Within the 19 areas (Units TX-3, TX-4, TX-7, TX-8, TX-9, TX-10, TX-14, TX-15, TX-16, TX-17, TX-18, TX-19, TX-22, TX-23, TX-27, TX-28, TX-31, TX-32, and TX-33) vacated and remanded to the Service for reconsideration, we found no unoccupied areas that we determined to be essential to the conservation of the species. The 18 units in Texas we designate (TX-17 was not designated) cover a small area relative to the total area used by wintering piping plovers along the coasts of the Gulf of Mexico, Atlantic Ocean, and Caribbean islands. That total occupied wintering area is vast. In comparison, unoccupied areas along the Texas coast are relatively small. Wintering plovers in Texas exhibit strong site fidelity and small home range size (Drake et al. 2001, pp. 262-264). In a study of 49 radio-marked plovers on a Texas barrier island, no plovers left the study area during a 9-month study (Drake 1999, p.11). We have no information to inform us where plovers go if they are not using the areas of documented use, so we are unable to predict which areas currently unoccupied might be occupied in the future. We recognize that climate change may cause changes in the arrangement of occupied habitat patches. However, the information currently available on the effects of climate change does not make sufficiently precise estimates of the location and magnitude of the effects, so we are unable to determine what additional areas would be needed. Thus, we do not consider unoccupied areas in Texas to be essential to the conservation of the species. Therefore, we propose no areas in Texas outside the geographical area occupied by the species at the time of listing.

In the vacated Unit TX-17, the PCEs have been reduced to two small and disjunct fragments, and the unit has not been observed to have been occupied since 1997. Therefore, we do not consider this unit currently suitable for critical habitat designation.

Final Critical Habitat Designation

We are designating 18 units as revised critical habitat in Texas for the wintering population of the piping plover. The critical habitat units described below constitute our current best assessment of areas that meet the definition of critical habitat for wintering piping plovers in Texas. We have retained the same unit and subunit numbers that were vacated by the court. Units that were not vacated and remain critical habitat are not described, and vacated Unit TX-17 is not described because we did not designate it in this revised critical habitat designation. Table 1 shows the units that are occupied, the threats requiring special management or protections, land ownership, and approximate area encompassed within each unit.

Table 1.—Critical habitat units for the wintering piping plover.
Unit | Threats to PCE's that may require special management or protections | Land Ownership | Total Acres (Hectares)
Subunit TX-3A: South Padre Island - Gulf of Mexico Shoreline | Oil and gas activities, including stockpiling materials, dredge disposal, and discharging fresh water; residential and commercial development; recreational use, including beach maintenance, human, vehicle, and domestic animal disturbance, and predation | Federal, State, County, Private | 2,891 (1,170)
Subunit TX-3B: South Padre Island -Interior | Oil and gas activities, including stockpiling materials, dredge disposal, and discharging fresh water; residential and commercial development; recreational use, including human, vehicle, and domestic animal disturbance, and predation | Federal, State, Private | 44,137 (17,862)
Subunit TX-3C: North Padre Island - Interior | Oil and gas activities, including stockpiling materials, dredge disposal, and discharging fresh water; recreational use, including human, vehicle, and domestic animal disturbance | State, Private | 50,897 (20,597)
Subunit TX-3D: North Padre Island - Gulf of Mexico | Oil and gas activities; residential and commercial development; recreational use, including beach maintenance, human, vehicle, and domestic animal disturbance, and predation | State, Private | 270 (109)
Subunit TX-3E: Mesquite Rincon | Oil and gas activities, including stockpiling materials, dredge disposal, and discharging fresh water; recreational use, including human, vehicle, and domestic animal disturbance, and predation | State, Private | 9,623 (3,894)
TX-4. Lower Laguna Madre Mainland | Oil and gas activities, including stockpiling materials, dredge disposal, and discharging fresh water; recreational use, including human, vehicle, and domestic animal disturbance, and predation | Federal, State, Private | 17,223 (6,970)
TX-7. Newport Pass/Corpus Christi Beach | Oil and gas activities, including stockpiling materials, dredge disposal, and discharging fresh water; residential and commercial development; recreational use, including beach maintenance, human, vehicle, and domestic animal disturbance, and predation | State, Private | 294 (119)
TX-8. Mustang Island Beach | Oil and gas activities; residential and commercial development; recreational use, including beach maintenance, human, vehicle, and domestic animal disturbance, and predation | State, City, Private | 623 (252)
TX-9. Fish Pass Lagoons | Oil and gas activities; recreational use, including human, vehicle, and domestic animal disturbance, and predation | State, Private | 168 (68)
Subunit TX-10A: Shamrock Island | Oil and gas activities; recreational use, including human, vehicle, and domestic animal disturbance, and predation | State, Private | 12 (5)
Subunit TX-10B: Mustang Island - Unnamed sand flat | Oil and gas activities; recreational use, including human, vehicle, and domestic animal disturbance, and predation | State | 2 (1)
Subunit TX-10C: Mustang Island - Lagoon Complex | Oil and gas activities, including stockpiling materials, dredge disposal, and discharging fresh water; residential and commercial development; recreational use, including human, vehicle, and domestic animal disturbance, and predation | State, Private | 331 (134)
TX-14. East Flats | Residential and commercial development; recreational use, including human, vehicle, and domestic animal disturbance, and predation | State, Private | 591 (239)
TX-15. North Pass | Residential and commercial development; recreational use, including human, vehicle, and domestic animal disturbance, and predation | State, Private | 805 (326)
TX-16. San Jose Beach | Oil and gas activities, including stockpiling materials, dredge disposal, and discharging fresh water; recreational use, including human, vehicle, and domestic animal disturbance, and predation | Federal, State, Private | 1,378 (558)
TX-18. Cedar Bayou/ Vinson Slough | Oil and gas activities; recreational use, including human, vehicle, and domestic animal disturbance, and predation | Federal, State, Private | 2,465 (998)
TX-19. Matagorda Island Beach | Recreational use, including human, vehicle, and domestic animal disturbance, and predation | Federal, State | 2,413 (976)
TX-22. Decros Point | Oil and gas activities; recreational use, including human, vehicle, and domestic animal disturbance, and predation | State, Private | 544 (220)
TX-23. West Matagorda Peninsula Beach | Oil and gas activities, including stockpiling materials, dredge disposal, and discharging fresh water; recreational use, including human, vehicle, and domestic animal disturbance, and predation | State, Private | 1,808 (732)
TX-27. East Matagorda Bay/ Matagorda Peninsula Beach West | Oil and gas activities, including stockpiling materials, dredge disposal, and discharging fresh water; recreational use, including human, vehicle, and domestic animal disturbance, and predation | State, Private | 905 (366)
TX-28. East Matagorda Bay/ Matagorda Peninsula Beach East | Oil and gas activities, including stockpiling materials, dredge disposal, and discharging fresh water; recreational use, including human, vehicle, and domestic animal disturbance, and predation | State, Private | 481 (194)
TX-31. San Bernard NWR Beach | Recreational use, including human, vehicle, and domestic animal disturbance, and predation | Federal, State, Private | 401 (162)
TX-32. Gulf Beach Between Brazos and San Bernard Rivers | Recreational use, including human, vehicle, and domestic animal disturbance, and predation | State | 556 (225)
TX-33. Bryan Beach and Adjacent Beach | Recreational use, including human, vehicle, and domestic animal disturbance, and predation | State | 211 (85)
Total |  |  | 139,029 (56,263)

The final economic analysis identified marine construction as a potential future impact threatening wintering piping plover critical habitat, but did not identify where it would occur. This is discussed further in the Economic Analysis section.

We divide the 18 revised critical habitat units into 24 areas:

(1)Subunit TX-3A: South Padre Island - Gulf of Mexico Shoreline;

(2)Subunit TX-3B: South Padre Island -Interior;

(3)Subunit TX-3C: North Padre Island - Interior;

(4)Subunit TX-3D: North Padre Island - Gulf of Mexico;

(5)Subunit TX-3E: Mesquite Rincon;

(6)Unit TX-4: Lower Laguna Madre Mainland;

(7)Unit TX-7: Newport Pass/Corpus Christi Pass Beach;

(8)Unit TX-8: Mustang Island Beach;

(9)Unit TX-9: Fish Pass Lagoons;

(10)Subunit TX-10A: Shamrock Island;

(11)Subunit TX-10B: Mustang Island - Unnamed sand flat;

(12)Subunit TX-10C: Mustang Island - Lagoon Complex;

(13)Unit TX-14: East Flats;

(14)Unit TX-15: North Pass;

(15)Unit TX-16: San Jose Beach;

(16)Unit TX-18: Cedar Bayou/Vinson Slough;

(17)Unit TX-19: Matagorda Island Beach;

(18)Unit TX-22: Decros Point;

(19)Unit TX-23: West Matagorda Peninsula Beach;

(20)Unit TX-27: East Matagorda Bay/Matagorda Peninsula Beach West;

(21)Unit TX-28: East Matagorda Bay/Matagorda Peninsula Beach East;

(22)Unit TX-31: San Bernard NWR Beach;

(23)Unit TX-32: Gulf Beach Between Brazos and San Bernard Rivers; and

(24)Unit TX-33: Bryan Beach and Adjacent Beach.

We present brief descriptions of all units, and reasons why they meet the definition of critical habitat for the wintering population of the piping plover, below.

Unit TX-3: Padre Island

Subunit TX-3A: South Padre Island - Gulf of Mexico Shoreline. This subunit consists of 2,891 ac (1170 ha) in Cameron and Willacy Counties, Texas. It is a beach 30.0 mi (48.2 km) in length on the gulfside of South Padre Island, which is a barrier island. The subunit is located within an area bounded on the south by the southern boundary of Andy Bowie County Park, and on the north by the south jetty of Mansfield Channel, which divides North and South Padre Islands. The jetty itself is outside the boundary of the subunit. The eastern boundary is the estimated MLLW of the Gulf of Mexico (see the Methods section for our derivation of MLLW), and the western boundary is the dune line where the habitat changes from lightly vegetated, sandy beach to densely vegetated dunes. The vegetated dune and Park Road 100, which runs north-south along the western side of the dune, separates Subunits TX-3A and 3B. This subunit does not include bollards within the critical habitat designation, although they may be present within the described area because they are too small to be detected with the mapping methodology used.

Approximately one quarter of the subunit is in Federal ownership and managed by the Service's Laguna Atascosa National Wildlife Refuge (NWR), and approximately 64 percent is in private ownership. The Service does not own the subsurface mineral rights. Ten percent is State land managed by the GLO, and a small portion at the southern end is County park land managed by Andy Bowie County Park.

Subunit TX-3A is the southernmost unit of the revised critical habitat for the wintering population of the piping plover. It was occupied at the time of listing and is currently occupied. Current occupancy has been confirmed by species experts at least 2 years out of the last 10 years. Habitat in this subunit contains features in the appropriate spatial arrangement that are essential to the conservation of the wintering population of the piping plover, including sand flats with little or no emergent vegetation (PCE 1), surf-cast algae (PCE 3) for feeding, and unvegetated or sparsely vegetated sandy backbeach and washovers (PCEs 4 and 7) for roosting, sheltering, and feeding.

The PCEs in this subunit may require special management considerations or protections to ameliorate the threats of oil and gas exploration and development, including stockpiling materials on sand flats or disposing of dredged material on them, and discharging fresh water across unvegetated tidal flats; activities associated with residential and commercial development; recreational disturbance of foraging and roosting plovers by humans, vehicles, and domestic animals; increased predation due to recreational use; and modification and loss of habitat due to beach cleaning and nourishment for recreational use. These threats are of greatest magnitude at the southern end of the subunit where housing developments are to the west of the subunit. Laguna Atascosa NWR is preparing a Comprehensive Conservation Plan (CCP) that should address the wintering population of the piping plover as well as other listed species; however a draft CCP is not yet available. At this time, we are not aware of any additional management plans that address this species in this area.

Subunit TX-3B: South Padre Island -Laguna Madre side. This bayside subunit consists of 44,137 ac (17,862 ha) in Cameron and Willacy Counties, Texas. Its southern boundary extends along the north side of an existing earthen, manmade dike running from the edge of dense dune vegetation to the Laguna Madre along latitude 26° 09' 19.00” N. The dike is not within the boundary of the subunit. The western boundary is the western edge of the intertidal mudflats bordering the eastern shore of the lower Laguna Madre, and the northern boundary is Mansfield Channel. The eastern boundary is dense vegetation of the dunes or, if there is no dense vegetation or dune, the western boundary of Park Road 100. Within that boundary, we have excluded from critical habitat designation areas that do not contain PCEs. Those areas appear as holes in the subunit. The map that is included in this rule is at such a large scale that the holes where critical habitat is not designated do not appear in them. However, the GIS coverages that we used to generate the map can be viewed at a finer scale so that the holes where critical habitat is not designated within the subunit boundary can be seen. Those GIS coverages can be accessed at http://criticalhabitat.fws.gov.

Approximately 42 percent of the land is federally owned and managed by the Service's Laguna Atascosa NWR, and approximately 38 percent is State-owned and managed by the GLO. The remaining 20 percent is in private ownership along the western side of the subunit. The Service does not own the subsurface mineral rights beneath the refuge.

This subunit was occupied at the time of listing and is currently occupied. Current occupancy has been confirmed by species experts at least 2 years out of the last 10 years. This subunit contains PCEs in the appropriate spatial arrangement essential to the conservation of the piping plover, including intertidal sand and mud flats with no or very sparse emergent vegetation for feeding (PCE 1), unvegetated or sparsely vegetated sand and mud flats above high tide for roosting (PCE 2), and sand spits running into the Laguna for foraging and roosting (PCE 5). This subunit also includes unvegetated washover areas with little or no topographic relief for feeding and roosting (PCE 7).

The PCEs in this subunit may require special management considerations or protections to ameliorate the threats of oil and gas exploration and development, including stockpiling materials on sand flats or disposing of dredged material on them, and discharging fresh water across unvegetated tidal flats; activities associated with residential and commercial development; recreational disturbance of foraging and roosting plovers by humans, vehicles, and domestic animals; and increased predation due to recreational use. These threats, particularly vehicle access, are of greatest magnitude at the southern portion of the subunit where roads are near or adjacent to PCE 1. Laguna Atascosa NWR is preparing a Comprehensive Conservation Plan (CCP) that should address the wintering population of the piping plover as well as other listed species; however, a draft CCP is not yet available. At this time, we are not aware of any additional management plans that address this species in this area.

Subunit TX-3C: North Padre Island - Laguna Madre side. This bayside unit consists of 50,897 ac (20,597 ha) in Kenedy and Kleberg Counties, Texas. It is along and within the Laguna Madre and extends from the western boundary of Padre Island National Seashore (PAIS) to the Gulf Intracoastal Waterway (GIWW). The northern boundary of the subunit is a line extending westward from the PAIS (at latitude 27° 4' 29.9” N), and its southern boundary is a line extending westward from the southern boundary of PAIS along the northern edge of the Mansfield Channel. The eastern boundary of this subunit is the western boundary of PAIS when the PCEs extend as far as PAIS or the eastern edge of the sand flats where the PCEs end. The portion of the western boundary north of longitude/latitude coordinate 26°48'38.2”N, 97°28'11.6”W is the eastern edge of the GIWW, and the portion of the western boundary south of the coordinate is the western edge of the intertidal mudflats bordering the eastern shore of the Laguna Madre. Within that boundary, we have excluded from critical habitat designation areas that do not contain PCEs. Those areas appear as holes in the subunit. The map that is included in this rule is at such a large scale that the holes where critical habitat is not designated do not appear in them. However, the GIS coverages that we used to generate the map can be viewed at a finer scale so that the holes where critical habitat is not designated within the subunit boundary can be seen. Those GIS coverages can be accessed at http://criticalhabitat.fws.gov.

Most of the land is State-owned and managed by the GLO. A small portion is in private ownership.

This subunit was occupied at the time of listing and is currently occupied. Current occupancy has been confirmed by species experts at least 2 years out of the last 10 years. This subunit contains PCEs in the appropriate spatial arrangement essential to the conservation of the piping plover, including intertidal sand and mud flats with sparse emergent vegetation for feeding (PCE 1), unvegetated or sparsely vegetated sand, or mud flats above high tide for roosting (PCE 2), and sand spits running into the Laguna for foraging and roosting (PCE 5). This subunit also includes unvegetated washover areas with little or no topographic relief for feeding and roosting (PCE 7). This subunit also contains sparse vegetation and little or no topographic relief mimicked in artificial habitat types (e.g., dredge spoil sites) for feeding (PCE 8).

The PCEs in this subunit may require special management considerations or protections to ameliorate the threats of oil and gas exploration and development, including stockpiling materials on sand flats or disposing of dredged material on them, and discharging fresh water across unvegetated tidal flats; recreational disturbance of foraging and roosting plovers by humans, vehicles, and domestic animals; increased predation due to recreational use; and modification and loss of habitat due to beach cleaning and nourishment for recreational use. At this time we are not aware of any management plans that address this species in this area.

Subunit TX-3D: North Padre Island - Gulf of Mexico. This gulfside subunit consists of 270 ac (109 ha) of beach in Kleberg County, Texas. It extends along the gulf shore of North Padre Island from the northern boundary of PAIS northward 6.2 mi (10 km) to the Nueces County line. The southern boundary is the north boundary of the northeast section of the PAIS. The subunit extends eastward to the MLLW of the Gulf of Mexico (see the Methods section for our derivation of MLLW), and the western boundary runs along the dune line where the habitat changes from lightly vegetated, sandy beach to densely vegetated dunes. This subunit does not include bollards within the critical habitat designation, although they may be present within the described area because they are too small to be detected with the mapping methodology used. Most of the land is owned by the State and managed by the GLO. Approximately one-fifth is in private ownership.

It was occupied at the time of listing and is currently occupied. Current occupancy has been confirmed by species experts at least 2 years out of the last 10 years. Habitat in this subunit contains features in the appropriate spatial arrangement that are essential to the conservation of the wintering population of the piping plover, including sand flats with little or no emergent vegetation (PCE 1) and surf-cast algae (PCE 3) for feeding, and unvegetated or sparsely vegetated sandy backbeach and washovers (PCEs 4 and 7) for roosting, sheltering, and feeding.

The PCEs in this subunit may require special management considerations or protections to ameliorate the threats of oil and gas exploration and development; activities associated with residential and commercial development; recreational disturbance of foraging and roosting plovers by humans, vehicles, and domestic animals; increased predation due to recreational use; and modification and loss of habitat due to beach cleaning and nourishment for recreational use. These threats are of greater magnitude at the north end of the subunit, where more roads provide easy access to the PCEs and the subunit is in close proximity to houses. At this time, we are not aware of any management plans that address this species in this area.

Subunit TX-3E: North Padre Island - Mesquite Rincon. This triangular bayside subunit of 9,6238 acres (3,894 hectares) lies on the western shore of the lower Laguna Madre in Kenedy County, Texas. The subunit is generally bounded by Rincon de la Soledad on the southwestern side, Mesquite Rincon on the north, and the GIWW and Rincon de San Jose on the east. The southwestern boundary is an irregular line along the PCEs between the latitude/longitude coordinate points: 26° 44' 10.5” N, 97° 28' 04.5” W at the southeastern point of Rincon de San Jose and 26° 50' 58.1” N, 97° 34' 19.5” W. The northern boundary is the line described between the latitude/longitude coordinate points: 26° 51' 24.2” N, 97° 33' 25.8” W and 26° 51' 24.2” N, 97° 27' 52.7” W. The northern portion of the eastern boundary is the western edge of the GIWW south to latitude/longitude coordinate point 26° 48' 52.7” N, 97° 28' 12.9” W. There the subunit curves westward and skirts a small horseshoe-shaped inlet in the Laguna Madre to the northeastern point of Rincon de San Jose at latitude/longitude coordinate point 26° 48' 43.9” N, 97° 29' 4.7” W. There it continues south in an irregular line along the edge of the PCEs to the southeastern point of Rincon San Jose. Within that boundary (especially the southeastern portion of the subunit and northwestern-running edge), we have excluded from critical habitat designation areas that do not contain PCEs. Those areas appear as holes in the subunit. The map that is included in this rule is at such a large scale that the holes where critical habitat is not designated do not appear in them. However, the GIS coverages that we used to generate the map can be viewed at a finer scale so that the holes where critical habitat is not designated within the subunit boundary can be seen. Those GIS coverages can be accessed at http://criticalhabitat.fws.gov. Most of the land is in private ownership with a small portion that is State-owned and managed by the GLO.

This subunit was occupied at the time of listing and is currently occupied. Current occupancy has been confirmed by species experts at least 2 years out of the last 10 years. This subunit contains PCEs in the appropriate spatial arrangement essential to the conservation of the piping plover including intertidal sand and mud flats with no or very sparse emergent vegetation for feeding (PCE 1), unvegetated or sparsely vegetated sand, or mud flats above high tide for roosting (PCE 2), and sand spits running into the Laguna for foraging and roosting (PCE 5). This subunit also includes unvegetated washover areas with little or no topographic relief for feeding and roosting (PCE 7). This subunit also contains sparse vegetation and little or no topographic relief mimicked in artificial habitat types (e.g., dredge spoil sites) for feeding (PCE 7).

The PCEs in this subunit may require special management considerations or protections to ameliorate the threats of oil and gas exploration and development, including stockpiling materials on sand flats or disposing of dredged material on them, and discharging fresh water across unvegetated tidal flats; activities associated with residential and commercial development; recreational disturbance of foraging and roosting plovers by humans, vehicles, and domestic animals; increased predation due to recreational use; and modification and loss of habitat due to beach cleaning and nourishment for recreational use. At this time, we are not aware of any management plans that address this species in this area.

Unit TX-4: Lower Laguna Madre Mainland

This bayside unit consists of 17,223 ac (6,970 ha) in Cameron and Willacy Counties, Texas, and lies along the western shoreline of the Lower Laguna Madre. The southern boundary is an east-west line at the northern tip of Barclay Island, approximately following latitude 26° 14' 42.2” N. The northern boundary is an east-west line located near the northern tip of El Sauz Island, approximately 1.2 mi (1.9 km) south of the center of the city of Port Mansfield, Willacy County, Texas, and approximately following latitude 26° 32' 7.8” N. The eastern boundary of the unit is the eastern edge of the line of dredge spoils that parallel the western side of the GIWW. The western boundary runs from southeast to northwest and is the western edge of sandy beach and mudflat habitat, approximately following the latitude/longitude coordinate points: latitude/longitude coordinate points: 26° 14' 42.45” N, 97° 19' 32.75” W; 26° 17' 15.54” N, 97° 20' 47.31” W; 26° 20' 10.17” N, 97° 21' 10.94” W; 26° 21' 31.54” N, 97° 22' 48.10” W; 26° 24' 26.64” N, 97° 23' 53.27” W; 26° 26' 8.55” N, 97° 25' 13.33” W; and 26° 32' 5.44” N, 97° 27' 6.91” W. Within that boundary, we have excluded from critical habitat designation areas that do not contain PCEs. Those areas appear as holes in the unit. The map that is included in this rule is at such a large scale that the holes where critical habitat is not designated do not appear in them. However, the GIS coverages that we used to generate the map can be viewed at a finer scale so that the holes where critical habitat is not designated within the unit boundary can be seen. Those GIS coverages can be accessed at http://criticalhabitat.fws.gov.

Approximately one-third of this unit is within the Service's Laguna Atascosa NWR. Approximately half is State-owned and managed by the GLO. The remainder is in private ownership. The Service does not own the subsurface mineral rights beneath the surface of the refuge.

This unit was occupied at the time of listing and is currently occupied. Current occupancy has been confirmed by species experts at least 2 years out of the last 10 years. This unit contains PCEs in the appropriate spatial arrangement essential to the conservation of the piping plover, including intertidal sand and mud flats with no or very sparse emergent vegetation for feeding (PCE 1) and unvegetated or sparsely vegetated sand or mud flats above high tide for roosting (PCE 2). This unit also includes unvegetated washover areas with little or no topographic relief for feeding and roosting (PCE 7). This unit also contains sparse vegetation and little or no topographic relief mimicked in artificial habitat types (e.g., dredge spoil sites) for feeding (PCE 8).

The PCEs in this unit may require special management considerations or protections to ameliorate the threats of oil and gas exploration and development, including stockpiling materials on sand flats or disposing of dredged material on them, and discharging fresh water across unvegetated tidal flats; recreational disturbance of foraging and roosting plovers by humans, vehicles, and domestic animals; and increased predation due to recreational use. Laguna Atascosa NWR is preparing a Comprehensive Conservation Plan (CCP) that should address the wintering population of the piping plover as well as other listed species; however, a draft CCP is not yet available. At this time, we are not aware of any additional management plans that address this species in this area.

Unit TX-7: Newport Pass/Corpus Christi Pass Beach

This unit consists of 294 ac (119 ha) in Nueces County, Texas. It is a gulfside beach unit approximately 5.1-mi (8.2-km) long. The southern boundary is the gulfward extension of Saint Bartholomew Avenue, adjacent to the north end of the seawall. The northern boundary is the edge of the south jetty of the Fish Pass Structure at Mustang Island State Park. The eastern boundary is MLLW of the Gulf of Mexico (see the Methods section for our derivation of MLLW), and the western boundary runs along the dune line where the habitat changes from lightly vegetated, sandy beach to densely vegetated dune. Packery Channel cuts the beach approximately 0.3 mi (0.5 km) north of the south boundary. The seawall, jetty, bollards, and open water of Packery Channel are not within the boundaries of the unit. This unit is in State and private ownership; the State portion is managed by the Mustang Island State Park.

The unit was occupied by piping plovers at the time of listing and is currently occupied. Current occupancy has been confirmed by species experts at least 2 years out of the last 10 years. Habitat in this unit contains PCEs in the appropriate spatial arrangement that are essential to the conservation of the wintering population of the piping plover, including sand flats with little or no emergent vegetation (PCE 1) and surf-cast algae (PCE 3) for feeding, unvegetated or sparsely vegetated sandy backbeach and washovers (PCEs 4 and 7) for roosting, sheltering, and feeding.

The PCEs in this unit may require special management considerations or protections to ameliorate the threats of oil and gas exploration and development, including stockpiling materials on sand flats or disposing of dredged material on them, and discharging fresh water across unvegetated tidal flats; activities associated with residential and commercial development; recreational disturbance of foraging and roosting plovers by humans, vehicles, and domestic animals; increased predation due to recreational use; and modification and loss of habitat due to beach cleaning and nourishment for recreational use. Due to its close proximity to Corpus Christi, this unit receives considerable recreational use and beach cleaning and nourishment. At this time, we are not aware of any management plans that address this species in this area.

Unit TX-8: Mustang Island Beach

This unit consists of 623 ac (252 ha) in Nueces County, Texas. It is a gulfside beach unit approximately 12.5 mi (20.1 km) long. The southern boundary is the edge of the north jetty of the Fish Pass Structure at Mustang Island State Park. The northern boundary is the south side of the Horace Calder Pier in Port Aransas, Texas. The unit is bounded on the east by the MLLW of the Gulf of Mexico (see the Methods section for our derivation of MLLW)) and on the west by the dune line, where the habitat changes from lightly vegetated sandy beach to densely vegetated. The jetty and pier are not within the boundary of the unit. This unit does not include bollards within the critical habitat designation, although they may be present within the described area because they are too small to be detected with the mapping methodology used. The unit is in State and private ownership, with a small municipal park owned and managed by the City of Port Aransas. The State land is managed by the GLO.

The unit was occupied by piping plovers at the time of listing and is currently occupied. Current occupancy has been confirmed by species experts at least 2 years out of the last 10 years. Habitat in this unit contains features in the appropriate spatial arrangement that are essential to the conservation of the wintering population of the piping plover, including sand flats with little or no emergent vegetation (PCE 1) and surf-cast algae (PCE 3) for feeding, and unvegetated or sparsely vegetated sandy backbeach and washovers (PCEs 4 and 7) for roosting, sheltering, and feeding.

The PCEs in this unit may require special management considerations or protections to ameliorate the threats of oil and gas exploration and development activities; activities associated with residential and commercial development; recreational disturbance of foraging and roosting plovers by humans, vehicles, and domestic animals; increased predation due to recreational use; and modification and loss of habitat due to beach cleaning and nourishment for recreational use. Due to its close proximity to Corpus Christi, this unit receives considerable recreational use and beach cleaning and nourishment. At this time, we are not aware of any management plans that address this species in this area.

Unit TX-9: Fish Pass Lagoons

This bayside unit consists of 168 ac (68 ha) in Nueces County, Texas. This unit encompasses flats facing Corpus Christi Bay that extend 1.0 km (0.6 mi) on either side of Fish Pass. The inland boundary is a line of dense vegetation, and the bayside boundary is the northeast edge of the tidal sand flats that are a PCE. This unit includes all areas of habitat that contain PCEs 1, 2, 5, and 6 within the area described by a polygon with the following latitude/longitude coordinate points: 27° 42' 14.63” N, 97° 10' 44.70” W; 27° 41' 56.97” N, 97° 10' 8.13” W; 27° 41' 24.35” N, 97° 10' 36.89” W; 27° 41' 18.98” N, 97° 11' 16.79” W; 27° 41' 23.51” N, 97° 11' 31.32” W and 27° 42' 14.63” N, 97° 10' 44.70” W. Within that polygon, six moderate to large polygons from 5 to 64 ac (2 to 25 ha) each and two small polygons less than 1 ac (0.4 ha) each are PCEs and comprise the unit. Most of the unit is owned by the State and managed by the GLO. A few acres are in private ownership.

This unit was occupied at the time of listing and is currently occupied. Current occupancy has been confirmed by species experts at least 2 years out of the last 10 years. This unit contains PCEs in the appropriate spatial arrangement essential to the conservation of the piping plover, including intertidal sand and/or mud flats with no or very sparse emergent vegetation for feeding (PCE 1), unvegetated or sparsely vegetated sand, or mud flats above high tide for roosting (PCE 2), and sand spits running into the bay for foraging and roosting (PCE 5). This unit also includes unvegetated washover areas with little or no topographic relief for feeding and roosting (PCE 7).

The PCEs in this unit may require special management considerations or protections to ameliorate the threats of oil and gas exploration and development activities; activities associated with residential and commercial development; recreational disturbance of foraging and roosting plovers by humans, vehicles, and domestic animals; and increased predation due to recreational use. At this time, we are not aware of any management plans that address this species in this area.

Unit TX-10: Shamrock Island and Adjacent Mustang Island Flats

Subunit TX-10A: Shamrock Island. This 12-ac (5-ha) island in Nueces County, Texas, was a peninsula extending off of Mustang Island in Corpus Christi Bay until erosion separated the island from the mainland. Five small polygons of sand flats from 1.1 to 6.8 ac (0.4 to 2.7 ha) comprise the subunit. Most of the land is State-owned and managed by the GLO; the remainder is privately owned.

This subunit was occupied at the time of listing and is currently occupied. Current occupancy has been confirmed by species experts at least 2 years out of the last 10 years. This subunit contains PCEs in the appropriate spatial arrangement essential to the conservation of the piping plover including intertidal sand flats with no or very sparse emergent vegetation for feeding (PCE 1) and unvegetated or sparsely vegetated sand flats above high tide for roosting (PCE 2).

The PCEs in this subunit may require special management considerations or protections to ameliorate the threats of oil and gas exploration and development activities; recreational disturbance of foraging and roosting plovers by humans, vehicles, and domestic animals; and increased predation due to recreational use. At this time, we are not aware of any management plans that address this species in this area.

Subunit TX-10B: Mustang Island: Unnamed sand flat. This 2-ac (1-ha) subunit in Nueces County, Texas, is a small, unnamed sand flat near the north edge of the mouth of Wilson's Cut in Corpus Christi Bay. The subunit is the western half of the island that is sand flats landward (easterly) to the western edge of tidal marsh. It is entirely State-owned and managed by the GLO.

This subunit was occupied at the time of listing and is currently occupied. Current occupancy has been confirmed by species experts at least 2 years out of the last 10 years. This subunit contains PCEs in the appropriate spatial arrangement essential to the conservation of the piping plover, including intertidal sand flats with no or very sparse emergent vegetation for feeding (PCE 1) and unvegetated or sparsely vegetated sand flats above high tide for roosting (PCE 2), and sand spits running into the bay for foraging and roosting (PCE 5).

The PCEs in this subunit may require special management considerations or protections to ameliorate the threats of oil and gas exploration and development activities; recreational disturbance of foraging and roosting plovers by humans and domestic animals; and increased predation due to recreational use. The location of the subunit, and the configuration of the polygons of PCEs that comprise this subunit, limit recreational access by vehicles to PCEs 1 and 2. At this time, we are not aware of any management plans that address this species in this area.

Subunit TX-10C: Mustang Island: Lagoon Complex. This 331-ac (134-ha) subunit in Nueces County, Texas, is an extensive lagoon complex that consists of 11 polygons within a larger polygon that extends 2.2 mi (3.5 km) south of Wilson's Cut in Corpus Christi Bay. The southern boundary of the larger polygon begins at the western end at latitude/longitude coordinate point 27° 43' 2,4” N, 97° 10' 19.4” W at the dune line where the habitat changes from lightly vegetated, sandy beach to densely vegetated dunes. It follows the dune line southeast approximately 830 ft (253 m) to a road, then follows the road approximately 945 ft (288 m) to the edge of the tidal sand flat PCE. It follows the southeastern edge of the sand flat northeast to the western edge of a north-south road, where it follows the edge of the sand flat northward to the south edge of a road that runs east-west parallel to the southwestern edge of Wilson's Cut. The northern edge of the boundary is the south edge of the road or the northern extent of the sand flat when it does not reach the road. The western boundary follows the PCEs along their eastern edge at Corpus Christi Bay beginning 409 ft (125 m) southwest of the southwestern edge of Wilson's Cut to the coordinate point at the western edge of the southern boundary. A road transects the larger polygon described above, forming two polygons that exclude the road. The PCEs within the 11 polygons comprise the subunit. Within that boundaries of the 11 polygons, we have excluded from critical habitat designation areas that do not contain PCEs. Those areas appear as holes in the polygons that comprise the subunit. The map that is included in this rule is at such a large scale that the holes where critical habitat is not designated do not appear in them. However, the GIS coverages that we used to generate the map can be viewed at a finer scale so that the holes where critical habitat is not designated within the subunit boundaries can be seen. Those GIS coverages can be accessed at http://criticalhabitat.fws.gov. The subunit consists of private and State-owned lands.

This subunit was occupied at the time of listing and is currently occupied. Current occupancy has been confirmed by species experts at least 2 years out of the last 10 years. This subunit contains PCEs in the appropriate spatial arrangement essential to the conservation of the piping plover including intertidal sand flats with no or very sparse emergent vegetation for feeding (PCE 1) and unvegetated or sparsely vegetated sand flats above high tide for roosting (PCE 2).

The PCEs in this subunit may require special management considerations or protections to ameliorate the threats of oil and gas exploration and development, including stockpiling materials on sand flats or disposing of dredged material on them, and discharging fresh water across unvegetated tidal flats; activities associated with residential and commercial development; recreational disturbance of foraging and roosting plovers by humans, vehicles, and domestic animals; increased predation due to recreational use; and modification and loss of habitat due to uncontrolled recreational access and beach cleaning and stabilization efforts. Road access to the PCEs is extensive. At this time, we are not aware of any management plans that address this species in this area.

Unit TX-14: East Flats

This bayside unit consists of 591 ac (239 ha) in Nueces County, Texas. It is an irregularly shaped intertidal sand flat south of the Corpus Christi Ship Channel. The north boundary is the northern edge of the sand flat near or adjacent to dredge spoil areas bordering the south side of the Corpus Christi Ship Channel. The northwestern latitude/longitude coordinate is 27° 49' 54.49” N, 97° 6' 14.28” W, and the northeastern latitude/longitude coordinate is 27° 49' 55.29” N, 97° 5' 12.86” W. From there, the sand flat curves southward, and the southeastern edge of it forms a highly irregular line that ends in the southwest portion of the polygon at the eastern edge of a navigation channel from the Corpus Christi Ship Channel to Corpus Christi Bay at latitude/longitude coordinate 51.93” N, 97° 5' 52.58” W. The sand flat continues on the western edge of the navigation channel in a northwesterly direction to latitude/longitude coordinate 27° 49' 22.08” N, 97° 6' 37.04” W. It then curves northeasterly and across the cut to the northern edge at the northwest coordinate. On the east, it abuts the City of Port Aransas. There is a small marshland within the sand flat that bisects the sand flat that is not a PCE and is not included in the unit. The unit is mostly in private ownership, with a small portion of State land managed by the GLO.

This unit was occupied at the time of listing and is currently occupied. Current ocupancy has been confirmed by species experts at least 2 years out of the last 10 years. This unit contains PCEs in the appropriate spatial arrangement essential to the conservation of the piping plover, including intertidal sand and mud flats with no or very sparse emergent vegetation for feeding (PCE 1) and unvegetated or sparsely vegetated sand flats above high tide for roosting (PCE 2).

The PCEs in this unit may require special management considerations or protections to ameliorate the threats of activities associated with residential and commercial development; recreational disturbance of foraging and roosting plovers by humans, vehicles, and domestic animals; and increased predation due to recreational use. At this time, we are not aware of any management plans that address this species in this area.

Unit TX-15: North Pass

This bayside unit consists of 805 ac (326 ha) in Aransas County, Texas. The unit is bounded on the northeast by a line between latitude/longitude coordinates 27° 54' 8.70” N, 97° 0' 36.97” W and 27° 54' 54.53” N, 97° 1' 18.17” W, on the northwest and west by the edge of tidal sand flats in Aransas Bay, on the south by a line running east from coordinate 27° 53' 16.96” N, 97° 2' 22.44” W to unit TX-16, and on the southeast by the landward boundary of unit 16. The unit is all areas that contain the PCEs for the species within a larger area described by a polygon with the following sets of latitude/longitude coordinate points: 27° 54' 8.70” N, 97° 0' 36.97” W; 27° 53' 10.68” N, 97° 1' 21.36” W; 27° 53' 16.96” N, 97° 2' 22.44” W; 27° 53' 33.08” N, 97° 2' 33.05” W; 27° 54' 42.68” N, 97° 2' 4.83” W; 27° 54' 47.59” N, 97° 1' 51.73” W; 27° 54' 54.53” N, 97° 1' 18.17” W and 27° 54' 8.70” N, 97° 0' 36.97” W. Within that boundary, we have excluded from critical habitat designation areas that do not contain PCEs. Those areas appear as holes in the unit. The map that is included in this rule is at such a large scale that the holes where critical habitat is not designated do not appear in them. However, the GIS coverages that we used to generate the map can be viewed at a finer scale, so that the holes where critical habitat is not designated within the unit boundary can be seen. Those GIS coverages can be accessed at http://criticalhabitat.fws.gov.

This unit is a remnant of a hurricane washover on San Jose Island. Approximately 18 percent is State-owned and managed by the GLO; the remainder is in private ownership.

This unit was occupied at the time of listing and is currently occupied. Current occupancy has been confirmed by species experts at least 2 years out of the last 10 years. This unit contains PCEs in the appropriate spatial arrangement essential to the conservation of the piping plover, including intertidal sand flats with no or very sparse emergent vegetation for feeding (PCE 1) and unvegetated or sparsely vegetated sand flats above high tide for roosting (PCE 2). This subunit also includes unvegetated washover areas with little or no topographic relief for feeding and roosting (PCE 7).

The PCEs in this unit may require special management considerations or protections to ameliorate the threats of activities associated with residential and commercial development; recreational disturbance of foraging and roosting plovers by humans, vehicles, and domestic animals; and increased predation due to recreational use. At this time, we are not aware of any management plans that address this species in this area.

Unit TX-16: San Jose Beach

This unit consists of 1,378 ac (558 ha) in Aransas County, Texas. It is a gulfside beach unit approximately 19.8 mi (31.9 km) long. The southern boundary is the edge of the north jetty of Aransas Pass. The jetty is not within the boundary of the unit. The south edge of Cedar Bayou Pass is the northern boundary. The eastern boundary is the MLLW of the Gulf of Mexico (see the Methods section for our derivation of MLLW), and the western boundary runs along the dune line where the habitat changes from lightly vegetated, sandy beach to densely vegetated dunes. This unit does not include bollards within the critical habitat designation, although they may be present within the described area because they are too small to be detected with the mapping methodology used. A small section is in Federal ownership and managed by the Service's Matagorda Island NWR. The Service does not own the subsurface mineral rights. Approximately half of the unit is State-owned and managed by the GLO, and nearly as much is in private ownership.

The unit was occupied by piping plovers at the time of listing and is currently occupied. Current occupancy has been confirmed by species experts at least 2 years out of the last 10 years. Habitat in this unit contains features in the appropriate spatial arrangement that are essential to the conservation of the wintering population of the piping plover, including sand flats with little or no emergent vegetation (PCE 1) and surf-cast algae (PCE 3) for feeding, and unvegetated or sparsely vegetated sandy backbeach and washovers (PCEs 4 and 7) for roosting, sheltering, and feeding.

The PCEs in this unit may require special management considerations or protections to ameliorate the threats of oil and gas exploration and development, including stockpiling materials on sand flats or disposing of dredged material on them, and discharging fresh water across unvegetated tidal flats; recreational disturbance of foraging and roosting plovers by humans, vehicles, and domestic animals; and increased predation due to recreational use. The refuge is preparing a CCP that should address the wintering population of the piping plover as well as other listed species; however, the CCP is not yet available. At this time, we are not aware of any management plans that address this species in this area.

Unit TX-18: Cedar Bayou/Vinson Slough

This bayside unit consists of 2,465 ac (998 ha) in Aransas County, Texas. It is a remnant of a hurricane washover area and includes the highly dynamic area of Cedar Bayou, the pass that separates San Jose Island and Matagorda Island. Beginning at the confluence of Vinson Slough and Cedar Bayou, the boundary follows the shore of Spalding Cove to Long Reef, then continues along a line extending 2.5 miles southwest of Long Reef to the shore of San Jose Island, then along the shore of the island to the landward boundary of Unit TX-16. Within that area, the unit consists of numerous polygons of PCEs; areas that are not PCEs within the described area are not within the boundaries of the unit. Those areas appear as holes in the unit. The map that is included in this rule is at such a large scale that the holes where critical habitat is not designated do not appear in them. However, the GIS coverages that we used to generate the map can be viewed at a finer scale so that the holes where critical habitat is not designated within the unit boundary can be seen. Those GIS coverages can be accessed at http://criticalhabitat.fws.gov. The southern and southeastern boundary of the unit is described by a line with the following sets of latitude/longitude coordinate points: 28° 1' 21.76” N, 96° 57' 51.24” W; 28° 1' 12.77” N, 96° 57' 31.18” W; 28° 2' 3.07” N, 96° 56' 45.84” W; 28° 2' 15.92” N, 96° 56' 25.10” W; 28° 2' 30.32” N, 96° 56' 11.97” W; 28° 3' 15.62” N, 96° 54' 20.01” W; 28° 3' 58.58” N, 96° 53' 24.65” W; 28° 4' 1.15” N, 96° 52' 14.65” W; 28° 3' 31.74” N, 96° 51' 38.29” W and 28° 3' 17.69” N, 96° 51' 38.47” W. The specific northern boundary is described by a line with the following sets of latitude/longitude coordinate points: 28° 5' 44.24” N, 96° 54' 8.16” W; 28° 5' 13.23” N, 96° 52' 44.85” W; 28° 4' 33.99” N, 96° 50' 46.55” W; 28° 4' 38.92” N, 96° 50' 40.79” W and 28° 4' 22.98” N, 96° 50' 22.94” W. The eastern boundary at the northeastern end of the unit is units TX-16 and TX-19 on the gulfside. The western boundary is the western edge of tidal sand flats in Aransas Bay.

This area includes a small section of federally owned land managed by the Service's Matagorda Island NWR and a small section of State-owned land. The remaining area is privately owned. The Service does not own the subsurface mineral rights beneath the NWR.

This unit was occupied at the time of listing and is currently occupied. Current occupancy has been confirmed by species experts at least 2 years out of the last 10 years. This unit contains PCEs in the appropriate spatial arrangement essential to the conservation of the piping plover including intertidal sand flats with no or very sparse emergent vegetation for feeding (PCE 1), unvegetated or sparsely vegetated sand flats above high tide for roosting (PCE 2), and sand spits running into the bay for foraging and roosting (PCE 5). This unit also includes unvegetated washover areas with little or no topographic relief for feeding and roosting (PCE 7).

The PCEs in this unit may require special management considerations or protections to ameliorate the threats oil and gas exploration and development activities; recreational disturbance of foraging and roosting plovers by humans, vehicles, and domestic animals; increased predation due to recreational use. Vehicle use of the unit may be limited somewhat by accessibility. The refuge is preparing a CCP that should address the wintering population of the piping plover as well as other listed species; however, the CCP is not yet available. At this time, we are not aware of any additional management plans that address this species in this area.

Unit TX-19: Matagorda Island Beach

This unit consists of 2,413 ac (976 ha) in Calhoun County, Texas. It is a gulfside beach unit approximately 37.1 mi (59.7 km) long. The southern boundary is the northern edge of Cedar Bayou Pass, and the northern boundary is the southern edge of Pass Cavallo. At Pass Cavallo, the unit curves from the eastern gulfside passing between the south edge of the pass and the north edge of the dunes to a small area on the bayside. The eastern boundary is the MLLW of the Gulf of Mexico (see the Methods section for our derivation of MLLW), and the western boundary runs along the dune line where the habitat changes from lightly vegetated, sandy beach to densely vegetated dunes. This unit does not include bollards within the critical habitat designation, although they may be present within the described area because they are too small to be detected with the mapping methodology used. The federally owned land in this unit is managed by the Service's Matagorda Island NWR, which does not own the subsurface mineral rights. This unit also includes a small section of land in State ownership.

The unit was occupied by piping plovers at the time of listing and is currently occupied. Current occupancy has been confirmed by species experts at least 2 years out of the last 10 years. Habitat in this unit contains features in the appropriate spatial arrangement that are essential to the conservation of the wintering population of the piping plover, including sand flats with little or no emergent vegetation (PCE 1) and surf-cast algae (PCE 3) for feeding, and unvegetated or sparsely vegetated sandy backbeach and washovers (PCEs 4 and 7) for roosting, sheltering, and feeding.

The PCEs in this unit may require special management considerations or protections to ameliorate the threats of recreational disturbance of foraging and roosting plovers by humans, vehicles, and domestic animals; increased predation due to recreational use; and access by refuge staff and others for sea turtle monitoring efforts. The refuge is preparing a CCP that should address the wintering population of the piping plover as well as other listed species; however, a CCP is not yet available. At this time, we are not aware of any additional management plans that address this species in this area.

Unit TX-22: Decros Point

This unit consists of 544 ac (220 ha) at the Matagorda/Calhoun County line, in Texas. It is a gulfside beach unit approximately 4.8 mi (7.7 km) long that wraps around to the bayside. This unit was originally the southern tip of the Matagorda Peninsula. It was made into an island by the dredging of the Matagorda Ship Channel, the edge of which is the northern boundary of the unit. The unit is horseshoe in shape with the east side along the Gulf of Mexico and the west side along Matagorda Bay; the two are connected at their southern boundary by habitat from the north edge of Pass Cavallo northward to the dune line. Densely vegetated sand dunes run north to south in the center of the horseshoe and are not within the boundary of the critical habitat because they are not a PCE. The eastern boundary is the MLLW of the Gulf of Mexico (see the Methods section for our derivation of MLLW), and the western boundary is the western edge of tidal sand flats on the east side of Matagorda Bay. Within the bayside of the boundary, we have excluded from critical habitat designation areas that do not contain PCEs. Those areas appear as holes in the unit. The map that is included in this rule is at such a large scale that the holes where critical habitat is not designated do not appear in them. However, the GIS coverages that we used to generate the map can be viewed at a finer scale so that the holes where critical habitat is not designated within the unit boundary can be seen. Those GIS coverages can be accessed at http://criticalhabitat.fws.gov. This unit does not include bollards within the critical habitat designation, although they may be present within the described area because they are too small to be detected with the mapping methodology used.

Approximately 60 percent of the unit is in State ownership managed by the GLO. The remainder is privately owned.

The unit was occupied by piping plovers at the time of listing and is currently occupied. Current occupancy has been confirmed by species experts at least 2 years out of the last 10 years. Habitat in this unit contains features in the appropriate spatial arrangement that are essential to the conservation of the wintering population of the piping plover, including sand flats with little or no emergent vegetation (PCE 1) and surf-cast algae (PCE 3) for feeding, and unvegetated or sparsely vegetated sandy backbeach (PCE 4) for roosting and sheltering.

The PCEs in this unit may require special management considerations or protections to ameliorate the threats of oil and gas exploration and development activities; recreational disturbance of foraging and roosting plovers by humans, vehicles, and domestic animals; and increased predation due to recreational use. Due to a lack of road access, this unit does not receive much recreational vehicle use. At this time, we are not aware of any management plans that address this species in this area.

Unit TX-23: West Matagorda Peninsula Beach

This unit consists of 1,808 ac (732 ha) of shoreline in Matagorda County, Texas. It is a gulfside beach unit approximately 23.9 mi (38.5 km) long. The southern boundary is the northern jetty of the Matagorda Ship Channel. The northern boundary is the Old Colorado River channel. The MLLW of the Gulf of Mexico (see the Methods section for our derivation of MLLW) is the eastern boundary, and the western boundary runs along the dune line where the habitat changes from lightly vegetated, sandy beach to densely vegetated dunes. This unit does not include bollards within the critical habitat designation, although they may be present within the described area because they are too small to be detected with the mapping methodology used. Just under half of the unit is State-owned and managed by the GLO; the remainder is privately owned.

The unit was occupied by piping plovers at the time of listing and is currently occupied. Current occupancy has been confirmed by species experts at least 2 years out of the last 10 years. Habitat in this unit contains features in the appropriate spatial arrangement that are essential to the conservation of the wintering population of the piping plover, including sand flats with little or no emergent vegetation (PCE 1) and surf-cast algae (PCE 3) for feeding, and unvegetated or sparsely vegetated sandy backbeach and washovers (PCEs 4 and 7) for roosting, sheltering, and feeding.

The PCEs in this unit may require special management considerations or protections to ameliorate the threats of oil and gas exploration and development, including stockpiling materials on sand flats or disposing of dredged material on them, and discharging fresh water across unvegetated tidal flats; activities associated with residential and commercial development; recreational disturbance of foraging and roosting plovers by humans, vehicles, and domestic animals; and increased predation due to recreational use. At this time, we are not aware of any management plans that address this species in this area.

Unit TX-27: East Matagorda Bay/Matagorda Peninsula Beach West

This unit consists of 905 ac (366 ha) of shoreline in Matagorda County, Texas. It is a gulfside beach unit approximately 14.1 mi (22.8 km) long. The southwestern boundary is the northeastern edge of the Old Colorado River channel. The unit runs along the beach 14 mi (23 km) to the northeastern boundary opposite Eidelbach Flats described by a line between the latitude/longitude coordinate points: 28° 41' 2.26” N, 95° 46' 29.04”W and 28° 41' 6.74” N, 95° 46' 32.46” W. The southeastern boundary is the MLLW of the Gulf of Mexico (see the Methods section for our derivation of MLLW). The northwestern boundary runs along the dune line, where the habitat changes from lightly vegetated sandy beach to densely vegetated dunes. This unit does not include bollards within the critical habitat designation, although they may be present within the described area because they are too small to be detected with the mapping methodology used. Just over half of the unit is State-owned and managed by the GLO; the remainder is privately owned.

The unit was occupied by piping plovers at the time of listing and is currently occupied. Current occupancy has been confirmed by species experts at least 2 years out of the last 10 years. Habitat in this unit contains features in the appropriate spatial arrangement that are essential to the conservation of the wintering population of the piping plover, including sand flats with little or no emergent vegetation (PCE 1) and surf-cast algae (PCE 3) for feeding, and unvegetated or sparsely vegetated sandy backbeach and washovers (PCEs 4 and 7) for roosting, sheltering, and feeding.

The PCEs in this unit may require special management considerations or protections to ameliorate the threats of oil and gas exploration and development, including stockpiling materials on sand flats or disposing of dredged material on them, and discharging fresh water across unvegetated tidal flats; recreational disturbance of foraging and roosting plovers by humans, vehicles, and domestic animals; and increased predation due to recreational use. At this time, we are not aware of any management plans that address this species in this area.

Unit TX-28: East Matagorda Bay/Matagorda Peninsula Beach East

This gulfside unit consists of 481 ac (194 ha) in Matagorda County, Texas. It extends along the Gulf beach southwest and northeast of Brown Cedar Cut. The cut is not within the boundary of the unit. This unit abuts portions of the southeastern edges of units TX-29 and TX-30, which are on the East Matagorda Bay side. The southwestern boundary is approximately 4 mi (6.5 km) southwest of Brown Cedar Cut at a line described by the following sets of latitude/longitude coordinate points: 28° 43' 11.91”N, 95° 42' 25.47”W and 28° 43' 17.09”N, 95° 42' 28.56”W. The northeastern boundary is approximately 2.8 mi (4.5 km) northeast of Brown Cedar Cut to the point where Texas Farm to Market Road 457 intersects the beach. The southeastern boundary is the MLLW of the Gulf of Mexico (see the Methods section for our derivation of MLLW). The northwestern boundary runs along the dune line where the habitat changes from lightly vegetated, sandy beach to densely vegetated dunes. This unit does not include bollards within the critical habitat boundaries, although they may be present within the described area because they are too small to be detected with the mapping methodology used. Approximately one-third is in State ownership and managed by the GLO; the remaining two-thirds is privately owned.

The unit was occupied by piping plovers at the time of listing and is currently occupied. Current occupancy has been confirmed by species experts at least 2 years out of the last 10 years. Habitat in this unit contains features in the appropriate spatial arrangement that are essential to the conservation of the wintering population of the piping plover including sand flats with little or no emergent vegetation (PCE 1) and surf-cast algae (PCE 3) for feeding, and unvegetated or sparsely vegetated sandy backbeach and washovers (PCEs 4 and 7) for roosting, sheltering, and feeding.

The PCEs in this unit may require special management considerations or protections to ameliorate the threats of oil and gas exploration and development, including stockpiling materials on sand flats or disposing of dredged material on them, and discharging fresh water across unvegetated tidal flats; activities associated with residential and commercial development; recreational disturbance of foraging and roosting plovers by humans, vehicles, and domestic animals; and increased predation due to recreational use. At this time, we are not aware of any management plans that address this species in this area.

Unit TX-31: San Bernard NWR Beach

This gulfside unit consists of 401 ac (162 ha) in Matagorda and Brazoria Counties, Texas. It is a 6.2-mi (10-km) segment of beach on the Gulf of Mexico near the mouth of the San Bernard River. The northeastern boundary is at the southwestern edge of the mouth of the San Bernard River. The southwestern boundary follows a line described by the following sets of latitude/longitude coordinate points: 28° 47' 54.39” N, 95° 33' 26.21” W, and 28° 47' 57.69” N, 95° 33' 27.75” W. The southeastern boundary is the MLLW of the Gulf of Mexico (see the Methods section for our derivation of MLLW). The northwestern boundary runs along the dune line, where the habitat changes from lightly vegetated, sandy beach to densely vegetated dunes. There is a cut through the beach from the Gulf of Mexico to a lake 3.5 mi (5.6 km) southwest of the San Bernard River, which is not within the unit. Bollards also are not within the critical habitat designation, although they may be present within the described area because they are too small to be detected with the mapping methodology used. Approximately 30 percent of this unit is in Federal ownership and managed by the Service's San Bernard NWR, which does not own the subsurface mineral rights. Approximately 48 percent is State-owned and managed by the GLO with the remaining area in private ownership.

The unit was occupied by piping plovers at the time of listing and is currently occupied. Current occupancy has been confirmed by species experts at least 2 years out of the last 10 years. Habitat in this unit contains features in the appropriate spatial arrangement that are essential to the conservation of the wintering population of the piping plover, including sand flats with little or no emergent vegetation (PCE 1) and surf-cast algae (PCE 3) for feeding, and unvegetated or sparsely vegetated sandy backbeach and washovers (PCEs 4 and 7) for roosting, sheltering, and feeding.

The PCEs in this unit may require special management considerations or protections to ameliorate the threats of oil and gas exploration and development, including stockpiling materials on sand flats or disposing of dredged material on them, and discharging fresh water across unvegetated tidal flats; activities associated with residential and commercial development; recreational disturbance of foraging and roosting plovers by humans, vehicles, and domestic animals; and increased predation due to recreational use. The federally owned portion has pedestrian recreational access, but no vehicle access. The refuge is preparing a CCP that should address the wintering population of the piping plover as well as other listed species; however, a CCP is not yet available. At this time, we are not aware of any additional management plans that address this species in this area.

Unit TX-32: Gulf Beach Between Brazos and San Bernard Rivers

This gulfside unit consists of 556 ac (225 ha) of shoreline in Brazoria County, Texas. This unit is a 6.1-mi (9.8-km) segment of beach on the Gulf of Mexico between the mouths of the San Bernard and Brazos Rivers. The southwestern boundary is the northeastern edge of the mouth of the San Bernard River. The northeastern boundary is the western edge of the mouth of the Brazos River. The southeastern boundary is the MLLW of the Gulf of Mexico (see the Methods section for our derivation of MLLW). The northwestern boundary runs along the dune line, where the habitat changes from lightly vegetated, sandy beach to densely vegetated dunes. This unit does not include bollards within the critical habitat designation, although they may be present within the described area because they are too small to be detected with the mapping methodology used. It is entirely in State ownership and managed by the GLO.

The unit was occupied by piping plovers at the time of listing and is currently occupied. Current occupancy has been confirmed by species experts at least 2 years out of the last 10 years. Habitat in this unit contains features in the appropriate spatial arrangement that are essential to the conservation of the wintering population of the piping plover, including sand flats with little or no emergent vegetation (PCE 1) and surf-cast algae (PCE 3) for feeding, and unvegetated or sparsely vegetated sandy backbeach and washovers (PCEs 4 and 7) for roosting, sheltering, and feeding.

The PCEs in this unit may require special management considerations or protections to ameliorate the threats of recreational disturbance of foraging and roosting plovers by humans and domestic animals; and increased predation due to recreational use. At this time, we are not aware of any management plans that address this species in this area.

Unit TX-33: Bryan Beach and Adjacent Beach

This unit consists of 211 ac (85 ha) in Brazoria County, Texas. It is gulfside beach approximately 3.5 mi (5.7 km) in length on the Gulf of Mexico near the mouth of the Brazos River. The southwestern boundary is the northeastern edge of the Brazos River. The northeastern boundary is Farm-to-Market Road 1495 (Bryan Beach Rd). The southeastern boundary is the MLLW (see the Methods section for our derivation of MLLW). The northwestern boundary follows along the dune line where the habitat changes from lightly vegetated, sandy beach to densely vegetated dunes. This unit does not include bollards within the critical habitat designation, although they may be present within the described area because they are too small to be detected with the mapping methodology used. The unit is entirely in State ownership and managed by the Texas Department of Parks and Wildlife.

The unit was occupied by piping plovers at the time of listing and is currently occupied. Current occupancy has been confirmed by species experts at least 2 years out of the last 10 years. Habitat in this unit contains features in the appropriate spatial arrangement that are essential to the conservation of the wintering population of the piping plover, including sand flats with little or no emergent vegetation (PCE 1) and surf-cast algae (PCE 3) for feeding, and unvegetated or sparsely vegetated sandy backbeach and washovers (PCEs 4 and 7) for roosting, sheltering, and feeding.

The PCEs in this unit may require special management considerations or protections to ameliorate the threats of recreational disturbance of foraging and roosting plovers by humans, vehicles, and domestic animals; and increased predation due to recreational use. At this time, we are not aware of any management plans that address this species in this area.

Effects of Critical Habitat Designation

Section 7 Consultation

Section 7 of the Act requires Federal agencies, including the Service, to ensure that actions they fund, authorize, or carry out are not likely to destroy or adversely modify critical habitat. Decisions by the 5th and 9th Circuit Courts of Appeals have invalidated our definition of “destruction or adverse modification” (50 CFR 402.02) (see Gifford Pinchot Task Force v. U. S. Fish and Wildlife Service, 378 F.3d 1059 (9th Cir. 2004) and Sierra Club v. U.S. Fish and Wildlife Service et al., 245 F.3d 434, 442 (5th Cir. 2001)), and we do not rely on this regulatory definition when analyzing whether an action is likely to destroy or adversely modify critical habitat. Under the statutory provisions of the Act, we determine destruction or adverse modification on the basis of whether, with implementation of the proposed Federal action, the affected critical habitat would remain functional (or retain the current ability for the PCEs to be functionally established) to serve its intended conservation role for the species.

If a species is listed or critical habitat is designated, section 7(a)(2) of the Act requires Federal agencies to ensure that activities they authorize, fund, or carry out are not likely to jeopardize the continued existence of the species or to destroy or adversely modify its critical habitat. If a Federal action may affect a listed species or its critical habitat, the responsible Federal agency (action agency) must enter into consultation with us. As a result of this consultation, we document compliance with the requirements of section 7(a)(2) through our issuance of:

(1) A concurrence letter for Federal actions that may affect, but are not likely to adversely affect, listed species or critical habitat; or

(2) A biological opinion for Federal actions that are likely to adversely affect, listed species or critical habitat.

When we issue a biological opinion concluding that a project is likely to jeopardize the continued existence of a listed species or destroy or adversely modify critical habitat, we also provide reasonable and prudent alternatives to the project, if any are identifiable. We define “Reasonable and prudent alternatives” at 50 CFR 402.02 as alternative actions identified during consultation that:

• Can be implemented in a manner consistent with the intended purpose of the action,

• Can be implemented consistent with the scope of the Federal agency's legal authority and jurisdiction,

• Are economically and technologically feasible, and

• Would, in the Director's opinion, avoid jeopardizing the continued existence of the listed species or destroying or adversely modifying critical habitat.

Reasonable and prudent alternatives can vary from slight project modifications to extensive redesign or relocation of the project. Costs associated with implementing a reasonable and prudent alternative are similarly variable.

Regulations at 50 CFR 402.16 require Federal agencies to reinitiate consultation on previously reviewed actions in instances where we have listed a new species or subsequently designated critical habitat that may be affected and the Federal agency has retained discretionary involvement or control over the action (or the agency's discretionary involvement or control is authorized by law). Consequently, Federal agencies may sometimes need to request reinitiation of consultation with us on actions for which formal consultation has been completed, if those actions with discretionary involvement or control may affect subsequently listed species or designated critical habitat.

Federal activities that may affect the wintering population of the piping plover or its designated critical habitat will require consultation under section 7(a)(2) of the Act. Activities on State, tribal, local or private lands requiring a Federal permit (such as a permit from the U.S. Army Corps of Engineers under section 404 of the Clean Water Act (33 U.S.C. 1251 et seq.) or a permit from us under section 10(a)(1)(B) of the Act) or involving some other Federal action (such as funding from the Federal Highway Administration, Federal Aviation Administration, or the Federal Emergency Management Agency) are subject to the section 7(a)(2) consultation process. Federal actions not affecting listed species or critical habitat, and actions on State, tribal, local or private lands that are not federally funded, authorized, or permitted, do not require section 7(a)(2) consultations.

Application of the Adverse Modification Standard

The key factor related to the adverse modification determination is whether, with implementation of the proposed Federal action, the affected critical habitat would continue to serve its intended conservation role for the species, or retain those PCEs that relate to the ability of the area to periodically support the species. Activities that may destroy or adversely modify critical habitat are those that alter the physical and biological features to an extent that appreciably reduces the conservation value of critical habitat for the piping plover. Generally, the conservation role of piping plover critical habitat units is to support viable core area populations.

Section 4(b)(8) of the Act requires us to briefly evaluate and describe, in any proposed or final regulation that designates critical habitat, activities involving a Federal action that may destroy or adversely modify such habitat, or that may be affected by such designation.

Activities that, when carried out, funded, or authorized by a Federal agency, may affect critical habitat and therefore should result in consultation for the wintering population of the piping plover are identified in our original rule designating critical habitat published in the Federal Register on July 10, 2001 (66 FR 36038). These activities include, but are not limited to:

(1) Actions, such as excessive beach nourishment, that would significantly and detrimentally alter the hydrology of tidal mud and sand flats.

(2) Actions, such as filling from oil and gas activities, that would significantly and detrimentally alter the input of sediments and nutrients necessary for the maintenance of beach-shaping and biologic processes that ensure appropriately configured and productive beach systems.

(3) Actions that would introduce significant amounts of emergent vegetation (either through actions such as marsh restoration on naturally unvegetated sites, or through changes in hydrology such as severe rutting or changes in storm or wastewater discharges).

(4) Actions that would significantly and detrimentally alter the topography of a site (such alteration may affect the hydrology of an area or may render an area unsuitable for roosting).

(5) Actions that would reduce the value of a site by significantly disturbing plovers from activities such as foraging and roosting (including levels of human presence significantly greater than those currently experienced).

(6) Actions that would significantly and detrimentally alter water quality, which may lead to decreased diversity or productivity of invertebrate organisms for food or may have direct detrimental effects on piping plovers (as in the case of an oil spill).

(7) Actions, such as excessive beach nourishment, that would impede natural processes that create and maintain washover passes and sparsely vegetated intertidal feeding habitats.

We consider all of the units designated as critical habitat to contain features essential to the conservation of the wintering population of the piping plover in Texas. All units are within the geographic range of the species, all are occupied by the species and are likely to be used by the wintering population of the piping plover. Under section 7 of the Act, Federal agencies already consult with us on activities in areas currently occupied by the piping plover, or if the species may be affected by the action, the consultation is to ensure that their actions do not jeopardize the continued existence of the piping plover.

Exemptions

Application of Section 4(a)(3) of the Act

The Sikes Act Improvement Act of 1997 (Sikes Act) (16 U.S.C. 670a) required each military installation that includes land and water suitable for the conservation and management of natural resources to complete an integrated natural resource management plan (INRMP) by November 17, 2001. An INRMP integrates implementation of the military mission of the installation with stewardship of the natural resources found on the base. Each INRMP includes:

• An assessment of the ecological needs on the installation, including the need to provide for the conservation of listed species;

• A statement of goals and priorities;

• A detailed description of management actions to be implemented to provide for these ecological needs; and

• A monitoring and adaptive management plan.

Among other things, each INRMP must, to the extent appropriate and applicable, provide for fish and wildlife management; fish and wildlife habitat enhancement or modification; wetland protection, enhancement, and restoration where necessary to support fish and wildlife; and enforcement of applicable natural resource laws.

The National Defense Authorization Act for Fiscal Year 2004 (Pub. L. 108-136) amended the Act to limit areas eligible for designation as critical habitat. Specifically, section 4(a)(3)(B)(i) of the Act (16 U.S.C. 1533(a)(3)(B)(i)) now provides: “The Secretary shall not designate as critical habitat any lands or other geographical areas owned or controlled by the Department of Defense, or designated for its use, that are subject to an integrated natural resources management plan prepared under section 101 of the Sikes Act (16 U.S.C. 670a), if the Secretary determines in writing that such plan provides a benefit to the species for which critical habitat is proposed for designation.”

There are no Department of Defense lands with a completed INRMP within the proposed critical habitat designation. As a result, we are not exempting DOD lands from this designation of critical habitat.

Exclusions

Application of Section 4(b)(2) of the Act

Section 4(b)(2) of the Act states that the Secretary must designate and revise critical habitat on the basis of the best available scientific data after taking into consideration the economic impact, national security impact, and any other relevant impact of specifying any particular area as critical habitat. The Secretary may exclude an area from critical habitat if he determines that the benefits of such exclusion outweigh the benefits of specifying such area as part of the critical habitat, unless he determines, based on the best scientific data available, that the failure to designate such area as critical habitat will result in the extinction of the species. In making that determination, the legislative history is clear that the Secretary has broad discretion regarding which factor(s) to use and how much weight to give to any factor.

Under section 4(b)(2) of the Act, we may exclude an area from designated critical habitat based on economic impacts, impacts on national security, or any other relevant impacts. In considering whether to exclude a particular area from the designation, we must identify the benefits of including the area in the designation, identify the benefits of excluding the area from the designation, and determine whether the benefits of exclusion outweigh the benefits of inclusion. If based on this analysis, we make this determination, then we can exclude the area only if such exclusion would not result in the extinction of the species.

Exclusions Based on Economic Impacts

Under section 4(b)(2) of the Act, we consider the economic impacts of specifying any particular area as critical habitat. In order to consider economic impacts, we prepared a draft economic analysis, which we made available for public review on December 9, 2008 (73 FR 74675), based on the May 20, 2008, proposed rule (73 FR 29294). We accepted comments on the draft analysis until January 8, 2009. Following the close of the comment period, a final analysis of the potential economic effects of the designation was developed taking into consideration the public comments and any new information.

The intent of the final economic analysis (FEA) is to quantify the economic impacts of all potential conservation efforts for the wintering population of the piping plover in Texas; some of these costs will likely be incurred regardless of whether we designate critical habitat (baseline). The economic impact of the final critical habitat designation is analyzed by comparing scenarios both “with critical habitat” and “without critical habitat.” The “without critical habitat” scenario represents the baseline for the analysis, considering protections already in place for the species (e.g., under the Federal listing and other Federal, State, and local regulations). The baseline, therefore, represents the costs incurred regardless of whether critical habitat is designated. The “with critical habitat” scenario describes the incremental impacts associated specifically with the designation of critical habitat for the species. The incremental conservation efforts and associated impacts are those not expected to occur absent the designation of critical habitat for the species. In other words, the incremental costs are those attributable solely to the designation of critical habitat above and beyond the baseline costs; these are the costs we consider in the final designation of critical habitat. The analysis looks retrospectively at baseline impacts incurred since the species was listed, and forecasts both baseline and incremental impacts likely to occur with the designation of critical habitat.

Consistent with the Court's order in Cape Hatteras Access Preservation Alliance, the FEA also estimates the foreseeable economic impacts of conservation measures associated with the revised designation of critical habitat for the wintering population of the piping plover in Texas on government agencies, private businesses, and individuals (incremental costs). The FEA addressed four main types of activities: Oil and gas development, residential and commercial development, recreation, and marine construction.

The FEA considers the economic efficiency effects that may result from the revised designation. In the case of habitat conservation, efficiency effects generally reflect the “opportunity costs”' associated with the commitment of resources to comply with habitat protection measures (such as lost economic opportunities associated with restrictions on oil and gas development). It also addresses how potential economic impacts are likely to be distributed, including an assessment of any local or regional impacts of habitat conservation and the potential effects of conservation activities on government agencies, private businesses, and individuals. The FEA measures lost economic efficiency associated with residential and commercial development and public project and activities, such as economic impacts on beach management, small entities, and the energy industry. Decision makers can use this information to assess whether the effects of the designation might unduly burden a particular group or economic sector. Finally, the FEA looks retrospectively at costs that have been incurred since 1985 (the year of the species' listing) (50 FR 50726) and considers those costs that may occur in the 19 years following the designation of critical habitat.

The economic analysis examines activities taking place both within and adjacent to the designation. Although oil and gas development in the future are somewhat uncertain, our DEA estimates impacts based on activities that are “reasonably foreseeable,” including, but not limited to, activities that are currently authorized, permitted, or funded, or for which proposed plans are currently available to the public. Accordingly, the analysis bases estimates on activities that are likely to occur within a 20-year timeframe from when the proposed rule became available to the public (May 20, 2008, 73 FR 29294). The 20-year timeframe was chosen for the analysis because, as the time horizon for an economic analysis is expanded, the assumptions on which the projected number of projects and cost impacts associated with those projects are based become increasingly speculative.

The economic analysis forecasts that incremental impacts associated with the revised designation of critical habitat for the wintering population of the piping plover in Texas range from $8.5 million to $72.5 million ($573,000 to $4.87 million annualized over 20 years), assuming a 3 percent discount rate, or $6.3 million to $53.7 million ($595,000 to $5.07 million annualized), assuming a 7 percent discount rate. The majority of incremental impacts (98 percent) are anticipated to be associated with oil and gas development activities. Conservation efforts related to vehicle use for recreation would have been required in section 7 consultations absent critical habitat for the piping plover, and are therefore considered baseline impacts of critical habitat designation. The project modifications incremental to the baseline with the largest economic impacts are expected to be recommendations to avoid freshwater discharge across tidal flats and depositing fill material. Of the 18 units proposed as critical habitat, Unit TX-3 is calculated to experience the highest estimated costs, most of which is attributed to impacts to oil and gas development. Most other impacts quantified in the final economic analysis are considered baseline impacts and are not expected to be affected by the critical habitat designation.

We have evaluated the potential economic impact of the revised designation under section 4(b)(2) of the Act as identified in the final economic analysis. Based on this evaluation, we believe that there are no disproportionate economic impacts resulting in the benefits of excluding an area outweighing the benefits of including an area. Further, in weighing the potential economic effects and other potential regulatory effects of designating critical habitat for the piping plover in Texas, against the unique needs of wintering grounds in Texas for those plovers whose breeding grounds are in the Great Lakes, we have determined not to exercise our discretion to exclude areas from the final designation. (Additional discussion can be found above in Our Response to Comments from States (14) Comment.) Therefore, we have not excluded any areas from this revised designation of critical habitat for the wintering population of piping plover in Texas based on economic impacts.

A copy of the final economic analysis with supporting documents may be obtained by contacting the Corpus Christi Ecological Services Field Office (see ADDRESSES) or by downloading from the Internet at http://www.regulations.gov or http://www.fws.gov/southwest/es/Library/.

Exclusions Based on National Security Impacts

Under section 4(b)(2) of the Act, we consider whether there are lands owned or managed by the Department of Defense (DOD) where a national security impact might exist. In preparing this final rule, we have determined that the lands within the designation of critical habitat for the wintering population of piping plover in Texas are not owned or managed by the DOD, and therefore, anticipate no impact to national security. There are no areas excluded from this final designation based on impacts on national security.

Exclusions Based on Other Relevant Impacts

Under section 4(b)(2) of the Act, we consider any other relevant impacts, in addition to economic impacts and impacts on national security. We consider a number of factors including whether the landowners have developed any HCPs or other management plans for the area, or whether there are conservation partnerships that would be encouraged by designation of, or exclusion from, critical habitat. In addition, we look at any tribal issues, and consider the government-to-government relationship of the United States with tribal entities. We also consider any social impacts that might occur because of the designation.

In preparing this final rule, we have determined that there are currently no HCPs or other management plans for the wintering population of piping plover in Texas, and the final designation does not include any tribal lands or trust resources. We anticipate no impact to tribal lands, partnerships, or HCPs from this critical habitat designation. Further, given the relatively small potential economic effects and other potential regulatory effects of designating critical habitat for the piping plover in Texas, and the unique needs of wintering grounds in Texas for those plovers whose breeding grounds are in the Great Lakes, we have determined not to exercise our discretion to exclude areas from the final designation. (Additional discussion can be found above in Our Response to Comments from States (14) Comment.) There are no areas excluded from this final designation based on other relevant impacts.

Required Determinations

Regulatory Planning and Review—Executive Order 12866

The Office of Management and Budget (OMB) has determined that this rule is not significant and has not reviewed this rule under Executive Order 12866 (E.O. 12866). OMB bases its determination upon the following four criteria:

(a) Whether the rule will have an annual effect of $100 million or more on the economy or adversely affect an economic sector, productivity, jobs, the environment, or other units of the government.

(b) Whether the rule will create inconsistencies with other Federal agencies' actions.

(c) Whether the rule will materially affect entitlements, grants, user fees, loan programs, or the rights and obligations of their recipients.

(d) Whether the rule raises novel legal or policy issues.

Regulatory Flexibility Act (5 U.S.C. 601 et seq.)

Under the Regulatory Flexibility Act (RFA; 5 U.S.C. 601 et seq., as amended by the Small Business Regulatory Enforcement Fairness Act (SBREFA) of 1996), whenever an agency must publish a notice of rulemaking for any proposed or final rule, it must prepare and make available for public comment a regulatory flexibility analysis that describes the effects of the rule on small entities (i.e., small businesses, small organizations, and small government jurisdictions). However, no regulatory flexibility analysis is required if the head of the agency certifies the rule will not have a significant economic impact on a substantial number of small entities. SBREFA amended RFA to require Federal agencies to provide a statement of the factual basis for certifying that the rule will not have a significant economic impact on a substantial number of small entities. In this final rule, we are certifying that the critical habitat designation for the wintering population of the piping plover will not have a significant economic impact on a substantial number of small entities. The following discussion explains our rationale.

According to the Small Business Administration (SBA), small entities include small organizations, such as independent nonprofit organizations; small governmental jurisdictions, including school boards and city and town governments that serve fewer 50,000 residents; as well as small businesses. Small businesses include manufacturing and mining concerns with fewer than 500 employees, wholesale trade entities with fewer than 100 employees, retail and service businesses with less than $5 million in annual sales, general and heavy construction businesses with less than $27.5 million in annual business, special trade contractors doing less than $11.5 in annual business, and agricultural businesses with annual sales less than $750,000. To determine if potential economic impacts to these small entities are significant, we consider the types of activities that might trigger regulatory impacts under this rule, as well as types of project modifications that may result. In general, the term “significant economic impact” is meant to apply to a typical small business firm's business operations.

To determine if the rule could significantly affect a substantial number of small entities, we consider the number of small entities affected within particular types of economic activities (e.g., housing development, grazing, oil and gas production, timber harvesting). We apply the “substantial number” test individually to each industry to determine if certification is appropriate. However, the SBREFA does not explicitly define “substantial number” or “significant economic impact.” Consequently, to assess whether a “substantial number” of small entities is affected by this designation, this analysis considers the relative number of small entities likely to be impacted in an area. In some circumstances, especially with critical habitat designations of limited extent, we may aggregate across all industries and consider whether the total number of small entities affected is substantial. In estimating the number of small entities potentially affected, we also consider whether their activities have any Federal involvement.

Designation of critical habitat only affects activities authorized, funded, or carried out by Federal agencies. Some kinds of activities are unlikely to have any Federal involvement and so will not be affected by critical habitat designation. In areas where the species is present, Federal agencies already are required to consult with us if their activities may affect the species. Designation of critical habitat, therefore, could result in an additional economic impact on small entities due to the requirement to reinitiate consultation for ongoing Federal activities (see Application of the Adverse Modification Standard section).

In our FEA, we evaluated the potential economic effects on small business entities resulting from conservation actions related to the listing of the wintering population of the piping plover in Texas and the designation of critical habitat. The analysis estimated prospective economic impacts due to the implementation of wintering piping plover conservation efforts in four categories: (1) Marine construction; (2) oil and gas activities; (3) recreation; and (4) residential and commercial development.

The FEA did not anticipate that any small entities would be affected by marine construction. It found that only three small entities are involved in the oil and gas industry in the area and comprise only 2 percent of the industry there. This is not a substantial number and, therefore, not a significant impact due to critical habitat designation. There is no way of determining if these three small entities will be involved in future projects, but because they represent only a small percentage of the industry, the FEA assumed that they are unlikely to be involved.

Few impacts on small businesses serving individuals engaging in recreational beach use are anticipated from this revised critical habitat designation. Instead, the majority of the impacts due to recreational beach use will be borne by coastal cities and towns which undertake beach maintenance projects, such as beach cleaning. Those projects require a Federal permit under the Clean Water Act, which leads to section 7 consultation with respect to critical habitat. Projects are anticipated to be undertaken by the City of Port Aransas (2007 estimated population of 3,775), and the Town of South Padre Island (2007 estimated population of 2,752). Since both have populations under 50,000, they are considered small entities. The FEA estimated that over the next 20 years, the incremental impacts to each of these municipalities due to critical habitat designation will range from $61,900 to $98,400. Annually, the impacts to recreation in these municipalities will range from $5,850 to $9,290, which is not a substantial amount, and thus not a significant impact due to critical habitat designation.

The FEA anticipated piping plover conservation efforts from this revised critical habitat designation to affect small developers in the nine counties where critical habitat is being designated. Of the total number of developers engaged in single-family construction, multi-family construction, and land subdivision, 91 percent are small entities. The FEA estimates that over the next 20 years the incremental impact due to critical habitat designation will range from $150 to $5,000 per small developer. Annually, the impact will range from $10 to $337, which is a small amount, and, therefore, not considered to be a significant impact due to critical habitat designation.

In summary, we have considered whether this would result in significant economic effect on a substantial number of small entities. Based on information analyzed in the FEA, we certify that this rule will not have a significant economic impact on a substantial number of small business entities. Federal involvement, and thus section 7 consultations, would be limited to a subset of the area designated. The most likely Federal involvement could include U.S. Army Corps of Engineers permitted actions such as beach maintenance, seismic exploration, and oil and gas production. A regulatory flexibility analysis is not required.

Small Business Regulatory Enforcement Fairness Act (5 U.S.C. 801 et seq.)

Under SBREFA, this rule is not a major rule. Our detailed assessment of the economic effects of this designation is described in the final economic analysis. Based on the effects identified in the economic analysis, we believe that this rule will not have an annual effect on the economy of $100 million or more, will not cause a major increase in costs or prices for consumers, and will not have significant adverse effects on competition, employment, investment, productivity, innovation, or the ability of U.S.-based enterprises to compete with foreign-based enterprises. Refer to the final economic analysis for a discussion of the effects of this determination. (see ADDRESSES for information on obtaining a copy of the final economic analysis).

Executive Order 13211-Energy Supply, Distribution, or Use

On May 18, 2001, the President issued Executive Order 13211: “Actions Concerning Regulations That Significantly Affect Energy Supply, Distribution, or Use” on regulations that significantly affect energy supply, distribution, and use. E.O. 13211 requires agencies to prepare Statements of Energy Effects when undertaking certain actions. OMB has provided guidance for implementing this E.O. that outlines nine outcomes that may constitute “a significant adverse effect” when compared without the regulatory action under consideration. The economic analysis finds that none of these criteria are relevant to this analysis. Thus, based on information in the economic analysis, significant adverse energy-related impacts associated with wintering piping plover conservation activities within critical habitat are not expected. As such, the designation of critical habitat is not expected to significantly affect energy supplies, distribution, or use. Therefore, this action is not a significant energy action, and no Statement of Energy Effects is required.

Unfunded Mandates Reform Act (2 U.S.C. 1501 et seq.)

In accordance with the Unfunded Mandates Reform Act (2 U.S.C. 1501 et seq.), we make the following findings:

(a) This amended rule will not produce a Federal mandate. In general, a Federal mandate is a provision in legislation, statute, or regulation that would impose an enforceable duty upon State, local, or tribal governments, or the private sector and includes both “Federal intergovernmental mandates” and “Federal private sector mandates.” These terms are defined in 2 U.S.C. 658(5)(7). “Federal intergovernmental mandate” includes a regulation that “would impose an enforceable duty upon State, local, or [T]ribal governments,” with two exceptions. It excludes “a condition of Federal assistance.” It also excludes “a duty arising from participation in a voluntary Federal program,” unless the regulation “relates to a then-existing Federal program under which $500,000,000 or more is provided annually to State, local, and tribal governments under entitlement authority,” if the provision would “increase the stringency of conditions of assistance” or “place caps upon, or otherwise decrease, the Federal Government's responsibility to provide funding,” and the State, local, or tribal governments “lack authority” to adjust accordingly. At the time of enactment, these entitlement programs were: Medicaid; Aid to Families with Dependent Children work programs; Child Nutrition; Food Stamps; Social Services Block Grants; Vocational Rehabilitation State Grants; Foster Care, Adoption Assistance, and Independent Living; Family Support Welfare Services; and Child Support Enforcement. “Federal private sector mandate” includes a regulation that “would impose an enforceable duty upon the private sector, except (i) a condition of Federal assistance or (ii) a duty arising from participation in a voluntary Federal program.”

The designation of critical habitat does not impose a legally binding duty on non-Federal Government entities or private parties. Under section 7 of the Act, the only regulatory effect is that Federal agencies must ensure that their actions do not result in the destruction or adverse modification of critical habitat. Non-Federal entities that receive Federal funding, assistance, or permits, or that otherwise require approval or authorization from a Federal agency for an action, may be indirectly impacted by the designation of critical habitat. However, the legally binding duty to avoid destruction or adverse modification of critical habitat rests squarely on the Federal agency. Furthermore, to the extent that non-Federal entities are indirectly impacted because they receive Federal assistance or participate in a voluntary Federal aid program, the Unfunded Mandates Reform Act would not apply; nor would critical habitat shift the costs of the large entitlement programs listed above onto State governments.

(b) The FEA estimated that beach maintenance projects for recreation to be undertaken by the City of Port Aransas and the Town of South Padre Island. Annually, the costs to these small government municipalities will range from $5,850 to $9,290, which is not a substantial amount. Consequently, we do not believe that the designation of critical habitat for the wintering population of the piping plover in Texas will significantly or uniquely affect small governments, because it will not produce a Federal mandate of $100 million or greater in any year; that is, it is not a significant regulatory action under the Unfunded Mandates Reform Act. The designation of critical habitat imposes no obligations on State or county governments. As such, a Small Government Agency Plan is not required.

Executive Order 12630-Takings

In accordance with E.O. 12630 (“Government Actions and Interference with Constitutionally Protected Private Property Rights”), we have analyzed the potential takings implications of designating approximately 138,881 ac (56,206 ha) of lands in Cameron, Willacy, Kenedy, Kleberg, Nueces, Aransas, Calhoun, Matagorda, and Brazoria Counties, Texas, as critical habitat for the wintering population of the piping plover in a takings implication assessment. The takings implications assessment concludes that this final designation of critical habitat does not pose significant takings implications for lands within or affected by the designation.

Federalism

In accordance with E.O. 13132 (Federalism), this rule does not have significant Federalism effects. A Federalism assessment is not required. In keeping with Department of the Interior and Department of Commerce policy, we requested information from, and coordinated development of this critical habitat designation with appropriate State resource agencies in Texas. The designation of critical habitat on lands currently occupied by the wintering population of the piping plover may impose nominal additional regulatory restrictions to those currently in place and, therefore, may have little incremental impact on State and local governments and their activities. The designation may have some benefit to these governments because the areas that contain the features essential to the conservation of the species are more clearly defined, and the PCEs of the habitat necessary to the conservation of the species are specifically identified. This information does not alter where and what federally sponsored activities may occur. However, it may assist local governments in long-range planning (rather than having them wait for case-by-case section 7 consultations to occur).

Civil Justice Reform

In accordance with E.O. 12988 (Civil Justice Reform), the regulation meets the applicable standards set forth in sections 3(a) and 3(b)(2) of the Order. We are designating critical habitat in accordance with the provisions of the Act. This final rule uses standard property descriptions and identifies the physical and biological features essential to the conservation of the species within the designated areas to assist the public in understanding the habitat needs of the wintering population of the piping plover.

Paperwork Reduction Act of 1995

This rule does not contain any new collections of information that require approval by OMB under the Paperwork Reduction Act of 1995 (44 U.S.C. 3501 et seq.). This rule will not impose recordkeeping or reporting requirements on State or local governments, individuals, businesses, or organizations. An agency may not conduct or sponsor, and a person is not required to respond to, a collection of information unless it displays a currently valid OMB control number.

National Environmental Policy Act

It is our position that, outside the jurisdiction of the Circuit Court of the United States for the Tenth Circuit, we do not need to prepare environmental analyses as defined by the National Environmental Policy Act (NEPA) (42 U.S.C. 4321 et seq.) in connection with designating critical habitat under the Act. We published a notice outlining our reasons for this determination in the Federal Register on October 25, 1983 (48 FR 49244). This assertion was upheld by the Circuit Court of the United States for the Ninth Circuit (Douglas County v. Babbitt, 48 F.3d 1495 (9th Cir. 1995), cert. denied 516 U.S. 1042 (1996)). However, the court ruling in Cape Hatteras Access Preservation Alliance v. U.S. Department of Interior (344 F. Supp. 2d 108 (D.D.C. 2004)) ordered us to revise the critical habitat designation for wintering piping plovers in North Carolina and to prepare an environmental analysis. To comply with that court's order, we prepared an environmental assessment for that action pursuant to NEPA, and, as an exercise of our discretion, have chosen to prepare an environmental assessment for critical habitat designation for the wintering population of the piping plover in Texas. The environmental assessment included an evaluation of the impact of the proposed designation of the 18 revised critical habitat units (Units TX-3, TX-4, TX-7, TX-8, TX-9, TX-10, TX-14, TX-15, TX-16, TX-18, TX-19, TX-22, TX-23, TX-27, TX-28, TX-31, TX-32, and TX-33) for the wintering population of the piping plover in Texas. The draft environmental assessment presented the purpose and need for critical habitat designation, the No Action and Preferred alternatives, and an evaluation of the direct, indirect, and cumulative effects of the alternatives. We notified the public of the availability of the draft environmental assessment for the proposed rule in the Federal Register on December 9, 2008 (73 FR 74675).

The Service has prepared a final environmental assessment and a Finding of No Significant Impact (FONSI) on the designation of these 18 units (Units TX-3, TX-4, TX-7, TX-8, TX-9, TX-10, TX-14, TX-15, TX-16, TX-18, TX-19, TX-22, TX-23, TX-27, TX-28, TX-31, TX-32, and TX-33) for the wintering population of the piping plover in Texas. Overall, the action is likely to have only a small impact on the human environment. The action does not produce a change in the existing environment, but merely seeks to maintain the natural characteristics of the barrier islands that are important for the wintering population of the piping plover in Texas. The designation of critical habitat is not likely to limit activities within the areas. The designation of critical habitat would require the Service and other Federal agencies to consider the winter habitat requirements of the piping plover when proposing actions that influence the designated units; the Texas General Land Office would be required to consider the winter habitat requirements of the piping plover only when Federal authorization or funding is part of their proposed action. However, since the areas to be designated as critical habitat are known to be used by the piping plover, as well as other federally listed species, the additional environmental analysis required by the designation of critical habitat for wintering population of the piping plover in Texas would represent only a small increase above that required by sections 7 and 9 of the Act. The final environmental assessment and FONSI are available upon request from the Field Supervisor, Corpus Christi Ecological Services Field Office (see ADDRESSES) or on our website at http://www.fws.gov/southwest/es/Library/.

Government-to-Government Relationship With Tribes

In accordance with the President's memorandum of April 29, 1994, “Government-to-Government Relations with Native American Tribal Governments” (59 FR 22951), E.O. 13175, and the Department of the Interior's manual at 512 DM 2, we readily acknowledge our responsibility to communicate meaningfully with recognized Federal Tribes on a government-to-government basis. In accordance with Secretarial Order 3206 of June 5, 1997 (American Indian Tribal Rights, Federal-Tribal Trust Responsibilities, and the Endangered Species Act), we readily acknowledge our responsibilities to work directly with Tribes in developing programs for healthy ecosystems, to acknowledge that tribal lands are not subject to the same controls as Federal public lands, to remain sensitive to Indian culture, and to make information available to Tribes. We have determined that there are no tribal lands occupied at the time of listing with features essential for the conservation, and no tribal lands that are essential for the conservation, of the wintering population of the piping plover in Texas. Therefore, critical habitat for the wintering population of the piping plover in Texas has not been designated on tribal lands.

References Cited

A complete list of all references cited in this rulemaking is available on the Internet at http://www.regulations.gov and upon request from the Field Supervisor, Corpus Christi Ecological Services Field Office (see ADDRESSES).

Author(s)

The primary authors of this package are the staff members of the Corpus Christi Ecological Services Field Office.

List of Subjects in 50 CFR Part 17

Endangered and threatened species, Exports, Imports, Reporting and recordkeeping requirements, Transportation.

Regulation Promulgation

Accordingly, we amend part 17, subchapter B of chapter I, title 50 of the Code of Federal Regulations, as set forth below:

PART 17— [AMENDED]

1. The authority citation for part 17 continues to read as follows:

Authority: 16 U.S.C. 1361-1407; 16 U.S.C. 1531-1544; 16 U.S.C. 4201-4245; Pub. L. 99-625, 100 Stat. 3500; unless otherwise noted.

2. In § 17.95(b), amend the entry for “Piping Plover (Charadrius melodus) Wintering Habitat” as follows:

a. Revise the first sentence of paragraph 1(1) as set forth below;

b. In paragraph 3, remove the words “Texas (Maps were digitized using 1995 and 1996 DOQQs and National Oceanic and Atmospheric Administration's (NOAA) Medium Resolution Digital Vector Shoreline)” and add in their place a new header and introductory text as set forth below;

c. Revise the critical habitat description for Unit TX-3 as set forth below;

d. Revise the critical habitat description for Unit TX-4 as set forth below;

e. Revise the critical habitat description for Unit TX-7 as set forth below;

f. Revise the critical habitat description for Unit TX-8 as set forth below;

g. Revise the critical habitat description for Unit TX-9 as set forth below;

h. Revise the critical habitat description for Unit TX-10 as set forth below;

i. Revise the critical habitat description for Unit TX-14 as set forth below;

j. Revise the critical habitat description for Unit TX-15 as set forth below;

k. Revise the critical habitat description for Unit TX-16 as set forth below;

l. Remove the critical habitat description for Unit TX-17;

m. Revise the critical habitat description for Unit TX-18 as set forth below;

n. Revise the critical habitat description for Unit TX-19 as set forth below;

o. Revise the critical habitat description for Unit TX-22 as set forth below;

p. Revise the critical habitat description for Unit TX-23 as set forth below;

q. Revise the critical habitat description for Unit TX-27 as set forth below;

r. Revise the critical habitat description for Unit TX-28 as set forth below;

s. Revise the critical habitat description for Unit TX-31 as set forth below;

t. Revise the critical habitat description for Unit TX-32 as set forth below;

u. Revise the critical habitat description for Unit TX-33 as set forth below;

v. Remove the map “Texas Units: 1, 2, 4 and southern 3” and the map “Texas Units: 5 and northern 3” and add in their place one new map “Texas Units 1 to 5” as set forth below;

w. Remove the map “Texas Units: 6 to 14” and add in its place two new maps “Texas Units 6 to 10 and 14” and “Texas Units 11 to 13” as set forth below;

x. Remove the map “Texas Units: 15 to 21” and add in its place a new map “Texas Units 15, 16 and 18 to 21” as set forth below;

y. Remove the map “Texas Units: 22, 23, 24, 25 and 26” and add in its place a new map “Texas Units 22 to 27” as set forth below; and

z. Remove the map “Texas Units: 26, 27, 28, 29 and 30” and the map for “Texas Units 31, 32, 33, and 34” and add in their place a new map “Texas Units 28 to 34” as set forth below.

§ 17.95 Critical habitat—fish and wildlife.

(b) Birds.

Piping Plover (Charadrius melodus) Wintering Habitat

1. * * *

(1) Intertidal sand beaches (including sand flats) or mud flats (between the mean lower low water line and annual high tide) with no or very sparse emergent vegetation for feeding. * * *

3. * * *

Texas (Data layers defining map units 1, 2, 5, 6, 11, 12, 13, 20, 21, 24, 25, 26, 29, 30, 34, 35, 36, and 37 were digitized using 1995 and 1996 DOQQs and National Oceanic and Atmospheric Administration's (NOAA) Medium Resolution Digital Vector Shoreline. Data layers defining map units 3, 4, 7, 8, 9, 10, 14, 15, 16, 18, 19, 22, 23, 27, 28, 31, 32, and 33 were created using 1992 National Wetlands Inventory data (except for Unit TX-22, which had 2001 data available) and/or digitized using 2005 National Agriculture Imagery Program data and NOAA mean lower low water vector data).

Unit TX-3: Padre Island. This unit consists of five subunits:

(1) Subunit TX-3A: South Padre Island—Gulf of Mexico Shoreline: 1,170 hectares (2,891 acres) in Cameron and Willacy Counties, Texas.

(i) Unit TX-3, Subunit A, in Cameron County, Texas. Coordinates are in UTM Zone 14N North American Datum 1983 (meters E, meters N):

677316, 2921614; 677420, 2921300; 677477, 2921036; 677576, 2920752; 677587, 2920643; 677639, 2920497; 677730, 2920091; 677915, 2919428; 678126, 2918581; 678368, 2917507; 678413, 2917409; 678588, 2916617; 678758, 2916031; 679074, 2914695; 679149, 2914477; 679434, 2913339; 679449, 2913232; 679565, 2912851; 679651, 2912493; 679808, 2911764; 679987, 2911020; 680041, 2910701; 680141, 2910358; 680324, 2909490; 680408, 2909179; 680458, 2908905; 680484, 2908841; 680527, 2908625; 680552, 2908572; 680703, 2907730; 680721, 2907693; 680803, 2907240; 680895, 2906845; 680906, 2906733; 680996, 2906347; 681070, 2905861; 681196, 2905325; 681322, 2904670; 681350, 2904592; 681380, 2904382; 681413, 2904290; 681435, 2904108; 681552, 2903585; 681563, 2903476; 681729, 2902633; 681973, 2901088; 682003, 2900981; 682087, 2900472; 682464, 2897457; 682604, 2896539; 682634, 2896212; 682700, 2895830; 682880, 2894451; 682909, 2894346; 682968, 2893886; 683014, 2893686; 683098, 2892852; 683180, 2892260; 683097, 2892260; 683047, 2892488; 682998, 2892495; 682995, 2892510; 683027, 2892531; 683041, 2892592; 683027, 2892699; 683007, 2892723; 682971, 2892712; 682968, 2892722; 682999, 2892739; 683016, 2892786; 682985, 2893058; 682935, 2893060; 682934, 2893107; 682861, 2893152; 682769, 2893152; 682768, 2893221; 682883, 2893220; 682868, 2893341; 682876, 2893381; 682853, 2893557; 682804, 2893691; 682806, 2893754; 682701, 2893949; 682710, 2894040; 682740, 2894055; 682689, 2894104; 682681, 2894156; 682713, 2894193; 682726, 2894288; 682687, 2894331; 682627, 2894337; 682623, 2894365; 682728, 2894369; 682721, 2894449; 682708, 2894473; 682691, 2894464; 682690, 2894488; 682755, 2894666; 682721, 2894686; 682706, 2894773; 682643, 2894808; 682688, 2894824; 682707, 2894860; 682704, 2894904; 682637, 2894954; 682603, 2895002; 682559, 2895114; 682550, 2895203; 682672, 2895199; 682668, 2895297; 682578, 2895296; 682617, 2895448; 682574, 2895521; 682575, 2895612; 682551, 2895712; 682520, 2895722; 682522, 2895767; 682493, 2895885; 682483, 2896037; 682497, 2896084; 682454, 2896117; 682465, 2896163; 682380, 2896601; 682346, 2896608; 682227, 2897577; 682182, 2898085; 682201, 2898109; 682180, 2898259; 682201, 2898280; 682178, 2898328; 682186, 2898401; 682174, 2898430; 682231, 2898459; 682244, 2898483; 682235, 2898579; 682213, 2898593; 682185, 2898577; 682197, 2898640; 682217, 2898666; 682213, 2898767; 682176, 2898760; 682166, 2898847; 682126, 2898937; 682073, 2898932; 682066, 2898960; 682092, 2898953; 682111, 2898973; 682100, 2899003; 682118, 2899078; 682082, 2899308; 682032, 2899467; 682011, 2899621; 682025, 2899646; 682013, 2899740; 681989, 2899755; 681987, 2899797; 682021, 2899806; 682009, 2899832; 681985, 2899842; 681981, 2899913; 681935, 2899934; 681807, 2900673; 681858, 2900716; 681839, 2900788; 681864, 2900849; 681852, 2900916; 681836, 2900967; 681756, 2901060; 681717, 2901187; 681460, 2902658; 681505, 2902676; 681511, 2902716; 681434, 2902756; 681214, 2903993; 681155, 2904075; 681119, 2904071; 681012, 2904606; 681029, 2904710; 680978, 2904773; 680977, 2904828; 680896, 2905004; 680880, 2905243; 680932, 2905337; 680901, 2905436; 680924, 2905565; 680947, 2905707; 680915, 2905794; 680816, 2905965; 680846, 2906102; 680842, 2906220; 680767, 2906374; 680767, 2906423; 680804, 2906481; 680779, 2906658; 680788, 2906703; 680737, 2906768; 680667, 2906952; 680666, 2906992; 680637, 2907074; 680652, 2907167; 680696, 2907184; 680694, 2907237; 680652, 2907317; 680578, 2907558; 680544, 2907670; 680559, 2907720; 680528, 2907739; 680491, 2907864; 680442, 2907915; 680377, 2908122; 680303, 2908195; 680245, 2908202; 680225, 2908246; 680239, 2908288; 680224, 2908356; 680262, 2908544; 680236, 2908558; 680241, 2908624; 680205, 2908642; 680204, 2908680; 680263, 2908669; 680284, 2908705; 680284, 2908759; 680262, 2908811; 680173, 2908905; 680152, 2909076; 680166, 2909101; 680118, 2909145; 680068, 2909267; 680089, 2909331; 680063, 2909415; 680076, 2909447; 680059, 2909475; 680051, 2909591; 680027, 2909638; 680022, 2909735; 680005, 2909791; 680010, 2909840; 680087, 2909853; 680077, 2909974; 680049, 2910008; 680028, 2910124; 680081, 2910106; 680063, 2910178; 679976, 2910342; 679926, 2910373; 679850, 2910377; 679637, 2911203; 679584, 2911291; 679575, 2911306; 679594, 2911313; 679580, 2911343; 679587, 2911379; 679554, 2911406; 679546, 2911472; 679523, 2911497; 679500, 2911656; 679447, 2911720; 679428, 2911781; 679430, 2911820; 679449, 2911838; 679419, 2911972; 679418, 2912005; 679448, 2912044; 679430, 2912069; 679444, 2912114; 679429, 2912120; 679416, 2912125; 679404, 2912129; 679378, 2912134; 679333, 2912282; 679389, 2912300; 679436, 2912370; 679409, 2912405; 679385, 2912404; 679334, 2912489; 679323, 2912553; 679348, 2912594; 679349, 2912650; 679329, 2912674; 679303, 2912701; 679266, 2912689; 679240, 2912735; 679298, 2912774; 679366, 2912980; 679337, 2913029; 679274, 2913079; 679279, 2913096; 679310, 2913097; 679322, 2913129; 679299, 2913214; 679308, 2913226; 679300, 2913296; 679281, 2913301; 679262, 2913455; 679229, 2913506; 679230, 2913560; 679171, 2913739; 679148, 2913866; 679035, 2913910; 679014, 2913950; 678918, 2914258; 678930, 2914427; 678912, 2914449; 678818, 2914489; 678799, 2914476; 678779, 2914534; 678648, 2914626; 678647, 2914726; 678683, 2914728; 678749, 2914616; 678776, 2914596; 678862, 2914530; 678907, 2914471; 678951, 2914472; 678975, 2914538; 678919, 2914568; 678923, 2914627; 678943, 2914643; 678900, 2914740; 678860, 2914786; 678789, 2914810; 678726, 2914797; 678647, 2914746; 678642, 2915013; 678709, 2915037; 678709, 2915064; 678747, 2915105; 678767, 2915178; 678767, 2915235; 678732, 2915305; 678742, 2915344; 678710, 2915351; 678711, 2915414; 678663, 2915442; 678608, 2915441; 678586, 2915441; 678565, 2915417; 678517, 2915416; 678516, 2915531; 678585, 2915523; 678615, 2915565; 678623, 2915654; 678578, 2915669; 678574, 2915772; 678545, 2915799; 678540, 2915839; 678501, 2915893; 678498, 2915947; 678462, 2915996; 678472, 2916058; 678458, 2916100; 678485, 2916113; 678489, 2916149; 678473, 2916236; 678406, 2916274; 678401, 2916290; 678334, 2916527; 678321, 2916600; 678333, 2916633; 678321, 2916674; 678299, 2916690; 678304, 2916732; 678279, 2916818; 678259, 2916834; 678227, 2916859; 678036, 2917661; 678105, 2917700; 678133, 2917697; 678210, 2917802; 678197, 2917910; 678143, 2918074; 678048, 2918578; 677986, 2918793; 677992, 2918821; 677898, 2919216; 677865, 2919279; 677853, 2919380; 677727, 2919847; 677698, 2919914; 677606, 2920288; 677565, 2920303; 677571, 2920317; 677597, 2920317; 677475, 2920746; 677458, 2920783; 677396, 2920843; 677398, 2920906; 677353, 2920884; 677338, 2920954; 677371, 2921010; 677375, 2921085; 677284, 2921309; 677253, 2921300; 677235, 2921331; 677248, 2921413; 677236, 2921421; 677222, 2921521; 677254, 2921543; 677218, 2921575; 677193, 2921569; 677181, 2921621; 677205, 2921622; 677204, 2921639; 677144, 2921773; 677065, 2921866; 677005, 2921912; 676980, 2921957; 676947, 2921969; 676868, 2922311; 676880, 2922371; 676872, 2922412; 676896, 2922472; 676897, 2922475; 677102, 2922481; Thence returning to 677316, 2921614.

Excluding:

Unit TX-3 Subunit A, Cameron County, Texas. Coordinates are in UTM Zone 14N, North American Datum 1983 (meters E, meters N):

675897, 2922460; 676718, 2922470; 676897, 2922475; 676896, 2922472; 676837, 2922377; 676776, 2922314; 676569, 2922172; 676466, 2922133; 676432, 2922145; 676422, 2922172; 676495, 2922208; 676488, 2922231; 676393, 2922213; 676277, 2922154; 676106, 2922206; 676075, 2922227; 675990, 2922374; Thence returning to 675897, 2922460.

675842, 2922460; 675938, 2922385; 675980, 2922268; 676037, 2922167; 676062, 2922153; 676234, 2922141; 676273, 2922087; 676323, 2922055; 676330, 2922028; 676320, 2921969; 676257, 2921890; 676221, 2921857; 676136, 2921833; 676093, 2921734; 676041, 2921668; 675958, 2921626; 675863, 2921676; 675826, 2921733; 675802, 2921806; 675798, 2921937; 675846, 2921972; 676059, 2921967; 676049, 2922021; 676024, 2922007; 675910, 2922008; 675799, 2922038; 675783, 2921989; 675732, 2921941; 675726, 2921854; 675703, 2921803; 675651, 2921772; 675572, 2921776; 675544, 2921783; 675492, 2921838; 675334, 2922069; 675325, 2922126; 675337, 2922256; 675370, 2922340; 675484, 2922385; 675626, 2922347; 675639, 2922323; 675687, 2922316; 675683, 2922387; 675625, 2922369; 675530, 2922399; 675525, 2922427; 675579, 2922437; 675583, 2922457; Thence returning to 675842, 2922460.

677065, 2921866; 677144, 2921773; 677204, 2921639; 677205, 2921622; 677181, 2921621; 677193, 2921569; 677218, 2921575; 677254, 2921543; 677222, 2921521; 677236, 2921421; 677248, 2921413; 677235, 2921331; 677253, 2921300; 677284, 2921309; 677375, 2921085; 677371, 2921010; 677338, 2920954; 677353, 2920884; 677398, 2920906; 677396, 2920843; 677458, 2920783; 677475, 2920746; 677597, 2920317; 677571, 2920317; 677565, 2920303; 677606, 2920288; 677698, 2919914; 677727, 2919847; 677853, 2919380; 677865, 2919279; 677898, 2919216; 677992, 2918821; 677986, 2918793; 678048, 2918578; 678143, 2918074; 678197, 2917910; 678210, 2917802; 678133, 2917697; 678105, 2917700; 678030, 2917774; 677989, 2917790; 677957, 2917842; 677970, 2917929; 677943, 2917993; 677962, 2918037; 677913, 2918039; 677893, 2918072; 677887, 2918111; 677921, 2918133; 677921, 2918154; 677859, 2918163; 677844, 2918182; 677847, 2918198; 677877, 2918201; 677869, 2918249; 677891, 2918292; 677824, 2918326; 677861, 2918375; 677848, 2918382; 677755, 2918349; 677637, 2918282; 677620, 2918300; 677628, 2918328; 677661, 2918337; 677630, 2918442; 677645, 2918466; 677720, 2918490; 677715, 2918533; 677742, 2918561; 677742, 2918603; 677774, 2918642; 677770, 2918676; 677719, 2918650; 677702, 2918699; 677676, 2918577; 677587, 2918524; 677535, 2918462; 677508, 2918471; 677510, 2918521; 677571, 2918614; 677593, 2918697; 677569, 2918683; 677480, 2918519; 677447, 2918535; 677415, 2918591; 677423, 2918674; 677396, 2918755; 677408, 2918799; 677440, 2918826; 677483, 2918827; 677523, 2918854; 677621, 2918830; 677598, 2918887; 677525, 2918876; 677511, 2918903; 677537, 2918955; 677586, 2918925; 677614, 2919047; 677608, 2919056; 677573, 2919034; 677571, 2919078; 677598, 2919174; 677586, 2919181; 677562, 2919137; 677548, 2919140; 677543, 2919259; 677523, 2919250; 677525, 2919100; 677504, 2919023; 677385, 2918950; 677359, 2918976; 677351, 2919023; 677335, 2919018; 677330, 2919059; 677312, 2918949; 677288, 2918940; 677214, 2919030; 677195, 2919135; 677208, 2919167; 677273, 2919206; 677293, 2919185; 677307, 2919115; 677345, 2919149; 677347, 2919213; 677379, 2919231; 677396, 2919281; 677381, 2919297; 677356, 2919267; 677340, 2919286; 677345, 2919308; 677378, 2919333; 677356, 2919407; 677342, 2919411; 677334, 2919328; 677285, 2919229; 677216, 2919207; 677192, 2919173; 677175, 2919172; 677154, 2919205; 677151, 2919242; 677168, 2919334; 677195, 2919378; 677177, 2919385; 677154, 2919370; 677133, 2919303; 677133, 2919249; 677109, 2919229; 677085, 2919300; 677000, 2919391; 676980, 2919437; 676977, 2919509; 676996, 2919597; 677062, 2919613; 677097, 2919598; 677126, 2919637; 677197, 2919663; 677189, 2919737; 677158, 2919684; 677100, 2919655; 677084, 2919661; 677064, 2919712; 677024, 2919678; 676997, 2919707; 676967, 2919698; 676952, 2919712; 676949, 2919740; 677020, 2919786; 677040, 2919867; 677070, 2919896; 677072, 2919952; 677103, 2919978; 677149, 2919978; 677204, 2920014; 677207, 2920025; 677182, 2920036; 677238, 2920056; 677275, 2920102; 677300, 2920098; 677336, 2920051; 677432, 2919992; 677471, 2920027; 677455, 2920044; 677400, 2920043; 677363, 2920070; 677356, 2920100; 677398, 2920098; 677370, 2920134; 677250, 2920123; 677217, 2920075; 677189, 2920080; 677163, 2920110; 677147, 2920170; 677177, 2920169; 677182, 2920200; 677207, 2920206; 677170, 2920235; 677134, 2920308; 677095, 2920335; 677101, 2920397; 677051, 2920401; 677037, 2920547; 677006, 2920568; 677055, 2920712; 677001, 2920662; 676952, 2920514; 676892, 2920485; 676827, 2920511; 676769, 2920393; 676687, 2920335; 676639, 2920342; 676631, 2920393; 676653, 2920447; 676675, 2920456; 676709, 2920410; 676710, 2920472; 676755, 2920515; 676742, 2920532; 676688, 2920521; 676683, 2920544; 676711, 2920552; 676734, 2920598; 676736, 2920651; 676825, 2920726; 676795, 2920737; 676736, 2920690; 676673, 2920687; 676674, 2920708; 676737, 2920744; 676716, 2920812; 676683, 2920816; 676754, 2920823; 676820, 2920773; 676868, 2920788; 676917, 2920776; 676926, 2920789; 676891, 2920819; 676817, 2920812; 676796, 2920861; 676764, 2920880; 676680, 2920850; 676607, 2920760; 676558, 2920727; 676517, 2920730; 676484, 2920762; 676371, 2920814; 676353, 2920838; 676358, 2920892; 676373, 2920933; 676400, 2920951; 676432, 2920934; 676472, 2920882; 676456, 2920802; 676485, 2920807; 676505, 2920836; 676518, 2920929; 676489, 2920944; 676496, 2921004; 676478, 2921031; 676513, 2921113; 676515, 2921173; 676495, 2921163; 676476, 2921066; 676441, 2921043; 676395, 2921043; 676306, 2921100; 676300, 2921005; 676365, 2921006; 676378, 2920987; 676337, 2920907; 676283, 2920891; 676223, 2920901; 676166, 2920941; 676135, 2920978; 676134, 2921021; 676072, 2921101; 676086, 2921164; 676235, 2921286; 676382, 2921381; 676448, 2921390; 676516, 2921625; 676600, 2921746; 676705, 2921832; 676774, 2921819; 676854, 2921900; 676980, 2921957; 677005, 2921912; 677065, 2921866; 677320, 2919502; 677342, 2919499; 677347, 2919529; 677326, 2919534; Thence returning to 677320, 2919502.

676628, 2920575; 676622, 2920538; 676592, 2920545; 676574, 2920570; 676588, 2920595; 676610, 2920596; Thence returning to 676628, 2920575.

676998, 2920436; 677019, 2920398; 676973, 2920378; 676946, 2920418; 676910, 2920423; 676894, 2920389; 676865, 2920433; 676873, 2920449; 676947, 2920457; 676990, 2920505; Thence returning to 676998, 2920436.

676962, 2920360; 676961, 2920312; 676983, 2920315; 676988, 2920273; 677036, 2920260; 677068, 2920280; 677105, 2920275; 677121, 2920220; 677125, 2920089; 677116, 2920053; 677074, 2920030; 677029, 2919953; 676907, 2919811; 676862, 2919799; 676836, 2919851; 676842, 2919898; 676899, 2919943; 676927, 2919940; 676904, 2920009; 676943, 2920057; 676976, 2920070; 676996, 2920107; 676985, 2920178; 676961, 2920198; 676950, 2920093; 676889, 2920034; 676828, 2920141; 676827, 2920172; 676846, 2920195; 676922, 2920201; 676905, 2920276; 676925, 2920287; 676906, 2920366; 676944, 2920375; Thence returning to 676962, 2920360.

676884, 2920255; 676828, 2920214; 676798, 2920238; 676774, 2920310; 676829, 2920341; Thence returning to 676884, 2920255.

676806, 2920167; 676820, 2920060; 676802, 2920050; 676779, 2920078; 676771, 2920052; 676843, 2920024; 676852, 2919980; 676843, 2919931; 676817, 2919890; 676722, 2920040; 676716, 2920088; 676736, 2920127; 676717, 2920166; 676747, 2920193; 676716, 2920225; 676725, 2920267; 676766, 2920254; Thence returning to 676806, 2920167.

674796, 2919758; 674769, 2919739; 674754, 2919768; 674763, 2919805; 674794, 2919785; Thence returning to 674796, 2919758.

674502, 2919598; 674466, 2919597; 674408, 2919704; 674424, 2919719; 674500, 2919730; 674523, 2919693; 674526, 2919651; Thence returning to 674502, 2919598.

674843, 2919519; 674816, 2919498; 674788, 2919525; 674757, 2919597; 674760, 2919647; 674787, 2919678; 674824, 2919644; 674846, 2919595; Thence returning to 674843, 2919519.

674103, 2919412; 674060, 2919387; 674026, 2919451; 674025, 2919516; 674049, 2919537; 674069, 2919531; 674103, 2919486; Thence returning to 674103, 2919412.

674392, 2919304; 674370, 2919280; 674348, 2919291; 674320, 2919336; 674330, 2919373; 674364, 2919378; 674399, 2919358; Thence returning to 674392, 2919304.

673649, 2919176; 673619, 2919168; 673588, 2919240; 673660, 2919258; 673665, 2919208; Thence returning to 673649, 2919176.

673977, 2919125; 673949, 2919090; 673917, 2919102; 673917, 2919139; 673935, 2919157; 673967, 2919157; Thence returning to 673977, 2919125.

673162, 2919009; 673159, 2918948; 673137, 2918949; 673123, 2919016; 673152, 2919023; Thence returning to 673162, 2919009.

673541, 2918884; 673514, 2918871; 673484, 2918895; 673472, 2918924; 673479, 2918953; 673559, 2918939; Thence returning to 673541, 2918884.

672938, 2918854; 672929, 2918828; 672893, 2918852; 672896, 2918914; 672926, 2918897; Thence returning to 672938, 2918854.

677390, 2918871; 677361, 2918862; 677343, 2918881; 677333, 2918915; 677342, 2918937; 677387, 2918893; Thence returning to 677390, 2918871.

672511, 2918627; 672499, 2918608; 672465, 2918613; 672452, 2918630; 672463, 2918696; 672506, 2918661; Thence returning to 672511, 2918627.

672835, 2918538; 672812, 2918538; 672798, 2918562; 672796, 2918603; 672812, 2918621; 672849, 2918576; Thence returning to 672835, 2918538.

674094, 2918377; 674057, 2918370; 673997, 2918415; 673985, 2918505; 673993, 2918537; 674012, 2918550; 674061, 2918545; 674117, 2918509; 674114, 2918403; Thence returning to 674094, 2918377.

672391, 2918347; 672371, 2918338; 672345, 2918392; 672374, 2918398; Thence returning to 672391, 2918347.

674619, 2918263; 674652, 2918152; 674671, 2917896; 674657, 2917815; 674635, 2917780; 674593, 2917751; 674483, 2917748; 674449, 2917799; 674445, 2917873; 674467, 2917919; 674467, 2917965; 674517, 2918041; 674443, 2918002; 674398, 2917884; 674357, 2917910; 674318, 2918011; 674330, 2918043; 674323, 2918082; 674298, 2918076; 674289, 2918091; 674310, 2918166; 674293, 2918181; 674270, 2918167; 674259, 2918182; 674235, 2918257; 674238, 2918325; 674265, 2918365; 674313, 2918392; 674473, 2918383; 674587, 2918313; Thence returning to 674619, 2918263.

677821, 2918281; 677827, 2918244; 677761, 2918124; 677742, 2918124; 677711, 2918178; 677670, 2918202; 677661, 2918237; 677708, 2918270; 677775, 2918256; 677782, 2918281; 677783, 2918312; 677795, 2918313; Thence returning to 677821, 2918281.

675106, 2917763; 675054, 2917735; 674977, 2917743; 674927, 2917810; 674891, 2917968; 674853, 2918050; 674857, 2918097; 674919, 2918165; 674956, 2918173; 674987, 2918161; 675128, 2918060; 675145, 2917940; 675140, 2917829; Thence returning to 675106, 2917763.

677711, 2918024; 677689, 2917970; 677650, 2918011; 677638, 2918175; 677690, 2918158; 677701, 2918118; 677729, 2918107; Thence returning to 677711, 2918024.

677846, 2918106; 677919, 2917928; 677915, 2917887; 677882, 2917862; 677805, 2917881; 677721, 2917948; 677745, 2918027; 677779, 2918001; 677812, 2918007; 677780, 2918054; 677813, 2918132; 677825, 2918137; Thence returning to 677846, 2918106.

677449, 2917826; 677435, 2917722; 677403, 2917728; 677228, 2917851; 677193, 2917908; 677216, 2918001; 677351, 2917989; 677425, 2917936; Thence returning to 677449, 2917826.

677940, 2917676; 677934, 2917647; 677915, 2917629; 677823, 2917619; 677742, 2917619; 677692, 2917675; 677695, 2917708; 677714, 2917733; 677742, 2917738; 677806, 2917665; 677819, 2917759; 677845, 2917788; 677896, 2917787; 677932, 2917744; 677924, 2917706; Thence returning to 677940, 2917676.

677379, 2917524; 677525, 2917473; 677559, 2917478; 677614, 2917448; 677636, 2917417; 677628, 2917378; 677603, 2917359; 677472, 2917350; 677399, 2917298; 677327, 2917285; 677286, 2917371; 677280, 2917413; 677314, 2917471; Thence returning to 677379, 2917524.

677213, 2917015; 677176, 2917007; 677130, 2917018; 677106, 2917047; 677108, 2917123; 677151, 2917157; 677210, 2917159; 677258, 2917138; 677272, 2917092; 677264, 2917054; Thence returning to 677213, 2917015.

677020, 2916880; 677006, 2916865; 676952, 2916871; 676942, 2916768; 676880, 2916735; 676840, 2916761; 676837, 2916815; 676909, 2916913; 676909, 2916978; 676991, 2916972; 676996, 2916942; 677030, 2916918; Thence returning to 677020, 2916880.

678321, 2916600; 678334, 2916527; 678191, 2916490; 677943, 2916356; 677711, 2916046; 677641, 2916007; 677608, 2916007; 677586, 2916031; 677584, 2916073; 677644, 2916101; 677638, 2916118; 677592, 2916133; 677620, 2916223; 677701, 2916222; 677697, 2916241; 677649, 2916268; 677651, 2916319; 677690, 2916354; 677767, 2916347; 677774, 2916430; 677823, 2916465; 677800, 2916531; 677843, 2916605; 677931, 2916663; 678026, 2916664; 678067, 2916638; 678107, 2916571; 678213, 2916564; 678220, 2916605; 678131, 2916622; 678110, 2916640; 678099, 2916709; 678132, 2916785; 678191, 2916829; 678259, 2916834; 678279, 2916818; 678304, 2916732; 678299, 2916690; 678321, 2916674; 678333, 2916633; Thence returning to 678321, 2916600.

678623, 2915654; 678615, 2915565; 678531, 2915575; 678460, 2915619; 678398, 2915698; 678372, 2915767; 678379, 2915807; 678353, 2915849; 678345, 2915900; 678415, 2916015; 678336, 2916035; 678303, 2916129; 678304, 2916161; 678341, 2916239; 678401, 2916290; 678406, 2916274; 678473, 2916236; 678489, 2916149; 678485, 2916113; 678458, 2916100; 678472, 2916058; 678462, 2915996; 678498, 2915947; 678501, 2915893; 678540, 2915839; 678545, 2915799; 678574, 2915772; 678578, 2915669; Thence returning to 678623, 2915654.

677592, 2915929; 677567, 2915885; 677534, 2915894; 677517, 2915944; 677528, 2915995; 677555, 2915997; 677585, 2915966; Thence returning to 677592, 2915929.

678066, 2915758; 677950, 2915688; 677945, 2915740; 678045, 2915950; 678109, 2915997; 678181, 2916006; 678282, 2915988; 678283, 2915933; 678240, 2915845; 678163, 2915793; Thence returning to 678066, 2915758.

678390, 2915482; 678012, 2915454; 677984, 2915461; 677992, 2915485; 678118, 2915566; 678316, 2915582; 678398, 2915567; 678428, 2915538; 678425, 2915507; Thence returning to 678390, 2915482.

678732, 2915305; 678767, 2915235; 678767, 2915178; 678696, 2915102; 678658, 2915096; 678615, 2915134; 678573, 2915247; 678545, 2915245; 678509, 2915214; 678492, 2915224; 678520, 2915312; 678575, 2915316; 678583, 2915329; 678608, 2915441; 678663, 2915442; 678711, 2915414; 678710, 2915351; 678742, 2915344; Thence returning to 678732, 2915305.

678118, 2915227; 678068, 2915211; 678053, 2915244; 678068, 2915312; 678093, 2915322; 678115, 2915300; Thence returning to 678118, 2915227.

678260, 2915087; 678065, 2915039; 678036, 2915051; 678048, 2915078; 678308, 2915255; 678426, 2915310; 678467, 2915296; 678447, 2915237; 678391, 2915168; Thence returning to 678260, 2915087.

678975, 2914538; 678951, 2914472; 678870, 2914524; 678854, 2914564; 678776, 2914596; 678741, 2914635; 678726, 2914729; 678789, 2914810; 678860, 2914786; 678900, 2914740; 678943, 2914643; 678923, 2914627; 678919, 2914568; Thence returning to 678975, 2914538.

674234, 2914449; 674140, 2914411; 674088, 2914418; 674041, 2914450; 674035, 2914487; 674008, 2914515; 674003, 2914558; 674027, 2914586; 674037, 2914676; 674081, 2914679; 674125, 2914662; 674252, 2914552; 674265, 2914504; Thence returning to 674234, 2914449.

678039, 2914582; 678020, 2914552; 677995, 2914583; 678017, 2914613; Thence returning to 678039, 2914582.

678779, 2914534; 678799, 2914476; 678818, 2914489; 678912, 2914449; 678930, 2914427; 678918, 2914258; 679014, 2913950; 679035, 2913910; 679148, 2913866; 679171, 2913739; 679230, 2913560; 679229, 2913506; 679262, 2913455; 679281, 2913301; 679300, 2913296; 679308, 2913226; 679299, 2913214; 679322, 2913129; 679310, 2913097; 679279, 2913096; 679274, 2913079; 679337, 2913029; 679366, 2912980; 679298, 2912774; 679225, 2912762; 679071, 2912690; 678929, 2912659; 678838, 2912667; 678767, 2912733; 678750, 2912775; 678748, 2912875; 678772, 2912944; 678854, 2913010; 678739, 2912977; 678730, 2912994; 678761, 2913023; 678665, 2913036; 678627, 2913112; 678627, 2913184; 678701, 2913245; 678757, 2913203; 678773, 2913205; 678724, 2913278; 678725, 2913303; 678748, 2913333; 678735, 2913345; 678750, 2913386; 678842, 2913506; 678962, 2913595; 678973, 2913690; 678961, 2913704; 678927, 2913690; 678867, 2913598; 678805, 2913568; 678756, 2913519; 678737, 2913517; 678697, 2913576; 678693, 2913498; 678718, 2913485; 678725, 2913443; 678660, 2913335; 678616, 2913329; 678596, 2913346; 678585, 2913428; 678531, 2913525; 678563, 2913585; 678652, 2913604; 678614, 2913656; 678539, 2913666; 678504, 2913764; 678518, 2913774; 678611, 2913758; 678631, 2913786; 678651, 2913880; 678623, 2913870; 678599, 2913814; 678574, 2913799; 678544, 2913801; 678557, 2913864; 678498, 2913822; 678454, 2913818; 678408, 2913875; 678374, 2913962; 678348, 2914070; 678344, 2914171; 678363, 2914252; 678398, 2914311; 678459, 2914373; 678517, 2914405; 678613, 2914397; 678597, 2914469; 678666, 2914549; 678721, 2914552; Thence returning to 678779, 2914534.

677755, 2913348; 677703, 2913326; 677661, 2913364; 677644, 2913425; 677620, 2913451; 677624, 2913504; 677643, 2913528; 677680, 2913520; 677716, 2913486; 677766, 2913392; Thence returning to 677755, 2913348.

678025, 2912460; 678000, 2912455; 677978, 2912470; 677914, 2912585; 677913, 2912634; 677937, 2912665; 678004, 2912660; 678065, 2912596; 678070, 2912542; 678057, 2912498; Thence returning to 678025, 2912460.

679334, 2912489; 679385, 2912404; 679409, 2912405; 679436, 2912370; 679389, 2912300; 679269, 2912341; 679228, 2912390; 679235, 2912500; 679299, 2912575; 679273, 2912633; 679329, 2912674; 679349, 2912650; 679348, 2912594; 679323, 2912553; Thence returning to 679334, 2912489.

679404, 2912129; 679416, 2912125; 679378, 2912134; Thence returning to 679404, 2912129.

679419, 2911972; 679449, 2911838; 679430, 2911820; 679428, 2911781; 679447, 2911720; 679500, 2911656; 679523, 2911497; 679546, 2911472; 679554, 2911406; 679587, 2911379; 679580, 2911343; 679594, 2911313; 679574, 2911306; 679542, 2911357; 679438, 2911733; 679415, 2911725; 679389, 2911665; 679340, 2911657; 679260, 2911812; 679258, 2911882; 679299, 2911941; 679350, 2911955; 679372, 2911906; 679395, 2911913; 679404, 2912052; 679429, 2912120; 679444, 2912114; 679430, 2912069; 679448, 2912044; 679418, 2912005; Thence returning to 679419, 2911972.

678585, 2910694; 678497, 2910655; 678443, 2910668; 678410, 2910702; 678396, 2910772; 678401, 2910844; 678396, 2910881; 678336, 2910899; 678318, 2910940; 678273, 2910985; 678264, 2911037; 678273, 2911087; 678318, 2911138; 678391, 2911178; 678527, 2911160; 678595, 2911093; 678651, 2910996; 678690, 2910902; 678682, 2910824; Thence returning to 678585, 2910694.

678197, 2910749; 678170, 2910707; 678161, 2910738; 678172, 2910816; 678202, 2910837; Thence returning to 678197, 2910749.

680063, 2910178; 680081, 2910106; 680028, 2910124; 680049, 2910008; 680077, 2909974; 680087, 2909853; 680010, 2909840; 680005, 2909791; 680022, 2909735; 680027, 2909638; 680051, 2909591; 680059, 2909475; 680076, 2909447; 680063, 2909415; 680089, 2909331; 680068, 2909267; 680118, 2909145; 680166, 2909101; 680152, 2909076; 680173, 2908905; 680262, 2908811; 680284, 2908759; 680284, 2908705; 680263, 2908669; 680204, 2908680; 680205, 2908642; 680241, 2908624; 680236, 2908558; 680262, 2908544; 680224, 2908356; 680239, 2908288; 680225, 2908246; 680245, 2908202; 680303, 2908195; 680377, 2908122; 680442, 2907915; 680491, 2907864; 680528, 2907739; 680559, 2907720; 680544, 2907670; 680578, 2907558; 680527, 2907539; 680445, 2907624; 680368, 2907680; 680358, 2907727; 680316, 2907683; 680256, 2907698; 680229, 2907756; 680258, 2907859; 680253, 2907892; 680192, 2907808; 680137, 2907840; 680095, 2907775; 680061, 2907750; 679986, 2907745; 679938, 2907771; 679832, 2907987; 679790, 2908286; 679803, 2908348; 679885, 2908381; 679893, 2908397; 679780, 2908459; 679756, 2908517; 679772, 2908584; 679761, 2908622; 679712, 2908589; 679658, 2908627; 679590, 2908715; 679547, 2908808; 679537, 2908947; 679551, 2909021; 679576, 2909063; 679633, 2909096; 679750, 2909076; 679756, 2909102; 679802, 2909085; 679790, 2909111; 679718, 2909161; 679712, 2909186; 679729, 2909196; 679779, 2909180; 679738, 2909220; 679744, 2909251; 679840, 2909338; 679820, 2909368; 679837, 2909389; 679870, 2909397; 679929, 2909443; 679908, 2909477; 679855, 2909466; 679810, 2909429; 679796, 2909439; 679865, 2909558; 679942, 2909615; 679955, 2909644; 679934, 2909660; 679972, 2909711; 679939, 2909720; 679871, 2909685; 679858, 2909694; 679983, 2909783; 679924, 2909777; 679841, 2909729; 679803, 2909663; 679805, 2909560; 679771, 2909525; 679739, 2909523; 679680, 2909548; 679649, 2909596; 679657, 2909684; 679714, 2909827; 679690, 2909863; 679610, 2909791; 679504, 2909655; 679462, 2909658; 679427, 2909682; 679391, 2909727; 679377, 2909781; 679534, 2910097; 679695, 2910266; 679850, 2910377; 679926, 2910373; 679976, 2910342; Thence returning to 680063, 2910178.

680779, 2906658; 680804, 2906481; 680767, 2906423; 680767, 2906374; 680842, 2906220; 680846, 2906102; 680816, 2905965; 680915, 2905794; 680947, 2905707; 680924, 2905565; 680891, 2905543; 680831, 2905546; 680773, 2905595; 680616, 2905623; 680430, 2905692; 680387, 2905725; 680363, 2905787; 680309, 2905822; 680274, 2905879; 680174, 2905972; 680104, 2906090; 680082, 2906167; 680081, 2906266; 680156, 2906410; 680221, 2906458; 680325, 2906478; 680395, 2906468; 680491, 2906425; 680669, 2906224; 680815, 2906189; 680703, 2906261; 680553, 2906462; 680495, 2906518; 680474, 2906559; 680466, 2906627; 680418, 2906598; 680391, 2906601; 680375, 2906656; 680432, 2906678; 680363, 2906724; 680336, 2906873; 680305, 2906942; 680319, 2907075; 680355, 2907121; 680422, 2907176; 680515, 2907211; 680598, 2907304; 680652, 2907317; 680694, 2907237; 680696, 2907184; 680652, 2907167; 680637, 2907074; 680666, 2906992; 680667, 2906952; 680737, 2906768; 680788, 2906703; Thence returning to 680779, 2906658.

680121, 2905844; 680193, 2905744; 680191, 2905628; 680128, 2905541; 680037, 2905473; 680040, 2905445; 680076, 2905412; 680076, 2905383; 680027, 2905312; 679978, 2905284; 679887, 2905296; 679855, 2905340; 679860, 2905424; 679949, 2905432; 679985, 2905470; 679872, 2905471; 679834, 2905503; 679867, 2905523; 679874, 2905559; 679929, 2905596; 679986, 2905667; 679901, 2905635; 679832, 2905755; 679784, 2905748; 679799, 2905769; 679862, 2905797; 679976, 2905779; 680037, 2905809; 680086, 2905847; Thence returning to 680121, 2905844.

679857, 2905645; 679835, 2905634; 679793, 2905669; 679793, 2905708; 679847, 2905696; 679861, 2905676; Thence returning to 679857, 2905645.

679759, 2905583; 679744, 2905578; 679741, 2905615; 679758, 2905600; Thence returning to 679759, 2905583.

679820, 2905609; 679815, 2905590; 679795, 2905597; 679792, 2905613; Thence returning to 679820, 2905609.

679875, 2905606; 679864, 2905587; 679843, 2905596; Thence returning to 679875, 2905606.

679709, 2905550; 679685, 2905550; 679689, 2905590; Thence returning to 679709, 2905550.

679822, 2905544; 679776, 2905507; 679757, 2905525; 679771, 2905547; Thence returning to 679822, 2905544.

680595, 2905401; 680702, 2905386; 680760, 2905366; 680769, 2905344; 680662, 2905214; 680571, 2905158; 680534, 2905175; 680510, 2905241; 680509, 2905297; 680481, 2905317; 680471, 2905298; 680485, 2905163; 680455, 2905071; 680418, 2905022; 680403, 2905034; 680385, 2905127; 680341, 2905176; 680316, 2905235; 680327, 2905356; 680360, 2905393; 680505, 2905387; Thence returning to 680595, 2905401.

680168, 2905118; 680156, 2905093; 680104, 2905113; 680117, 2905143; 680148, 2905145; Thence returning to 680168, 2905118.

680498, 2903991; 680481, 2903954; 680448, 2903978; 680437, 2904057; 680459, 2904068; 680493, 2904051; Thence returning to 680498, 2903991.

680848, 2903565; 680779, 2903520; 680758, 2903571; 680785, 2903678; 680759, 2903726; 680761, 2903755; 680802, 2903790; 680838, 2903791; 680909, 2903741; 680937, 2903700; 680938, 2903671; Thence returning to 680848, 2903565.

681496, 2899317; 681471, 2899278; 681432, 2899286; 681387, 2899341; 681395, 2899368; 681413, 2899375; 681452, 2899362; Thence returning to 681496, 2899317.

681581, 2898687; 681519, 2898591; 681434, 2898621; 681399, 2898675; 681440, 2898762; 681498, 2898805; 681543, 2898783; 681586, 2898730; Thence returning to 681581, 2898687.

681715, 2898240; 681725, 2898120; 681710, 2898011; 681688, 2897981; 681608, 2897964; 681557, 2897985; 681489, 2898060; 681458, 2898201; 681474, 2898228; 681548, 2898229; 681583, 2898260; 681594, 2898205; 681629, 2898217; 681646, 2898193; 681655, 2898201; 681641, 2898236; 681649, 2898260; 681625, 2898276; 681627, 2898304; 681604, 2898333; 681641, 2898355; 681606, 2898385; 681592, 2898426; 681553, 2898447; 681541, 2898478; 681579, 2898521; 681581, 2898616; 681596, 2898651; 681647, 2898678; 681704, 2898665; 681766, 2898597; 681773, 2898497; 681718, 2898356; 681742, 2898338; 681743, 2898313; 681738, 2898266; Thence returning to 681715, 2898240.

681540, 2898317; 681550, 2898292; 681542, 2898265; 681490, 2898302; 681466, 2898287; 681447, 2898294; 681437, 2898407; 681392, 2898474; 681396, 2898524; 681412, 2898545; 681499, 2898519; 681469, 2898414; 681520, 2898363; 681560, 2898353; 681574, 2898324; Thence returning to 681540, 2898317.

681847, 2898080; 681817, 2897992; 681792, 2897999; 681772, 2898099; 681793, 2898135; 681820, 2898142; 681851, 2898116; Thence returning to 681847, 2898080.

681414, 2897609; 681390, 2897603; 681344, 2897652; 681304, 2897723; 681287, 2897815; 681305, 2897857; 681345, 2897878; 681391, 2897861; 681433, 2897803; 681455, 2897758; 681463, 2897694; 681450, 2897642; Thence returning to 681414, 2897609.

681818, 2896556; 681777, 2896553; 681727, 2896612; 681705, 2896784; 681716, 2896907; 681816, 2897021; 681906, 2897018; 681998, 2896959; 682018, 2896929; 682013, 2896888; 681872, 2896747; 681844, 2896663; 681857, 2896585; Thence returning to 681818, 2896556.

681983, 2896617; 681918, 2896556; 681873, 2896586; 681870, 2896666; 681882, 2896714; 681941, 2896774; 682022, 2896820; 682036, 2896786; 682017, 2896693; Thence returning to 681983, 2896617.

682121, 2896235; 682088, 2896234; 682042, 2896270; 682039, 2896325; 682053, 2896345; 682097, 2896346; 682118, 2896331; Thence returning to 682121, 2896235.

682093, 2895544; 682058, 2895483; 682035, 2895491; 682023, 2895521; 681965, 2895560; 681964, 2895602; 681986, 2895644; 682052, 2895667; 682119, 2895664; 682209, 2895597; 682198, 2895577; Thence returning to 682093, 2895544.

682189, 2894963; 682111, 2894916; 682097, 2894933; 682106, 2894990; 682149, 2895000; 682188, 2895043; 682220, 2895040; 682223, 2895018; Thence returning to 682189, 2894963.

681991, 2894763; 681996, 2894687; 681940, 2894696; 681947, 2894758; Thence returning to 681991, 2894763.

682449, 2894721; 682376, 2894660; 682251, 2894619; 682237, 2894638; 682249, 2894674; 682259, 2894690; 682302, 2894684; 682306, 2894703; 682289, 2894719; 682296, 2894729; Thence returning to 682449, 2894721.

(ii) Unit TX-3, Subunit A, Willacy County, Texas. Coordinates are in UTM Zone 14N, North American Datum 1983 (meters E, meters N):

672377, 2939107; 672358, 2939033; 672349, 2938817; 672371, 2938573; 672462, 2938034; 672615, 2937365; 672731, 2937001; 672904, 2936341; 672951, 2936233; 673054, 2935821; 673261, 2935201; 673393, 2934726; 673470, 2934511; 673512, 2934325; 673552, 2934246; 673790, 2933481; 673817, 2933347; 673964, 2932913; 674031, 2932607; 674274, 2931854; 674329, 2931635; 674350, 2931604; 674458, 2931184; 674555, 2930940; 674696, 2930494; 674730, 2930344; 674939, 2929739; 675106, 2929161; 675278, 2928649; 675309, 2928493; 675498, 2927859; 675626, 2927479; 675713, 2927142; 675832, 2926800; 675893, 2926536; 676043, 2926099; 676084, 2925915; 676158, 2925718; 676196, 2925519; 676285, 2925283; 676304, 2925175; 676370, 2925004; 676491, 2924560; 676608, 2924248; 676668, 2924035; 676716, 2923791; 677102, 2922481; 676897, 2922475; 676918, 2922541; 676897, 2922580; 676920, 2922628; 676885, 2922640; 676886, 2922693; 676924, 2922732; 676911, 2922766; 676888, 2922781; 676873, 2922968; 676761, 2923318; 676641, 2923450; 676658, 2923598; 676624, 2923639; 676546, 2923681; 676546, 2923714; 676572, 2923712; 676564, 2923747; 676471, 2923834; 676447, 2923920; 676409, 2923949; 676380, 2924026; 676338, 2924038; 676317, 2924071; 676300, 2924148; 676275, 2924155; 676273, 2924235; 676197, 2924264; 676189, 2924309; 676165, 2924363; 676155, 2924493; 676171, 2924561; 676152, 2924580; 676152, 2924601; 676163, 2924620; 676150, 2924652; 676102, 2924727; 676080, 2924860; 676088, 2924884; 676059, 2924966; 676031, 2924996; 676029, 2925044; 675995, 2925128; 676000, 2925172; 675970, 2925303; 675993, 2925360; 675981, 2925445; 676014, 2925477; 676061, 2925459; 676070, 2925494; 676029, 2925521; 676013, 2925565; 676002, 2925571; 676006, 2925600; 675986, 2925619; 675915, 2925612; 675855, 2925625; 675740, 2925707; 675745, 2925796; 675690, 2925916; 675681, 2926024; 675629, 2926091; 675601, 2926092; 675514, 2926299; 675509, 2926386; 675487, 2926431; 675495, 2926506; 675520, 2926542; 675535, 2926541; 675653, 2926506; 675700, 2926534; 675665, 2926668; 675602, 2926666; 675548, 2926693; 675527, 2926772; 675537, 2926824; 675569, 2926855; 675550, 2926901; 675532, 2926909; 675575, 2927027; 675531, 2927078; 675451, 2927115; 675453, 2927169; 675438, 2927208; 675425, 2927210; 675388, 2927214; 675355, 2927252; 675401, 2927267; 675421, 2927292; 675429, 2927302; 675401, 2927333; 675408, 2927367; 675451, 2927413; 675467, 2927452; 675441, 2927466; 675469, 2927484; 675444, 2927510; 675435, 2927589; 675407, 2927594; 675418, 2927645; 675377, 2927674; 675349, 2927741; 675346, 2927817; 675370, 2927850; 675274, 2927945; 675300, 2927960; 675292, 2928000; 675306, 2928025; 675297, 2928060; 675268, 2928084; 675276, 2928125; 675227, 2928195; 675239, 2928228; 675270, 2928251; 675267, 2928281; 675236, 2928298; 675208, 2928395; 675171, 2928454; 675120, 2928488; 675108, 2928526; 675080, 2928553; 675020, 2928538; 674974, 2928549; 674898, 2928593; 674841, 2928600; 674713, 2928698; 674703, 2928705; 674729, 2928796; 674711, 2928876; 674730, 2928906; 674729, 2928930; 674724, 2929000; 674694, 2929075; 674689, 2929155; 674701, 2929181; 674719, 2929190; 674713, 2929207; 674612, 2929219; 674621, 2929255; 674635, 2929272; 674696, 2929253; 674632, 2929352; 674644, 2929395; 674633, 2929418; 674628, 2929450; 674654, 2929445; 674664, 2929458; 674627, 2929521; 674634, 2929572; 674665, 2929580; 674695, 2929641; 674728, 2929632; 674757, 2929595; 674773, 2929600; 674763, 2929643; 674797, 2929671; 674815, 2929719; 674791, 2929737; 674788, 2929784; 674753, 2929818; 674679, 2929853; 674598, 2929932; 674542, 2929931; 674499, 2929958; 674475, 2929972; 674440, 2930048; 674521, 2930081; 674526, 2930100; 674553, 2930252; 674537, 2930315; 674544, 2930369; 674498, 2930404; 674418, 2930500; 674432, 2930531; 674402, 2930563; 674375, 2930639; 674352, 2930779; 674334, 2930801; 674300, 2930772; 674263, 2930766; 674238, 2930763; 674182, 2930854; 674180, 2930859; 674146, 2930955; 674146, 2930966; 674097, 2931110; 674089, 2931134; 674087, 2931139; 674078, 2931154; 674067, 2931175; 674027, 2931260; 674020, 2931312; 673996, 2931328; 673940, 2931426; 673939, 2931442; 673966, 2931463; 673937, 2931530; 673915, 2931530; 673905, 2931605; 673871, 2931631; 673866, 2931659; 673841, 2931663; 673773, 2931772; 673761, 2931972; 673712, 2932081; 673696, 2932107; 673715, 2932121; 673747, 2932206; 673762, 2932245; 673790, 2932261; 673831, 2932283; 673908, 2932343; 673951, 2932386; 673967, 2932429; 673978, 2932468; 673964, 2932514; 673941, 2932549; 673902, 2932566; 673870, 2932560; 673864, 2932647; 673836, 2932674; 673859, 2932714; 673861, 2932761; 673832, 2932836; 673728, 2932906; 673688, 2933008; 673659, 2933024; 673635, 2933017; 673631, 2933030; 673625, 2933052; 673605, 2933059; 673558, 2933097; 673591, 2933130; 673628, 2933129; 673649, 2933146; 673648, 2933199; 673645, 2933294; 673594, 2933248; 673484, 2933201; 673446, 2933214; 673408, 2933316; 673342, 2933336; 673310, 2933376; 673303, 2933411; 673318, 2933411; 673318, 2933494; 673290, 2933536; 673293, 2933570; 673260, 2933556; 673211, 2933608; 673208, 2933641; 673176, 2933671; 673176, 2933725; 673131, 2933778; 673123, 2933801; 673143, 2933812; 673128, 2933846; 673100, 2933883; 673055, 2933993; 673069, 2934010; 673054, 2934074; 673034, 2934079; 673016, 2934142; 673046, 2934210; 673117, 2934302; 673090, 2934319; 673075, 2934361; 673102, 2934385; 673136, 2934483; 673208, 2934542; 673184, 2934598; 673146, 2934625; 673150, 2934658; 673123, 2934670; 673114, 2934778; 673082, 2934916; 673028, 2934915; 673006, 2934906; 672962, 2934880; 672907, 2934846; 672854, 2934870; 672821, 2934908; 672772, 2935019; 672719, 2935154; 672694, 2935347; 672653, 2935425; 672639, 2935445; 672593, 2935510; 672575, 2935581; 672484, 2935804; 672469, 2935819; 672428, 2935863; 672417, 2935874; 672421, 2935918; 672450, 2935983; 672521, 2936035; 672591, 2936049; 672611, 2936077; 672595, 2936168; 672679, 2936198; 672719, 2936294; 672675, 2936344; 672666, 2936379; 672626, 2936602; 672626, 2936671; 672583, 2936669; 672561, 2936686; 672555, 2936725; 672571, 2936766; 672545, 2936782; 672504, 2936852; 672474, 2936988; 672495, 2937082; 672458, 2937104; 672461, 2937142; 672409, 2937264; 672362, 2937299; 672310, 2937307; 672369, 2937354; 672356, 2937399; 672332, 2937418; 672349, 2937463; 672225, 2937605; 672221, 2937610; 672270, 2937626; 672285, 2937663; 672240, 2937712; 672237, 2937756; 672269, 2937834; 672221, 2937894; 672238, 2937948; 672204, 2938255; 672135, 2938543; 672133, 2938638; 672150, 2938697; 672133, 2938731; 672099, 2938943; 672066, 2939019; 672029, 2939067; 671919, 2939080; 671920, 2939105; 672382, 2939136; Thence returning to 672377, 2939107.

Excluding:

Unit TX-3 Subunit A, Willacy County, Texas. Coordinates are in UTM Zone 14N, North American Datum 1983 (meters E, meters N):

670308, 2938922; 670266, 2938896; 670266, 2938944; 670298, 2938959; Thence returning to 670308, 2938922.

664147, 2938654; 664188, 2938639; 664246, 2938654; 664286, 2938615; 664321, 2938634; 664395, 2938421; 664290, 2938374; 664242, 2938297; 664223, 2938295; 664134, 2938303; 664011, 2938460; 663991, 2938458; 664023, 2938388; 664012, 2938371; 663964, 2938435; 663969, 2938476; 664001, 2938530; 664099, 2938633; Thence returning to 664147, 2938654.

665325, 2938543; 665337, 2938487; 665316, 2938500; 665313, 2938539; Thence returning to 665325, 2938543.

670176, 2938554; 670275, 2938515; 670181, 2938502; 670178, 2938485; 670227, 2938451; 670177, 2938421; 670105, 2938453; 670101, 2938478; 670129, 2938496; 670118, 2938512; 670061, 2938522; 669996, 2938506; 669978, 2938525; 669987, 2938560; 670018, 2938572; Thence returning to 670176, 2938554.

666246, 2938378; 666222, 2938375; 666170, 2938419; 666152, 2938521; 666239, 2938399; Thence returning to 666246, 2938378.

669961, 2938415; 669951, 2938390; 669841, 2938432; 669815, 2938500; 669826, 2938516; 669910, 2938522; 669923, 2938488; Thence returning to 669961, 2938415.

666005, 2938398; 666043, 2938123; 666019, 2938124; 666000, 2938190; 665988, 2938334; Thence returning to 666005, 2938398.

665928, 2938293; 665892, 2938262; 665884, 2938295; 665902, 2938357; Thence returning to 665928, 2938293.

669107, 2938109; 669076, 2938097; 669038, 2938141; 669083, 2938163; 669106, 2938141; Thence returning to 669107, 2938109.

668922, 2938132; 669028, 2938067; 669078, 2938079; 669125, 2938043; 669157, 2938040; 669183, 2938012; 669254, 2938007; 669263, 2937981; 669212, 2937968; 669210, 2937939; 669318, 2937867; 669331, 2937856; 669325, 2937835; 669176, 2937902; 669121, 2937894; 669078, 2937915; 669077, 2937932; 669149, 2937935; 669159, 2937962; 669130, 2937985; 669059, 2938003; 668933, 2938018; 668880, 2938061; 668860, 2938106; Thence returning to 668922, 2938132.

671738, 2938092; 671717, 2938054; 671656, 2938087; 671655, 2938113; Thence returning to 671738, 2938092.

669920, 2937911; 669889, 2937892; 669852, 2937917; 669847, 2937938; 669884, 2937945; Thence returning to 669920, 2937911.

670110, 2937852; 670192, 2937808; 670107, 2937749; 670067, 2937797; 670024, 2937800; 669992, 2937830; 670012, 2937846; 670060, 2937839; Thence returning to 670110, 2937852.

670246, 2937808; 670310, 2937781; 670342, 2937790; 670363, 2937772; 670412, 2937766; 670348, 2937721; 670294, 2937707; 670256, 2937675; 670232, 2937676; 670176, 2937713; 670268, 2937731; 670269, 2937762; 670241, 2937796; Thence returning to 670246, 2937808.

671097, 2937743; 671164, 2937692; 671160, 2937671; 671096, 2937695; 671068, 2937675; 671004, 2937687; 671036, 2937734; Thence returning to 671097, 2937743.

672409, 2937264; 672461, 2937142; 672458, 2937104; 672495, 2937082; 672474, 2936988; 672504, 2936852; 672545, 2936782; 672571, 2936766; 672555, 2936725; 672561, 2936686; 672583, 2936669; 672626, 2936671; 672626, 2936602; 672666, 2936379; 672675, 2936344; 672719, 2936294; 672679, 2936198; 672595, 2936168; 672611, 2936077; 672591, 2936049; 672521, 2936035; 672466, 2936060; 672436, 2936094; 672406, 2936073; 672347, 2936077; 672251, 2936047; 672201, 2936068; 672098, 2936058; 672071, 2936088; 672066, 2936112; 672092, 2936183; 672166, 2936275; 672149, 2936304; 672174, 2936334; 672171, 2936399; 672193, 2936457; 672297, 2936570; 672495, 2936639; 672533, 2936667; 672505, 2936678; 672365, 2936640; 672236, 2936690; 672191, 2936717; 672174, 2936750; 672138, 2936755; 672147, 2936790; 672192, 2936814; 672186, 2936846; 672202, 2936872; 672130, 2936877; 672072, 2936902; 672100, 2936943; 672094, 2936965; 672074, 2936973; 672024, 2936944; 672007, 2936998; 671989, 2937004; 671972, 2936990; 671965, 2936946; 671931, 2936945; 671920, 2937006; 671952, 2937078; 672088, 2937114; 672079, 2937130; 672003, 2937138; 672084, 2937216; 672067, 2937256; 672011, 2937257; 671926, 2937202; 671885, 2937157; 671867, 2937077; 671706, 2936970; 671640, 2936978; 671608, 2937051; 671607, 2937119; 671639, 2937182; 671688, 2937219; 671739, 2937232; 671957, 2937443; 672135, 2937489; 672225, 2937605; 672349, 2937463; 672332, 2937418; 672356, 2937399; 672369, 2937354; 672310, 2937307; 672362, 2937299; Thence returning to 672409, 2937264.

671787, 2937518; 671852, 2937488; 671759, 2937493; 671761, 2937511; Thence returning to 671787, 2937518.

671766, 2937310; 671605, 2937204; 671585, 2937207; 671582, 2937266; 671609, 2937327; 671766, 2937430; 671826, 2937445; 671871, 2937428; 671877, 2937409; Thence returning to 671766, 2937310.

669370, 2937355; 669412, 2937306; 669425, 2937338; 669453, 2937336; 669470, 2937317; 669487, 2937327; 669515, 2937286; 669532, 2937311; 669516, 2937353; 669536, 2937356; 669598, 2937275; 669590, 2937242; 669528, 2937219; 669459, 2937253; 669460, 2937207; 669436, 2937193; 669378, 2937263; Thence returning to 669370, 2937355.

669874, 2937134; 669909, 2937069; 669883, 2937056; 669858, 2937094; 669847, 2937045; 669830, 2937041; 669825, 2937077; 669843, 2937117; Thence returning to 669874, 2937134.

669687, 2937121; 669727, 2937078; 669748, 2937101; 669770, 2937087; 669779, 2937034; 669762, 2936967; 669737, 2937017; 669705, 2937043; 669681, 2937098; Thence returning to 669687, 2937121.

669674, 2937030; 669723, 2936973; 669743, 2936913; 669687, 2936968; 669641, 2936932; 669646, 2936904; 669615, 2936915; 669611, 2936985; 669639, 2937005; 669659, 2936997; Thence returning to 669674, 2937030.

671433, 2936638; 671451, 2936561; 671562, 2936508; 671591, 2936457; 671592, 2936419; 671575, 2936388; 671487, 2936378; 671475, 2936390; 671489, 2936422; 671471, 2936427; 671439, 2936413; 671429, 2936386; 671366, 2936374; 671172, 2936490; 671147, 2936522; 671203, 2936603; 671222, 2936547; 671275, 2936529; 671298, 2936538; 671273, 2936573; 671282, 2936590; 671371, 2936573; 671391, 2936592; 671378, 2936630; 671309, 2936671; 671297, 2936745; 671265, 2936776; 671257, 2936824; 671300, 2936854; 671350, 2936817; 671337, 2936752; 671444, 2936704; 671449, 2936680; Thence returning to 671433, 2936638.

671863, 2936665; 671816, 2936624; 671798, 2936625; 671778, 2936721; 671795, 2936772; 671830, 2936788; 671848, 2936767; Thence returning to 671863, 2936665.

670928, 2936625; 670913, 2936623; 670907, 2936639; 671007, 2936735; 671149, 2936749; 671217, 2936735; Thence returning to 670928, 2936625.

671681, 2936715; 671713, 2936648; 671803, 2936577; 671915, 2936676; 671907, 2936590; 671935, 2936578; 671983, 2936652; 672029, 2936662; 672051, 2936696; 672085, 2936713; 672271, 2936642; 672274, 2936603; 672171, 2936496; 672139, 2936476; 672071, 2936475; 671996, 2936369; 671941, 2936361; 671877, 2936400; 671855, 2936389; 671899, 2936335; 671998, 2936335; 672045, 2936322; 672066, 2936298; 672064, 2936216; 672019, 2936092; 671933, 2936073; 671874, 2936158; 671838, 2936180; 671830, 2936235; 671807, 2936276; 671714, 2936362; 671730, 2936491; 671721, 2936552; 671696, 2936565; 671669, 2936557; 671612, 2936513; 671477, 2936571; 671462, 2936594; 671464, 2936636; 671517, 2936697; 671545, 2936712; 671584, 2936700; Thence returning to 671681, 2936715.

671263, 2936335; 671142, 2936330; 671133, 2936348; 671167, 2936364; 671123, 2936409; 671122, 2936443; 671138, 2936459; 671229, 2936429; 671236, 2936389; 671264, 2936369; 671269, 2936348; Thence returning to 671263, 2936335.

671262, 2936305; 671354, 2936274; 671365, 2936291; 671328, 2936331; 671355, 2936335; 671491, 2936273; 671594, 2936199; 671588, 2936182; 671529, 2936192; 671507, 2936178; 671495, 2936158; 671503, 2936098; 671489, 2936083; 671457, 2936100; 671420, 2936185; 671367, 2936182; 671318, 2936230; 671302, 2936210; 671352, 2936136; 671347, 2936115; 671311, 2936147; 671271, 2936115; 671218, 2936126; 671171, 2936189; 671086, 2936216; 671050, 2936252; 671041, 2936289; 671055, 2936360; 671082, 2936372; 671083, 2936319; 671096, 2936304; Thence returning to 671262, 2936305.

671704, 2935988; 671678, 2935982; 671600, 2936002; 671569, 2936042; 671532, 2936049; 671543, 2936066; 671605, 2936083; 671662, 2936059; 671711, 2936025; Thence returning to 671704, 2935988.

671909, 2936007; 671893, 2935990; 671822, 2936050; 671867, 2936058; Thence returning to 671909, 2936007.

671461, 2935998; 671491, 2935949; 671525, 2935955; 671546, 2935931; 671560, 2935896; 671548, 2935854; 671456, 2935864; 671416, 2935841; 671358, 2935841; 671332, 2935907; 671345, 2935924; 671413, 2935906; 671437, 2935920; 671445, 2936001; Thence returning to 671461, 2935998.

672068, 2935683; 671863, 2935580; 671807, 2935591; 671723, 2935573; 671682, 2935571; 671659, 2935597; 671654, 2935689; 671688, 2935780; 671761, 2935858; 671839, 2935899; 671935, 2935922; 672017, 2935914; 672073, 2935870; 672080, 2935819; 672047, 2935748; 672075, 2935704; Thence returning to 672068, 2935683.

672428, 2935863; 672387, 2935857; 672379, 2935869; 672421, 2935918; 672417, 2935874; Thence returning to 672428, 2935863.

672349, 2935807; 672318, 2935788; 672308, 2935823; 672343, 2935838; Thence returning to 672349, 2935807.

672421, 2935710; 672392, 2935701; 672342, 2935713; 672358, 2935752; 672411, 2935757; 672469, 2935819; 672484, 2935804; 672486, 2935768; Thence returning to 672421, 2935710.

672194, 2935704; 672144, 2935672; 672133, 2935694; 672194, 2935729; Thence returning to 672194, 2935704.

672391, 2935609; 672525, 2935560; 672575, 2935581; 672593, 2935510; 672580, 2935471; 672653, 2935425; 672694, 2935347; 672719, 2935154; 672681, 2935108; 672652, 2935133; 672646, 2935079; 672694, 2935004; 672723, 2935055; 672772, 2935019; 672821, 2934908; 672752, 2934785; 672629, 2934793; 672565, 2934815; 672414, 2934793; 672378, 2934775; 672303, 2934792; 672286, 2934783; 672283, 2934730; 672341, 2934752; 672371, 2934699; 672369, 2934672; 672335, 2934645; 672348, 2934606; 672337, 2934564; 672345, 2934528; 672383, 2934513; 672405, 2934531; 672388, 2934599; 672391, 2934633; 672408, 2934646; 672452, 2934620; 672429, 2934584; 672441, 2934549; 672464, 2934551; 672490, 2934581; 672530, 2934554; 672537, 2934486; 672519, 2934444; 672442, 2934417; 672376, 2934436; 672294, 2934499; 672282, 2934545; 672307, 2934551; 672310, 2934568; 672281, 2934589; 672275, 2934632; 672243, 2934646; 672233, 2934690; 672186, 2934727; 672161, 2934783; 671900, 2934890; 671632, 2934946; 671563, 2934983; 671536, 2935014; 671540, 2935049; 671572, 2935063; 671926, 2935040; 671992, 2935076; 672075, 2935062; 672062, 2935089; 671989, 2935108; 671911, 2935184; 671910, 2935219; 671933, 2935225; 671978, 2935187; 672027, 2935179; 672026, 2935196; 671991, 2935214; 671968, 2935253; 671905, 2935274; 671752, 2935245; 671736, 2935260; 671740, 2935306; 671787, 2935291; 671819, 2935323; 671851, 2935310; 671855, 2935388; 671920, 2935372; 671921, 2935399; 671877, 2935445; 671926, 2935463; 671974, 2935405; 671999, 2935406; 672034, 2935437; 672066, 2935427; 672103, 2935364; 672132, 2935346; 672102, 2935314; 672108, 2935299; 672138, 2935300; 672171, 2935339; 672208, 2935310; 672229, 2935314; 672214, 2935352; 672161, 2935392; 672164, 2935409; 672240, 2935371; 672263, 2935322; 672312, 2935274; 672282, 2935242; 672351, 2935236; 672412, 2935114; 672369, 2935058; 672332, 2935050; 672336, 2935033; 672472, 2934907; 672553, 2934881; 672565, 2934892; 672554, 2934916; 672490, 2934930; 672446, 2934967; 672449, 2935092; 672509, 2935102; 672528, 2935132; 672467, 2935169; 672376, 2935261; 672298, 2935391; 672317, 2935402; 672417, 2935302; 672408, 2935364; 672419, 2935387; 672392, 2935416; 672215, 2935435; 672191, 2935470; 672121, 2935480; 672110, 2935494; 672257, 2935556; 672316, 2935539; 672324, 2935575; Thence returning to 672391, 2935609.

672434, 2935167; 672427, 2935152; 672410, 2935168; 672414, 2935183; Thence returning to 672434, 2935167.

673150, 2934658; 673146, 2934625; 673184, 2934598; 673208, 2934542; 673136, 2934483; 673102, 2934385; 673075, 2934361; 673090, 2934319; 673117, 2934302; 673046, 2934210; 673016, 2934142; 673034, 2934079; 673054, 2934074; 673069, 2934010; 673055, 2933993; 673100, 2933883; 673016, 2933901; 672953, 2933950; 672939, 2933993; 672977, 2933993; 672996, 2934061; 672949, 2934089; 672925, 2934155; 672931, 2934235; 673053, 2934490; 673087, 2934524; 673116, 2934608; 673116, 2934640; 673095, 2934649; 673016, 2934597; 672972, 2934592; 672943, 2934612; 672921, 2934662; 672921, 2934762; 672969, 2934819; 673029, 2934837; 673009, 2934874; 673028, 2934915; 673082, 2934916; 673114, 2934778; 673123, 2934670; Thence returning to 673150, 2934658.

672986, 2934889; 672962, 2934880; 673006, 2934906; Thence returning to 672986, 2934889.

672141, 2934717; 672098, 2934715; 672001, 2934732; 671998, 2934798; 672034, 2934796; 672062, 2934748; 672141, 2934736; Thence returning to 672141, 2934717.

672634, 2934737; 672680, 2934643; 672740, 2934698; 672788, 2934691; 672801, 2934670; 672796, 2934620; 672770, 2934603; 672722, 2934605; 672710, 2934576; 672693, 2934552; 672646, 2934546; 672564, 2934566; 672548, 2934582; 672561, 2934617; 672521, 2934627; 672505, 2934667; 672450, 2934675; 672440, 2934713; 672483, 2934748; 672580, 2934771; Thence returning to 672634, 2934737.

671827, 2934739; 671879, 2934700; 671896, 2934654; 671824, 2934557; 671743, 2934567; 671693, 2934609; 671690, 2934629; 671705, 2934638; 671754, 2934605; 671773, 2934607; 671797, 2934663; 671826, 2934671; 671819, 2934708; 671769, 2934707; 671771, 2934757; Thence returning to 671827, 2934739.

672963, 2934409; 672836, 2934147; 672785, 2934153; 672683, 2934209; 672674, 2934238; 672688, 2934247; 672759, 2934251; 672691, 2934304; 672669, 2934262; 672557, 2934280; 672552, 2934319; 672609, 2934314; 672626, 2934330; 672627, 2934350; 672590, 2934390; 672641, 2934454; 672658, 2934504; 672749, 2934525; 672922, 2934495; 672961, 2934466; Thence returning to 672963, 2934409.

672709, 2933975; 672650, 2933956; 672625, 2933971; 672643, 2934001; 672689, 2934020; 672724, 2934013; Thence returning to 672709, 2933975.

672608, 2933880; 672637, 2933871; 672694, 2933938; 672735, 2933950; 672738, 2933899; 672795, 2933817; 672754, 2933718; 672651, 2933745; 672590, 2933716; 672501, 2933711; 672467, 2933708; 672443, 2933724; 672469, 2933793; 672392, 2933835; 672382, 2933889; 672476, 2933936; 672542, 2933948; 672619, 2933917; Thence returning to 672608, 2933880.

672971, 2933881; 672992, 2933789; 673025, 2933868; 673076, 2933866; 673076, 2933830; 673028, 2933792; 673053, 2933747; 673049, 2933730; 673010, 2933724; 672987, 2933743; 672905, 2933759; 672890, 2933776; 672891, 2933838; 672936, 2933848; 672924, 2933910; Thence returning to 672971, 2933881.

673176, 2933671; 673208, 2933641; 673211, 2933608; 673260, 2933556; 673293, 2933570; 673290, 2933536; 673318, 2933494; 673318, 2933411; 673303, 2933411; 673310, 2933376; 673342, 2933336; 673408, 2933316; 673446, 2933214; 673373, 2933211; 673366, 2933194; 673276, 2933210; 673251, 2933230; 673257, 2933258; 673177, 2933265; 673137, 2933299; 673132, 2933353; 673217, 2933429; 673249, 2933416; 673251, 2933484; 673200, 2933539; 673169, 2933543; 673167, 2933629; 673131, 2933576; 673111, 2933576; 673036, 2933591; 672972, 2933648; 672986, 2933674; 673054, 2933669; 673128, 2933846; 673143, 2933812; 673123, 2933801; 673131, 2933778; 673176, 2933725; Thence returning to 673176, 2933671.

672387, 2933810; 672393, 2933758; 672360, 2933725; 672255, 2933724; 672208, 2933760; 672211, 2933785; 672234, 2933807; 672303, 2933767; 672341, 2933784; 672351, 2933820; Thence returning to 672387, 2933810.

672947, 2933661; 672911, 2933602; 672890, 2933605; 672873, 2933660; 672843, 2933684; 672820, 2933732; 672862, 2933755; 672896, 2933737; Thence returning to 672947, 2933661.

672804, 2933543; 672777, 2933531; 672747, 2933533; 672729, 2933554; 672729, 2933584; 672761, 2933655; 672775, 2933678; 672801, 2933687; 672841, 2933648; 672841, 2933595; Thence returning to 672804, 2933543.

672620, 2933653; 672598, 2933635; 672544, 2933641; 672547, 2933665; 672611, 2933682; Thence returning to 672620, 2933653.

672255, 2933659; 672277, 2933644; 672314, 2933658; 672368, 2933620; 672460, 2933517; 672438, 2933502; 672355, 2933502; 672354, 2933544; 672277, 2933545; 672230, 2933612; 672229, 2933643; Thence returning to 672255, 2933659.

672324, 2933508; 672324, 2933493; 672179, 2933505; 672155, 2933531; 672151, 2933593; 672170, 2933615; 672183, 2933610; 672215, 2933588; 672245, 2933535; Thence returning to 672324, 2933508.

672633, 2933549; 672619, 2933509; 672499, 2933527; 672439, 2933614; 672472, 2933618; 672589, 2933572; Thence returning to 672633, 2933549.

673025, 2933520; 673013, 2933456; 673054, 2933423; 673055, 2933399; 673035, 2933325; 673012, 2933316; 672981, 2933329; 672924, 2933270; 672875, 2933282; 672783, 2933354; 672753, 2933395; 672752, 2933442; 672777, 2933485; 672893, 2933475; 672934, 2933568; 672993, 2933580; Thence returning to 673025, 2933520.

672519, 2933368; 672397, 2933333; 672374, 2933335; 672367, 2933350; 672380, 2933425; 672522, 2933404; 672539, 2933395; Thence returning to 672519, 2933368.

673645, 2933294; 673648, 2933199; 673607, 2933207; 673530, 2933181; 673484, 2933201; 673594, 2933248; Thence returning to 673645, 2933294.

672357, 2933108; 672306, 2933101; 672284, 2933126; 672309, 2933242; 672333, 2933249; 672442, 2933222; 672447, 2933204; 672418, 2933177; 672416, 2933147; Thence returning to 672357, 2933108.

672765, 2933197; 672699, 2933132; 672637, 2933145; 672622, 2933199; 672651, 2933240; 672694, 2933249; 672737, 2933236; Thence returning to 672765, 2933197.

673167, 2933192; 673336, 2933161; 673410, 2933186; 673460, 2933179; 673439, 2933152; 673123, 2933067; 672938, 2933048; 672707, 2932993; 672648, 2933000; 672777, 2933138; 672851, 2933178; 672887, 2933185; 672988, 2933162; 673061, 2933186; Thence returning to 673167, 2933192.

673605, 2933059; 673621, 2933022; 673631, 2933030; 673635, 2933017; 673659, 2933024; 673688, 2933008; 673728, 2932906; 673832, 2932836; 673861, 2932761; 673859, 2932714; 673836, 2932674; 673864, 2932647; 673870, 2932560; 673902, 2932566; 673941, 2932549; 673964, 2932514; 673978, 2932468; 673967, 2932429; 673951, 2932386; 673908, 2932343; 673868, 2932348; 673761, 2932297; 673665, 2932279; 673616, 2932313; 673417, 2932326; 673359, 2932386; 673309, 2932493; 673345, 2932537; 673396, 2932540; 673417, 2932588; 673364, 2932603; 673299, 2932551; 673270, 2932570; 673273, 2932602; 673306, 2932625; 673307, 2932659; 673280, 2932657; 673270, 2932678; 673304, 2932785; 673504, 2932999; 673585, 2933022; Thence returning to 673605, 2933059.

672635, 2932916; 672541, 2932858; 672513, 2932866; 672519, 2932887; 672576, 2932939; 672626, 2932964; 672644, 2932957; Thence returning to 672635, 2932916.

672885, 2932427; 672815, 2932413; 672798, 2932461; 672816, 2932491; 672928, 2932555; 673050, 2932677; 673167, 2932722; 673167, 2932674; 673123, 2932585; Thence returning to 672885, 2932427.

673330, 2932364; 673320, 2932258; 673244, 2932222; 673182, 2932241; 673120, 2932305; 673050, 2932302; 673035, 2932339; 673085, 2932391; 673111, 2932394; 673139, 2932399; 673167, 2932328; 673207, 2932401; 673289, 2932390; Thence returning to 673330, 2932364.

673831, 2932283; 673790, 2932261; 673813, 2932282; Thence returning to 673831, 2932283.

673747, 2932206; 673715, 2932121; 673698, 2932164; Thence returning to 673747, 2932206.

673905, 2931605; 673915, 2931530; 673937, 2931530; 673966, 2931463; 673939, 2931442; 673940, 2931426; 673996, 2931328; 674020, 2931312; 674027, 2931260; 674067, 2931175; 673988, 2931314; 673966, 2931298; 673962, 2931246; 673945, 2931243; 673879, 2931317; 673812, 2931445; 673833, 2931509; 673825, 2931544; 673771, 2931500; 673718, 2931361; 673638, 2931328; 673573, 2931353; 673421, 2931542; 673417, 2931588; 673443, 2931621; 673477, 2931620; 673528, 2931592; 673642, 2931618; 673720, 2931569; 673758, 2931573; 673733, 2931616; 673608, 2931746; 673604, 2931864; 673617, 2931882; 673677, 2931901; 673682, 2931925; 673579, 2931955; 673560, 2932032; 673618, 2932085; 673712, 2932081; 673761, 2931972; 673773, 2931772; 673841, 2931663; 673866, 2931659; 673871, 2931631; Thence returning to 673905, 2931605.

673615, 2931173; 673609, 2931120; 673575, 2931125; 673524, 2931194; 673528, 2931313; 673572, 2931295; Thence returning to 673615, 2931173.

674034, 2931170; 674057, 2931106; 674097, 2931110; 674146, 2930966; 674141, 2930965; 674146, 2930955; 674180, 2930859; 674187, 2930793; 674162, 2930705; 674175, 2930662; 674191, 2930660; 674234, 2930696; 674263, 2930766; 674300, 2930772; 674334, 2930801; 674352, 2930779; 674375, 2930639; 674402, 2930563; 674432, 2930531; 674418, 2930500; 674498, 2930404; 674544, 2930369; 674537, 2930315; 674553, 2930252; 674526, 2930100; 674350, 2930093; 674285, 2930056; 674249, 2930072; 674048, 2930257; 674038, 2930346; 674007, 2930417; 673933, 2930450; 673921, 2930522; 673965, 2930562; 673950, 2930627; 673915, 2930635; 673881, 2930673; 673842, 2930644; 673782, 2930705; 673793, 2930751; 673773, 2930818; 673825, 2930789; 673837, 2930814; 673801, 2930870; 673749, 2930904; 673747, 2930983; 673692, 2931030; 673695, 2931081; 673717, 2931090; 673763, 2931061; 673767, 2931086; 673801, 2931108; 673801, 2931176; 673846, 2931175; 673868, 2931134; 673866, 2931068; 673796, 2930998; 673817, 2930974; 673898, 2930953; 673957, 2930904; 673969, 2930929; 673955, 2930962; 673886, 2931030; 673910, 2931126; 673927, 2931134; 673952, 2931094; 673978, 2931086; 674007, 2931024; 674016, 2931056; 673975, 2931151; 673982, 2931189; 674000, 2931197; Thence returning to 674034, 2931170.

674087, 2931139; 674089, 2931134; 674086, 2931136; 674078, 2931154; Thence returning to 674087, 2931139.

674136, 2929978; 674091, 2929953; 674049, 2929955; 673956, 2929997; 673916, 2930035; 673906, 2930106; 673967, 2930158; 673967, 2930178; 673956, 2930208; 673999, 2930218; 674108, 2930192; 674172, 2930104; 674150, 2930071; Thence returning to 674136, 2929978.

673611, 2929430; 673566, 2929413; 673495, 2929477; 673469, 2929547; 673383, 2929609; 673305, 2929701; 673258, 2929838; 673251, 2929956; 673294, 2930011; 673356, 2930058; 673556, 2930150; 673654, 2930170; 673758, 2930158; 673839, 2930137; 673868, 2930102; 673874, 2930062; 673838, 2930027; 673750, 2930002; 673692, 2929951; 673634, 2929866; 673586, 2929711; 673638, 2929478; Thence returning to 673611, 2929430.

674634, 2929572; 674652, 2929596; 674645, 2929609; 674578, 2929580; 674492, 2929465; 674406, 2929456; 674290, 2929410; 674279, 2929431; 674282, 2929481; 674330, 2929539; 674310, 2929577; 674317, 2929631; 674294, 2929718; 674394, 2929802; 674526, 2929855; 674533, 2929885; 674486, 2929929; 674499, 2929958; 674542, 2929931; 674598, 2929932; 674679, 2929853; 674753, 2929818; 674788, 2929784; 674791, 2929737; 674815, 2929719; 674797, 2929671; 674763, 2929643; 674773, 2929600; 674757, 2929595; 674728, 2929632; 674695, 2929641; 674665, 2929580; Thence returning to 674634, 2929572.

674634, 2929572; 674627, 2929521; 674664, 2929458; 674626, 2929466; 674610, 2929494; 674613, 2929539; Thence returning to 674634, 2929572.

674632, 2929352; 674696, 2929253; 674635, 2929272; 674621, 2929255; 674544, 2929284; 674504, 2929269; 674470, 2929236; 674432, 2929122; 674395, 2929137; 674384, 2929257; 674397, 2929279; 674452, 2929300; 674499, 2929362; 674565, 2929390; 674550, 2929466; 674587, 2929461; 674633, 2929418; 674644, 2929395; Thence returning to 674632, 2929352.

674729, 2928930; 674651, 2928913; 674578, 2928952; 674524, 2929045; 674533, 2929085; 674570, 2929127; 674520, 2929199; 674523, 2929222; 674546, 2929225; 674588, 2929187; 674701, 2929181; 674689, 2929155; 674694, 2929075; 674724, 2929000; Thence returning to 674729, 2928930.

674349, 2929068; 674434, 2929033; 674445, 2929000; 674524, 2928974; 674575, 2928912; 674684, 2928880; 674718, 2928841; 674729, 2928796; 674703, 2928705; 674713, 2928698; 674706, 2928653; 674730, 2928585; 674707, 2928497; 674767, 2928449; 674813, 2928432; 674854, 2928442; 674923, 2928491; 674968, 2928499; 674982, 2928523; 674974, 2928549; 675020, 2928538; 675080, 2928553; 675108, 2928526; 675120, 2928488; 675171, 2928454; 675208, 2928395; 675236, 2928298; 675267, 2928281; 675270, 2928251; 675239, 2928228; 675227, 2928195; 675276, 2928125; 675268, 2928084; 675297, 2928060; 675306, 2928025; 675292, 2928000; 675300, 2927960; 675274, 2927945; 675370, 2927850; 675346, 2927817; 675349, 2927741; 675377, 2927674; 675418, 2927645; 675407, 2927594; 675435, 2927589; 675444, 2927510; 675469, 2927484; 675441, 2927466; 675467, 2927452; 675451, 2927413; 675408, 2927367; 675401, 2927333; 675429, 2927302; 675421, 2927292; 675292, 2927248; 675243, 2927263; 675099, 2927186; 675019, 2927174; 674914, 2927185; 674812, 2927256; 674809, 2927309; 674746, 2927373; 674744, 2927398; 674803, 2927424; 674934, 2927435; 675002, 2927420; 675106, 2927351; 675202, 2927357; 675173, 2927377; 675082, 2927391; 675063, 2927431; 675107, 2927457; 675030, 2927475; 675053, 2927514; 675026, 2927552; 675033, 2927599; 675107, 2927626; 675111, 2927641; 675014, 2927626; 674896, 2927577; 674835, 2927575; 674800, 2927551; 674757, 2927572; 674728, 2927547; 674705, 2927548; 674632, 2927585; 674641, 2927604; 674747, 2927655; 674808, 2927653; 674888, 2927694; 674927, 2927767; 674997, 2927796; 674992, 2927848; 675003, 2927865; 675098, 2927938; 675049, 2927971; 675057, 2928014; 675183, 2928126; 675030, 2928069; 674944, 2928001; 674847, 2927998; 674838, 2928021; 674859, 2928075; 674917, 2928123; 674950, 2928131; 674974, 2928168; 675019, 2928168; 675028, 2928226; 674922, 2928246; 674880, 2928195; 674821, 2928046; 674788, 2928007; 674705, 2927981; 674580, 2928015; 674583, 2927994; 674644, 2927934; 674636, 2927912; 674600, 2927917; 674571, 2927946; 674481, 2927948; 674394, 2927975; 674335, 2927977; 674308, 2927958; 674216, 2928031; 674181, 2928009; 674178, 2927934; 674138, 2927928; 674079, 2927938; 674039, 2927968; 674037, 2928050; 674074, 2928050; 674078, 2928072; 673974, 2928139; 673884, 2928286; 673879, 2928309; 673897, 2928323; 674016, 2928222; 674042, 2928214; 674045, 2928254; 673956, 2928380; 673982, 2928421; 674029, 2928450; 674198, 2928458; 674380, 2928390; 674468, 2928388; 674536, 2928407; 674605, 2928385; 674539, 2928467; 674494, 2928487; 674464, 2928521; 674404, 2928534; 674370, 2928511; 674324, 2928513; 674290, 2928485; 674203, 2928519; 674094, 2928500; 673952, 2928536; 673864, 2928587; 673842, 2928637; 673878, 2928732; 673861, 2928801; 673893, 2928848; 674012, 2928927; 674074, 2929042; 674136, 2929060; 674276, 2929045; Thence returning to 674349, 2929068.

674898, 2928593; 674863, 2928580; 674841, 2928600; Thence returning to 674898, 2928593.

674453, 2927519; 674409, 2927515; 674386, 2927544; 674399, 2927580; 674503, 2927620; 674546, 2927622; 674562, 2927608; 674567, 2927583; 674537, 2927558; Thence returning to 674453, 2927519.

674754, 2927297; 674807, 2927146; 674782, 2927109; 674727, 2927082; 674719, 2926984; 674616, 2926979; 674594, 2927000; 674571, 2926937; 674507, 2926930; 674637, 2926873; 674617, 2926853; 674463, 2926864; 674444, 2926804; 674482, 2926764; 674525, 2926758; 675035, 2926886; 675204, 2926986; 675246, 2927034; 675299, 2927042; 675345, 2927070; 675382, 2927124; 675367, 2927175; 675425, 2927210; 675438, 2927208; 675453, 2927169; 675451, 2927115; 675531, 2927078; 675575, 2927027; 675532, 2926909; 675518, 2926903; 675503, 2926936; 675461, 2926946; 675477, 2927015; 675456, 2927023; 675217, 2926891; 674894, 2926764; 674646, 2926635; 674610, 2926627; 674597, 2926646; 674270, 2926581; 674149, 2926596; 674109, 2926638; 674099, 2926701; 674116, 2926755; 674211, 2926871; 674438, 2927090; 674581, 2927190; 674609, 2927170; 674700, 2927199; 674714, 2927247; 674662, 2927261; 674635, 2927291; 674692, 2927340; 674720, 2927335; Thence returning to 674754, 2927297.

675415, 2926892; 675321, 2926860; 675300, 2926878; 675310, 2926897; 675394, 2926931; 675426, 2926919; Thence returning to 675415, 2926892.

675548, 2926693; 675602, 2926666; 675665, 2926668; 675700, 2926534; 675653, 2926506; 675535, 2926541; 675535, 2926605; 675503, 2926648; 675463, 2926645; 675414, 2926669; 675368, 2926717; 675363, 2926770; 675376, 2926801; 675420, 2926836; 675545, 2926842; 675550, 2926901; 675569, 2926855; 675537, 2926824; 675527, 2926772; Thence returning to 675548, 2926693.

675263, 2926837; 675245, 2926822; 675241, 2926853; 675252, 2926859; Thence returning to 675263, 2926837.

675339, 2926678; 675328, 2926668; 675277, 2926678; 675268, 2926609; 675352, 2926538; 675372, 2926459; 675386, 2926460; 675395, 2926494; 675408, 2926483; 675415, 2926428; 675404, 2926396; 675442, 2926334; 675491, 2926295; 675514, 2926299; 675601, 2926092; 675629, 2926091; 675681, 2926024; 675690, 2925916; 675745, 2925796; 675740, 2925707; 675855, 2925625; 675915, 2925612; 675986, 2925619; 676006, 2925600; 676002, 2925571; 675897, 2925539; 675805, 2925555; 675761, 2925547; 675711, 2925485; 675652, 2925365; 675557, 2925258; 675415, 2925167; 675338, 2925143; 675308, 2925105; 675281, 2925103; 675218, 2925128; 675042, 2925290; 674996, 2925394; 674900, 2925484; 674876, 2925576; 674809, 2925560; 674754, 2925569; 674684, 2925537; 674619, 2925557; 674612, 2925607; 674630, 2925633; 674739, 2925626; 674758, 2925639; 674733, 2925665; 674666, 2925670; 674679, 2925719; 674722, 2925717; 674867, 2925661; 674921, 2925574; 674968, 2925569; 674979, 2925506; 675006, 2925460; 675037, 2925470; 675043, 2925504; 675007, 2925588; 675052, 2925560; 675070, 2925622; 675119, 2925602; 675152, 2925611; 675139, 2925677; 675057, 2925660; 675048, 2925688; 675011, 2925704; 674866, 2925706; 674725, 2925803; 674627, 2925819; 674523, 2925923; 674541, 2925971; 674582, 2925991; 674562, 2926021; 674584, 2926062; 674637, 2926049; 674683, 2926102; 674785, 2926146; 674792, 2926170; 674827, 2926198; 674854, 2926200; 674900, 2926176; 674906, 2926200; 674872, 2926231; 674901, 2926249; 674949, 2926242; 674999, 2926177; 675047, 2926182; 675047, 2926213; 674952, 2926283; 674944, 2926326; 674980, 2926350; 675011, 2926347; 675067, 2926309; 675081, 2926274; 675114, 2926259; 675143, 2926183; 675167, 2926177; 675173, 2926203; 675152, 2926293; 675097, 2926402; 675105, 2926464; 675044, 2926523; 675069, 2926609; 675123, 2926659; 675137, 2926699; 675334, 2926768; Thence returning to 675339, 2926678.

676152, 2924580; 676145, 2924599; 676118, 2924615; 676069, 2924555; 676032, 2924557; 675992, 2924517; 675938, 2924521; 675899, 2924500; 675845, 2924508; 675857, 2924544; 675916, 2924593; 675879, 2924691; 675842, 2924695; 675825, 2924713; 675818, 2924776; 675851, 2924760; 675865, 2924777; 675815, 2924848; 675721, 2924869; 675713, 2924892; 675727, 2924943; 675698, 2924980; 675705, 2925009; 675735, 2925033; 675888, 2925042; 675870, 2925080; 675882, 2925117; 675848, 2925133; 675864, 2925190; 675841, 2925228; 675847, 2925331; 675977, 2925456; 676011, 2925515; 676013, 2925565; 676029, 2925521; 676070, 2925494; 676061, 2925459; 676014, 2925477; 675981, 2925445; 675993, 2925360; 675970, 2925303; 676000, 2925172; 675995, 2925128; 676029, 2925044; 676031, 2924996; 676059, 2924966; 676088, 2924884; 676080, 2924860; 676102, 2924727; 676150, 2924652; 676163, 2924620; 676152, 2924601; Thence returning to 676152, 2924580.

674856, 2925501; 674806, 2925404; 674679, 2925395; 674636, 2925422; 674669, 2925489; 674789, 2925481; 674815, 2925502; 674831, 2925515; Thence returning to 674856, 2925501.

674477, 2925330; 674376, 2925307; 674334, 2925352; 674361, 2925387; 674503, 2925415; 674523, 2925397; 674525, 2925360; Thence returning to 674477, 2925330.

675045, 2924812; 675008, 2924798; 674950, 2924832; 674781, 2924844; 674686, 2924868; 674652, 2924941; 674688, 2925024; 674770, 2925149; 674866, 2925246; 674899, 2925267; 674935, 2925266; 674946, 2925186; 674963, 2925167; 675081, 2925156; 675121, 2925136; 675124, 2925112; 675056, 2925019; 675036, 2924968; 675036, 2924933; 675086, 2924876; Thence returning to 675045, 2924812.

675747, 2925099; 675566, 2924938; 675589, 2924890; 675572, 2924834; 675489, 2924828; 675444, 2924878; 675453, 2924910; 675524, 2924929; 675532, 2924948; 675337, 2924927; 675315, 2924939; 675330, 2924987; 675407, 2925021; 675689, 2925168; 675743, 2925214; 675783, 2925223; 675791, 2925211; Thence returning to 675747, 2925099.

675399, 2924872; 675415, 2924818; 675340, 2924813; 675271, 2924776; 675211, 2924788; 675202, 2924802; 675207, 2924829; 675283, 2924824; 675312, 2924871; 675346, 2924875; Thence returning to 675399, 2924872.

675665, 2924708; 675684, 2924625; 675734, 2924532; 675751, 2924510; 675858, 2924474; 675884, 2924452; 675898, 2924414; 675885, 2924391; 675777, 2924323; 675723, 2924325; 675616, 2924369; 675580, 2924316; 675545, 2924319; 675525, 2924282; 675481, 2924268; 675430, 2924341; 675375, 2924378; 675380, 2924427; 675348, 2924483; 675402, 2924481; 675454, 2924430; 675497, 2924459; 675583, 2924407; 675624, 2924443; 675617, 2924500; 675549, 2924549; 675516, 2924547; 675473, 2924569; 675445, 2924557; 675443, 2924508; 675430, 2924501; 675251, 2924549; 675104, 2924613; 675071, 2924663; 675132, 2924693; 675307, 2924667; 675440, 2924688; 675585, 2924663; 675591, 2924703; 675582, 2924740; 675603, 2924751; Thence returning to 675665, 2924708.

675824, 2924547; 675804, 2924545; 675772, 2924557; 675719, 2924622; 675720, 2924653; 675741, 2924689; 675815, 2924682; 675887, 2924621; 675888, 2924600; Thence returning to 675824, 2924547.

676152, 2924580; 676171, 2924561; 676154, 2924572; Thence returning to 676152, 2924580.

675204, 2924489; 675204, 2924463; 675184, 2924465; 675107, 2924497; 675090, 2924524; 675116, 2924545; 675147, 2924537; Thence returning to 675204, 2924489.

675113, 2924332; 675091, 2924329; 675049, 2924378; 675039, 2924444; 675050, 2924467; 675091, 2924424; 675115, 2924365; Thence returning to 675113, 2924332.

676897, 2922475; 676718, 2922470; 675897, 2922460; 675833, 2922494; 675772, 2922576; 675772, 2922620; 675845, 2922634; 675843, 2922702; 675804, 2922770; 675764, 2922778; 675723, 2922826; 675692, 2922828; 675685, 2922809; 675723, 2922780; 675740, 2922729; 675616, 2922763; 675644, 2922811; 675625, 2922848; 675541, 2922780; 675473, 2922818; 675349, 2922835; 675306, 2922855; 675225, 2922844; 675055, 2922878; 674981, 2922927; 674966, 2922964; 675009, 2922979; 675127, 2922950; 675242, 2922963; 675397, 2922871; 675565, 2922872; 675550, 2922900; 675481, 2922928; 675435, 2922933; 675426, 2922914; 675387, 2922916; 675377, 2922946; 675424, 2922977; 675511, 2922933; 675587, 2922934; 675749, 2922850; 675827, 2922849; 675857, 2922828; 675885, 2922776; 675938, 2922760; 675975, 2922722; 675999, 2922727; 675970, 2922808; 675918, 2922808; 675914, 2922828; 675893, 2922834; 675903, 2922860; 675993, 2922861; 675993, 2922887; 675965, 2922902; 675940, 2922978; 675947, 2922997; 676001, 2923014; 675951, 2923054; 675936, 2923087; 675936, 2923104; 675962, 2923102; 675968, 2923114; 675943, 2923190; 675922, 2923190; 675884, 2923236; 675892, 2923262; 675934, 2923285; 675954, 2923325; 676001, 2923361; 675965, 2923392; 675939, 2923441; 675965, 2923473; 675883, 2923498; 675852, 2923538; 675777, 2923537; 675751, 2923584; 675724, 2923573; 675696, 2923525; 675667, 2923537; 675697, 2923614; 675771, 2923623; 675824, 2923582; 675857, 2923620; 675839, 2923649; 675773, 2923679; 675770, 2923727; 675691, 2923771; 675676, 2923816; 675705, 2923847; 675783, 2923856; 675854, 2923888; 675878, 2923882; 675928, 2923811; 675964, 2923815; 675964, 2923835; 675888, 2923919; 675843, 2924007; 675787, 2924033; 675726, 2924037; 675715, 2924055; 675745, 2924087; 675845, 2924107; 675777, 2924215; 675768, 2924261; 675785, 2924288; 675848, 2924306; 675924, 2924264; 675949, 2924336; 676008, 2924328; 676001, 2924353; 675942, 2924412; 675948, 2924459; 675992, 2924474; 676033, 2924458; 676067, 2924378; 676054, 2924290; 676078, 2924258; 676115, 2924259; 676189, 2924309; 676197, 2924264; 676273, 2924235; 676275, 2924155; 676300, 2924148; 676317, 2924071; 676338, 2924038; 676380, 2924026; 676409, 2923949; 676447, 2923920; 676471, 2923834; 676564, 2923747; 676572, 2923712; 676546, 2923714; 676546, 2923681; 676624, 2923639; 676658, 2923598; 676641, 2923450; 676761, 2923318; 676873, 2922968; 676888, 2922781; 676911, 2922766; 676924, 2922732; 676886, 2922693; 676885, 2922640; 676920, 2922628; 676897, 2922580; 676918, 2922541; Thence returning to 676897, 2922475.

675324, 2924320; 675344, 2924291; 675338, 2924263; 675301, 2924314; 675280, 2924306; 675268, 2924328; 675275, 2924372; 675254, 2924413; 675271, 2924438; 675285, 2924431; 675320, 2924404; 675336, 2924349; Thence returning to 675324, 2924320.

675238, 2924309; 675224, 2924281; 675156, 2924291; 675152, 2924358; 675113, 2924416; 675124, 2924431; 675194, 2924408; 675182, 2924383; 675217, 2924353; Thence returning to 675238, 2924309.

674429, 2923904; 674508, 2923674; 674548, 2923451; 674561, 2923173; 674511, 2922951; 674421, 2922805; 674364, 2922763; 674333, 2922759; 674205, 2922774; 674118, 2922809; 674083, 2922834; 674043, 2922899; 674001, 2923012; 674031, 2923149; 674001, 2923184; 674013, 2923114; 673991, 2923102; 673912, 2923232; 673875, 2923405; 673872, 2923543; 673910, 2923637; 673958, 2923624; 674008, 2923582; 673949, 2923502; 673969, 2923381; 673990, 2923356; 673997, 2923283; 674011, 2923268; 674018, 2923334; 674046, 2923308; 674064, 2923310; 674091, 2923395; 674151, 2923459; 674136, 2923595; 674105, 2923643; 673967, 2923705; 673940, 2923744; 673920, 2923710; 673900, 2923705; 673850, 2923817; 673766, 2923880; 673717, 2923983; 673700, 2924055; 673762, 2924219; 673813, 2924279; 673883, 2924326; 674117, 2924327; 674182, 2924306; 674256, 2924257; 674380, 2924077; 674417, 2923983; Thence returning to 674429, 2923904.

675760, 2924167; 675757, 2924134; 675738, 2924127; 675692, 2924165; 675616, 2924146; 675570, 2924156; 675487, 2924143; 675484, 2924126; 675527, 2924094; 675532, 2924074; 675505, 2924060; 675437, 2924097; 675413, 2924088; 675439, 2924046; 675410, 2924014; 675421, 2923958; 675398, 2923935; 675385, 2923883; 675343, 2923901; 675353, 2923975; 675315, 2924008; 675299, 2924009; 675294, 2923992; 675326, 2923935; 675272, 2923906; 675161, 2923913; 675087, 2923968; 675091, 2923986; 675187, 2923999; 675142, 2924033; 675155, 2924065; 675258, 2924029; 675248, 2924065; 675174, 2924117; 675181, 2924151; 675271, 2924156; 675333, 2924181; 675370, 2924160; 675383, 2924193; 675424, 2924217; 675563, 2924234; 675744, 2924182; Thence returning to 675760, 2924167.

675747, 2923959; 675784, 2923926; 675795, 2923895; 675749, 2923891; 675662, 2923943; 675640, 2923897; 675603, 2923976; 675653, 2923987; Thence returning to 675747, 2923959.

675337, 2923864; 675333, 2923842; 675231, 2923845; 675214, 2923861; 675318, 2923877; Thence returning to 675337, 2923864.

675246, 2923800; 675301, 2923746; 675448, 2923747; 675504, 2923731; 675609, 2923751; 675674, 2923647; 675640, 2923642; 675573, 2923684; 675308, 2923679; 675224, 2923724; 675256, 2923690; 675248, 2923676; 675187, 2923707; 675073, 2923690; 675059, 2923647; 675081, 2923631; 675101, 2923630; 675139, 2923674; 675172, 2923651; 675171, 2923637; 675127, 2923617; 675126, 2923564; 675152, 2923570; 675227, 2923515; 675225, 2923487; 675201, 2923477; 675134, 2923495; 675097, 2923483; 675067, 2923500; 675042, 2923528; 675054, 2923563; 674992, 2923640; 674948, 2923639; 674920, 2923617; 674934, 2923591; 674983, 2923588; 674973, 2923555; 674985, 2923533; 674966, 2923518; 674886, 2923540; 674826, 2923612; 674842, 2923671; 674905, 2923704; 674971, 2923779; 675051, 2923794; 675086, 2923831; 675100, 2923808; 675095, 2923771; 675112, 2923749; 675135, 2923747; 675172, 2923781; 675119, 2923827; 675128, 2923857; 675151, 2923861; 675201, 2923817; Thence returning to 675246, 2923800.

675525, 2923793; 675373, 2923780; 675340, 2923805; 675356, 2923828; 675418, 2923844; 675509, 2923841; Thence returning to 675525, 2923793.

675650, 2923583; 675632, 2923553; 675572, 2923527; 675429, 2923575; 675212, 2923547; 675194, 2923572; 675203, 2923615; 675260, 2923638; 675487, 2923643; 675621, 2923629; 675646, 2923608; Thence returning to 675650, 2923583.

674115, 2923584; 674125, 2923472; 674085, 2923434; 674054, 2923434; 674015, 2923406; 674010, 2923427; 674043, 2923515; 674081, 2923488; 674093, 2923497; 674082, 2923534; 674072, 2923569; 674079, 2923602; 674095, 2923612; Thence returning to 674115, 2923584.

674000, 2923514; 673975, 2923464; 673972, 2923499; 673990, 2923522; Thence returning to 674000, 2923514.

675817, 2923474; 675823, 2923433; 675707, 2923454; 675670, 2923436; 675783, 2923409; 675877, 2923423; 675915, 2923412; 675919, 2923391; 675894, 2923356; 675815, 2923333; 675581, 2923354; 675535, 2923373; 675429, 2923372; 675331, 2923404; 675202, 2923396; 675240, 2923338; 675212, 2923332; 674952, 2923417; 674894, 2923470; 674979, 2923476; 675177, 2923447; 675322, 2923490; 675430, 2923447; 675597, 2923495; 675634, 2923513; 675770, 2923505; Thence returning to 675817, 2923474.

675037, 2923329; 675229, 2923303; 675318, 2923326; 675439, 2923310; 675516, 2923291; 675617, 2923213; 675544, 2923173; 675487, 2923178; 675422, 2923212; 675400, 2923207; 675379, 2923172; 675356, 2923198; 675336, 2923169; 675347, 2923131; 675338, 2923108; 675309, 2923132; 675316, 2923151; 675275, 2923214; 675217, 2923255; 675122, 2923249; 674935, 2923302; 674903, 2923328; 674784, 2923373; 674766, 2923396; 674765, 2923428; 674824, 2923441; 674896, 2923426; 674937, 2923396; 674970, 2923340; Thence returning to 675037, 2923329.

675261, 2923142; 675258, 2923126; 675096, 2923125; 674963, 2923145; 674831, 2923210; 674791, 2923263; 674809, 2923281; 674859, 2923287; 675028, 2923240; 675194, 2923201; Thence returning to 675261, 2923142.

675671, 2923115; 675593, 2923098; 675573, 2923125; 675610, 2923147; 675659, 2923139; Thence returning to 675671, 2923115.

675275, 2923073; 675316, 2923041; 675293, 2923034; 675249, 2923050; 675241, 2923031; 675260, 2923012; 675311, 2922989; 675334, 2923022; 675356, 2923008; 675352, 2922961; 675300, 2922961; 675200, 2923016; 675149, 2923064; 675155, 2923081; 675224, 2923086; Thence returning to 675275, 2923073.

675755, 2923015; 675645, 2922991; 675608, 2923002; 675597, 2923023; Thence returning to 675755, 2923015.

675480, 2922706; 675503, 2922644; 675448, 2922712; 675330, 2922760; 675369, 2922781; 675434, 2922785; 675472, 2922778; 675489, 2922759; Thence returning to 675480, 2922706.

675185, 2922737; 675212, 2922667; 675235, 2922690; 675264, 2922693; 675315, 2922646; 675313, 2922623; 675195, 2922655; 675171, 2922683; 675166, 2922738; Thence returning to 675185, 2922737.

675290, 2922594; 675330, 2922561; 675367, 2922585; 675408, 2922579; 675452, 2922555; 675479, 2922520; 675398, 2922544; 675365, 2922521; 675313, 2922529; 675264, 2922584; Thence returning to 675290, 2922594.

675842, 2922460; 675583, 2922457; 675580, 2922490; 675633, 2922473; 675617, 2922548; 675646, 2922533; 675698, 2922459; 675751, 2922476; 675722, 2922520; 675721, 2922537; 675735, 2922544; 675799, 2922511; Thence returning to 675842, 2922460.

(2) Subunit TX-3B: South Padre Island—Laguna Madre side: 17,862 hectares (44,137 acres) in Cameron and Willacy Counties, Texas.

(i) Unit TX-3, Subunit B, Cameron County, Texas. Coordinates are in UTM Zone 14N, North American Datum 1983 (meters E, meters N):

680954, 2904601; 680932, 2904612; 680932, 2904755; 680956, 2904703; Thence returning to 680954, 2904601.

678776, 2914596; 678854, 2914564; 678870, 2914524; 678951, 2914472; 678907, 2914471; 678862, 2914530; Thence returning to 678776, 2914596.

677342, 2919499; 677320, 2919502; 677326, 2919534; 677347, 2919529; Thence returning to 677342, 2919499.

678776, 2914596; 678749, 2914616; 678683, 2914728; 678647, 2914726; 678648, 2914626; 678779, 2914534; 678721, 2914552; 678666, 2914549; 678597, 2914469; 678613, 2914397; 678517, 2914405; 678459, 2914373; 678398, 2914311; 678363, 2914252; 678344, 2914171; 678348, 2914070; 678374, 2913962; 678408, 2913875; 678454, 2913818; 678498, 2913822; 678557, 2913864; 678544, 2913801; 678574, 2913799; 678599, 2913814; 678623, 2913870; 678651, 2913880; 678631, 2913786; 678611, 2913758; 678518, 2913774; 678504, 2913764; 678539, 2913666; 678614, 2913656; 678652, 2913604; 678563, 2913585; 678531, 2913525; 678585, 2913428; 678596, 2913346; 678616, 2913329; 678660, 2913335; 678725, 2913443; 678718, 2913485; 678693, 2913498; 678697, 2913576; 678737, 2913517; 678756, 2913519; 678805, 2913568; 678867, 2913598; 678927, 2913690; 678961, 2913704; 678973, 2913690; 678962, 2913595; 678842, 2913506; 678750, 2913386; 678735, 2913345; 678748, 2913333; 678725, 2913303; 678724, 2913278; 678773, 2913205; 678757, 2913203; 678701, 2913245; 678627, 2913184; 678627, 2913112; 678665, 2913036; 678761, 2913023; 678730, 2912994; 678739, 2912977; 678854, 2913010; 678772, 2912944; 678748, 2912875; 678750, 2912775; 678767, 2912733; 678838, 2912667; 678929, 2912659; 679071, 2912690; 679225, 2912762; 679298, 2912774; 679240, 2912735; 679266, 2912689; 679303, 2912701; 679329, 2912674; 679273, 2912633; 679299, 2912575; 679235, 2912500; 679228, 2912390; 679269, 2912341; 679389, 2912300; 679333, 2912282; 679378, 2912134; 679416, 2912125; 679429, 2912120; 679404, 2912052; 679395, 2911913; 679372, 2911906; 679350, 2911955; 679299, 2911941; 679258, 2911882; 679260, 2911812; 679340, 2911657; 679389, 2911665; 679415, 2911725; 679438, 2911733; 679542, 2911357; 679584, 2911291; 679637, 2911203; 679850, 2910377; 679695, 2910266; 679534, 2910097; 679377, 2909781; 679391, 2909727; 679427, 2909682; 679462, 2909658; 679504, 2909655; 679610, 2909791; 679690, 2909863; 679714, 2909827; 679657, 2909684; 679649, 2909596; 679680, 2909548; 679739, 2909523; 679771, 2909525; 679805, 2909560; 679803, 2909663; 679841, 2909729; 679924, 2909777; 679983, 2909783; 679858, 2909694; 679871, 2909685; 679939, 2909720; 679972, 2909711; 679934, 2909660; 679955, 2909644; 679942, 2909615; 679865, 2909558; 679796, 2909439; 679810, 2909429; 679855, 2909466; 679908, 2909477; 679929, 2909443; 679870, 2909397; 679837, 2909389; 679820, 2909368; 679840, 2909338; 679744, 2909251; 679738, 2909220; 679779, 2909180; 679729, 2909196; 679712, 2909186; 679718, 2909161; 679790, 2909111; 679802, 2909085; 679756, 2909102; 679750, 2909076; 679633, 2909096; 679576, 2909063; 679551, 2909021; 679537, 2908947; 679547, 2908808; 679590, 2908715; 679658, 2908627; 679712, 2908589; 679761, 2908622; 679772, 2908584; 679756, 2908517; 679780, 2908459; 679893, 2908397; 679885, 2908381; 679803, 2908348; 679790, 2908286; 679832, 2907987; 679938, 2907771; 679986, 2907745; 680061, 2907750; 680095, 2907775; 680137, 2907840; 680192, 2907808; 680253, 2907892; 680258, 2907859; 680229, 2907756; 680256, 2907698; 680316, 2907683; 680358, 2907727; 680368, 2907680; 680445, 2907624; 680527, 2907539; 680578, 2907558; 680652, 2907317; 680598, 2907304; 680515, 2907211; 680422, 2907176; 680355, 2907121; 680319, 2907075; 680305, 2906942; 680336, 2906873; 680363, 2906724; 680432, 2906678; 680375, 2906656; 680391, 2906601; 680418, 2906598; 680466, 2906627; 680474, 2906559; 680495, 2906518; 680553, 2906462; 680703, 2906261; 680815, 2906189; 680669, 2906224; 680491, 2906425; 680395, 2906468; 680325, 2906478; 680221, 2906458; 680156, 2906410; 680081, 2906266; 680082, 2906167; 680104, 2906090; 680174, 2905972; 680274, 2905879; 680309, 2905822; 680363, 2905787; 680387, 2905725; 680430, 2905692; 680616, 2905623; 680773, 2905595; 680831, 2905546; 680891, 2905543; 680924, 2905565; 680901, 2905436; 680932, 2905337; 680863, 2905328; 680802, 2905273; 680766, 2905178; 680722, 2905159; 680692, 2905074; 680628, 2904997; 680618, 2904904; 680587, 2904893; 680552, 2904849; 680504, 2904737; 680796, 2904478; 680680, 2904507; 680570, 2904590; 680538, 2904568; 680463, 2904579; 680389, 2904569; 680360, 2904561; 680324, 2904517; 680326, 2904411; 680346, 2904313; 680389, 2904271; 680380, 2904252; 680358, 2904249; 680361, 2904218; 680455, 2904096; 680487, 2904102; 680496, 2904130; 680512, 2904128; 680528, 2903991; 680568, 2904014; 680560, 2904079; 680577, 2904103; 680570, 2904140; 680632, 2904133; 680595, 2903982; 680564, 2903964; 680516, 2903963; 680534, 2903931; 680517, 2903914; 680525, 2903902; 680602, 2903869; 680644, 2903874; 680705, 2903956; 680670, 2904166; 680629, 2904287; 680651, 2904306; 680711, 2904200; 680814, 2904152; 680819, 2904132; 680761, 2904090; 680759, 2903957; 680768, 2903915; 680793, 2903893; 680859, 2903888; 680930, 2903926; 680961, 2903962; 680978, 2904129; 681032, 2904217; 681023, 2904313; 681005, 2904323; 680987, 2904297; 680960, 2904309; 680966, 2904369; 680975, 2904378; 681035, 2904346; 681054, 2904222; 681000, 2904061; 680997, 2903945; 681019, 2903891; 681076, 2903860; 681083, 2903801; 681117, 2903753; 681088, 2903701; 681116, 2903671; 681092, 2903639; 680994, 2903656; 680923, 2903609; 680855, 2903522; 680844, 2903457; 680819, 2903408; 680863, 2903351; 680839, 2903309; 680853, 2903290; 680890, 2903283; 680917, 2903240; 681000, 2903209; 681032, 2903238; 681046, 2903233; 681035, 2903150; 680855, 2903207; 680811, 2903183; 680810, 2903119; 680838, 2903055; 680890, 2903045; 680875, 2902998; 680890, 2902971; 680965, 2902952; 680944, 2902914; 680894, 2902903; 680884, 2902882; 680903, 2902816; 680971, 2902720; 681099, 2902690; 681357, 2902703; 681376, 2902619; 681398, 2902628; 681417, 2902611; 681417, 2902581; 681352, 2902540; 681370, 2902480; 681360, 2902453; 681249, 2902442; 681165, 2902451; 681096, 2902428; 681022, 2902375; 680965, 2902269; 680963, 2902143; 680992, 2902079; 681065, 2902060; 681075, 2902042; 681078, 2902005; 681021, 2902014; 680997, 2902002; 680995, 2901976; 681022, 2901914; 681117, 2901766; 681201, 2901696; 681259, 2901684; 681312, 2901704; 681400, 2901779; 681441, 2901835; 681457, 2901833; 681382, 2901624; 681329, 2901552; 681325, 2901488; 681356, 2901422; 681390, 2901391; 681511, 2901394; 681513, 2901304; 681576, 2901235; 681547, 2901196; 681526, 2901191; 681467, 2901249; 681447, 2901335; 681372, 2901338; 681265, 2901376; 681168, 2901366; 681106, 2901309; 681127, 2901180; 681178, 2901116; 681144, 2901082; 681150, 2901056; 681171, 2901028; 681233, 2901002; 681257, 2900965; 681270, 2900967; 681283, 2901001; 681307, 2900995; 681327, 2900954; 681269, 2900936; 681205, 2900854; 681203, 2900816; 681224, 2900742; 681285, 2900676; 681359, 2900628; 681429, 2900619; 681467, 2900631; 681500, 2900662; 681519, 2900710; 681521, 2900820; 681547, 2900907; 681585, 2900953; 681663, 2900980; 681644, 2900895; 681602, 2900891; 681565, 2900840; 681548, 2900751; 681560, 2900666; 681581, 2900618; 681644, 2900632; 681654, 2900562; 681697, 2900546; 681773, 2900560; 681787, 2900543; 681761, 2900501; 681691, 2900488; 681636, 2900444; 681598, 2900334; 681617, 2900226; 681687, 2900193; 681686, 2900168; 681641, 2900186; 681615, 2900171; 681647, 2900029; 681676, 2899987; 681776, 2899905; 681747, 2899898; 681656, 2899932; 681498, 2899956; 681465, 2899919; 681460, 2899847; 681516, 2899723; 681592, 2899644; 681617, 2899593; 681687, 2899570; 681741, 2899495; 681822, 2899438; 681817, 2899424; 681782, 2899418; 681694, 2899450; 681565, 2899450; 681573, 2899258; 681627, 2899198; 681687, 2899073; 681726, 2899028; 681769, 2899008; 681836, 2899005; 681876, 2899033; 681899, 2899077; 681924, 2899078; 681952, 2899053; 681941, 2898984; 681996, 2898931; 681987, 2898896; 681827, 2898869; 681747, 2898962; 681736, 2898957; 681734, 2898906; 681623, 2898859; 681632, 2898794; 681656, 2898755; 681714, 2898745; 681770, 2898666; 681832, 2898613; 681831, 2898563; 681803, 2898534; 681808, 2898424; 681766, 2898271; 681824, 2898211; 681877, 2898268; 681874, 2898196; 681950, 2898201; 681940, 2898151; 681869, 2898146; 681932, 2898072; 681860, 2898028; 681849, 2897959; 681933, 2897910; 682056, 2897949; 682079, 2897944; 682048, 2897907; 681929, 2897830; 681884, 2897772; 681848, 2897627; 681875, 2897512; 681918, 2897453; 681922, 2897401; 681957, 2897369; 682044, 2897377; 682129, 2897424; 682144, 2897407; 682175, 2897408; 682202, 2897359; 682180, 2897309; 682210, 2897271; 682211, 2897242; 682172, 2897207; 682163, 2897137; 682213, 2897086; 682211, 2897053; 682077, 2897081; 682038, 2897039; 682028, 2896987; 682042, 2896942; 682108, 2896886; 682176, 2896790; 682230, 2896752; 682272, 2896743; 682280, 2896709; 682249, 2896708; 682124, 2896789; 682097, 2896786; 682059, 2896717; 682048, 2896537; 682064, 2896426; 682095, 2896365; 682141, 2896345; 682253, 2896376; 682278, 2896370; 682293, 2896314; 682246, 2896250; 682254, 2896214; 682187, 2896241; 682159, 2896236; 682142, 2896213; 682170, 2896189; 682284, 2896165; 682301, 2896141; 682162, 2896132; 682098, 2896164; 682012, 2896257; 681964, 2896265; 681941, 2896241; 681930, 2896200; 681946, 2896047; 681987, 2896048; 682031, 2896105; 682046, 2896106; 682075, 2896081; 682060, 2896032; 682098, 2896005; 682088, 2895976; 682141, 2895954; 682128, 2895937; 682083, 2895944; 682060, 2895922; 681991, 2895958; 681981, 2896007; 681943, 2896024; 681935, 2895958; 681946, 2895936; 681981, 2895932; 681984, 2895913; 682022, 2895911; 682031, 2895896; 682039, 2895832; 681988, 2895863; 681964, 2895858; 681959, 2895833; 681982, 2895804; 681980, 2895776; 682026, 2895737; 682085, 2895739; 682140, 2895716; 682206, 2895640; 682213, 2895665; 682180, 2895708; 682212, 2895720; 682307, 2895852; 682288, 2895772; 682313, 2895770; 682333, 2895698; 682288, 2895670; 682300, 2895596; 682337, 2895549; 682473, 2895464; 682460, 2895449; 682400, 2895487; 682375, 2895483; 682300, 2895550; 682270, 2895557; 682137, 2895461; 682134, 2895443; 682170, 2895420; 682121, 2895379; 682174, 2895346; 682172, 2895329; 682141, 2895324; 682139, 2895307; 682188, 2895284; 682232, 2895281; 682287, 2895308; 682344, 2895278; 682455, 2895322; 682486, 2895307; 682477, 2895287; 682398, 2895263; 682379, 2895226; 682390, 2895216; 682488, 2895227; 682510, 2895097; 682463, 2895096; 682388, 2895067; 682325, 2895073; 682294, 2895055; 682242, 2894950; 682230, 2894853; 682250, 2894831; 682286, 2894835; 682290, 2894814; 682257, 2894810; 682254, 2894794; 682297, 2894777; 682343, 2894790; 682404, 2894768; 682469, 2894773; 682514, 2894824; 682559, 2894691; 682470, 2894682; 682411, 2894624; 682349, 2894600; 682339, 2894560; 682288, 2894585; 682213, 2894577; 682125, 2894524; 682103, 2894468; 682145, 2894412; 682253, 2894358; 682371, 2894378; 682489, 2894473; 682562, 2894455; 682595, 2894329; 682576, 2894297; 682489, 2894269; 682470, 2894240; 682461, 2894177; 681328, 2894161; 681333, 2894208; 681374, 2894258; 681473, 2894316; 681624, 2894355; 681691, 2894394; 681700, 2894436; 681642, 2894494; 681649, 2894542; 681710, 2894574; 681740, 2894647; 681831, 2894707; 681822, 2894756; 681664, 2894872; 681654, 2894990; 681562, 2895123; 681512, 2895309; 681550, 2895424; 681550, 2895478; 681538, 2895512; 681476, 2895577; 681467, 2895641; 681471, 2895712; 681490, 2895757; 681634, 2895854; 681697, 2895915; 681724, 2895984; 681739, 2896089; 681655, 2896278; 681631, 2896461; 681597, 2896523; 681580, 2896603; 681556, 2896647; 681454, 2896754; 681197, 2896978; 681151, 2897250; 681014, 2897452; 681000, 2897495; 680986, 2897652; 680996, 2897663; 681045, 2897634; 681065, 2897641; 681067, 2897844; 680994, 2898096; 680952, 2898435; 680904, 2898623; 680904, 2898739; 680868, 2898954; 680896, 2899046; 680954, 2899120; 681023, 2899147; 681029, 2899199; 680980, 2899270; 680898, 2899269; 680912, 2899404; 680844, 2899610; 680878, 2899717; 680866, 2899796; 680731, 2900078; 680635, 2900334; 680565, 2900722; 680437, 2900933; 680353, 2901121; 680282, 2901383; 680217, 2901761; 680022, 2902538; 679991, 2902760; 679987, 2902988; 680068, 2903310; 680091, 2903460; 680060, 2904027; 680014, 2904325; 679906, 2904654; 679871, 2904715; 679778, 2904816; 679599, 2904914; 679560, 2905114; 679570, 2905287; 679498, 2905448; 679390, 2905612; 679239, 2905770; 679169, 2905877; 679024, 2906510; 678975, 2906632; 678795, 2906944; 678731, 2907106; 678568, 2907765; 678400, 2908369; 678248, 2908787; 677974, 2909373; 677707, 2909802; 677579, 2910076; 677531, 2910232; 677433, 2910391; 677376, 2910555; 677183, 2911256; 677139, 2911355; 676990, 2911571; 676986, 2911619; 677015, 2911639; 676954, 2911726; 676851, 2911821; 676727, 2911983; 676617, 2912025; 676571, 2912082; 676439, 2912158; 676385, 2912262; 676311, 2912325; 676262, 2912348; 676244, 2912286; 676174, 2912293; 676088, 2912353; 676073, 2912443; 676000, 2912467; 675948, 2912529; 675809, 2912645; 675672, 2912697; 675659, 2912727; 675660, 2912881; 675636, 2912886; 675624, 2912822; 675587, 2912810; 675526, 2912905; 675397, 2912950; 675380, 2912985; 675347, 2912971; 675306, 2912984; 675260, 2913064; 675216, 2913048; 675157, 2913084; 675128, 2913192; 675087, 2913181; 675039, 2913204; 674992, 2913277; 674914, 2913283; 674870, 2913339; 674720, 2913470; 674625, 2913537; 674533, 2913574; 674467, 2913632; 674412, 2913697; 674148, 2914161; 674103, 2914186; 674059, 2914300; 673973, 2914370; 673909, 2914448; 673744, 2914689; 673660, 2914843; 673507, 2915017; 673460, 2915126; 673400, 2915204; 673355, 2915313; 673331, 2915436; 673249, 2915621; 673207, 2915685; 673089, 2915799; 673067, 2916014; 673040, 2916090; 673004, 2916137; 672931, 2916170; 672897, 2916260; 672851, 2916549; 672709, 2916798; 672649, 2916937; 672610, 2917093; 672600, 2917250; 672558, 2917365; 672421, 2917586; 672344, 2917747; 672240, 2918076; 672151, 2918280; 672117, 2918345; 672046, 2918422; 672045, 2918438; 672080, 2918449; 672074, 2918490; 672050, 2918522; 672026, 2918519; 672019, 2918585; 671983, 2918656; 671872, 2918983; 671697, 2919584; 671672, 2919637; 671617, 2919686; 671583, 2919743; 671559, 2919881; 671494, 2920028; 671496, 2920121; 671438, 2920221; 671402, 2920374; 671301, 2920641; 671225, 2920907; 671166, 2921020; 671139, 2921143; 670999, 2921469; 670674, 2922383; 675583, 2922457; 675579, 2922437; 675525, 2922427; 675530, 2922399; 675625, 2922369; 675683, 2922387; 675687, 2922316; 675639, 2922323; 675626, 2922347; 675484, 2922385; 675370, 2922340; 675337, 2922256; 675325, 2922126; 675334, 2922069; 675492, 2921838; 675544, 2921783; 675572, 2921776; 675651, 2921772; 675703, 2921803; 675726, 2921854; 675732, 2921941; 675783, 2921989; 675799, 2922038; 675910, 2922008; 676024, 2922007; 676049, 2922021; 676059, 2921967; 675846, 2921972; 675798, 2921937; 675802, 2921806; 675826, 2921733; 675863, 2921676; 675958, 2921626; 676041, 2921668; 676093, 2921734; 676136, 2921833; 676221, 2921857; 676257, 2921890; 676320, 2921969; 676330, 2922028; 676323, 2922055; 676273, 2922087; 676234, 2922141; 676062, 2922153; 676037, 2922167; 675980, 2922268; 675938, 2922385; 675842, 2922459; 675897, 2922460; 675990, 2922374; 676075, 2922227; 676106, 2922206; 676277, 2922154; 676393, 2922213; 676488, 2922231; 676495, 2922208; 676422, 2922172; 676432, 2922145; 676466, 2922133; 676569, 2922172; 676776, 2922314; 676837, 2922377; 676896, 2922472; 676872, 2922412; 676880, 2922371; 676868, 2922311; 676947, 2921969; 676980, 2921957; 676854, 2921900; 676774, 2921819; 676705, 2921832; 676600, 2921746; 676516, 2921625; 676448, 2921390; 676382, 2921381; 676235, 2921286; 676086, 2921164; 676072, 2921101; 676134, 2921021; 676135, 2920978; 676166, 2920941; 676223, 2920901; 676283, 2920891; 676337, 2920907; 676378, 2920987; 676365, 2921006; 676300, 2921005; 676306, 2921100; 676395, 2921043; 676441, 2921043; 676476, 2921066; 676495, 2921163; 676515, 2921173; 676513, 2921113; 676478, 2921031; 676496, 2921004; 676489, 2920944; 676518, 2920929; 676505, 2920836; 676485, 2920807; 676456, 2920802; 676472, 2920882; 676432, 2920934; 676400, 2920951; 676373, 2920933; 676358, 2920892; 676353, 2920838; 676371, 2920814; 676484, 2920762; 676517, 2920730; 676558, 2920727; 676607, 2920760; 676680, 2920850; 676764, 2920880; 676796, 2920861; 676817, 2920812; 676891, 2920819; 676926, 2920789; 676917, 2920776; 676868, 2920788; 676820, 2920773; 676754, 2920823; 676683, 2920816; 676716, 2920812; 676737, 2920744; 676674, 2920708; 676673, 2920687; 676736, 2920690; 676795, 2920737; 676825, 2920726; 676736, 2920651; 676734, 2920598; 676711, 2920552; 676683, 2920544; 676688, 2920521; 676742, 2920532; 676755, 2920515; 676710, 2920472; 676709, 2920410; 676675, 2920456; 676653, 2920447; 676631, 2920393; 676639, 2920342; 676687, 2920335; 676769, 2920393; 676827, 2920511; 676892, 2920485; 676952, 2920514; 677001, 2920662; 677055, 2920712; 677006, 2920568; 677037, 2920547; 677051, 2920401; 677101, 2920397; 677095, 2920335; 677134, 2920308; 677170, 2920235; 677207, 2920206; 677182, 2920200; 677177, 2920169; 677147, 2920170; 677163, 2920110; 677189, 2920080; 677217, 2920075; 677250, 2920123; 677370, 2920134; 677398, 2920098; 677356, 2920100; 677363, 2920070; 677400, 2920043; 677455, 2920044; 677471, 2920027; 677432, 2919992; 677336, 2920051; 677300, 2920098; 677275, 2920102; 677238, 2920056; 677182, 2920036; 677207, 2920025; 677204, 2920014; 677149, 2919978; 677103, 2919978; 677072, 2919952; 677070, 2919896; 677040, 2919867; 677020, 2919786; 676949, 2919740; 676952, 2919712; 676967, 2919698; 676997, 2919707; 677024, 2919678; 677064, 2919712; 677084, 2919661; 677100, 2919655; 677158, 2919684; 677189, 2919737; 677197, 2919663; 677126, 2919637; 677097, 2919598; 677062, 2919613; 676996, 2919597; 676977, 2919509; 676980, 2919437; 677000, 2919391; 677085, 2919300; 677109, 2919229; 677133, 2919249; 677133, 2919303; 677154, 2919370; 677177, 2919385; 677195, 2919378; 677168, 2919334; 677151, 2919242; 677154, 2919205; 677175, 2919172; 677192, 2919173; 677216, 2919207; 677285, 2919229; 677334, 2919328; 677342, 2919411; 677356, 2919407; 677378, 2919333; 677345, 2919308; 677340, 2919286; 677356, 2919267; 677381, 2919297; 677396, 2919281; 677379, 2919231; 677347, 2919213; 677345, 2919149; 677307, 2919115; 677293, 2919185; 677273, 2919206; 677208, 2919167; 677195, 2919135; 677214, 2919030; 677288, 2918940; 677312, 2918949; 677330, 2919059; 677335, 2919018; 677351, 2919023; 677359, 2918976; 677385, 2918950; 677504, 2919023; 677525, 2919100; 677523, 2919250; 677543, 2919259; 677548, 2919140; 677562, 2919137; 677586, 2919181; 677598, 2919174; 677571, 2919078; 677573, 2919034; 677608, 2919056; 677614, 2919047; 677586, 2918925; 677537, 2918955; 677511, 2918903; 677525, 2918876; 677598, 2918887; 677621, 2918830; 677523, 2918854; 677483, 2918827; 677440, 2918826; 677408, 2918799; 677396, 2918755; 677423, 2918674; 677415, 2918591; 677447, 2918535; 677480, 2918519; 677569, 2918683; 677593, 2918697; 677571, 2918614; 677510, 2918521; 677508, 2918471; 677535, 2918462; 677587, 2918524; 677676, 2918577; 677702, 2918699; 677719, 2918650; 677770, 2918676; 677774, 2918642; 677742, 2918603; 677742, 2918561; 677715, 2918533; 677720, 2918490; 677645, 2918466; 677630, 2918442; 677661, 2918337; 677628, 2918328; 677620, 2918300; 677637, 2918282; 677755, 2918349; 677848, 2918382; 677861, 2918375; 677824, 2918326; 677891, 2918292; 677869, 2918249; 677877, 2918201; 677847, 2918198; 677844, 2918182; 677859, 2918163; 677921, 2918154; 677921, 2918133; 677887, 2918111; 677893, 2918072; 677913, 2918039; 677962, 2918037; 677943, 2917993; 677970, 2917929; 677957, 2917842; 677989, 2917790; 678030, 2917774; 678105, 2917700; 678036, 2917661; 678227, 2916859; 678259, 2916834; 678191, 2916829; 678132, 2916785; 678099, 2916709; 678110, 2916640; 678131, 2916622; 678220, 2916605; 678213, 2916564; 678107, 2916571; 678067, 2916638; 678026, 2916664; 677931, 2916663; 677843, 2916605; 677800, 2916531; 677823, 2916465; 677774, 2916430; 677767, 2916347; 677690, 2916354; 677651, 2916319; 677649, 2916268; 677697, 2916241; 677701, 2916222; 677620, 2916223; 677592, 2916133; 677638, 2916118; 677644, 2916101; 677584, 2916073; 677586, 2916031; 677608, 2916007; 677641, 2916007; 677711, 2916046; 677943, 2916356; 678191, 2916490; 678334, 2916527; 678401, 2916290; 678341, 2916239; 678304, 2916161; 678303, 2916129; 678336, 2916035; 678415, 2916015; 678345, 2915900; 678353, 2915849; 678379, 2915807; 678372, 2915767; 678398, 2915698; 678460, 2915619; 678531, 2915575; 678615, 2915565; 678585, 2915523; 678516, 2915531; 678517, 2915416; 678565, 2915417; 678586, 2915441; 678608, 2915441; 678583, 2915329; 678575, 2915316; 678520, 2915312; 678492, 2915224; 678509, 2915214; 678545, 2915245; 678573, 2915247; 678615, 2915134; 678658, 2915096; 678696, 2915102; 678767, 2915178; 678747, 2915105; 678709, 2915064; 678709, 2915037; 678642, 2915013; 678647, 2914746; 678726, 2914797; 678789, 2914810; 678726, 2914729; 678741, 2914635; 678776, 2914596; 674081, 2914679; 674037, 2914676; 674027, 2914586; 674003, 2914558; 674008, 2914515; 674035, 2914487; 674041, 2914450; 674088, 2914418; 674140, 2914411; 674234, 2914449; 674265, 2914504; 674252, 2914552; 674125, 2914662; 674081, 2914679; 678020, 2914552; 678039, 2914582; 678017, 2914613; 677995, 2914583; 678020, 2914552; 678260, 2915087; 678391, 2915168; 678447, 2915237; 678467, 2915296; 678426, 2915310; 678308, 2915255; 678048, 2915078; 678036, 2915051; 678065, 2915039; 678260, 2915087; 678115, 2915300; 678093, 2915322; 678068, 2915312; 678053, 2915244; 678068, 2915211; 678118, 2915227; 678115, 2915300; 678012, 2915454; 678390, 2915482; 678425, 2915507; 678428, 2915538; 678398, 2915567; 678316, 2915582; 678118, 2915566; 677992, 2915485; 677984, 2915461; 678012, 2915454; 678181, 2916006; 678109, 2915997; 678045, 2915950; 677945, 2915740; 677950, 2915688; 678066, 2915758; 678163, 2915793; 678240, 2915845; 678283, 2915933; 678282, 2915988; 678181, 2916006; 677555, 2915997; 677528, 2915995; 677517, 2915944; 677534, 2915894; 677567, 2915885; 677592, 2915929; 677585, 2915966; 677555, 2915997; 676880, 2916735; 676942, 2916768; 676952, 2916871; 677006, 2916865; 677020, 2916880; 677030, 2916918; 676996, 2916942; 676991, 2916972; 676909, 2916978; 676909, 2916913; 676837, 2916815; 676840, 2916761; 676880, 2916735; 677176, 2917007; 677213, 2917015; 677264, 2917054; 677272, 2917092; 677258, 2917138; 677210, 2917159; 677151, 2917157; 677108, 2917123; 677106, 2917047; 677130, 2917018; 677176, 2917007; 677327, 2917285; 677399, 2917298; 677472, 2917350; 677603, 2917359; 677628, 2917378; 677636, 2917417; 677614, 2917448; 677559, 2917478; 677525, 2917473; 677379, 2917524; 677314, 2917471; 677280, 2917413; 677286, 2917371; 677327, 2917285; 677823, 2917619; 677915, 2917629; 677934, 2917647; 677940, 2917676; 677924, 2917706; 677932, 2917744; 677896, 2917787; 677845, 2917788; 677819, 2917759; 677806, 2917665; 677742, 2917738; 677714, 2917733; 677695, 2917708; 677692, 2917675; 677742, 2917619; 677823, 2917619; 677435, 2917722; 677449, 2917826; 677425, 2917936; 677351, 2917989; 677216, 2918001; 677193, 2917908; 677228, 2917851; 677403, 2917728; 677435, 2917722; 675145, 2917940; 675128, 2918060; 674987, 2918161; 674956, 2918173; 674919, 2918165; 674857, 2918097; 674853, 2918050; 674891, 2917968; 674927, 2917810; 674977, 2917743; 675054, 2917735; 675106, 2917763; 675140, 2917829; 675145, 2917940; 674652, 2918152; 674619, 2918263; 674587, 2918313; 674473, 2918383; 674313, 2918392; 674265, 2918365; 674238, 2918325; 674235, 2918257; 674259, 2918182; 674270, 2918167; 674293, 2918181; 674310, 2918166; 674289, 2918091; 674298, 2918076; 674323, 2918082; 674330, 2918043; 674318, 2918011; 674357, 2917910; 674398, 2917884; 674443, 2918002; 674517, 2918041; 674467, 2917965; 674467, 2917919; 674445, 2917873; 674449, 2917799; 674483, 2917748; 674593, 2917751; 674635, 2917780; 674657, 2917815; 674671, 2917896; 674652, 2918152; 672391, 2918347; 672374, 2918398; 672345, 2918392; 672371, 2918338; 672391, 2918347; 674057, 2918370; 674094, 2918377; 674114, 2918403; 674117, 2918509; 674061, 2918545; 674012, 2918550; 673993, 2918537; 673985, 2918505; 673997, 2918415; 674057, 2918370; 677782, 2918281; 677775, 2918256; 677708, 2918270; 677661, 2918237; 677670, 2918202; 677711, 2918178; 677742, 2918124; 677761, 2918124; 677827, 2918244; 677821, 2918281; 677795, 2918313; 677783, 2918312; 677782, 2918281; 677813, 2918132; 677780, 2918054; 677812, 2918007; 677779, 2918001; 677745, 2918027; 677721, 2917948; 677805, 2917881; 677882, 2917862; 677915, 2917887; 677919, 2917928; 677846, 2918106; 677825, 2918137; 677813, 2918132; 677711, 2918024; 677729, 2918107; 677701, 2918118; 677690, 2918158; 677638, 2918175; 677650, 2918011; 677689, 2917970; 677711, 2918024; 672812, 2918621; 672796, 2918603; 672798, 2918562; 672812, 2918538; 672835, 2918538; 672849, 2918576; 672812, 2918621; 672499, 2918608; 672511, 2918627; 672506, 2918661; 672463, 2918696; 672452, 2918630; 672465, 2918613; 672499, 2918608; 677390, 2918871; 677387, 2918893; 677342, 2918937; 677333, 2918915; 677343, 2918881; 677361, 2918862; 677390, 2918871; 672938, 2918854; 672926, 2918897; 672896, 2918914; 672893, 2918852; 672929, 2918828; 672938, 2918854; 673514, 2918871; 673541, 2918884; 673559, 2918939; 673479, 2918953; 673472, 2918924; 673484, 2918895; 673514, 2918871; 673159, 2918948; 673162, 2919009; 673152, 2919023; 673123, 2919016; 673137, 2918949; 673159, 2918948; 673977, 2919125; 673967, 2919157; 673935, 2919157; 673917, 2919139; 673917, 2919102; 673949, 2919090; 673977, 2919125; 673649, 2919176; 673665, 2919208; 673660, 2919258; 673588, 2919240; 673619, 2919168; 673649, 2919176; 674364, 2919378; 674330, 2919373; 674320, 2919336; 674348, 2919291; 674370, 2919280; 674392, 2919304; 674399, 2919358; 674364, 2919378; 674103, 2919486; 674069, 2919531; 674049, 2919537; 674025, 2919516; 674026, 2919451; 674060, 2919387; 674103, 2919412; 674103, 2919486; 674816, 2919498; 674843, 2919519; 674846, 2919595; 674824, 2919644; 674787, 2919678; 674760, 2919647; 674757, 2919597; 674788, 2919525; 674816, 2919498; 674526, 2919651; 674523, 2919693; 674500, 2919730; 674424, 2919719; 674408, 2919704; 674466, 2919597; 674502, 2919598; 674526, 2919651; 674796, 2919758; 674794, 2919785; 674763, 2919805; 674754, 2919768; 674769, 2919739; 674796, 2919758; 676862, 2919799; 676907, 2919811; 677029, 2919953; 677074, 2920030; 677116, 2920053; 677125, 2920089; 677121, 2920220; 677105, 2920275; 677068, 2920280; 677036, 2920260; 676988, 2920273; 676983, 2920315; 676961, 2920312; 676962, 2920360; 676944, 2920375; 676906, 2920366; 676925, 2920287; 676905, 2920276; 676922, 2920201; 676846, 2920195; 676827, 2920172; 676828, 2920141; 676889, 2920034; 676950, 2920093; 676961, 2920198; 676985, 2920178; 676996, 2920107; 676976, 2920070; 676943, 2920057; 676904, 2920009; 676927, 2919940; 676899, 2919943; 676842, 2919898; 676836, 2919851; 676862, 2919799; 676843, 2919931; 676852, 2919980; 676843, 2920024; 676771, 2920052; 676779, 2920078; 676802, 2920050; 676820, 2920060; 676806, 2920167; 676766, 2920254; 676725, 2920267; 676716, 2920225; 676747, 2920193; 676717, 2920166; 676736, 2920127; 676716, 2920088; 676722, 2920040; 676817, 2919890; 676843, 2919931; 676828, 2920214; 676884, 2920255; 676829, 2920341; 676774, 2920310; 676798, 2920238; 676828, 2920214; 677019, 2920398; 676998, 2920436; 676990, 2920505; 676947, 2920457; 676873, 2920449; 676865, 2920433; 676894, 2920389; 676910, 2920423; 676946, 2920418; 676973, 2920378; 677019, 2920398; 676610, 2920596; 676588, 2920595; 676574, 2920570; 676592, 2920545; 676622, 2920538; 676628, 2920575; 676610, 2920596; 677703, 2913326; 677755, 2913348; 677766, 2913392; 677716, 2913486; 677680, 2913520; 677643, 2913528; 677624, 2913504; 677620, 2913451; 677644, 2913425; 677661, 2913364; 677703, 2913326; 678000, 2912455; 678025, 2912460; 678057, 2912498; 678070, 2912542; 678065, 2912596; 678004, 2912660; 677937, 2912665; 677913, 2912634; 677914, 2912585; 677978, 2912470; 678000, 2912455; 678401, 2910844; 678396, 2910772; 678410, 2910702; 678443, 2910668; 678497, 2910655; 678585, 2910694; 678682, 2910824; 678690, 2910902; 678651, 2910996; 678595, 2911093; 678527, 2911160; 678391, 2911178; 678318, 2911138; 678273, 2911087; 678264, 2911037; 678273, 2910985; 678318, 2910940; 678336, 2910899; 678396, 2910881; 678401, 2910844; 678202, 2910837; 678172, 2910816; 678161, 2910738; 678170, 2910707; 678197, 2910749; 678202, 2910837; 680037, 2905809; 679976, 2905779; 679862, 2905797; 679799, 2905769; 679784, 2905748; 679832, 2905755; 679901, 2905635; 679986, 2905667; 679929, 2905596; 679874, 2905559; 679867, 2905523; 679834, 2905503; 679872, 2905471; 679985, 2905470; 679949, 2905432; 679860, 2905424; 679855, 2905340; 679887, 2905296; 679978, 2905284; 680027, 2905312; 680076, 2905383; 680076, 2905412; 680040, 2905445; 680037, 2905473; 680128, 2905541; 680191, 2905628; 680193, 2905744; 680121, 2905844; 680086, 2905847; 680037, 2905809; 680595, 2905401; 680505, 2905387; 680360, 2905393; 680327, 2905356; 680316, 2905235; 680341, 2905176; 680385, 2905127; 680403, 2905034; 680418, 2905022; 680455, 2905071; 680485, 2905163; 680471, 2905298; 680481, 2905317; 680509, 2905297; 680510, 2905241; 680534, 2905175; 680571, 2905158; 680662, 2905214; 680769, 2905344; 680760, 2905366; 680702, 2905386; 680595, 2905401; 680148, 2905145; 680117, 2905143; 680104, 2905113; 680156, 2905093; 680168, 2905118; 680148, 2905145; 679822, 2905544; 679771, 2905547; 679757, 2905525; 679776, 2905507; 679822, 2905544; 679709, 2905550; 679689, 2905590; 679685, 2905550; 679709, 2905550; 679744, 2905578; 679759, 2905583; 679758, 2905600; 679741, 2905615; 679744, 2905578; 679815, 2905590; 679820, 2905609; 679792, 2905613; 679795, 2905597; 679815, 2905590; 679843, 2905596; 679864, 2905587; 679875, 2905606; 679843, 2905596; 679835, 2905634; 679857, 2905645; 679861, 2905676; 679847, 2905696; 679793, 2905708; 679793, 2905669; 679835, 2905634; 680459, 2904068; 680437, 2904057; 680448, 2903978; 680481, 2903954; 680498, 2903991; 680493, 2904051; 680459, 2904068; 680838, 2903791; 680802, 2903790; 680761, 2903755; 680759, 2903726; 680785, 2903678; 680758, 2903571; 680779, 2903520; 680848, 2903565; 680938, 2903671; 680937, 2903700; 680909, 2903741; 680838, 2903791; 681432, 2899286; 681471, 2899278; 681496, 2899317; 681452, 2899362; 681413, 2899375; 681395, 2899368; 681387, 2899341; 681432, 2899286; 681519, 2898591; 681581, 2898687; 681586, 2898730; 681543, 2898783; 681498, 2898805; 681440, 2898762; 681399, 2898675; 681434, 2898621; 681519, 2898591; 681647, 2898678; 681596, 2898651; 681581, 2898616; 681579, 2898521; 681541, 2898478; 681553, 2898447; 681592, 2898426; 681606, 2898385; 681641, 2898355; 681604, 2898333; 681627, 2898304; 681625, 2898276; 681649, 2898260; 681641, 2898236; 681655, 2898201; 681646, 2898193; 681629, 2898217; 681594, 2898205; 681583, 2898260; 681548, 2898229; 681474, 2898228; 681458, 2898201; 681489, 2898060; 681557, 2897985; 681608, 2897964; 681688, 2897981; 681710, 2898011; 681725, 2898120; 681715, 2898240; 681738, 2898266; 681743, 2898313; 681742, 2898338; 681718, 2898356; 681773, 2898497; 681766, 2898597; 681704, 2898665; 681647, 2898678; 681792, 2897999; 681817, 2897992; 681847, 2898080; 681851, 2898116; 681820, 2898142; 681793, 2898135; 681772, 2898099; 681792, 2897999; 681540, 2898317; 681574, 2898324; 681560, 2898353; 681520, 2898363; 681469, 2898414; 681499, 2898519; 681412, 2898545; 681396, 2898524; 681392, 2898474; 681437, 2898407; 681447, 2898294; 681466, 2898287; 681490, 2898302; 681542, 2898265; 681550, 2898292; 681540, 2898317; 681344, 2897652; 681390, 2897603; 681414, 2897609; 681450, 2897642; 681463, 2897694; 681455, 2897758; 681433, 2897803; 681391, 2897861; 681345, 2897878; 681305, 2897857; 681287, 2897815; 681304, 2897723; 681344, 2897652; 681777, 2896553; 681818, 2896556; 681857, 2896585; 681844, 2896663; 681872, 2896747; 682013, 2896888; 682018, 2896929; 681998, 2896959; 681906, 2897018; 681816, 2897021; 681716, 2896907; 681705, 2896784; 681727, 2896612; 681777, 2896553; 681918, 2896556; 681983, 2896617; 682017, 2896693; 682036, 2896786; 682022, 2896820; 681941, 2896774; 681882, 2896714; 681870, 2896666; 681873, 2896586; 681918, 2896556; 682042, 2896270; 682088, 2896234; 682121, 2896235; 682118, 2896331; 682097, 2896346; 682053, 2896345; 682039, 2896325; 682042, 2896270; 682035, 2895491; 682058, 2895483; 682093, 2895544; 682198, 2895577; 682209, 2895597; 682119, 2895664; 682052, 2895667; 681986, 2895644; 681964, 2895602; 681965, 2895560; 682023, 2895521; 682035, 2895491; 682111, 2894916; 682189, 2894963; 682223, 2895018; 682220, 2895040; 682188, 2895043; 682149, 2895000; 682106, 2894990; 682097, 2894933; 682111, 2894916; 681940, 2894696; 681996, 2894687; 681991, 2894763; 681947, 2894758; 681940, 2894696; 682306, 2894703; 682302, 2894684; 682259, 2894690; 682249, 2894674; 682237, 2894638; 682251, 2894619; 682376, 2894660; 682449, 2894721; 682296, 2894729; 682289, 2894719; Thence returning to 682306, 2894703.

(ii) Unit TX-3, Subunit B, Willacy County, Texas. Coordinates are in UTM Zone 14N, North American Datum 1983 (meters E, meters N):

674863, 2928580; 674898, 2928593; 674974, 2928549; 674982, 2928523; 674968, 2928499; 674923, 2928491; 674854, 2928442; 674813, 2928432; 674767, 2928449; 674707, 2928497; 674730, 2928585; 674706, 2928653; 674713, 2928698; 674841, 2928600; Thence returning to 674863, 2928580.

674182, 2930854; 674238, 2930763; 674263, 2930766; 674234, 2930696; 674191, 2930660; 674175, 2930662; 674162, 2930705; 674187, 2930793; 674180, 2930859; Thence returning to 674182, 2930854.

674146, 2930966; 674146, 2930955; 674141, 2930965; Thence returning to 674146, 2930966.

673605, 2933059; 673625, 2933052; 673631, 2933030; 673621, 2933022; Thence returning to 673605, 2933059.

672719, 2935154; 672772, 2935019; 672723, 2935055; 672694, 2935004; 672646, 2935079; 672652, 2935133; 672681, 2935108; Thence returning to 672719, 2935154.

672639, 2935445; 672653, 2935425; 672580, 2935471; 672593, 2935510; Thence returning to 672639, 2935445.

671473, 2938015; 671498, 2938008; 671524, 2938035; 671560, 2938032; 671635, 2938013; 671657, 2937975; 671623, 2937966; 671617, 2937928; 671596, 2937991; 671540, 2937980; 671552, 2937938; 671525, 2937925; 671593, 2937890; 671575, 2937859; 671553, 2937855; 671520, 2937865; 671505, 2937918; 671476, 2937898; 671448, 2937904; 671403, 2937991; 671418, 2938062; 671438, 2938060; Thence returning to 671473, 2938015.

671754, 2938202; 671772, 2938118; 671766, 2938079; 671791, 2938053; 671802, 2938004; 671768, 2937987; 671763, 2937950; 671794, 2937911; 671787, 2937819; 671705, 2937894; 671719, 2937955; 671655, 2938036; 671618, 2938063; 671586, 2938044; 671549, 2938081; 671521, 2938084; 671514, 2938128; 671459, 2938116; 671543, 2938162; 671547, 2938194; 671583, 2938203; 671677, 2938272; 671731, 2938336; 671752, 2938318; 671754, 2938202; 671656, 2938087; 671717, 2938054; 671738, 2938092; 671655, 2938113; Thence returning to 671656, 2938087.

663458, 2938608; 663397, 2938598; 663367, 2938569; 663357, 2938599; 663423, 2938637; Thence returning to 663458, 2938608.

669112, 2938701; 669101, 2938699; 669087, 2938727; 669020, 2938958; 668990, 2939018; 669017, 2939020; 669074, 2938881; Thence returning to 669112, 2938701.

671897, 2938877; 671827, 2938745; 671750, 2938687; 671701, 2938564; 671683, 2938558; 671658, 2938519; 671683, 2938514; 671731, 2938533; 671724, 2938482; 671708, 2938494; 671669, 2938456; 671639, 2938472; 671611, 2938458; 671613, 2938507; 671648, 2938592; 671617, 2938625; 671845, 2938838; 671848, 2938862; 671828, 2938868; 671842, 2938927; 671831, 2939009; 671789, 2939053; 671853, 2939060; 671871, 2939046; 671901, 2938921; Thence returning to 671897, 2938877.

673605, 2933059; 673585, 2933022; 673504, 2932999; 673304, 2932785; 673270, 2932678; 673280, 2932657; 673307, 2932659; 673306, 2932625; 673273, 2932602; 673270, 2932570; 673299, 2932551; 673364, 2932603; 673417, 2932588; 673396, 2932540; 673345, 2932537; 673309, 2932493; 673359, 2932386; 673417, 2932326; 673616, 2932313; 673665, 2932279; 673761, 2932297; 673868, 2932348; 673908, 2932343; 673831, 2932283; 673813, 2932282; 673790, 2932261; 673762, 2932245; 673747, 2932206; 673698, 2932164; 673715, 2932121; 673696, 2932107; 673712, 2932081; 673618, 2932085; 673560, 2932032; 673579, 2931955; 673682, 2931925; 673677, 2931901; 673617, 2931882; 673604, 2931864; 673608, 2931746; 673733, 2931616; 673758, 2931573; 673720, 2931569; 673642, 2931618; 673528, 2931592; 673477, 2931620; 673443, 2931621; 673417, 2931588; 673421, 2931542; 673573, 2931353; 673638, 2931328; 673718, 2931361; 673771, 2931500; 673825, 2931544; 673833, 2931509; 673812, 2931445; 673879, 2931317; 673945, 2931243; 673962, 2931246; 673966, 2931298; 673988, 2931314; 674067, 2931175; 674078, 2931154; 674086, 2931136; 674089, 2931134; 674097, 2931110; 674057, 2931106; 674034, 2931170; 674000, 2931197; 673982, 2931189; 673975, 2931151; 674016, 2931056; 674007, 2931024; 673978, 2931086; 673952, 2931094; 673927, 2931134; 673910, 2931126; 673886, 2931030; 673955, 2930962; 673969, 2930929; 673957, 2930904; 673898, 2930953; 673817, 2930974; 673796, 2930998; 673866, 2931068; 673868, 2931134; 673846, 2931175; 673801, 2931176; 673801, 2931108; 673767, 2931086; 673763, 2931061; 673717, 2931090; 673695, 2931081; 673692, 2931030; 673747, 2930983; 673749, 2930904; 673801, 2930870; 673837, 2930814; 673825, 2930789; 673773, 2930818; 673793, 2930751; 673782, 2930705; 673842, 2930644; 673881, 2930673; 673915, 2930635; 673950, 2930627; 673965, 2930562; 673921, 2930522; 673933, 2930450; 674007, 2930417; 674038, 2930346; 674048, 2930257; 674249, 2930072; 674285, 2930056; 674350, 2930093; 674526, 2930100; 674521, 2930081; 674440, 2930048; 674475, 2929972; 674499, 2929958; 674486, 2929929; 674533, 2929885; 674526, 2929855; 674394, 2929802; 674294, 2929718; 674317, 2929631; 674310, 2929577; 674330, 2929539; 674282, 2929481; 674279, 2929431; 674290, 2929410; 674406, 2929456; 674492, 2929465; 674578, 2929580; 674645, 2929609; 674652, 2929596; 674634, 2929572; 674613, 2929539; 674610, 2929494; 674626, 2929466; 674664, 2929458; 674654, 2929445; 674628, 2929450; 674633, 2929418; 674587, 2929461; 674550, 2929466; 674565, 2929390; 674499, 2929362; 674452, 2929300; 674397, 2929279; 674384, 2929257; 674395, 2929137; 674432, 2929122; 674470, 2929236; 674504, 2929269; 674544, 2929284; 674621, 2929255; 674612, 2929219; 674713, 2929207; 674719, 2929190; 674701, 2929181; 674588, 2929187; 674546, 2929225; 674523, 2929222; 674520, 2929199; 674570, 2929127; 674533, 2929085; 674524, 2929045; 674578, 2928952; 674651, 2928913; 674729, 2928930; 674730, 2928906; 674711, 2928876; 674729, 2928796; 674718, 2928841; 674684, 2928880; 674575, 2928912; 674524, 2928974; 674445, 2929000; 674434, 2929033; 674349, 2929068; 674276, 2929045; 674136, 2929060; 674074, 2929042; 674012, 2928927; 673893, 2928848; 673861, 2928801; 673878, 2928732; 673842, 2928637; 673864, 2928587; 673952, 2928536; 674094, 2928500; 674203, 2928519; 674290, 2928485; 674324, 2928513; 674370, 2928511; 674404, 2928534; 674464, 2928521; 674494, 2928487; 674539, 2928467; 674605, 2928385; 674536, 2928407; 674468, 2928388; 674380, 2928390; 674198, 2928458; 674029, 2928450; 673982, 2928421; 673956, 2928380; 674045, 2928254; 674042, 2928214; 674016, 2928222; 673897, 2928323; 673879, 2928309; 673884, 2928286; 673974, 2928139; 674078, 2928072; 674074, 2928050; 674037, 2928050; 674039, 2927968; 674079, 2927938; 674138, 2927928; 674178, 2927934; 674181, 2928009; 674216, 2928031; 674308, 2927958; 674335, 2927977; 674394, 2927975; 674481, 2927948; 674571, 2927946; 674600, 2927917; 674636, 2927912; 674644, 2927934; 674583, 2927994; 674580, 2928015; 674705, 2927981; 674788, 2928007; 674821, 2928046; 674880, 2928195; 674922, 2928246; 675028, 2928226; 675019, 2928168; 674974, 2928168; 674950, 2928131; 674917, 2928123; 674859, 2928075; 674838, 2928021; 674847, 2927998; 674944, 2928001; 675030, 2928069; 675183, 2928126; 675057, 2928014; 675049, 2927971; 675098, 2927938; 675003, 2927865; 674992, 2927848; 674997, 2927796; 674927, 2927767; 674888, 2927694; 674808, 2927653; 674747, 2927655; 674641, 2927604; 674632, 2927585; 674705, 2927548; 674728, 2927547; 674757, 2927572; 674800, 2927551; 674835, 2927575; 674896, 2927577; 675014, 2927626; 675111, 2927641; 675107, 2927626; 675033, 2927599; 675026, 2927552; 675053, 2927514; 675030, 2927475; 675107, 2927457; 675063, 2927431; 675082, 2927391; 675173, 2927377; 675202, 2927357; 675106, 2927351; 675002, 2927420; 674934, 2927435; 674803, 2927424; 674744, 2927398; 674746, 2927373; 674809, 2927309; 674812, 2927256; 674914, 2927185; 675019, 2927174; 675099, 2927186; 675243, 2927263; 675292, 2927248; 675421, 2927292; 675401, 2927267; 675355, 2927252; 675388, 2927214; 675425, 2927210; 675367, 2927175; 675382, 2927124; 675345, 2927070; 675299, 2927042; 675246, 2927034; 675204, 2926986; 675035, 2926886; 674525, 2926758; 674482, 2926764; 674444, 2926804; 674463, 2926864; 674617, 2926853; 674637, 2926873; 674507, 2926930; 674571, 2926937; 674594, 2927000; 674616, 2926979; 674719, 2926984; 674727, 2927082; 674782, 2927109; 674807, 2927146; 674754, 2927297; 674720, 2927335; 674692, 2927340; 674635, 2927291; 674662, 2927261; 674714, 2927247; 674700, 2927199; 674609, 2927170; 674581, 2927190; 674438, 2927090; 674211, 2926871; 674116, 2926755; 674099, 2926701; 674109, 2926638; 674149, 2926596; 674270, 2926581; 674597, 2926646; 674610, 2926627; 674646, 2926635; 674894, 2926764; 675217, 2926891; 675456, 2927023; 675477, 2927015; 675461, 2926946; 675503, 2926936; 675518, 2926903; 675532, 2926909; 675550, 2926901; 675545, 2926842; 675420, 2926836; 675376, 2926801; 675363, 2926770; 675368, 2926717; 675414, 2926669; 675463, 2926645; 675503, 2926648; 675535, 2926605; 675535, 2926541; 675520, 2926542; 675495, 2926506; 675487, 2926431; 675509, 2926386; 675514, 2926299; 675491, 2926295; 675442, 2926334; 675404, 2926396; 675415, 2926428; 675408, 2926483; 675395, 2926494; 675386, 2926460; 675372, 2926459; 675352, 2926538; 675268, 2926609; 675277, 2926678; 675328, 2926668; 675339, 2926678; 675334, 2926768; 675137, 2926699; 675123, 2926659; 675069, 2926609; 675044, 2926523; 675105, 2926464; 675097, 2926402; 675152, 2926293; 675173, 2926203; 675167, 2926177; 675143, 2926183; 675114, 2926259; 675081, 2926274; 675067, 2926309; 675011, 2926347; 674980, 2926350; 674944, 2926326; 674952, 2926283; 675047, 2926213; 675047, 2926182; 674999, 2926177; 674949, 2926242; 674901, 2926249; 674872, 2926231; 674906, 2926200; 674900, 2926176; 674854, 2926200; 674827, 2926198; 674792, 2926170; 674785, 2926146; 674683, 2926102; 674637, 2926049; 674584, 2926062; 674562, 2926021; 674582, 2925991; 674541, 2925971; 674523, 2925923; 674627, 2925819; 674725, 2925803; 674866, 2925706; 675011, 2925704; 675048, 2925688; 675057, 2925660; 675139, 2925677; 675152, 2925611; 675119, 2925602; 675070, 2925622; 675052, 2925560; 675007, 2925588; 675043, 2925504; 675037, 2925470; 675006, 2925460; 674979, 2925506; 674968, 2925569; 674921, 2925574; 674867, 2925661; 674722, 2925717; 674679, 2925719; 674666, 2925670; 674733, 2925665; 674758, 2925639; 674739, 2925626; 674630, 2925633; 674612, 2925607; 674619, 2925557; 674684, 2925537; 674754, 2925569; 674809, 2925560; 674876, 2925576; 674900, 2925484; 674996, 2925394; 675042, 2925290; 675218, 2925128; 675281, 2925103; 675308, 2925105; 675338, 2925143; 675415, 2925167; 675557, 2925258; 675652, 2925365; 675711, 2925485; 675761, 2925547; 675805, 2925555; 675897, 2925539; 676002, 2925571; 676013, 2925565; 676011, 2925515; 675977, 2925456; 675847, 2925331; 675841, 2925228; 675864, 2925190; 675848, 2925133; 675882, 2925117; 675870, 2925080; 675888, 2925042; 675735, 2925033; 675705, 2925009; 675698, 2924980; 675727, 2924943; 675713, 2924892; 675721, 2924869; 675815, 2924848; 675865, 2924777; 675851, 2924760; 675818, 2924776; 675825, 2924713; 675842, 2924695; 675879, 2924691; 675916, 2924593; 675857, 2924544; 675845, 2924508; 675899, 2924500; 675938, 2924521; 675992, 2924517; 676032, 2924557; 676069, 2924555; 676118, 2924615; 676145, 2924599; 676154, 2924572; 676171, 2924561; 676155, 2924493; 676165, 2924363; 676189, 2924309; 676115, 2924259; 676078, 2924258; 676054, 2924290; 676067, 2924378; 676033, 2924458; 675992, 2924474; 675948, 2924459; 675942, 2924412; 676001, 2924353; 676008, 2924328; 675949, 2924336; 675924, 2924264; 675848, 2924306; 675785, 2924288; 675768, 2924261; 675777, 2924215; 675845, 2924107; 675745, 2924087; 675715, 2924055; 675726, 2924037; 675787, 2924033; 675843, 2924007; 675888, 2923919; 675964, 2923835; 675964, 2923815; 675928, 2923811; 675878, 2923882; 675854, 2923888; 675783, 2923856; 675705, 2923847; 675676, 2923816; 675691, 2923771; 675770, 2923727; 675773, 2923679; 675839, 2923649; 675857, 2923620; 675824, 2923582; 675771, 2923623; 675697, 2923614; 675667, 2923537; 675696, 2923525; 675724, 2923573; 675751, 2923584; 675777, 2923537; 675852, 2923538; 675883, 2923498; 675965, 2923473; 675939, 2923441; 675965, 2923392; 676001, 2923361; 675954, 2923325; 675934, 2923285; 675892, 2923262; 675884, 2923236; 675922, 2923190; 675943, 2923190; 675968, 2923114; 675962, 2923102; 675936, 2923104; 675936, 2923087; 675951, 2923054; 676001, 2923014; 675947, 2922997; 675940, 2922978; 675965, 2922902; 675993, 2922887; 675993, 2922861; 675903, 2922860; 675893, 2922834; 675914, 2922828; 675918, 2922808; 675970, 2922808; 675999, 2922727; 675975, 2922722; 675938, 2922760; 675885, 2922776; 675857, 2922828; 675827, 2922849; 675749, 2922850; 675587, 2922934; 675511, 2922933; 675424, 2922977; 675377, 2922946; 675387, 2922916; 675426, 2922914; 675435, 2922933; 675481, 2922928; 675550, 2922900; 675565, 2922872; 675397, 2922871; 675242, 2922963; 675127, 2922950; 675009, 2922979; 674966, 2922964; 674981, 2922927; 675055, 2922878; 675225, 2922844; 675306, 2922855; 675349, 2922835; 675473, 2922818; 675541, 2922780; 675625, 2922848; 675644, 2922811; 675616, 2922763; 675740, 2922729; 675723, 2922780; 675685, 2922809; 675692, 2922828; 675723, 2922826; 675764, 2922778; 675804, 2922770; 675843, 2922702; 675845, 2922634; 675772, 2922620; 675772, 2922576; 675833, 2922494; 675897, 2922460; 675842, 2922459; 675799, 2922511; 675735, 2922544; 675721, 2922537; 675722, 2922520; 675751, 2922476; 675698, 2922459; 675646, 2922533; 675617, 2922548; 675633, 2922473; 675580, 2922490; 675583, 2922457; 670674, 2922383; 670499, 2922927; 670441, 2923229; 670342, 2923589; 670250, 2923851; 670118, 2924365; 669980, 2924797; 669886, 2925022; 669734, 2925199; 669450, 2925611; 669154, 2925969; 668970, 2926128; 668810, 2926192; 668578, 2926384; 668366, 2926713; 667971, 2927255; 667821, 2927489; 667671, 2927676; 667594, 2927801; 667340, 2928315; 667108, 2928935; 666973, 2929408; 666887, 2929673; 666746, 2930025; 666482, 2930893; 666237, 2931520; 666185, 2931706; 666155, 2931887; 666094, 2932032; 666030, 2932248; 665748, 2932685; 665584, 2933032; 665462, 2933165; 665367, 2933308; 665084, 2933904; 664781, 2934778; 664589, 2935830; 664551, 2936146; 664560, 2936739; 664641, 2937161; 664656, 2937318; 664753, 2937646; 664754, 2937757; 664726, 2937854; 664691, 2937905; 664619, 2937933; 664531, 2937862; 664497, 2937855; 664387, 2937928; 664328, 2938007; 664304, 2938018; 664191, 2937966; 664134, 2938028; 664097, 2937946; 664051, 2937953; 664026, 2937991; 664025, 2938103; 664010, 2938134; 663985, 2938166; 663923, 2938190; 663883, 2938229; 663823, 2938344; 663809, 2938425; 663887, 2938608; 663865, 2938653; 663817, 2938660; 663776, 2938637; 663730, 2938486; 663739, 2938256; 663703, 2938002; 663754, 2937830; 663738, 2937792; 663700, 2937797; 663648, 2937856; 663621, 2937952; 663572, 2938002; 663562, 2938102; 663518, 2938148; 663496, 2938210; 663549, 2938233; 663527, 2938256; 663483, 2938249; 663460, 2938311; 663558, 2938290; 663583, 2938301; 663658, 2938263; 663644, 2938109; 663630, 2938131; 663622, 2938227; 663606, 2938223; 663602, 2938084; 663618, 2938060; 663646, 2938065; 663695, 2938237; 663700, 2938372; 663667, 2938566; 663603, 2938658; 663576, 2938635; 663630, 2938583; 663621, 2938550; 663506, 2938587; 663466, 2938658; 663416, 2938663; 663343, 2938634; 663322, 2938691; 663735, 2938721; 663808, 2938707; 664358, 2938763; 665030, 2938809; 665086, 2938788; 665098, 2938768; 665106, 2938623; 665027, 2938755; 664819, 2938765; 664789, 2938750; 664744, 2938690; 664627, 2938690; 664574, 2938665; 664501, 2938665; 664447, 2938587; 664432, 2938499; 664522, 2938342; 664534, 2938343; 664534, 2938360; 664499, 2938434; 664573, 2938434; 664598, 2938399; 664660, 2938381; 664664, 2938325; 664688, 2938305; 664718, 2938307; 664950, 2938409; 664976, 2938461; 665001, 2938436; 665063, 2938438; 665106, 2938609; 665116, 2938495; 665102, 2938389; 665154, 2938307; 665162, 2938327; 665137, 2938396; 665138, 2938436; 665211, 2938513; 665215, 2938613; 665237, 2938691; 665307, 2938759; 665346, 2938768; 665283, 2938684; 665318, 2938668; 665325, 2938625; 665365, 2938545; 665461, 2938422; 665581, 2938387; 665655, 2938397; 665703, 2938590; 665701, 2938670; 665646, 2938759; 665532, 2938819; 665618, 2938803; 665732, 2938808; 665703, 2938745; 665735, 2938661; 665737, 2938593; 665810, 2938534; 665810, 2938497; 665830, 2938469; 665877, 2938457; 665907, 2938419; 665968, 2938418; 666006, 2938434; 666028, 2938633; 666047, 2938551; 666053, 2938386; 666068, 2938368; 666132, 2938468; 666089, 2938626; 666081, 2938728; 666106, 2938790; 666136, 2938808; 666148, 2938809; 666129, 2938742; 666134, 2938638; 666157, 2938620; 666214, 2938613; 666271, 2938548; 666360, 2938504; 666562, 2938451; 666678, 2938446; 666751, 2938501; 666793, 2938615; 666948, 2938478; 667080, 2938432; 667167, 2938443; 667227, 2938480; 667286, 2938485; 667325, 2938509; 667402, 2938484; 667550, 2938477; 667619, 2938452; 667673, 2938498; 667731, 2938520; 667960, 2938492; 668026, 2938498; 668077, 2938519; 668127, 2938572; 668198, 2938712; 668318, 2938572; 668454, 2938575; 668489, 2938640; 668520, 2938659; 668528, 2938734; 668564, 2938785; 668593, 2938796; 668603, 2938827; 668632, 2938738; 668674, 2938704; 668711, 2938634; 668786, 2938570; 668912, 2938497; 669030, 2938472; 669095, 2938505; 669126, 2938560; 669181, 2938518; 669246, 2938499; 669344, 2938521; 669408, 2938565; 669478, 2938643; 669498, 2938707; 669477, 2938762; 669465, 2938969; 669485, 2938999; 669461, 2939024; 669517, 2939033; 669535, 2938937; 669577, 2938885; 669577, 2938805; 669539, 2938859; 669521, 2938857; 669560, 2938618; 669505, 2938572; 669509, 2938523; 669451, 2938504; 669435, 2938469; 669499, 2938487; 669538, 2938476; 669559, 2938513; 669607, 2938484; 669635, 2938507; 669694, 2938502; 669724, 2938472; 669640, 2938463; 669588, 2938377; 669569, 2938376; 669534, 2938410; 669519, 2938353; 669564, 2938355; 669567, 2938343; 669529, 2938317; 669453, 2938335; 669436, 2938380; 669395, 2938369; 669399, 2938428; 669351, 2938428; 669327, 2938480; 669306, 2938455; 669278, 2938452; 669139, 2938471; 669114, 2938407; 669076, 2938430; 668953, 2938447; 668921, 2938446; 668900, 2938426; 668979, 2938327; 669025, 2938226; 669136, 2938175; 669320, 2938016; 669434, 2938032; 669470, 2937979; 669503, 2937965; 669543, 2938000; 669538, 2938030; 669441, 2938105; 669355, 2938249; 669333, 2938261; 669291, 2938240; 669262, 2938249; 669273, 2938282; 669301, 2938298; 669355, 2938286; 669475, 2938149; 669564, 2938073; 669612, 2938061; 669654, 2938103; 669676, 2938102; 669765, 2938011; 669844, 2937990; 669910, 2938011; 669926, 2938110; 670075, 2938050; 670191, 2938047; 670244, 2938090; 670223, 2938114; 670160, 2938116; 670162, 2938138; 670188, 2938150; 670244, 2938138; 670334, 2938058; 670403, 2938067; 670393, 2938008; 670472, 2937943; 670509, 2937975; 670490, 2938036; 670579, 2938066; 670587, 2938120; 670620, 2938141; 670676, 2938149; 670767, 2938112; 670830, 2938067; 670866, 2938065; 670875, 2938080; 670858, 2938104; 670932, 2938126; 670990, 2938106; 670985, 2938088; 670930, 2938073; 670951, 2938024; 670940, 2937997; 670917, 2938018; 670788, 2938007; 670813, 2937978; 670885, 2937966; 670869, 2937919; 670832, 2937929; 670825, 2937951; 670776, 2937940; 670758, 2937990; 670707, 2937954; 670685, 2937967; 670681, 2937991; 670758, 2938021; 670783, 2938040; 670778, 2938050; 670673, 2938087; 670621, 2938072; 670601, 2938042; 670604, 2937998; 670554, 2937981; 670477, 2937868; 670492, 2937823; 670466, 2937775; 670464, 2937720; 670491, 2937664; 670470, 2937621; 670531, 2937606; 670591, 2937655; 670688, 2937685; 670757, 2937728; 670813, 2937724; 670920, 2937800; 670971, 2937878; 671028, 2937886; 671028, 2937903; 670969, 2937919; 670970, 2937961; 671013, 2937988; 671038, 2937975; 671081, 2937993; 671121, 2938047; 671103, 2938089; 671149, 2938114; 671146, 2938137; 671216, 2938180; 671247, 2938143; 671267, 2938140; 671281, 2938098; 671321, 2938055; 671360, 2938036; 671356, 2937989; 671295, 2938025; 671202, 2938005; 671199, 2938024; 671217, 2938048; 671269, 2938061; 671215, 2938107; 671193, 2938059; 671167, 2938044; 671150, 2937994; 671182, 2937986; 671183, 2937957; 671146, 2937960; 671142, 2937933; 671073, 2937923; 671063, 2937910; 671070, 2937888; 671136, 2937898; 671156, 2937885; 671098, 2937858; 671041, 2937854; 671037, 2937837; 671089, 2937810; 671139, 2937840; 671221, 2937826; 671238, 2937841; 671231, 2937887; 671269, 2937900; 671287, 2937851; 671280, 2937827; 671297, 2937780; 671318, 2937762; 671271, 2937719; 671281, 2937671; 671220, 2937637; 671141, 2937550; 671119, 2937550; 671070, 2937593; 670890, 2937619; 670844, 2937589; 670767, 2937602; 670762, 2937572; 670805, 2937552; 670817, 2937531; 670759, 2937472; 670742, 2937427; 670749, 2937392; 670772, 2937370; 670918, 2937342; 671001, 2937351; 671097, 2937443; 671089, 2937474; 671065, 2937448; 671025, 2937444; 671060, 2937501; 671169, 2937506; 671206, 2937551; 671359, 2937653; 671472, 2937667; 671485, 2937684; 671483, 2937726; 671510, 2937698; 671539, 2937700; 671533, 2937757; 671549, 2937776; 671505, 2937788; 671499, 2937829; 671574, 2937806; 671654, 2937855; 671686, 2937835; 671688, 2937814; 671638, 2937791; 671646, 2937730; 671586, 2937727; 671568, 2937697; 671582, 2937677; 671651, 2937676; 671621, 2937626; 671628, 2937594; 671546, 2937584; 671475, 2937539; 671417, 2937537; 671326, 2937489; 671270, 2937493; 671258, 2937476; 671262, 2937433; 671210, 2937399; 671158, 2937336; 671152, 2937243; 671177, 2937215; 671217, 2937209; 671264, 2937174; 671277, 2937137; 671159, 2937158; 671096, 2937201; 670994, 2937205; 670977, 2937136; 671009, 2937088; 670977, 2937098; 670951, 2937085; 670957, 2937023; 670899, 2936943; 670958, 2936878; 671018, 2936877; 671112, 2936976; 671246, 2937015; 671324, 2937083; 671342, 2937135; 671513, 2937254; 671579, 2937380; 671684, 2937474; 671712, 2937521; 671716, 2937603; 671734, 2937661; 671731, 2937681; 671705, 2937702; 671721, 2937723; 671751, 2937732; 671788, 2937718; 671820, 2937563; 671858, 2937527; 671979, 2937531; 672037, 2937566; 672221, 2937610; 672225, 2937605; 672135, 2937489; 671957, 2937443; 671739, 2937232; 671688, 2937219; 671639, 2937182; 671607, 2937119; 671608, 2937051; 671640, 2936978; 671706, 2936970; 671867, 2937077; 671885, 2937157; 671926, 2937202; 672011, 2937257; 672067, 2937256; 672084, 2937216; 672003, 2937138; 672079, 2937130; 672088, 2937114; 671952, 2937078; 671920, 2937006; 671931, 2936945; 671965, 2936946; 671972, 2936990; 671989, 2937004; 672007, 2936998; 672024, 2936944; 672074, 2936973; 672094, 2936965; 672100, 2936943; 672072, 2936902; 672130, 2936877; 672202, 2936872; 672186, 2936846; 672192, 2936814; 672147, 2936790; 672138, 2936755; 672174, 2936750; 672191, 2936717; 672236, 2936690; 672365, 2936640; 672505, 2936678; 672533, 2936667; 672495, 2936639; 672297, 2936570; 672193, 2936457; 672171, 2936399; 672174, 2936334; 672149, 2936304; 672166, 2936275; 672092, 2936183; 672066, 2936112; 672071, 2936088; 672098, 2936058; 672201, 2936068; 672251, 2936047; 672347, 2936077; 672406, 2936073; 672436, 2936094; 672466, 2936060; 672521, 2936035; 672450, 2935983; 672421, 2935918; 672379, 2935869; 672387, 2935857; 672428, 2935863; 672469, 2935819; 672411, 2935757; 672358, 2935752; 672342, 2935713; 672392, 2935701; 672421, 2935710; 672486, 2935768; 672484, 2935804; 672575, 2935581; 672525, 2935560; 672391, 2935609; 672324, 2935575; 672316, 2935539; 672257, 2935556; 672110, 2935494; 672121, 2935480; 672191, 2935470; 672215, 2935435; 672392, 2935416; 672419, 2935387; 672408, 2935364; 672417, 2935302; 672317, 2935402; 672298, 2935391; 672376, 2935261; 672467, 2935169; 672528, 2935132; 672509, 2935102; 672449, 2935092; 672446, 2934967; 672490, 2934930; 672554, 2934916; 672565, 2934892; 672553, 2934881; 672472, 2934907; 672336, 2935033; 672332, 2935050; 672369, 2935058; 672412, 2935114; 672351, 2935236; 672282, 2935242; 672312, 2935274; 672263, 2935322; 672240, 2935371; 672164, 2935409; 672161, 2935392; 672214, 2935352; 672229, 2935314; 672208, 2935310; 672171, 2935339; 672138, 2935300; 672108, 2935299; 672102, 2935314; 672132, 2935346; 672103, 2935364; 672066, 2935427; 672034, 2935437; 671999, 2935406; 671974, 2935405; 671926, 2935463; 671877, 2935445; 671921, 2935399; 671920, 2935372; 671855, 2935388; 671851, 2935310; 671819, 2935323; 671787, 2935291; 671740, 2935306; 671736, 2935260; 671752, 2935245; 671905, 2935274; 671968, 2935253; 671991, 2935214; 672026, 2935196; 672027, 2935179; 671978, 2935187; 671933, 2935225; 671910, 2935219; 671911, 2935184; 671989, 2935108; 672062, 2935089; 672075, 2935062; 671992, 2935076; 671926, 2935040; 671572, 2935063; 671540, 2935049; 671536, 2935014; 671563, 2934983; 671632, 2934946; 671900, 2934890; 672161, 2934783; 672186, 2934727; 672233, 2934690; 672243, 2934646; 672275, 2934632; 672281, 2934589; 672310, 2934568; 672307, 2934551; 672282, 2934545; 672294, 2934499; 672376, 2934436; 672442, 2934417; 672519, 2934444; 672537, 2934486; 672530, 2934554; 672490, 2934581; 672464, 2934551; 672441, 2934549; 672429, 2934584; 672452, 2934620; 672408, 2934646; 672391, 2934633; 672388, 2934599; 672405, 2934531; 672383, 2934513; 672345, 2934528; 672337, 2934564; 672348, 2934606; 672335, 2934645; 672369, 2934672; 672371, 2934699; 672341, 2934752; 672283, 2934730; 672286, 2934783; 672303, 2934792; 672378, 2934775; 672414, 2934793; 672565, 2934815; 672629, 2934793; 672752, 2934785; 672821, 2934908; 672854, 2934870; 672907, 2934846; 672962, 2934880; 672986, 2934889; 673006, 2934906; 673028, 2934915; 673009, 2934874; 673029, 2934837; 672969, 2934819; 672921, 2934762; 672921, 2934662; 672943, 2934612; 672972, 2934592; 673016, 2934597; 673095, 2934649; 673116, 2934640; 673116, 2934608; 673087, 2934524; 673053, 2934490; 672931, 2934235; 672925, 2934155; 672949, 2934089; 672996, 2934061; 672977, 2933993; 672939, 2933993; 672953, 2933950; 673016, 2933901; 673100, 2933883; 673128, 2933846; 673054, 2933669; 672986, 2933674; 672972, 2933648; 673036, 2933591; 673111, 2933576; 673131, 2933576; 673167, 2933629; 673169, 2933543; 673200, 2933539; 673251, 2933484; 673249, 2933416; 673217, 2933429; 673132, 2933353; 673137, 2933299; 673177, 2933265; 673257, 2933258; 673251, 2933230; 673276, 2933210; 673366, 2933194; 673373, 2933211; 673446, 2933214; 673484, 2933201; 673530, 2933181; 673607, 2933207; 673648, 2933199; 673649, 2933146; 673628, 2933129; 673591, 2933130; 673558, 2933097; 673605, 2933059; 673460, 2933179; 673410, 2933186; 673336, 2933161; 673167, 2933192; 673061, 2933186; 672988, 2933162; 672887, 2933185; 672851, 2933178; 672777, 2933138; 672648, 2933000; 672707, 2932993; 672938, 2933048; 673123, 2933067; 673439, 2933152; 673460, 2933179; 672357, 2933108; 672416, 2933147; 672418, 2933177; 672447, 2933204; 672442, 2933222; 672333, 2933249; 672309, 2933242; 672284, 2933126; 672306, 2933101; 672357, 2933108; 672651, 2933240; 672622, 2933199; 672637, 2933145; 672699, 2933132; 672765, 2933197; 672737, 2933236; 672694, 2933249; 672651, 2933240; 672924, 2933270; 672981, 2933329; 673012, 2933316; 673035, 2933325; 673055, 2933399; 673054, 2933423; 673013, 2933456; 673025, 2933520; 672993, 2933580; 672934, 2933568; 672893, 2933475; 672777, 2933485; 672752, 2933442; 672753, 2933395; 672783, 2933354; 672875, 2933282; 672924, 2933270; 672522, 2933404; 672380, 2933425; 672367, 2933350; 672374, 2933335; 672397, 2933333; 672519, 2933368; 672539, 2933395; 672522, 2933404; 672324, 2933493; 672324, 2933508; 672245, 2933535; 672215, 2933588; 672183, 2933610; 672170, 2933615; 672151, 2933593; 672155, 2933531; 672179, 2933505; 672324, 2933493; 672277, 2933545; 672354, 2933544; 672355, 2933502; 672438, 2933502; 672460, 2933517; 672368, 2933620; 672314, 2933658; 672277, 2933644; 672255, 2933659; 672229, 2933643; 672230, 2933612; 672277, 2933545; 672547, 2933665; 672544, 2933641; 672598, 2933635; 672620, 2933653; 672611, 2933682; 672547, 2933665; 672761, 2933655; 672729, 2933584; 672729, 2933554; 672747, 2933533; 672777, 2933531; 672804, 2933543; 672841, 2933595; 672841, 2933648; 672801, 2933687; 672775, 2933678; 672761, 2933655; 672843, 2933684; 672873, 2933660; 672890, 2933605; 672911, 2933602; 672947, 2933661; 672896, 2933737; 672862, 2933755; 672820, 2933732; 672843, 2933684; 672501, 2933711; 672590, 2933716; 672651, 2933745; 672754, 2933718; 672795, 2933817; 672738, 2933899; 672735, 2933950; 672694, 2933938; 672637, 2933871; 672608, 2933880; 672619, 2933917; 672542, 2933948; 672476, 2933936; 672382, 2933889; 672392, 2933835; 672469, 2933793; 672443, 2933724; 672467, 2933708; 672501, 2933711; 672387, 2933810; 672351, 2933820; 672341, 2933784; 672303, 2933767; 672234, 2933807; 672211, 2933785; 672208, 2933760; 672255, 2933724; 672360, 2933725; 672393, 2933758; 672387, 2933810; 672936, 2933848; 672891, 2933838; 672890, 2933776; 672905, 2933759; 672987, 2933743; 673010, 2933724; 673049, 2933730; 673053, 2933747; 673028, 2933792; 673076, 2933830; 673076, 2933866; 673025, 2933868; 672992, 2933789; 672971, 2933881; 672924, 2933910; 672936, 2933848; 672589, 2933572; 672472, 2933618; 672439, 2933614; 672499, 2933527; 672619, 2933509; 672633, 2933549; 672589, 2933572; 672650, 2933956; 672709, 2933975; 672724, 2934013; 672689, 2934020; 672643, 2934001; 672625, 2933971; 672650, 2933956; 672922, 2934495; 672749, 2934525; 672658, 2934504; 672641, 2934454; 672590, 2934390; 672627, 2934350; 672626, 2934330; 672609, 2934314; 672552, 2934319; 672557, 2934280; 672669, 2934262; 672691, 2934304; 672759, 2934251; 672688, 2934247; 672674, 2934238; 672683, 2934209; 672785, 2934153; 672836, 2934147; 672963, 2934409; 672961, 2934466; 672922, 2934495; 672710, 2934576; 672722, 2934605; 672770, 2934603; 672796, 2934620; 672801, 2934670; 672788, 2934691; 672740, 2934698; 672680, 2934643; 672634, 2934737; 672580, 2934771; 672483, 2934748; 672440, 2934713; 672450, 2934675; 672505, 2934667; 672521, 2934627; 672561, 2934617; 672548, 2934582; 672564, 2934566; 672646, 2934546; 672693, 2934552; 672710, 2934576; 671879, 2934700; 671827, 2934739; 671771, 2934757; 671769, 2934707; 671819, 2934708; 671826, 2934671; 671797, 2934663; 671773, 2934607; 671754, 2934605; 671705, 2934638; 671690, 2934629; 671693, 2934609; 671743, 2934567; 671824, 2934557; 671896, 2934654; 671879, 2934700; 672098, 2934715; 672141, 2934717; 672141, 2934736; 672062, 2934748; 672034, 2934796; 671998, 2934798; 672001, 2934732; 672098, 2934715; 672427, 2935152; 672434, 2935167; 672414, 2935183; 672410, 2935168; 672427, 2935152; 671723, 2935573; 671807, 2935591; 671863, 2935580; 672068, 2935683; 672075, 2935704; 672047, 2935748; 672080, 2935819; 672073, 2935870; 672017, 2935914; 671935, 2935922; 671839, 2935899; 671761, 2935858; 671688, 2935780; 671654, 2935689; 671659, 2935597; 671682, 2935571; 671723, 2935573; 671416, 2935841; 671456, 2935864; 671548, 2935854; 671560, 2935896; 671546, 2935931; 671525, 2935955; 671491, 2935949; 671461, 2935998; 671445, 2936001; 671437, 2935920; 671413, 2935906; 671345, 2935924; 671332, 2935907; 671358, 2935841; 671416, 2935841; 671678, 2935982; 671704, 2935988; 671711, 2936025; 671662, 2936059; 671605, 2936083; 671543, 2936066; 671532, 2936049; 671569, 2936042; 671600, 2936002; 671678, 2935982; 671933, 2936073; 672019, 2936092; 672064, 2936216; 672066, 2936298; 672045, 2936322; 671998, 2936335; 671899, 2936335; 671855, 2936389; 671877, 2936400; 671941, 2936361; 671996, 2936369; 672071, 2936475; 672139, 2936476; 672171, 2936496; 672274, 2936603; 672271, 2936642; 672085, 2936713; 672051, 2936696; 672029, 2936662; 671983, 2936652; 671935, 2936578; 671907, 2936590; 671915, 2936676; 671803, 2936577; 671713, 2936648; 671681, 2936715; 671584, 2936700; 671545, 2936712; 671517, 2936697; 671464, 2936636; 671462, 2936594; 671477, 2936571; 671612, 2936513; 671669, 2936557; 671696, 2936565; 671721, 2936552; 671730, 2936491; 671714, 2936362; 671807, 2936276; 671830, 2936235; 671838, 2936180; 671874, 2936158; 671933, 2936073; 671507, 2936178; 671529, 2936192; 671588, 2936182; 671594, 2936199; 671491, 2936273; 671355, 2936335; 671328, 2936331; 671365, 2936291; 671354, 2936274; 671262, 2936305; 671096, 2936304; 671083, 2936319; 671082, 2936372; 671055, 2936360; 671041, 2936289; 671050, 2936252; 671086, 2936216; 671171, 2936189; 671218, 2936126; 671271, 2936115; 671311, 2936147; 671347, 2936115; 671352, 2936136; 671302, 2936210; 671318, 2936230; 671367, 2936182; 671420, 2936185; 671457, 2936100; 671489, 2936083; 671503, 2936098; 671495, 2936158; 671507, 2936178; 671142, 2936330; 671263, 2936335; 671269, 2936348; 671264, 2936369; 671236, 2936389; 671229, 2936429; 671138, 2936459; 671122, 2936443; 671123, 2936409; 671167, 2936364; 671133, 2936348; 671142, 2936330; 671366, 2936374; 671429, 2936386; 671439, 2936413; 671471, 2936427; 671489, 2936422; 671475, 2936390; 671487, 2936378; 671575, 2936388; 671592, 2936419; 671591, 2936457; 671562, 2936508; 671451, 2936561; 671433, 2936638; 671449, 2936680; 671444, 2936704; 671337, 2936752; 671350, 2936817; 671300, 2936854; 671257, 2936824; 671265, 2936776; 671297, 2936745; 671309, 2936671; 671378, 2936630; 671391, 2936592; 671371, 2936573; 671282, 2936590; 671273, 2936573; 671298, 2936538; 671275, 2936529; 671222, 2936547; 671203, 2936603; 671147, 2936522; 671172, 2936490; 671366, 2936374; 670928, 2936625; 671217, 2936735; 671149, 2936749; 671007, 2936735; 670907, 2936639; 670913, 2936623; 670928, 2936625; 671778, 2936721; 671798, 2936625; 671816, 2936624; 671863, 2936665; 671848, 2936767; 671830, 2936788; 671795, 2936772; 671778, 2936721; 671893, 2935990; 671909, 2936007; 671867, 2936058; 671822, 2936050; 671893, 2935990; 672318, 2935788; 672349, 2935807; 672343, 2935838; 672308, 2935823; 672318, 2935788; 672144, 2935672; 672194, 2935704; 672194, 2935729; 672133, 2935694; 672144, 2935672; 671826, 2937445; 671766, 2937430; 671609, 2937327; 671582, 2937266; 671585, 2937207; 671605, 2937204; 671766, 2937310; 671877, 2937409; 671871, 2937428; 671826, 2937445; 671787, 2937518; 671761, 2937511; 671759, 2937493; 671852, 2937488; 671787, 2937518; 669646, 2936904; 669641, 2936932; 669687, 2936968; 669743, 2936913; 669723, 2936973; 669674, 2937030; 669659, 2936997; 669639, 2937005; 669611, 2936985; 669615, 2936915; 669646, 2936904; 669762, 2936967; 669779, 2937034; 669770, 2937087; 669748, 2937101; 669727, 2937078; 669687, 2937121; 669681, 2937098; 669705, 2937043; 669737, 2937017; 669762, 2936967; 669843, 2937117; 669825, 2937077; 669830, 2937041; 669847, 2937045; 669858, 2937094; 669883, 2937056; 669909, 2937069; 669874, 2937134; 669843, 2937117; 669460, 2937207; 669459, 2937253; 669528, 2937219; 669590, 2937242; 669598, 2937275; 669536, 2937356; 669516, 2937353; 669532, 2937311; 669515, 2937286; 669487, 2937327; 669470, 2937317; 669453, 2937336; 669425, 2937338; 669412, 2937306; 669370, 2937355; 669378, 2937263; 669436, 2937193; 669460, 2937207; 671097, 2937743; 671036, 2937734; 671004, 2937687; 671068, 2937675; 671096, 2937695; 671160, 2937671; 671164, 2937692; 671097, 2937743; 670294, 2937707; 670348, 2937721; 670412, 2937766; 670363, 2937772; 670342, 2937790; 670310, 2937781; 670246, 2937808; 670241, 2937796; 670269, 2937762; 670268, 2937731; 670176, 2937713; 670232, 2937676; 670256, 2937675; 670294, 2937707; 670192, 2937808; 670110, 2937852; 670060, 2937839; 670012, 2937846; 669992, 2937830; 670024, 2937800; 670067, 2937797; 670107, 2937749; 670192, 2937808; 669325, 2937835; 669331, 2937856; 669318, 2937867; 669210, 2937939; 669212, 2937968; 669263, 2937981; 669254, 2938007; 669183, 2938012; 669157, 2938040; 669125, 2938043; 669078, 2938079; 669028, 2938067; 668922, 2938132; 668860, 2938106; 668880, 2938061; 668933, 2938018; 669059, 2938003; 669130, 2937985; 669159, 2937962; 669149, 2937935; 669077, 2937932; 669078, 2937915; 669121, 2937894; 669176, 2937902; 669325, 2937835; 669076, 2938097; 669107, 2938109; 669106, 2938141; 669083, 2938163; 669038, 2938141; 669076, 2938097; 666043, 2938123; 666005, 2938398; 665988, 2938334; 666000, 2938190; 666019, 2938124; 666043, 2938123; 665902, 2938357; 665884, 2938295; 665892, 2938262; 665928, 2938293; 665902, 2938357; 664223, 2938295; 664242, 2938297; 664290, 2938374; 664395, 2938421; 664321, 2938634; 664286, 2938615; 664246, 2938654; 664188, 2938639; 664147, 2938654; 664099, 2938633; 664001, 2938530; 663969, 2938476; 663964, 2938435; 664012, 2938371; 664023, 2938388; 663991, 2938458; 664011, 2938460; 664134, 2938303; 664223, 2938295; 669889, 2937892; 669920, 2937911; 669884, 2937945; 669847, 2937938; 669852, 2937917; 669889, 2937892; 666239, 2938399; 666152, 2938521; 666170, 2938419; 666222, 2938375; 666246, 2938378; 666239, 2938399; 665325, 2938543; 665313, 2938539; 665316, 2938500; 665337, 2938487; 665325, 2938543; 672626, 2932964; 672576, 2932939; 672519, 2932887; 672513, 2932866; 672541, 2932858; 672635, 2932916; 672644, 2932957; 672626, 2932964; 672815, 2932413; 672885, 2932427; 673123, 2932585; 673167, 2932674; 673167, 2932722; 673050, 2932677; 672928, 2932555; 672816, 2932491; 672798, 2932461; 672815, 2932413; 673111, 2932394; 673085, 2932391; 673035, 2932339; 673050, 2932302; 673120, 2932305; 673182, 2932241; 673244, 2932222; 673320, 2932258; 673330, 2932364; 673289, 2932390; 673207, 2932401; 673167, 2932328; 673139, 2932399; 673111, 2932394; 673575, 2931125; 673609, 2931120; 673615, 2931173; 673572, 2931295; 673528, 2931313; 673524, 2931194; 673575, 2931125; 673967, 2930178; 673967, 2930158; 673906, 2930106; 673916, 2930035; 673956, 2929997; 674049, 2929955; 674091, 2929953; 674136, 2929978; 674150, 2930071; 674172, 2930104; 674108, 2930192; 673999, 2930218; 673956, 2930208; 673967, 2930178; 673758, 2930158; 673654, 2930170; 673556, 2930150; 673356, 2930058; 673294, 2930011; 673251, 2929956; 673258, 2929838; 673305, 2929701; 673383, 2929609; 673469, 2929547; 673495, 2929477; 673566, 2929413; 673611, 2929430; 673638, 2929478; 673586, 2929711; 673634, 2929866; 673692, 2929951; 673750, 2930002; 673838, 2930027; 673874, 2930062; 673868, 2930102; 673839, 2930137; 673758, 2930158; 674409, 2927515; 674453, 2927519; 674537, 2927558; 674567, 2927583; 674562, 2927608; 674546, 2927622; 674503, 2927620; 674399, 2927580; 674386, 2927544; 674409, 2927515; 674815, 2925502; 674789, 2925481; 674669, 2925489; 674636, 2925422; 674679, 2925395; 674806, 2925404; 674856, 2925501; 674831, 2925515; 674815, 2925502; 674503, 2925415; 674361, 2925387; 674334, 2925352; 674376, 2925307; 674477, 2925330; 674525, 2925360; 674523, 2925397; 674503, 2925415; 674781, 2924844; 674950, 2924832; 675008, 2924798; 675045, 2924812; 675086, 2924876; 675036, 2924933; 675036, 2924968; 675056, 2925019; 675124, 2925112; 675121, 2925136; 675081, 2925156; 674963, 2925167; 674946, 2925186; 674935, 2925266; 674899, 2925267; 674866, 2925246; 674770, 2925149; 674688, 2925024; 674652, 2924941; 674686, 2924868; 674781, 2924844; 675407, 2925021; 675330, 2924987; 675315, 2924939; 675337, 2924927; 675532, 2924948; 675524, 2924929; 675453, 2924910; 675444, 2924878; 675489, 2924828; 675572, 2924834; 675589, 2924890; 675566, 2924938; 675747, 2925099; 675791, 2925211; 675783, 2925223; 675743, 2925214; 675689, 2925168; 675407, 2925021; 675346, 2924875; 675312, 2924871; 675283, 2924824; 675207, 2924829; 675202, 2924802; 675211, 2924788; 675271, 2924776; 675340, 2924813; 675415, 2924818; 675399, 2924872; 675346, 2924875; 675591, 2924703; 675585, 2924663; 675440, 2924688; 675307, 2924667; 675132, 2924693; 675071, 2924663; 675104, 2924613; 675251, 2924549; 675430, 2924501; 675443, 2924508; 675445, 2924557; 675473, 2924569; 675516, 2924547; 675549, 2924549; 675617, 2924500; 675624, 2924443; 675583, 2924407; 675497, 2924459; 675454, 2924430; 675402, 2924481; 675348, 2924483; 675380, 2924427; 675375, 2924378; 675430, 2924341; 675481, 2924268; 675525, 2924282; 675545, 2924319; 675580, 2924316; 675616, 2924369; 675723, 2924325; 675777, 2924323; 675885, 2924391; 675898, 2924414; 675884, 2924452; 675858, 2924474; 675751, 2924510; 675734, 2924532; 675684, 2924625; 675665, 2924708; 675603, 2924751; 675582, 2924740; 675591, 2924703; 675804, 2924545; 675824, 2924547; 675888, 2924600; 675887, 2924621; 675815, 2924682; 675741, 2924689; 675720, 2924653; 675719, 2924622; 675772, 2924557; 675804, 2924545; 675285, 2924431; 675271, 2924438; 675254, 2924413; 675275, 2924372; 675268, 2924328; 675280, 2924306; 675301, 2924314; 675338, 2924263; 675344, 2924291; 675324, 2924320; 675336, 2924349; 675320, 2924404; 675285, 2924431; 674256, 2924257; 674182, 2924306; 674117, 2924327; 673883, 2924326; 673813, 2924279; 673762, 2924219; 673700, 2924055; 673717, 2923983; 673766, 2923880; 673850, 2923817; 673900, 2923705; 673920, 2923710; 673940, 2923744; 673967, 2923705; 674105, 2923643; 674136, 2923595; 674151, 2923459; 674091, 2923395; 674064, 2923310; 674046, 2923308; 674018, 2923334; 674011, 2923268; 673997, 2923283; 673990, 2923356; 673969, 2923381; 673949, 2923502; 674008, 2923582; 673958, 2923624; 673910, 2923637; 673872, 2923543; 673875, 2923405; 673912, 2923232; 673991, 2923102; 674013, 2923114; 674001, 2923184; 674031, 2923149; 674001, 2923012; 674043, 2922899; 674083, 2922834; 674118, 2922809; 674205, 2922774; 674333, 2922759; 674364, 2922763; 674421, 2922805; 674511, 2922951; 674561, 2923173; 674548, 2923451; 674508, 2923674; 674429, 2923904; 674417, 2923983; 674380, 2924077; 674256, 2924257; 675563, 2924234; 675424, 2924217; 675383, 2924193; 675370, 2924160; 675333, 2924181; 675271, 2924156; 675181, 2924151; 675174, 2924117; 675248, 2924065; 675258, 2924029; 675155, 2924065; 675142, 2924033; 675187, 2923999; 675091, 2923986; 675087, 2923968; 675161, 2923913; 675272, 2923906; 675326, 2923935; 675294, 2923992; 675299, 2924009; 675315, 2924008; 675353, 2923975; 675343, 2923901; 675385, 2923883; 675398, 2923935; 675421, 2923958; 675410, 2924014; 675439, 2924046; 675413, 2924088; 675437, 2924097; 675505, 2924060; 675532, 2924074; 675527, 2924094; 675484, 2924126; 675487, 2924143; 675570, 2924156; 675616, 2924146; 675692, 2924165; 675738, 2924127; 675757, 2924134; 675760, 2924167; 675744, 2924182; 675563, 2924234; 675653, 2923987; 675603, 2923976; 675640, 2923897; 675662, 2923943; 675749, 2923891; 675795, 2923895; 675784, 2923926; 675747, 2923959; 675653, 2923987; 675318, 2923877; 675214, 2923861; 675231, 2923845; 675333, 2923842; 675337, 2923864; 675318, 2923877; 675418, 2923844; 675356, 2923828; 675340, 2923805; 675373, 2923780; 675525, 2923793; 675509, 2923841; 675418, 2923844; 675201, 2923817; 675151, 2923861; 675128, 2923857; 675119, 2923827; 675172, 2923781; 675135, 2923747; 675112, 2923749; 675095, 2923771; 675100, 2923808; 675086, 2923831; 675051, 2923794; 674971, 2923779; 674905, 2923704; 674842, 2923671; 674826, 2923612; 674886, 2923540; 674966, 2923518; 674985, 2923533; 674973, 2923555; 674983, 2923588; 674934, 2923591; 674920, 2923617; 674948, 2923639; 674992, 2923640; 675054, 2923563; 675042, 2923528; 675067, 2923500; 675097, 2923483; 675134, 2923495; 675201, 2923477; 675225, 2923487; 675227, 2923515; 675152, 2923570; 675126, 2923564; 675127, 2923617; 675171, 2923637; 675172, 2923651; 675139, 2923674; 675101, 2923630; 675081, 2923631; 675059, 2923647; 675073, 2923690; 675187, 2923707; 675248, 2923676; 675256, 2923690; 675224, 2923724; 675308, 2923679; 675573, 2923684; 675640, 2923642; 675674, 2923647; 675609, 2923751; 675504, 2923731; 675448, 2923747; 675301, 2923746; 675246, 2923800; 675201, 2923817; 675487, 2923643; 675260, 2923638; 675203, 2923615; 675194, 2923572; 675212, 2923547; 675429, 2923575; 675572, 2923527; 675632, 2923553; 675650, 2923583; 675646, 2923608; 675621, 2923629; 675487, 2923643; 675597, 2923495; 675430, 2923447; 675322, 2923490; 675177, 2923447; 674979, 2923476; 674894, 2923470; 674952, 2923417; 675212, 2923332; 675240, 2923338; 675202, 2923396; 675331, 2923404; 675429, 2923372; 675535, 2923373; 675581, 2923354; 675815, 2923333; 675894, 2923356; 675919, 2923391; 675915, 2923412; 675877, 2923423; 675783, 2923409; 675670, 2923436; 675707, 2923454; 675823, 2923433; 675817, 2923474; 675770, 2923505; 675634, 2923513; 675597, 2923495; 675037, 2923329; 674970, 2923340; 674937, 2923396; 674896, 2923426; 674824, 2923441; 674765, 2923428; 674766, 2923396; 674784, 2923373; 674903, 2923328; 674935, 2923302; 675122, 2923249; 675217, 2923255; 675275, 2923214; 675316, 2923151; 675309, 2923132; 675338, 2923108; 675347, 2923131; 675336, 2923169; 675356, 2923198; 675379, 2923172; 675400, 2923207; 675422, 2923212; 675487, 2923178; 675544, 2923173; 675617, 2923213; 675516, 2923291; 675439, 2923310; 675318, 2923326; 675229, 2923303; 675037, 2923329; 675573, 2923125; 675593, 2923098; 675671, 2923115; 675659, 2923139; 675610, 2923147; 675573, 2923125; 675028, 2923240; 674859, 2923287; 674809, 2923281; 674791, 2923263; 674831, 2923210; 674963, 2923145; 675096, 2923125; 675258, 2923126; 675261, 2923142; 675194, 2923201; 675028, 2923240; 675224, 2923086; 675155, 2923081; 675149, 2923064; 675200, 2923016; 675300, 2922961; 675352, 2922961; 675356, 2923008; 675334, 2923022; 675311, 2922989; 675260, 2923012; 675241, 2923031; 675249, 2923050; 675293, 2923034; 675316, 2923041; 675275, 2923073; 675224, 2923086; 675645, 2922991; 675755, 2923015; 675597, 2923023; 675608, 2923002; 675645, 2922991; 675434, 2922785; 675369, 2922781; 675330, 2922760; 675448, 2922712; 675503, 2922644; 675480, 2922706; 675489, 2922759; 675472, 2922778; 675434, 2922785; 675264, 2922693; 675235, 2922690; 675212, 2922667; 675185, 2922737; 675166, 2922738; 675171, 2922683; 675195, 2922655; 675313, 2922623; 675315, 2922646; 675264, 2922693; 674082, 2923534; 674093, 2923497; 674081, 2923488; 674043, 2923515; 674010, 2923427; 674015, 2923406; 674054, 2923434; 674085, 2923434; 674125, 2923472; 674115, 2923584; 674095, 2923612; 674079, 2923602; 674072, 2923569; 674082, 2923534; 674000, 2923514; 673990, 2923522; 673972, 2923499; 673975, 2923464; 674000, 2923514; 675091, 2924329; 675113, 2924332; 675115, 2924365; 675091, 2924424; 675050, 2924467; 675039, 2924444; 675049, 2924378; 675091, 2924329; 675184, 2924465; 675204, 2924463; 675204, 2924489; 675147, 2924537; 675116, 2924545; 675090, 2924524; 675107, 2924497; 675184, 2924465; 675152, 2924358; 675156, 2924291; 675224, 2924281; 675238, 2924309; 675217, 2924353; 675182, 2924383; 675194, 2924408; 675124, 2924431; 675113, 2924416; 675152, 2924358; 675313, 2922529; 675365, 2922521; 675398, 2922544; 675479, 2922520; 675452, 2922555; 675408, 2922579; 675367, 2922585; 675330, 2922561; 675290, 2922594; 675264, 2922584; 675313, 2922529; 675263, 2926837; 675252, 2926859; 675241, 2926853; 675245, 2926822; 675263, 2926837; 675321, 2926860; 675415, 2926892; 675426, 2926919; 675394, 2926931; 675310, 2926897; 675300, 2926878; Thence returning to 675321, 2926860.

670292, 2939096; 670453, 2939096; 670388, 2939036; 670368, 2938988; 670383, 2938890; 670446, 2938757; 670451, 2938689; 670490, 2938666; 670458, 2938644; 670462, 2938623; 670473, 2938608; 670545, 2938634; 670571, 2938624; 670494, 2938581; 670503, 2938558; 670536, 2938551; 670574, 2938499; 670596, 2938499; 670638, 2938536; 670673, 2938522; 670718, 2938532; 670782, 2938502; 670751, 2938475; 670757, 2938466; 670838, 2938477; 670868, 2938497; 670951, 2938475; 670961, 2938447; 670913, 2938449; 670877, 2938428; 670723, 2938424; 670684, 2938411; 670658, 2938372; 670587, 2938382; 670579, 2938455; 670562, 2938473; 670517, 2938483; 670491, 2938459; 670437, 2938450; 670419, 2938461; 670423, 2938479; 670453, 2938503; 670457, 2938526; 670421, 2938549; 670399, 2938527; 670341, 2938579; 670354, 2938596; 670431, 2938611; 670377, 2938811; 670320, 2938767; 670318, 2938793; 670294, 2938789; 670276, 2938826; 670260, 2938831; 670249, 2938749; 670208, 2938704; 670191, 2938715; 670177, 2938703; 670175, 2938672; 670201, 2938648; 670171, 2938641; 670171, 2938623; 670264, 2938618; 670265, 2938602; 670231, 2938580; 670238, 2938553; 670340, 2938535; 670306, 2938511; 670305, 2938471; 670250, 2938451; 670329, 2938410; 670342, 2938377; 670310, 2938343; 670321, 2938326; 670347, 2938335; 670362, 2938276; 670289, 2938281; 670287, 2938322; 670231, 2938363; 670174, 2938354; 670157, 2938322; 670124, 2938341; 670078, 2938319; 670085, 2938344; 670138, 2938390; 670043, 2938437; 670031, 2938391; 669984, 2938351; 670032, 2938302; 670028, 2938280; 669975, 2938290; 669946, 2938328; 669909, 2938323; 669890, 2938301; 669856, 2938317; 669830, 2938271; 669801, 2938273; 669732, 2938207; 669712, 2938245; 669744, 2938277; 669767, 2938278; 669773, 2938309; 669812, 2938316; 669815, 2938334; 669757, 2938352; 669752, 2938402; 669785, 2938421; 669787, 2938437; 669770, 2938469; 669768, 2938530; 669721, 2938565; 669717, 2938596; 669742, 2938669; 669752, 2938679; 669789, 2938656; 669866, 2938667; 669953, 2938610; 670118, 2938641; 670267, 2938981; 670258, 2939060; 670232, 2939093; 670292, 2939096; 670298, 2938959; 670266, 2938944; 670266, 2938896; 670308, 2938922; 670298, 2938959; 669978, 2938525; 669996, 2938506; 670061, 2938522; 670118, 2938512; 670129, 2938496; 670101, 2938478; 670105, 2938453; 670177, 2938421; 670227, 2938451; 670178, 2938485; 670181, 2938502; 670275, 2938515; 670176, 2938554; 670018, 2938572; 669987, 2938560; 669978, 2938525; 669923, 2938488; 669910, 2938522; 669826, 2938516; 669815, 2938500; 669841, 2938432; 669951, 2938390; 669961, 2938415; Thence returning to 669923, 2938488.

671655, 2939193; 671708, 2939112; 671753, 2939073; 671727, 2939041; 671707, 2939065; 671674, 2939069; 671600, 2939146; 671544, 2939134; 671398, 2939183; 671522, 2939177; 671643, 2939211; Thence returning to 671655, 2939193.

(3) Subunit TX-3C: North Padre Island—Laguna Madre side: 20,597 hectares (50,897 acres) in Kenedy and Willacy Counties, Texas.

(i) Unit TX-3, Subunit C, Kenedy County, Texas. Coordinates are in UTM Zone 14N, North American Datum 1983 (meters E, meters N):

660914, 2947345; 660934, 2947241; 660920, 2947191; 660895, 2947165; 660772, 2947115; 660622, 2947094; 660587, 2947103; 660593, 2947133; 660741, 2947150; 660798, 2947189; 660819, 2947229; 660807, 2947283; 660773, 2947304; 660789, 2947339; Thence returning to 660914, 2947345.

660051, 2949154; 660103, 2949103; 660106, 2949060; 660078, 2949027; 659924, 2948973; 659877, 2948976; 659862, 2948996; 659865, 2949061; 659943, 2949148; 660002, 2949170; 660051, 2949154; 659957, 2949071; 659982, 2949083; 659967, 2949125; 659937, 2949107; Thence returning to 659957, 2949071.

659652, 2949142; 659607, 2949254; 659659, 2949276; 659742, 2949271; 659769, 2949218; 659768, 2949190; Thence returning to 659652, 2949142.

660301, 2949538; 660304, 2949471; 660019, 2949291; 659955, 2949340; 659933, 2949382; 659935, 2949490; 659970, 2949553; 659990, 2949479; 660009, 2949455; 660038, 2949449; 660080, 2949493; 660078, 2949521; 660043, 2949555; 660061, 2949560; 660083, 2949599; 660120, 2949593; 660142, 2949503; 660177, 2949480; 660210, 2949479; 660231, 2949529; 660232, 2949568; 660198, 2949614; 660246, 2949628; 660272, 2949618; Thence returning to 660301, 2949538.

656609, 2958744; 656633, 2958611; 656677, 2958721; 656706, 2958761; 656710, 2958746; 656652, 2958558; 656617, 2958506; 656550, 2958469; 656507, 2958490; 656450, 2958437; 656242, 2958394; 656160, 2958619; 656247, 2958542; 656278, 2958553; 656295, 2958622; 656290, 2958683; 656272, 2958728; 656236, 2958734; 656255, 2958820; 656307, 2958889; 656483, 2958989; 656506, 2959047; 656475, 2959277; 656334, 2959842; 656322, 2959969; 656379, 2959910; 656417, 2959755; 656504, 2959529; 656668, 2958951; 656592, 2958788; Thence returning to 656609, 2958744.

659878, 2964500; 659901, 2964501; 659936, 2964352; 659858, 2964408; 659790, 2964426; 659781, 2964445; 659788, 2964474; 659826, 2964514; 659861, 2964517; Thence returning to 659878, 2964500.

659647, 2965594; 659583, 2965611; 659559, 2965654; 659623, 2965655; Thence returning to 659647, 2965594.

652509, 2965602; 652511, 2965589; 652465, 2965601; 652500, 2965613; Thence returning to 652509, 2965602.

652343, 2965960; 652461, 2965920; 652553, 2965834; 652601, 2965742; 652614, 2965560; 652556, 2965575; 652569, 2965695; 652520, 2965734; 652509, 2965792; 652458, 2965844; 652440, 2965847; 652430, 2965827; 652481, 2965764; 652478, 2965747; 652452, 2965753; 652350, 2965857; 652306, 2965863; 652255, 2965842; 652207, 2965794; 652197, 2965763; 652207, 2965717; 652192, 2965677; 652100, 2965703; 652131, 2965787; 652106, 2965932; 652133, 2965949; Thence returning to 652343, 2965960.

656908, 2967435; 656905, 2967423; 656889, 2967433; 656891, 2967455; 656930, 2967563; 656943, 2967563; 656953, 2967536; Thence returning to 656908, 2967435.

655691, 2967939; 655653, 2967993; 655663, 2968033; 655711, 2967969; Thence returning to 655691, 2967939.

655662, 2968288; 655652, 2968212; 655615, 2968189; 655592, 2968091; 655551, 2968094; 655577, 2968220; 655571, 2968278; 655616, 2968281; 655639, 2968299; Thence returning to 655662, 2968288.

652426, 2968918; 652397, 2968620; 652376, 2968527; 652374, 2968421; 652350, 2968320; 652385, 2968199; 652353, 2968143; 652289, 2968178; 652267, 2968298; 652313, 2968791; 652335, 2968893; 652363, 2968886; Thence returning to 652426, 2968918.

652691, 2970473; 652580, 2970463; 652553, 2970435; 652547, 2970287; 652653, 2970224; 652621, 2970186; 652514, 2970123; 652502, 2970042; 652551, 2969930; 652502, 2969845; 652616, 2969737; 652623, 2969713; 652533, 2969703; 652494, 2969591; 652492, 2969431; 652464, 2969374; 652452, 2969295; 652419, 2969232; 652444, 2969173; 652430, 2968980; 652392, 2969038; 652396, 2969251; 652425, 2969507; 652415, 2969537; 652388, 2969547; 652395, 2969675; 652410, 2969698; 652418, 2969786; 652414, 2969824; 652391, 2969852; 652391, 2969891; 652424, 2969919; 652447, 2970200; 652425, 2970283; 652456, 2970519; 652489, 2970566; 652521, 2970750; 652522, 2970771; 652496, 2970787; 652505, 2970820; 652616, 2970735; 652596, 2970719; 652580, 2970667; 652576, 2970573; 652615, 2970519; 652702, 2970501; Thence returning to 652691, 2970473.

652808, 2973503; 652775, 2973493; 652796, 2973411; 652787, 2973299; 652771, 2973276; 652727, 2973274; 652746, 2973235; 652747, 2973191; 652790, 2973173; 652775, 2973127; 652802, 2973093; 652775, 2973064; 652732, 2973062; 652719, 2973045; 652737, 2972959; 652740, 2972774; 652712, 2972690; 652709, 2972615; 652732, 2972527; 652694, 2972416; 652717, 2972315; 652687, 2972301; 652673, 2972254; 652639, 2972280; 652629, 2972222; 652643, 2972186; 652703, 2972160; 652743, 2972103; 652743, 2972084; 652710, 2972034; 652626, 2972017; 652628, 2971964; 652665, 2971931; 652668, 2971896; 652650, 2971833; 652619, 2971860; 652609, 2971842; 652636, 2971746; 652699, 2971698; 652676, 2971668; 652697, 2971651; 652666, 2971629; 652647, 2971580; 652643, 2971489; 652662, 2971435; 652625, 2971320; 652624, 2971248; 652633, 2971234; 652758, 2971208; 652670, 2971193; 652596, 2971199; 652590, 2971182; 652620, 2971144; 652585, 2971050; 652568, 2971040; 652555, 2971064; 652553, 2971159; 652532, 2971145; 652522, 2971070; 652535, 2971004; 652610, 2970949; 652599, 2970897; 652633, 2970798; 652617, 2970796; 652582, 2970807; 652546, 2970858; 652506, 2970962; 652493, 2971056; 652709, 2973646; 652745, 2973552; Thence returning to 652808, 2973503.

652819, 2973816; 652805, 2973798; 652758, 2973798; 652745, 2973677; 652709, 2973667; 652741, 2973944; 652815, 2973951; 652829, 2973939; Thence returning to 652819, 2973816.

652879, 2974857; 652822, 2974867; 652850, 2975178; 652896, 2975144; 652930, 2975066; 652926, 2974967; Thence returning to 652879, 2974857.

652917, 2975240; 652860, 2975260; 652905, 2975605; 652939, 2975563; 652946, 2975528; 652941, 2975458; 652905, 2975386; 652928, 2975257; Thence returning to 652917, 2975240.

652980, 2975864; 652950, 2975874; 652917, 2975931; 652935, 2975979; 652921, 2976041; 652949, 2976067; 653031, 2976042; 652994, 2975989; Thence returning to 652980, 2975864.

653022, 2976085; 652970, 2976096; 652934, 2976134; 652980, 2976633; 653025, 2976562; 653039, 2976480; 653043, 2976287; 653009, 2976163; Thence returning to 653022, 2976085.

653101, 2977340; 653118, 2977339; 653116, 2977301; 653085, 2977167; 653072, 2977006; 653153, 2976920; 653156, 2976895; 653112, 2976898; 653059, 2976782; 652992, 2976745; 653070, 2977462; 653095, 2977448; Thence returning to 653101, 2977340.

653331, 2979122; 653388, 2979092; 653405, 2979060; 653291, 2979066; 653255, 2979016; 653220, 2978697; 653224, 2978516; 653193, 2978472; 653195, 2978251; 653216, 2978221; 653172, 2978156; 653193, 2978126; 653194, 2978098; 653173, 2978041; 653141, 2978002; 653138, 2977958; 653171, 2977790; 653162, 2977524; 653115, 2977518; 653075, 2977530; 653065, 2977557; 653093, 2977951; 653115, 2978231; 653144, 2978230; 653153, 2978245; 653148, 2978267; 653121, 2978276; 653228, 2979410; 653234, 2979447; 653258, 2979465; 653326, 2979464; 653287, 2979177; 653295, 2979146; Thence returning to 653331, 2979122.

653717, 2984000; 653721, 2983967; 653696, 2983967; 653637, 2984002; 653627, 2984037; 653658, 2984423; 653718, 2984289; Thence returning to 653717, 2984000.

653921, 2985522; 653942, 2985475; 653856, 2985426; 653832, 2985340; 653773, 2985283; 653768, 2985239; 653800, 2985075; 653751, 2985006; 653753, 2984627; 653733, 2984521; 653708, 2984490; 653663, 2984482; 653753, 2985509; Thence returning to 653921, 2985522.

653820, 2985843; 653852, 2985833; 653851, 2985618; 653780, 2985606; 653750, 2985637; 653782, 2985934; Thence returning to 653820, 2985843.

654156, 2987655; 654078, 2987652; 654057, 2987637; 654026, 2987423; 654003, 2987373; 654010, 2987344; 653991, 2987325; 653991, 2987260; 653948, 2987216; 653938, 2987185; 653947, 2987143; 653975, 2987105; 653964, 2986950; 653923, 2986956; 653888, 2986988; 653902, 2987200; 653952, 2987486; 654008, 2988708; 654065, 2988699; 654067, 2988606; 654098, 2988573; 654140, 2988481; 654107, 2988461; 654105, 2988428; 654074, 2988387; 654078, 2988327; 654110, 2988278; 654059, 2988238; 654052, 2988167; 654060, 2988133; 654094, 2988110; 654049, 2988050; 654031, 2987947; 654036, 2987894; 654066, 2987855; 654050, 2987802; 654068, 2987711; 654092, 2987679; Thence returning to 654156, 2987655.

654117, 2989518; 654087, 2989514; 654066, 2989491; 654080, 2989465; 654069, 2989193; 654098, 2989188; 654110, 2989126; 654172, 2989054; 654176, 2989029; 654137, 2988984; 654105, 2988892; 654103, 2988802; 654132, 2988763; 654010, 2988754; 654014, 2989477; 654050, 2989982; 654114, 2989925; 654131, 2989881; 654074, 2989760; 654126, 2989542; Thence returning to 654117, 2989518.

654117, 2990187; 654092, 2990177; 654115, 2990101; 654057, 2990070; 654088, 2990429; 654216, 2990421; 654224, 2990414; 654177, 2990369; 654156, 2990257; 654132, 2990238; Thence returning to 654117, 2990187.

654992, 2995294; 654963, 2995187; 654879, 2995101; 654810, 2995080; 654748, 2995137; 654727, 2995135; 654764, 2995035; 654770, 2994686; 654749, 2994576; 654686, 2994526; 654712, 2994658; 654663, 2994833; 654726, 2994981; 654697, 2995109; 654710, 2995243; 654822, 2995257; 654873, 2995291; Thence returning to 654992, 2995294.

654681, 2995683; 654969, 2995678; 655002, 2995603; 655045, 2995584; 655082, 2995585; 655117, 2995639; 655147, 2995658; 655391, 2995643; 655426, 2995595; 655476, 2995588; 655480, 2995326; 655444, 2995313; 654699, 2995346; 654703, 2995359; 654884, 2995377; 654897, 2995432; 654845, 2995610; 654643, 2995654; 654646, 2995682; 654681, 2995683; 655148, 2995350; 655218, 2995368; 655223, 2995457; 655158, 2995520; 655088, 2995523; 655040, 2995478; 655022, 2995390; 655038, 2995371; Thence returning to 655148, 2995350.

655715, 2995699; 656069, 2995689; 656090, 2995611; 656118, 2995576; 656172, 2995563; 656268, 2995597; 656353, 2995550; 656369, 2995518; 656429, 2995499; 656447, 2995464; 656386, 2995486; 656344, 2995470; 656327, 2995451; 656313, 2995387; 656324, 2995280; 656211, 2995261; 656181, 2995198; 656181, 2994979; 656122, 2994520; 656125, 2993886; 656050, 2993369; 656054, 2992806; 656035, 2992513; 655881, 2991789; 655840, 2991351; 655758, 2990749; 655715, 2990538; 655714, 2989926; 655752, 2989578; 655648, 2989345; 655619, 2989231; 655621, 2989142; 655665, 2988979; 655878, 2988710; 655911, 2988599; 655901, 2988444; 655816, 2988269; 655786, 2988145; 655848, 2987418; 655787, 2987029; 655800, 2986727; 655777, 2986323; 655774, 2985731; 655824, 2985524; 655907, 2985356; 655972, 2985281; 656065, 2985244; 656118, 2985263; 656212, 2985384; 656282, 2985376; 656347, 2985324; 656412, 2985319; 656504, 2985336; 656688, 2985408; 656808, 2985504; 656893, 2985696; 657072, 2982990; 657158, 2982025; 657146, 2981981; 657165, 2981946; 657350, 2979856; 657584, 2977814; 657963, 2974916; 658327, 2972579; 658578, 2971325; 658518, 2970975; 658636, 2970315; 659620, 2965718; 659575, 2965754; 659546, 2965748; 659519, 2965714; 659522, 2965663; 659496, 2965639; 659472, 2965566; 659382, 2965551; 659252, 2965417; 659260, 2965387; 659233, 2965357; 659236, 2965335; 659266, 2965328; 659312, 2965350; 659336, 2965339; 659303, 2965274; 659310, 2965229; 659273, 2965229; 659168, 2965318; 659146, 2965320; 659136, 2965294; 659174, 2965240; 659129, 2965211; 659163, 2965170; 659262, 2965133; 659200, 2965062; 659240, 2964978; 659320, 2964911; 659434, 2964857; 659412, 2964837; 659330, 2964841; 659270, 2964774; 659245, 2964705; 659276, 2964654; 659264, 2964612; 659275, 2964590; 659496, 2964420; 659506, 2964378; 659455, 2964381; 659390, 2964449; 659342, 2964422; 659346, 2964393; 659470, 2964235; 659524, 2964234; 659575, 2964198; 659628, 2964201; 659673, 2964266; 659723, 2964293; 659835, 2964268; 659964, 2964194; 659999, 2964078; 659987, 2964045; 660017, 2963998; 660048, 2963860; 659994, 2963870; 659912, 2963925; 659855, 2963943; 659672, 2963963; 659565, 2964051; 659444, 2964122; 659351, 2964218; 659271, 2964217; 659266, 2964202; 659300, 2964168; 659354, 2964157; 659381, 2964124; 659389, 2964060; 659403, 2964045; 659446, 2964035; 659528, 2963977; 659809, 2963864; 659829, 2963827; 659783, 2963808; 659896, 2963694; 659930, 2963697; 659926, 2963748; 659951, 2963769; 660008, 2963764; 660036, 2963746; 660065, 2963613; 660001, 2963655; 659898, 2963622; 659795, 2963727; 659619, 2963808; 659593, 2963801; 659692, 2963688; 659845, 2963573; 659780, 2963551; 659843, 2963472; 659873, 2963470; 659875, 2963517; 659909, 2963530; 660064, 2963481; 660131, 2963496; 660995, 2959816; 660945, 2959849; 660921, 2959842; 660913, 2959819; 660954, 2959731; 661044, 2959642; 661081, 2959519; 661009, 2959529; 660895, 2959620; 660876, 2959607; 660874, 2959561; 660895, 2959522; 660996, 2959458; 661022, 2959424; 661020, 2959396; 660974, 2959334; 661069, 2959215; 661078, 2959182; 661048, 2959124; 661056, 2959104; 661251, 2958918; 661279, 2958825; 661265, 2958801; 661233, 2958798; 661237, 2958760; 661275, 2958734; 661300, 2958753; 661700, 2957337; 661660, 2957341; 661653, 2957320; 661726, 2957246; 661877, 2956717; 661864, 2956686; 661893, 2956662; 661936, 2956510; 662262, 2955095; 662670, 2953561; 662990, 2952482; 663607, 2950522; 664017, 2949309; 664025, 2949204; 664064, 2949169; 664131, 2948964; 664117, 2948918; 664156, 2948886; 665019, 2946195; 666036, 2943243; 663031, 2943195; 662824, 2943523; 662721, 2943714; 662605, 2943993; 662473, 2944464; 662347, 2944996; 662146, 2945640; 662106, 2945810; 662091, 2945972; 661970, 2946234; 661813, 2946490; 661734, 2946674; 661668, 2946744; 661523, 2947009; 660839, 2948516; 660605, 2948909; 660496, 2949172; 660421, 2949308; 660408, 2949415; 660421, 2949424; 660473, 2949362; 660509, 2949357; 660535, 2949377; 660547, 2949408; 660535, 2949475; 660466, 2949555; 660388, 2949585; 660114, 2949935; 659963, 2950018; 659887, 2950081; 659741, 2950248; 659514, 2950556; 659168, 2951187; 659034, 2951656; 658929, 2952149; 658913, 2952492; 658939, 2953346; 658842, 2954016; 658686, 2954325; 658342, 2954785; 658048, 2955253; 657842, 2955714; 657734, 2955915; 657568, 2956355; 657339, 2956702; 657168, 2956998; 657080, 2957206; 656948, 2957442; 656876, 2957613; 656734, 2958020; 656699, 2958075; 656688, 2958072; 656682, 2958016; 656654, 2958038; 656611, 2958223; 656590, 2958424; 656677, 2958493; 656724, 2958637; 656775, 2958721; 656786, 2958683; 656836, 2958641; 657001, 2958643; 657170, 2958583; 657174, 2958637; 657190, 2958650; 657427, 2958645; 657503, 2958665; 657517, 2958700; 657517, 2958852; 657506, 2958867; 657121, 2958864; 657067, 2958884; 657028, 2958915; 657019, 2958940; 657088, 2958995; 657111, 2959052; 656890, 2958912; 656838, 2959002; 656736, 2958984; 656717, 2959010; 656549, 2959538; 656463, 2959760; 656412, 2960106; 656330, 2960484; 656337, 2960809; 656294, 2961073; 656276, 2961315; 656238, 2961513; 656137, 2961870; 656064, 2962209; 655930, 2962555; 655841, 2962851; 655714, 2963158; 655485, 2963498; 655317, 2963684; 655049, 2963887; 654527, 2964162; 654261, 2964387; 654114, 2964485; 653936, 2964698; 653732, 2964835; 653580, 2964996; 653222, 2965327; 652911, 2965660; 652628, 2966003; 652441, 2966065; 652268, 2966158; 652194, 2966222; 652084, 2966370; 652127, 2966830; 652176, 2966947; 652193, 2966959; 652269, 2966928; 652424, 2966909; 652454, 2966917; 652468, 2966939; 652485, 2967031; 652504, 2967023; 652509, 2967002; 652465, 2966714; 652461, 2966507; 652452, 2966501; 652405, 2966564; 652336, 2966588; 652342, 2966607; 652426, 2966663; 652441, 2966726; 652433, 2966765; 652380, 2966815; 652230, 2966836; 652205, 2966783; 652162, 2966760; 652158, 2966731; 652200, 2966695; 652207, 2966656; 652258, 2966632; 652267, 2966601; 652248, 2966583; 652161, 2966567; 652130, 2966496; 652131, 2966467; 652195, 2966398; 652171, 2966318; 652237, 2966272; 652290, 2966257; 652344, 2966256; 652386, 2966284; 652436, 2966438; 652482, 2966466; 652497, 2966762; 652530, 2966928; 652532, 2967034; 652417, 2967131; 652228, 2967168; 652158, 2967200; 652165, 2967274; 652213, 2967275; 652268, 2967232; 652358, 2967201; 652425, 2967214; 652455, 2967237; 652449, 2967315; 652412, 2967372; 652359, 2967404; 652182, 2967459; 652190, 2967544; 652294, 2967496; 652438, 2967462; 652496, 2967464; 652526, 2967486; 652537, 2967511; 652529, 2967595; 652483, 2967680; 652407, 2967712; 652258, 2967688; 652256, 2967733; 652278, 2967759; 652270, 2967811; 652282, 2967823; 652320, 2967822; 652306, 2967773; 652316, 2967765; 652463, 2967734; 652526, 2967757; 652552, 2967855; 652519, 2967933; 652567, 2967922; 652606, 2967941; 652613, 2967972; 652597, 2968041; 652630, 2968041; 652651, 2967971; 652685, 2967922; 652724, 2967929; 652743, 2967985; 652764, 2967996; 652842, 2967916; 652898, 2967935; 652963, 2967923; 652974, 2967966; 652966, 2968043; 653006, 2968043; 653024, 2967974; 653063, 2967924; 653153, 2967943; 653177, 2967916; 653240, 2967912; 653376, 2967831; 653432, 2967819; 653608, 2967938; 653633, 2968028; 653674, 2968035; 653673, 2967949; 653644, 2967916; 653672, 2967850; 653692, 2967843; 653733, 2967870; 653764, 2968073; 653776, 2968077; 653776, 2967971; 653804, 2967943; 653835, 2967939; 653867, 2967973; 653879, 2968066; 653928, 2968058; 653921, 2967986; 653952, 2967952; 653976, 2967951; 653990, 2967969; 653996, 2968047; 654034, 2968043; 654050, 2967952; 654074, 2967918; 654173, 2967878; 654307, 2967866; 654323, 2967842; 654303, 2967777; 654313, 2967715; 654350, 2967745; 654380, 2967795; 654393, 2967860; 654435, 2967889; 654445, 2967919; 654419, 2968080; 654427, 2968090; 654405, 2968102; 654403, 2968206; 654305, 2968374; 654199, 2968483; 654173, 2968473; 654174, 2968437; 654141, 2968428; 654129, 2968383; 654276, 2968286; 654291, 2968158; 654280, 2968097; 654254, 2968104; 654247, 2968223; 654219, 2968299; 654198, 2968274; 654217, 2968164; 654209, 2968115; 654178, 2968104; 654162, 2968117; 654160, 2968236; 654137, 2968281; 654098, 2968271; 654021, 2968294; 653992, 2968286; 653972, 2968253; 653991, 2968177; 654056, 2968122; 654123, 2968165; 654097, 2968108; 654042, 2968079; 653981, 2968098; 653899, 2968100; 653829, 2968131; 653766, 2968125; 653753, 2968187; 653727, 2968191; 653730, 2968381; 653765, 2968380; 653785, 2968421; 653758, 2968506; 653730, 2968529; 653705, 2968503; 653729, 2968461; 653708, 2968398; 653672, 2968395; 653627, 2968367; 653623, 2968255; 653603, 2968270; 653600, 2968333; 653576, 2968341; 653558, 2968385; 653552, 2968319; 653515, 2968316; 653464, 2968397; 653449, 2968370; 653465, 2968280; 653451, 2968231; 653357, 2968276; 653293, 2968269; 653244, 2968287; 653141, 2968264; 653120, 2968289; 653077, 2968440; 653062, 2968411; 653064, 2968313; 653026, 2968357; 652970, 2968299; 652933, 2968415; 652893, 2968407; 652865, 2968448; 652818, 2968473; 652812, 2968537; 652785, 2968565; 652780, 2968659; 652721, 2968764; 652732, 2968816; 652800, 2968906; 652786, 2968946; 652709, 2969047; 652716, 2969160; 652696, 2969224; 652760, 2969307; 652757, 2969396; 652783, 2969456; 652790, 2969525; 652742, 2969684; 652776, 2969705; 652778, 2969733; 652710, 2969750; 652789, 2969803; 652860, 2969922; 652886, 2970016; 652883, 2970166; 652870, 2970212; 652826, 2970258; 652867, 2970322; 652870, 2970406; 652823, 2970485; 652924, 2970550; 652945, 2970608; 652924, 2970667; 652879, 2970732; 652752, 2970740; 652766, 2970779; 652925, 2970857; 652997, 2970938; 653004, 2970976; 652979, 2971051; 652975, 2971132; 652905, 2971200; 653013, 2971238; 653064, 2971324; 653053, 2971437; 653014, 2971496; 652986, 2971577; 652959, 2971613; 652859, 2971653; 652863, 2971686; 652928, 2971691; 653003, 2971649; 653038, 2971647; 653077, 2971681; 653091, 2971724; 653095, 2971824; 653068, 2971964; 653098, 2972022; 653040, 2972124; 653027, 2972256; 653047, 2972301; 653143, 2972397; 653162, 2972443; 653164, 2972548; 653116, 2972643; 653166, 2972830; 653201, 2973078; 653160, 2973311; 653164, 2973440; 653187, 2973529; 653276, 2973636; 653290, 2973676; 653301, 2973840; 653287, 2973878; 653247, 2973915; 653377, 2973910; 653379, 2973927; 653379, 2973944; 653204, 2973959; 653125, 2973987; 653161, 2974003; 653242, 2973994; 653394, 2973950; 653434, 2973977; 653451, 2974039; 653445, 2974075; 653404, 2974122; 653316, 2974157; 653292, 2974227; 653253, 2974277; 653281, 2974462; 653229, 2974609; 653184, 2974699; 653150, 2974729; 652934, 2974724; 652882, 2974713; 652861, 2974689; 652858, 2974511; 652820, 2974453; 652842, 2974408; 652829, 2974186; 652844, 2974042; 652775, 2974044; 652761, 2974063; 652758, 2974280; 652797, 2974668; 652831, 2974757; 652818, 2974804; 652885, 2974769; 652969, 2974788; 653069, 2974767; 653178, 2974766; 653252, 2974742; 653360, 2974865; 653375, 2975004; 653306, 2975130; 653301, 2975163; 653311, 2975198; 653362, 2975217; 653361, 2975266; 653406, 2975365; 653402, 2975448; 653345, 2975553; 653350, 2975590; 653326, 2975622; 653362, 2975706; 653376, 2975793; 653353, 2975989; 653377, 2976052; 653473, 2976115; 653487, 2976149; 653467, 2976276; 653389, 2976369; 653365, 2976498; 653463, 2976683; 653496, 2976890; 653541, 2976970; 653556, 2977035; 653539, 2977153; 653468, 2977270; 653464, 2977316; 653480, 2977354; 653472, 2977395; 653574, 2977466; 653562, 2977516; 653586, 2977575; 653799, 2977624; 653820, 2977645; 653820, 2977696; 653844, 2977677; 653867, 2977626; 653919, 2977655; 653930, 2977706; 653979, 2977701; 653987, 2977629; 654030, 2977616; 654063, 2977656; 654082, 2977728; 654111, 2977720; 654141, 2977743; 654193, 2977739; 654138, 2978017; 654116, 2978061; 654043, 2978088; 654081, 2977834; 654077, 2977790; 654028, 2977818; 653990, 2977793; 653947, 2978100; 653925, 2978125; 653904, 2978118; 653924, 2977819; 653919, 2977807; 653890, 2977817; 653860, 2977752; 653849, 2977947; 653810, 2978071; 653779, 2978093; 653805, 2977809; 653766, 2977843; 653679, 2977868; 653640, 2977896; 653604, 2977961; 653588, 2978062; 653536, 2978126; 653586, 2978359; 653587, 2978564; 653626, 2978721; 653601, 2978856; 653603, 2978978; 653622, 2979012; 653693, 2979061; 653727, 2979179; 653719, 2979298; 653673, 2979356; 653668, 2979391; 653632, 2979402; 653620, 2979439; 653715, 2979451; 653797, 2979394; 653763, 2979460; 653696, 2979521; 653755, 2979561; 653791, 2979787; 653773, 2979842; 653710, 2979829; 653701, 2979845; 653750, 2980094; 653723, 2980262; 653683, 2980348; 653655, 2980375; 653556, 2980371; 653423, 2980341; 653402, 2980322; 653397, 2980285; 653421, 2980222; 653363, 2980185; 653375, 2980104; 653348, 2980087; 653338, 2980060; 653345, 2980001; 653395, 2979944; 653362, 2979921; 653360, 2979860; 653322, 2979734; 653324, 2979635; 653349, 2979563; 653252, 2979580; 653242, 2979602; 653302, 2980451; 653476, 2982413; 653645, 2982410; 653628, 2982370; 653599, 2982383; 653586, 2982369; 653586, 2982318; 653604, 2982272; 653593, 2982228; 653545, 2982168; 653536, 2982099; 653541, 2982068; 653581, 2982043; 653560, 2981994; 653567, 2981963; 653633, 2981905; 653785, 2981926; 653824, 2981989; 653972, 2982010; 654035, 2982068; 654054, 2982127; 654052, 2982287; 654004, 2982507; 654011, 2982524; 654046, 2982527; 654050, 2982547; 654035, 2982574; 653992, 2982591; 653984, 2982634; 653991, 2982697; 654067, 2982930; 654060, 2983047; 654043, 2983107; 654015, 2983145; 653974, 2983155; 653781, 2983125; 653654, 2983090; 653635, 2983071; 653618, 2983019; 653626, 2982969; 653580, 2982938; 653581, 2982836; 653607, 2982787; 653606, 2982657; 653574, 2982613; 653575, 2982566; 653536, 2982555; 653554, 2982503; 653596, 2982510; 653651, 2982443; 653521, 2982449; 653484, 2982475; 653609, 2983886; 653678, 2983880; 653698, 2983860; 653707, 2983673; 653656, 2983483; 653657, 2983336; 653635, 2983341; 653611, 2983373; 653597, 2983365; 653598, 2983300; 653631, 2983233; 653621, 2983215; 653593, 2983211; 653592, 2983196; 653613, 2983178; 653647, 2983180; 653663, 2983135; 653698, 2983161; 653738, 2983150; 653819, 2983175; 653884, 2983174; 653921, 2983219; 653978, 2983231; 654007, 2983233; 653994, 2983193; 654005, 2983189; 654110, 2983316; 654109, 2983331; 654066, 2983349; 654068, 2983454; 654115, 2983550; 654105, 2983631; 654125, 2983787; 654056, 2983859; 654096, 2983866; 654107, 2983891; 654169, 2983911; 654197, 2983942; 654193, 2984213; 654174, 2984253; 654229, 2984386; 654238, 2984536; 654228, 2984672; 654203, 2984755; 654270, 2984972; 654236, 2985173; 654189, 2985343; 654069, 2985523; 654293, 2985535; 654319, 2985163; 654336, 2985131; 654346, 2985320; 654389, 2985297; 654458, 2985224; 654527, 2985214; 654628, 2985288; 654656, 2985400; 654650, 2985465; 654623, 2985493; 654458, 2985513; 654423, 2985487; 654411, 2985370; 654391, 2985351; 654373, 2985366; 654376, 2985480; 654355, 2985514; 654365, 2985528; 654559, 2985550; 654684, 2985539; 654716, 2985518; 654744, 2985537; 654730, 2985558; 654580, 2985637; 654639, 2985711; 654634, 2985770; 654613, 2985801; 654398, 2985892; 654343, 2985938; 654336, 2985963; 654354, 2986091; 654296, 2986206; 654301, 2986317; 654365, 2986382; 654382, 2986439; 654368, 2986642; 654331, 2986772; 654380, 2986752; 654384, 2986844; 654369, 2986859; 654324, 2986852; 654313, 2986876; 654373, 2987024; 654381, 2987213; 654403, 2987223; 654385, 2987269; 654416, 2987373; 654495, 2987413; 654510, 2987466; 654506, 2987524; 654449, 2987634; 654473, 2987806; 654462, 2988082; 654491, 2988273; 654524, 2988383; 654516, 2988470; 654563, 2988471; 654574, 2988526; 654548, 2988607; 654502, 2988629; 654481, 2988656; 654533, 2988680; 654521, 2988782; 654544, 2988856; 654531, 2988908; 654459, 2988960; 654326, 2988996; 654232, 2989000; 654210, 2989023; 654209, 2989053; 654399, 2989078; 654493, 2989140; 654518, 2989205; 654524, 2989299; 654517, 2989376; 654486, 2989435; 654559, 2989496; 654584, 2989563; 654573, 2989632; 654506, 2989727; 654523, 2989839; 654494, 2989953; 654387, 2989982; 654356, 2990015; 654424, 2990029; 654475, 2990063; 654506, 2990109; 654517, 2990172; 654515, 2990237; 654490, 2990310; 654459, 2990347; 654386, 2990389; 654376, 2990432; 654430, 2990456; 654586, 2990471; 654596, 2990506; 654555, 2990492; 654546, 2990509; 654600, 2990580; 654635, 2990670; 654634, 2990820; 654576, 2990930; 654623, 2991064; 654634, 2991192; 654628, 2991238; 654563, 2991304; 654599, 2991658; 654573, 2991728; 654519, 2991765; 654528, 2991795; 654517, 2991814; 654612, 2991851; 654633, 2991873; 654656, 2991941; 654671, 2992096; 654651, 2992157; 654577, 2992255; 654609, 2992446; 654615, 2992628; 654604, 2992707; 654566, 2992763; 654601, 2992857; 654613, 2992975; 654572, 2993045; 654460, 2993068; 654396, 2993116; 654387, 2993063; 654319, 2993042; 654283, 2992986; 654296, 2992845; 654343, 2992710; 654336, 2992615; 654289, 2992577; 654263, 2992514; 654272, 2992329; 654291, 2992274; 654266, 2992246; 654240, 2992035; 654254, 2991939; 654300, 2991845; 654366, 2991824; 654437, 2991847; 654487, 2991822; 654486, 2991776; 654462, 2991750; 654323, 2991714; 654306, 2991725; 654295, 2991767; 654269, 2991777; 654273, 2991703; 654231, 2991644; 654209, 2991582; 654203, 2991498; 654238, 2991393; 654206, 2991303; 654198, 2991225; 654156, 2991196; 654151, 2991130; 654157, 2991058; 654209, 2990976; 654213, 2990804; 654173, 2990823; 654160, 2990799; 654142, 2990809; 654134, 2990797; 654137, 2990756; 654154, 2990739; 654150, 2990691; 654187, 2990654; 654203, 2990463; 654151, 2990468; 654118, 2990506; 654101, 2990553; 654101, 2990674; 654144, 2991885; 654221, 2993252; 654247, 2994103; 654279, 2994101; 654325, 2994037; 654380, 2994014; 654574, 2994024; 654664, 2994059; 654691, 2994085; 654726, 2994197; 654803, 2994210; 654836, 2994336; 654856, 2994483; 654853, 2994513; 654808, 2994555; 654818, 2994639; 654856, 2994665; 654926, 2994654; 654969, 2994699; 654964, 2994848; 655000, 2995022; 655007, 2995209; 655059, 2995207; 655112, 2995118; 655150, 2995096; 655177, 2995108; 655224, 2995206; 655270, 2995257; 655385, 2995260; 655401, 2995230; 655395, 2995163; 655434, 2995137; 655481, 2995138; 655546, 2995180; 655585, 2995231; 655577, 2995279; 655593, 2995453; 655568, 2995549; 655515, 2995591; 655516, 2995706; 655715, 2995699; 655895, 2995154; 655959, 2995124; 656033, 2995138; 656116, 2995243; 656123, 2995312; 656093, 2995423; 656034, 2995535; 655925, 2995587; 655847, 2995656; 655840, 2995631; 655900, 2995551; 655804, 2995407; 655857, 2995200; 655895, 2995154; 654397, 2993609; 654475, 2993632; 654580, 2993629; 654613, 2993648; 654628, 2993678; 654648, 2993733; 654645, 2993780; 654591, 2993855; 654523, 2993913; 654379, 2993923; 654346, 2993894; 654315, 2993767; 654319, 2993684; 654350, 2993634; 654397, 2993609; 654422, 2993124; 654501, 2993099; 654595, 2993104; 654699, 2993185; 654715, 2993247; 654698, 2993375; 654665, 2993430; 654586, 2993473; 654455, 2993470; 654440, 2993487; 654432, 2993557; 654419, 2993568; 654406, 2993551; 654408, 2993467; 654341, 2993442; 654309, 2993403; 654297, 2993361; 654323, 2993211; 654363, 2993164; 654422, 2993124; 654719, 2988627; 654731, 2988544; 654754, 2988521; 654774, 2988559; 654773, 2988594; 654739, 2988642; 654719, 2988627; 655131, 2988623; 655110, 2988569; 655110, 2988538; 655123, 2988529; 655139, 2988537; 655155, 2988600; 655154, 2988615; 655131, 2988623; 655367, 2988563; 655376, 2988509; 655399, 2988513; 655412, 2988537; 655407, 2988605; 655384, 2988608; 655367, 2988563; 654912, 2988510; 654907, 2988602; 654880, 2988614; 654861, 2988566; 654859, 2988493; 654884, 2988480; 654903, 2988486; 654912, 2988510; 654658, 2988517; 654659, 2988601; 654633, 2988613; 654611, 2988603; 654616, 2988496; 654644, 2988495; 654658, 2988517; 655027, 2988542; 655041, 2988554; 655044, 2988604; 655022, 2988622; 655010, 2988583; 655027, 2988542; 654678, 2986173; 654650, 2986140; 654621, 2986165; 654573, 2986157; 654527, 2986096; 654526, 2986075; 654541, 2986065; 654594, 2986132; 654643, 2986099; 654675, 2986102; 654708, 2986159; 654692, 2986292; 654663, 2986281; 654673, 2986228; 654662, 2986188; 654678, 2986173; 654589, 2986069; 654594, 2986042; 654619, 2986058; 654613, 2986079; 654589, 2986069; 654511, 2985922; 654536, 2985933; 654535, 2985980; 654516, 2985990; 654511, 2985922; 654818, 2985934; 654797, 2985854; 654830, 2985884; 654835, 2985930; 654818, 2985934; 654555, 2985890; 654540, 2985885; 654550, 2985864; 654587, 2985860; 654555, 2985890; 654210, 2983742; 654227, 2983749; 654226, 2983782; 654213, 2983829; 654197, 2983839; 654186, 2983770; 654210, 2983742; 655089, 2983850; 655072, 2983748; 655078, 2983692; 655094, 2983682; 655151, 2983819; 655126, 2983844; 655089, 2983850; 654733, 2983711; 654759, 2983821; 654733, 2983841; 654689, 2983840; 654676, 2983822; 654668, 2983751; 654681, 2983666; 654695, 2983659; 654733, 2983711; 654463, 2983813; 654448, 2983804; 654461, 2983757; 654473, 2983766; 654463, 2983813; 654306, 2983769; 654307, 2983803; 654287, 2983801; 654288, 2983759; 654306, 2983769; 654868, 2983726; 654891, 2983749; 654902, 2983798; 654866, 2983801; 654859, 2983787; 654868, 2983726; 653719, 2981878; 653579, 2981866; 653519, 2981816; 653520, 2981755; 653483, 2981608; 653495, 2981453; 653454, 2981420; 653453, 2981400; 653483, 2981265; 653554, 2981232; 653567, 2981201; 653466, 2981123; 653431, 2980918; 653447, 2980781; 653381, 2980729; 653428, 2980697; 653433, 2980670; 653417, 2980533; 653386, 2980434; 653404, 2980395; 653494, 2980405; 653720, 2980395; 653801, 2980424; 653827, 2980488; 653823, 2980571; 653774, 2980604; 653768, 2980631; 653798, 2980667; 653817, 2980787; 653874, 2980973; 653853, 2981116; 653883, 2981174; 653878, 2981273; 653900, 2981430; 653828, 2981824; 653791, 2981873; 653719, 2981878; 654384, 2977921; 654381, 2977793; 654345, 2977815; 654312, 2977875; 654305, 2977807; 654271, 2977783; 654269, 2977902; 654260, 2977917; 654247, 2977911; 654222, 2977712; 654270, 2977677; 654283, 2977612; 654323, 2977607; 654360, 2977628; 654399, 2977720; 654464, 2977697; 654472, 2977643; 654492, 2977631; 654531, 2977689; 654535, 2977742; 654618, 2977695; 654618, 2977633; 654656, 2977605; 654701, 2977631; 654730, 2977716; 654790, 2977684; 654796, 2977624; 654846, 2977649; 654873, 2977725; 654918, 2977694; 654998, 2977670; 655009, 2977591; 655024, 2977575; 655069, 2977594; 655111, 2977659; 655124, 2977738; 655106, 2977822; 655092, 2977834; 655049, 2977831; 654994, 2977804; 654930, 2977905; 654900, 2977908; 654878, 2977890; 654864, 2977762; 654811, 2977805; 654793, 2977734; 654768, 2977957; 654748, 2977992; 654720, 2977988; 654705, 2977942; 654722, 2977763; 654653, 2977820; 654627, 2977755; 654591, 2977973; 654554, 2978011; 654529, 2978002; 654526, 2977756; 654471, 2977765; 654461, 2978008; 654437, 2978050; 654389, 2978025; 654384, 2977921; 653916, 2974225; 653888, 2974181; 653932, 2974035; 653955, 2974000; 654012, 2973999; 654087, 2974152; 654091, 2974205; 654018, 2974262; 653992, 2974313; 653968, 2974299; 653959, 2974257; 653916, 2974225; 654737, 2974234; 654692, 2974216; 654645, 2974224; 654606, 2974172; 654641, 2974142; 654628, 2974078; 654725, 2973972; 654748, 2973979; 654775, 2974019; 654819, 2974159; 654814, 2974196; 654781, 2974229; 654737, 2974234; 655287, 2974083; 655241, 2974076; 655237, 2974050; 655243, 2974022; 655287, 2973971; 655374, 2973938; 655413, 2973937; 655444, 2973959; 655473, 2974064; 655446, 2974120; 655408, 2974153; 655378, 2974156; 655345, 2974139; 655326, 2974163; 655287, 2974157; 655276, 2974141; 655287, 2974083; 656174, 2974108; 656097, 2974094; 656079, 2974019; 656044, 2973971; 656057, 2973923; 656116, 2973868; 656081, 2973812; 656108, 2973791; 656146, 2973797; 656183, 2973862; 656245, 2973880; 656290, 2973951; 656288, 2973995; 656266, 2974031; 656174, 2974108; 656665, 2973908; 656725, 2973842; 656745, 2973837; 656803, 2973832; 656865, 2973847; 656892, 2973819; 656941, 2973863; 656939, 2973893; 656909, 2973915; 656889, 2974024; 656867, 2974051; 656796, 2974084; 656749, 2974080; 656710, 2974055; 656701, 2973987; 656661, 2973952; 656665, 2973908; 657154, 2974021; 657190, 2974023; 657194, 2974010; 657137, 2973956; 657083, 2973930; 657121, 2973916; 657099, 2973878; 657103, 2973840; 657126, 2973816; 657176, 2973804; 657205, 2973769; 657240, 2973770; 657320, 2973845; 657308, 2973947; 657284, 2973989; 657232, 2974034; 657170, 2974049; 657143, 2974031; 657154, 2974021; 657413, 2973821; 657430, 2973831; 657439, 2973872; 657414, 2973891; 657396, 2973867; 657413, 2973821; 657565, 2973839; 657580, 2973860; 657562, 2973869; 657565, 2973839; 657679, 2973849; 657689, 2973804; 657708, 2973796; 657717, 2973819; 657705, 2973854; 657682, 2973862; 657679, 2973849; 657637, 2973827; 657612, 2973823; 657607, 2973738; 657651, 2973741; 657681, 2973706; 657664, 2973631; 657630, 2973622; 657614, 2973633; 657601, 2973687; 657564, 2973669; 657543, 2973676; 657499, 2973650; 657474, 2973710; 657501, 2973806; 657479, 2973807; 657456, 2973783; 657434, 2973620; 657418, 2973617; 657334, 2973663; 657284, 2973647; 657103, 2973670; 657068, 2973687; 657068, 2973720; 657093, 2973725; 657184, 2973690; 657297, 2973685; 657326, 2973725; 657125, 2973766; 657052, 2973746; 657028, 2973717; 656999, 2973722; 656997, 2973783; 656973, 2973807; 656969, 2973715; 656936, 2973714; 656912, 2973685; 656725, 2973708; 656719, 2973720; 656755, 2973731; 656858, 2973735; 656865, 2973783; 656846, 2973798; 656672, 2973804; 656638, 2973791; 656624, 2973763; 656591, 2973762; 656582, 2973823; 656555, 2973817; 656548, 2973794; 656575, 2973752; 656578, 2973701; 656610, 2973672; 656634, 2973564; 656730, 2973496; 656883, 2973437; 657016, 2973430; 657144, 2973393; 657363, 2973372; 657455, 2973383; 657510, 2973428; 657527, 2973463; 657526, 2973576; 657556, 2973575; 657584, 2973535; 657630, 2973521; 657651, 2973536; 657708, 2973534; 657745, 2973558; 657799, 2973559; 657758, 2973604; 657788, 2973688; 657756, 2973720; 657731, 2973663; 657707, 2973658; 657710, 2973743; 657666, 2973773; 657637, 2973827; 657843, 2973567; 657840, 2973549; 657796, 2973530; 657795, 2973476; 657799, 2973459; 657852, 2973438; 657890, 2973467; 657912, 2973563; 657901, 2973605; 657872, 2973626; 657834, 2973604; 657843, 2973567; 657757, 2973474; 657734, 2973463; 657744, 2973406; 657677, 2973423; 657676, 2973359; 657634, 2973324; 657635, 2973301; 657656, 2973276; 657704, 2973248; 657794, 2973255; 657823, 2973323; 657819, 2973389; 657757, 2973474; 656601, 2973360; 656599, 2973491; 656547, 2973560; 656520, 2973664; 656475, 2973685; 656511, 2973764; 656508, 2973796; 656475, 2973827; 656460, 2973878; 656442, 2973826; 656418, 2973826; 656388, 2973849; 656378, 2973896; 656338, 2973810; 656326, 2973820; 656247, 2973758; 656065, 2973770; 656039, 2973783; 655993, 2973848; 655988, 2973821; 656042, 2973726; 656059, 2973590; 656097, 2973563; 656211, 2973570; 656253, 2973686; 656304, 2973673; 656324, 2973698; 656463, 2973676; 656445, 2973654; 656447, 2973608; 656487, 2973551; 656419, 2973545; 656396, 2973529; 656378, 2973480; 656393, 2973416; 656337, 2973445; 656304, 2973442; 656347, 2973355; 656404, 2973303; 656500, 2973279; 656570, 2973315; 656601, 2973360; 655854, 2973427; 655855, 2973587; 655887, 2973660; 655945, 2973718; 655880, 2973771; 655856, 2973868; 655763, 2973872; 655739, 2973913; 655685, 2973816; 655620, 2973814; 655608, 2973839; 655656, 2973862; 655688, 2973920; 655644, 2973914; 655605, 2973881; 655600, 2974022; 655581, 2974056; 655551, 2974025; 655530, 2973848; 655468, 2973837; 655470, 2973795; 655431, 2973784; 655418, 2973794; 655437, 2973877; 655365, 2973911; 655346, 2973891; 655391, 2973859; 655388, 2973816; 655374, 2973800; 655317, 2973804; 655316, 2973822; 655357, 2973841; 655347, 2973858; 655263, 2973833; 655247, 2973871; 655225, 2973837; 655150, 2973848; 655133, 2973836; 655142, 2973738; 655163, 2973721; 655200, 2973728; 655187, 2973815; 655222, 2973805; 655247, 2973739; 655294, 2973696; 655465, 2973723; 655506, 2973787; 655567, 2973768; 655600, 2973699; 655618, 2973711; 655646, 2973699; 655670, 2973738; 655680, 2973709; 655715, 2973711; 655791, 2973675; 655796, 2973654; 655772, 2973633; 655781, 2973603; 655736, 2973576; 655665, 2973564; 655668, 2973513; 655618, 2973500; 655608, 2973475; 655724, 2973346; 655824, 2973375; 655854, 2973427; 655112, 2973498; 655127, 2973533; 655118, 2973577; 655080, 2973657; 655041, 2973700; 654987, 2973702; 654891, 2973659; 654864, 2973547; 654895, 2973504; 654996, 2973472; 655080, 2973479; 655112, 2973498; 654347, 2973690; 654291, 2973731; 654206, 2973708; 654124, 2973726; 654103, 2973712; 654142, 2973646; 654158, 2973578; 654226, 2973543; 654284, 2973546; 654325, 2973579; 654353, 2973639; 654347, 2973690; 653630, 2973716; 653660, 2973814; 653578, 2973934; 653450, 2973893; 653406, 2973898; 653412, 2973830; 653471, 2973771; 653468, 2973757; 653441, 2973753; 653432, 2973728; 653470, 2973614; 653516, 2973561; 653587, 2973561; 653621, 2973617; 653630, 2973716; 654260, 2973940; 654268, 2973913; 654414, 2973888; 654459, 2973906; 654545, 2973901; 654529, 2973928; 654497, 2973944; 654406, 2973952; 654383, 2973991; 654351, 2973983; 654342, 2973956; 654260, 2973940; 653559, 2973965; 653541, 2974020; 653515, 2974025; 653498, 2973974; 653559, 2973965; 653610, 2973987; 653624, 2973988; 653624, 2974003; 653605, 2974024; 653596, 2974007; 653610, 2973987; 654223, 2973996; 654231, 2973977; 654260, 2973984; 654223, 2973996; 654991, 2973943; 654953, 2973921; 654939, 2973863; 654897, 2973874; 654887, 2973935; 654867, 2973933; 654816, 2973880; 654778, 2973899; 654769, 2973867; 654807, 2973832; 654805, 2973764; 654866, 2973791; 654907, 2973765; 655059, 2973733; 655072, 2973789; 655057, 2973820; 654970, 2973815; 654960, 2973851; 655009, 2973920; 654991, 2973943; 655073, 2973872; 655091, 2973891; 655073, 2973926; 655057, 2973889; 655073, 2973872; 655121, 2973876; 655144, 2973883; 655132, 2973907; 655119, 2973905; 655121, 2973876; 655167, 2973879; 655186, 2973875; 655192, 2973896; 655172, 2973906; 655167, 2973879; 654626, 2973745; 654642, 2973797; 654646, 2973894; 654603, 2973935; 654577, 2973846; 654473, 2973864; 654440, 2973852; 654435, 2973829; 654457, 2973806; 654538, 2973799; 654599, 2973738; 654626, 2973745; 654310, 2973816; 654278, 2973873; 654178, 2973852; 654184, 2973816; 654288, 2973798; 654310, 2973816; 654359, 2973831; 654378, 2973841; 654347, 2973871; 654359, 2973831; 653781, 2973876; 653800, 2973899; 653790, 2973924; 653768, 2973928; 653747, 2973896; 653781, 2973876; 654693, 2973779; 654709, 2973789; 654730, 2973869; 654696, 2973890; 654681, 2973880; 654675, 2973834; 654677, 2973793; 654693, 2973779; 656026, 2973885; 656020, 2973856; 656038, 2973842; 656064, 2973881; 656026, 2973885; 655918, 2973848; 655904, 2973847; 655903, 2973799; 655923, 2973818; 655918, 2973848; 655957, 2973802; 655961, 2973781; 655981, 2973787; 655975, 2973817; 655960, 2973823; 655957, 2973802; 656213, 2973779; 656234, 2973779; 656281, 2973813; 656308, 2973853; 656287, 2973863; 656182, 2973811; 656213, 2973779; 656903, 2973756; 656936, 2973763; 656938, 2973776; 656912, 2973789; 656903, 2973756; 657385, 2973747; 657355, 2973698; 657367, 2973672; 657418, 2973695; 657414, 2973762; 657401, 2973767; 657385, 2973747; 657551, 2973777; 657567, 2973771; 657562, 2973810; 657551, 2973808; 657551, 2973777; 653821, 2974117; 653806, 2974096; 653833, 2974077; 653838, 2974093; 653821, 2974117; 653727, 2974211; 653711, 2974205; 653706, 2974184; 653737, 2974154; 653740, 2974189; 653727, 2974211; 653238, 2969995; 653263, 2969994; 653251, 2970052; 653221, 2970069; 653207, 2970049; 653238, 2969995; 653421, 2969995; 653403, 2969963; 653418, 2969903; 653453, 2969939; 653482, 2969919; 653510, 2969932; 653459, 2969991; 653421, 2969995; 653395, 2969796; 653421, 2969797; 653456, 2969845; 653404, 2969868; 653383, 2969815; 653395, 2969796; 653445, 2969653; 653345, 2969645; 653368, 2969556; 653357, 2969499; 653439, 2969414; 653567, 2969386; 653545, 2969439; 653569, 2969461; 653479, 2969519; 653469, 2969559; 653523, 2969550; 653609, 2969487; 653678, 2969500; 653722, 2969467; 653762, 2969466; 653728, 2969557; 653779, 2969575; 653779, 2969592; 653717, 2969663; 653699, 2969662; 653680, 2969634; 653631, 2969658; 653575, 2969654; 653513, 2969715; 653462, 2969729; 653452, 2969715; 653460, 2969674; 653445, 2969653; 653419, 2968605; 653456, 2968616; 653469, 2968696; 653537, 2968682; 653542, 2968731; 653495, 2968872; 653415, 2968971; 653342, 2969126; 653314, 2969143; 653302, 2969123; 653309, 2969088; 653371, 2968940; 653332, 2968922; 653341, 2968671; 653366, 2968630; 653419, 2968605; 653973, 2968979; 654057, 2968997; 654072, 2969031; 654035, 2969057; 653950, 2969049; 653936, 2969023; 653973, 2968979; 654247, 2968998; 654229, 2968956; 654294, 2968937; 654315, 2968869; 654339, 2968860; 654360, 2968902; 654344, 2968996; 654296, 2969017; 654247, 2968998; 654482, 2968785; 654503, 2968712; 654537, 2968694; 654554, 2968591; 654513, 2968504; 654533, 2968491; 654552, 2968525; 654574, 2968523; 654603, 2968555; 654648, 2968544; 654662, 2968505; 654618, 2968500; 654609, 2968468; 654636, 2968390; 654684, 2968349; 654751, 2968493; 654737, 2968593; 654708, 2968632; 654607, 2968681; 654540, 2968777; 654482, 2968785; 655021, 2968577; 655048, 2968461; 655025, 2968413; 655015, 2968434; 654973, 2968419; 654936, 2968453; 654920, 2968386; 654879, 2968404; 654846, 2968392; 654847, 2968355; 654892, 2968303; 654898, 2968194; 654931, 2968156; 654956, 2968156; 654994, 2968222; 655038, 2968180; 655063, 2968178; 655123, 2968035; 655153, 2968031; 655197, 2968061; 655332, 2968011; 655368, 2968077; 655381, 2968079; 655413, 2968042; 655457, 2968067; 655466, 2968013; 655513, 2968036; 655512, 2967912; 655445, 2967893; 655430, 2967832; 655480, 2967739; 655560, 2967685; 655648, 2967679; 655685, 2967709; 655731, 2967957; 655776, 2967931; 655830, 2967816; 655895, 2967757; 656358, 2967515; 656475, 2967438; 656941, 2967211; 657304, 2966934; 657347, 2966921; 657419, 2966937; 657470, 2966984; 657522, 2967005; 657561, 2966958; 657589, 2966953; 657634, 2966995; 657649, 2967064; 657634, 2967210; 657607, 2967286; 657553, 2967360; 657357, 2967451; 657247, 2967523; 657189, 2967509; 657127, 2967630; 657057, 2967677; 657038, 2967668; 657023, 2967633; 657007, 2967632; 656962, 2967670; 656792, 2967733; 656654, 2967762; 656640, 2967779; 656648, 2967808; 656631, 2967860; 656653, 2967873; 656679, 2967827; 656711, 2967831; 656723, 2967918; 656710, 2967941; 656582, 2967970; 656562, 2967933; 656598, 2967897; 656557, 2967877; 656545, 2967845; 656587, 2967841; 656597, 2967799; 656484, 2967789; 656486, 2967854; 656515, 2967871; 656511, 2967936; 656498, 2967951; 656442, 2967935; 656397, 2967877; 656356, 2967764; 656344, 2967765; 656369, 2967939; 656354, 2967997; 656307, 2968027; 656268, 2968104; 656254, 2968107; 656214, 2968060; 656192, 2968055; 656137, 2968093; 656090, 2968150; 656026, 2968170; 655962, 2968279; 655923, 2968305; 655907, 2968270; 655911, 2968198; 655879, 2968188; 655882, 2968143; 655854, 2968138; 655818, 2968096; 655800, 2967963; 655787, 2967964; 655770, 2967979; 655763, 2968016; 655779, 2968033; 655799, 2968141; 655784, 2968211; 655820, 2968218; 655823, 2968244; 655816, 2968264; 655778, 2968281; 655728, 2968161; 655698, 2968214; 655711, 2968286; 655700, 2968379; 655721, 2968454; 655699, 2968519; 655674, 2968515; 655653, 2968424; 655620, 2968408; 655592, 2968356; 655554, 2968361; 655524, 2968299; 655475, 2968298; 655460, 2968352; 655468, 2968403; 655432, 2968455; 655411, 2968445; 655409, 2968372; 655361, 2968373; 655338, 2968329; 655312, 2968340; 655285, 2968324; 655228, 2968402; 655221, 2968444; 655257, 2968476; 655265, 2968529; 655311, 2968591; 655282, 2968640; 655247, 2968648; 655238, 2968636; 655223, 2968562; 655204, 2968568; 655198, 2968603; 655173, 2968613; 655128, 2968538; 655128, 2968465; 655167, 2968420; 655184, 2968339; 655156, 2968341; 655141, 2968409; 655122, 2968364; 655079, 2968444; 655090, 2968591; 655043, 2968654; 655010, 2968639; 655021, 2968577; 655478, 2968461; 655488, 2968399; 655503, 2968394; 655522, 2968471; 655487, 2968487; 655478, 2968461; 656137, 2968166; 656173, 2968142; 656186, 2968179; 656144, 2968204; 656132, 2968194; 656137, 2968166; 655333, 2967908; 655272, 2967882; 655256, 2967857; 655284, 2967822; 655350, 2967807; 655361, 2967847; 655333, 2967908; 654600, 2967898; 654649, 2967979; 654704, 2967980; 654710, 2968049; 654694, 2968091; 654680, 2968089; 654660, 2968038; 654622, 2968099; 654466, 2968025; 654487, 2967955; 654521, 2967908; 654554, 2967884; 654600, 2967898; 654884, 2968098; 654860, 2968060; 654865, 2968029; 654910, 2968006; 654936, 2968009; 654945, 2968054; 654934, 2968083; 654914, 2968102; 654884, 2968098; 654791, 2968393; 654764, 2968423; 654744, 2968422; 654746, 2968338; 654802, 2968194; 654859, 2968170; 654863, 2968203; 654824, 2968365; 654813, 2968390; 654791, 2968393; 654568, 2968346; 654475, 2968463; 654445, 2968608; 654410, 2968660; 654416, 2968680; 654459, 2968690; 654446, 2968745; 654426, 2968759; 654417, 2968720; 654362, 2968679; 654359, 2968642; 654415, 2968508; 654398, 2968401; 654436, 2968320; 654496, 2968280; 654511, 2968239; 654570, 2968262; 654579, 2968240; 654568, 2968211; 654604, 2968201; 654627, 2968219; 654623, 2968254; 654568, 2968346; 654298, 2968754; 654255, 2968776; 654241, 2968743; 654290, 2968714; 654298, 2968754; 654847, 2968425; 654863, 2968434; 654862, 2968505; 654848, 2968547; 654829, 2968559; 654823, 2968486; 654847, 2968425; 653797, 2968199; 653801, 2968175; 653820, 2968169; 653903, 2968164; 653914, 2968175; 653923, 2968208; 653898, 2968227; 653902, 2968315; 653853, 2968318; 653822, 2968347; 653803, 2968340; 653797, 2968199; 652169, 2966665; 652140, 2966660; 652145, 2966621; 652176, 2966624; 652169, 2966665; 657636, 2959603; 657682, 2959612; 657736, 2959651; 657768, 2959717; 657784, 2959834; 657756, 2959900; 657715, 2959903; 657668, 2959877; 657610, 2959792; 657607, 2959632; 657636, 2959603; 661745, 2954982; 661741, 2954950; 661657, 2954966; 661640, 2954923; 661678, 2954843; 661748, 2954792; 661782, 2954778; 661833, 2954786; 661869, 2954812; 661879, 2954857; 661921, 2954875; 661899, 2954916; 661817, 2954973; 661777, 2954990; 661745, 2954982; 661944, 2954563; 661982, 2954574; 662013, 2954609; 662019, 2954643; 662001, 2954686; 661954, 2954713; 661820, 2954714; 661808, 2954694; 661829, 2954659; 661944, 2954563; 660448, 2949592; 660500, 2949583; 660556, 2949639; 660576, 2949675; 660579, 2949727; 660546, 2949808; 660493, 2949865; 660413, 2949899; 660358, 2949856; 660355, 2949835; 660393, 2949679; 660415, 2949627; 660448, 2949592; 660918, 2949766; 660952, 2949643; 660984, 2949597; 661066, 2949585; 661092, 2949601; 661102, 2949729; 661083, 2949813; 661018, 2949828; 660986, 2949884; 660955, 2949881; 660929, 2949852; 660918, 2949766; 660792, 2949760; 660765, 2949756; 660770, 2949618; 660796, 2949596; 660823, 2949596; 660832, 2949631; 660792, 2949760; 660724, 2949738; 660708, 2949743; 660693, 2949727; 660694, 2949686; 660706, 2949674; 660741, 2949679; 660724, 2949738; 663237, 2946471; 663288, 2946483; 663314, 2946513; 663300, 2946588; 663182, 2946769; 663061, 2947011; 663001, 2947060; 662917, 2947043; 662900, 2946969; 662912, 2946910; 663026, 2946760; 663181, 2946502; Thence returning to 663237, 2946471.

Excluding:

Unit TX-3 Subunit C, Kenedy County, Texas. Coordinates are in UTM Zone 14N, North American Datum 1983 (meters E, meters N):

656033, 2995138; 655959, 2995124; 655895, 2995154; 655857, 2995200; 655804, 2995407; 655900, 2995551; 655840, 2995631; 655847, 2995656; 655925, 2995587; 656034, 2995535; 656093, 2995423; 656123, 2995312; 656116, 2995243; Thence returning to 656033, 2995138.

655218, 2995368; 655148, 2995350; 655038, 2995371; 655022, 2995390; 655040, 2995478; 655088, 2995523; 655158, 2995520; 655223, 2995457; Thence returning to 655218, 2995368.

654613, 2993648; 654580, 2993629; 654475, 2993632; 654397, 2993609; 654350, 2993634; 654319, 2993684; 654315, 2993767; 654346, 2993894; 654379, 2993923; 654523, 2993913; 654591, 2993855; 654645, 2993780; 654648, 2993733; 654628, 2993678; Thence returning to 654613, 2993648.

654440, 2993487; 654455, 2993470; 654586, 2993473; 654665, 2993430; 654698, 2993375; 654715, 2993247; 654699, 2993185; 654595, 2993104; 654501, 2993099; 654422, 2993124; 654363, 2993164; 654323, 2993211; 654297, 2993361; 654309, 2993403; 654341, 2993442; 654408, 2993467; 654406, 2993551; 654419, 2993568; 654432, 2993557; Thence returning to 654440, 2993487.

654774, 2988559; 654754, 2988521; 654731, 2988544; 654719, 2988627; 654739, 2988642; 654773, 2988594; Thence returning to 654774, 2988559.

655139, 2988537; 655123, 2988529; 655110, 2988538; 655110, 2988569; 655131, 2988623; 655154, 2988615; 655155, 2988600; Thence returning to 655139, 2988537.

655041, 2988554; 655027, 2988542; 655010, 2988583; 655022, 2988622; 655044, 2988604; Thence returning to 655041, 2988554.

654658, 2988517; 654644, 2988495; 654616, 2988496; 654611, 2988603; 654633, 2988613; 654659, 2988601; Thence returning to 654658, 2988517.

654903, 2988486; 654884, 2988480; 654859, 2988493; 654861, 2988566; 654880, 2988614; 654907, 2988602; 654912, 2988510; Thence returning to 654903, 2988486.

655399, 2988513; 655376, 2988509; 655367, 2988563; 655384, 2988608; 655407, 2988605; 655412, 2988537; Thence returning to 655399, 2988513.

654708, 2986159; 654675, 2986102; 654643, 2986099; 654594, 2986132; 654541, 2986065; 654526, 2986075; 654527, 2986096; 654573, 2986157; 654621, 2986165; 654650, 2986140; 654678, 2986173; 654662, 2986188; 654673, 2986228; 654663, 2986281; 654692, 2986292; Thence returning to 654708, 2986159.

654619, 2986058; 654594, 2986042; 654589, 2986069; 654613, 2986079; Thence returning to 654619, 2986058.

654536, 2985933; 654511, 2985922; 654516, 2985990; 654535, 2985980; Thence returning to 654536, 2985933.

654830, 2985884; 654797, 2985854; 654818, 2985934; 654835, 2985930; Thence returning to 654830, 2985884.

654555, 2985890; 654587, 2985860; 654550, 2985864; 654540, 2985885; Thence returning to 654555, 2985890.

655151, 2983819; 655094, 2983682; 655078, 2983692; 655072, 2983748; 655089, 2983850; 655126, 2983844; Thence returning to 655151, 2983819.

654227, 2983749; 654210, 2983742; 654186, 2983770; 654197, 2983839; 654213, 2983829; 654226, 2983782; Thence returning to 654227, 2983749.

654733, 2983711; 654695, 2983659; 654681, 2983666; 654668, 2983751; 654676, 2983822; 654689, 2983840; 654733, 2983841; 654759, 2983821; Thence returning to 654733, 2983711.

654473, 2983766; 654461, 2983757; 654448, 2983804; 654463, 2983813; Thence returning to 654473, 2983766.

654306, 2983769; 654288, 2983759; 654287, 2983801; 654307, 2983803; Thence returning to 654306, 2983769.

654891, 2983749; 654868, 2983726; 654859, 2983787; 654866, 2983801; 654902, 2983798; Thence returning to 654891, 2983749.

653801, 2980424; 653720, 2980395; 653494, 2980405; 653404, 2980395; 653386, 2980434; 653417, 2980533; 653433, 2980670; 653428, 2980697; 653381, 2980729; 653447, 2980781; 653431, 2980918; 653466, 2981123; 653567, 2981201; 653554, 2981232; 653483, 2981265; 653453, 2981400; 653454, 2981420; 653495, 2981453; 653483, 2981608; 653520, 2981755; 653519, 2981816; 653579, 2981866; 653719, 2981878; 653791, 2981873; 653828, 2981824; 653900, 2981430; 653878, 2981273; 653883, 2981174; 653853, 2981116; 653874, 2980973; 653817, 2980787; 653798, 2980667; 653768, 2980631; 653774, 2980604; 653823, 2980571; 653827, 2980488; Thence returning to 653801, 2980424.

654461, 2978008; 654471, 2977765; 654526, 2977756; 654529, 2978002; 654554, 2978011; 654591, 2977973; 654627, 2977755; 654653, 2977820; 654722, 2977763; 654705, 2977942; 654720, 2977988; 654748, 2977992; 654768, 2977957; 654793, 2977734; 654811, 2977805; 654864, 2977762; 654878, 2977890; 654900, 2977908; 654930, 2977905; 654994, 2977804; 655049, 2977831; 655092, 2977834; 655106, 2977822; 655124, 2977738; 655111, 2977659; 655069, 2977594; 655024, 2977575; 655009, 2977591; 654998, 2977670; 654918, 2977694; 654873, 2977725; 654846, 2977649; 654796, 2977624; 654790, 2977684; 654730, 2977716; 654701, 2977631; 654656, 2977605; 654618, 2977633; 654618, 2977695; 654535, 2977742; 654531, 2977689; 654492, 2977631; 654472, 2977643; 654464, 2977697; 654399, 2977720; 654360, 2977628; 654323, 2977607; 654283, 2977612; 654270, 2977677; 654222, 2977712; 654247, 2977911; 654260, 2977917; 654269, 2977902; 654271, 2977783; 654305, 2977807; 654312, 2977875; 654345, 2977815; 654381, 2977793; 654384, 2977921; 654389, 2978025; 654437, 2978050; Thence returning to 654461, 2978008.

654087, 2974152; 654012, 2973999; 653955, 2974000; 653932, 2974035; 653888, 2974181; 653916, 2974225; 653959, 2974257; 653968, 2974299; 653992, 2974313; 654018, 2974262; 654091, 2974205; Thence returning to 654087, 2974152.

654781, 2974229; 654814, 2974196; 654819, 2974159; 654775, 2974019; 654748, 2973979; 654725, 2973972; 654628, 2974078; 654641, 2974142; 654606, 2974172; 654645, 2974224; 654692, 2974216; 654737, 2974234; Thence returning to 654781, 2974229.

653740, 2974189; 653737, 2974154; 653706, 2974184; 653711, 2974205; 653727, 2974211; Thence returning to 653740, 2974189.

655326, 2974163; 655345, 2974139; 655378, 2974156; 655408, 2974153; 655446, 2974120; 655473, 2974064; 655444, 2973959; 655413, 2973937; 655374, 2973938; 655287, 2973971; 655243, 2974022; 655237, 2974050; 655241, 2974076; 655287, 2974083; 655276, 2974141; 655287, 2974157; Thence returning to 655326, 2974163.

653838, 2974093; 653833, 2974077; 653806, 2974096; 653821, 2974117; Thence returning to 653838, 2974093.

656146, 2973797; 656108, 2973791; 656081, 2973812; 656116, 2973868; 656057, 2973923; 656044, 2973971; 656079, 2974019; 656097, 2974094; 656174, 2974108; 656266, 2974031; 656288, 2973995; 656290, 2973951; 656245, 2973880; 656183, 2973862; Thence returning to 656146, 2973797.

656941, 2973863; 656892, 2973819; 656865, 2973847; 656803, 2973832; 656745, 2973837; 656725, 2973842; 656665, 2973908; 656661, 2973952; 656701, 2973987; 656710, 2974055; 656749, 2974080; 656796, 2974084; 656867, 2974051; 656889, 2974024; 656909, 2973915; 656939, 2973893; Thence returning to 656941, 2973863.

655600, 2974022; 655605, 2973881; 655644, 2973914; 655688, 2973920; 655656, 2973862; 655608, 2973839; 655620, 2973814; 655685, 2973816; 655739, 2973913; 655763, 2973872; 655856, 2973868; 655880, 2973771; 655945, 2973718; 655887, 2973660; 655855, 2973587; 655854, 2973427; 655824, 2973375; 655724, 2973346; 655608, 2973475; 655618, 2973500; 655668, 2973513; 655665, 2973564; 655736, 2973576; 655781, 2973603; 655772, 2973633; 655796, 2973654; 655791, 2973675; 655715, 2973711; 655680, 2973709; 655670, 2973738; 655646, 2973699; 655618, 2973711; 655600, 2973699; 655567, 2973768; 655506, 2973787; 655465, 2973723; 655294, 2973696; 655247, 2973739; 655222, 2973805; 655187, 2973815; 655200, 2973728; 655163, 2973721; 655142, 2973738; 655133, 2973836; 655150, 2973848; 655225, 2973837; 655247, 2973871; 655263, 2973833; 655347, 2973858; 655357, 2973841; 655316, 2973822; 655317, 2973804; 655374, 2973800; 655388, 2973816; 655391, 2973859; 655346, 2973891; 655365, 2973911; 655437, 2973877; 655418, 2973794; 655431, 2973784; 655470, 2973795; 655468, 2973837; 655530, 2973848; 655551, 2974025; 655581, 2974056; Thence returning to 655600, 2974022.

653541, 2974020; 653559, 2973965; 653498, 2973974; 653515, 2974025; Thence returning to 653541, 2974020.

653624, 2973988; 653610, 2973987; 653596, 2974007; 653605, 2974024; 653624, 2974003; Thence returning to 653624, 2973988.

657232, 2974034; 657284, 2973989; 657308, 2973947; 657320, 2973845; 657240, 2973770; 657205, 2973769; 657176, 2973804; 657126, 2973816; 657103, 2973840; 657099, 2973878; 657121, 2973916; 657083, 2973930; 657137, 2973956; 657194, 2974010; 657190, 2974023; 657154, 2974021; 657143, 2974031; 657170, 2974049; Thence returning to 657232, 2974034.

654260, 2973984; 654231, 2973977; 654223, 2973996; Thence returning to 654260, 2973984.

654529, 2973928; 654545, 2973901; 654459, 2973906; 654414, 2973888; 654268, 2973913; 654260, 2973940; 654342, 2973956; 654351, 2973983; 654383, 2973991; 654406, 2973952; 654497, 2973944; Thence returning to 654529, 2973928.

653578, 2973934; 653660, 2973814; 653630, 2973716; 653621, 2973617; 653587, 2973561; 653516, 2973561; 653470, 2973614; 653432, 2973728; 653441, 2973753; 653468, 2973757; 653471, 2973771; 653412, 2973830; 653406, 2973898; 653450, 2973893; Thence returning to 653578, 2973934.

655009, 2973920; 654960, 2973851; 654970, 2973815; 655057, 2973820; 655072, 2973789; 655059, 2973733; 654907, 2973765; 654866, 2973791; 654805, 2973764; 654807, 2973832; 654769, 2973867; 654778, 2973899; 654816, 2973880; 654867, 2973933; 654887, 2973935; 654897, 2973874; 654939, 2973863; 654953, 2973921; 654991, 2973943; Thence returning to 655009, 2973920.

653800, 2973899; 653781, 2973876; 653747, 2973896; 653768, 2973928; 653790, 2973924; Thence returning to 653800, 2973899.

654646, 2973894; 654642, 2973797; 654626, 2973745; 654599, 2973738; 654538, 2973799; 654457, 2973806; 654435, 2973829; 654440, 2973852; 654473, 2973864; 654577, 2973846; 654603, 2973935; Thence returning to 654646, 2973894.

655091, 2973891; 655073, 2973872; 655057, 2973889; 655073, 2973926; Thence returning to 655091, 2973891.

655144, 2973883; 655121, 2973876; 655119, 2973905; 655132, 2973907; Thence returning to 655144, 2973883.

655192, 2973896; 655186, 2973875; 655167, 2973879; 655172, 2973906; Thence returning to 655192, 2973896.

654709, 2973789; 654693, 2973779; 654677, 2973793; 654675, 2973834; 654681, 2973880; 654696, 2973890; 654730, 2973869; Thence returning to 654709, 2973789.

654310, 2973816; 654288, 2973798; 654184, 2973816; 654178, 2973852; 654278, 2973873; Thence returning to 654310, 2973816.

654378, 2973841; 654359, 2973831; 654347, 2973871; Thence returning to 654378, 2973841.

656418, 2973826; 656442, 2973826; 656460, 2973878; 656475, 2973827; 656508, 2973796; 656511, 2973764; 656475, 2973685; 656520, 2973664; 656547, 2973560; 656599, 2973491; 656601, 2973360; 656570, 2973315; 656500, 2973279; 656404, 2973303; 656347, 2973355; 656304, 2973442; 656337, 2973445; 656393, 2973416; 656378, 2973480; 656396, 2973529; 656419, 2973545; 656487, 2973551; 656447, 2973608; 656445, 2973654; 656463, 2973676; 656324, 2973698; 656304, 2973673; 656253, 2973686; 656211, 2973570; 656097, 2973563; 656059, 2973590; 656042, 2973726; 655988, 2973821; 655993, 2973848; 656039, 2973783; 656065, 2973770; 656247, 2973758; 656326, 2973820; 656338, 2973810; 656378, 2973896; 656388, 2973849; Thence returning to 656418, 2973826.

656064, 2973881; 656038, 2973842; 656020, 2973856; 656026, 2973885; Thence returning to 656064, 2973881.

657430, 2973831; 657413, 2973821; 657396, 2973867; 657414, 2973891; 657439, 2973872; Thence returning to 657430, 2973831.

656281, 2973813; 656234, 2973779; 656213, 2973779; 656182, 2973811; 656287, 2973863; 656308, 2973853; Thence returning to 656281, 2973813.

657580, 2973860; 657565, 2973839; 657562, 2973869; Thence returning to 657580, 2973860.

655923, 2973818; 655903, 2973799; 655904, 2973847; 655918, 2973848; Thence returning to 655923, 2973818.

657717, 2973819; 657708, 2973796; 657689, 2973804; 657679, 2973849; 657682, 2973862; 657705, 2973854; Thence returning to 657717, 2973819.

655981, 2973787; 655961, 2973781; 655957, 2973802; 655960, 2973823; 655975, 2973817; Thence returning to 655981, 2973787.

656582, 2973823; 656591, 2973762; 656624, 2973763; 656638, 2973791; 656672, 2973804; 656846, 2973798; 656865, 2973783; 656858, 2973735; 656755, 2973731; 656719, 2973720; 656725, 2973708; 656912, 2973685; 656936, 2973714; 656969, 2973715; 656973, 2973807; 656997, 2973783; 656999, 2973722; 657028, 2973717; 657052, 2973746; 657125, 2973766; 657326, 2973725; 657297, 2973685; 657184, 2973690; 657093, 2973725; 657068, 2973720; 657068, 2973687; 657103, 2973670; 657284, 2973647; 657334, 2973663; 657418, 2973617; 657434, 2973620; 657456, 2973783; 657479, 2973807; 657501, 2973806; 657474, 2973710; 657499, 2973650; 657543, 2973676; 657564, 2973669; 657601, 2973687; 657614, 2973633; 657630, 2973622; 657664, 2973631; 657681, 2973706; 657651, 2973741; 657607, 2973738; 657612, 2973823; 657637, 2973827; 657666, 2973773; 657710, 2973743; 657707, 2973658; 657731, 2973663; 657756, 2973720; 657788, 2973688; 657758, 2973604; 657799, 2973559; 657745, 2973558; 657708, 2973534; 657651, 2973536; 657630, 2973521; 657584, 2973535; 657556, 2973575; 657526, 2973576; 657527, 2973463; 657510, 2973428; 657455, 2973383; 657363, 2973372; 657144, 2973393; 657016, 2973430; 656883, 2973437; 656730, 2973496; 656634, 2973564; 656610, 2973672; 656578, 2973701; 656575, 2973752; 656548, 2973794; 656555, 2973817; Thence returning to 656582, 2973823.

657562, 2973810; 657567, 2973771; 657551, 2973777; 657551, 2973808; Thence returning to 657562, 2973810.

656936, 2973763; 656903, 2973756; 656912, 2973789; 656938, 2973776; Thence returning to 656936, 2973763.

654291, 2973731; 654347, 2973690; 654353, 2973639; 654325, 2973579; 654284, 2973546; 654226, 2973543; 654158, 2973578; 654142, 2973646; 654103, 2973712; 654124, 2973726; 654206, 2973708; Thence returning to 654291, 2973731.

657418, 2973695; 657367, 2973672; 657355, 2973698; 657385, 2973747; 657401, 2973767; 657414, 2973762; Thence returning to 657418, 2973695.

655080, 2973479; 654996, 2973472; 654895, 2973504; 654864, 2973547; 654891, 2973659; 654987, 2973702; 655041, 2973700; 655080, 2973657; 655118, 2973577; 655127, 2973533; 655112, 2973498; Thence returning to 655080, 2973479.

657890, 2973467; 657852, 2973438; 657799, 2973459; 657795, 2973476; 657796, 2973530; 657840, 2973549; 657843, 2973567; 657834, 2973604; 657872, 2973626; 657901, 2973605; 657912, 2973563; Thence returning to 657890, 2973467.

657757, 2973474; 657819, 2973389; 657823, 2973323; 657794, 2973255; 657704, 2973248; 657656, 2973276; 657635, 2973301; 657634, 2973324; 657676, 2973359; 657677, 2973423; 657744, 2973406; 657734, 2973463; Thence returning to 657757, 2973474.

653251, 2970052; 653263, 2969994; 653238, 2969995; 653207, 2970049; 653221, 2970069; Thence returning to 653251, 2970052.

653459, 2969991; 653510, 2969932; 653482, 2969919; 653453, 2969939; 653418, 2969903; 653403, 2969963; 653421, 2969995; Thence returning to 653459, 2969991.

653421, 2969797; 653395, 2969796; 653383, 2969815; 653404, 2969868; 653456, 2969845; Thence returning to 653421, 2969797.

653513, 2969715; 653575, 2969654; 653631, 2969658; 653680, 2969634; 653699, 2969662; 653717, 2969663; 653779, 2969592; 653779, 2969575; 653728, 2969557; 653762, 2969466; 653722, 2969467; 653678, 2969500; 653609, 2969487; 653523, 2969550; 653469, 2969559; 653479, 2969519; 653569, 2969461; 653545, 2969439; 653567, 2969386; 653439, 2969414; 653357, 2969499; 653368, 2969556; 653345, 2969645; 653445, 2969653; 653460, 2969674; 653452, 2969715; 653462, 2969729; Thence returning to 653513, 2969715.

653542, 2968731; 653537, 2968682; 653469, 2968696; 653456, 2968616; 653419, 2968605; 653366, 2968630; 653341, 2968671; 653332, 2968922; 653371, 2968940; 653309, 2969088; 653302, 2969123; 653314, 2969143; 653342, 2969126; 653415, 2968971; 653495, 2968872; Thence returning to 653542, 2968731.

654057, 2968997; 653973, 2968979; 653936, 2969023; 653950, 2969049; 654035, 2969057; 654072, 2969031; Thence returning to 654057, 2968997.

654360, 2968902; 654339, 2968860; 654315, 2968869; 654294, 2968937; 654229, 2968956; 654247, 2968998; 654296, 2969017; 654344, 2968996; Thence returning to 654360, 2968902.

654737, 2968593; 654751, 2968493; 654684, 2968349; 654636, 2968390; 654609, 2968468; 654618, 2968500; 654662, 2968505; 654648, 2968544; 654603, 2968555; 654574, 2968523; 654552, 2968525; 654533, 2968491; 654513, 2968504; 654554, 2968591; 654537, 2968694; 654503, 2968712; 654482, 2968785; 654540, 2968777; 654607, 2968681; 654708, 2968632; Thence returning to 654737, 2968593.

654298, 2968754; 654290, 2968714; 654241, 2968743; 654255, 2968776; Thence returning to 654298, 2968754.

654568, 2968346; 654623, 2968254; 654627, 2968219; 654604, 2968201; 654568, 2968211; 654579, 2968240; 654570, 2968262; 654511, 2968239; 654496, 2968280; 654436, 2968320; 654398, 2968401; 654415, 2968508; 654359, 2968642; 654362, 2968679; 654417, 2968720; 654426, 2968759; 654446, 2968745; 654459, 2968690; 654416, 2968680; 654410, 2968660; 654445, 2968608; 654475, 2968463; Thence returning to 654568, 2968346.

655079, 2968444; 655122, 2968364; 655141, 2968409; 655156, 2968341; 655184, 2968339; 655167, 2968420; 655128, 2968465; 655128, 2968538; 655173, 2968613; 655198, 2968603; 655204, 2968568; 655223, 2968562; 655238, 2968636; 655247, 2968648; 655282, 2968640; 655311, 2968591; 655265, 2968529; 655257, 2968476; 655221, 2968444; 655228, 2968402; 655285, 2968324; 655312, 2968340; 655338, 2968329; 655361, 2968373; 655409, 2968372; 655411, 2968445; 655432, 2968455; 655468, 2968403; 655460, 2968352; 655475, 2968298; 655524, 2968299; 655554, 2968361; 655592, 2968356; 655620, 2968408; 655653, 2968424; 655674, 2968515; 655699, 2968519; 655721, 2968454; 655700, 2968379; 655711, 2968286; 655698, 2968214; 655728, 2968161; 655778, 2968281; 655816, 2968264; 655823, 2968244; 655820, 2968218; 655784, 2968211; 655799, 2968141; 655779, 2968033; 655763, 2968016; 655770, 2967979; 655787, 2967964; 655800, 2967963; 655818, 2968096; 655854, 2968138; 655882, 2968143; 655879, 2968188; 655911, 2968198; 655907, 2968270; 655923, 2968305; 655962, 2968279; 656026, 2968170; 656090, 2968150; 656137, 2968093; 656192, 2968055; 656214, 2968060; 656254, 2968107; 656268, 2968104; 656307, 2968027; 656354, 2967997; 656369, 2967939; 656344, 2967765; 656356, 2967764; 656397, 2967877; 656442, 2967935; 656498, 2967951; 656511, 2967936; 656515, 2967871; 656486, 2967854; 656484, 2967789; 656597, 2967799; 656587, 2967841; 656545, 2967845; 656557, 2967877; 656598, 2967897; 656562, 2967933; 656582, 2967970; 656710, 2967941; 656723, 2967918; 656711, 2967831; 656679, 2967827; 656653, 2967873; 656631, 2967860; 656648, 2967808; 656640, 2967779; 656654, 2967762; 656792, 2967733; 656962, 2967670; 657007, 2967632; 657023, 2967633; 657038, 2967668; 657057, 2967677; 657127, 2967630; 657189, 2967509; 657247, 2967523; 657357, 2967451; 657553, 2967360; 657607, 2967286; 657634, 2967210; 657649, 2967064; 657634, 2966995; 657589, 2966953; 657561, 2966958; 657522, 2967005; 657470, 2966984; 657419, 2966937; 657347, 2966921; 657304, 2966934; 656941, 2967211; 656475, 2967438; 656358, 2967515; 655895, 2967757; 655830, 2967816; 655776, 2967931; 655731, 2967957; 655685, 2967709; 655648, 2967679; 655560, 2967685; 655480, 2967739; 655430, 2967832; 655445, 2967893; 655512, 2967912; 655513, 2968036; 655466, 2968013; 655457, 2968067; 655413, 2968042; 655381, 2968079; 655368, 2968077; 655332, 2968011; 655197, 2968061; 655153, 2968031; 655123, 2968035; 655063, 2968178; 655038, 2968180; 654994, 2968222; 654956, 2968156; 654931, 2968156; 654898, 2968194; 654892, 2968303; 654847, 2968355; 654846, 2968392; 654879, 2968404; 654920, 2968386; 654936, 2968453; 654973, 2968419; 655015, 2968434; 655025, 2968413; 655048, 2968461; 655021, 2968577; 655010, 2968639; 655043, 2968654; 655090, 2968591; 655079, 2968444; 655571, 2968278; 655577, 2968220; 655551, 2968094; 655592, 2968091; 655615, 2968189; 655652, 2968212; 655662, 2968288; 655639, 2968299; 655616, 2968281; 655571, 2968278; 655653, 2967993; 655691, 2967939; 655711, 2967969; 655663, 2968033; 655653, 2967993; 656889, 2967433; 656905, 2967423; 656908, 2967435; 656953, 2967536; 656943, 2967563; 656930, 2967563; 656891, 2967455; Thence returning to 656889, 2967433.

654863, 2968434; 654847, 2968425; 654823, 2968486; 654829, 2968559; 654848, 2968547; 654862, 2968505; Thence returning to 654863, 2968434.

655522, 2968471; 655503, 2968394; 655488, 2968399; 655478, 2968461; 655487, 2968487; Thence returning to 655522, 2968471.

654863, 2968203; 654859, 2968170; 654802, 2968194; 654746, 2968338; 654744, 2968422; 654764, 2968423; 654791, 2968393; 654813, 2968390; 654824, 2968365; Thence returning to 654863, 2968203.

653914, 2968175; 653903, 2968164; 653820, 2968169; 653801, 2968175; 653797, 2968199; 653803, 2968340; 653822, 2968347; 653853, 2968318; 653902, 2968315; 653898, 2968227; 653923, 2968208; Thence returning to 653914, 2968175.

656186, 2968179; 656173, 2968142; 656137, 2968166; 656132, 2968194; 656144, 2968204; Thence returning to 656186, 2968179.

654622, 2968099; 654660, 2968038; 654680, 2968089; 654694, 2968091; 654710, 2968049; 654704, 2967980; 654649, 2967979; 654600, 2967898; 654554, 2967884; 654521, 2967908; 654487, 2967955; 654466, 2968025; Thence returning to 654622, 2968099.

654936, 2968009; 654910, 2968006; 654865, 2968029; 654860, 2968060; 654884, 2968098; 654914, 2968102; 654934, 2968083; 654945, 2968054; Thence returning to 654936, 2968009.

655361, 2967847; 655350, 2967807; 655284, 2967822; 655256, 2967857; 655272, 2967882; 655333, 2967908; Thence returning to 655361, 2967847.

652176, 2966624; 652145, 2966621; 652140, 2966660; 652169, 2966665; Thence returning to 652176, 2966624.

657682, 2959612; 657636, 2959603; 657607, 2959632; 657610, 2959792; 657668, 2959877; 657715, 2959903; 657756, 2959900; 657784, 2959834; 657768, 2959717; 657736, 2959651; Thence returning to 657682, 2959612.

661817, 2954973; 661899, 2954916; 661921, 2954875; 661879, 2954857; 661869, 2954812; 661833, 2954786; 661782, 2954778; 661748, 2954792; 661678, 2954843; 661640, 2954923; 661657, 2954966; 661741, 2954950; 661745, 2954982; 661777, 2954990; Thence returning to 661817, 2954973.

661982, 2954574; 661944, 2954563; 661829, 2954659; 661808, 2954694; 661820, 2954714; 661954, 2954713; 662001, 2954686; 662019, 2954643; 662013, 2954609; Thence returning to 661982, 2954574.

660556, 2949639; 660500, 2949583; 660448, 2949592; 660415, 2949627; 660393, 2949679; 660355, 2949835; 660358, 2949856; 660413, 2949899; 660493, 2949865; 660546, 2949808; 660579, 2949727; 660576, 2949675; Thence returning to 660556, 2949639.

661092, 2949601; 661066, 2949585; 660984, 2949597; 660952, 2949643; 660918, 2949766; 660929, 2949852; 660955, 2949881; 660986, 2949884; 661018, 2949828; 661083, 2949813; 661102, 2949729; Thence returning to 661092, 2949601.

660832, 2949631; 660823, 2949596; 660796, 2949596; 660770, 2949618; 660765, 2949756; 660792, 2949760; Thence returning to 660832, 2949631.

660741, 2949679; 660706, 2949674; 660694, 2949686; 660693, 2949727; 660708, 2949743; 660724, 2949738; Thence returning to 660741, 2949679.

659982, 2949083; 659957, 2949071; 659937, 2949107; 659967, 2949125; Thence returning to 659982, 2949083.

663288, 2946483; 663237, 2946471; 663181, 2946502; 663026, 2946760; 662912, 2946910; 662900, 2946969; 662917, 2947043; 663001, 2947060; 663061, 2947011; 663182, 2946769; 663300, 2946588; 663314, 2946513; Thence returning to 663288, 2946483.

(ii) Unit TX-3, Subunit C, Willacy County, Texas. Coordinates are in UTM Zone 14N, North American Datum 1983 (meters E, meters N):

667115, 2940198; 667414, 2939295; 667380, 2939298; 667306, 2939259; 667098, 2939258; 666957, 2939228; 666889, 2939171; 666865, 2939110; 666824, 2939105; 666835, 2939178; 666807, 2939224; 666790, 2939224; 666750, 2939165; 666709, 2939207; 666670, 2939223; 666538, 2939217; 666415, 2939236; 666405, 2939215; 666426, 2939165; 666384, 2939127; 666383, 2939079; 666355, 2939076; 666339, 2939076; 666355, 2939098; 666338, 2939223; 666294, 2939272; 666286, 2939231; 666311, 2939183; 666287, 2939074; 666254, 2939074; 666256, 2939121; 666177, 2939154; 666136, 2939198; 666113, 2939253; 666081, 2939276; 665931, 2939330; 665871, 2939300; 665844, 2939343; 665810, 2939364; 665789, 2939436; 665704, 2939541; 665767, 2939197; 665816, 2939088; 665827, 2939078; 665868, 2939095; 665920, 2939141; 665925, 2939170; 665896, 2939203; 665910, 2939216; 666070, 2939160; 666124, 2939118; 666134, 2939092; 665981, 2939137; 665915, 2939058; 665712, 2939052; 665623, 2939094; 665585, 2939060; 665492, 2939042; 665447, 2939113; 665533, 2939090; 665593, 2939127; 665637, 2939184; 665669, 2939153; 665690, 2939094; 665728, 2939077; 665744, 2939093; 665692, 2939270; 665618, 2939447; 665585, 2939501; 665566, 2939507; 665527, 2939411; 665446, 2939327; 665449, 2939139; 665439, 2939130; 665412, 2939152; 665455, 2939044; 665429, 2939028; 665321, 2939039; 665270, 2939024; 665207, 2939067; 665117, 2939071; 665062, 2939016; 664889, 2938974; 664382, 2938994; 664122, 2938932; 663761, 2938924; 663293, 2938881; 663284, 2938908; 663323, 2938909; 663353, 2938931; 663518, 2938929; 663751, 2938982; 664155, 2938975; 664252, 2939008; 664300, 2939053; 664340, 2939122; 664446, 2939115; 664600, 2939021; 664814, 2939019; 664843, 2939047; 664906, 2939257; 664980, 2939393; 665008, 2939542; 664994, 2939626; 664773, 2940159; 664477, 2940663; 664241, 2941138; 664002, 2941544; 663831, 2941796; 663561, 2942341; 663289, 2942843; 663170, 2943023; 663031, 2943195; 666036, 2943243; 667115, 2940198; 665283, 2939163; 665290, 2939105; 665263, 2939147; 665246, 2939131; 665270, 2939070; 665292, 2939052; 665319, 2939060; 665329, 2939080; 665266, 2939244; 665283, 2939163; 664422, 2939083; 664407, 2939077; 664410, 2939055; 664449, 2939014; 664473, 2939016; 664480, 2939046; Thence returning to 664422, 2939083.

Excluding:

Unit TX-3 Subunit C, Willacy County, Texas. Coordinates are in UTM Zone 14N, North American Datum 1983 (meters E, meters N):

665266, 2939244; 665329, 2939080; 665319, 2939060; 665292, 2939052; 665270, 2939070; 665246, 2939131; 665263, 2939147; 665290, 2939105; 665283, 2939163; Thence returning to 665266, 2939244.

664473, 2939016; 664449, 2939014; 664410, 2939055; 664407, 2939077; 664422, 2939083; 664480, 2939046; Thence returning to 664473, 2939016.

(4) Subunit TX-3D: North Padre Island—Gulf of Mexico: 109 hectares (270 acres) in Kleberg County, Texas.

(i) Unit TX-3, Subunit TX-3, Subunit D, Kleberg County, Texas. Coordinates are in UTM Zone 14N, North American Datum 1983 (meters E, meters N):

673980, 3048165; 672224, 3044203; 671961, 3043590; 671894, 3043382; 671360, 3042145; 671223, 3042143; 671722, 3043337; 671910, 3043749; 671949, 3043864; 672116, 3044204; 672647, 3045437; 673307, 3046888; 673312, 3046935; 673493, 3047302; 673797, 3048007; 673831, 3048053; 673837, 3048092; 673814, 3048097; 673763, 3048071; 673739, 3048085; 673760, 3048085; 673778, 3048107; 673700, 3048191; 673694, 3048228; 673705, 3048240; 673770, 3048233; 673845, 3048110; 674208, 3048945; 674402, 3049344; 675090, 3050888; 675202, 3051105; 675253, 3051246; 675356, 3051449; 675444, 3051401; 674870, 3050176; Thence returning to 673980, 3048165.

(5) Subunit TX-3E: North Padre Island—Mesquite Rincon: 3,894 hectares (9,623 acres) in Kenedy County, Texas.

(i) Unit TX-3, Subunit E, Kenedy County, Texas. Coordinates are in UTM Zone 14N, North American Datum 1983 (meters E, meters N):

650814, 2961209; 650823, 2961183; 650791, 2961109; 650638, 2961142; 650589, 2961194; 650675, 2961175; Thence returning to 650814, 2961209.

651785, 2961238; 651751, 2961241; 651762, 2961261; 651740, 2961323; 651773, 2961292; Thence returning to 651785, 2961238.

650761, 2961323; 650734, 2961295; 650667, 2961282; 650585, 2961234; 650614, 2961300; 650665, 2961316; 650688, 2961355; 650765, 2961393; 650772, 2961351; Thence returning to 650761, 2961323.

651683, 2961584; 651713, 2961529; 651693, 2961499; 651636, 2961522; 651571, 2961521; 651500, 2961593; 651613, 2961576; 651663, 2961599; Thence returning to 651683, 2961584.

651837, 2961624; 651826, 2961501; 651807, 2961455; 651762, 2961429; 651688, 2961455; 651684, 2961465; 651734, 2961457; 651811, 2961514; 651810, 2961542; 651743, 2961601; 651757, 2961615; 651796, 2961589; 651770, 2961689; 651817, 2961671; Thence returning to 651837, 2961624.

650466, 2961772; 650487, 2961782; 650506, 2961823; 650557, 2961795; 650596, 2961829; 650625, 2961813; 650678, 2961843; 650694, 2961836; 650691, 2961749; 650681, 2961742; 650648, 2961782; 650627, 2961782; 650555, 2961719; 650570, 2961663; 650518, 2961649; 650490, 2961613; 650500, 2961564; 650524, 2961541; 650612, 2961519; 650605, 2961469; 650556, 2961470; 650515, 2961506; 650479, 2961497; 650417, 2961630; 650419, 2961703; 650399, 2961734; 650369, 2961721; 650358, 2961652; 650306, 2961691; 650357, 2961761; 650345, 2961829; 650363, 2961851; 650419, 2961852; Thence returning to 650466, 2961772.

651280, 2962209; 651300, 2962168; 651254, 2962201; 651247, 2962177; 651214, 2962177; 651199, 2962158; 651160, 2962208; 651153, 2962260; 651166, 2962276; 651197, 2962271; Thence returning to 651280, 2962209.

650062, 2962315; 650040, 2962320; 650019, 2962365; 650051, 2962417; 650076, 2962352; Thence returning to 650062, 2962315.

648564, 2964157; 648625, 2964160; 648625, 2964137; 648540, 2964071; 648524, 2964074; 648524, 2964090; 648549, 2964120; 648544, 2964133; 648467, 2964120; 648451, 2964139; 648459, 2964164; 648491, 2964173; Thence returning to 648564, 2964157.

648452, 2964382; 648500, 2964334; 648552, 2964380; 648595, 2964342; 648554, 2964312; 648496, 2964306; 648418, 2964360; Thence returning to 648452, 2964382.

651440, 2963757; 651430, 2963690; 651405, 2963688; 651448, 2963473; 651401, 2963529; 651361, 2963535; 651337, 2963610; 651338, 2963715; 651355, 2963796; 651409, 2963932; 651367, 2964078; 651356, 2964342; 651239, 2964820; 651261, 2965050; 651284, 2965028; 651294, 2964988; 651273, 2964804; 651310, 2964728; 651312, 2964631; 651397, 2964348; 651434, 2964023; 651457, 2963925; Thence returning to 651440, 2963757.

651156, 2965918; 651274, 2965651; 651283, 2965548; 651243, 2965412; 651215, 2965422; 651186, 2965466; 651196, 2965660; 651178, 2965668; 651152, 2965596; 651144, 2965679; 651103, 2965724; 651090, 2965822; 651042, 2965864; 651040, 2965889; 651060, 2965900; 650997, 2966041; 650995, 2966117; Thence returning to 651156, 2965918.

650968, 2966016; 650980, 2965986; 650956, 2965941; 651002, 2965841; 650983, 2965839; 650848, 2965956; 650776, 2965969; 650795, 2965991; 650733, 2966003; 650710, 2965971; 650852, 2965929; 650927, 2965868; 650976, 2965795; 650983, 2965700; 651061, 2965587; 651072, 2965434; 651104, 2965346; 651104, 2965227; 651147, 2965165; 651180, 2965037; 651220, 2964986; 651216, 2964965; 651186, 2964951; 651184, 2964841; 651298, 2964465; 651286, 2964459; 651261, 2964489; 651253, 2964482; 651248, 2964395; 651285, 2964289; 651286, 2964241; 651245, 2964203; 651224, 2964087; 651203, 2964145; 651186, 2964139; 651175, 2963537; 651190, 2963416; 651255, 2963358; 651257, 2963282; 651348, 2962961; 651413, 2962600; 651390, 2962573; 651380, 2962698; 651364, 2962713; 651355, 2962591; 651375, 2962527; 651410, 2962502; 651432, 2962462; 651450, 2962321; 651425, 2962306; 651330, 2962397; 651311, 2962404; 651308, 2962379; 651393, 2962292; 651441, 2962280; 651468, 2962139; 651533, 2962068; 651529, 2961982; 651558, 2961931; 651544, 2961863; 651470, 2961700; 651470, 2961760; 651505, 2961852; 651508, 2961904; 651490, 2962043; 651426, 2962145; 651403, 2962251; 651359, 2962280; 651263, 2962308; 651190, 2962427; 651137, 2962484; 651128, 2962588; 651143, 2962654; 651249, 2962695; 651324, 2962807; 651334, 2962886; 651263, 2963199; 651180, 2963372; 651144, 2963490; 651147, 2964059; 651099, 2964120; 650941, 2964170; 650899, 2964175; 650842, 2964143; 650799, 2964143; 650754, 2964210; 650712, 2964339; 650711, 2964381; 650733, 2964447; 650952, 2964747; 651025, 2964883; 651051, 2964966; 651035, 2965040; 650944, 2965164; 650896, 2965272; 650767, 2965437; 650757, 2965549; 650738, 2965593; 650609, 2965696; 650549, 2965788; 650463, 2965877; 650476, 2965899; 650586, 2965924; 650836, 2965692; 650883, 2965691; 650866, 2965727; 650641, 2965951; 650535, 2966089; 650514, 2966222; 650558, 2966357; 650571, 2966500; 650612, 2966512; 650696, 2966468; 650696, 2966436; 650818, 2966325; 650872, 2966239; 650922, 2966196; 650914, 2966134; 650895, 2966102; 650968, 2966016; 650685, 2965800; 650612, 2965826; 650604, 2965802; 650623, 2965781; 650695, 2965756; 650778, 2965675; 650785, 2965654; 650765, 2965649; 650684, 2965709; 650642, 2965717; 650791, 2965575; 650797, 2965442; 650815, 2965408; 650829, 2965412; 650828, 2965489; 650885, 2965370; 650931, 2965340; 650857, 2965532; 650842, 2965628; 650770, 2965728; 650685, 2965800; 651078, 2965041; 651097, 2965049; 651083, 2965097; 651011, 2965208; 650946, 2965263; 650951, 2965231; 651044, 2965062; 651078, 2965041; 651130, 2964669; 651132, 2964562; 651153, 2964521; 651158, 2964599; 651182, 2964642; 651168, 2964715; 651146, 2964707; 651130, 2964669; 651058, 2964567; 650987, 2964508; 650994, 2964492; 651072, 2964516; 651058, 2964567; 651173, 2964496; 651166, 2964448; 651192, 2964393; 651220, 2964376; 651188, 2964484; 651173, 2964496; 651027, 2964464; 650900, 2964424; 650934, 2964384; 650970, 2964384; 651023, 2964427; 651027, 2964464; 650984, 2964565; 650993, 2964592; 650952, 2964631; 650949, 2964585; 650958, 2964568; 650984, 2964565; 651104, 2964308; 651024, 2964299; 650984, 2964271; 650999, 2964254; 651137, 2964243; 651149, 2964261; 651137, 2964326; 651117, 2964341; 651104, 2964308; 651238, 2964269; 651266, 2964279; 651250, 2964325; 651234, 2964331; 651221, 2964315; Thence returning to 651238, 2964269.

643228, 2969265; 643183, 2969264; 643204, 2969297; 643250, 2969279; Thence returning to 643228, 2969265.

643320, 2969309; 643242, 2969330; 643329, 2969360; Thence returning to 643320, 2969309.

643548, 2969627; 643538, 2969653; 643552, 2969641; Thence returning to 643548, 2969627.

651837, 2971038; 651862, 2971038; 651910, 2970985; 651922, 2970930; 651907, 2970924; 651797, 2970998; 651803, 2971104; Thence returning to 651837, 2971038.

648563, 2971240; 648641, 2971259; 648653, 2971303; 648645, 2971323; 648816, 2971323; 648895, 2971266; 648961, 2971241; 648992, 2971251; 648986, 2971323; 649001, 2971322; 649044, 2971306; 649049, 2971276; 649036, 2971265; 649045, 2971242; 649122, 2971215; 649213, 2971230; 649214, 2971265; 649323, 2971262; 649367, 2971280; 649358, 2971295; 649282, 2971294; 649189, 2971321; 649781, 2971320; 649762, 2971266; 649775, 2971249; 649805, 2971279; 649806, 2971320; 650076, 2971320; 650124, 2971294; 650139, 2971295; 650145, 2971319; 650572, 2971317; 650606, 2971302; 650645, 2971258; 650675, 2971250; 650695, 2971260; 650702, 2971311; 650729, 2971287; 650732, 2971251; 650814, 2971297; 650814, 2971318; 651048, 2971316; 651063, 2971298; 651137, 2971316; 651551, 2971315; 651546, 2971277; 651484, 2971309; 651463, 2971302; 651474, 2971250; 651529, 2971223; 651626, 2971237; 651641, 2971289; 651666, 2971316; 651852, 2971315; 651850, 2971300; 651814, 2971299; 651806, 2971285; 651816, 2971240; 651846, 2971257; 651866, 2971245; 651870, 2971129; 651854, 2971125; 651814, 2971158; 651710, 2971126; 651729, 2971066; 651669, 2970918; 651653, 2970984; 651683, 2971083; 651631, 2971179; 651503, 2971196; 651490, 2971176; 651491, 2971140; 651462, 2971113; 651475, 2971075; 651553, 2971047; 651547, 2971022; 651487, 2970985; 651479, 2970948; 651492, 2970877; 651523, 2970820; 651575, 2970789; 651528, 2970767; 651507, 2970712; 651549, 2970608; 651527, 2970605; 651475, 2970642; 651451, 2970624; 651451, 2970552; 651484, 2970402; 651555, 2970332; 651674, 2970298; 651814, 2970327; 651916, 2970369; 652036, 2970456; 652177, 2970597; 652217, 2970695; 652245, 2970850; 652255, 2971087; 652230, 2971314; 652346, 2971314; 652364, 2971274; 652396, 2971302; 652400, 2971147; 652362, 2970872; 652356, 2970582; 652352, 2970568; 652303, 2970786; 652294, 2970693; 652309, 2970450; 652252, 2970047; 652236, 2969825; 652203, 2969669; 652127, 2969669; 652120, 2969680; 652119, 2969708; 652168, 2969757; 652186, 2969801; 652201, 2969887; 652188, 2969906; 652152, 2969791; 652062, 2969723; 652076, 2969669; 649970, 2969655; 649097, 2970549; 648696, 2970993; 648376, 2971322; 648507, 2971324; 648507, 2971277; 648563, 2971240; 649568, 2971221; 649583, 2971226; 649585, 2971251; 649566, 2971247; 649568, 2971221; 650286, 2971242; 650297, 2971210; 650338, 2971193; 650363, 2971115; 650259, 2971207; 650237, 2971210; 650219, 2971180; 650334, 2971027; 650369, 2970934; 650402, 2970903; 650459, 2970894; 650533, 2970852; 650655, 2970867; 650743, 2970839; 650766, 2970851; 650772, 2970915; 650811, 2970980; 650882, 2971000; 650882, 2971088; 650861, 2971127; 650876, 2971179; 650781, 2971171; 650756, 2971134; 650766, 2971099; 650741, 2971083; 650679, 2971124; 650605, 2971114; 650588, 2971048; 650594, 2970981; 650613, 2970946; 650584, 2970938; 650477, 2971119; 650453, 2971232; 650420, 2971300; 650321, 2971292; 650289, 2971263; 650286, 2971242; 651045, 2971205; 650994, 2971133; 650992, 2971088; 650923, 2971080; 650903, 2970962; 650831, 2970940; 650812, 2970916; 650813, 2970847; 650854, 2970809; 650849, 2970751; 650876, 2970727; 651012, 2970717; 651068, 2970738; 651093, 2970766; 651112, 2971205; 651092, 2971229; 651045, 2971205; 651664, 2971202; 651688, 2971166; 651746, 2971164; 651771, 2971214; 651765, 2971276; 651746, 2971286; 651687, 2971262; 651688, 2971220; 651664, 2971202; 651378, 2970814; 651454, 2970826; 651468, 2970851; 651448, 2970932; 651379, 2971046; 651366, 2971044; 651348, 2970985; 651312, 2970947; 651308, 2970901; 651330, 2970833; 651378, 2970814; 650249, 2970738; 650175, 2970748; 650215, 2970697; 650280, 2970687; 650261, 2970652; 650292, 2970645; 650242, 2970589; 650162, 2970564; 650022, 2970612; 649959, 2970593; 649948, 2970523; 649899, 2970626; 649805, 2970616; 649714, 2970655; 649678, 2970725; 649636, 2970743; 649598, 2970745; 649578, 2970727; 649599, 2970677; 649644, 2970636; 649535, 2970666; 649500, 2970652; 649570, 2970571; 649699, 2970537; 649771, 2970498; 649960, 2970476; 650224, 2970398; 650314, 2970394; 650368, 2970420; 650393, 2970455; 650408, 2970508; 650402, 2970586; 650359, 2970687; 650249, 2970738; 650570, 2970402; 650602, 2970336; 650696, 2970273; 650829, 2970272; 650869, 2970286; 650955, 2970356; 650971, 2970504; 650932, 2970578; 650850, 2970622; 650791, 2970615; 650734, 2970569; 650639, 2970615; 650566, 2970621; 650553, 2970577; 650570, 2970402; 649731, 2970330; 649695, 2970332; 649654, 2970284; 649604, 2970290; 649582, 2970246; 649374, 2970371; 649410, 2970294; 649478, 2970212; 649532, 2970176; 649646, 2970138; 649756, 2970146; 649806, 2970187; 649805, 2970248; 649781, 2970289; 649731, 2970330; 649460, 2970359; 649473, 2970359; 649479, 2970379; 649455, 2970392; 649460, 2970359; 649569, 2970322; 649584, 2970340; 649564, 2970351; 649558, 2970337; 649569, 2970322; 649525, 2970737; 649542, 2970793; 649488, 2970805; 649481, 2970755; 649459, 2970732; 649494, 2970718; 649525, 2970737; 649012, 2970794; 649056, 2970826; 649058, 2970882; 648996, 2970946; 648962, 2970920; 648947, 2970867; 648968, 2970824; 649012, 2970794; 649361, 2970898; 649409, 2970903; 649414, 2970883; 649386, 2970863; 649418, 2970852; 649503, 2970875; 649531, 2970896; 649531, 2970913; 649433, 2970944; 649343, 2970994; 649254, 2970996; 649293, 2970929; 649361, 2970898; 649427, 2970985; 649444, 2970987; 649439, 2971018; 649422, 2971016; 649427, 2970985; 649889, 2971009; 649985, 2971023; 650021, 2971008; 650044, 2971024; 650026, 2971044; 649886, 2971069; 649865, 2971053; 649889, 2971009; 649588, 2970868; 649645, 2970842; 649656, 2970864; 649641, 2970898; 649591, 2970925; 649588, 2970868; 649739, 2970864; 649764, 2970811; 649901, 2970759; 649995, 2970695; 650026, 2970705; 649933, 2970818; 649823, 2970865; 649748, 2970878; 649739, 2970864; 650081, 2970792; 650123, 2970802; 650142, 2970823; 650094, 2970874; 650072, 2970853; 650068, 2970817; 650081, 2970792; 650200, 2970664; 650212, 2970649; 650224, 2970668; 650205, 2970681; 650200, 2970664; 650084, 2970658; 650067, 2970659; 650062, 2970639; 650155, 2970591; 650178, 2970599; 650166, 2970629; 650084, 2970658; 650974, 2971173; 650960, 2971163; 650967, 2971137; 650982, 2971143; 650974, 2971173; 650594, 2971192; 650504, 2971178; 650523, 2971116; 650540, 2971108; 650563, 2971141; 650606, 2971159; 650594, 2971192; 649409, 2971192; 649403, 2971216; 649316, 2971215; 649285, 2971111; 649314, 2971082; 649345, 2971094; 649395, 2971141; 649409, 2971192; 649726, 2969962; 649814, 2969966; 649836, 2969990; 649835, 2970011; 649804, 2970049; 649689, 2970069; 649672, 2970040; 649680, 2969986; 649726, 2969962; 650185, 2969704; 650210, 2969714; 650204, 2969732; 650139, 2969735; 650140, 2969711; 650185, 2969704; 651781, 2969746; 651602, 2969729; 650650, 2969704; 651763, 2969697; 651802, 2969718; 651781, 2969746; 650427, 2969700; 650485, 2969701; 650493, 2969719; 650409, 2969727; 650405, 2969700; 650427, 2969700; 650579, 2969730; 650557, 2969716; 650608, 2969708; Thence returning to 650579, 2969730.

643804, 2971301; 643840, 2971284; 643847, 2971312; 643836, 2971336; 643860, 2971338; 644510, 2971334; 644636, 2971282; 644671, 2971333; 644729, 2971334; 644687, 2971300; 644684, 2971282; 644709, 2971274; 644773, 2971333; 644879, 2971333; 644818, 2971303; 644802, 2971275; 644833, 2971267; 644936, 2971301; 645010, 2971301; 645033, 2971296; 645036, 2971268; 645128, 2971279; 645153, 2971260; 645154, 2971237; 645136, 2971215; 644958, 2971151; 644912, 2971150; 644898, 2971213; 644791, 2971188; 644733, 2971139; 644763, 2971120; 644853, 2971117; 644961, 2971089; 645051, 2971108; 645224, 2971216; 645349, 2971257; 645384, 2971292; 645398, 2971332; 648329, 2971324; 648612, 2971033; 649168, 2970415; 649921, 2969645; 649864, 2969620; 649893, 2969537; 649918, 2969523; 649938, 2969532; 649945, 2969635; 649969, 2969637; 649982, 2969577; 649974, 2969490; 650004, 2969439; 650085, 2969428; 650112, 2969445; 650109, 2969505; 650065, 2969576; 650053, 2969639; 650081, 2969639; 650117, 2969554; 650157, 2969532; 650169, 2969548; 650169, 2969639; 650210, 2969638; 650219, 2969458; 650266, 2969415; 650322, 2969415; 650348, 2969450; 650308, 2969606; 650304, 2969638; 650325, 2969639; 650387, 2969489; 650415, 2969460; 650503, 2969417; 650741, 2969389; 650779, 2969362; 650942, 2969399; 650977, 2969335; 651080, 2969330; 651111, 2969407; 651204, 2969435; 651247, 2969407; 651265, 2969334; 651320, 2969324; 651420, 2969360; 651436, 2969405; 651488, 2969418; 651537, 2969418; 651578, 2969397; 651617, 2969409; 651644, 2969395; 651684, 2969432; 651767, 2969439; 651987, 2969393; 652084, 2969401; 652131, 2969432; 652149, 2969476; 652149, 2969556; 652128, 2969620; 652248, 2969608; 652262, 2969578; 652261, 2969522; 652228, 2969523; 652200, 2969109; 652096, 2968267; 652107, 2968233; 652124, 2968227; 652129, 2968182; 652110, 2968152; 652013, 2967221; 651935, 2967167; 651903, 2967112; 651916, 2967099; 651957, 2967139; 652038, 2967174; 652002, 2966815; 651873, 2966851; 651748, 2966944; 651571, 2967033; 651349, 2967113; 651257, 2967126; 651200, 2967161; 651077, 2967177; 651000, 2967217; 650736, 2967240; 650456, 2967303; 649908, 2967283; 649673, 2967259; 649593, 2967222; 649199, 2967132; 649146, 2967112; 649114, 2967061; 649053, 2967033; 648970, 2967044; 648906, 2967015; 648738, 2967014; 648647, 2966991; 648533, 2967021; 648522, 2967005; 648547, 2966927; 648531, 2966890; 648357, 2966792; 648272, 2966716; 648157, 2966665; 648088, 2966605; 648017, 2966575; 647899, 2966583; 647878, 2966563; 647921, 2966485; 647993, 2966428; 648002, 2966362; 648249, 2966122; 648393, 2966035; 648747, 2965936; 648896, 2965933; 649067, 2965966; 649326, 2965978; 649649, 2965936; 649808, 2965866; 649941, 2965767; 649956, 2965751; 649943, 2965739; 649997, 2965677; 649984, 2965628; 649955, 2965593; 649885, 2965540; 649819, 2965519; 649855, 2965508; 649923, 2965536; 650011, 2965620; 650023, 2965611; 649992, 2965544; 650039, 2965526; 650075, 2965487; 650084, 2965446; 650059, 2965454; 650055, 2965439; 650092, 2965354; 650160, 2965266; 650186, 2965283; 650154, 2965377; 650250, 2965358; 650301, 2965363; 650200, 2965495; 650183, 2965639; 650217, 2965763; 650309, 2965844; 650317, 2965880; 650388, 2965887; 650419, 2965844; 650470, 2965818; 650648, 2965609; 650712, 2965579; 650727, 2965395; 650708, 2965346; 650660, 2965315; 650655, 2965279; 650827, 2965099; 650906, 2964911; 650908, 2964808; 650862, 2964683; 650696, 2964483; 650661, 2964320; 650621, 2964296; 650533, 2964333; 650498, 2964323; 650509, 2964288; 650619, 2964159; 650657, 2964077; 650754, 2963661; 650751, 2963590; 650668, 2963407; 650658, 2963339; 650681, 2963308; 650814, 2963246; 650892, 2963186; 650969, 2963069; 650956, 2962962; 650908, 2962852; 650865, 2962797; 650836, 2962808; 650784, 2962735; 650726, 2962691; 650713, 2962668; 650718, 2962627; 650733, 2962598; 650764, 2962604; 650845, 2962483; 650923, 2962443; 651063, 2962283; 651116, 2962206; 651126, 2962164; 651276, 2962031; 651293, 2961967; 651316, 2961618; 651390, 2961373; 651545, 2961099; 651561, 2961101; 651558, 2961136; 651506, 2961271; 651464, 2961323; 651464, 2961365; 651497, 2961378; 651569, 2961330; 651563, 2961307; 651520, 2961315; 651550, 2961286; 651667, 2961236; 651675, 2961173; 651664, 2961163; 651586, 2961239; 651545, 2961253; 651624, 2961147; 651679, 2961111; 651702, 2961074; 651796, 2961024; 651807, 2960988; 651794, 2960912; 651778, 2960876; 651756, 2960882; 651757, 2960826; 651770, 2960808; 651824, 2960823; 651802, 2960766; 651855, 2960759; 651884, 2960716; 651945, 2960834; 651922, 2961087; 651892, 2961172; 651909, 2961174; 651934, 2961138; 651981, 2960873; 651984, 2960832; 651966, 2960809; 651979, 2960688; 651937, 2960717; 651917, 2960679; 651882, 2960659; 651884, 2960630; 651803, 2960625; 651795, 2960606; 651870, 2960563; 651903, 2960522; 651934, 2960420; 651904, 2960404; 651935, 2960340; 651904, 2960290; 651872, 2960290; 651820, 2960348; 651810, 2960319; 651823, 2960287; 651870, 2960255; 651995, 2960261; 652009, 2960241; 651994, 2960131; 652013, 2960032; 651976, 2960041; 651972, 2960018; 652036, 2959947; 651984, 2959954; 651974, 2959940; 652020, 2959874; 652011, 2959813; 652045, 2959759; 652008, 2959662; 651977, 2959644; 651949, 2959604; 651949, 2959475; 651906, 2959421; 651800, 2959493; 651666, 2959497; 651560, 2959543; 651482, 2959655; 651417, 2959714; 651438, 2959806; 651428, 2959899; 651506, 2959806; 651510, 2959768; 651562, 2959771; 651575, 2959707; 651603, 2959699; 651670, 2959754; 651684, 2959837; 651740, 2959936; 651764, 2959952; 651848, 2959939; 651868, 2959974; 651855, 2959990; 651803, 2960000; 651806, 2960040; 651791, 2960052; 651720, 2959997; 651646, 2960021; 651646, 2959957; 651613, 2959953; 651590, 2960011; 651568, 2960007; 651534, 2960047; 651669, 2960078; 651699, 2960102; 651699, 2960120; 651663, 2960157; 651575, 2960110; 651542, 2960114; 651546, 2960138; 651600, 2960198; 651523, 2960272; 651436, 2960242; 651368, 2960247; 651356, 2960230; 651332, 2960233; 651313, 2960194; 651295, 2960202; 651184, 2960471; 651301, 2960642; 651263, 2960667; 651156, 2960617; 651097, 2960640; 651037, 2960615; 651015, 2960631; 650979, 2960563; 650924, 2960639; 650846, 2960814; 650874, 2960826; 650952, 2960792; 650977, 2960746; 650927, 2960746; 650915, 2960726; 650936, 2960698; 650985, 2960683; 651031, 2960706; 651063, 2960690; 651132, 2960731; 651120, 2960756; 651045, 2960755; 651038, 2960772; 651049, 2960782; 651189, 2960799; 651236, 2960825; 651364, 2960755; 651382, 2960719; 651395, 2960719; 651418, 2960781; 651392, 2960796; 651389, 2960859; 651460, 2960864; 651503, 2960927; 651488, 2960963; 651425, 2960920; 651368, 2960939; 651368, 2960960; 651434, 2960957; 651463, 2960980; 651453, 2961061; 651428, 2961084; 651444, 2961149; 651411, 2961170; 651386, 2961125; 651338, 2961088; 651355, 2961059; 651302, 2961059; 651276, 2961044; 651285, 2961028; 651339, 2961014; 651275, 2960996; 651289, 2960888; 651287, 2960875; 651268, 2960877; 651238, 2960968; 651254, 2961037; 651221, 2961061; 651223, 2961081; 651256, 2961097; 651255, 2961132; 651274, 2961162; 651156, 2961189; 651132, 2961161; 651027, 2961240; 651024, 2961282; 651040, 2961315; 651001, 2961342; 651021, 2961379; 651013, 2961403; 650957, 2961411; 650963, 2961453; 650988, 2961445; 651014, 2961465; 651012, 2961495; 650952, 2961541; 650897, 2961560; 650895, 2961595; 650854, 2961613; 650871, 2961651; 650848, 2961678; 650863, 2961716; 650952, 2961704; 651044, 2961737; 651012, 2961834; 650952, 2961840; 650889, 2961872; 650917, 2961944; 650935, 2961892; 650977, 2961904; 650971, 2961957; 650939, 2962004; 650807, 2962010; 650730, 2961966; 650715, 2961998; 650726, 2962035; 650785, 2962072; 650798, 2962102; 650838, 2962101; 650830, 2962068; 650840, 2962054; 650909, 2962050; 650937, 2962067; 650950, 2962149; 650815, 2962167; 650842, 2962195; 650913, 2962201; 650911, 2962315; 650880, 2962336; 650836, 2962290; 650850, 2962262; 650835, 2962236; 650752, 2962250; 650693, 2962197; 650679, 2962147; 650598, 2962115; 650580, 2962057; 650642, 2962056; 650594, 2962012; 650593, 2961973; 650604, 2961961; 650632, 2961972; 650653, 2961934; 650606, 2961877; 650571, 2961898; 650561, 2961921; 650521, 2961900; 650515, 2961926; 650534, 2961978; 650515, 2962009; 650483, 2962020; 650437, 2961984; 650411, 2962027; 650310, 2962013; 650289, 2962034; 650389, 2962075; 650448, 2962046; 650460, 2962133; 650423, 2962149; 650423, 2962161; 650580, 2962320; 650557, 2962350; 650483, 2962351; 650396, 2962284; 650354, 2962298; 650345, 2962329; 650382, 2962358; 650406, 2962330; 650420, 2962332; 650537, 2962415; 650563, 2962385; 650615, 2962429; 650569, 2962435; 650573, 2962472; 650559, 2962485; 650484, 2962430; 650462, 2962444; 650467, 2962480; 650514, 2962513; 650550, 2962514; 650577, 2962563; 650606, 2962568; 650598, 2962592; 650575, 2962601; 650536, 2962566; 650524, 2962572; 650537, 2962651; 650513, 2962677; 650519, 2962736; 650498, 2962771; 650438, 2962743; 650463, 2962707; 650424, 2962669; 650387, 2962769; 650364, 2962758; 650361, 2962738; 650342, 2962735; 650328, 2962754; 650318, 2962822; 650294, 2962811; 650290, 2962772; 650272, 2962768; 650261, 2962801; 650176, 2962798; 650159, 2962828; 650139, 2962832; 650116, 2962817; 650106, 2962788; 650025, 2962768; 649993, 2962791; 649924, 2962768; 649914, 2962751; 649945, 2962726; 649930, 2962714; 649924, 2962667; 649831, 2962604; 649747, 2962580; 649720, 2962602; 649727, 2962621; 649764, 2962636; 649850, 2962626; 649881, 2962649; 649872, 2962688; 649768, 2962750; 649715, 2962690; 649708, 2962658; 649676, 2962650; 649666, 2962713; 649680, 2962739; 649605, 2962773; 649528, 2962882; 649471, 2962891; 649400, 2962963; 649345, 2962960; 649324, 2962987; 649291, 2962982; 649282, 2963047; 649260, 2963072; 649266, 2963103; 649329, 2963094; 649376, 2963118; 649486, 2963104; 649644, 2962985; 649721, 2962891; 649736, 2962851; 649900, 2962858; 649898, 2962928; 649939, 2962956; 649966, 2962937; 649958, 2962855; 649975, 2962853; 650003, 2962906; 650020, 2963022; 650001, 2963022; 649973, 2962978; 649918, 2962989; 649863, 2962954; 649857, 2962972; 649899, 2963036; 649888, 2963073; 649843, 2963034; 649808, 2963029; 649726, 2963107; 649659, 2963138; 649598, 2963226; 649532, 2963226; 649463, 2963269; 649462, 2963287; 649492, 2963321; 649492, 2963381; 649476, 2963406; 649491, 2963453; 649393, 2963453; 649380, 2963466; 649523, 2963511; 649549, 2963548; 649573, 2963648; 649551, 2963653; 649526, 2963613; 649476, 2963597; 649501, 2963573; 649438, 2963546; 649435, 2963506; 649361, 2963520; 649354, 2963534; 649384, 2963568; 649338, 2963580; 649374, 2963600; 649354, 2963630; 649400, 2963636; 649444, 2963683; 649446, 2963723; 649472, 2963764; 649425, 2963757; 649377, 2963713; 649279, 2963674; 649255, 2963687; 649263, 2963728; 649235, 2963739; 649259, 2963773; 649169, 2963798; 649257, 2963832; 649278, 2963804; 649296, 2963804; 649360, 2963887; 649351, 2963906; 649284, 2963880; 649248, 2963892; 649204, 2963869; 649151, 2963880; 649138, 2963843; 649097, 2963861; 649028, 2963841; 649035, 2963736; 649059, 2963670; 649115, 2963627; 649127, 2963534; 649192, 2963426; 649195, 2963370; 649227, 2963298; 649209, 2963183; 649176, 2963155; 649097, 2963209; 649084, 2963245; 649084, 2963311; 649126, 2963385; 649106, 2963444; 649072, 2963465; 649082, 2963499; 649066, 2963524; 649029, 2963519; 649015, 2963547; 648960, 2963538; 648893, 2963560; 648828, 2963615; 648779, 2963706; 648652, 2963799; 648653, 2963896; 648679, 2963911; 648669, 2963953; 648716, 2963966; 648723, 2963989; 648644, 2963994; 648657, 2964033; 648599, 2964051; 648832, 2964128; 648828, 2964220; 648808, 2964208; 648775, 2964223; 648762, 2964173; 648743, 2964162; 648705, 2964179; 648750, 2964238; 648762, 2964287; 648850, 2964304; 648879, 2964361; 648877, 2964417; 648866, 2964425; 648841, 2964344; 648743, 2964326; 648739, 2964361; 648686, 2964408; 648718, 2964417; 648770, 2964404; 648857, 2964493; 648947, 2964521; 648938, 2964547; 648865, 2964534; 648851, 2964546; 648905, 2964580; 648901, 2964606; 648839, 2964588; 648720, 2964590; 648685, 2964608; 648730, 2964620; 648721, 2964649; 648615, 2964659; 648619, 2964674; 648681, 2964697; 648700, 2964734; 648693, 2964750; 648655, 2964733; 648614, 2964755; 648626, 2964813; 648730, 2964834; 648764, 2964857; 648766, 2964874; 648749, 2964901; 648685, 2964874; 648659, 2964842; 648629, 2964893; 648626, 2965027; 648651, 2965056; 648637, 2965075; 648598, 2965083; 648601, 2965110; 648609, 2965127; 648691, 2965092; 648755, 2965103; 648787, 2965140; 648789, 2965207; 648765, 2965221; 648691, 2965159; 648684, 2965198; 648654, 2965206;

648615, 2965253; 648616, 2965286; 648578, 2965297; 648537, 2965392; 648487, 2965413; 648340, 2965382; 648380, 2965416; 648381, 2965447; 648340, 2965448; 648211, 2965505; 648104, 2965484; 648086, 2965458; 647964, 2965433; 647890, 2965439; 647759, 2965526; 647709, 2965611; 647662, 2965643; 647637, 2965699; 647651, 2965758; 647596, 2965720; 647564, 2965715; 647518, 2965764; 647500, 2965801; 647505, 2965828; 647560, 2965864; 647643, 2965879; 647672, 2965908; 647660, 2965940; 647598, 2965967; 647686, 2965961; 647774, 2965885; 647839, 2965885; 647743, 2965817; 647751, 2965786; 647795, 2965765; 647862, 2965781; 647979, 2965872; 648142, 2965946; 648162, 2965998; 648144, 2966020; 648047, 2965938; 647966, 2965950; 647994, 2965983; 647988, 2966049; 648081, 2966055; 648089, 2966087; 648068, 2966102; 647974, 2966068; 647941, 2966107; 647972, 2966132; 647919, 2966135; 647875, 2966185; 648000, 2966156; 648009, 2966186; 647993, 2966206; 647968, 2966222; 647742, 2966268; 647725, 2966259; 647746, 2966237; 647681, 2966249; 647690, 2966266; 647682, 2966304; 647579, 2966321; 647390, 2966404; 647351, 2966354; 647361, 2966326; 647435, 2966325; 647581, 2966263; 647501, 2966260; 647474, 2966239; 647450, 2966265; 647416, 2966244; 647422, 2966217; 647407, 2966208; 647265, 2966251; 647215, 2966233; 647186, 2966243; 647172, 2966259; 647178, 2966293; 647226, 2966331; 647252, 2966329; 647278, 2966280; 647272, 2966352; 647253, 2966377; 647255, 2966496; 647235, 2966506; 647236, 2966452; 647215, 2966437; 647105, 2966465; 647082, 2966479; 647082, 2966509; 647024, 2966506; 647039, 2966539; 647078, 2966534; 647094, 2966573; 647068, 2966589; 647058, 2966632; 647028, 2966604; 646987, 2966604; 647011, 2966667; 646985, 2966661; 646971, 2966709; 646918, 2966706; 646940, 2966745; 646938, 2966783; 646891, 2966777; 646878, 2966790; 646897, 2966835; 646887, 2966872; 646867, 2966861; 646814, 2966769; 646687, 2966797; 646683, 2966816; 646713, 2966841; 646710, 2966891; 646745, 2966929; 646739, 2966992; 646756, 2967023; 646739, 2967047; 646696, 2967038; 646691, 2967050; 646777, 2967076; 646787, 2967096; 646777, 2967119; 646700, 2967127; 646644, 2967179; 646567, 2967184; 646557, 2967171; 646573, 2967135; 646572, 2967084; 646615, 2967083; 646617, 2967065; 646520, 2966999; 646507, 2967019; 646532, 2967057; 646494, 2967063; 646483, 2967082; 646489, 2967096; 646525, 2967096; 646509, 2967199; 646473, 2967180; 646444, 2967185; 646430, 2967200; 646444, 2967227; 646422, 2967243; 646411, 2967212; 646373, 2967236; 646320, 2967235; 646310, 2967215; 646352, 2967209; 646350, 2967181; 646386, 2967175; 646392, 2967148; 646316, 2967150; 646258, 2967201; 646246, 2967241; 646236, 2967212; 646139, 2967255; 646201, 2967289; 646192, 2967310; 646161, 2967322; 646112, 2967271; 645891, 2967428; 645889, 2967459; 645865, 2967471; 645856, 2967513; 645824, 2967552; 645840, 2967616; 645826, 2967615; 645805, 2967574; 645770, 2967618; 645764, 2967651; 645797, 2967689; 645831, 2967670; 645865, 2967680; 645882, 2967742; 645865, 2967745; 645836, 2967713; 645777, 2967729; 645764, 2967715; 645764, 2967775; 645742, 2967848; 645771, 2967890; 645775, 2967949; 645747, 2967998; 645693, 2968030; 645654, 2968036; 645642, 2968020; 645752, 2967942; 645749, 2967905; 645729, 2967875; 645708, 2967927; 645669, 2967966; 645529, 2967955; 645489, 2967969; 645575, 2967987; 645579, 2968004; 645556, 2968025; 645496, 2968041; 645473, 2968009; 645477, 2967981; 645440, 2968014; 645384, 2968031; 645277, 2968031; 645190, 2967931; 645137, 2967919; 645120, 2967897; 645135, 2967880; 645190, 2967873; 645198, 2967862; 645176, 2967810; 645228, 2967786; 645203, 2967758; 645208, 2967743; 645262, 2967724; 645224, 2967664; 645131, 2967633; 645033, 2967696; 644977, 2967792; 644913, 2967831; 644875, 2967813; 644854, 2967762; 644808, 2967736; 644801, 2967760; 644760, 2967726; 644727, 2967742; 644760, 2967786; 644781, 2967852; 644777, 2967936; 644752, 2967971; 644665, 2967930; 644680, 2967917; 644736, 2967925; 644726, 2967894; 644741, 2967825; 644697, 2967787; 644678, 2967819; 644684, 2967858; 644623, 2967952; 644592, 2967975; 644539, 2967978; 644591, 2967933; 644564, 2967930; 644477, 2967962; 644389, 2967929; 644373, 2967934; 644381, 2967971; 644342, 2967949; 644328, 2967958; 644296, 2968036; 644333, 2968033; 644357, 2968063; 644294, 2968053; 644244, 2968174; 644260, 2968220; 644302, 2968263; 644388, 2968300; 644388, 2968355; 644357, 2968375; 644293, 2968368; 644313, 2968319; 644242, 2968282; 644221, 2968192; 644190, 2968199; 644139, 2968177; 644126, 2968200; 644097, 2968193; 644130, 2968166; 644118, 2968126; 644136, 2968017; 644129, 2967984; 644103, 2967993; 644085, 2967967; 644150, 2967886; 644169, 2967845; 644173, 2967780; 644155, 2967734; 644122, 2967717; 644111, 2967802; 644026, 2967734; 643992, 2967801; 644015, 2967831; 644068, 2967856; 644072, 2967878; 643980, 2967850; 643955, 2967877; 643961, 2967893; 644047, 2967925; 644054, 2968054; 644070, 2968094; 644059, 2968127; 644011, 2968144; 644009, 2968205; 643991, 2968236; 643978, 2968237; 643967, 2968214; 643951, 2968137; 643889, 2968086; 643867, 2968029; 643822, 2968014; 643778, 2967975; 643717, 2968031; 643628, 2968044; 643618, 2968089; 643742, 2968068; 643785, 2968077; 643824, 2968110; 643824, 2968172; 643772, 2968236; 643684, 2968252; 643588, 2968330; 643538, 2968305; 643487, 2968307; 643422, 2968285; 643383, 2968302; 643339, 2968298; 643314, 2968240; 643263, 2968219; 643227, 2968243; 643261, 2968244; 643263, 2968270; 643216, 2968281; 643162, 2968258; 643129, 2968223; 643116, 2968229; 643123, 2968262; 643101, 2968276; 643116, 2968294; 643185, 2968317; 643271, 2968300; 643289, 2968325; 643296, 2968375; 643317, 2968398; 643337, 2968395; 643352, 2968368; 643441, 2968365; 643612, 2968399; 643796, 2968382; 643774, 2968433; 643737, 2968422; 643697, 2968437; 643727, 2968453; 643732, 2968477; 643765, 2968500; 643764, 2968518; 643702, 2968498; 643693, 2968525; 643704, 2968558; 643770, 2968598; 643830, 2968661; 643843, 2968694; 643812, 2968695; 643745, 2968661; 643691, 2968584; 643690, 2968626; 643725, 2968717; 643699, 2968788; 643662, 2968809; 643548, 2968824; 643544, 2968837; 643387, 2968836; 643368, 2968873; 643356, 2968861; 643336, 2968890; 643335, 2968936; 643401, 2969010; 643401, 2969064; 643439, 2969115; 643384, 2969089; 643310, 2969110; 643318, 2969123; 643302, 2969131; 643260, 2969117; 643230, 2969142; 643243, 2969164; 643237, 2969192; 643182, 2969169; 643165, 2969201; 643173, 2969237; 643313, 2969238; 643345, 2969260; 643359, 2969292; 643343, 2969362; 643426, 2969353; 643394, 2969333; 643392, 2969320; 643418, 2969308; 643459, 2969346; 643533, 2969352; 643570, 2969377; 643591, 2969423; 643633, 2969455; 643582, 2969466; 643568, 2969499; 643580, 2969526; 643557, 2969529; 643552, 2969548; 643547, 2969596; 643597, 2969583; 643608, 2969593; 643604, 2969664; 643595, 2969678; 643517, 2969682; 643367, 2969730; 643028, 2969725; 642973, 2969748; 642969, 2969728; 642870, 2969767; 642867, 2969788; 642846, 2969785; 642826, 2969805; 642855, 2969824; 642851, 2969846; 642759, 2969997; 642680, 2970039; 642581, 2970118; 642454, 2970257; 642414, 2970263; 642368, 2970298; 642353, 2970276; 641988, 2970445; 641963, 2970481; 641963, 2970527; 641994, 2970557; 642011, 2970546; 642024, 2970563; 642070, 2970565; 642054, 2970527; 642064, 2970513; 642169, 2970516; 642183, 2970491; 642165, 2970477; 642172, 2970457; 642283, 2970467; 642292, 2970454; 642270, 2970433; 642274, 2970410; 642355, 2970410; 642443, 2970358; 642454, 2970378; 642435, 2970472; 642469, 2970450; 642474, 2970422; 642518, 2970406; 642519, 2970389; 642487, 2970362; 642500, 2970332; 642527, 2970327; 642572, 2970347; 642587, 2970325; 642578, 2970288; 642590, 2970275; 642630, 2970298; 642648, 2970260; 642754, 2970213; 642658, 2970214; 642714, 2970168; 642745, 2970120; 642795, 2970094; 642817, 2970117; 642785, 2970156; 642804, 2970183; 642852, 2970137; 642830, 2970110; 642836, 2970096; 642875, 2970114; 642901, 2970090; 642884, 2970066; 642892, 2970042; 642934, 2970057; 642955, 2970036; 642925, 2970014; 642925, 2969992; 642980, 2970012; 643055, 2969984; 643027, 2969962; 643036, 2969951; 643069, 2969964; 643068, 2969983; 643157, 2969989; 643275, 2970070; 643310, 2970072; 643326, 2970101; 643228, 2970257; 643239, 2970324; 643455, 2970386; 643614, 2970537; 643631, 2970568; 643697, 2970592; 643712, 2970653; 643700, 2970671; 643663, 2970662; 643628, 2970617; 643612, 2970653; 643670, 2970696; 643761, 2970725; 643758, 2970755; 643713, 2970744; 643731, 2970774; 643721, 2970812; 643670, 2970806; 643763, 2970869; 643783, 2970926; 643826, 2970913; 643806, 2970891; 643846, 2970828; 643835, 2970798; 643845, 2970774; 643951, 2970702; 643980, 2970716; 643990, 2970741; 643986, 2970798; 643939, 2970868; 643851, 2970937; 643809, 2970958; 643772, 2970958; 643737, 2970990; 643741, 2971022; 643717, 2971043; 643650, 2971047; 643594, 2971083; 643623, 2971142; 643620, 2971212; 643591, 2971296; 643576, 2971296; 643570, 2971274; 643600, 2971192; 643585, 2971176; 643546, 2971174; 643503, 2971228; 643390, 2971269; 643387, 2971289; 643336, 2971337; 643788, 2971337; 643804, 2971301; 644388, 2971235; 644415, 2971239; 644401, 2971277; 644307, 2971299; 644327, 2971267; 644388, 2971235; 645326, 2971076; 645367, 2971014; 645218, 2970969; 645209, 2970954; 645232, 2970924; 645318, 2970922; 645372, 2970942; 645416, 2970981; 645428, 2971052; 645395, 2971107; 645375, 2971123; 645350, 2971121; 645326, 2971076; 646107, 2970947; 646171, 2970961; 646219, 2971007; 646239, 2971044; 646234, 2971106; 646091, 2971179; 646023, 2971184; 645934, 2971226; 645925, 2971204; 645941, 2971148; 646022, 2971105; 646020, 2971092; 645990, 2971089; 645998, 2971065; 646073, 2971053; 646077, 2970999; 646091, 2970989; 646084, 2970960; 646107, 2970947; 646349, 2970968; 646403, 2970956; 646396, 2970934; 646417, 2970915; 646475, 2970908; 646490, 2970976; 646482, 2971067; 646406, 2971118; 646331, 2971133; 646318, 2971023; 646349, 2970968; 647153, 2970921; 647247, 2970903; 647344, 2970930; 647386, 2970932; 647404, 2970918; 647397, 2970886; 647354, 2970851; 647285, 2970854; 647316, 2970802; 647308, 2970787; 647195, 2970835; 647140, 2970805; 647103, 2970811; 647113, 2970764; 647181, 2970657; 647230, 2970635; 647284, 2970650; 647352, 2970768; 647420, 2970835; 647444, 2970905; 647433, 2970972; 647413, 2970987; 647241, 2971041; 647053, 2971061; 647043, 2971047; 647056, 2971005; 647153, 2970921; 647626, 2970841; 647593, 2970835; 647589, 2970816; 647643, 2970775; 647678, 2970776; 647663, 2970903; 647647, 2970926; 647529, 2970971; 647517, 2970947; 647528, 2970902; 647558, 2970877; 647618, 2970868; 647626, 2970841; 648562, 2970934; 648549, 2970886; 648487, 2970884; 648477, 2970862; 648560, 2970766; 648602, 2970752; 648622, 2970799; 648616, 2970842; 648588, 2970916; 648562, 2970934; 648144, 2970878; 648050, 2970902; 647808, 2970924; 647785, 2970885; 647791, 2970857; 647825, 2970828; 647901, 2970817; 647910, 2970787; 647859, 2970796; 647675, 2970730; 647588, 2970732; 647550, 2970712; 647518, 2970669; 647474, 2970687; 647461, 2970672; 647509, 2970643; 647547, 2970642; 647723, 2970667; 647838, 2970724; 647932, 2970740; 647957, 2970732; 647956, 2970720; 647813, 2970670; 647799, 2970639; 647819, 2970618; 647852, 2970614; 647932, 2970650; 648008, 2970586; 648072, 2970575; 648168, 2970589; 648225, 2970557; 648212, 2970532; 648240, 2970519; 648305, 2970512; 648375, 2970544; 648398, 2970575; 648410, 2970630; 648402, 2970685; 648370, 2970747; 648262, 2970838; 648144, 2970878; 647790, 2970562; 647747, 2970568; 647717, 2970544; 647608, 2970538; 647631, 2970510; 647797, 2970449; 647913, 2970483; 647936, 2970508; 647926, 2970531; 647790, 2970562; 648924, 2970465; 648907, 2970435; 648940, 2970376; 649027, 2970350; 649036, 2970419; 649006, 2970495; 648942, 2970499; 648924, 2970465; 647452, 2970436; 647341, 2970509; 647350, 2970279; 647368, 2970199; 647348, 2969821; 647337, 2969773; 647314, 2969748; 647304, 2969798; 647332, 2969940; 647338, 2970095; 647291, 2970124; 647268, 2970401; 647295, 2970514; 647266, 2970551; 647241, 2970553; 647205, 2970525; 647201, 2970461; 647173, 2970387; 647183, 2970339; 647227, 2970305; 647219, 2969673; 647187, 2969637; 647005, 2969637; 646995, 2969653; 646996, 2969766; 646943, 2969771; 646933, 2969725; 646955, 2969593; 646948, 2969546; 646969, 2969488; 646994, 2969463; 647068, 2969428; 647201, 2969397; 647402, 2969380; 647998, 2969390; 648224, 2969424; 648285, 2969405; 648339, 2969433; 648448, 2969423; 648483, 2969446; 648497, 2969535; 648485, 2969575; 648445, 2969649; 648409, 2969682; 648370, 2969685; 648294, 2969642; 648256, 2969644; 648228, 2969609; 647721, 2969601; 647715, 2969628; 647554, 2969636; 647564, 2969694; 647529, 2969724; 647515, 2969797; 647458, 2969863; 647461, 2969876; 647503, 2969881; 647516, 2969907; 647515, 2969962; 647470, 2970013; 647476, 2970097; 647445, 2970175; 647477, 2970233; 647478, 2970269; 647453, 2970324; 647485, 2970373; 647452, 2970436; 649383, 2969956; 649441, 2969975; 649446, 2970043; 649422, 2970078; 649358, 2970076; 649314, 2970023; 649340, 2969968; 649383, 2969956; 649577, 2969745; 649588, 2969709; 649545, 2969705; 649505, 2969678; 649434, 2969721; 649177, 2969725; 649047, 2969707; 648998, 2969639; 648981, 2969636; 648910, 2969686; 648807, 2969696; 648680, 2969673; 648530, 2969689; 648518, 2969682; 648520, 2969651; 648541, 2969551; 648600, 2969425; 648619, 2969403; 648668, 2969397; 649026, 2969417; 649058, 2969476; 649065, 2969438; 649117, 2969436; 649349, 2969462; 649418, 2969493; 649491, 2969491; 649514, 2969519; 649515, 2969619; 649557, 2969528; 649586, 2969504; 649618, 2969521; 649627, 2969599; 649696, 2969517; 649720, 2969531; 649724, 2969592; 649743, 2969604; 649778, 2969548; 649814, 2969523; 649824, 2969592; 649768, 2969742; 649620, 2969795; 649552, 2969890; 649538, 2969843; 649549, 2969803; 649580, 2969767; 649577, 2969745; 643946, 2969337; 643968, 2969410; 643941, 2969427; 643897, 2969405; 643875, 2969344; 643901, 2969312; 643946, 2969337; 643707, 2969395; 643674, 2969412; 643701, 2969326; 643737, 2969331; 643752, 2969314; 643718, 2969283; 643734, 2969271; 643788, 2969288; 643789, 2969329; 643707, 2969395; 643632, 2969317; 643623, 2969334; 643562, 2969328; 643540, 2969349; 643490, 2969326; 643490, 2969302; 643531, 2969297; 643502, 2969259; 643501, 2969220; 643550, 2969236; 643632, 2969317; 643655, 2969499; 643678, 2969585; 643660, 2969605; 643620, 2969532; 643627, 2969493; 643655, 2969499; 646890, 2969546; 646913, 2969549; 646902, 2969658; 646915, 2969804; 646904, 2969820; 646835, 2969762; 646815, 2969711; 646808, 2969600; 646825, 2969566; 646890, 2969546; 643192, 2969879; 643295, 2969916; 643347, 2969952; 643371, 2969983; 643371, 2970012; 643282, 2969962; 643270, 2969972; 643293, 2970007; 643284, 2970026; 643180, 2969929; 643089, 2969901; 643010, 2969908; 642987, 2969888; 643048, 2969860; 643192, 2969879; 643608, 2970112; 643568, 2970114; 643559, 2970089; 643613, 2970041; 643644, 2970048; 643658, 2970087; 643608, 2970112; 643488, 2970103; 643481, 2970149; 643463, 2970166; 643373, 2970115; 643364, 2970087; 643447, 2970054; 643470, 2970059; 643488, 2970103; 646452, 2970364; 646428, 2970408; 646328, 2970426; 646307, 2970487; 646286, 2970462; 646257, 2970465; 646291, 2970403; 646408, 2970354; 646481, 2970300; 646579, 2970262; 646614, 2970269; 646624, 2970287; 646611, 2970321; 646452, 2970364; 643306, 2970243; 643360, 2970321; 643360, 2970346; 643297, 2970322; 643273, 2970252; 643287, 2970238; 643306, 2970243; 643364, 2970249; 643397, 2970249; 643481, 2970322; 643501, 2970319; 643503, 2970284; 643523, 2970269; 643586, 2970295; 643687, 2970434; 643701, 2970509; 643688, 2970546; 643664, 2970547; 643551, 2970409; 643431, 2970357; 643361, 2970266; 643364, 2970249; 643911, 2970344; 643986, 2970370; 644032, 2970449; 644019, 2970509; 643969, 2970561; 643945, 2970557; 643972, 2970513; 643962, 2970490; 643901, 2970504; 643843, 2970555; 643845, 2970489; 643754, 2970444; 643760, 2970419; 643796, 2970388; 643911, 2970344; 646293, 2970571; 646392, 2970590; 646434, 2970650; 646411, 2970659; 646336, 2970624; 646170, 2970662; 646176, 2970625; 646207, 2970591; 646293, 2970571; 643784, 2970628; 643762, 2970624; 643742, 2970579; 643788, 2970608; 643784, 2970628; 646613, 2970666; 646555, 2970599; 646496, 2970556; 646528, 2970526; 646616, 2970549; 646629, 2970519; 646619, 2970485; 646530, 2970447; 646521, 2970428; 646545, 2970411; 646608, 2970406; 646628, 2970376; 646646, 2970372; 646669, 2970398; 646677, 2970437; 646668, 2970618; 646652, 2970665; 646638, 2970677; 646613, 2970666; 645603, 2970515; 645529, 2970559; 645552, 2970519; 645634, 2970462; 645673, 2970468; 645663, 2970493; 645603, 2970515; 645779, 2970697; 645681, 2970780; 645666, 2970776; 645691, 2970720; 645772, 2970681; 645779, 2970697; 644101, 2970758; 644087, 2970781; 644060, 2970775; 644083, 2970730; 644097, 2970731; 644101, 2970758; 646154, 2970788; 646190, 2970734; 646219, 2970721; 646245, 2970775; 646202, 2970822; 646274, 2970829; 646290, 2970888; 646280, 2970906; 646125, 2970888; 646126, 2970840; 646154, 2970788; 644757, 2970819; 644785, 2970852; 644792, 2970898; 644766, 2970963; 644737, 2970992; 644612, 2970956; 644581, 2970927; 644589, 2970877; 644672, 2970799; 644716, 2970798; 644757, 2970819; 645327, 2970827; 645356, 2970829; 645365, 2970855; 645314, 2970857; 645327, 2970827; 646389, 2970828; 646475, 2970839; 646481, 2970817; 646451, 2970808; 646404, 2970735; 646428, 2970709; 646468, 2970711; 646511, 2970794; 646511, 2970865; 646380, 2970880; 646368, 2970843; 646389, 2970828; 647163, 2970885; 647162, 2970856; 647187, 2970858; 647183, 2970877; 647163, 2970885; 646337, 2970748; 646323, 2970749; 646314, 2970726; 646353, 2970715; 646358, 2970733; 646337, 2970748; 646351, 2970801; 646330, 2970797; 646343, 2970775; 646361, 2970776; 646351, 2970801; 644671, 2971051; 644642, 2971030; 644656, 2971007; 644686, 2971024; 644671, 2971051; 643631, 2969201; 643629, 2969182; 643659, 2969165; 643660, 2969189; 643631, 2969201; 643840, 2969192; 643743, 2969125; 643776, 2969087; 643766, 2969064; 643776, 2969043; 643761, 2969025; 643699, 2969024; 643721, 2968992; 643785, 2968976; 643809, 2968991; 643824, 2969104; 643860, 2969171; 643858, 2969189; 643840, 2969192; 643858, 2969062; 643922, 2969117; 643942, 2969160; 643932, 2969180; 643902, 2969172; 643863, 2969123; 643858, 2969062; 645498, 2969088; 645627, 2968969; 645645, 2968977; 645645, 2969006; 645601, 2969086; 645515, 2969130; 645496, 2969110; 645498, 2969088; 644106, 2969049; 644083, 2969053; 644066, 2969036; 644091, 2968944; 644015, 2968943; 643999, 2968921; 644069, 2968883;

644114, 2968891; 644137, 2968965; 644106, 2969049; 644498, 2968888; 644443, 2968857; 644381, 2968847; 644382, 2968804; 644411, 2968779; 644459, 2968774; 644560, 2968804; 644576, 2968827; 644567, 2968875; 644498, 2968888; 644655, 2968844; 644615, 2968772; 644619, 2968758; 644696, 2968788; 644731, 2968854; 644720, 2968872; 644693, 2968873; 644655, 2968844; 644105, 2968761; 644124, 2968817; 644110, 2968861; 644075, 2968846; 644020, 2968782; 643957, 2968770; 643989, 2968724; 644029, 2968715; 644077, 2968731; 644105, 2968761; 644210, 2968721; 644224, 2968553; 644265, 2968522; 644308, 2968523; 644323, 2968573; 644280, 2968704; 644248, 2968746; 644224, 2968746; 644210, 2968721; 644656, 2968532; 644603, 2968513; 644593, 2968493; 644671, 2968479; 644684, 2968447; 644625, 2968437; 644530, 2968454; 644519, 2968443; 644525, 2968417; 644570, 2968391; 644674, 2968413; 644762, 2968392; 644730, 2968438; 644753, 2968538; 644743, 2968608; 644714, 2968604; 644656, 2968532; 645196, 2968406; 645234, 2968378; 645272, 2968375; 645219, 2968427; 645196, 2968425; 645196, 2968406; 644914, 2968363; 644891, 2968371; 644872, 2968349; 644817, 2968343; 644809, 2968327; 644828, 2968316; 644878, 2968325; 644885, 2968283; 644936, 2968260; 644936, 2968171; 644827, 2968226; 644767, 2968291; 644732, 2968295; 644654, 2968348; 644556, 2968342; 644534, 2968306; 644637, 2968231; 644585, 2968225; 644575, 2968212; 644587, 2968200; 644731, 2968127; 644880, 2968085; 644935, 2968038; 645031, 2968043; 645093, 2968085; 645097, 2968146; 645128, 2968220; 645126, 2968275; 645087, 2968312; 644967, 2968318; 644914, 2968363; 645377, 2968324; 645426, 2968303; 645443, 2968325; 645427, 2968342; 645373, 2968348; 645377, 2968324; 645775, 2968321; 645859, 2968250; 645905, 2968233; 645921, 2968249; 645921, 2968271; 645897, 2968296; 645797, 2968333; 645775, 2968321; 645502, 2968304; 645477, 2968300; 645474, 2968275; 645569, 2968196; 645600, 2968190; 645605, 2968235; 645502, 2968304; 651749, 2968273; 651730, 2968241; 651754, 2968193; 651715, 2968200; 651711, 2968183; 651728, 2968139; 651727, 2968093; 651752, 2968079; 651817, 2968174; 651888, 2968237; 651895, 2968262; 651869, 2968284; 651802, 2968296; 651749, 2968273; 646044, 2968074; 646032, 2968074; 646032, 2968052; 646083, 2967996; 646119, 2967973; 646148, 2967987; 646136, 2968026; 646044, 2968074; 645151, 2968040; 645138, 2968053; 645077, 2968000; 645013, 2967987; 644996, 2967963; 645045, 2967939; 645136, 2967976; 645157, 2968008; 645151, 2968040; 644689, 2968012; 644659, 2968037; 644650, 2968013; 644662, 2967990; 644688, 2967983; 644701, 2967988; 644689, 2968012; 644507, 2968004; 644496, 2967993; 644508, 2967965; 644519, 2967973; 644507, 2968004; 644475, 2967993; 644471, 2968012; 644450, 2968010; 644461, 2967981; 644475, 2967993; 644406, 2968009; 644383, 2968026; 644388, 2967994; 644407, 2967990; 644406, 2968009; 644527, 2968030; 644562, 2968021; 644577, 2968099; 644563, 2968125; 644528, 2968139; 644477, 2968104; 644466, 2968077; 644507, 2968064; 644527, 2968030; 644326, 2968132; 644371, 2968177; 644428, 2968195; 644437, 2968222; 644419, 2968233; 644338, 2968195; 644307, 2968152; 644301, 2968087; 644316, 2968092; 644326, 2968132; 645345, 2968054; 645371, 2968063; 645352, 2968093; 645311, 2968069; 645345, 2968054; 645236, 2968082; 645305, 2968128; 645297, 2968158; 645213, 2968108; 645205, 2968077; 645236, 2968082; 645231, 2968183; 645232, 2968209; 645186, 2968218; 645200, 2968193; 645231, 2968183; 644746, 2968327; 644774, 2968339; 644761, 2968366; 644739, 2968355; 644746, 2968327; 644210, 2968378; 644216, 2968416; 644171, 2968472; 644074, 2968406; 644049, 2968336; 644079, 2968326; 644106, 2968371; 644129, 2968353; 644160, 2968375; 644210, 2968378; 643967, 2968377; 644040, 2968578; 644030, 2968615; 643992, 2968639; 643964, 2968626; 644002, 2968576; 644001, 2968546; 643971, 2968519; 643959, 2968480; 643941, 2968517; 643914, 2968474; 643875, 2968492; 643860, 2968478; 643901, 2968449; 643878, 2968437; 643885, 2968423; 643949, 2968444; 643946, 2968404; 643904, 2968367; 643835, 2968367; 643824, 2968353; 643832, 2968303; 643872, 2968272; 643908, 2968281; 643938, 2968312; 643967, 2968377; 644072, 2968276; 644056, 2968255; 644063, 2968221; 644097, 2968232; 644111, 2968264; 644072, 2968276; 643833, 2968421; 643807, 2968463; 643813, 2968427; 643833, 2968421; 643931, 2968597; 643889, 2968598; 643878, 2968581; 643934, 2968554; 643945, 2968582; 643931, 2968597; 643757, 2968703; 643744, 2968723; 643738, 2968702; 643757, 2968703; 643825, 2968775; 643782, 2968735; 643822, 2968749; 643825, 2968775; 643770, 2968772; 643808, 2968798; 643799, 2968815; 643727, 2968779; 643733, 2968763; 643770, 2968772; 643952, 2968853; 643945, 2968883; 643898, 2968873; 643905, 2968841; 643952, 2968853; 643926, 2968939; 643914, 2968974; 643848, 2968956; 643884, 2968916; 643926, 2968939; 643570, 2968935; 643562, 2969117; 643542, 2969136; 643479, 2969135; 643468, 2969109; 643526, 2969087; 643522, 2969063; 643482, 2969042; 643514, 2968973; 643451, 2968964; 643434, 2968945; 643462, 2968926; 643561, 2968915; 643570, 2968935; 643692, 2969086; 643714, 2969096; 643711, 2969126; 643687, 2969147; 643676, 2969124; 643692, 2969086; 643721, 2969186; 643702, 2969182; 643712, 2969159; 643727, 2969165; 643721, 2969186; 644867, 2967876; 644882, 2967879; 644879, 2967897; 644859, 2967915; 644851, 2967896; 644867, 2967876; 644905, 2967883; 644912, 2967862; 644931, 2967867; 644925, 2967896; 644905, 2967883; 644963, 2967873; 644976, 2967819; 645033, 2967784; 645066, 2967719; 645089, 2967731; 645110, 2967772; 645104, 2967808; 644994, 2967888; 644963, 2967873; 646146, 2967912; 646157, 2967882; 646178, 2967890; 646170, 2967919; 646146, 2967912; 645825, 2967896; 645808, 2967897; 645803, 2967871; 645825, 2967839; 645808, 2967751; 645826, 2967742; 645855, 2967849; 645825, 2967896; 646212, 2967752; 646277, 2967714; 646312, 2967729; 646289, 2967789; 646263, 2967797; 646190, 2967796; 646212, 2967752; 645929, 2967671; 645900, 2967643; 645912, 2967616; 645961, 2967634; 645953, 2967675; 645929, 2967671; 646423, 2967624; 646437, 2967632; 646426, 2967647; 646400, 2967650; 646423, 2967624; 645984, 2967554; 645967, 2967537; 645976, 2967494; 645930, 2967457; 645933, 2967430; 646002, 2967442; 646056, 2967541; 646052, 2967565; 645984, 2967554; 646141, 2967429; 646148, 2967387; 646164, 2967376; 646207, 2967453; 646138, 2967485; 646127, 2967460; 646141, 2967429;

645908, 2967545; 645881, 2967546; 645872, 2967522; 645910, 2967514; 645919, 2967529; 645908, 2967545; 646269, 2967353; 646257, 2967333; 646298, 2967269; 646373, 2967294; 646385, 2967311; 646371, 2967338; 646269, 2967353; 646112, 2967343; 646079, 2967328; 646074, 2967309; 646112, 2967313; 646112, 2967343; 648173, 2967050; 648121, 2967029; 648087, 2966989; 648060, 2966995; 648012, 2966975; 648039, 2966916; 648031, 2966905; 647990, 2966911; 647999, 2966851; 647977, 2966828; 647939, 2966872; 647903, 2966869; 647862, 2966902; 647795, 2966868; 647801, 2966840; 647776, 2966825; 647788, 2966803; 647781, 2966772; 647761, 2966763; 647709, 2966757; 647661, 2966820; 647619, 2966816; 647569, 2966836; 647542, 2966818; 647575, 2966786; 647661, 2966765; 647724, 2966725; 647775, 2966719; 647879, 2966790; 647871, 2966807; 647836, 2966805; 647826, 2966819; 647836, 2966863; 647954, 2966806; 648015, 2966794; 648002, 2966769; 647936, 2966756; 647905, 2966726; 647873, 2966719; 647847, 2966680; 647780, 2966671; 647799, 2966646; 647880, 2966641; 647909, 2966678; 647943, 2966687; 647945, 2966721; 648000, 2966718; 648046, 2966746; 648064, 2966837; 648059, 2966879; 648084, 2966953; 648115, 2966957; 648139, 2966993; 648185, 2966997; 648212, 2967018; 648210, 2967057; 648173, 2967050; 647486, 2966632; 647313, 2966721; 647281, 2966705; 647315, 2966598; 647333, 2966579; 647390, 2966594; 647486, 2966588; 647497, 2966618; 647486, 2966632; 647196, 2966577; 647162, 2966563; 647157, 2966537; 647186, 2966484; 647205, 2966482; 647214, 2966522; 647196, 2966577; 647165, 2966683; 647158, 2966724; 647116, 2966779; 647053, 2966743; 647055, 2966687; 647097, 2966664; 647106, 2966615; 647139, 2966586; 647161, 2966612; 647165, 2966683; 646983, 2966771; 647005, 2966812; 647071, 2966844; 647026, 2966928; 646990, 2966954; 646976, 2966937; 647023, 2966886; 646978, 2966879; 646938, 2966900; 646922, 2966899; 646916, 2966877; 646919, 2966837; 646963, 2966821; 646967, 2966776; 646983, 2966771; 646827, 2966897; 646804, 2966883; 646809, 2966864; 646832, 2966869; 646827, 2966897; 646872, 2966899; 646899, 2966907; 646895, 2966942; 646857, 2966917; 646872, 2966899; 646843, 2966949; 646867, 2966964; 646867, 2966982; 646825, 2966963; 646827, 2966949; 646843, 2966949; 646809, 2966983; 646824, 2967030; 646762, 2966960; 646790, 2966959; 646809, 2966983; 646919, 2966953; 646946, 2966967; 646939, 2966982; 646915, 2966977; 646919, 2966953; 647301, 2966344; 647329, 2966359; 647335, 2966403; 647293, 2966464; 647287, 2966445; 647307, 2966406; 647290, 2966370; 647301, 2966344; 648264, 2965886; 648313, 2965863; 648296, 2965834; 648314, 2965813; 648340, 2965807; 648364, 2965823; 648388, 2965790; 648388, 2965780; 648341, 2965776; 648355, 2965754; 648420, 2965729; 648453, 2965745; 648475, 2965708; 648507, 2965713; 648523, 2965735; 648537, 2965787; 648511, 2965829; 648457, 2965823; 648433, 2965854; 648283, 2965916; 648264, 2965903; 648264, 2965886; 649220, 2965842; 649170, 2965810; 649167, 2965777; 649204, 2965760; 649279, 2965762; 649324, 2965782; 649338, 2965808; 649310, 2965842; 649270, 2965852; 649220, 2965842; 649432, 2965763; 649516, 2965686; 649534, 2965700; 649525, 2965753; 649472, 2965823; 649439, 2965834; 649384, 2965821; 649378, 2965799; 649432, 2965763; 649633, 2965722; 649592, 2965721; 649575, 2965672; 649641, 2965671; 649694, 2965697; 649680, 2965728; 649633, 2965722; 649880, 2965673; 649834, 2965651; 649631, 2965637; 649714, 2965596; 649838, 2965572; 649901, 2965597; 649967, 2965659; 649967, 2965678; 649938, 2965703; 649880, 2965673; 649178, 2965633; 649049, 2965624; 649046, 2965551; 649071, 2965516; 649095, 2965520; 649114, 2965497; 649166, 2965498; 649213, 2965570; 649211, 2965600; 649178, 2965633; 649215, 2965494; 649254, 2965504; 649255, 2965546; 649210, 2965513; 649215, 2965494; 649297, 2965497; 649331, 2965475; 649263, 2965445; 649258, 2965418; 649286, 2965408; 649342, 2965440; 649404, 2965384; 649312, 2965342; 649301, 2965307; 649371, 2965288; 649444, 2965335; 649504, 2965303; 649555, 2965333; 649530, 2965371; 649408, 2965430; 649347, 2965519; 649295, 2965522; 649297, 2965497; 648759, 2965336; 648736, 2965328; 648745, 2965301; 648763, 2965310; 648759, 2965336; 648670, 2965335; 648696, 2965388; 648654, 2965399; 648638, 2965484; 648686, 2965503; 648660, 2965551; 648734, 2965602; 648733, 2965642; 648703, 2965665; 648697, 2965621; 648655, 2965586; 648602, 2965657; 648547, 2965660; 648521, 2965638; 648531, 2965620; 648514, 2965590; 648458, 2965545; 648463, 2965520; 648498, 2965477; 648528, 2965470; 648543, 2965398; 648602, 2965371; 648624, 2965308; 648670, 2965335; 648438, 2965656; 648411, 2965623; 648336, 2965614; 648302, 2965642; 648344, 2965651; 648352, 2965670; 648310, 2965678; 648307, 2965716; 648180, 2965657; 648168, 2965632; 648199, 2965597; 648264, 2965581; 648347, 2965584; 648356, 2965552; 648393, 2965538; 648448, 2965585; 648438, 2965656; 647792, 2965614; 647782, 2965677; 647725, 2965637; 647743, 2965610; 647792, 2965614; 647914, 2965620; 647973, 2965624; 647991, 2965645; 647966, 2965671; 647902, 2965696; 647858, 2965655; 647914, 2965620; 648685, 2965436; 648720, 2965451; 648727, 2965483; 648692, 2965477; 648676, 2965454; 648685, 2965436; 649196, 2965372; 649235, 2965385; 649219, 2965416; 649166, 2965407; 649196, 2965372; 649460, 2965234; 649450, 2965207; 649501, 2965211; 649551, 2965267; 649551, 2965288; 649460, 2965234; 649765, 2965212; 649784, 2965177; 649760, 2965153; 649704, 2965175; 649535, 2965143; 649534, 2965072; 649587, 2965064; 649609, 2965036; 649650, 2965028; 649655, 2965003; 649506, 2964998; 649484, 2964979; 649474, 2964934; 649569, 2964906; 649648, 2964917; 649718, 2964947; 649796, 2965015; 649823, 2965016; 649865, 2964969; 649787, 2964908; 649783, 2964894; 649800, 2964889; 649903, 2964923; 649962, 2964963; 649992, 2965005; 650035, 2964961; 650029, 2964925; 649808, 2964793; 649768, 2964795; 649730, 2964833; 649710, 2964832; 649703, 2964768

649761, 2964727; 649812, 2964727; 649865, 2964747; 649887, 2964778; 649903, 2964663; 649927, 2964629; 649974, 2964601; 650019, 2964600; 650109, 2964697; 650111, 2964783; 650091, 2964798; 649977, 2964761; 649980, 2964802; 649951, 2964805; 649943, 2964826; 650086, 2964854; 650099, 2964893; 650069, 2964992; 650029, 2965065; 649906, 2965181; 649800, 2965248; 649769, 2965240; 649765, 2965212; 650499, 2965136; 650546, 2965151; 650608, 2965146; 650623, 2965178; 650577, 2965203; 650503, 2965168; 650489, 2965151; 650499, 2965136; 650650, 2965149; 650658, 2965104; 650712, 2965069; 650758, 2965002; 650789, 2965014; 650715, 2965124; 650666, 2965168; 650650, 2965149; 650636, 2965054; 650591, 2965057; 650504, 2965013; 650535, 2964975; 650538, 2964938; 650566, 2964932; 650600, 2964966; 650639, 2964940; 650627, 2964916; 650636, 2964905; 650709, 2964923; 650726, 2964959; 650687, 2964972; 650636, 2965054; 650364, 2964927; 650330, 2964968; 650344, 2964983; 650334, 2964997; 650271, 2965007; 650281, 2964934; 650310, 2964924; 650283, 2964870; 650313, 2964845; 650327, 2964779; 650389, 2964789; 650424, 2964699; 650554, 2964708; 650577, 2964682; 650566, 2964637; 650651, 2964637; 650668, 2964625; 650664, 2964608; 650607, 2964540; 650513, 2964497; 650456, 2964490; 650418, 2964506; 650391, 2964543; 650393, 2964572; 650453, 2964631; 650450, 2964656; 650327, 2964612; 650218, 2964655; 650213, 2964626; 650256, 2964554; 650373, 2964491; 650480, 2964467; 650653, 2964533; 650711, 2964628; 650780, 2964789; 650765, 2964837; 650711, 2964844; 650614, 2964766; 650649, 2964750; 650678, 2964775; 650695, 2964767; 650685, 2964731; 650698, 2964701; 650651, 2964689; 650589, 2964725; 650499, 2964741; 650475, 2964759; 650416, 2964899; 650364, 2964927; 650018, 2964556; 649958, 2964529; 649891, 2964542; 649805, 2964514; 649997, 2964434; 650041, 2964437; 650062, 2964457; 650055, 2964476; 649994, 2964505; 649997, 2964522; 650032, 2964527; 650018, 2964556; 649257, 2964488; 649180, 2964432; 649210, 2964378; 649244, 2964385; 649284, 2964420; 649257, 2964488; 649024, 2964421; 648980, 2964414; 648971, 2964393; 648995, 2964375; 649018, 2964380; 649033, 2964401; 649024, 2964421; 649215, 2964526; 649216, 2964563; 649176, 2964541; 649174, 2964522; 649186, 2964510; 649215, 2964526; 649694, 2964543; 649742, 2964556; 649785, 2964590; 649814, 2964647; 649810, 2964681; 649666, 2964677; 649670, 2964626; 649722, 2964601; 649675, 2964568; 649694, 2964543; 649564, 2964680; 649617, 2964773; 649613, 2964806; 649507, 2964787; 649424, 2964805; 649380, 2964765; 649335, 2964751; 649371, 2964699; 649449, 2964647; 649493, 2964645; 649564, 2964680; 648854, 2964708; 648811, 2964709; 648783, 2964675; 648855, 2964674; 648854, 2964708; 648737, 2964725; 648766, 2964787; 648761, 2964803; 648738, 2964798; 648725, 2964774; 648721, 2964725; 648737, 2964725; 649056, 2964803; 649088, 2964813; 649116, 2964786; 649128, 2964810; 649107, 2964833; 649124, 2964855; 649201, 2964861; 649236, 2964880; 649243, 2964946; 649228, 2965005; 649206, 2965019; 649192, 2965006; 649209, 2964938; 649190, 2964905; 649072, 2964883; 649064, 2964845; 649047, 2964832; 649056, 2964803; 649309, 2964984; 649333, 2964988; 649321, 2965050; 649293, 2965036; 649309, 2964984; 649198, 2964794; 649193, 2964766; 649232, 2964743; 649244, 2964766; 649236, 2964802; 649198, 2964794; 650449, 2964538; 650537, 2964552; 650541, 2964569; 650512, 2964590; 650452, 2964566; 650449, 2964538; 650342, 2964697; 650297, 2964713; 650296, 2964667; 650342, 2964667; 650342, 2964697; 650450, 2965004; 650546, 2965077; 650421, 2965072; 650432, 2965019; 650450, 2965004; 649052, 2964363; 649018, 2964348; 648984, 2964354; 648983, 2964284; 649006, 2964281; 649059, 2964313; 649067, 2964346; 649052, 2964363; 650263, 2964333; 650308, 2964307; 650315, 2964281; 650243, 2964285; 650224, 2964265; 650227, 2964234; 650310, 2964233; 650346, 2964202; 650324, 2964183; 650247, 2964186; 650243, 2964161; 650299, 2964142; 650353, 2964152; 650398, 2964134; 650454, 2964158; 650467, 2964113; 650366, 2964045; 650291, 2964029; 650245, 2964042; 650220, 2964073; 650176, 2964064; 650162, 2964135; 650125, 2964146; 650111, 2964124; 650144, 2964059; 650209, 2964000; 650312, 2963977; 650369, 2963987; 650414, 2964012; 650506, 2964105; 650496, 2964151; 650419, 2964194; 650388, 2964256; 650476, 2964230; 650516, 2964200; 650588, 2964098; 650618, 2964006; 650637, 2963801; 650680, 2963621; 650696, 2963607; 650702, 2963644; 650626, 2964057; 650563, 2964179; 650487, 2964251; 650269, 2964364; 650263, 2964333; 650450, 2963604; 650403, 2963584; 650411, 2963561; 650443, 2963564; 650450, 2963604; 650608, 2963584; 650564, 2963569; 650506, 2963582; 650488, 2963567; 650478, 2963503; 650523, 2963472; 650526, 2963432; 650490, 2963395; 650438, 2963390; 650433, 2963357; 650472, 2963343; 650518, 2963359; 650600, 2963441; 650658, 2963539; 650648, 2963602; 650608, 2963584; 649818, 2963341; 649827, 2963355; 649799, 2963367; 649729, 2963350; 649694, 2963365; 649679, 2963410; 649715, 2963463; 649704, 2963480; 649604, 2963487; 649581, 2963511; 649539, 2963476; 649554, 2963456; 649591, 2963466; 649609, 2963416; 649659, 2963440; 649662, 2963415; 649621, 2963358; 649624, 2963323; 649670, 2963278; 649725, 2963275; 649760, 2963185; 649772, 2963253; 649856, 2963238; 649892, 2963267; 649873, 2963306; 649783, 2963302; 649781, 2963325; 649818, 2963341; 650071, 2963311; 650045, 2963288; 650056, 2963262; 650138, 2963252; 650148, 2963263; 650146, 2963285; 650071, 2963311; 650213, 2963262; 650164, 2963205; 650182, 2963172; 650267, 2963167; 650358, 2963228; 650346, 2963258; 650267, 2963238; 650239, 2963263; 650213, 2963262; 650434, 2963212; 650498, 2963164; 650543, 2963182; 650529, 2963222; 650449, 2963253; 650422, 2963246; 650434, 2963212; 650394, 2963191; 650356, 2963184; 650345, 2963162; 650403, 2963163; 650394, 2963191; 649948, 2963154; 649981, 2963172; 650071, 2963183; 650075, 2963198; 650063, 2963214; 649969, 2963205; 649934, 2963219; 649889, 2963147; 649871, 2963190; 649852, 2963198; 649805, 2963189; 649792, 2963147; 649824, 2963152; 649837, 2963136; 649830, 2963096; 649851, 2963092; 649948, 2963154; 650041, 2963100; 649943, 2963063; 649929, 2963044; 649945, 2963032; 650075, 2963070; 650102, 2963092; 650108, 2963137; 650093, 2963149; 650041, 2963100; 650805, 2963057; 650750, 2963029; 650707, 2963029; 650688, 2962996; 650700, 2962980; 650845, 2962980; 650841, 2963037; 650822, 2963060; 650805, 2963057; 650574, 2962957; 650596, 2962998; 650641, 2963029; 650631, 2963051; 650601, 2963051; 650566, 2963025; 650541, 2962957; 650486, 2962925; 650454, 2962874; 650403, 2962845; 650417, 2962825; 650474, 2962827; 650512, 2962802; 650566, 2962698; 650587, 2962685; 650603, 2962719; 650597, 2962760; 650526, 2962867; 650565, 2962913; 650574, 2962957; 650647, 2962704; 650675, 2962630; 650842, 2962899; 650828, 2962931; 650716, 2962942; 650613, 2962871; 650604, 2962843; 650647, 2962704; 650415, 2962980; 650389, 2962970; 650397, 2962947; 650458, 2962941; 650460, 2962953; 650415, 2962980; 650230, 2962965; 650159, 2962973; 650113, 2963032; 650082, 2963019; 650159, 2962942; 650211, 2962940; 650230, 2962965; 650217, 2963005; 650327, 2963010; 650310, 2963039; 650280, 2963049; 650195, 2963033; 650217, 2963005; 649704, 2963181; 649717, 2963190; 649712, 2963207; 649573, 2963325; 649567, 2963391; 649550, 2963397; 649529, 2963378; 649544, 2963305; 649519, 2963292; 649514, 2963266; 649579, 2963272; 649678, 2963186; 649704, 2963181; 649907, 2963468; 649835, 2963448; 649830, 2963434; 649879, 2963417; 649947, 2963422; 649923, 2963382; 649944, 2963344; 649970, 2963350; 650016, 2963402; 650020, 2963430; 649986, 2963468; 649907, 2963468; 650285, 2963351; 650329, 2963372; 650338, 2963436; 650245, 2963380; 650285, 2963351; 649743, 2963397; 649771, 2963427; 649772, 2963457; 649759, 2963464; 649718, 2963407; 649719, 2963393; 649743, 2963397; 650196, 2963541; 650205, 2963575; 650139, 2963623; 650146, 2963540; 650172, 2963529; 650196, 2963541; 649632, 2963595; 649697, 2963618; 649672, 2963668; 649642, 2963667; 649620, 2963637; 649608, 2963603; 649632, 2963595; 649939, 2963623; 650026, 2963606; 650089, 2963633; 650092, 2963659; 650075, 2963673; 650021, 2963670; 649967, 2963711; 649928, 2963721; 649897, 2963702; 649898, 2963675; 649939, 2963623; 649567, 2963716; 649604, 2963729; 649658, 2963721; 649657, 2963787; 649636, 2963794; 649601, 2963778; 649575, 2963796; 649516, 2963750; 649526, 2963712; 649567, 2963716; 650125, 2963815; 650157, 2963778; 650204, 2963774; 650228, 2963811; 650231, 2963891; 650154, 2963945; 650130, 2963891; 650125, 2963815; 649536, 2963813; 649586, 2963840; 649581, 2963885; 649521, 2963846; 649517, 2963819; 649536, 2963813; 649370, 2963841; 649354, 2963857; 649336, 2963824; 649363, 2963813; 649370, 2963841; 649391, 2963856; 649457, 2963854; 649557, 2963921; 649678, 2963951; 649721, 2963998; 649735, 2964066; 649726, 2964103; 649676, 2964104; 649561, 2964039; 649554, 2964016; 649566, 2964009; 649659, 2964048; 649680, 2964040; 649645, 2964001; 649554, 2963977; 649467, 2963915; 649402, 2963896; 649391, 2963856; 649022, 2963898; 649021, 2963916; 648984, 2963899; 648943, 2963915; 648891, 2963867; 648832, 2963852; 648825, 2963826; 648969, 2963810; 649022, 2963898; 648769, 2963901; 648749, 2963912; 648708, 2963847; 648665, 2963815; 648699, 2963795; 648765, 2963801; 648778, 2963811; 648769, 2963901; 649076, 2963949; 649105, 2963966; 649206, 2963982; 649216, 2964012; 649192, 2964029; 649212, 2964065; 649129, 2964034; 649033, 2963973; 649045, 2963953; 649076, 2963949; 649115, 2964061; 649124, 2964081; 649103, 2964104; 649108, 2964123; 649158, 2964115; 649155, 2964090; 649167, 2964084; 649185, 2964108; 649195, 2964162; 649144, 2964249; 649076, 2964279; 649049, 2964244; 649018, 2964231; 648879, 2964239; 648872, 2964206; 648898, 2964161; 648896, 2964123; 648911, 2964114; 648944, 2964131; 648968, 2964106; 648965, 2964082; 648928, 2964086; 648919, 2964072; 648983, 2963992; 649090, 2964030; 649115, 2964061; 649321, 2964238; 649339, 2964236; 649377, 2964278; 649345, 2964276; 649321, 2964238; 649533, 2964273; 649563, 2964220; 649584, 2964235; 649635, 2964234; 649655, 2964270; 649561, 2964321; 649536, 2964310; 649533, 2964273; 649427, 2964240; 649396, 2964214; 649450, 2964206; 649451, 2964221; 649427, 2964240; 649721, 2964212; 649672, 2964162; 649678, 2964135; 649740, 2964162; 649739, 2964203; 649721, 2964212; 649426, 2964178; 649379, 2964189; 649319, 2964159; 649288, 2964118; 649316, 2964099; 649366, 2964135; 649385, 2964090; 649446, 2964104; 649436, 2964131; 649472, 2964149; 649454, 2964176; 649426, 2964178; 649349, 2964080; 649318, 2964045; 649274, 2964051; 649257, 2964033; 649257, 2963996; 649276, 2963967; 649339, 2963981; 649376, 2964030; 649483, 2964036; 649468, 2964060; 649349, 2964080; 649849, 2964031; 649865, 2964032; 649866, 2964063; 649838, 2964097; 649822, 2964069; 649849, 2964031; 650511, 2963961; 650552, 2963969; 650554, 2963934; 650522, 2963886; 650561, 2963885; 650558, 2963868; 650448, 2963810; 650413, 2963735; 650337, 2963692; 650348, 2963669; 650390, 2963648; 650444, 2963656; 650581, 2963755; 650608, 2963853; 650573, 2964072; 650523, 2964029; 650505, 2963988; 650511, 2963961; 649891, 2963902; 649851, 2963871; 649877, 2963845; 649966, 2963821; 650060, 2963835; 650083, 2963855; 650082, 2963891; 650048, 2963928; 649959, 2963937; 649891, 2963902; 649850, 2962784; 649885, 2962795; 649883, 2962822; 649803, 2962820; 649815, 2962794; 649850, 2962784; 650628, 2962358; 650595, 2962237; 650640, 2962280; 650650, 2962251; 650633, 2962211; 650582, 2962169; 650581, 2962145; 650650, 2962179; 650695, 2962252; 650761, 2962307; 650727, 2962355; 650628, 2962358; 651007, 2962196; 651009, 2962109; 651042, 2962137; 651037, 2962191; 650994, 2962276; 650954, 2962295; 650942, 2962262; 650989, 2962228; 651007, 2962196; 651058, 2962119; 651053, 2962060; 651041, 2962047; 651023, 2962073; 651004, 2962072; 650959, 2962016; 650969, 2961999; 651016, 2962006; 651033, 2961989; 651089, 2962033; 651097, 2961981; 651068, 2961970; 651073, 2961944; 651145, 2961894; 651186, 2961643; 651202, 2961599; 651249, 2961585; 651258, 2961614; 651241, 2961784; 651251, 2961901; 651220, 2962041; 651191, 2962066; 651189, 2962000; 651172, 2961984; 651147, 2962040; 651072, 2962137; 651058, 2962119; 651086, 2961324; 651126, 2961328; 651133, 2961359; 651075, 2961391; 651070, 2961354; 651086, 2961324; 651199, 2961326; 651222, 2961300; 651283, 2961302; 651305, 2961283; 651325, 2961202; 651316, 2961123; 651333, 2961119; 651382, 2961174; 651388, 2961204; 651383, 2961226; 651349, 2961245; 651327, 2961315; 651313, 2961332; 651250, 2961336; 651215, 2961367; 651192, 2961355; 651199, 2961326; 651278, 2961271; 651236, 2961232; 651236, 2961199; 651271, 2961191; 651290, 2961211; 651291, 2961250; 651278, 2961271; 651083, 2961267; 651066, 2961290; 651051, 2961261; 651070, 2961247; 651083, 2961267; 651531, 2960725; 651596, 2960685; 651620, 2960698; 651605, 2960745; 651569, 2960777; 651530, 2960773; 651531, 2960725; 651252, 2960700; 651244, 2960743; 651223, 2960757; 651190, 2960737; 651174, 2960700; 651252, 2960700; 651441, 2960533; 651474, 2960533; 651471, 2960560; 651448, 2960588; 651421, 2960588; 651441, 2960533; 651678, 2960574; 651653, 2960553; 651656, 2960505; 651503, 2960497; 651397, 2960515; 651329, 2960493; 651310, 2960471; 651319, 2960408; 651308, 2960374; 651418, 2960385; 651462, 2960358; 651678, 2960384; 651738, 2960411; 651786, 2960465; 651803, 2960525; 651796, 2960557; 651678, 2960574; 651558, 2960567; 651520, 2960562; 651518, 2960548; 651545, 2960522; 651598, 2960529; 651589, 2960555; 651558, 2960567; 651881, 2959896; 651785, 2959890; 651757, 2959862; 651843, 2959804; 651903, 2959857; 651901, 2959887; 651881, 2959896; 651497, 2959735; 651466, 2959738; 651476, 2959689; 651530, 2959678; 651524, 2959720; 651497, 2959735; 651758, 2959653; 651712, 2959628; 651668, 2959633; 651656, 2959599; 651695, 2959583; 651729, 2959535; 651741, 2959536; 651741, 2959570; 651761, 2959571; 651843, 2959529; 651869, 2959540; 651866, 2959576; 651804, 2959584; 651779, 2959604; 651784, 2959620; 651835, 2959627; 651833, 2959641; 651804, 2959662; 651758, 2959653; 651898, 2959626; 651905, 2959594; 651924, 2959599; 651923, 2959648; 651898, 2959626; 650436, 2965438; 650529, 2965494; 650553, 2965585; 650539, 2965591; 650498, 2965563; 650481, 2965519; 650458, 2965504; 650329, 2965504; 650336, 2965467; 650369, 2965431; 650409, 2965423; 650436, 2965438; 650488, 2965579; 650500, 2965619; 650485, 2965637; 650385, 2965688; 650350, 2965686; 650364, 2965656; 650409, 2965629; 650382, 2965587; 650404, 2965582; 650455, 2965607; 650459, 2965573; 650488, 2965579; 650662, 2965462; 650686, 2965477; 650696, 2965510; 650681, 2965560; 650665, 2965559; 650647, 2965516; Thence returning to 650662, 2965462.

Excluding:

Unit TX-3 Subunit E, Kenedy County, Texas. Coordinates are in UTM Zone 14N, North American Datum 1983 (meters E, meters N):

644415, 2971239; 644388, 2971235; 644327, 2971267; 644307, 2971299; 644401, 2971277; Thence returning to 644415, 2971239.

650477, 2971119; 650584, 2970938; 650613, 2970946; 650594, 2970981; 650588, 2971048; 650605, 2971114; 650679, 2971124; 650741, 2971083; 650766, 2971099; 650756, 2971134; 650781, 2971171; 650876, 2971179; 650861, 2971127; 650882, 2971088; 650882, 2971000; 650811, 2970980; 650772, 2970915; 650766, 2970851; 650743, 2970839; 650655, 2970867; 650533, 2970852; 650459, 2970894; 650402, 2970903; 650369, 2970934; 650334, 2971027; 650219, 2971180; 650237, 2971210; 650259, 2971207; 650363, 2971115; 650338, 2971193; 650297, 2971210; 650286, 2971242; 650289, 2971263; 650321, 2971292; 650420, 2971300; 650453, 2971232; Thence returning to 650477, 2971119.

646171, 2970961; 646107, 2970947; 646084, 2970960; 646091, 2970989; 646077, 2970999; 646073, 2971053; 645998, 2971065; 645990, 2971089; 646020, 2971092; 646022, 2971105; 645941, 2971148; 645925, 2971204; 645934, 2971226; 646023, 2971184; 646091, 2971179; 646234, 2971106; 646239, 2971044; 646219, 2971007; Thence returning to 646171, 2970961.

651771, 2971214; 651746, 2971164; 651688, 2971166; 651664, 2971202; 651688, 2971220; 651687, 2971262; 651746, 2971286; 651765, 2971276; Thence returning to 651771, 2971214.

649583, 2971226; 649568, 2971221; 649566, 2971247; 649585, 2971251; Thence returning to 649583, 2971226.

649345, 2971094; 649314, 2971082; 649285, 2971111; 649316, 2971215; 649403, 2971216; 649409, 2971192; 649395, 2971141; Thence returning to 649345, 2971094.

651068, 2970738; 651012, 2970717; 650876, 2970727; 650849, 2970751; 650854, 2970809; 650813, 2970847; 650812, 2970916; 650831, 2970940; 650903, 2970962; 650923, 2971080; 650992, 2971088; 650994, 2971133; 651045, 2971205; 651092, 2971229; 651112, 2971205; 651093, 2970766; Thence returning to 651068, 2970738.

650563, 2971141; 650540, 2971108; 650523, 2971116; 650504, 2971178; 650594, 2971192; 650606, 2971159; Thence returning to 650563, 2971141.

645372, 2970942; 645318, 2970922; 645232, 2970924; 645209, 2970954; 645218, 2970969; 645367, 2971014; 645326, 2971076; 645350, 2971121; 645375, 2971123; 645395, 2971107; 645428, 2971052; 645416, 2970981; Thence returning to 645372, 2970942.

646490, 2970976; 646475, 2970908; 646417, 2970915; 646396, 2970934; 646403, 2970956; 646349, 2970968; 646318, 2971023; 646331, 2971133; 646406, 2971118; 646482, 2971067; Thence returning to 646490, 2970976.

650982, 2971143; 650967, 2971137; 650960, 2971163; 650974, 2971173; Thence returning to 650982, 2971143.

644686, 2971024; 644656, 2971007; 644642, 2971030; 644671, 2971051; Thence returning to 644686, 2971024.

647433, 2970972; 647444, 2970905; 647420, 2970835; 647352, 2970768; 647284, 2970650; 647230, 2970635; 647181, 2970657; 647113, 2970764; 647103, 2970811; 647140, 2970805; 647195, 2970835; 647308, 2970787; 647316, 2970802; 647285, 2970854; 647354, 2970851; 647397, 2970886; 647404, 2970918; 647386, 2970932; 647344, 2970930; 647247, 2970903; 647153, 2970921; 647056, 2971005; 647043, 2971047; 647053, 2971061; 647241, 2971041; 647413, 2970987; Thence returning to 647433, 2970972.

650044, 2971024; 650021, 2971008; 649985, 2971023; 649889, 2971009; 649865, 2971053; 649886, 2971069; 650026, 2971044; Thence returning to 650044, 2971024.

644757, 2970819; 644716, 2970798; 644672, 2970799; 644589, 2970877; 644581, 2970927; 644612, 2970956; 644737, 2970992; 644766, 2970963; 644792, 2970898; 644785, 2970852; Thence returning to 644757, 2970819.

651454, 2970826; 651378, 2970814; 651330, 2970833; 651308, 2970901; 651312, 2970947; 651348, 2970985; 651366, 2971044; 651379, 2971046; 651448, 2970932; 651468, 2970851; Thence returning to 651454, 2970826.

649444, 2970987; 649427, 2970985; 649422, 2971016; 649439, 2971018; Thence returning to 649444, 2970987.

649531, 2970913; 649531, 2970896; 649503, 2970875; 649418, 2970852; 649386, 2970863; 649414, 2970883; 649409, 2970903; 649361, 2970898; 649293, 2970929; 649254, 2970996; 649343, 2970994; 649433, 2970944; Thence returning to 649531, 2970913.

647678, 2970776; 647643, 2970775; 647589, 2970816; 647593, 2970835; 647626, 2970841; 647618, 2970868; 647558, 2970877; 647528, 2970902; 647517, 2970947; 647529, 2970971; 647647, 2970926; 647663, 2970903; Thence returning to 647678, 2970776.

649056, 2970826; 649012, 2970794; 648968, 2970824; 648947, 2970867; 648962, 2970920; 648996, 2970946; 649058, 2970882; Thence returning to 649056, 2970826.

648622, 2970799; 648602, 2970752; 648560, 2970766; 648477, 2970862; 648487, 2970884; 648549, 2970886; 648562, 2970934; 648588, 2970916; 648616, 2970842; Thence returning to 648622, 2970799.

646245, 2970775; 646219, 2970721; 646190, 2970734; 646154, 2970788; 646126, 2970840; 646125, 2970888; 646280, 2970906; 646290, 2970888; 646274, 2970829; 646202, 2970822; Thence returning to 646245, 2970775.

648262, 2970838; 648370, 2970747; 648402, 2970685; 648410, 2970630; 648398, 2970575; 648375, 2970544; 648305, 2970512; 648240, 2970519; 648212, 2970532; 648225, 2970557; 648168, 2970589; 648072, 2970575; 648008, 2970586; 647932, 2970650; 647852, 2970614; 647819, 2970618; 647799, 2970639; 647813, 2970670; 647956, 2970720; 647957, 2970732; 647932, 2970740; 647838, 2970724; 647723, 2970667; 647547, 2970642; 647509, 2970643; 647461, 2970672; 647474, 2970687; 647518, 2970669; 647550, 2970712; 647588, 2970732; 647675, 2970730; 647859, 2970796; 647910, 2970787; 647901, 2970817; 647825, 2970828; 647791, 2970857; 647785, 2970885; 647808, 2970924; 648050, 2970902; 648144, 2970878; Thence returning to 648262, 2970838.

649656, 2970864; 649645, 2970842; 649588, 2970868; 649591, 2970925; 649641, 2970898; Thence returning to 649656, 2970864.

646511, 2970865; 646511, 2970794; 646468, 2970711; 646428, 2970709; 646404, 2970735; 646451, 2970808; 646481, 2970817; 646475, 2970839; 646389, 2970828; 646368, 2970843; 646380, 2970880; Thence returning to 646511, 2970865.

647187, 2970858; 647162, 2970856; 647163, 2970885; 647183, 2970877; Thence returning to 647187, 2970858.

645356, 2970829; 645327, 2970827; 645314, 2970857; 645365, 2970855; Thence returning to 645356, 2970829.

650026, 2970705; 649995, 2970695; 649901, 2970759; 649764, 2970811; 649739, 2970864; 649748, 2970878; 649823, 2970865; 649933, 2970818; Thence returning to 650026, 2970705.

650123, 2970802; 650081, 2970792; 650068, 2970817; 650072, 2970853; 650094, 2970874; 650142, 2970823; Thence returning to 650123, 2970802.

644097, 2970731; 644083, 2970730; 644060, 2970775; 644087, 2970781; 644101, 2970758; Thence returning to 644097, 2970731.

646361, 2970776; 646343, 2970775; 646330, 2970797; 646351, 2970801; Thence returning to 646361, 2970776.

645779, 2970697; 645772, 2970681; 645691, 2970720; 645666, 2970776; 645681, 2970780; Thence returning to 645779, 2970697.

649525, 2970737; 649494, 2970718; 649459, 2970732; 649481, 2970755; 649488, 2970805; 649542, 2970793; Thence returning to 649525, 2970737.

646358, 2970733; 646353, 2970715; 646314, 2970726; 646323, 2970749; 646337, 2970748; Thence returning to 646358, 2970733.

649714, 2970655; 649805, 2970616; 649899, 2970626; 649948, 2970523; 649959, 2970593; 650022, 2970612; 650162, 2970564; 650242, 2970589; 650292, 2970645; 650261, 2970652; 650280, 2970687; 650215, 2970697; 650175, 2970748; 650249, 2970738; 650359, 2970687; 650402, 2970586; 650408, 2970508; 650393, 2970455; 650368, 2970420; 650314, 2970394; 650224, 2970398; 649960, 2970476; 649771, 2970498; 649699, 2970537; 649570, 2970571; 649500, 2970652; 649535, 2970666; 649644, 2970636; 649599, 2970677; 649578, 2970727; 649598, 2970745; 649636, 2970743; 649678, 2970725; Thence returning to 649714, 2970655.

646668, 2970618; 646677, 2970437; 646669, 2970398; 646646, 2970372; 646628, 2970376; 646608, 2970406; 646545, 2970411; 646521, 2970428; 646530, 2970447; 646619, 2970485; 646629, 2970519; 646616, 2970549; 646528, 2970526; 646496, 2970556; 646555, 2970599; 646613, 2970666; 646638, 2970677; 646652, 2970665; Thence returning to 646668, 2970618.

646170, 2970662; 646336, 2970624; 646411, 2970659; 646434, 2970650; 646392, 2970590; 646293, 2970571; 646207, 2970591; 646176, 2970625; Thence returning to 646170, 2970662.

643788, 2970608; 643742, 2970579; 643762, 2970624; 643784, 2970628; Thence returning to 643788, 2970608.

650224, 2970668; 650212, 2970649; 650200, 2970664; 650205, 2970681; Thence returning to 650224, 2970668.

650178, 2970599; 650155, 2970591; 650062, 2970639; 650067, 2970659; 650084, 2970658; 650166, 2970629; Thence returning to 650178, 2970599.

644019, 2970509; 644032, 2970449; 643986, 2970370; 643911, 2970344; 643796, 2970388; 643760, 2970419; 643754, 2970444; 643845, 2970489; 643843, 2970555; 643901, 2970504; 643962, 2970490; 643972, 2970513; 643945, 2970557; 643969, 2970561; Thence returning to 644019, 2970509.

643687, 2970434; 643586, 2970295; 643523, 2970269; 643503, 2970284; 643501, 2970319; 643481, 2970322; 643397, 2970249; 643364, 2970249; 643361, 2970266; 643431, 2970357; 643551, 2970409; 643664, 2970547; 643688, 2970546; 643701, 2970509; Thence returning to 643687, 2970434.

650639, 2970615; 650734, 2970569; 650791, 2970615; 650850, 2970622; 650932, 2970578; 650971, 2970504; 650955, 2970356; 650869, 2970286; 650829, 2970272; 650696, 2970273; 650602, 2970336; 650570, 2970402; 650553, 2970577; 650566, 2970621; Thence returning to 650639, 2970615.

645673, 2970468; 645634, 2970462; 645552, 2970519; 645529, 2970559; 645603, 2970515; 645663, 2970493; Thence returning to 645673, 2970468.

647913, 2970483; 647797, 2970449; 647631, 2970510; 647608, 2970538; 647717, 2970544; 647747, 2970568; 647790, 2970562; 647926, 2970531; 647936, 2970508; Thence returning to 647913, 2970483.

647304, 2969798; 647314, 2969748; 647337, 2969773; 647348, 2969821; 647368, 2970199; 647350, 2970279; 647341, 2970509; 647452, 2970436; 647485, 2970373; 647453, 2970324; 647478, 2970269; 647477, 2970233; 647445, 2970175; 647476, 2970097; 647470, 2970013; 647515, 2969962; 647516, 2969907; 647503, 2969881; 647461, 2969876; 647458, 2969863; 647515, 2969797; 647529, 2969724; 647564, 2969694; 647554, 2969636; 647715, 2969628; 647721, 2969601; 648228, 2969609; 648256, 2969644; 648294, 2969642; 648370, 2969685; 648409, 2969682; 648445, 2969649; 648485, 2969575; 648497, 2969535; 648483, 2969446; 648448, 2969423; 648339, 2969433; 648285, 2969405; 648224, 2969424; 647998, 2969390; 647402, 2969380; 647201, 2969397; 647068, 2969428; 646994, 2969463; 646969, 2969488; 646948, 2969546; 646955, 2969593; 646933, 2969725; 646943, 2969771; 646996, 2969766; 646995, 2969653; 647005, 2969637; 647187, 2969637; 647219, 2969673; 647227, 2970305; 647183, 2970339; 647173, 2970387; 647201, 2970461; 647205, 2970525; 647241, 2970553; 647266, 2970551; 647295, 2970514; 647268, 2970401; 647291, 2970124; 647338, 2970095; 647332, 2969940; Thence returning to 647304, 2969798.

646307, 2970487; 646328, 2970426; 646428, 2970408; 646452, 2970364; 646611, 2970321; 646624, 2970287; 646614, 2970269; 646579, 2970262; 646481, 2970300; 646408, 2970354; 646291, 2970403; 646257, 2970465; 646286, 2970462; Thence returning to 646307, 2970487.

649036, 2970419; 649027, 2970350; 648940, 2970376; 648907, 2970435; 648924, 2970465; 648942, 2970499; 649006, 2970495; Thence returning to 649036, 2970419.

643306, 2970243; 643287, 2970238; 643273, 2970252; 643297, 2970322; 643360, 2970346; 643360, 2970321; Thence returning to 643306, 2970243.

649479, 2970379; 649473, 2970359; 649460, 2970359; 649455, 2970392; Thence returning to 649479, 2970379

649374, 2970371; 649582, 2970246; 649604, 2970290; 649654, 2970284; 649695, 2970332; 649731, 2970330; 649781, 2970289; 649805, 2970248; 649806, 2970187; 649756, 2970146; 649646, 2970138; 649532, 2970176; 649478, 2970212; 649410, 2970294; Thence returning to 649374, 2970371.

649584, 2970340; 649569, 2970322; 649558, 2970337; 649564, 2970351; Thence returning to 649584, 2970340.

643470, 2970059; 643447, 2970054; 643364, 2970087; 643373, 2970115; 643463, 2970166; 643481, 2970149; 643488, 2970103; Thence returning to 643470, 2970059.

643644, 2970048; 643613, 2970041; 643559, 2970089; 643568, 2970114; 643608, 2970112; 643658, 2970087; Thence returning to 643644, 2970048

643270, 2969972; 643282, 2969962; 643371, 2970012; 643371, 2969983; 643347, 2969952; 643295, 2969916; 643192, 2969879; 643048, 2969860; 642987, 2969888; 643010, 2969908; 643089, 2969901; 643180, 2969929; 643284, 2970026; 643293, 2970007; Thence returning to 643270, 2969972.

649441, 2969975; 649383, 2969956; 649340, 2969968; 649314, 2970023; 649358, 2970076; 649422, 2970078; 649446, 2970043; Thence returning to 649441, 2969975.

649814, 2969966; 649726, 2969962; 649680, 2969986; 649672, 2970040; 649689, 2970069; 649804, 2970049; 649835, 2970011; 649836, 2969990; Thence returning to 649814, 2969966.

649768, 2969742; 649824, 2969592; 649814, 2969523; 649778, 2969548; 649743, 2969604; 649724, 2969592; 649720, 2969531; 649696, 2969517; 649627, 2969599; 649618, 2969521; 649586, 2969504; 649557, 2969528; 649515, 2969619; 649514, 2969519; 649491, 2969491; 649418, 2969493; 649349, 2969462; 649117, 2969436; 649065, 2969438; 649058, 2969476; 649026, 2969417; 648668, 2969397; 648619, 2969403; 648600, 2969425; 648541, 2969551; 648520, 2969651; 648518, 2969682; 648530, 2969689; 648680, 2969673; 648807, 2969696; 648910, 2969686; 648981, 2969636; 648998, 2969639; 649047, 2969707; 649177, 2969725; 649434, 2969721; 649505, 2969678; 649545, 2969705; 649588, 2969709; 649577, 2969745; 649580, 2969767; 649549, 2969803; 649538, 2969843; 649552, 2969890; 649620, 2969795; Thence returning to 649768, 2969742.

646913, 2969549; 646890, 2969546; 646825, 2969566; 646808, 2969600; 646815, 2969711; 646835, 2969762; 646904, 2969820; 646915, 2969804; 646902, 2969658; Thence returning to 646913, 2969549.

650210, 2969714; 650185, 2969704; 650140, 2969711; 650139, 2969735; 650204, 2969732; Thence returning to 650210, 2969714.

651802, 2969718; 651763, 2969697; 650650, 2969704; 651602, 2969729; 651781, 2969746; Thence returning to 651802, 2969718.

650579, 2969730; 650608, 2969708; 650557, 2969716; Thence returning to 650579, 2969730.

650485, 2969701; 650427, 2969700; 650405, 2969700; 650409, 2969727; 650493, 2969719; Thence returning to 650485, 2969701.

643655, 2969499; 643627, 2969493; 643620, 2969532; 643660, 2969605; 643678, 2969585; Thence returning to 643655, 2969499.

643946, 2969337; 643901, 2969312; 643875, 2969344; 643897, 2969405; 643941, 2969427; 643968, 2969410; Thence returning to 643946, 2969337.

643707, 2969395; 643789, 2969329; 643788, 2969288; 643734, 2969271; 643718, 2969283; 643752, 2969314; 643737, 2969331; 643701, 2969326; 643674, 2969412; Thence returning to 643707, 2969395.

643540, 2969349; 643562, 2969328; 643623, 2969334; 643632, 2969317; 643550, 2969236; 643501, 2969220; 643502, 2969259; 643531, 2969297; 643490, 2969302; 643490, 2969326; Thence returning to 643540, 2969349.

643660, 2969189; 643659, 2969165; 643629, 2969182; 643631, 2969201; Thence returning to 643660, 2969189.

643809, 2968991; 643785, 2968976; 643721, 2968992; 643699, 2969024; 643761, 2969025; 643776, 2969043; 643766, 2969064; 643776, 2969087; 643743, 2969125; 643840, 2969192; 643858, 2969189; 643860, 2969171; 643824, 2969104; Thence returning to 643809, 2968991.

643727, 2969165; 643712, 2969159; 643702, 2969182; 643721, 2969186; Thence returning to 643727, 2969165.

643922, 2969117; 643858, 2969062; 643863, 2969123; 643902, 2969172; 643932, 2969180; 643942, 2969160; Thence returning to 643922, 2969117.

643714, 2969096; 643692, 2969086; 643676, 2969124; 643687, 2969147; 643711, 2969126; Thence returning to 643714, 2969096.

643570, 2968935; 643561, 2968915; 643462, 2968926; 643434, 2968945; 643451, 2968964; 643514, 2968973; 643482, 2969042; 643522, 2969063; 643526, 2969087; 643468, 2969109; 643479, 2969135; 643542, 2969136; 643562, 2969117; Thence returning to 643570, 2968935.

645645, 2968977; 645627, 2968969; 645498, 2969088; 645496, 2969110; 645515, 2969130; 645601, 2969086; 645645, 2969006; Thence returning to 645645, 2968977.

644114, 2968891; 644069, 2968883; 643999, 2968921; 644015, 2968943; 644091, 2968944; 644066, 2969036; 644083, 2969053; 644106, 2969049; 644137, 2968965; Thence returning to 644114, 2968891.

643926, 2968939; 643884, 2968916; 643848, 2968956; 643914, 2968974; Thence returning to 643926, 2968939.

643952, 2968853; 643905, 2968841; 643898, 2968873; 643945, 2968883; Thence returning to 643952, 2968853.

644560, 2968804; 644459, 2968774; 644411, 2968779; 644382, 2968804; 644381, 2968847; 644443, 2968857; 644498, 2968888; 644567, 2968875; 644576, 2968827; Thence returning to 644560, 2968804.

644696, 2968788; 644619, 2968758; 644615, 2968772; 644655, 2968844; 644693, 2968873; 644720, 2968872; 644731, 2968854; Thence returning to 644696, 2968788.

644077, 2968731; 644029, 2968715; 643989, 2968724; 643957, 2968770; 644020, 2968782; 644075, 2968846; 644110, 2968861; 644124, 2968817; 644105, 2968761; Thence returning to 644077, 2968731.

643770, 2968772; 643733, 2968763; 643727, 2968779; 643799, 2968815; 643808, 2968798; Thence returning to 643770, 2968772.

643822, 2968749; 643782, 2968735; 643825, 2968775; Thence returning to 643822, 2968749.

644308, 2968523; 644265, 2968522; 644224, 2968553; 644210, 2968721; 644224, 2968746; 644248, 2968746; 644280, 2968704; 644323, 2968573; Thence returning to 644308, 2968523.

643757, 2968703; 643738, 2968702; 643744, 2968723; Thence returning to 643757, 2968703.

644040, 2968578; 643967, 2968377; 643938, 2968312; 643908, 2968281; 643872, 2968272; 643832, 2968303; 643824, 2968353; 643835, 2968367; 643904, 2968367; 643946, 2968404; 643949, 2968444; 643885, 2968423; 643878, 2968437; 643901, 2968449; 643860, 2968478; 643875, 2968492; 643914, 2968474; 643941, 2968517; 643959, 2968480; 643971, 2968519; 644001, 2968546; 644002, 2968576; 643964, 2968626; 643992, 2968639; 644030, 2968615; Thence returning to 644040, 2968578.

644753, 2968538; 644730, 2968438; 644762, 2968392; 644674, 2968413; 644570, 2968391; 644525, 2968417; 644519, 2968443; 644530, 2968454; 644625, 2968437; 644684, 2968447; 644671, 2968479; 644593, 2968493; 644603, 2968513; 644656, 2968532; 644714, 2968604; 644743, 2968608; Thence returning to 644753, 2968538.

643945, 2968582; 643934, 2968554; 643878, 2968581; 643889, 2968598; 643931, 2968597; Thence returning to 643945, 2968582.

644160, 2968375; 644129, 2968353; 644106, 2968371; 644079, 2968326; 644049, 2968336; 644074, 2968406; 644171, 2968472; 644216, 2968416; 644210, 2968378; Thence returning to 644160, 2968375.

643807, 2968463; 643833, 2968421; 643813, 2968427; Thence returning to 643807, 2968463.

645219, 2968427; 645272, 2968375; 645234, 2968378; 645196, 2968406; 645196, 2968425; Thence returning to 645219, 2968427.

644914, 2968363; 644967, 2968318; 645087, 2968312; 645126, 2968275; 645128, 2968220; 645097, 2968146; 645093, 2968085; 645031, 2968043; 644935, 2968038; 644880, 2968085; 644731, 2968127; 644587, 2968200; 644575, 2968212; 644585, 2968225; 644637, 2968231; 644534, 2968306; 644556, 2968342; 644654, 2968348; 644732, 2968295; 644767, 2968291; 644827, 2968226; 644936, 2968171; 644936, 2968260; 644885, 2968283; 644878, 2968325; 644828, 2968316; 644809, 2968327; 644817, 2968343; 644872, 2968349; 644891, 2968371; Thence returning to 644914, 2968363.

644774, 2968339; 644746, 2968327; 644739, 2968355; 644761, 2968366; Thence returning to 644774, 2968339.

645443, 2968325; 645426, 2968303; 645377, 2968324; 645373, 2968348; 645427, 2968342; Thence returning to 645443, 2968325.

645921, 2968249; 645905, 2968233; 645859, 2968250; 645775, 2968321; 645797, 2968333; 645897, 2968296; 645921, 2968271; Thence returning to 645921, 2968249

645605, 2968235; 645600, 2968190; 645569, 2968196; 645474, 2968275; 645477, 2968300; 645502, 2968304; Thence returning to 645605, 2968235.

644097, 2968232; 644063, 2968221; 644056, 2968255; 644072, 2968276; 644111, 2968264; Thence returning to 644097, 2968232.

644316, 2968092; 644301, 2968087; 644307, 2968152; 644338, 2968195; 644419, 2968233; 644437, 2968222; 644428, 2968195; 644371, 2968177; 644326, 2968132; Thence returning to 644316, 2968092.

651888, 2968237; 651817, 2968174; 651752, 2968079; 651727, 2968093; 651728, 2968139; 651711, 2968183; 651715, 2968200; 651754, 2968193; 651730, 2968241; 651749, 2968273; 651802, 2968296; 651869, 2968284; 651895, 2968262; Thence returning to 651888, 2968237.

645232, 2968209; 645231, 2968183; 645200, 2968193; 645186, 2968218; Thence returning to 645232, 2968209.

645236, 2968082; 645205, 2968077; 645213, 2968108; 645297, 2968158; 645305, 2968128; Thence returning to 645236, 2968082.

644577, 2968099; 644562, 2968021; 644527, 2968030; 644507, 2968064; 644466, 2968077; 644477, 2968104; 644528, 2968139; 644563, 2968125; Thence returning to 644577, 2968099.

645371, 2968063; 645345, 2968054; 645311, 2968069; 645352, 2968093; Thence returning to 645371, 2968063.

646148, 2967987; 646119, 2967973; 646083, 2967996; 646032, 2968052; 646032, 2968074; 646044, 2968074; 646136, 2968026; Thence returning to 646148, 2967987.

645136, 2967976; 645045, 2967939; 644996, 2967963; 645013, 2967987; 645077, 2968000; 645138, 2968053; 645151, 2968040; 645157, 2968008; Thence returning to 645136, 2967976..

644701, 2967988; 644688, 2967983; 644662, 2967990; 644650, 2968013; 644659, 2968037; 644689, 2968012; Thence returning to 644701, 2967988.

644406, 2968009; 644407, 2967990; 644388, 2967994; 644383, 2968026; Thence returning to 644406, 2968009.

644475, 2967993; 644461, 2967981; 644450, 2968010; 644471, 2968012; Thence returning to 644475, 2967993.

644519, 2967973; 644508, 2967965; 644496, 2967993; 644507, 2968004; Thence returning to 644519, 2967973.

644882, 2967879; 644867, 2967876; 644851, 2967896; 644859, 2967915; 644879, 2967897; Thence returning to 644882, 2967879.

646178, 2967890; 646157, 2967882; 646146, 2967912; 646170, 2967919; Thence returning to 646178, 2967890.

644931, 2967867; 644912, 2967862; 644905, 2967883; 644925, 2967896; Thence returning to 644931, 2967867.

645089, 2967731; 645066, 2967719; 645033, 2967784; 644976, 2967819; 644963, 2967873; 644994, 2967888; 645104, 2967808; 645110, 2967772; Thence returning to 645089, 2967731.

645855, 2967849; 645826, 2967742; 645808, 2967751; 645825, 2967839; 645803, 2967871; 645808, 2967897; 645825, 2967896; Thence returning to 645855, 2967849.

646312, 2967729; 646277, 2967714; 646212, 2967752; 646190, 2967796; 646263, 2967797; 646289, 2967789; Thence returning to 646312, 2967729.

645961, 2967634; 645912, 2967616; 645900, 2967643; 645929, 2967671; 645953, 2967675; Thence returning to 645961, 2967634.

646437, 2967632; 646423, 2967624; 646400, 2967650; 646426, 2967647; Thence returning to 646437, 2967632.

646002, 2967442; 645933, 2967430; 645930, 2967457; 645976, 2967494; 645967, 2967537; 645984, 2967554; 646052, 2967565; 646056, 2967541; Thence returning to 646002, 2967442.

645919, 2967529; 645910, 2967514; 645872, 2967522; 645881, 2967546; 645908, 2967545; Thence returning to 645919, 2967529.

646207, 2967453; 646164, 2967376; 646148, 2967387; 646141, 2967429; 646127, 2967460; 646138, 2967485; Thence returning to 646207, 2967453.

646373, 2967294; 646298, 2967269; 646257, 2967333; 646269, 2967353; 646371, 2967338; 646385, 2967311; Thence returning to 646373, 2967294.

646112, 2967313; 646074, 2967309; 646079, 2967328; 646112, 2967343; Thence returning to 646112, 2967313.

648139, 2966993; 648115, 2966957; 648084, 2966953; 648059, 2966879; 648064, 2966837; 648046, 2966746; 648000, 2966718; 647945, 2966721; 647943, 2966687; 647909, 2966678; 647880, 2966641; 647799, 2966646; 647780, 2966671; 647847, 2966680; 647873, 2966719; 647905, 2966726; 647936, 2966756; 648002, 2966769; 648015, 2966794; 647954, 2966806; 647836, 2966863; 647826, 2966819; 647836, 2966805; 647871, 2966807; 647879, 2966790; 647775, 2966719; 647724, 2966725; 647661, 2966765; 647575, 2966786; 647542, 2966818; 647569, 2966836; 647619, 2966816; 647661, 2966820; 647709, 2966757; 647761, 2966763; 647781, 2966772; 647788, 2966803; 647776, 2966825; 647801, 2966840; 647795, 2966868; 647862, 2966902; 647903, 2966869; 647939, 2966872; 647977, 2966828; 647999, 2966851; 647990, 2966911; 648031, 2966905; 648039, 2966916; 648012, 2966975; 648060, 2966995; 648087, 2966989; 648121, 2967029; 648173, 2967050; 648210, 2967057; 648212, 2967018; 648185, 2966997; Thence returning to 648139, 2966993.

646809, 2966983; 646790, 2966959; 646762, 2966960; 646824, 2967030; Thence returning to 646809, 2966983.

646867, 2966964; 646843, 2966949; 646827, 2966949; 646825, 2966963; 646867, 2966982; Thence returning to 646867, 2966964.

646946, 2966967; 646919, 2966953; 646915, 2966977; 646939, 2966982; Thence returning to 646946, 2966967.

647026, 2966928; 647071, 2966844; 647005, 2966812; 646983, 2966771; 646967, 2966776; 646963, 2966821; 646919, 2966837; 646916, 2966877; 646922, 2966899; 646938, 2966900; 646978, 2966879; 647023, 2966886; 646976, 2966937; 646990, 2966954; Thence returning to 647026, 2966928.

646899, 2966907; 646872, 2966899; 646857, 2966917; 646895, 2966942; Thence returning to 646899, 2966907.

646832, 2966869; 646809, 2966864; 646804, 2966883; 646827, 2966897; Thence returning to 646832, 2966869.

647161, 2966612; 647139, 2966586; 647106, 2966615; 647097, 2966664; 647055, 2966687; 647053, 2966743; 647116, 2966779; 647158, 2966724; 647165, 2966683; Thence returning to 647161, 2966612.

647497, 2966618; 647486, 2966588; 647390, 2966594; 647333, 2966579; 647315, 2966598; 647281, 2966705; 647313, 2966721; 647486, 2966632; Thence returning to 647497, 2966618.

647214, 2966522; 647205, 2966482; 647186, 2966484; 647157, 2966537; 647162, 2966563; 647196, 2966577; Thence returning to 647214, 2966522.

647329, 2966359; 647301, 2966344; 647290, 2966370; 647307, 2966406; 647287, 2966445; 647293, 2966464; 647335, 2966403; Thence returning to 647329, 2966359.

648433, 2965854; 648457, 2965823; 648511, 2965829; 648537, 2965787; 648523, 2965735; 648507, 2965713; 648475, 2965708; 648453, 2965745; 648420, 2965729; 648355, 2965754; 648341, 2965776; 648388, 2965780; 648388, 2965790; 648364, 2965823; 648340, 2965807; 648314, 2965813; 648296, 2965834; 648313, 2965863; 648264, 2965886; 648264, 2965903; 648283, 2965916; Thence returning to 648433, 2965854.

649279, 2965762; 649204, 2965760; 649167, 2965777; 649170, 2965810; 649220, 2965842; 649270, 2965852; 649310, 2965842; 649338, 2965808; 649324, 2965782; Thence returning to 649279, 2965762.

649534, 2965700; 649516, 2965686; 649432, 2965763; 649378, 2965799; 649384, 2965821; 649439, 2965834; 649472, 2965823; 649525, 2965753; Thence returning to 649534, 2965700.

650770, 2965728; 650842, 2965628; 650857, 2965532; 650931, 2965340; 650885, 2965370; 650828, 2965489; 650829, 2965412; 650815, 2965408; 650797, 2965442; 650791, 2965575; 650642, 2965717; 650684, 2965709; 650765, 2965649; 650785, 2965654; 650778, 2965675; 650695, 2965756; 650623, 2965781; 650604, 2965802; 650612, 2965826; 650685, 2965800; Thence returning to 650770, 2965728.

648302, 2965642; 648336, 2965614; 648411, 2965623; 648438, 2965656; 648448, 2965585; 648393, 2965538; 648356, 2965552; 648347, 2965584; 648264, 2965581; 648199, 2965597; 648168, 2965632; 648180, 2965657; 648307, 2965716; 648310, 2965678; 648352, 2965670; 648344, 2965651; Thence returning to 648302, 2965642.

649694, 2965697; 649641, 2965671; 649575, 2965672; 649592, 2965721; 649633, 2965722; 649680, 2965728; Thence returning to 649694, 2965697.

647973, 2965624; 647914, 2965620; 647858, 2965655; 647902, 2965696; 647966, 2965671; 647991, 2965645; Thence returning to 647973, 2965624.

649901, 2965597; 649838, 2965572; 649714, 2965596; 649631, 2965637; 649834, 2965651; 649880, 2965673; 649938, 2965703; 649967, 2965678; 649967, 2965659; Thence returning to 649901, 2965597.

647792, 2965614; 647743, 2965610; 647725, 2965637; 647782, 2965677; Thence returning to 647792, 2965614.

650500, 2965619; 650488, 2965579; 650459, 2965573; 650455, 2965607; 650404, 2965582; 650382, 2965587; 650409, 2965629; 650364, 2965656; 650350, 2965686; 650385, 2965688; 650485, 2965637; Thence returning to 650500, 2965619.

648734, 2965602; 648660, 2965551; 648686, 2965503; 648638, 2965484; 648654, 2965399; 648696, 2965388; 648670, 2965335; 648624, 2965308; 648602, 2965371; 648543, 2965398; 648528, 2965470; 648498, 2965477; 648463, 2965520; 648458, 2965545; 648514, 2965590; 648531, 2965620; 648521, 2965638; 648547, 2965660; 648602, 2965657; 648655, 2965586; 648697, 2965621; 648703, 2965665; 648733, 2965642; Thence returning to 648734, 2965602.

649213, 2965570; 649166, 2965498; 649114, 2965497; 649095, 2965520; 649071, 2965516; 649046, 2965551; 649049, 2965624; 649178, 2965633; 649211, 2965600; Thence returning to 649213, 2965570.

650553, 2965585; 650529, 2965494; 650436, 2965438; 650409, 2965423; 650369, 2965431; 650336, 2965467; 650329, 2965504; 650458, 2965504; 650481, 2965519; 650498, 2965563; 650539, 2965591; Thence returning to 650553, 2965585.

649254, 2965504; 649215, 2965494; 649210, 2965513; 649255, 2965546; Thence returning to 649254, 2965504.

650686, 2965477; 650662, 2965462; 650647, 2965516; 650665, 2965559; 650681, 2965560; 650696, 2965510; Thence returning to 650686, 2965477.

649347, 2965519; 649408, 2965430; 649530, 2965371; 649555, 2965333; 649504, 2965303; 649444, 2965335; 649371, 2965288; 649301, 2965307; 649312, 2965342; 649404, 2965384; 649342, 2965440; 649286, 2965408; 649258, 2965418; 649263, 2965445; 649331, 2965475; 649297, 2965497; 649295, 2965522; Thence returning to 649347, 2965519.

648720, 2965451; 648685, 2965436; 648676, 2965454; 648692, 2965477; 648727, 2965483; Thence returning to 648720, 2965451.

649235, 2965385; 649196, 2965372; 649166, 2965407; 649219, 2965416; Thence returning to 649235, 2965385.

648763, 2965310; 648745, 2965301; 648736, 2965328; 648759, 2965336; Thence returning to 648763, 2965310.

649501, 2965211; 649450, 2965207; 649460, 2965234; 649551, 2965288; 649551, 2965267; Thence returning to 649501, 2965211.

651097, 2965049; 651078, 2965041; 651044, 2965062; 650951, 2965231; 650946, 2965263; 651011, 2965208; 651083, 2965097; Thence returning to 651097, 2965049.

649906, 2965181; 650029, 2965065; 650069, 2964992; 650099, 2964893; 650086, 2964854; 649943, 2964826; 649951, 2964805; 649980, 2964802; 649977, 2964761; 650091, 2964798; 650111, 2964783; 650109, 2964697; 650019, 2964600; 649974, 2964601; 649927, 2964629; 649903, 2964663; 649887, 2964778; 649865, 2964747; 649812, 2964727; 649761, 2964727; 649703, 2964768; 649710, 2964832; 649730, 2964833; 649768, 2964795; 649808, 2964793; 650029, 2964925; 650035, 2964961; 649992, 2965005; 649962, 2964963; 649903, 2964923; 649800, 2964889; 649783, 2964894; 649787, 2964908; 649865, 2964969; 649823, 2965016; 649796, 2965015; 649718, 2964947; 649648, 2964917; 649569, 2964906; 649474, 2964934; 649484, 2964979; 649506, 2964998; 649655, 2965003; 649650, 2965028; 649609, 2965036; 649587, 2965064; 649534, 2965072; 649535, 2965143; 649704, 2965175; 649760, 2965153; 649784, 2965177; 649765, 2965212; 649769, 2965240; 649800, 2965248; Thence returning to 649906, 2965181.

650623, 2965178; 650608, 2965146; 650546, 2965151; 650499, 2965136; 650489, 2965151; 650503, 2965168; 650577, 2965203; Thence returning to 650623, 2965178.

650789, 2965014; 650758, 2965002; 650712, 2965069; 650658, 2965104; 650650, 2965149; 650666, 2965168; 650715, 2965124; Thence returning to 650789, 2965014.

650546, 2965077; 650450, 2965004; 650432, 2965019; 650421, 2965072; Thence returning to 650546, 2965077.

649333, 2964988; 649309, 2964984; 649293, 2965036; 649321, 2965050; Thence returning to 649333, 2964988.

650687, 2964972; 650726, 2964959; 650709, 2964923; 650636, 2964905; 650627, 2964916; 650639, 2964940; 650600, 2964966; 650566, 2964932; 650538, 2964938; 650535, 2964975; 650504, 2965013; 650591, 2965057; 650636, 2965054; Thence returning to 650687, 2964972.

649107, 2964833; 649128, 2964810; 649116, 2964786; 649088, 2964813; 649056, 2964803; 649047, 2964832; 649064, 2964845; 649072, 2964883; 649190, 2964905; 649209, 2964938; 649192, 2965006; 649206, 2965019; 649228, 2965005; 649243, 2964946; 649236, 2964880; 649201, 2964861; 649124, 2964855; Thence returning to 649107, 2964833.

650416, 2964899; 650475, 2964759; 650499, 2964741; 650589, 2964725; 650651, 2964689; 650698, 2964701; 650685, 2964731; 650695, 2964767; 650678, 2964775; 650649, 2964750; 650614, 2964766; 650711, 2964844; 650765, 2964837; 650780, 2964789; 650711, 2964628; 650653, 2964533; 650480, 2964467; 650373, 2964491; 650256, 2964554; 650213, 2964626; 650218, 2964655; 650327, 2964612; 650450, 2964656; 650453, 2964631; 650393, 2964572; 650391, 2964543; 650418, 2964506; 650456, 2964490; 650513, 2964497; 650607, 2964540; 650664, 2964608; 650668, 2964625; 650651, 2964637; 650566, 2964637; 650577, 2964682; 650554, 2964708; 650424, 2964699; 650389, 2964789; 650327, 2964779; 650313, 2964845; 650283, 2964870; 650310, 2964924; 650281, 2964934; 650271, 2965007; 650334, 2964997; 650344, 2964983; 650330, 2964968; 650364, 2964927; Thence returning to 650416, 2964899.

648737, 2964725; 648721, 2964725; 648725, 2964774; 648738, 2964798; 648761, 2964803; 648766, 2964787; Thence returning to 648737, 2964725.

649424, 2964805; 649507, 2964787; 649613, 2964806; 649617, 2964773; 649564, 2964680; 649493, 2964645; 649449, 2964647; 649371, 2964699; 649335, 2964751; 649380, 2964765; Thence returning to 649424, 2964805.

649244, 2964766; 649232, 2964743; 649193, 2964766; 649198, 2964794; 649236, 2964802; Thence returning to 649244, 2964766.

648854, 2964708; 648855, 2964674; 648783, 2964675; 648811, 2964709; Thence returning to 648854, 2964708.

650342, 2964697; 650342, 2964667; 650296, 2964667; 650297, 2964713; Thence returning to 650342, 2964697.

651158, 2964599; 651153, 2964521; 651132, 2964562; 651130, 2964669; 651146, 2964707; 651168, 2964715; 651182, 2964642; Thence returning to 651158, 2964599.

649742, 2964556; 649694, 2964543; 649675, 2964568; 649722, 2964601; 649670, 2964626; 649666, 2964677; 649810, 2964681; 649814, 2964647; 649785, 2964590; Thence returning to 649742, 2964556.

650993, 2964592; 650984, 2964565; 650958, 2964568; 650949, 2964585; 650952, 2964631; Thence returning to 650993, 2964592.

650537, 2964552; 650449, 2964538; 650452, 2964566; 650512, 2964590; 650541, 2964569; Thence returning to 650537, 2964552.

649215, 2964526; 649186, 2964510; 649174, 2964522; 649176, 2964541; 649216, 2964563; Thence returning to 649215, 2964526.

650018, 2964556; 650032, 2964527; 649997, 2964522; 649994, 2964505; 650055, 2964476; 650062, 2964457; 650041, 2964437; 649997, 2964434; 649805, 2964514; 649891, 2964542; 649958, 2964529; Thence returning to 650018, 2964556.

651072, 2964516; 650994, 2964492; 650987, 2964508; 651058, 2964567; Thence returning to 651072, 2964516.

649244, 2964385; 649210, 2964378; 649180, 2964432; 649257, 2964488; 649284, 2964420; Thence returning to 649244, 2964385.

651188, 2964484; 651220, 2964376; 651192, 2964393; 651166, 2964448; 651173, 2964496; Thence returning to 651188, 2964484.

651023, 2964427; 650970, 2964384; 650934, 2964384; 650900, 2964424; 651027, 2964464; Thence returning to 651023, 2964427.

649018, 2964380; 648995, 2964375; 648971, 2964393; 648980, 2964414; 649024, 2964421; 649033, 2964401; Thence returning to 649018, 2964380.

649052, 2964363; 649067, 2964346; 649059, 2964313; 649006, 2964281; 648983, 2964284; 648984, 2964354; 649018, 2964348; Thence returning to 649052, 2964363.

650269, 2964364; 650487, 2964251; 650563, 2964179; 650626, 2964057; 650702, 2963644; 650696, 2963607; 650680, 2963621; 650637, 2963801; 650618, 2964006; 650588, 2964098; 650516, 2964200; 650476, 2964230; 650388, 2964256; 650419, 2964194; 650496, 2964151; 650506, 2964105; 650414, 2964012; 650369, 2963987; 650312, 2963977; 650209, 2964000; 650144, 2964059; 650111, 2964124; 650125, 2964146; 650162, 2964135; 650176, 2964064; 650220, 2964073; 650245, 2964042; 650291, 2964029; 650366, 2964045; 650467, 2964113; 650454, 2964158; 650398, 2964134; 650353, 2964152; 650299, 2964142; 650243, 2964161; 650247, 2964186; 650324, 2964183; 650346, 2964202; 650310, 2964233; 650227, 2964234; 650224, 2964265; 650243, 2964285; 650315, 2964281; 650308, 2964307; 650263, 2964333; Thence returning to 650269, 2964364.

651149, 2964261; 651137, 2964243; 650999, 2964254; 650984, 2964271; 651024, 2964299; 651104, 2964308; 651117, 2964341; 651137, 2964326; Thence returning to 651149, 2964261.

649655, 2964270; 649635, 2964234; 649584, 2964235; 649563, 2964220; 649533, 2964273; 649536, 2964310; 649561, 2964321; Thence returning to 649655, 2964270.

651266, 2964279; 651238, 2964269; 651221, 2964315; 651234, 2964331; 651250, 2964325; Thence returning to 651266, 2964279.

649144, 2964249; 649195, 2964162; 649185, 2964108; 649167, 2964084; 649155, 2964090; 649158, 2964115; 649108, 2964123; 649103, 2964104; 649124, 2964081; 649115, 2964061; 649090, 2964030; 648983, 2963992; 648919, 2964072; 648928, 2964086; 648965, 2964082; 648968, 2964106; 648944, 2964131; 648911, 2964114; 648896, 2964123; 648898, 2964161; 648872, 2964206; 648879, 2964239; 649018, 2964231; 649049, 2964244; 649076, 2964279; Thence returning to 649144, 2964249.

649377, 2964278; 649339, 2964236; 649321, 2964238; 649345, 2964276; Thence returning to 649377, 2964278.

649451, 2964221; 649450, 2964206; 649396, 2964214; 649427, 2964240; Thence returning to 649451, 2964221.

649740, 2964162; 649678, 2964135; 649672, 2964162; 649721, 2964212; 649739, 2964203; Thence returning to 649740, 2964162.

649472, 2964149; 649436, 2964131; 649446, 2964104; 649385, 2964090; 649366, 2964135; 649316, 2964099; 649288, 2964118; 649319, 2964159; 649379, 2964189; 649426, 2964178; 649454, 2964176; Thence returning to 649472, 2964149.

649735, 2964066; 649721, 2963998; 649678, 2963951; 649557, 2963921; 649457, 2963854; 649391, 2963856; 649402, 2963896; 649467, 2963915; 649554, 2963977; 649645, 2964001; 649680, 2964040; 649659, 2964048; 649566, 2964009; 649554, 2964016; 649561, 2964039; 649676, 2964104; 649726, 2964103; Thence returning to 649735, 2964066.

649865, 2964032; 649849, 2964031; 649822, 2964069; 649838, 2964097; 649866, 2964063; Thence returning to 649865, 2964032.

649468, 2964060; 649483, 2964036; 649376, 2964030; 649339, 2963981; 649276, 2963967; 649257, 2963996; 649257, 2964033; 649274, 2964051; 649318, 2964045; 649349, 2964080; Thence returning to 649468, 2964060.

649105, 2963966; 649076, 2963949; 649045, 2963953; 649033, 2963973; 649129, 2964034; 649212, 2964065; 649192, 2964029; 649216, 2964012; 649206, 2963982; Thence returning to 649105, 2963966.

650573, 2964072; 650608, 2963853; 650581, 2963755; 650444, 2963656; 650390, 2963648; 650348, 2963669; 650337, 2963692; 650413, 2963735; 650448, 2963810; 650558, 2963868; 650561, 2963885; 650522, 2963886; 650554, 2963934; 650552, 2963969; 650511, 2963961; 650505, 2963988; 650523, 2964029; Thence returning to 650573, 2964072.

650228, 2963811; 650204, 2963774; 650157, 2963778; 650125, 2963815; 650130, 2963891; 650154, 2963945; 650231, 2963891; Thence returning to 650228, 2963811.

650060, 2963835; 649966, 2963821; 649877, 2963845; 649851, 2963871; 649891, 2963902; 649959, 2963937; 650048, 2963928; 650082, 2963891; 650083, 2963855; Thence returning to 650060, 2963835

648943, 2963915; 648984, 2963899; 649021, 2963916; 649022, 2963898; 648969, 2963810; 648825, 2963826; 648832, 2963852; 648891, 2963867; Thence returning to 648943, 2963915.

648765, 2963801; 648699, 2963795; 648665, 2963815; 648708, 2963847; 648749, 2963912; 648769, 2963901; 648778, 2963811; Thence returning to 648765, 2963801.

649586, 2963840; 649536, 2963813; 649517, 2963819; 649521, 2963846; 649581, 2963885; Thence returning to 649586, 2963840.

649370, 2963841; 649363, 2963813; 649336, 2963824; 649354, 2963857; Thence returning to 649370, 2963841.

649575, 2963796; 649601, 2963778; 649636, 2963794; 649657, 2963787; 649658, 2963721; 649604, 2963729; 649567, 2963716; 649526, 2963712; 649516, 2963750; Thence returning to 649575, 2963796.

649967, 2963711; 650021, 2963670; 650075, 2963673; 650092, 2963659; 650089, 2963633; 650026, 2963606; 649939, 2963623; 649898, 2963675; 649897, 2963702; 649928, 2963721; Thence returning to 649967, 2963711.

649697, 2963618; 649632, 2963595; 649608, 2963603; 649620, 2963637; 649642, 2963667; 649672, 2963668; Thence returning to 649697, 2963618.

650196, 2963541; 650172, 2963529; 650146, 2963540; 650139, 2963623; 650205, 2963575; Thence returning to 650196, 2963541.

650443, 2963564; 650411, 2963561; 650403, 2963584; 650450, 2963604; Thence returning to 650443, 2963564.

650648, 2963602; 650658, 2963539; 650600, 2963441; 650518, 2963359; 650472, 2963343; 650433, 2963357; 650438, 2963390; 650490, 2963395; 650526, 2963432; 650523, 2963472; 650478, 2963503; 650488, 2963567; 650506, 2963582; 650564, 2963569; 650608, 2963584; Thence returning to 650648, 2963602.

649704, 2963480; 649715, 2963463; 649679, 2963410; 649694, 2963365; 649729, 2963350; 649799, 2963367; 649827, 2963355; 649818, 2963341; 649781, 2963325; 649783, 2963302; 649873, 2963306; 649892, 2963267; 649856, 2963238; 649772, 2963253; 649760, 2963185; 649725, 2963275; 649670, 2963278; 649624, 2963323; 649621, 2963358; 649662, 2963415; 649659, 2963440; 649609, 2963416; 649591, 2963466; 649554, 2963456; 649539, 2963476; 649581, 2963511; 649604, 2963487; Thence returning to 649704, 2963480.

650020, 2963430; 650016, 2963402; 649970, 2963350; 649944, 2963344; 649923, 2963382; 649947, 2963422; 649879, 2963417; 649830, 2963434; 649835, 2963448; 649907, 2963468; 649986, 2963468; Thence returning to 650020, 2963430.

649743, 2963397; 649719, 2963393; 649718, 2963407; 649759, 2963464; 649772, 2963457; 649771, 2963427; Thence returning to 649743, 2963397.

650329, 2963372; 650285, 2963351; 650245, 2963380; 650338, 2963436; Thence returning to 650329, 2963372.

649573, 2963325; 649712, 2963207; 649717, 2963190; 649704, 2963181; 649678, 2963186; 649579, 2963272; 649514, 2963266; 649519, 2963292; 649544, 2963305; 649529, 2963378; 649550, 2963397; 649567, 2963391; Thence returning to 649573, 2963325.

650148, 2963263; 650138, 2963252; 650056, 2963262; 650045, 2963288; 650071, 2963311; 650146, 2963285; Thence returning to 650148, 2963263.

650239, 2963263; 650267, 2963238; 650346, 2963258; 650358, 2963228; 650267, 2963167; 650182, 2963172; 650164, 2963205; 650213, 2963262; Thence returning to 650239, 2963263.

650543, 2963182; 650498, 2963164; 650434, 2963212; 650422, 2963246; 650449, 2963253; 650529, 2963222; Thence returning to 650543, 2963182.

649934, 2963219; 649969, 2963205; 650063, 2963214; 650075, 2963198; 650071, 2963183; 649981, 2963172; 649948, 2963154; 649851, 2963092; 649830, 2963096; 649837, 2963136; 649824, 2963152; 649792, 2963147; 649805, 2963189; 649852, 2963198; 649871, 2963190; 649889, 2963147; Thence returning to 649934, 2963219.

650394, 2963191; 650403, 2963163; 650345, 2963162; 650356, 2963184; Thence returning to 650394, 2963191.

650075, 2963070; 649945, 2963032; 649929, 2963044; 649943, 2963063; 650041, 2963100; 650093, 2963149; 650108, 2963137; 650102, 2963092; Thence returning to 650075, 2963070.

650841, 2963037; 650845, 2962980; 650700, 2962980; 650688, 2962996; 650707, 2963029; 650750, 2963029; 650805, 2963057; 650822, 2963060; Thence returning to 650841, 2963037.

650327, 2963010; 650217, 2963005; 650195, 2963033; 650280, 2963049; 650310, 2963039; Thence returning to 650327, 2963010.

650526, 2962867; 650597, 2962760; 650603, 2962719; 650587, 2962685; 650566, 2962698; 650512, 2962802; 650474, 2962827; 650417, 2962825; 650403, 2962845; 650454, 2962874; 650486, 2962925; 650541, 2962957; 650566, 2963025; 650601, 2963051; 650631, 2963051; 650641, 2963029; 650596, 2962998; 650574, 2962957; 650565, 2962913; Thence returning to 650526, 2962867.

650230, 2962965; 650211, 2962940; 650159, 2962942; 650082, 2963019; 650113, 2963032; 650159, 2962973; Thence returning to 650230, 2962965.

650460, 2962953; 650458, 2962941; 650397, 2962947; 650389, 2962970; 650415, 2962980; Thence returning to 650460, 2962953.

650842, 2962899; 650675, 2962630; 650647, 2962704; 650604, 2962843; 650613, 2962871; 650716, 2962942; 650828, 2962931; Thence returning to 650842, 2962899.

649885, 2962795; 649850, 2962784; 649815, 2962794; 649803, 2962820; 649883, 2962822; Thence returning to 649885, 2962795.

650761, 2962307; 650695, 2962252; 650650, 2962179; 650581, 2962145; 650582, 2962169; 650633, 2962211; 650650, 2962251; 650640, 2962280; 650595, 2962237; 650628, 2962358; 650727, 2962355; Thence returning to 650761, 2962307.

651042, 2962137; 651009, 2962109; 651007, 2962196; 650989, 2962228; 650942, 2962262; 650954, 2962295; 650994, 2962276; 651037, 2962191; Thence returning to 651042, 2962137.

651072, 2962137; 651147, 2962040; 651172, 2961984; 651189, 2962000; 651191, 2962066; 651220, 2962041; 651251, 2961901; 651241, 2961784; 651258, 2961614; 651249, 2961585; 651202, 2961599; 651186, 2961643; 651145, 2961894; 651073, 2961944; 651068, 2961970; 651097, 2961981; 651089, 2962033; 651033, 2961989; 651016, 2962006; 650969, 2961999; 650959, 2962016; 651004, 2962072; 651023, 2962073; 651041, 2962047; 651053, 2962060; 651058, 2962119; Thence returning to 651072, 2962137.

651126, 2961328; 651086, 2961324; 651070, 2961354; 651075, 2961391; 651133, 2961359; Thence returning to 651126, 2961328.

651327, 2961315; 651349, 2961245; 651383, 2961226; 651388, 2961204; 651382, 2961174; 651333, 2961119; 651316, 2961123; 651325, 2961202; 651305, 2961283; 651283, 2961302; 651222, 2961300; 651199, 2961326; 651192, 2961355; 651215, 2961367; 651250, 2961336; 651313, 2961332; Thence returning to 651327, 2961315.

651083, 2961267; 651070, 2961247; 651051, 2961261; 651066, 2961290; Thence returning to 651083, 2961267.

651290, 2961211; 651271, 2961191; 651236, 2961199; 651236, 2961232; 651278, 2961271; 651291, 2961250; Thence returning to 651290, 2961211.

651620, 2960698; 651596, 2960685; 651531, 2960725; 651530, 2960773; 651569, 2960777; 651605, 2960745; Thence returning to 651620, 2960698.

651244, 2960743; 651252, 2960700; 651174, 2960700; 651190, 2960737; 651223, 2960757; Thence returning to 651244, 2960743.

651471, 2960560; 651474, 2960533; 651441, 2960533; 651421, 2960588; 651448, 2960588; Thence returning to 651471, 2960560.

651803, 2960525; 651786, 2960465; 651738, 2960411; 651678, 2960384; 651462, 2960358; 651418, 2960385; 651308, 2960374; 651319, 2960408; 651310, 2960471; 651329, 2960493; 651397, 2960515; 651503, 2960497; 651656, 2960505; 651653, 2960553; 651678, 2960574; 651796, 2960557; Thence returning to 651803, 2960525.

651598, 2960529; 651545, 2960522; 651518, 2960548; 651520, 2960562; 651558, 2960567; 651589, 2960555; Thence returning to 651598, 2960529.

651903, 2959857; 651843, 2959804; 651757, 2959862; 651785, 2959890; 651881, 2959896; 651901, 2959887; Thence returning to 651903, 2959857.

651524, 2959720; 651530, 2959678; 651476, 2959689; 651466, 2959738; 651497, 2959735; Thence returning to 651524, 2959720.

651833, 2959641; 651835, 2959627; 651784, 2959620; 651779, 2959604; 651804, 2959584; 651866, 2959576; 651869, 2959540; 651843, 2959529; 651761, 2959571; 651741, 2959570; 651741, 2959536; 651729, 2959535; 651695, 2959583; 651656, 2959599; 651668, 2959633; 651712, 2959628; 651758, 2959653; 651804, 2959662; Thence returning to 651833, 2959641.

651924, 2959599; 651905, 2959594; 651898, 2959626; 651923, 2959648; Thence returning to 651924, 2959599.

Unit TX-4: Lower Laguna Madre Mainland: 6,970 hectares (17,223 acres) in Cameron and Willacy Counties, Texas.

(1) Unit TX-4, Cameron County, Texas. Coordinates are in UTM Zone 14N, North American Datum 1983 (meters E, meters N):

669971, 2904321; 669974, 2904185; 669933, 2904077; 669841, 2903994; 669765, 2903995; 669735, 2904053; 669734, 2904090; 669753, 2904111; 669839, 2904140; 669866, 2904170; 669910, 2904262; 669921, 2904388; 669951, 2904381; 669971, 2904321; 669864, 2904093; 669831, 2904091; 669798, 2904059; 669761, 2904065; 669757, 2904052; 669785, 2904014; 669799, 2904014; 669906, 2904097; 669939, 2904163; 669957, 2904250; 669946, 2904318; 669912, 2904166; Thence returning to 669864, 2904093.

671690, 2904370; 671743, 2904369; 671803, 2904404; 671808, 2904393; 671803, 2904269; 671838, 2904226; 671847, 2904184; 671831, 2904163; 671776, 2904158; 671767, 2904115; 671790, 2904040; 671723, 2904039; 671694, 2904121; 671695, 2904212; 671752, 2904248; 671759, 2904269; 671703, 2904274; 671670, 2904307; 671627, 2904320; 671610, 2904341; 671593, 2904434; 671632, 2904547; 671690, 2904601; 671747, 2904582; 671761, 2904561; 671760, 2904536; 671736, 2904511; 671657, 2904493; 671630, 2904463; 671635, 2904410; 671656, 2904381; Thence returning to 671690, 2904370.

671681, 2904742; 671670, 2904712; 671639, 2904690; 671596, 2904705; 671599, 2904736; 671651, 2904764; 671681, 2904742; 671650, 2904715; 671663, 2904718; 671659, 2904740; 671646, 2904734; Thence returning to 671650, 2904715.

669205, 2904387; 668894, 2904153; 668918, 2904152; 669008, 2904200; 669068, 2904161; 669190, 2904186; 669321, 2904133; 669395, 2904147; 669491, 2904209; 669517, 2904277; 669517, 2904307; 669493, 2904342; 669514, 2904379; 669555, 2904381; 669594, 2904335; 669608, 2904219; 669522, 2903987; 667612, 2903941; 667652, 2904001; 667724, 2904056; 667895, 2904137; 667956, 2904150; 668086, 2904166; 668164, 2904159; 668217, 2904136; 668210, 2904084; 668238, 2904057; 668300, 2904060; 668399, 2904141; 668447, 2904224; 668509, 2904378; 668576, 2904474; 668639, 2904531; 668689, 2904553; 668762, 2904564; 668866, 2904548; 668877, 2904446; 668919, 2904398; 668984, 2904375; 669053, 2904399; 669222, 2904499; 669369, 2904615; 669635, 2904768; 669823, 2904899; 669987, 2905025; 670263, 2905290; 670218, 2905194; 670168, 2905140; 669884, 2904905; 669554, 2904689; 669440, 2904636; 669329, 2904551; 669275, 2904501; 669299, 2904491; Thence returning to 669205, 2904387.

671481, 2905309; 671507, 2905280; 671485, 2905258; 671443, 2905270; 671430, 2905246; 671439, 2905184; 671466, 2905128; 671527, 2905082; 671604, 2905126; 671607, 2905007; 671560, 2905024; 671534, 2905016; 671516, 2904986; 671531, 2904933; 671484, 2904905; 671486, 2904882; 671548, 2904798; 671508, 2904737; 671480, 2904740; 671464, 2904761; 671459, 2904880; 671471, 2904955; 671491, 2904981; 671489, 2905015; 671510, 2905047; 671396, 2905174; 671377, 2905266; 671387, 2905302; Thence returning to 671481, 2905309.

670387, 2905615; 670371, 2905624; 670381, 2905656; Thence returning to 670387, 2905615.

670606, 2905679; 670589, 2905687; 670597, 2905707; 670614, 2905698; Thence returning to 670606, 2905679.

670758, 2905763; 670743, 2905761; 670737, 2905788; 670763, 2905781; Thence returning to 670758, 2905763.

671311, 2905651; 671442, 2905679; 671421, 2905646; 671380, 2905631; 671211, 2905649; 671152, 2905683; 671141, 2905798; 671199, 2905828; 671198, 2905757; 671260, 2905675; Thence returning to 671311, 2905651.

670901, 2905833; 670887, 2905833; 670884, 2905849; 670906, 2905863; 670914, 2905843; Thence returning to 670901, 2905833.

671087, 2906124; 671163, 2906134; 671212, 2906180; 671227, 2906159; 671221, 2906126; 671236, 2906070; 671203, 2906033; 671197, 2905999; 671219, 2905982; 671253, 2905992; 671258, 2905954; 671250, 2905921; 671227, 2905909; 671226, 2905873; 671175, 2905850; 671117, 2905907; 671109, 2905954; 671141, 2905965; 671126, 2906014; 671020, 2906016; 671010, 2906069; 670965, 2906076; 670981, 2906279; 671046, 2906441; 671112, 2906480; 671123, 2906471; 671115, 2906425; 671130, 2906343; 671036, 2906287; 671067, 2906143; Thence returning to 671087, 2906124.

671081, 2906870; 671111, 2906837; 671113, 2906814; 671079, 2906699; 671048, 2906701; 671004, 2906664; 670950, 2906679; 670920, 2906644; 670877, 2906658; 670850, 2906643; 670862, 2906613; 670931, 2906607; 670965, 2906554; 671048, 2906551; 671064, 2906532; 671058, 2906500; 671019, 2906479; 670889, 2906515; 670834, 2906601; 670774, 2906643; 670746, 2906692; 670724, 2906799; 670741, 2906868; 670778, 2906893; 670974, 2906918; 671017, 2906955; 671081, 2906870; 670944, 2906857; 670862, 2906855; 670778, 2906806; 670784, 2906746; 670809, 2906697; 670867, 2906678; 670904, 2906728; 670980, 2906780; 671081, 2906789; 671067, 2906834; 671035, 2906826; Thence returning to 671034, 2906775.

670909, 2907018; 670833, 2907024; 670831, 2907068; 670867, 2907085; 670938, 2907075; 670946, 2907062; Thence returning to 670909, 2907018.

669390, 2906709; 669280, 2906532; 669233, 2906645; 669206, 2906650; 669167, 2906616; 669101, 2906778; 669068, 2906919; 669050, 2907032; 669065, 2907110; 669090, 2907119; 669163, 2907105; 669304, 2907060; 669525, 2906870; 669539, 2906840; 669436, 2906769; Thence returning to 669390, 2906709.

670613, 2907683; 670604, 2907563; 670660, 2907541; 670738, 2907564; 670752, 2907509; 670688, 2907516; 670637, 2907501; 670607, 2907466; 670623, 2907364; 670672, 2907331; 670723, 2907328; 670783, 2907349; 670806, 2907382; 670837, 2907298; 670839, 2907287; 670735, 2907277; 670705, 2907249; 670737, 2907185; 670696, 2907194; 670523, 2907479; 670498, 2907464; 670457, 2907290; 670398, 2907220; 670336, 2907248; 670197, 2907412; 670219, 2907445; 670244, 2907582; 670278, 2907620; 670339, 2907635; 670488, 2907616; 70522, 2907573; 670543, 2907572; 670578, 2907653; Thence returning to 670613, 2907683.

670613, 2907683; 670640, 2907770; 670669, 2907818; 670711, 2907717; Thence returning to 670613, 2907683.

670627, 2907882; 670607, 2907880; 670586, 2907931; 670601, 2907954; Thence returning to 670627, 2907882.

670563, 2908020; 670525, 2908053; 670529, 2908108; 670560, 2908080; 670572, 2908043; Thence returning to 670563, 2908020.

670502, 2908149; 670462, 2908183; 670441, 2908256; 670402, 2908316; 670391, 2908364; 670403, 2908393; 670443, 2908369; 670473, 2908275; 670502, 2908249; 670513, 2908201; Thence returning to 670502, 2908149.

669241, 2908300; 669268, 2908300; 669286, 2908346; 669322, 2908378; 669334, 2908420; 669697, 2908252; 669799, 2908233; 669867, 2908271; 669897, 2908268; 670465, 2907992; 670501, 2907938; 670453, 2907916; 670289, 2907898; 670244, 2907869; 670148, 2907655; 670123, 2907475; 670102, 2907444; 670078, 2907482; 670078, 2907612; 670048, 2907631; 669989, 2907622; 669945, 2907651; 669842, 2907754; 669813, 2907834; 669786, 2907827; 669739, 2907774; 669648, 2907788; 669610, 2907836; 669541, 2907839; 669526, 2907829; 669537, 2907790; 669512, 2907784; 669295, 2907929; 669239, 2907929; 669165, 2908027; 669175, 2908049; 669159, 2908107; 669174, 2908143; 669135, 2908128; 669128, 2908139; 669089, 2908278; 669094, 2908331; 669127, 2908362; 669144, 2908330; 669147, 2908256; 669183, 2908238; 669205, 2908183; 669244, 2908188; 669273, 2908218; 669273, 2908257; 669181, 2908278; 669181, 2908360; 669161, 2908397; 669247, 2908431; 669250, 2908385; 669231, 2908319; Thence returning to 669241, 2908300.

670383, 2908443; 670362, 2908443; 670325, 2908492; 670312, 2908547; 670270, 2908608; 670218, 2908770; 670222, 2908844; 670303, 2908729; 670382, 2908508; Thence returning to 670383, 2908443.

669501, 2908473; 669407, 2908486; 669319, 2908557; 669649, 2908903; 669709, 2908948; 669664, 2908771; 669658, 2908680; 669633, 2908639; 669642, 2908600; 669580, 2908515; Thence returning to 669501, 2908473.

669390, 2908912; 669333, 2908789; 669287, 2908626; 669238, 2908666; 669201, 2908661; 669142, 2908685; 669128, 2908717; 669063, 2908654; 669046, 2908653; 669039, 2908674; 669057, 2908719; 669012, 2908711; 668998, 2908722; 668988, 2908779; 669002, 2908814; 668980, 2908822; 668973, 2908853; 668920, 2908880; 668917, 2908904; 668926, 2908924; 668943, 2908925; 668994, 2908875; 669026, 2908880; 669049, 2908856; 669108, 2908901; 669148, 2908828; 669169, 2908815; 669251, 2908846; 669318, 2908935; 669348, 2908908; 669392, 2908944; Thence returning to 669390, 2908912.

670181, 2908829; 670151, 2908841; 670116, 2908904; 670077, 2909045; 670092, 2909104; 670144, 2909063; 670192, 2908951; 670198, 2908859; Thence returning to 670181, 2908829.

670069, 2909125; 670049, 2909126; 670037, 2909157; 670042, 2909234; 670057, 2909241; 670086, 2909182; Thence returning to 670069, 2909125.

669767, 2909072; 669742, 2909047; 669735, 2909236; 669752, 2909294; 669793, 2909343; 669816, 2909285; 669815, 2909230; Thence returning to 669767, 2909072.

669525, 2910375; 669483, 2910370; 669471, 2910322; 669434, 2910332; 669317, 2910549; 669316, 2910588; 669332, 2910617; 669390, 2910660; 669420, 2910657; 669477, 2910589; 669540, 2910545; 669549, 2910416; Thence returning to 669525, 2910375.

669206, 2911038; 669265, 2911046; 669309, 2911000; 669303, 2910984; 669229, 2910946; 669216, 2910920; 669222, 2910886; 669257, 2910853; 669351, 2910838; 669355, 2910817; 669329, 2910783; 669262, 2910744; 669220, 2910771; 669176, 2910851; 669161, 2911025; 669179, 2911055; Thence returning to 669206, 2911038.

668071, 2911125; 668044, 2911139; 668036, 2911163; 668029, 2911340; 668040, 2911359; 668058, 2911356; 668088, 2911310; 668074, 2911272; 668093, 2911146; Thence returning to 668071, 2911125.

668954, 2911508; 668978, 2911513; 669033, 2911588; 669082, 2911533; 669102, 2911531; 669113, 2911504; 669070, 2911465; 669028, 2911468; 669004, 2911427; 669040, 2911344; 669106, 2911330; 669095, 2911288; 669030, 2911283; 668955, 2911352; 668908, 2911467; 668837, 2911569; 668795, 2911685; 668798, 2911768; 668843, 2911780; 668867, 2911751; 668893, 2911614; Thence returning to 668954, 2911508.

668697, 2911974; 668693, 2911941; 668637, 2911968; 668606, 2911995; 668591, 2912038; 668583, 2912176; 668625, 2912224; 668710, 2912190; 668668, 2912146; 668657, 2912112; 668659, 2912072; Thence returning to 668697, 2911974.

667962, 2912036; 667914, 2912043; 667900, 2912191; 667819, 2912340; 667797, 2912520; 667808, 2912569; 667841, 2912548; 667882, 2912400; 667918, 2912368; 667963, 2912255; 667964, 2912188; 667997, 2912127; 667998, 2912087; Thence returning to 667962, 2912036.

668559, 2912549; 668593, 2912555; 668604, 2912533; 668523, 2912496; 668496, 2912460; 668498, 2912423; 668527, 2912367; 668605, 2912329; 668573, 2912314; 668512, 2912323; 668437, 2912445; 668473, 2912571; 668532, 2912585; Thence returning to 668559, 2912549.

666941, 2912893; 666985, 2912906; 666820, 2912695; 666673, 2912400; 666671, 2912361; 666592, 2912254; 666506, 2912180; 666462, 2912167; 666334, 2912212; 666187, 2912316; 666109, 2912416; 666098, 2912453; 666106, 2912503; 666167, 2912522; 666185, 2912574; 666203, 2912472; 666219, 2912480; 666252, 2912581; 666302, 2912566; 666317, 2912504; 666353, 2912496; 666482, 2912569; 666742, 2912812; 666899, 2912924; 666927, 2912927; Thence returning to 666941, 2912893.

668503, 2912971; 668525, 2912941; 668535, 2912848; 668492, 2912873; 668452, 2912931; 668411, 2912908; 668344, 2912907; 668328, 2912882; 668348, 2912835; 668334, 2912775; 668361, 2912736; 668421, 2912696; 668422, 2912653; 668276, 2912763; 668277, 2912867; 668320, 2912929; 668366, 2912956; Thence returning to 668503, 2912971.

665601, 2912943; 665595, 2912899; 665527, 2912802; 665562, 2912784; 665573, 2912664; 665671, 2912575; 665689, 2912538; 665863, 2912435; 665947, 2912334; 665973, 2912340; 666015, 2912278; 665997, 2912223; 666013, 2912204; 666057, 2912232; 666225, 2912088; 666282, 2912009; 666173, 2911990; 666126, 2911890; 666091, 2911860; 666090, 2911819; 666117, 2911804; 666222, 2911821; 666280, 2911873; 666292, 2911927; 666316, 2911956; 666460, 2911865; 666535, 2911766; 666499, 2911685; 666465, 2911673; 666433, 2911601; 666454, 2911485; 666387, 2911512; 666285, 2911474; 665841, 2910975; 665832, 2910937; 665895, 2910910; 665949, 2910863; 666026, 2910855; 666114, 2910895; 666185, 2910971; 666250, 2911017; 666244, 2910965; 666257, 2910948; 666312, 2911067; 666335, 2911074; 666417, 2910800; 666429, 2910696; 666474, 2910601; 666445, 2910508; 666486, 2910518; 666531, 2910677; 666567, 2910713; 666619, 2910699; 666721, 2910631; 666830, 2910593; 666885, 2910518; 666895, 2910524; 666897, 2910548; 666862, 2910609; 666742, 2910662; 666667, 2910732; 666641, 2910798; 666658, 2910823; 666689, 2910819; 666870, 2910715; 667013, 2910610; 667179, 2910460; 667267, 2910348; 667283, 2910276; 667246, 2910229; 667210, 2910210; 667179, 2910150; 667163, 2910109; 667171, 2910059; 667205, 2910051; 667270, 2910084; 667310, 2910122; 667368, 2910226; 667427, 2910230; 667565, 2910120; 667648, 2910031; 667727, 2909774; 667913, 2909801; 667966, 2909874; 668020, 2909881; 668059, 2909855; 668080, 2909803; 668138, 2909738; 668147, 2909684; 668119, 2909623; 667374, 2909318; 667337, 2909250; 667343, 2909177; 667363, 2909169; 667386, 2909182; 667459, 2909277; 667659, 2909347; 667779, 2909447; 668330, 2909678; 668356, 2909684; 668591, 2909591; 668737, 2909482; 668680, 2909583; 668673, 2909626; 668727, 2909657; 668725, 2909748; 668782, 2909784; 668807, 2909738; 668845, 2909740; 668884, 2909686; 668911, 2909674; 668969, 2909679; 669100, 2909740; 669219, 2909734; 669277, 2909712; 669327, 2909771; 669449, 2909761; 669516, 2909729; 669516, 2909701; 669559, 2909653; 669589, 2909646; 669613, 2909661; 669702, 2909628; 669752, 2909585; 669797, 2909493; 669783, 2909465; 669758, 2909534; 669709, 2909585; 669654, 2909610; 669560, 2909620; 669548, 2909584; 669576, 2909534; 669571, 2909417; 669424, 2909299; 669412, 2909257; 669431, 2909219; 669412, 2909168; 669418, 2909118; 669403, 2909056; 669313, 2908947; 669285, 2908947; 669251, 2908895; 669174, 2908870; 669158, 2908880; 669123, 2908919; 669096, 2908990; 669077, 2908979; 669052, 2908921; 669022, 2908946; 668996, 2908933; 668984, 2908958; 668943, 2908979; 668847, 2908893; 668834, 2908913; 668859, 2908955; 668831, 2908962; 668824, 2908982; 668863, 2909026; 668836, 2909030; 668793, 2908995; 668783, 2908964; 668792, 2908922; 668769, 2908900; 668770, 2908785; 668661, 2908768; 668613, 2908718; 668546, 2908679; 668544, 2908616; 668514, 2908586; 668505, 2908521; 668461, 2908484; 668465, 2908446; 668394, 2908367; 668338, 2908334; 668324, 2908293; 668288, 2908265; 668241, 2908189; 668235, 2908147; 668192, 2908116; 668159, 2908044; 668130, 2908032; 668114, 2907969; 668081, 2907946; 668057, 2907970; 668028, 2907968; 668006, 2907942; 668001, 2907891; 667977, 2907869; 667926, 2907873; 667853, 2907855; 667843, 2907792; 667792, 2907745; 667763, 2907745; 667745, 2907681; 667707, 2907755; 667709, 2907824; 667688, 2907820; 667648, 2907770; 667675, 2907725; 667690, 2907655; 667618, 2907614; 667584, 2907687; 667588, 2907898; 667577, 2907901; 667548, 2907788; 667497, 2907743; 667547, 2907675; 667559, 2907608; 667492, 2907584; 667480, 2907599; 667483, 2907649; 667444, 2907652; 667392, 2907561; 667338, 2907558; 667351, 2907493; 667318, 2907450; 667181, 2907355; 667163, 2907363; 667169, 2907421; 667139, 2907421; 667056, 2907299; 666933, 2907200; 666853, 2907248; 666803, 2907313; 666730, 2907506; 666716, 2907495; 666699, 2907387; 666657, 2907463; 666632, 2907474; 666646, 2907350; 666668, 2907296; 666698, 2907266; 666701, 2907237; 666849, 2907212; 666864, 2907160; 666788, 2907136; 666594, 2906943; 666557, 2906941; 666449, 2906818; 666322, 2906721; 666319, 2906682; 666371, 2906660; 666422, 2906666; 666584, 2906733; 666736, 2906820; 666761, 2906860; 666769, 2906967; 666814, 2906994; 666978, 2907003; 667467, 2907097; 667730, 2907053; 667888, 2907085; 667954, 2907137; 668021, 2907243; 668045, 2907305; 668021, 2907380; 668067, 2907485; 668342, 2907378; 668461, 2907279; 668531, 2907171; 668584, 2907121; 668609, 2907073; 668635, 2906952; 668644, 2906826; 668612, 2906603; 668615, 2906304; 668539, 2905835; 668543, 2905793; 668668, 2905509; 668693, 2905523; 668703, 2905598; 668685, 2905661; 668689, 2905791; 668734, 2905994; 668803, 2906191; 668876, 2906218; 668989, 2906207; 669065, 2906237; 669182, 2906405; 669220, 2906420; 669271, 2906411; 669274, 2906443; 669295, 2906463; 669279, 2906491; 669289, 2906501; 669317, 2906504; 669508, 2906647; 669632, 2906719; 669752, 2906521; 669940, 2906016; 669934, 2905984; 669910, 2905985; 669804, 2906086; 669792, 2906077; 669823, 2905986; 669926, 2905948; 669955, 2905892; 669967, 2905682; 669921, 2905629; 669410, 2905507; 669368, 2905518; 669339, 2905583; 669288, 2905572; 669344, 2905496; 669347, 2905472; 669034, 2905286; 668956, 2905255; 668854, 2905241; 668611, 2905252; 668468, 2905150; 668244, 2905100; 668057, 2905025; 667805, 2904855; 667620, 2904648; 667601, 2904606; 667586, 2904480; 667625, 2904460; 667819, 2904468; 668049, 2904580; 668127, 2904688; 668124, 2904761; 668098, 2904784; 668122, 2904815; 668365, 2904885; 668602, 2904877; 668731, 2904837; 668834, 2904824; 669023, 2904861; 669190, 2904931; 669340, 2905018; 669463, 2905144; 669522, 2905179; 669494, 2905107; 669441, 2905050; 669091, 2904844; 668964, 2904787; 668799, 2904772; 668579, 2904836; 668462, 2904829; 668376, 2904779; 668343, 2904727; 668339, 2904688; 668346, 2904654; 668398, 2904598; 668403, 2904546; 668376, 2904472; 668267, 2904319; 668168, 2904272; 667993, 2904272; 667741, 2904213; 667672, 2904159; 667534, 2903988; 667462, 2903938; 667263, 2903939; 666747, 2905071; 666879, 2905356; 667080, 2905623; 667224, 2905892; 667356, 2906044; 667565, 2906152; 667616, 2906170; 667652, 2906162; 667695, 2906084; 667723, 2905991; 667711, 2905945; 667669, 2905889; 667573, 2905815; 667567, 2905781; 667582, 2905756; 667640, 2905754; 667786, 2905810; 667886, 2905878; 667986, 2906076; 668299, 2906461; 668393, 2906492; 668435, 2906487; 668487, 2906448; 668526, 2906454; 668540, 2906486; 668544, 2906597; 668475, 2906731; 668461, 2906795; 668530, 2907020; 668540, 2907106; 668502, 2907106; 668363, 2907011; 668338, 2906891; 668225, 2906759; 668066, 2906706; 667961, 2906710; 667857, 2906679; 667813, 2906703; 667782, 2906745; 667691, 2906790; 667560, 2906819; 667526, 2906842; 667511, 2906886; 667484, 2906886; 667365, 2906828; 667272, 2906705; 667221, 2906663; 667131, 2906622; 666895, 2906470; 666787, 2906361; 666751, 2906285; 666691, 2906213; 666619, 2906185; 666589, 2906155; 666249, 2906162; 665449, 2907919; 665387, 2908108; 665325, 2908239; 665289, 2908270; 665208, 2908448; 664976, 2910122; 665001, 2910749; 664962, 2911103; 664924, 2911248; 664898, 2911282; 664846, 2911318; 664822, 2911308; 664815, 2911283; 664713, 2912022; 664764, 2912101; 664988, 2912357; 665249, 2912783; 665327, 2912842; 665601, 2912943; 666188, 2911711; 666246, 2911721; 666266, 2911767; 666207, 2911756; 666187, 2911735; 666188, 2911711; 667998, 2909697; 668039, 2909687; 668068, 2909714; 668073, 2909758; 668045, 2909798; 667980, 2909801; 667978, 2909743; 667998, 2909697; 667598, 2909500; 667646, 2909514; 667681, 2909551; 667688, 2909590; 667671, 2909623; 667621, 2909632; 667548, 2909589; 667544, 2909543; 667598, 2909500; 667966, 2909350; 667988, 2909404; 667970, 2909426; 667876, 2909367; 667860, 2909349; 667858, 2909312; 667893, 2909280; 667935, 2909278; 667954, 2909292; 667966, 2909350; 668275, 2909375; 668402, 2909449; 668441, 2909538; 668491, 2909578; 668487, 2909601; 668435, 2909614; 668393, 2909574; 668336, 2909552; 668306, 2909507; 668295, 2909427; 668264, 2909394; Thence returning to 668275, 2909375.

668328, 2913283; 668316, 2913233; 668265, 2913271; 668199, 2913266; 668152, 2913215; 668155, 2913149; 668186, 2913109; 668262, 2913091; 668315, 2913109; 668338, 2913160; 668389, 2913123; 668381, 2913082; 668318, 2913062; 668134, 2913094; 668105, 2913159; 668115, 2913229; 668133, 2913259; 668249, 2913318; Thence returning to 668328, 2913283.

666189, 2913507; 666064, 2913385; 665797, 2913180; 665910, 2913346; 666007, 2913448; 666081, 2913493; Thence returning to 666189, 2913507.

668066, 2913502; 668144, 2913511; 668086, 2913429; 668029, 2913464; 667993, 2913508; 667959, 2913607; 667966, 2913709; 667982, 2913735; 668008, 2913744; 668029, 2913791; 668050, 2913782; 668056, 2913753; 668092, 2913741; 668087, 2913710; 668025, 2913672; 668009, 2913643; 668017, 2913553; Thence returning to 668066, 2913502.

666922, 2913706; 666909, 2913685; 666935, 2913549; 667041, 2913402; 667018, 2913311; 666609, 2912992; 666468, 2912795; 666323, 2912644; 666281, 2912635; 666333, 2912711; 666313, 2912713; 666271, 2912671; 666252, 2912674; 666273, 2912736; 666250, 2912744; 666251, 2912783; 666228, 2912789; 666217, 2912720; 666179, 2912673; 666171, 2912706; 666158, 2912706; 666040, 2912644; 665969, 2912662; 665941, 2912710; 665940, 2912778; 665976, 2912879; 666047, 2912940; 666204, 2912980; 666442, 2913137; 666578, 2913247; 666679, 2913407; 666708, 2913513; 666723, 2913656; 666719, 2913916; 666705, 2913946; 666661, 2913970; 666678, 2914037; 666713, 2914038; 666751, 2914011; 666856, 2913879; 666911, 2913765; Thence returning to 666922, 2913706.

667892, 2914238; 667909, 2914242; 667944, 2914185; 667925, 2914169; 667941, 2914137; 667938, 2914081; 667986, 2914089; 668014, 2914009; 667917, 2913999; 667895, 2913977; 667872, 2913875; 667854, 2913865; 667845, 2913893; 667857, 2914075; 667843, 2914088; 667821, 2914076; 667831, 2914007; 667815, 2913928; 667782, 2914081; 667750, 2914126; 667797, 2914192; 667827, 2914190; 667862, 2914210; 667869, 2914252; Thence returning to 667892, 2914238.

667715, 2914175; 667707, 2914151; 667668, 2914211; 667666, 2914379; 667730, 2914410; 667688, 2914337; Thence returning to 667715, 2914175.

667664, 2914535; 667705, 2914535; 667747, 2914567; 667748, 2914469; 667672, 2914436; 667641, 2914399; 667554, 2914545; 667503, 2914724; 667533, 2914791; 667649, 2914789; 667573, 2914758; 667548, 2914704; 667576, 2914619; 667608, 2914575; Thence returning to 667664, 2914535.

667451, 2914902; 667429, 2914903; 667395, 2914937; 667397, 2915065; 667412, 2915059; Thence returning to 667451, 2914902.

666299, 2914080; 666301, 2914025; 666256, 2914108; 666263, 2914215; 666285, 2914266; 666271, 2914480; 666304, 2914681; 666301, 2914726; 666276, 2914760; 666453, 2915497; 666472, 2915525; 666504, 2915534; 666450, 2915208; 666374, 2914919; 666362, 2914731; 666305, 2914524; 666319, 2914259; Thence returning to 666299, 2914080.

667306, 2915558; 667320, 2915545; 667275, 2915488; 667244, 2915411; 667217, 2915475; 667217, 2915556; 667184, 2915512; 667182, 2915621; 667252, 2915559; Thence returning to 667306, 2915558.

662839, 2915636; 662821, 2915579; 662747, 2915497; 662660, 2915574; 662797, 2915683; 662824, 2915675; 662822, 2915652; Thence returning to 662839, 2915636.

663019, 2915748; 662972, 2915739; 663034, 2915807; 663156, 2915889; 663141, 2915847; Thence returning to 663019, 2915748.

662253, 2915950; 662237, 2915947; 662207, 2915973; 662251, 2915976; Thence returning to 662253, 2915950.

665957, 2916063; 665880, 2916042; 665837, 2916077; 665914, 2916148; 665960, 2916114; Thence returning to 665957, 2916063.

666056, 2916265; 666050, 2916239; 665997, 2916262; 665948, 2916254; 665898, 2916349; 665933, 2916359; 666002, 2916423; 666020, 2916315; Thence returning to 666056, 2916265.

665622, 2916398; 665769, 2916283; 665856, 2916267; 665902, 2916186; 665854, 2916131; 665789, 2916119; 665742, 2916073; 665760, 2916016; 665733, 2915833; 665745, 2915813; 665764, 2915835; 665785, 2915992; 665850, 2915996; 665922, 2915922; 665980, 2915922; 666015, 2915864; 666045, 2915881; 666045, 2915945; 666057, 2915960; 666083, 2915955; 666124, 2915911; 666159, 2915910; 666148, 2915941; 666000, 2916072; 665973, 2916166; 665979, 2916213; 666006, 2916219; 666024, 2916194; 666005, 2916185; 666004, 2916166; 666081, 2916091; 666173, 2916065; 666206, 2916077; 666186, 2916110; 666046, 2916187; 666103, 2916222; 666056, 2916341; 666074, 2916380; 666112, 2916393; 666156, 2916360; 666216, 2916401; 666252, 2916363; 666293, 2916350; 666349, 2916234; 666365, 2916153; 666400, 2916141; 666420, 2916113; 666491, 2916104; 666502, 2916009; 666538, 2916020; 666576, 2915980; 666648, 2915951; 666722, 2915981; 666754, 2916010; 666784, 2916003; 666811, 2916018; 666832, 2916010; 666866, 2915955; 666637, 2915864; 666561, 2915796; 666512, 2915702; 666430, 2915887; 666380, 2915935; 666373, 2915906; 666408, 2915835; 666191, 2915683; 666125, 2915666; 665940, 2915689; 665794, 2915646; 665656, 2915666; 665621, 2915634; 665580, 2915548; 665456, 2915515; 665377, 2915412; 665320, 2915365; 665299, 2915282; 665361, 2915138; 665359, 2915059; 665395, 2915006; 665397, 2914921; 665410, 2914892; 665344, 2914745; 665319, 2914575; 665311, 2914413; 665341, 2914145; 665370, 2914071; 665469, 2913984; 665530, 2913901; 665546, 2913902; 665572, 2913939; 665666, 2913981; 665720, 2914081; 665746, 2914056; 665758, 2913966; 665699, 2913850; 665645, 2913633; 665606, 2913565; 665602, 2913485; 665582, 2913429; 665539, 2913401; 665497, 2913346; 665406, 2913326; 665327, 2913286; 665162, 2913256; 665015, 2913179; 664887, 2913036; 664771, 2912855; 664682, 2912639; 664666, 2912362; 664438, 2914008; 663352, 2914965; 663449, 2915009; 663800, 2915282; 663921, 2915346; 664091, 2915368; 664192, 2915262; 664231, 2915255; 664299, 2915276; 664332, 2915357; 664353, 2915518; 664332, 2915539; 664176, 2915565; 664112, 2915627; 664117, 2915667; 664182, 2915728; 664224, 2915747; 664308, 2915755; 664442, 2915732; 664527, 2915764; 664563, 2915794; 664650, 2915897; 664682, 2915967; 664744, 2916148; 664758, 2916277; 664724, 2916285; 664443, 2916201; 664384, 2916166; 664282, 2916165; 664056, 2916086; 664033, 2916112; 663980, 2916083; 663961, 2916117; 663863, 2916105; 663817, 2916077; 663782, 2916031; 663681, 2915843; 663440, 2915614; 663354, 2915494; 663283, 2915426; 663066, 2915444; 662894, 2915368; 662822, 2915431; 662970, 2915570; 663028, 2915670; 663210, 2915793; 663237, 2915800; 663206, 2915754; 663214, 2915734; 663277, 2915763; 663297, 2915748; 663268, 2915669; 663275, 2915645; 663362, 2915665; 663444, 2915760; 663509, 2915878; 663546, 2915869; 663599, 2915901; 663670, 2915971; 663778, 2916115; 664752, 2916316; 664836, 2916345; 664820, 2916192; 664853, 2916197; 664889, 2916263; 664889, 2916296; 664914, 2916304; 664934, 2916279; 664956, 2916175; 664977, 2916169; 665007, 2916202; 665042, 2916138; 665055, 2916153; 665059, 2916216; 665022, 2916297; 665026, 2916326; 665044, 2916322; 665072, 2916245; 665119, 2916194; 665133, 2916213; 665129, 2916289; 665092, 2916294; 665090, 2916345; 665159, 2916363; 665230, 2916265; 665242, 2916283; 665213, 2916351; 665217, 2916375; 665314, 2916369; 665373, 2916384; 665367, 2916420; 665411, 2916442; 665526, 2916447; 665605, 2916423; Thence returning to 665622, 2916398.

662304, 2916389; 662338, 2916370; 662346, 2916345; 662225, 2916383; 662192, 2916374; 662182, 2916348; 662216, 2916295; 662257, 2916120; 662256, 2916062; 662235, 2916036; 662222, 2916035; 662218, 2916053; 662237, 2916098; 662232, 2916142; 662211, 2916190; 662155, 2916244; 662065, 2916250; 662040, 2916229; 661999, 2916223; 661964, 2916187; 661781, 2916348; 662187, 2916423; Thence returning to 662304, 2916389.

665584, 2916633; 665140, 2916523; 665063, 2916531; 665053, 2916575; 665032, 2916591; 664893, 2916540; 664860, 2916542; 664818, 2916491; 664765, 2916469; 664745, 2916475; 664780, 2916544; 664846, 2916571; 665052, 2916624; 665077, 2916586; 665109, 2916610; 665147, 2916605; 665189, 2916633; 665215, 2916679; 666317, 2916994; 666490, 2917106; 666547, 2917232; 666558, 2917307; 666508, 2917476; 666381, 2917806; 666307, 2918068; 666332, 2918058; 666413, 2917830; 666585, 2917606; 666640, 2917454; 666637, 2917333; 666537, 2917082; 666451, 2916978; 666262, 2916815; 666202, 2916783; Thence returning to 665584, 2916633.

666130, 2918002; 666192, 2918003; 666247, 2917929; 666324, 2917895; 666425, 2917594; 666228, 2917581; 666041, 2917597; 665985, 2918099; 665987, 2918198; 666047, 2918261; 666126, 2918294; 666150, 2918280; 666244, 2918092; 666124, 2918029; 666114, 2918015; Thence returning to 666130, 2918002.

665418, 2919121; 665431, 2919108; 665481, 2919126; 665542, 2919087; 665564, 2919035; 665523, 2918994; 665515, 2918919; 665455, 2918866; 665414, 2918897; 665415, 2919028; 665381, 2919126; 665381, 2919163; Thence returning to 665418, 2919121.

660725, 2919370; 660724, 2919359; 660706, 2919411; Thence returning to 660725, 2919370.

660771, 2919405; 660795, 2919408; 660820, 2919438; 660877, 2919427; 660905, 2919364; 660948, 2919328; 660998, 2919318; 661049, 2919337; 661058, 2919326; 661053, 2919255; 660970, 2919234; 660912, 2919183; 660905, 2919068; 660886, 2919037; 660840, 2919005; 660833, 2919026; 660872, 2919065; 660878, 2919093; 660871, 2919172; 660927, 2919252; 660928, 2919298; 660886, 2919318; 660844, 2919375; 660773, 2919382; 660725, 2919414; 660689, 2919465; 660652, 2919578; 660728, 2919528; 660761, 2919462; 660755, 2919424; Thence returning to 660771, 2919405.

660815, 2919564; 660818, 2919535; 660634, 2919631; 660620, 2919674; Thence returning to 660815, 2919564.

660740, 2919894; 660709, 2919890; 660698, 2919871; 660707, 2919799; 660641, 2919779; 660583, 2919785; 660566, 2919838; 660593, 2919843; 660626, 2919912; 660685, 2919965; 660743, 2919979; 660730, 2919947; Thence returning to 660740, 2919894.

661995, 2920003; 661981, 2919988; 661948, 2919990; 661890, 2919940; 661888, 2919918; 661923, 2919909; 661894, 2919851; 661837, 2919841; 661764, 2919882; 661788, 2919902; 661844, 2919881; 661845, 2919960; 661951, 2920019; 662000, 2920026; Thence returning to 661995, 2920003.

660737, 2920078; 660792, 2920058; 660797, 2920041; 660773, 2920015; 660725, 2920016; 660661, 2919984; 660545, 2919901; 660516, 2919992; 660577, 2920060; 660546, 2920069; 660501, 2920035; 660491, 2920068; 660529, 2920102; 660726, 2920169; 660785, 2920208; 660938, 2920184; 660692, 2920110; 660697, 2920094; Thence returning to 660737, 2920078.

665462, 2920589; 665521, 2920437; 665495, 2920427; 665472, 2920432; 665467, 2920456; 665448, 2920455; 665327, 2920748; 665292, 2920877; 665144, 2921178; 665182, 2921157; 665220, 2921085; 665254, 2921068; 665286, 2921012; Thence returning to 665462, 2920589.

660395, 2921910; 660357, 2921850; 660336, 2921851; 660321, 2921882; 660307, 2921882; 660223, 2921833; 660326, 2921984; 660446, 2922125; 660507, 2922240; 660578, 2922241; Thence returning to 660395, 2921910.

664737, 2922160; 664906, 2921908; 664950, 2921811; 664908, 2921847; 664759, 2922073; 664742, 2922048; 664807, 2921916; 664807, 2921888; 664615, 2921977; 664542, 2921950; 664527, 2921922; 664530, 2921864; 664633, 2921594; 664717, 2921541; 664685, 2921438; 664732, 2921381; 664736, 2921281; 664788, 2921267; 664797, 2921194; 664924, 2921201; 664875, 2921162; 664880, 2921147; 664913, 2921155; 664915, 2921110; 664865, 2921071; 664900, 2920956; 664956, 2920905; 665115, 2920902; 665010, 2920848; 665025, 2920830; 665064, 2920831; 665079, 2920797; 665048, 2920727; 665058, 2920683; 665083, 2920671; 665109, 2920611; 665177, 2920601; 665206, 2920621; 665223, 2920569; 665202, 2920554; 665151, 2920558; 665142, 2920530; 665205, 2920513; 665263, 2920521; 665290, 2920497; 665279, 2920479; 665235, 2920483; 665190, 2920432; 665158, 2920424; 665164, 2920364; 665206, 2920313; 665190, 2920277; 665270, 2920272; 665315, 2920221; 665429, 2920244; 665445, 2920219; 665436, 2920117; 665361, 2920105; 665305, 2920076; 665271, 2919973; 665276, 2919934; 665317, 2919912; 665365, 2919930; 665380, 2919875; 665423, 2919886; 665439, 2919848; 665495, 2919843; 665566, 2919801; 665487, 2919770; 665488, 2919742; 665685, 2919807; 665722, 2919703; 665658, 2919730; 665599, 2919735; 665535, 2919702; 665485, 2919696; 665415, 2919745; 665404, 2919734; 665404, 2919672; 665448, 2919632; 665435, 2919606; 665497, 2919517; 665532, 2919528; 665550, 2919497; 665639, 2919457; 665630, 2919439; 665575, 2919432; 665572, 2919414; 665607, 2919331; 665640, 2919308; 665678, 2919207; 665697, 2919212; 665695, 2919256; 665800, 2919216; 665797, 2919192; 665716, 2919183; 665758, 2919144; 665805, 2919136; 665819, 2919093; 665863, 2919100; 665906, 2919154; 665935, 2919145; 665960, 2919162; 665997, 2919048; 666035, 2918988; 666009, 2918956; 665925, 2918973; 665881, 2918966; 665872, 2918951; 665884, 2918910; 665844, 2918870; 665885, 2918769; 665937, 2918728; 666037, 2918746; 666052, 2918809; 666084, 2918830; 666025, 2918874; 666028, 2918916; 666069, 2918869; 666101, 2918861; 666139, 2918808; 666153, 2918723; 666088, 2918623; 666051, 2918604; 665821, 2918676; 665803, 2918694; 665856, 2918707; 665787, 2918744; 665714, 2918745; 665744, 2918826; 665668, 2918829; 665645, 2918844; 665648, 2918864; 665691, 2918895; 665639, 2918940; 665640, 2918967; 665751, 2918973; 665797, 2918999; 665860, 2919002; 665873, 2919017; 665830, 2919029; 665820, 2919049; 665733, 2919066; 665647, 2919061; 665540, 2919214; 665464, 2919273; 665450, 2919259; 665474, 2919190; 665458, 2919180; 665363, 2919348; 665300, 2919397; 665278, 2919339; 665252, 2919326; 665249, 2919307; 665313, 2919276; 665325, 2919237; 665315, 2919197; 665347, 2919200; 665353, 2919147; 665342, 2919134; 665263, 2919142; 665223, 2919119; 665237, 2918973; 665225, 2918963; 665196, 2918982; 665159, 2918954; 665142, 2918867; 665153, 2918766; 665173, 2918754; 665191, 2918818; 665231, 2918764; 665162, 2918728; 665096, 2918771; 665047, 2918860; 665058, 2918915; 665024, 2918982; 665001, 2918966; 665032, 2918894; 664979, 2918894; 664945, 2918846; 664876, 2918842; 664842, 2918816; 664776, 2918857; 664812, 2918792; 664925, 2918700; 664953, 2918596; 664934, 2918551; 664893, 2918526; 664860, 2918606; 664846, 2918624; 664834, 2918616; 664844, 2918527; 664823, 2918454; 664835, 2918372; 664801, 2918332; 664789, 2918261; 664823, 2918189; 664794, 2918146; 664802, 2918120; 664719, 2918058; 664611, 2917935; 664581, 2917872; 664506, 2917815; 664468, 2917824; 664398, 2917911; 664362, 2917919; 664370, 2917834; 664347, 2917782; 664343, 2917713; 664369, 2917565; 664330, 2917383; 664349, 2917205; 664315, 2917070; 664316, 2916997; 664351, 2916989; 664343, 2917025; 664359, 2917040; 664364, 2917107; 664397, 2917204; 664389, 2917308; 664400, 2917339; 664429, 2917267; 664466, 2917352; 664621, 2917303; 664831, 2917299; 664856, 2917322; 664875, 2917378; 664923, 2917429; 665070, 2917511; 665173, 2917540; 665264, 2917529; 665335, 2917540; 665407, 2917624; 665534, 2917936; 665664, 2918097; 665765, 2918263; 665792, 2918321; 665801, 2918388; 665870, 2918419; 665930, 2918386; 666039, 2918477; 665958, 2918483; 665846, 2918464; 665783, 2918420; 665637, 2918127; 665509, 2917970; 665474, 2917853; 665397, 2917727; 665379, 2917645; 665350, 2917607; 665220, 2917556; 665197, 2917576; 665044, 2917543; 664861, 2917419; 664803, 2917325; 664585, 2917347; 664388, 2917399; 664390, 2917431; 664512, 2917458; 664644, 2917418; 664676, 2917421; 665037, 2917594; 665239, 2917638; 665366, 2917874; 665432, 2918045; 665585, 2918169; 665704, 2918388; 665745, 2918432; 665831, 2918482; 665940, 2918504; 666060, 2918499; 666107, 2918449; 666061, 2918445; 666012, 2918391; 666002, 2918339; 666030, 2918288; 665961, 2918236; 665951, 2918205; 665954, 2918041; 666006, 2917592; 665862, 2917359; 665574, 2917189; 664943, 2917062; 664911, 2917043; 664877, 2917135; 664791, 2917072; 664773, 2917031; 664719, 2917012; 663466, 2916734; 663459, 2916715; 663486, 2916707; 664683, 2916965; 664635, 2916874; 664559, 2916817; 664527, 2916830; 664514, 2916889; 664494, 2916894; 664481, 2916870; 664456, 2916864; 664443, 2916829; 664382, 2916856; 664331, 2916797; 664198, 2916778; 664151, 2916788; 664122, 2916761; 664102, 2916703; 664108, 2916635; 664148, 2916560; 664143, 2916522; 664087, 2916583; 664051, 2916594; 663954, 2916687; 663911, 2916681; 663927, 2916631; 663920, 2916610; 663880, 2916641; 663860, 2916638; 663843, 2916562; 663802, 2916576; 663809, 2916641; 663771, 2916706; 663729, 2916709; 663658, 2916673; 663615, 2916688; 663518, 2916628; 663498, 2916595; 663477, 2916532; 663484, 2916394; 663466, 2916389; 663393, 2916438; 663367, 2916439; 663307, 2916362; 663286, 2916389; 663276, 2916384; 663249, 2916310; 663227, 2916282; 663199, 2916274; 663188, 2916279; 663182, 2916327; 663205, 2916406; 663076, 2916446; 662972, 2916557; 662930, 2916550; 662881, 2916501; 662870, 2916481; 662876, 2916412; 662816, 2916363; 662841, 2916461; 662830, 2916549; 662864, 2916577; 663265, 2916671; 663248, 2916679; 663068, 2916656; 662843, 2916596; 662729, 2916603; 662592, 2916545; 662323, 2916486; 662193, 2916478; 662135, 2916445; 661750, 2916376; 661685, 2916435; 661220, 2917848; 661556, 2918267; 661617, 2918433; 661609, 2918588; 661618, 2918645; 661674, 2918624; 661700, 2918541; 661753, 2918501; 661839, 2918485; 661896, 2918524; 661928, 2918492; 661959, 2918363; 661984, 2918344; 661991, 2918368; 661974, 2918453; 661993, 2918479; 661997, 2918439; 662012, 2918424; 662092, 2918399; 662208, 2918430; 662211, 2918400; 662329, 2918374; 662355, 2918401; 662363, 2918475; 662407, 2918449; 662457, 2918513; 662486, 2918564; 662487, 2918593; 662468, 2918624; 662429, 2918557; 662380, 2918588; 662339, 2918534; 662338, 2918571; 662369, 2918616; 662356, 2918652; 662379, 2918672; 662369, 2918706; 662406, 2918787; 662507, 2918739; 662568, 2918741; 662572, 2918809; 662520, 2918785; 662467, 2918806; 662480, 2918828; 662547, 2918832; 662564, 2918855; 662558, 2918928; 662512, 2918913; 662516, 2918978; 662553, 2918998; 662551, 2919025; 662520, 2919044; 662508, 2919032; 662430, 2918896; 662413, 2918921; 662385, 2918889; 662341, 2918878; 662352, 2918951; 662399, 2919009; 662393, 2919065; 662367, 2919109; 662279, 2919160; 662238, 2919165; 662221, 2919151; 662230, 2919135; 662323, 2919107; 662329, 2919053; 662243, 2919007; 662245, 2918955; 662206, 2918971; 662191, 2918963; 662206, 2918930; 662259, 2918934; 662251, 2918917; 662189, 2918893; 662160, 2918914; 662141, 2918878; 662117, 2918890; 662123, 2918929; 662163, 2918982; 662198, 2918988; 662202, 2919008; 662167, 2919040; 662172, 2919069; 662143, 2919105; 662137, 2919149; 662101, 2919108; 662099, 2919185; 662046, 2919182; 662058, 2919250; 662011, 2919286; 662035, 2919339; 662058, 2919301; 662095, 2919311; 662096, 2919368; 662060, 2919436; 662106, 2919463; 662134, 2919457; 662262, 2919622; 662183, 2919819; 662138, 2919881; 662086, 2920037; 662115, 2920023; 662172, 2919881; 662184, 2919899; 662147, 2920059; 662176, 2920109; 662186, 2920113; 662202, 2920080; 662184, 2920060; 662185, 2920012; 662241, 2920028; 662275, 2919974; 662337, 2919976; 662333, 2919938; 662287, 2919934; 662225, 2919999; 662220, 2919938; 662204, 2919928; 662269, 2919776; 662333, 2919732; 662392, 2919773; 662445, 2919849; 662459, 2919950; 662437, 2919988; 662293, 2920112; 662284, 2920135; 662171, 2920146; 662163, 2920179; 662227, 2920181; 662202, 2920213; 662165, 2920219; 662125, 2920180; 661974, 2920145; 661955, 2920129; 661964, 2920098; 661951, 2920080; 661822, 2919983; 661642, 2919889; 661534, 2919777; 661577, 2919747; 661643, 2919846; 661663, 2919847; 661692, 2919813; 661733, 2919863; 661746, 2919860; 661735, 2919829; 661746, 2919792; 661814, 2919777; 661828, 2919761; 661797, 2919707; 661799, 2919686; 661830, 2919684; 661838, 2919661; 661814, 2919553; 661725, 2919551; 661702, 2919528; 661713, 2919508; 661804, 2919502; 661816, 2919470; 661720, 2919386; 661714, 2919346; 661761, 2919331; 661843, 2919371; 661892, 2919346; 661928, 2919018; 661890, 2919007; 661793, 2919030; 661755, 2919075; 661729, 2919158; 661666, 2919153; 661585, 2919111; 661540, 2919133; 661550, 2919171; 661637, 2919181; 661657, 2919241; 661654, 2919278; 661608, 2919326; 661586, 2919402; 661577, 2919541; 661537, 2919566; 661494, 2919551; 661473, 2919413; 661454, 2919392; 661399, 2919510; 661331, 2919514; 661385, 2919586; 661383, 2919631; 661363, 2919649; 661326, 2919626; 661240, 2919766; 661204, 2919790; 661208, 2919807; 661227, 2919825; 661298, 2919809; 661330, 2919772; 661357, 2919695; 661387, 2919682; 661429, 2919794; 661520, 2919818; 661538, 2919853; 661520, 2919875; 661402, 2919896; 661365, 2919887; 661334, 2919920; 661296, 2919929; 661310, 2919973; 661354, 2919983; 661375, 2920023; 661421, 2920022; 661442, 2920006; 661444, 2919977; 661377, 2919959; 661378, 2919932; 661543, 2919905; 661560, 2919927; 661607, 2919929; 661618, 2919949; 661611, 2919984; 661663, 2920013; 661714, 2920008; 661739, 2919971; 661788, 2919988; 661861, 2920048; 661835, 2920061; 661810, 2920188; 661909, 2920210; 661954, 2920245; 662082, 2920258; 662150, 2920285; 662194, 2920339; 662213, 2920429; 662242, 2920423; 662244, 2920507; 662223, 2920538; 662196, 2920537; 662218, 2920500; 662212, 2920476; 662118, 2920532; 662013, 2920525; 662002, 2920497; 662098, 2920471; 662120, 2920440; 662116, 2920408; 662092, 2920402; 662048, 2920431; 662025, 2920353; 661939, 2920526; 661921, 2920551; 661897, 2920557; 661877, 2920534; 661869, 2920468; 661840, 2920447; 661820, 2920403; 661811, 2920445; 661833, 2920484; 661837, 2920533; 661877, 2920597; 661871, 2920660; 661823, 2920673; 661807, 2920651; 661804, 2920596; 661700, 2920479; 661616, 2920547; 661599, 2920487; 661564, 2920447; 661582, 2920427; 661568, 2920395; 661594, 2920374; 661513, 2920320; 661474, 2920334; 661477, 2920292; 661464, 2920265; 661418, 2920308; 661420, 2920385; 661404, 2920431; 661364, 2920496; 661316, 2920533; 661242, 2920539; 661171, 2920522; 661073, 2920535; 660950, 2920514; 660873, 2920532; 660806, 2920507; 660777, 2920550; 660746, 2920565; 660569, 2920620; 660429, 2920626; 660319, 2920589; 660259, 2920774; 660381, 2920838; 660458, 2921058; 660489, 2921082; 660559, 2921097; 660570, 2921086; 660562, 2921020; 660582, 2920979; 660626, 2920974; 660679, 2920996; 660774, 2921087; 660840, 2921120; 660838, 2921149; 660773, 2921184; 660775, 2921246; 660813, 2921310; 660882, 2921337; 661064, 2921339; 661105, 2921302; 661118, 2921232; 661101, 2921187; 661037, 2921139; 660891, 2921130; 660882, 2921118; 660999, 2921077; 661020, 2920938; 661046, 2920869; 661120, 2920760; 661207, 2920706; 661380, 2920652; 661434, 2920653; 661515, 2920689; 661507, 2920723; 661441, 2920719; 661419, 2920736; 661418, 2920782; 661442, 2920851; 661488, 2920919; 661491, 2920879; 661456, 2920838; 661468, 2920818; 661457, 2920797; 661483, 2920779; 661458, 2920764; 661461, 2920748; 661506, 2920752; 661558, 2920727; 661678, 2920779; 661724, 2920782; 661839, 2920737; 661898, 2920742; 661932, 2920767; 661970, 2920837; 661978, 2920929; 661999, 2920873; 661988, 2920811; 661919, 2920696; 661980, 2920681; 662070, 2920683; 662107, 2920711; 662135, 2920764; 662004, 2921434; 661886, 2921777; 661794, 2921943; 661741, 2922008; 661665, 2922088; 661570, 2922155; 661489, 2922137; 661402, 2922058; 661415, 2922011; 661456, 2921995; 661443, 2921932; 661412, 2921909; 661380, 2921950; 661350, 2921883; 661387, 2921815; 661444, 2921799; 661463, 2921704; 661412, 2921555; 661343, 2921493; 661205, 2921445; 660998, 2921508; 660852, 2921450; 660916, 2921517; 660976, 2921549; 661110, 2921737; 661146, 2921745; 661173, 2921770; 661085, 2921762; 660988, 2921650; 660961, 2921694; 660977, 2921723; 661111, 2921868; 661265, 2921943; 661324, 2922017; 661339, 2922057; 661332, 2922088; 661232, 2922066; 661216, 2922098; 661230, 2922124; 661303, 2922150; 661313, 2922167; 661245, 2922182; 661240, 2922213; 661212, 2922227; 661181, 2922221; 661079, 2922136; 661082, 2922102; 661157, 2922114; 661039, 2921996; 661024, 2921997; 661035, 2922064; 660926, 2922019; 660796, 2922005; 660781, 2921908; 660752, 2921871; 660764, 2921842; 660795, 2921850; 660909, 2921954; 660952, 2921960; 660886, 2921875; 660765, 2921799; 660711, 2921745; 660685, 2921674; 660718, 2921629; 660706, 2921598; 660665, 2921605; 660631, 2921581; 660605, 2921597; 660614, 2921643; 660675, 2921719; 660680, 2921756; 660724, 2921808; 660725, 2921828; 660704, 2921853; 660686, 2921819; 660655, 2921806; 660581, 2921825; 660579, 2921850; 660685, 2921985; 660754, 2922010; 660862, 2922091; 660830, 2922168; 660869, 2922244; 660902, 2922245; 660923, 2922245; 662927, 2922279; 663044, 2922087; 663076, 2922069; 663067, 2922149; 663012, 2922281; 664408, 2922301; 664408, 2922268; 664372, 2922244; 664370, 2922225; 664412, 2922194; 664453, 2922131; 664506, 2922112; 664633, 2922115; 664648, 2922123; 664677, 2922202; 664597, 2922304; 664641, 2922305; 664737, 2922160; 661247, 2921635; 661307, 2921705; 661305, 2921740; 661262, 2921731; 661243, 2921703; 661235, 2921654; 661247, 2921635; 661304, 2921652; 661254, 2921620; 661206, 2921631; 661153, 2921621; 661123, 2921589; 661119, 2921540; 661140, 2921527; 661169, 2921573; 661260, 2921598; 661326, 2921658; 661304, 2921652; 663251, 2920854; 663317, 2920654; 663333, 2920555; 663353, 2920524; 663359, 2920369; 663379, 2920307; 663359, 2920251; 663373, 2920210; 663418, 2920158; 663438, 2920172; 663464, 2920235; 663490, 2920245; 663542, 2920179; 663657, 2920172; 663653, 2920205; 663587, 2920201; 663486, 2920280; 663451, 2920270; 663429, 2920213; 663412, 2920210; 663381, 2920588; 663357, 2920684; 663325, 2920737; 663323, 2920878; 663226, 2921119; 663213, 2921078; 663189, 2921063; 663201, 2920982; 663153, 2920949; 663151, 2920919; 663210, 2920900; 663251, 2920854; 662602, 2920485; 662554, 2920475; 662556, 2920460; 662600, 2920440; 662564, 2920416; 662553, 2920387; 662606, 2920395; 662571, 2920351; 662494, 2920361; 662470, 2920347; 662470, 2920316; 662525, 2920298; 662523, 2920264; 662500, 2920262; 662459, 2920292; 662425, 2920274; 662427, 2920240; 662452, 2920263; 662466, 2920251; 662463, 2920186; 662372, 2920223; 662359, 2920215; 662369, 2920177; 662575, 2919999; 662628, 2920076; 662625, 2920264; 662649, 2920360; 662639, 2920451; 662602, 2920485; 662321, 2920211; 662317, 2920235; 662299, 2920240; 662292, 2920187; 662308, 2920179; 662321, 2920211; 662393, 2920290; 662408, 2920338; 662400, 2920354; 662372, 2920311; 662375, 2920281; 662393, 2920290; 662334, 2920454; 662404, 2920538; 662398, 2920548; 662355, 2920536; 662346, 2920589; 662301, 2920625; 662291, 2920597; 662315, 2920498; 662303, 2920447; 662334, 2920454; 662160, 2920596; 662139, 2920580; 662148, 2920559; 662177, 2920574; 662160, 2920596; 662370, 2920579; 662404, 2920583; 662402, 2920625; 662370, 2920684; 662347, 2920693; 662331, 2920667; 662370, 2920579; 662496, 2920591; 662497, 2920574; 662511, 2920571; 662539, 2920618; 662598, 2920663; 662492, 2920829; 662477, 2920793; 662446, 2920770; 662461, 2920717; 662474, 2920718; 662499, 2920763; 662523, 2920736; 662526, 2920702; 662496, 2920591; 662644, 2920558; 662618, 2920540; 662647, 2920493; 662644, 2920558; 661034, 2921319; 660969, 2921322; 660834, 2921283; 660795, 2921243; 660792, 2921213; 660838, 2921177; 660954, 2921153; 660994, 2921161; 661074, 2921207; 661091, 2921241; 661086, 2921280; 661034, 2921319; 664001, 2919484; 664015, 2919412; 663957, 2919324; 663951, 2919269; 663998, 2919317; 664038, 2919319; 664088, 2919357; 664219, 2919542; 664179, 2919538; 664107, 2919419; 664057, 2919380; 664039, 2919463; 664055, 2919496; 664044, 2919580; 664009, 2919614; 663945, 2919626; 663946, 2919611; 664000, 2919582; 664001, 2919540; 664020, 2919520; 664001, 2919484; 662160, 2919416; 662143, 2919426; 662119, 2919415; 662122, 2919372; 662146, 2919344; 662172, 2919365; 662160, 2919416; 664533, 2919232; 664519, 2919215; 664445, 2919207; 664420, 2919171; 664489, 2919192; 664526, 2919188; 664564, 2919211; 664680, 2919090; 664688, 2919128; 664726, 2919125; 664696, 2919159; 664644, 2919167; 664583, 2919257; 664533, 2919232; 662505, 2919131; 662485, 2919167; 662450, 2919169; 662474, 2919085; 662502, 2919106; 662505, 2919131; 664549, 2918116; 664525, 2918096; 664473, 2918097; 664525, 2918049; 664567, 2918083; 664599, 2918079; 664581, 2918107; 664549, 2918116; 665397, 2917398; 665340, 2917380; 665321, 2917299; 665281, 2917394; 665254, 2917392; 665249, 2917354; 665347, 2917210; 665419, 2917181; 665439, 2917192; 665446, 2917242; 665397, 2917398; 665265, 2917489; 665231, 2917487; 665230, 2917449; 665255, 2917463; 665298, 2917448; 665326, 2917457; 665265, 2917489; 665915, 2918683; 665983, 2918661; 665934, 2918711; Thence returning to 665915, 2918683.

Excluding:

Unit TX-4, Cameron County, Texas. Coordinates are in UTM Zone 14N, North American Datum 1983 (meters E, meters N):

664408, 2922301; 664597, 2922304; 664677, 2922202; 664648, 2922123; 664633, 2922115; 664506, 2922112; 664453, 2922131; 664412, 2922194; 664370, 2922225; 664372, 2922244; 664408, 2922268; Thence returning to 664408, 2922301.

662927, 2922279; 663007, 2922281; 663012, 2922281; 663067, 2922149; 663076, 2922069; 663044, 2922087; Thence returning to 662927, 2922279.

661307, 2921705; 661247, 2921635; 661235, 2921654; 661243, 2921703; 661262, 2921731; 661305, 2921740; Thence returning to 661307, 2921705.

661326, 2921658; 661260, 2921598; 661169, 2921573; 661140, 2921527; 661119, 2921540; 661123, 2921589; 661153, 2921621; 661206, 2921631; 661254, 2921620; 661304, 2921652; Thence returning to 661326, 2921658.

660994, 2921161; 660954, 2921153; 660838, 2921177; 660792, 2921213; 660795, 2921243; 660834, 2921283; 660969, 2921322; 661034, 2921319; 661086, 2921280; 661091, 2921241; 661074, 2921207; Thence returning to 660994, 2921161.

663381, 2920588; 663412, 2920210; 663429, 2920213; 663451, 2920270; 663486, 2920280; 663587, 2920201; 663653, 2920205; 663657, 2920172; 663542, 2920179; 663490, 2920245; 663464, 2920235; 663438, 2920172; 663418, 2920158; 663373, 2920210; 663359, 2920251; 663379, 2920307; 663359, 2920369; 663353, 2920524; 663333, 2920555; 663317, 2920654; 663251, 2920854; 663210, 2920900; 663151, 2920919; 663153, 2920949; 663201, 2920982; 663189, 2921063; 663213, 2921078; 663226, 2921119; 663323, 2920878; 663325, 2920737; 663357, 2920684; Thence returning to 663381, 2920588.

662492, 2920829; 662598, 2920663; 662539, 2920618; 662511, 2920571; 662497, 2920574; 662496, 2920591; 662526, 2920702; 662523, 2920736; 662499, 2920763; 662474, 2920718; 662461, 2920717; 662446, 2920770; 662477, 2920793; Thence returning to 662492, 2920829.

662404, 2920583; 662370, 2920579; 662331, 2920667; 662347, 2920693; 662370, 2920684; 662402, 2920625; Thence returning to 662404, 2920583.

662346, 2920589; 662355, 2920536; 662398, 2920548; 662404, 2920538; 662334, 2920454; 662303, 2920447; 662315, 2920498; 662291, 2920597; 662301, 2920625; Thence returning to 662346, 2920589.

662177, 2920574; 662148, 2920559; 662139, 2920580; 662160, 2920596; Thence returning to 662177, 2920574.

662644, 2920558; 662647, 2920493; 662618, 2920540; Thence returning to 662644, 2920558.

662639, 2920451; 662649, 2920360; 662625, 2920264; 662628, 2920076; 662575, 2919999; 662369, 2920177; 662359, 2920215; 662372, 2920223; 662463, 2920186; 662466, 2920251; 662452, 2920263; 662427, 2920240; 662425, 2920274; 662459, 2920292; 662500, 2920262; 662523, 2920264; 662525, 2920298; 662470, 2920316; 662470, 2920347; 662494, 2920361; 662571, 2920351; 662606, 2920395; 662553, 2920387; 662564, 2920416; 662600, 2920440; 662556, 2920460; 662554, 2920475; 662602, 2920485; Thence returning to 662639, 2920451.

662393, 2920290; 662375, 2920281; 662372, 2920311; 662400, 2920354; 662408, 2920338; Thence returning to 662393, 2920290.

662321, 2920211; 662308, 2920179; 662292, 2920187; 662299, 2920240; 662317, 2920235; Thence returning to 662321, 2920211.

664039, 2919463; 664057, 2919380; 664107, 2919419; 664179, 2919538; 664219, 2919542; 664088, 2919357; 664038, 2919319; 663998, 2919317; 663951, 2919269; 663957, 2919324; 664015, 2919412; 664001, 2919484; 664020, 2919520; 664001, 2919540; 664000, 2919582; 663946, 2919611; 663945, 2919626; 664009, 2919614; 664044, 2919580; 664055, 2919496; Thence returning to 664039, 2919463.

662172, 2919365; 662146, 2919344; 662122, 2919372; 662119, 2919415; 662143, 2919426; 662160, 2919416; Thence returning to 662172, 2919365.

664583, 2919257; 664644, 2919167; 664696, 2919159; 664726, 2919125; 664688, 2919128; 664680, 2919090; 664564, 2919211; 664526, 2919188; 664489, 2919192; 664420, 2919171; 664445, 2919207; 664519, 2919215; 664533, 2919232; Thence returning to 664583, 2919257.

662502, 2919106; 662474, 2919085; 662450, 2919169; 662485, 2919167; 662505, 2919131; Thence returning to 662502, 2919106.

665934, 2918711; 665983, 2918661; 665915, 2918683; Thence returning to 665934, 2918711.

664581, 2918107; 664599, 2918079; 664567, 2918083; 664525, 2918049; 664473, 2918097; 664525, 2918096; 664549, 2918116; Thence returning to 664581, 2918107.

665265, 2917489; 665326, 2917457; 665298, 2917448; 665255, 2917463; 665230, 2917449; 665231, 2917487; Thence returning to 665265, 2917489.

665397, 2917398; 665446, 2917242; 665439, 2917192; 665419, 2917181; 665347, 2917210; 665249, 2917354; 665254, 2917392; 665281, 2917394; 665321, 2917299; 665340, 2917380; Thence returning to 665397, 2917398.

666246, 2911721; 666188, 2911711; 666187, 2911735; 666207, 2911756; 666266, 2911767; Thence returning to 666246, 2911721.

668068, 2909714; 668039, 2909687; 667998, 2909697; 667978, 2909743; 667980, 2909801; 668045, 2909798; 668073, 2909758; Thence returning to 668068, 2909714

667646, 2909514; 667598, 2909500; 667544, 2909543; 667548, 2909589; 667621, 2909632; 667671, 2909623; 667688, 2909590; 667681, 2909551; Thence returning to 667646, 2909514.

668402, 2909449; 668275, 2909375; 668264, 2909394; 668295, 2909427; 668306, 2909507; 668336, 2909552; 668393, 2909574; 668435, 2909614; 668487, 2909601; 668491, 2909578; 668441, 2909538; Thence returning to 668402, 2909449.

667954, 2909292; 667935, 2909278; 667893, 2909280; 667858, 2909312; 667860, 2909349; 667876, 2909367; 667970, 2909426; 667988, 2909404; 667966, 2909350; Thence returning to 667954, 2909292.

670904, 2906728; 670867, 2906678; 670809, 2906697; 670784, 2906746; 670778, 2906806; 670862, 2906855; 670944, 2906857; 670979, 2906851; 670991, 2906834; 670980, 2906780; Thence returning to 670904, 2906728.

671081, 2906789; 671067, 2906772; 671034, 2906775; 671035, 2906826; 671067, 2906834; Thence returning to 671081, 2906789.

671663, 2904718; 671650, 2904715; 671646, 2904734; 671659, 2904740; Thence returning to 671663, 2904718.

669906, 2904097; 669799, 2904014; 669785, 2904014; 669757, 2904052; 669761, 2904065; 669798, 2904059; 669831, 2904091; 669864, 2904093; 669912, 2904166; 669946, 2904318; 669957, 2904250; 669939, 2904163; Thence returning to 669906, 2904097.

(2) Unit TX-4, Willacy County, Texas. Coordinates are in UTM Zone 14N, North American Datum 1983 (meters E, meters N):

660109, 2921783; 660047, 2921788; 660184, 2921853; 660326, 2921984; 660223, 2921833; Thence returning to 660109, 2921783.

660902, 2922245; 660869, 2922244; 660868, 2922295; 660809, 2922337; 660827, 2922379; 660878, 2922367; 660898, 2922339; 660934, 2922336; Thence returning to 660902, 2922245.

659618, 2922055; 659607, 2922052; 659587, 2922080; 659700, 2922142; 659793, 2922226; 659874, 2922318; 659943, 2922470; 659988, 2922525; 660047, 2922531; 660107, 2922495; 659980, 2922436; 659917, 2922292; 659813, 2922162; 659723, 2922096; Thence returning to 659618, 2922055.

659545, 2922549; 659639, 2922440; 659634, 2922376; 659610, 2922382; 659606, 2922428; 659545, 2922503; 659509, 2922515; 659441, 2922507; 659436, 2922531; Thence returning to 659545, 2922549.

660053, 2922601; 660027, 2922658; 659982, 2922707; 660000, 2922756; 660041, 2922798; 660070, 2922777; Thence returning to 660053, 2922601.

660105, 2922895; 660222, 2922862; 660155, 2922848; 660093, 2922876; 660073, 2922868; 660148, 2922737; 660181, 2922618; 660176, 2922565; 660035, 2922906; Thence returning to 660105, 2922895.

660632, 2922855; 660667, 2922859; 660693, 2922835; 660716, 2922750; 660717, 2922630; 660689, 2922501; 660578, 2922241; 660507, 2922240; 660613, 2922468; 660631, 2922552; 660630, 2922632; 660580, 2922813; 660478, 2922958; 660478, 2922976; 660510, 2922969; 660603, 2922868; Thence returning to 660632, 2922855.

658276, 2923967; 658249, 2923995; 658259, 2924006; Thence returning to 658276, 2923967.

658106, 2924202; 658107, 2924197; 658082, 2924234; Thence returning to 658106, 2924202.

663540, 2924336; 663561, 2924188; 663552, 2924180; 663534, 2924196; 663475, 2924288; 663460, 2924252; 663488, 2924184; 663711, 2924063; 663632, 2924074; 663479, 2924148; 663439, 2924189; 663412, 2924448; 663426, 2924562; 663454, 2924599; 663452, 2924493; 663466, 2924434; Thence returning to 663540, 2924336.

663787, 2924111; 663775, 2924112; 663771, 2924145; 663785, 2924202; 663768, 2924308; 663623, 2924609; 663657, 2924602; 663688, 2924571; 663775, 2924404; 663809, 2924220; 663801, 2924133; Thence returning to 663787, 2924111.

658048, 2925223; 658139, 2925212; 658148, 2925182; 658187, 2925142; 658193, 2925075; 658177, 2925012; 658089, 2924978; 658032, 2924911; 657989, 2924775; 657992, 2924689; 657974, 2924611; 657934, 2924531; 657934, 2924486; 657962, 2924459; 657948, 2924456; 657922, 2924461; 657870, 2924533; 657932, 2924595; 657964, 2924694; 657971, 2924801; 657995, 2924902; 657991, 2924967; 657959, 2924996; 657904, 2924997; 657875, 2924971; 657837, 2924895; 657814, 2924892; 657738, 2924927; 657584, 2924944; 657549, 2924995; 657707, 2924992; 657758, 2925012; 657875, 2925129; 658006, 2925214; Thence returning to 658048, 2925223.

657926, 2925326; 657589, 2925212; 657448, 2925259; 657433, 2925322; 657586, 2925304; 657685, 2925308; 657807, 2925343; 657956, 2925429; 657971, 2925452; 657959, 2925496; 657968, 2925530; 658014, 2925472; 658016, 2925397; Thence returning to 657926, 2925326.

657834, 2926388; 657931, 2926401; 658151, 2926335; 658364, 2926211; 658413, 2926151; 658437, 2926084; 658434, 2925980; 658410, 2925926; 658295, 2925824; 658249, 2925763; 658286, 2925843; 658381, 2925928; 658420, 2926021; 658413, 2926070; 658367, 2926165; 658294, 2926234; 658204, 2926277; 658083, 2926311; 657941, 2926376; Thence returning to 657834, 2926388.

658399, 2926267; 658408, 2926247; 658313, 2926329; 658245, 2926412; 658318, 2926369; Thence returning to 658399, 2926267.

657834, 2926388; 657781, 2926369; 657761, 2926336; 657830, 2926265; 657833, 2926103; 657852, 2926070; 657851, 2926025; 657877, 2926006; 657863, 2925963; 657683, 2925930; 657502, 2925986; 657479, 2925982; 657472, 2925953; 657488, 2925839; 657523, 2925802; 657571, 2925639; 657630, 2925767; 657670, 2925785; 657754, 2925790; 657791, 2925831; 657797, 2925775; 657879, 2925679; 657895, 2925626; 657790, 2925717; 657710, 2925720; 657645, 2925685; 657621, 2925655; 657600, 2925572; 657524, 2925644; 657504, 2925713; 657469, 2925743; 657450, 2925798; 657430, 2925812; 657413, 2925879; 657443, 2925990; 657451, 2926103; 657535, 2926196; 657575, 2926286; 657608, 2926308; 657623, 2926418; 657683, 2926377; 657720, 2926373; 657811, 2926432; Thence returning to 657834, 2926388.

658782, 2926466; 658828, 2926460; 658825, 2926415; 658856, 2926386; 658782, 2926366; 658760, 2926374; 658725, 2926499; 658696, 2926544; 658735, 2926539; Thence returning to 658782, 2926466.

658004, 2926512; 657929, 2926568; 657931, 2926598; 658007, 2926552; Thence returning to 658004, 2926512.

658608, 2924397; 658608, 2924382; 658520, 2924558; 658518, 2924670; 658551, 2924795; 658636, 2924999; 658656, 2925111; 658751, 2925264; 658842, 2925476; 658859, 2925559; 658844, 2925728; 658750, 2925963; 658748, 2926058; 658809, 2926182; 658918, 2926289; 659065, 2926400; 659142, 2926520; 659178, 2926620; 659184, 2926521; 659141, 2926407; 658904, 2926210; 658836, 2926091; 658828, 2925992; 658854, 2925894; 658889, 2925828; 658948, 2925796; 659003, 2925728; 659016, 2925675; 658983, 2925609; 658997, 2925565; 658964, 2925537; 658933, 2925467; 658902, 2925294; 658861, 2925195; 658730, 2924973; 658579, 2924651; Thence returning to 658608, 2924397.

657154, 2926534; 657151, 2926523; 657130, 2926613; 657188, 2926635; 657196, 2926601; 657159, 2926562; Thence returning to 657154, 2926534.

657120, 2926675; 657118, 2926666; 657115, 2926679; Thence returning to 657120, 2926675.

657718, 2926657; 657767, 2926664; 657738, 2926611; 657686, 2926584; 657657, 2926585; 657588, 2926634; 657515, 2926621; 657454, 2926566; 657394, 2926481; 657361, 2926389; 657353, 2926312; 657360, 2926258; 657395, 2926187; 657401, 2926121; 657373, 2926057; 657287, 2925943; 657252, 2926094; 657309, 2926080; 657329, 2926096; 657219, 2926234; 657202, 2926305; 657223, 2926361; 657262, 2926375; 657313, 2926346; 657329, 2926354; 657333, 2926468; 657376, 2926596; 657396, 2926640; 657451, 2926688; 657524, 2926714; 657582, 2926715; Thence returning to 657718, 2926657.

662842, 2925854; 662868, 2925850; 662842, 2925936; 662855, 2925983; 662874, 2925985; 662912, 2925899; 662938, 2925881; 663046, 2925920; 663013, 2926073; 662946, 2926160; 662910, 2926230; 662868, 2926469; 662812, 2926579; 662733, 2926660; 662713, 2926793; 662674, 2926870; 662664, 2926934; 662682, 2926923; 662719, 2926833; 662760, 2926784; 662791, 2926646; 662866, 2926522; 662957, 2926211; 663031, 2926092; 663145, 2925728; 663277, 2925489; 663392, 2925191; 663408, 2925098; 663384, 2925122; 663364, 2925198; 663336, 2925240; 663250, 2925235; 663208, 2925208; 663193, 2925147; 663216, 2925047; 663371, 2924785; 663435, 2924741; 663488, 2924757; 663498, 2924818; 663510, 2924825; 663522, 2924788; 663510, 2924746; 663431, 2924712; 663387, 2924727; 663352, 2924759; 663212, 2924998; 662979, 2925577; 662769, 2925918; 662587, 2926537; 662459, 2926659; 662413, 2926787; 662411, 2926825; 662489, 2927024; 662501, 2927024; 662501, 2927004; 662476, 2926824; 662489, 2926723; 662548, 2926643; 662604, 2926634; 662638, 2926588; 662652, 2926440; 662796, 2926087; 662820, 2925916; 662842, 2925854; 663069, 2925626; 663111, 2925627; 663145, 2925587; 663106, 2925509; 663128, 2925443; 663091, 2925436; 663089, 2925417; 663164, 2925256; 663184, 2925243; 663200, 2925280; 663278, 2925269; 663290, 2925295; 663255, 2925352; 663224, 2925345; 663147, 2925402; 663152, 2925421; 663232, 2925410; 663255, 2925423; 663256, 2925457; 663232, 2925529; 663137, 2925678; 663099, 2925840; 663072, 2925877; 663023, 2925883; 662990, 2925853; 662922, 2925841; 662918, 2925771; 663006, 2925668; Thence returning to 663069, 2925626.

657878, 2927034; 657963, 2927030; 658157, 2926968; 658261, 2926975; 658286, 2926956; 658381, 2926942; 658409, 2926888; 658394, 2926768; 658315, 2926850; 658249, 2926881; 657918, 2926937; 657817, 2926924; 657829, 2926827; 657819, 2926813; 657750, 2927004; 657802, 2927062; 657825, 2927066; Thence returning to 657878, 2927034.

656974, 2927357; 656966, 2927309; 656937, 2927431; 657016, 2927548; 657024, 2927412; 656992, 2927393; Thence returning to 656974, 2927357.

660297, 2928098; 660471, 2927899; 660561, 2927762; 660629, 2927622; 660665, 2927512; 660658, 2927490; 660552, 2927556; 660426, 2927662; 660252, 2927856; 660194, 2927970; 660199, 2928031; 660152, 2928170; 660167, 2928177; 660297, 2928098; 660293, 2928014; 660390, 2927923; 660422, 2927852; 660490, 2927789; 660583, 2927614; 660565, 2927685; 660504, 2927809; 660359, 2927989; 660257, 2928079; 660293, 2928014; 660248, 2928007; 660229, 2927997; 660252, 2927932; 660452, 2927674; 660389, 2927803; 660290, 2927913; Thence returning to 660248, 2928007.

659862, 2927960; 660008, 2927798; 660155, 2927579; 660573, 2927202; 660735, 2926977; 660819, 2926804; 660965, 2926562; 661025, 2926399; 661060, 2926171; 661062, 2925957; 661090, 2925687; 661119, 2925559; 661176, 2925433; 661878, 2924415; 662209, 2923901; 662345, 2923582; 662459, 2923361; 662673, 2923015; 662744, 2922848; 662861, 2922721; 663048, 2922467; 663138, 2922320; 663159, 2922308; 663166, 2922344; 663122, 2922599; 663121, 2922642; 663142, 2922705; 663214, 2922685; 663263, 2922712; 663317, 2922701; 663351, 2922726; 663544, 2922701; 663780, 2922701; 663819, 2922734; 663866, 2922837; 663961, 2922955; 664035, 2922988; 664134, 2923003; 664226, 2922993; 664314, 2922927; 664367, 2922837; 664432, 2922600; 664508, 2922519; 664557, 2922408; 664641, 2922305; 664597, 2922304; 664516, 2922423; 664491, 2922502; 664376, 2922613; 664355, 2922786; 664263, 2922932; 664194, 2922968; 664123, 2922977; 664058, 2922969; 663949, 2922921; 663907, 2922799; 663918, 2922746; 663955, 2922675; 663950, 2922620; 663913, 2922583; 663817, 2922579; 663764, 2922559; 663760, 2922540; 663811, 2922500; 663882, 2922491; 663916, 2922455; 663966, 2922447; 664004, 2922417; 664028, 2922419; 664056, 2922453; 664091, 2922446; 664113, 2922423; 664103, 2922359; 664131, 2922344; 664195, 2922492; 664286, 2922507; 664270, 2922542; 664194, 2922582; 664194, 2922608; 664291, 2922614; 664403, 2922549; 664361, 2922485; 664311, 2922473; 664309, 2922454; 664327, 2922439; 664417, 2922452; 664440, 2922407; 664508, 2922386; 664517, 2922329; 664417, 2922314; 664408, 2922301; 663012, 2922281; 662906, 2922452; 662927, 2922279; 660923, 2922245; 660952, 2922255; 660962, 2922315; 661003, 2922317; 661124, 2922365; 661167, 2922402; 661162, 2922428; 661130, 2922412; 661113, 2922422; 661142, 2922448; 661122, 2922488; 661137, 2922529; 661117, 2922553; 661144, 2922628; 661114, 2922816; 661072, 2922854; 661028, 2922840; 660996, 2922857; 660959, 2922961; 661006, 2923033; 661096, 2923046; 661163, 2923105; 661162, 2923173; 661189, 2923249; 661147, 2923254; 661143, 2923317; 661223, 2923405; 661260, 2923524; 661242, 2923612; 661196, 2923672; 661183, 2923715; 661164, 2923709; 661160, 2923620; 661119, 2923565; 661081, 2923546; 661072, 2923572; 661038, 2923594; 661045, 2923634; 661090, 2923663; 661084, 2923699; 661036, 2923727; 661015, 2923811; 661037, 2923921; 661085, 2923957; 661076, 2924100; 661091, 2924143; 661060, 2924174; 661030, 2924162; 660933, 2924004; 660922, 2923893; 660851, 2923776; 660847, 2923712; 660780, 2923664; 660701, 2923637; 660596, 2923702; 660540, 2923664; 660485, 2923665; 660461, 2923688; 660426, 2923665; 660399, 2923687; 660369, 2923677; 660351, 2923719; 660268, 2923732; 660241, 2923666; 660108, 2923681; 660001, 2923639; 659975, 2923611; 659968, 2923566; 659950, 2923555; 659908, 2923416; 659933, 2923368; 659933, 2923323; 660047, 2923290; 660073, 2923263; 660052, 2923256; 659981, 2923282; 659928, 2923236; 659938, 2923149; 659917, 2923089; 659939, 2923069; 659939, 2923048; 659872, 2922982; 659835, 2922915; 659803, 2922842; 659785, 2922708; 659736, 2922723; 659623, 2922699; 659572, 2922706; 659555, 2922694; 659565, 2922650; 659552, 2922637; 659502, 2922651; 659496, 2922679; 659427, 2922752; 659334, 2922973; 659245, 2923088; 659166, 2923119; 659156, 2923015; 659141, 2923010; 659116, 2923058; 659059, 2923098; 659046, 2923098; 659040, 2923051; 658941, 2923138; 658909, 2923123; 658842, 2923145; 658611, 2923476; 658658, 2923542; 658645, 2923640; 658708, 2923657; 658725, 2923724; 658745, 2923748; 658754, 2923928; 658787, 2923927; 658861, 2923781; 658886, 2923826; 658879, 2923914; 658896, 2923959; 658866, 2924021; 658922, 2924120; 658905, 2924230; 658890, 2924616; 658945, 2924935; 658991, 2925027; 659014, 2925137; 659050, 2925192; 659068, 2925150; 659091, 2925166; 659110, 2925308; 659127, 2925337; 659149, 2925319; 659173, 2925253; 659207, 2925277; 659246, 2925268; 659262, 2925309; 659259, 2925383; 659288, 2925427; 659339, 2925446; 659368, 2925485; 659360, 2925505; 659326, 2925473; 659290, 2925486; 659251, 2925472; 659219, 2925568; 659256, 2925614; 659258, 2925646; 659206, 2925752; 659250, 2925862; 659245, 2926057; 659463, 2926242; 659436, 2926320; 659446, 2926364; 659418, 2926405; 659429, 2926474; 659391, 2926517; 659392, 2926687; 659373, 2926690; 659355, 2926663; 659311, 2926678; 659263, 2926603; 659240, 2926605; 659226, 2926637; 659229, 2926831; 659320, 2927081; 659345, 2927208; 659347, 2927356; 659362, 2927426; 659340, 2927440; 659329, 2927424; 659282, 2927071; 659213, 2926896; 659239, 2927235; 659229, 2927499; 659238, 2927589; 659433, 2928024; 659477, 2928142; 659497, 2928258; 659638, 2928170; 659862, 2927960; 659385, 2927764; 659374, 2927635; 659391, 2927650; 659415, 2927760; 659458, 2927841; 659466, 2927907; 659385, 2927764; 660006, 2927690; 660108, 2927474; 660269, 2927251; 660413, 2927140; 660456, 2927143; 660518, 2927180; 660303, 2927286; 660242, 2927333; 660204, 2927376; 660079, 2927615; 660004, 2927701; 660006, 2927690; 659363, 2927572; 659334, 2927560; 659323, 2927527; 659320, 2927477; 659347, 2927462; 659363, 2927572; 659780, 2926726; 659788, 2926675; 659882, 2926650; 659907, 2926591; 659931, 2926613; 659942, 2926709; 659918, 2926785; 659879, 2926844; 659836, 2926860; 659811, 2926843; 659780, 2926726; 659467, 2925265; 659440, 2925235; 659426, 2925189; 659427, 2925100; 659470, 2925115; 659485, 2925086; 659499, 2925086; 659534, 2925108; 659608, 2925068; 659644, 2925157; 659624, 2925273; 659567, 2925307; 659517, 2925297; 659467, 2925265; 660319, 2924720; 660356, 2924699; 660331, 2924799; 660265, 2924903; 660203, 2924911; 660146, 2924871; 660144, 2924843; 660185, 2924772; 660319, 2924720; 660043, 2924522; 659912, 2924480; 659845, 2924405; 659822, 2924353; 659812, 2924274; 659830, 2924196; 659852, 2924170; 659865, 2924176; 659904, 2924258; 659971, 2924269; 659978, 2924242; 659927, 2924205; 659925, 2924093; 659942, 2924028; 659980, 2923980; 660300, 2923914; 660388, 2923918; 660437, 2923994; 660451, 2924086; 660445, 2924157; 660409, 2924322; 660322, 2924600; 660282, 2924661; 660235, 2924680; 660181, 2924582; 660043, 2924522; 659503, 2922862; 659693, 2922901; 659705, 2922935; 659624, 2922996; 659502, 2923028; 659476, 2922992; 659471, 2922953; 659478, 2922891; Thence returning to 659503, 2922862.

657354, 2928277; 657294, 2928183; 657030, 2927935; 657009, 2927928; 656998, 2927948; 656979, 2927949; 656928, 2927906; 656853, 2927789; 656834, 2927872; 656939, 2928209; 656956, 2928230; 656981, 2928243; 657076, 2928231; 657166, 2928250; 657388, 2928352; 657385, 2928310; Thence returning to 657354, 2928277.

658832, 2928601; 658805, 2928503; 658793, 2928346; 658803, 2928269; 658843, 2928218; 658853, 2928170; 658884, 2928189; 658994, 2928144; 659149, 2928150; 659081, 2928084; 658973, 2928092; 658958, 2928081; 658973, 2928053; 658996, 2928047; 659063, 2928050; 659175, 2928124; 659177, 2928092; 659156, 2928015; 659111, 2927941; 659056, 2927920; 659033, 2927886; 658971, 2927889; 658954, 2927871; 658966, 2927821; 659013, 2927753; 659044, 2927655; 659045, 2927566; 658969, 2927743; 658912, 2927798; 658841, 2927813; 658782, 2927756; 658783, 2927708; 658758, 2927632; 658854, 2927570; 658895, 2927484; 658924, 2927363; 658903, 2927108; 658884, 2927044; 658839, 2926976; 658764, 2926908; 658753, 2926977; 658636, 2927033; 658622, 2927101; 658598, 2927136; 658576, 2927136; 658559, 2927101; 658542, 2927097; 658458, 2927194; 658342, 2927229; 658300, 2927307; 658227, 2927344; 658185, 2927426; 658149, 2927433; 658145, 2927401; 658166, 2927361; 658164, 2927338; 658117, 2927308; 658094, 2927317; 658069, 2927353; 658015, 2927361; 658017, 2927435; 657992, 2927448; 657958, 2927405; 657897, 2927444; 657839, 2927450; 657824, 2927420; 657848, 2927371; 657843, 2927338; 657691, 2927229; 657615, 2927217; 657603, 2927161; 657550, 2927118; 657537, 2927063; 657497, 2927024; 657440, 2927017; 657200, 2927037; 657194, 2927133; 657212, 2927196; 657287, 2927233; 657341, 2927289; 657588, 2927461; 657617, 2927612; 657669, 2927612; 657718, 2927636; 657853, 2927619; 657886, 2927638; 657870, 2927663; 657726, 2927687; 657639, 2927670; 657525, 2927691; 657511, 2927722; 657529, 2927756; 657580, 2927784; 657688, 2927790; 657697, 2927806; 657687, 2927826; 657766, 2927840; 657788, 2927885; 657815, 2927889; 657877, 2927844; 657891, 2927798; 657875, 2927747; 657887, 2927718; 657943, 2927653; 657968, 2927660; 658013, 2927759; 658071, 2927824; 658096, 2927820; 658116, 2927779; 658150, 2927793; 658176, 2927906; 658160, 2928000; 658174, 2928062; 658317, 2928184; 658326, 2928159; 658313, 2928078; 658333, 2928040; 658296, 2927960; 658318, 2927953; 658362, 2927990; 658422, 2928000; 658450, 2928021; 658473, 2928056; 658479, 2928113; 658468, 2928190; 658445, 2928229; 658470, 2928327; 658510, 2928372; 658580, 2928382; 658586, 2928486; 658601, 2928513; 658625, 2928519; 658634, 2928487; 658654, 2928478; 658698, 2928585; 658770, 2928602; 658823, 2928681; 658841, 2928688; 658849, 2928663; Thence returning to 658832, 2928601.

657482, 2928943; 657522, 2928874; 657513, 2928803; 657483, 2928832; 657496, 2928870; 657476, 2928898; 657414, 2928924; 657376, 2928837; 657342, 2928805; 657074, 2928648; 657047, 2928605; 657045, 2928557; 657061, 2928534; 657018, 2928490; 657023, 2928631; 657339, 2928850; 657388, 2928946; 657431, 2928962; Thence returning to 657482, 2928943.

656779, 2928893; 656738, 2928884; 656747, 2928912; 656792, 2928955; 656849, 2928984; 656837, 2928946; Thence returning to 656779, 2928893.

659187, 2928869; 659127, 2928863; 659053, 2928797; 659047, 2928705; 659061, 2928697; 659072, 2928749; 659093, 2928756; 659127, 2928704; 659137, 2928658; 659105, 2928605; 659017, 2928516; 659026, 2928929; 659014, 2929122; 658987, 2929215; 658998, 2929236; 659023, 2929218; 659197, 2928871; Thence returning to 659187, 2928869.

657807, 2928909; 657792, 2928926; 657819, 2929006; 657820, 2929050; 657849, 2929088; 657847, 2929121; 657824, 2929165; 657738, 2929238; 657815, 2929222; 657868, 2929152; 657874, 2929037; Thence returning to 657807, 2928909.

657434, 2929236; 657513, 2929211; 657528, 2929182; 657510, 2929169; 657451, 2929173; 657407, 2929217; 657414, 2929238; Thence returning to 657434, 2929236.

657154, 2929244; 657129, 2929207; 657128, 2929167; 657102, 2929182; 657115, 2929231; 657096, 2929239; 657041, 2929155; 656987, 2929160; 656972, 2929148; 656969, 2929110; 656846, 2929078; 656838, 2929053; 656801, 2929031; 656767, 2929056; 656726, 2929027; 656684, 2929065; 656652, 2929056; 656629, 2928985; 656578, 2928960; 656569, 2929003; 656600, 2929015; 656605, 2929039; 656548, 2929092; 656515, 2929227; 656639, 2929180; 656874, 2929168; 657201, 2929384; 657292, 2929400; 657418, 2929392; 657286, 2929359; 657241, 2929301; 657157, 2929273; Thence returning to 657154, 2929244.

656440, 2929503; 656362, 2929681; 656390, 2929701; 656423, 2929695; 656464, 2929609; 656468, 2929564; Thence returning to 656440, 2929503.

661513, 2929803; 661557, 2929831; 661573, 2929753; 661616, 2929728; 661588, 2929636; 661593, 2929601; 661874, 2928838; 661963, 2928626; 661996, 2928583; 662171, 2928103; 662317, 2927811; 662350, 2927678; 662451, 2927547; 662471, 2927459; 662463, 2927446; 662417, 2927549; 662321, 2927658; 662189, 2928022; 662068, 2928201; 662027, 2928321; 662016, 2928429; 661982, 2928553; 661851, 2928816; 661700, 2929227; 661667, 2929287; 661611, 2929485; 661411, 2929898; 661451, 2929879; Thence returning to 661513, 2929803.

658937, 2929771; 659070, 2929515; 659173, 2929257; 659276, 2928837; 659200, 2928982; 659024, 2929472; 658889, 2929659; 658836, 2929683; 658789, 2929675; 658743, 2929634; 658713, 2929569; 658554, 2928933; 658498, 2928787; 658433, 2928681; 657995, 2928306; 657778, 2928159; 657519, 2928094; 657350, 2927965; 657403, 2928125; 657448, 2928193; 657955, 2928700; 657968, 2928700; 657968, 2928666; 657895, 2928498; 657891, 2928438; 657902, 2928426; 657948, 2928439; 658045, 2928522; 658210, 2928720; 658260, 2928821; 658304, 2929086; 658407, 2929428; 658479, 2929614; 658596, 2929813; 658729, 2929933; 658801, 2929966; 658861, 2929922; Thence returning to 658937, 2929771.

661191, 2930135; 661240, 2930090; 661347, 2929941; 661256, 2930013; 661190, 2930116; 661142, 2930116; 661127, 2929959; 661214, 2929819; 661231, 2929638; 661287, 2929537; 661337, 2929518; 661395, 2929464; 661459, 2929444; 661495, 2929333; 661552, 2929271; 661545, 2929197; 661582, 2929072; 661542, 2928946; 661557, 2928867; 661647, 2928730; 661684, 2928704; 661701, 2928726; 661694, 2928754; 661672, 2928794; 661626, 2928812; 661620, 2928839; 661649, 2928843; 661699, 2928804; 661724, 2928749; 661735, 2928618; 661754, 2928600; 661804, 2928611; 661855, 2928461; 661875, 2928345; 661948, 2928202; 661970, 2928053; 662022, 2927995; 662037, 2927895; 662117, 2927767; 662173, 2927623; 662230, 2927549; 662250, 2927367; 662317, 2927129; 662277, 2927209; 662231, 2927381; 662018, 2927881; 661891, 2928114; 661799, 2928319; 661660, 2928552; 661505, 2928859; 661202, 2929210; 661089, 2929415; 660996, 2929858; 661097, 2930107; 661131, 2930141; Thence returning to 661191, 2930135.

657217, 2930043; 657205, 2930060; 657215, 2930086; 657271, 2930158; 657287, 2930161; 657297, 2930132; 657286, 2930100; Thence returning to 657217, 2930043.

656040, 2930500; 656073, 2930487; 656124, 2930500; 656158, 2930471; 656197, 2930465; 656264, 2930406; 656265, 2930378; 656298, 2930343; 656364, 2930337; 656361, 2930298; 656381, 2930238; 656365, 2930136; 656404, 2930098; 656415, 2929981; 656442, 2929951; 656471, 2929948; 656476, 2929875; 656414, 2929847; 656434, 2929919; 656371, 2929926; 656386, 2929967; 656361, 2930002; 656367, 2930085; 656298, 2930161; 656247, 2930248; 656251, 2930333; 656237, 2930361; 656065, 2930438; Thence returning to 656040, 2930500.

656081, 2930523; 656029, 2930530; 655992, 2930620; 656030, 2930614; 656070, 2930572; Thence returning to 656081, 2930523.

656485, 2930603; 656515, 2930595; 656577, 2930618; 656583, 2930591; 656570, 2930555; 656518, 2930510; 656481, 2930538; 656469, 2930581; 656447, 2930600; 656366, 2930563; 656366, 2930542; 656402, 2930519; 656396, 2930498; 656277, 2930518; 656331, 2930565; 656334, 2930637; 656374, 2930657; Thence returning to 656485, 2930603.

657051, 2930602; 657017, 2930615; 656930, 2930699; 656932, 2930715; 657015, 2930750; 657022, 2930682; 657054, 2930635; Thence returning to 657051, 2930602.

657278, 2930943; 657278, 2930822; 657299, 2930840; 657311, 2930927; 657355, 2930948; 657376, 2930734; 657402, 2930729; 657424, 2930830; 657453, 2930813; 657475, 2930765; 657437, 2930734; 657434, 2930684; 657399, 2930678; 657380, 2930699; 657367, 2930693; 657337, 2930630; 657296, 2930589; 657322, 2930580; 657373, 2930621; 657406, 2930618; 657437, 2930590; 657387, 2930593; 657309, 2930552; 657268, 2930561; 657067, 2930248; 657078, 2930304; 657239, 2930571; 657235, 2930589; 657222, 2930582; 657025, 2930242; 656971, 2930111; 656965, 2930091; 656977, 2930083; 657007, 2930116; 657017, 2930109; 657009, 2929944; 657080, 2929891; 657067, 2929836; 657172, 2929778; 657189, 2929781; 657199, 2929818; 657215, 2929810; 657279, 2929684; 657340, 2929684; 657364, 2929703; 657398, 2929684; 657419, 2929645; 657368, 2929678; 657374, 2929640; 657312, 2929653; 657304, 2929624; 657328, 2929593; 657429, 2929554; 657620, 2929567; 657699, 2929609; 657761, 2929580; 657814, 2929580; 657894, 2929631; 657940, 2929642; 658011, 2929695; 658043, 2929639; 658046, 2929592; 657968, 2929508; 657953, 2929389; 657914, 2929347; 657864, 2929339; 657772, 2929363; 657539, 2929498; 657325, 2929536; 657024, 2929619; 656927, 2929681; 656879, 2929766; 656856, 2929873; 656861, 2929940; 657000, 2930264; 657086, 2930541; 657101, 2930748; 657069, 2930797; 657090, 2930834; 657135, 2930808; 657186, 2930919; 657231, 2930918; 657265, 2930958; Thence returning to 657278, 2930943.

657530, 2930963; 657504, 2930971; 657496, 2931006; 657532, 2930987; Thence returning to 657530, 2930963.

657463, 2931014; 657424, 2931021; 657433, 2931063; 657460, 2931038; Thence returning to 657463, 2931014.

657256, 2931191; 657247, 2931067; 657228, 2931037; 657203, 2931055; 657217, 2931153; 657207, 2931166; 657186, 2931148; 657169, 2931157; 657198, 2931345; 657220, 2931340; 657258, 2931289; Thence returning to 657256, 2931191.

660235, 2932196; 660219, 2932206; 660192, 2932307; 660050, 2932564; 659966, 2932847; 660044, 2932759; 660078, 2932599; 660148, 2932493; 660222, 2932340; 660239, 2932254; Thence returning to 660235, 2932196.

656178, 2933678; 656151, 2933663; 656107, 2933732; 656126, 2933733; Thence returning to 656178, 2933678.

659877, 2933001; 659852, 2933016; 659798, 2933139; 659695, 2933439; 659604, 2933609; 659546, 2933768; 659469, 2933880; 659548, 2933868; 659595, 2933815; 659860, 2933205; Thence returning to 659877, 2933001.

655595, 2933661; 655608, 2933640; 655588, 2933633; 655463, 2933654; 655341, 2933572; 655314, 2933539; 655280, 2933537; 655213, 2933566; 655235, 2933750; 655284, 2933777; 655372, 2933793; 655433, 2933839; 655448, 2933835; 655443, 2933777; 655466, 2933748; 655472, 2933695; Thence returning to 655595, 2933661.

655356, 2934001; 655402, 2933989; 655425, 2933927; 655366, 2933874; 655248, 2933855; 655264, 2933976; 655284, 2933995; Thence returning to 655356, 2934001.

659401, 2934105; 659332, 2934106; 659378, 2934180; 659356, 2934256; 659244, 2934495; 659251, 2934535; 659272, 2934523; 659380, 2934296; 659418, 2934160; Thence returning to 659401, 2934105.

655513, 2934738; 655388, 2934658; 655343, 2934610; 655351, 2934673; 655428, 2934735; Thence returning to 655513, 2934738.

655381, 2934743; 655359, 2934737; 655362, 2934767; 655415, 2934773; Thence returning to 655381, 2934743.

655384, 2934822; 655368, 2934815; 655373, 2934851; 655391, 2934836; Thence returning to 655384, 2934822.

658924, 2935577; 658955, 2935581; 658979, 2935529; 658967, 2935498; 658974, 2935443; 659064, 2935216; 659108, 2935023; 659103, 2934967; 659072, 2935016; 659033, 2935139; 658928, 2935276; 658879, 2935499; 658773, 2935603; 658723, 2935682; 658695, 2935861; 658664, 2935902; 658738, 2935903; 658784, 2935796; Thence returning to 658924, 2935577.

656553, 2935814; 656537, 2935802; 656487, 2935807; 656399, 2935709; 656360, 2935632; 656407, 2935575; 656476, 2935556; 656642, 2935599; 656737, 2935605; 657027, 2935528; 657069, 2935538; 657078, 2935525; 657046, 2935491; 657054, 2935458; 657178, 2935474; 657172, 2935454; 657117, 2935445; 657117, 2935425; 657140, 2935423; 657143, 2935409; 657090, 2935335; 657121, 2935338; 657164, 2935287; 657142, 2935274; 657050, 2935277; 657022, 2935213; 657034, 2935173; 657021, 2935148; 657046, 2935120; 657095, 2935138; 657124, 2935112; 657212, 2935195; 657177, 2935112; 657197, 2935111; 657218, 2935144; 657267, 2935141; 657281, 2935095; 657255, 2935080; 657258, 2935047; 657204, 2935019; 657287, 2935011; 657212, 2934984; 657207, 2934961; 657248, 2934951; 657314, 2934986; 657319, 2934955; 657357, 2934974; 657384, 2934927; 657212, 2934925; 657175, 2934940; 657134, 2934982; 657062, 2934980; 657041, 2935000; 656980, 2935001; 656960, 2934983; 656968, 2934969; 657031, 2934965; 656996, 2934942; 657001, 2934930; 657065, 2934942; 657080, 2934924; 657013, 2934901; 657046, 2934870; 657059, 2934832; 657119, 2934817; 657263, 2934836; 657318, 2934828; 657338, 2934795; 657378, 2934780; 657395, 2934706; 657445, 2934671; 657466, 2934669; 657518, 2934721; 657550, 2934720; 657521, 2934672; 657470, 2934634; 657483, 2934614; 657514, 2934622; 657567, 2934697; 657580, 2934689; 657573, 2934604; 657557, 2934579; 657575, 2934538; 657558, 2934527; 657530, 2934527; 657443, 2934569; 657379, 2934560; 657258, 2934582; 657125, 2934559; 657060, 2934625; 657034, 2934633; 657013, 2934587; 657058, 2934581; 657095, 2934518; 657140, 2934506; 657132, 2934472; 657165, 2934413; 657155, 2934383; 657125, 2934378; 657073, 2934415; 657047, 2934394; 657073, 2934360; 657071, 2934341; 657013, 2934389; 656990, 2934392; 656827, 2934342; 656760, 2934289; 656757, 2934241; 656784, 2934225; 656881, 2934234; 657049, 2934280; 657135, 2934261; 657218, 2934300; 657299, 2934362; 657543, 2934413; 657506, 2934309; 657537, 2934301; 657546, 2934246; 657564, 2934268; 657562, 2934331; 657615, 2934371; 657642, 2934364; 657614, 2934309; 657646, 2934293; 657650, 2934274; 657615, 2934202; 657672, 2934228; 657698, 2934200; 657687, 2934131; 657640, 2934083; 657656, 2934053; 657648, 2934038; 657593, 2934058; 657537, 2934034; 657503, 2933996; 657474, 2933924; 657494, 2933921; 657588, 2934008; 657601, 2934000; 657593, 2933971; 657551, 2933957; 657513, 2933910; 657528, 2933878; 657556, 2933878; 657642, 2933927; 657662, 2933960; 657697, 2933954; 657723, 2933868; 657681, 2933812; 657687, 2933758; 657584, 2933761; 657582, 2933717; 657623, 2933674; 657681, 2933657; 657742, 2933662; 657814, 2933698; 657833, 2933681; 657876, 2933577; 657819, 2933594; 657815, 2933580; 657904, 2933453; 657862, 2933387; 657795, 2933339; 657781, 2933311; 657821, 2933299; 657876, 2933323; 657852, 2933243; 657858, 2933211; 657874, 2933214; 657890, 2933246; 657972, 2933516; 657976, 2933622; 658025, 2933581; 658034, 2933467; 657978, 2933333; 657966, 2933238; 657968, 2933217; 657991, 2933202; 657972, 2933122; 657985, 2933059; 658024, 2932991; 658113, 2932896; 658200, 2933000; 658234, 2933004; 658243, 2932974; 658221, 2932827; 658250, 2932823; 658288, 2932910; 658343, 2932788; 658340, 2932710; 658319, 2932645; 658298, 2932730; 658284, 2932727; 658307, 2932567; 658331, 2932551; 658441, 2932579; 658458, 2932562; 658493, 2932508; 658501, 2932369; 658525, 2932340; 658522, 2932320; 658494, 2932311; 658505, 2932250; 658518, 2932240; 658542, 2932272; 658553, 2932267; 658551, 2932151; 658465, 2932190; 658396, 2932179; 658282, 2932094; 658254, 2931997; 658133, 2931931; 658123, 2931910; 658232, 2931829; 658529, 2931687; 658634, 2931613; 658603, 2931585; 658524, 2931594; 658474, 2931540; 658459, 2931482; 658495, 2931440; 658657, 2931399; 658668, 2931304; 658527, 2931025; 658504, 2930950; 658359, 2930791; 658120, 2930639; 658036, 2930639; 657969, 2930591; 657919, 2930593; 657883, 2930569; 657887, 2930537; 657976, 2930470; 658031, 2930443; 658097, 2930442; 658173, 2930459; 658280, 2930510; 658455, 2930660; 658384, 2930544; 658337, 2930436; 658344, 2930323; 658251, 2930088; 658105, 2929849; 658074, 2929841; 658038, 2929785; 657959, 2929712; 657865, 2929669; 657825, 2929683; 657822, 2929725; 657937, 2929765; 657963, 2929805; 657850, 2929784; 657801, 2929793; 657784, 2929828; 657834, 2929855; 657844, 2929884; 657878, 2929908; 657889, 2929970; 657867, 2929981; 657838, 2929953; 657809, 2929949; 657755, 2929984; 657714, 2929922; 657786, 2929744; 657788, 2929715; 657761, 2929715; 657723, 2929839; 657693, 2929887; 657709, 2929992; 657695, 2930102; 657736, 2930059; 657745, 2930093; 657773, 2930094; 657788, 2930034; 657816, 2930048; 657846, 2930031; 657874, 2930037; 657871, 2930121; 657911, 2930206; 657911, 2930236; 657879, 2930247; 657858, 2930232; 657826, 2930126; 657766, 2930128; 657748, 2930144; 657711, 2930239; 657722, 2930252; 657775, 2930186; 657765, 2930270; 657653, 2930315; 657606, 2930456; 657614, 2930486; 657647, 2930500; 657655, 2930519; 657639, 2930545; 657601, 2930541; 657590, 2930555; 657599, 2930656; 657628, 2930710; 657614, 2930757; 657714, 2930839; 657738, 2930872; 657739, 2930902; 657714, 2930909; 657671, 2930850; 657628, 2930845; 657614, 2930879; 657634, 2930951; 657630, 2930988; 657528, 2931022; 657488, 2931052; 657438, 2931140; 657435, 2931235; 657420, 2931256; 657381, 2931263; 657356, 2931241; 657330, 2931248; 657282, 2931310; 657258, 2931377; 657208, 2931395; 657173, 2931355; 657138, 2931231; 657110, 2931226; 657126, 2931347; 657119, 2931414; 657091, 2931471; 657059, 2931487; 657063, 2931408; 657048, 2931369; 656849, 2931256; 656958, 2931149; 656981, 2931145; 656988, 2931103; 656965, 2931021; 656918, 2930937; 656840, 2930899; 656843, 2930884; 656888, 2930872; 656843, 2930803; 656862, 2930776; 656851, 2930745; 656791, 2930781; 656783, 2930818; 656662, 2930860; 656622, 2930858; 656604, 2930825; 656439, 2930836; 656361, 2930880; 656311, 2930939; 656190, 2930957; 656198, 2930982; 656251, 2931007; 656247, 2931025; 656210, 2931028; 656334, 2931157; 656426, 2931315; 656605, 2931761; 656626, 2931869; 656608, 2931895; 656558, 2931876; 656552, 2931850; 656570, 2931813; 656529, 2931783; 656440, 2931771; 656440, 2931744; 656476, 2931745; 656479, 2931731; 656422, 2931699; 656405, 2931756; 656357, 2931767; 656340, 2931794; 656292, 2931810; 656246, 2931803; 656254, 2931830; 656295, 2931847; 656297, 2931868; 656218, 2931912; 656138, 2931913; 656116, 2931930; 656108, 2931964; 656152, 2932015; 656200, 2932041; 656240, 2932030; 656261, 2931966; 656280, 2932022; 656306, 2932042; 656375, 2932034; 656376, 2932015; 656303, 2931997; 656306, 2931937; 656334, 2931906; 656340, 2931861; 656423, 2931808; 656452, 2931816; 656539, 2931901; 656602, 2931940; 656646, 2932035; 656659, 2932121; 656723, 2932258; 656703, 2932306; 656528, 2932252; 656485, 2932252; 656371, 2932208; 656299, 2932190; 656277, 2932200; 656283, 2932214; 656407, 2932259; 656423, 2932281; 656407, 2932284; 656348, 2932255; 656275, 2932245; 656231, 2932199; 656182, 2932203; 656214, 2932221; 656208, 2932245; 656242, 2932269; 656392, 2932311; 656448, 2932309; 656487, 2932415; 656509, 2932435; 656586, 2932453; 656582, 2932475; 656474, 2932539; 656270, 2932607; 656241, 2932591; 656218, 2932522; 656336, 2932534; 656334, 2932515; 656261, 2932487; 656317, 2932461; 656303, 2932437; 656279, 2932433; 656312, 2932397; 656211, 2932402; 656230, 2932452; 656078, 2932417; 656115, 2932466; 656091, 2932485; 655942, 2932439; 655928, 2932421; 655938, 2932382; 655863, 2932380; 655807, 2932345; 655801, 2932321; 655819, 2932302; 655869, 2932336; 655890, 2932332; 655863, 2932283; 655876, 2932260; 655907, 2932257; 655930, 2932290; 655966, 2932307; 655974, 2932297; 655951, 2932271; 655961, 2932255; 656068, 2932271; 655988, 2932210; 656000, 2932185; 656019, 2932182; 655983, 2932142; 656033, 2932136; 656025, 2932091; 655910, 2932066; 655857, 2932075; 655840, 2932106; 655885, 2932166; 655880, 2932187; 655838, 2932182; 655792, 2932139; 655780, 2932091; 655793, 2932044; 655867, 2932023; 655986, 2932032; 656032, 2931968; 656065, 2931959; 656080, 2931920; 656032, 2931922; 655960, 2932006; 655895, 2931989; 655898, 2931974; 655935, 2931975; 655946, 2931957; 655881, 2931954; 655873, 2931938; 655946, 2931912; 655884, 2931893; 655924, 2931842; 655893, 2931843; 655886, 2931827; 655924, 2931804; 655887, 2931786; 655882, 2931757; 655855, 2931809; 655824, 2931775; 655810, 2931789; 655827, 2931807; 655820, 2931821; 655762, 2931820; 655865, 2931855; 655860, 2931869; 655800, 2931874; 655846, 2931968; 655838, 2931993; 655811, 2931992; 655750, 2931950; 655739, 2931968; 655763, 2932006; 655754, 2932024; 655645, 2931985; 655609, 2931999; 655657, 2932052; 655616, 2932054; 655608, 2932068; 655619, 2932085; 655662, 2932107; 655684, 2932092; 655757, 2932091; 655751, 2932101; 655658, 2932150; 655564, 2932115; 655560, 2932127; 655589, 2932140; 655597, 2932161; 655534, 2932174; 655608, 2932236; 655650, 2932347; 655640, 2932371; 655589, 2932381; 655540, 2932434; 655474, 2932417; 655454, 2932373; 655504, 2932359; 655466, 2932326; 655501, 2932311; 655505, 2932296; 655485, 2932278; 655446, 2932288; 655426, 2932322; 655410, 2932279; 655427, 2932255; 655525, 2932262; 655533, 2932241; 655510, 2932220; 655475, 2932233; 655439, 2932219; 655369, 2932225; 655332, 2932304; 655351, 2932318; 655335, 2932360; 655405, 2932367; 655405, 2932401; 655438, 2932462; 655387, 2932451; 655356, 2932467; 655287, 2932420; 655276, 2932448; 655293, 2932484; 655260, 2932487; 655193, 2932657; 655243, 2932676; 655251, 2932663; 655229, 2932642; 655238, 2932624; 655323, 2932633; 655336, 2932583; 655278, 2932553; 655268, 2932533; 655333, 2932519; 655370, 2932600; 655349, 2932749; 655315, 2932798; 655255, 2932806; 655264, 2932830; 655314, 2932854; 655360, 2932864; 655356, 2932848; 655434, 2932833; 655433, 2932812; 655383, 2932767; 655396, 2932758; 655391, 2932702; 655414, 2932658; 655536, 2932683; 655737, 2932682; 655829, 2932721; 655895, 2932811; 655946, 2932847; 656100, 2932887; 656231, 2932949; 656522, 2933008; 656618, 2933050; 656645, 2933085; 656654, 2933115; 656638, 2933220; 656522, 2933170; 656516, 2933137; 656569, 2933120; 656559, 2933105; 656504, 2933088; 656475, 2933129; 656458, 2933083; 656426, 2933115; 656449, 2933160; 656439, 2933183; 656368, 2933168; 656374, 2933234; 656301, 2933218; 656302, 2933242; 656356, 2933259; 656385, 2933319; 656420, 2933262; 656440, 2933324; 656499, 2933386; 656665, 2933418; 656803, 2933509; 656821, 2933573; 656822, 2933717; 656909, 2933861; 656931, 2933945; 656848, 2933936; 656781, 2933985; 656757, 2933935; 656729, 2933950; 656743, 2933979; 656737, 2934011; 656692, 2933983; 656667, 2934035; 656616, 2934062; 656546, 2934064; 656488, 2934012; 656463, 2934008; 656459, 2934041; 656506, 2934092; 656440, 2934082; 656437, 2934093; 656503, 2934127; 656511, 2934159; 656411, 2934112; 656415, 2934006; 656397, 2934000; 656376, 2934133; 656398, 2934168; 656544, 2934173; 656544, 2934123; 656581, 2934102; 656643, 2934155; 656600, 2934347; 656539, 2934366; 656468, 2934466; 656420, 2934472; 656371, 2934427; 656374, 2934408; 656439, 2934418; 656415, 2934382; 656430, 2934349; 656417, 2934338; 656398, 2934348; 656366, 2934309; 656325, 2934352; 656106, 2934359; 655962, 2934325; 655961, 2934286; 656012, 2934290; 656021, 2934279; 655979, 2934235; 655987, 2934188; 656002, 2934179; 656029, 2934230; 656048, 2934225; 656037, 2934192; 656060, 2934169; 656070, 2934124; 656056, 2934116; 656022, 2934152; 656005, 2934064; 656035, 2934006; 656059, 2934047; 656100, 2934028; 656074, 2933962; 656035, 2933959; 656014, 2933978; 655968, 2933938; 655933, 2933958; 655878, 2933958; 655897, 2933987; 655929, 2933994; 655975, 2933964; 655995, 2933995; 655930, 2934021; 655966, 2934048; 655965, 2934073; 655915, 2934057; 655874, 2934094; 655825, 2934097; 655833, 2934120; 655916, 2934130; 655924, 2934155; 655886, 2934171; 655870, 2934199; 655841, 2934198; 655826, 2934258; 655839, 2934296; 655758, 2934322; 655742, 2934311; 655747, 2934286; 655719, 2934273; 655724, 2934226; 655684, 2934251; 655688, 2934285; 655657, 2934305; 655537, 2934236; 655538, 2934191; 655517, 2934165; 655536, 2934115; 655503, 2934101; 655478, 2934162; 655495, 2934193; 655494, 2934229; 655512, 2934251; 655492, 2934276; 655510, 2934307; 655499, 2934321; 655450, 2934315; 655465, 2934357; 655441, 2934358; 655346, 2934238; 655337, 2934163; 655283, 2934132; 655297, 2934241; 655392, 2934381; 655370, 2934430; 655319, 2934415; 655333, 2934527; 655449, 2934516; 655474, 2934493; 655576, 2934552; 655580, 2934572; 655561, 2934601; 655459, 2934588; 655462, 2934617; 655504, 2934659; 655596, 2934684; 655648, 2934646; 655654, 2934634; 655628, 2934610; 655654, 2934591; 655628, 2934579; 655617, 2934553; 655658, 2934536; 655683, 2934473; 655727, 2934435; 655796, 2934518; 655853, 2934552; 655990, 2934575; 656016, 2934529; 656073, 2934562; 656121, 2934560; 656098, 2934622; 656105, 2934696; 656055, 2934688; 656055, 2934713; 656023, 2934719; 656030, 2934744; 656007, 2934756; 656046, 2934859; 656061, 2934858; 656089, 2934819; 656112, 2934824; 656128, 2935053; 656156, 2935197; 656112, 2935224; 656119, 2935340; 656207, 2935731; 656174, 2935801; 656123, 2935748; 656029, 2935786; 656101, 2935799; 656048, 2935880; 656634, 2935885; 656588, 2935871; 656577, 2935824; 656553, 2935814; 656268, 2935226; 656311, 2935199; 656310, 2935146; 656354, 2935157; 656379, 2935134; 656425, 2935136; 656426, 2935121; 656333, 2935038; 656207, 2935028; 656225, 2934985; 656186, 2934841; 656213, 2934770; 656267, 2934730; 656364, 2934724; 656410, 2934746; 656446, 2934790; 656513, 2934820; 656501, 2934733; 656464, 2934682; 656378, 2934695; 656375, 2934668; 656398, 2934635; 656635, 2934513; 656796, 2934454; 656791, 2934488; 656752, 2934549; 656649, 2934598; 656700, 2934621; 656785, 2934580; 656793, 2934597; 656772, 2934623; 656785, 2934640; 656872, 2934704; 656893, 2934705; 656914, 2934677; 656951, 2934709; 656927, 2934726; 656930, 2934826; 656903, 2934904; 656887, 2934917; 656844, 2934907; 656801, 2934918; 656796, 2934934; 656837, 2934951; 656836, 2934975; 656767, 2934981; 656750, 2935000; 656770, 2935030; 656815, 2935005; 656838, 2935026; 656861, 2934982; 656889, 2934983; 656790, 2935194; 656774, 2935200; 656741, 2935159; 656706, 2935199; 656649, 2935199; 656640, 2935215; 656652, 2935245; 656631, 2935271; 656473, 2935378; 656253, 2935410; 656232, 2935401; 656274, 2935343; 656254, 2935267; 656268, 2935226; 656724, 2935218; 656721, 2935243; 656686, 2935260; 656724, 2935218; 657064, 2935042; 657098, 2935042; 657097, 2935086; 657077, 2935080; 657064, 2935042; 657139, 2935038; 657153, 2935037; 657160, 2935066; 657146, 2935068; 657139, 2935038; 656939, 2934560; 656908, 2934533; 656859, 2934557; 656851, 2934524; 656818, 2934535; 656834, 2934483; 656931, 2934455; 656928, 2934438; 656890, 2934423; 656899, 2934403; 656965, 2934426; 656960, 2934494; 656977, 2934526; 656939, 2934560; 656257, 2934642; 656230, 2934649; 656238, 2934569; 656221, 2934547; 656048, 2934511; 656003, 2934485; 655993, 2934453; 656194, 2934470; 656252, 2934493; 656302, 2934573; 656299, 2934601; 656257, 2934642; 655638, 2934473; 655531, 2934461; 655504, 2934429; 655566, 2934404; 655670, 2934409; 655677, 2934435; 655638, 2934473; 655510, 2934394; 655465, 2934420; 655478, 2934451; 655467, 2934461; 655441, 2934404; 655462, 2934384; 655500, 2934380; 655510, 2934394; 655547, 2934328; 655555, 2934298; 655579, 2934300; 655620, 2934343; 655547, 2934328; 655897, 2934215; 655914, 2934213; 655916, 2934234; 655884, 2934251; 655882, 2934227; 655897, 2934215; 657260, 2934120; 657075, 2933966; 657089, 2933903; 657120, 2933910; 657164, 2933959; 657189, 2933922; 657170, 2933866; 657070, 2933845; 657051, 2933828; 657053, 2933788; 657078, 2933763; 657138, 2933756; 657165, 2933778; 657228, 2933910; 657308, 2934015; 657445, 2934071; 657422, 2934104; 657260, 2934120; 657257, 2933774; 657227, 2933728; 657265, 2933722; 657269, 2933707; 657236, 2933669; 657215, 2933669; 657200, 2933703; 657092, 2933701; 656923, 2933728; 656917, 2933671; 656938, 2933639; 656972, 2933622; 657105, 2933602; 657126, 2933630; 657169, 2933607; 657230, 2933639; 657259, 2933613; 657196, 2933585; 657183, 2933561; 657235, 2933549; 657303, 2933587; 657413, 2933728; 657582, 2933831; 657572, 2933847; 657368, 2933865; 657304, 2933831; 657257, 2933774; 657296, 2933549; 657161, 2933469; 657071, 2933463; 657029, 2933438; 657035, 2933420; 657070, 2933416; 657065, 2933390; 657083, 2933369; 657055, 2933336; 657017, 2933356; 656996, 2933327; 656996, 2933300; 657046, 2933283; 657128, 2933284; 657130, 2933272; 657097, 2933267; 657091, 2933249; 657138, 2933213; 657144, 2933188; 657007, 2933220; 656980, 2933241; 656954, 2933231; 656926, 2933265; 656819, 2933248; 656801, 2933219; 656815, 2933180; 656865, 2933135; 656922, 2933168; 656959, 2933130; 657054, 2933147; 657087, 2933137; 656968, 2933059; 656856, 2933060; 656802, 2933085; 656800, 2933058; 656850, 2933006; 656915, 2932990; 657066, 2933034; 657393, 2933042; 657434, 2933019; 657495, 2933032; 657497, 2933016; 657470, 2932995; 657230, 2932956; 657279, 2932897; 657368, 2932868; 657514, 2932890; 657668, 2932991; 657722, 2933099; 657723, 2933157; 657689, 2933196; 657655, 2933121; 657624, 2933167; 657586, 2933160; 657579, 2933192; 657593, 2933226; 657580, 2933261; 657636, 2933271; 657713, 2933369; 657737, 2933418; 657730, 2933467; 657697, 2933481; 657516, 2933361; 657505, 2933294; 657492, 2933285; 657472, 2933354; 657401, 2933395; 657361, 2933390; 657290, 2933339; 657291, 2933364; 657270, 2933371; 657280, 2933393; 657302, 2933399; 657317, 2933382; 657361, 2933429; 657338, 2933481; 657314, 2933438; 657290, 2933452; 657284, 2933484; 657317, 2933519; 657296, 2933549; 657731, 2932872; 657685, 2932836; 657724, 2932808; 657688, 2932749; 657632, 2932721; 657503, 2932707; 657481, 2932678; 657485, 2932645; 657537, 2932617; 657691, 2932678; 657757, 2932772; 657784, 2932913; 657731, 2932872; 657026, 2932642; 656968, 2932631; 656962, 2932610; 656984, 2932586; 656970, 2932566; 656931, 2932587; 656909, 2932580; 656895, 2932628; 656827, 2932625; 656822, 2932607; 656919, 2932503; 657023, 2932339; 657146, 2932318; 657134, 2932298; 657055, 2932281; 657064, 2932265; 657153, 2932227; 657277, 2932297; 657307, 2932335; 657307, 2932441; 657281, 2932504; 657247, 2932540; 657105, 2932591; 657113, 2932563; 657146, 2932535; 657100, 2932499; 657080, 2932565; 657026, 2932642; 655927, 2932740; 655911, 2932749; 655890, 2932728; 655886, 2932707; 655901, 2932690; 655919, 2932700; 655927, 2932740; 656855, 2932827; 656843, 2932881; 656779, 2932861; 656667, 2932901; 656535, 2932892; 656596, 2932829; 656668, 2932793; 656789, 2932794; 656855, 2932827; 657088, 2932886; 657059, 2932858; 657067, 2932838; 657102, 2932846; 657141, 2932907; 657136, 2932964; 657106, 2932995; 657083, 2932984; 657052, 2932921; 657088, 2932886; 656848, 2933344; 656819, 2933363; 656780, 2933357; 656791, 2933322; 656832, 2933320; 656848, 2933344; 656723, 2934057; 656713, 2934060; 656705, 2934037; 656723, 2934057; 656073, 2932531; 656123, 2932530; 656124, 2932573; 656072, 2932550; 656073, 2932531; 655306, 2932610; 655278, 2932593; 655301, 2932586; 655306, 2932610; 656816, 2932002; 656830, 2932001; 656866, 2932049; 656872, 2932123; 656840, 2932105; 656815, 2932057; 656816, 2932002; 657461, 2931504; 657558, 2931510; 657634, 2931589; 657662, 2931701; 657633, 2931762; 657501, 2931633; 657400, 2931580; 657416, 2931533; Thence returning to 657461, 2931504.

Excluding:

Unit TX-4, Willacy County, Texas. Coordinates are in UTM Zone 14N, North American Datum 1983 (meters E, meters N):

656706, 2935199; 656741, 2935159; 656774, 2935200; 656790, 2935194; 656889, 2934983; 656861, 2934982; 656838, 2935026; 656815, 2935005; 656770, 2935030; 656750, 2935000; 656767, 2934981; 656836, 2934975; 656837, 2934951; 656796, 2934934; 656801, 2934918; 656844, 2934907; 656887, 2934917; 656903, 2934904; 656930, 2934826; 656927, 2934726; 656951, 2934709; 656914, 2934677; 656893, 2934705; 656872, 2934704; 656785, 2934640; 656772, 2934623; 656793, 2934597; 656785, 2934580; 656700, 2934621; 656649, 2934598; 656752, 2934549; 656791, 2934488; 656796, 2934454; 656635, 2934513; 656398, 2934635; 656375, 2934668; 656378, 2934695; 656464, 2934682; 656501, 2934733; 656513, 2934820; 656446, 2934790; 656410, 2934746; 656364, 2934724; 656267, 2934730; 656213, 2934770; 656186, 2934841; 656225, 2934985; 656207, 2935028; 656333, 2935038; 656426, 2935121; 656425, 2935136; 656379, 2935134; 656354, 2935157; 656310, 2935146; 656311, 2935199; 656268, 2935226; 656254, 2935267; 656274, 2935343; 656232, 2935401; 656253, 2935410; 656473, 2935378; 656631, 2935271; 656652, 2935245; 656640, 2935215; 656649, 2935199; Thence returning to 656706, 2935199.

656721, 2935243; 656724, 2935218; 656686, 2935260; Thence returning to 656721, 2935243.

657097, 2935086; 657098, 2935042; 657064, 2935042; 657077, 2935080; Thence returning to 657097, 2935086.

657160, 2935066; 657153, 2935037; 657139, 2935038; 657146, 2935068; Thence returning to 657160, 2935066.

656194, 2934470; 655993, 2934453; 656003, 2934485; 656048, 2934511; 656221, 2934547; 656238, 2934569; 656230, 2934649; 656257, 2934642; 656299, 2934601; 656302, 2934573; 656252, 2934493; Thence returning to 656194, 2934470.

656939, 2934560; 656977, 2934526; 656960, 2934494; 656965, 2934426; 656899, 2934403; 656890, 2934423; 656928, 2934438; 656931, 2934455; 656834, 2934483; 656818, 2934535; 656851, 2934524; 656859, 2934557; 656908, 2934533; Thence returning to 656939, 2934560.

655670, 2934409; 655566, 2934404; 655504, 2934429; 655531, 2934461; 655638, 2934473; 655677, 2934435; Thence returning to 655670, 2934409.

655510, 2934394; 655500, 2934380; 655462, 2934384; 655441, 2934404; 655467, 2934461; 655478, 2934451; 655465, 2934420; Thence returning to 655510, 2934394.

655579, 2934300; 655555, 2934298; 655547, 2934328; 655620, 2934343; Thence returning to 655579, 2934300.

655916, 2934234; 655914, 2934213; 655897, 2934215; 655882, 2934227; 655884, 2934251; Thence returning to 655916, 2934234.

657308, 2934015; 657228, 2933910; 657165, 2933778; 657138, 2933756; 657078, 2933763; 657053, 2933788; 657051, 2933828; 657070, 2933845; 657170, 2933866; 657189, 2933922; 657164, 2933959; 657120, 2933910; 657089, 2933903; 657075, 2933966; 657260, 2934120; 657422, 2934104; 657445, 2934071; Thence returning to 657308, 2934015.

656723, 2934057; 656705, 2934037; 656713, 2934060; Thence returning to 656723, 2934057.

657413, 2933728; 657303, 2933587; 657235, 2933549; 657183, 2933561; 657196, 2933585; 657259, 2933613; 657230, 2933639; 657169, 2933607; 657126, 2933630; 657105, 2933602; 656972, 2933622; 656938, 2933639; 656917, 2933671; 656923, 2933728; 657092, 2933701; 657200, 2933703; 657215, 2933669; 657236, 2933669; 657269, 2933707; 657265, 2933722; 657227, 2933728; 657257, 2933774; 657304, 2933831; 657368, 2933865; 657572, 2933847; 657582, 2933831; Thence returning to 657413, 2933728.

657290, 2933452; 657314, 2933438; 657338, 2933481; 657361, 2933429; 657317, 2933382; 657302, 2933399; 657280, 2933393; 657270, 2933371; 657291, 2933364; 657290, 2933339; 657361, 2933390; 657401, 2933395; 657472, 2933354; 657492, 2933285; 657505, 2933294; 657516, 2933361; 657697, 2933481; 657730, 2933467; 657737, 2933418; 657713, 2933369; 657636, 2933271; 657580, 2933261; 657593, 2933226; 657579, 2933192; 657586, 2933160; 657624, 2933167; 657655, 2933121; 657689, 2933196; 657723, 2933157; 657722, 2933099; 657668, 2932991; 657514, 2932890; 657368, 2932868; 657279, 2932897; 657230, 2932956; 657470, 2932995; 657497, 2933016; 657495, 2933032; 657434, 2933019; 657393, 2933042; 657066, 2933034; 656915, 2932990; 656850, 2933006; 656800, 2933058; 656802, 2933085; 656856, 2933060; 656968, 2933059; 657087, 2933137; 657054, 2933147; 656959, 2933130; 656922, 2933168; 656865, 2933135; 656815, 2933180; 656801, 2933219; 656819, 2933248; 656926, 2933265; 656954, 2933231; 656980, 2933241; 657007, 2933220; 657144, 2933188; 657138, 2933213; 657091, 2933249; 657097, 2933267; 657130, 2933272; 657128, 2933284; 657046, 2933283; 656996, 2933300; 656996, 2933327; 657017, 2933356; 657055, 2933336; 657083, 2933369; 657065, 2933390; 657070, 2933416; 657035, 2933420; 657029, 2933438; 657071, 2933463; 657161, 2933469; 657296, 2933549; 657317, 2933519; 657284, 2933484; Thence returning to 657290, 2933452.

656848, 2933344; 656832, 2933320; 656791, 2933322; 656780, 2933357; 656819, 2933363; Thence returning to 656848, 2933344.

657102, 2932846; 657067, 2932838; 657059, 2932858; 657088, 2932886; 657052, 2932921; 657083, 2932984; 657106, 2932995; 657136, 2932964; 657141, 2932907; Thence returning to 657102, 2932846.

656667, 2932901; 656779, 2932861; 656843, 2932881; 656855, 2932827; 656789, 2932794; 656668, 2932793; 656596, 2932829; 656535, 2932892; Thence returning to 656667, 2932901.

657691, 2932678; 657537, 2932617; 657485, 2932645; 657481, 2932678; 657503, 2932707; 657632, 2932721; 657688, 2932749; 657724, 2932808; 657685, 2932836; 657731, 2932872; 657784, 2932913; 657757, 2932772; Thence returning to 657691, 2932678.

655919, 2932700; 655901, 2932690; 655886, 2932707; 655890, 2932728; 655911, 2932749; 655927, 2932740; Thence returning to 655919, 2932700.

657026, 2932642; 657080, 2932565; 657100, 2932499; 657146, 2932535; 657113, 2932563; 657105, 2932591; 657247, 2932540; 657281, 2932504; 657307, 2932441; 657307, 2932335; 657277, 2932297; 657153, 2932227; 657064, 2932265; 657055, 2932281; 657134, 2932298; 657146, 2932318; 657023, 2932339; 656919, 2932503; 656822, 2932607; 656827, 2932625; 656895, 2932628; 656909, 2932580; 656931, 2932587; 656970, 2932566; 656984, 2932586; 656962, 2932610; 656968, 2932631; Thence returning to 657026, 2932642.

655306, 2932610; 655301, 2932586; 655278, 2932593; Thence returning to 655306, 2932610.

656124, 2932573; 656123, 2932530; 656073, 2932531; 656072, 2932550; Thence returning to 656124, 2932573.

656866, 2932049; 656830, 2932001; 656816, 2932002; 656815, 2932057; 656840, 2932105; 656872, 2932123; Thence returning to 656866, 2932049.

657558, 2931510; 657461, 2931504; 657416, 2931533; 657400, 2931580; 657501, 2931633; 657633, 2931762; 657662, 2931701; 657634, 2931589; Thence returning to 657558, 2931510.

660565, 2927685; 660583, 2927614; 660490, 2927789; 660422, 2927852; 660390, 2927923; 660293, 2928014; 660257, 2928079; 660359, 2927989; 660504, 2927809; Thence returning to 660565, 2927685.

660389, 2927803; 660452, 2927674; 660252, 2927932; 660229, 2927997; 660248, 2928007; 660290, 2927913; Thence returning to 660389, 2927803.

659391, 2927650; 659374, 2927635; 659385, 2927764; 659466, 2927907; 659458, 2927841; 659415, 2927760; Thence returning to 659391, 2927650.

660456, 2927143; 660413, 2927140; 660269, 2927251; 660108, 2927474; 660006, 2927690; 660004, 2927701; 660079, 2927615; 660204, 2927376; 660242, 2927333; 660303, 2927286; 660518, 2927180; Thence returning to 660456, 2927143.

659363, 2927572; 659347, 2927462; 659320, 2927477; 659323, 2927527; 659334, 2927560; Thence returning to 659363, 2927572.

659931, 2926613; 659907, 2926591; 659882, 2926650; 659788, 2926675; 659780, 2926726; 659811, 2926843; 659836, 2926860; 659879, 2926844; 659918, 2926785; 659942, 2926709; Thence returning to 659931, 2926613.

663137, 2925678; 663232, 2925529; 663256, 2925457; 663255, 2925423; 663232, 2925410; 663152, 2925421; 663147, 2925402; 663224, 2925345; 663255, 2925352; 663290, 2925295; 663278, 2925269; 663200, 2925280; 663184, 2925243; 663164, 2925256; 663089, 2925417; 663091, 2925436; 663128, 2925443; 663106, 2925509; 663145, 2925587; 663111, 2925627; 663069, 2925626; 663006, 2925668; 662918, 2925771; 662922, 2925841; 662990, 2925853; 663023, 2925883; 663072, 2925877; 663099, 2925840; Thence returning to 663137, 2925678.

659644, 2925157; 659608, 2925068; 659534, 2925108; 659499, 2925086; 659485, 2925086; 659470, 2925115; 659427, 2925100; 659426, 2925189; 659440, 2925235; 659467, 2925265; 659517, 2925297; 659567, 2925307; 659624, 2925273; Thence returning to 659644, 2925157.

660331, 2924799; 660356, 2924699; 660319, 2924720; 660185, 2924772; 660144, 2924843; 660146, 2924871; 660203, 2924911; 660265, 2924903; Thence returning to 660331, 2924799.

660409, 2924322; 660445, 2924157; 660451, 2924086; 660437, 2923994; 660388, 2923918; 660300, 2923914; 659980, 2923980; 659942, 2924028; 659925, 2924093; 659927, 2924205; 659978, 2924242; 659971, 2924269; 659904, 2924258; 659865, 2924176; 659852, 2924170; 659830, 2924196; 659812, 2924274; 659822, 2924353; 659845, 2924405; 659912, 2924480; 660043, 2924522; 660181, 2924582; 660235, 2924680; 660282, 2924661; 660322, 2924600; Thence returning to 660409, 2924322.

659693, 2922901; 659503, 2922862; 659478, 2922891; 659471, 2922953; 659476, 2922992; 659502, 2923028; 659624, 2922996; 659705, 2922935; Thence returning to 659693, 2922901.

664597, 2922304; 664408, 2922301; 664417, 2922314; 664517, 2922329; 664508, 2922386; 664440, 2922407; 664417, 2922452; 664327, 2922439; 664309, 2922454; 664311, 2922473; 664361, 2922485; 664403, 2922549; 664291, 2922614; 664194, 2922608; 664194, 2922582; 664270, 2922542; 664286, 2922507; 664195, 2922492; 664131, 2922344; 664103, 2922359; 664113, 2922423; 664091, 2922446; 664056, 2922453; 664028, 2922419; 664004, 2922417; 663966, 2922447; 663916, 2922455; 663882, 2922491; 663811, 2922500; 663760, 2922540; 663764, 2922559; 663817, 2922579; 663913, 2922583; 663950, 2922620; 663955, 2922675; 663918, 2922746; 663907, 2922799; 663949, 2922921; 664058, 2922969; 664123, 2922977; 664194, 2922968; 664263, 2922932; 664355, 2922786; 664376, 2922613; 664491, 2922502; 664516, 2922423; Thence returning to 664597, 2922304.

663012, 2922281; 663007, 2922281; 662927, 2922279; 662906, 2922452; Thence returning to 663012, 2922281.

Unit TX-7: Newport Pass/Corpus Christi Pass Beach: 119 hectares (294 acres) in Nueces County, Texas.

(1) Unit TX-7, Nueces County, Texas. Coordinates are in UTM Zone 14N, North American Datum 1983 (meters E, meters N):

677207, 3055254; 677182, 3055210; 677018, 3055302; 677067, 3055333; 677061, 3055349; 677102, 3055503; 677133, 3055544; 677120, 3055593; 677144, 3055615; 677154, 3055683; 677210, 3055804; 677430, 3055747; 677374, 3055587; 677254, 3055369; Thence returning to 677207, 3055254.

680602, 3062200; 680491, 3062023; 679716, 3060547; 679702, 3060489; 679520, 3060176; 679472, 3060057; 679090, 3059313; 678531, 3058144; 678116, 3057316; 677547, 3056074; 677536, 3055942; 677545, 3055834; 677290, 3055886; 677335, 3055966; 677336, 3056010; 677367, 3056067; 677392, 3056069; 677493, 3056247; 677578, 3056461; 677615, 3056484; 677876, 3057083; 678012, 3057433; 678143, 3057683; 678089, 3057719; 678166, 3057767; 678199, 3057771; 678333, 3058072; 678668, 3058718; 678753, 3058928; 678773, 3058942; 678763, 3059001; 678802, 3059070; 678826, 3059082; 678819, 3059114; 678843, 3059158; 678858, 3059261; 678790, 3059405; 678855, 3059352; 678943, 3059361; 679081, 3059555; 679715, 3060823; 679718, 3060850; 679736, 3060860; 679864, 3061098; 679854, 3061115; 679888, 3061139; 680141, 3061634; 680186, 3061751; 680247, 3061869; 680271, 3061891; 680279, 3061920; 680221, 3062031; 680220, 3062080; 680307, 3062228; 680347, 3062218; 680356, 3062172; 680396, 3062187; 680420, 3062239; 680488, 3062286; 680603, 3062471; 680658, 3062520; 680766, 3062670; 680762, 3062706; 680811, 3062719; 680940, 3062645; 680801, 3062508; Thence returning to 680602, 3062200.

Unit TX-8: Mustang Island Beach: 252 hectares (623 acres) in Nueces County, Texas.

(1) Unit TX-8, Nueces County, Texas. Coordinates are in UTM Zone 14N, North American Datum 1983 (meters E, meters N):

690804, 3078378; 690197, 3077592; 689999, 3077310; 689859, 3077143; 688025, 3074662; 687168, 3073420; 686311, 3072104; 685582, 3070938; 684419, 3068995; 684336, 3068880; 684221, 3068660; 683219, 3066995; 682293, 3065385; 681460, 3063869; 681139, 3063237; 681011, 3062886; 681006, 3062781; 680847, 3062869; 680869, 3062881; 681097, 3063427; 681339, 3063896; 682082, 3065234; 682048, 3065228; 682093, 3065253; 682342, 3065680; 682353, 3065730; 682344, 3065764; 682353, 3065776; 682382, 3065767; 682524, 3065997; 682833, 3066556; 682984, 3066785; 683444, 3067582; 683481, 3067623; 683483, 3067650; 683570, 3067801; 683848, 3068267; 683859, 3068263; 684018, 3068550; 684713, 3069710; 685305, 3070659; 685324, 3070720; 685360, 3070747; 685365, 3070780; 685418, 3070831; 685425, 3070877; 685987, 3071784; 686727, 3072954; 687036, 3073411; 687030, 3073431; 687044, 3073431; 687079, 3073509; 687151, 3073582; 687664, 3074342; 687650, 3074370; 687674, 3074361; 687930, 3074757; 687982, 3074798; 688147, 3075013; 688140, 3075036; 688166, 3075075; 688443, 3075432; 688606, 3075681; 688601, 3075798; 688709, 3075797; 688725, 3075848; 688767, 3075889; 688793, 3075948; 688932, 3076136; 689047, 3076256; 689222, 3076502; 689288, 3076614; 689287, 3076641; 689332, 3076697; 689315, 3076737; 689337, 3076731; 689390, 3076783; 689375, 3076835; 689408, 3076810; 689416, 3076855; 689396, 3076875; 689406, 3076890; 689447, 3076881; 689471, 3076907; 689475, 3076925; 689454, 3076911; 689451, 3076923; 689470, 3076943; 689486, 3076937; 689560, 3077045; 689551, 3077080; 689572, 3077068; 689615, 3077117; 689774, 3077346; 690263, 3077958; 690279, 3077980; 690264, 3078021; 690314, 3078023; 690523, 3078286; 690526, 3078312; 690491, 3078353; 690563, 3078342; 690766, 3078604; 691144, 3079046; 691147, 3079069; 691182, 3079093; 691564, 3079539; 691680, 3079712; 691825, 3079589; 691740, 3079482; 691643, 3079410; 691639, 3079379; 691504, 3079230; 691470, 3079168; 691067, 3078711; Thence returning to 690804, 3078378.

Unit TX-9: Fish Pass Lagoons: 68 hectares (168 acres) in Nueces County, Texas.

(1) Unit TX-9, Nueces County, Texas. Coordinates are in UTM Zone 14N, North American Datum 1983 (meters E, meters N):

679030, 3064125; 678991, 3064130; 678976, 3064151; 679031, 3064149; Thence returning to 679030, 3064125.

678991, 3064218; 678971, 3064219; 678963, 3064236; 679000, 3064257; 679003, 3064227; Thence returning to 678991, 3064218.

679724, 3064620; 679747, 3064591; 679740, 3064540; 679763, 3064524; 679766, 3064497; 679791, 3064521; 679800, 3064572; 679818, 3064572; 679836, 3064524; 679853, 3064535; 679859, 3064596; 679889, 3064587; 679911, 3064556; 680010, 3064539; 680017, 3064525; 679997, 3064507; 679892, 3064535; 679871, 3064501; 679785, 3064482; 679765, 3064422; 679717, 3064437; 679702, 3064392; 679740, 3064303; 679745, 3064233; 679729, 3064220; 679700, 3064226; 679679, 3064251; 679621, 3064264; 679596, 3064309; 679553, 3064342; 679549, 3064375; 679585, 3064369; 679705, 3064285; 679663, 3064379; 679660, 3064482; 679694, 3064544; 679674, 3064617; Thence returning to 679724, 3064620.

679404, 3064220; 679392, 3064216; 679333, 3064322; 679219, 3064439; 679128, 3064602; 679090, 3064621; 679089, 3064662; 679137, 3064637; 679332, 3064391; 679383, 3064279; 679431, 3064232; Thence returning to 679404, 3064220.

679021, 3064641; 679026, 3064600; 679200, 3064365; 679306, 3064180; 679258, 3064160; 679262, 3064187; 679236, 3064232; 679202, 3064251; 679187, 3064308; 679144, 3064315; 679153, 3064346; 679110, 3064327; 679005, 3064350; 678969, 3064343; 678901, 3064288; 678892, 3064263; 678906, 3064221; 678875, 3064193; 678861, 3064126; 678838, 3064123; 678803, 3064153; 678698, 3064146; 678679, 3064056; 678656, 3064059; 678635, 3064105; 678586, 3064132; 678591, 3064162; 678650, 3064162; 678609, 3064205; 678577, 3064193; 678552, 3064206; 678564, 3064249; 678501, 3064297; 678425, 3064186; 678359, 3064133; 678377, 3064186; 678431, 3064238; 678454, 3064312; 678488, 3064323; 678504, 3064378; 678693, 3064626; 678786, 3064688; 679021, 3064641; 678551, 3064300; 678624, 3064250; 678636, 3064215; 678677, 3064194; 678701, 3064216; 678728, 3064200; 678748, 3064266; 678784, 3064243; 678807, 3064247; 678788, 3064289; 678794, 3064348; 678861, 3064399; 678895, 3064395; 678914, 3064411; 678885, 3064458; 678904, 3064476; 678902, 3064521; 678912, 3064537; 678947, 3064541; 678993, 3064619; 678896, 3064638; 678722, 3064549; 678531, 3064333; 678525, 3064321; Thence returning to 678551, 3064300.

679203, 3065044; 679360, 3065017; 679421, 3064961; 679476, 3064953; 679474, 3064869; 679611, 3064661; 679600, 3064627; 679570, 3064630; 679548, 3064610; 679467, 3064612; 679467, 3064568; 679538, 3064587; 679553, 3064568; 679547, 3064555; 679463, 3064523; 679438, 3064539; 679395, 3064610; 679307, 3064635; 679204, 3064694; 679180, 3064724; 679142, 3064799; 679122, 3064810; 679121, 3064838; 679155, 3064907; 679172, 3065007; 679162, 3065044; 679203, 3065044; 679400, 3064695; 679470, 3064705; 679498, 3064742; 679472, 3064789; 679421, 3064827; 679336, 3064743; 679346, 3064722; Thence returning to 679400, 3064695.

679957, 3065348; 679953, 3065316; 679938, 3065305; 679903, 3065335; 679828, 3065333; 679838, 3065282; 679897, 3065260; 679907, 3065205; 679928, 3065183; 679996, 3065191; 680187, 3065291; 680245, 3065306; 680261, 3065281; 680303, 3065290; 680320, 3065274; 680393, 3065298; 680415, 3065257; 680381, 3065193; 680457, 3065144; 680444, 3065118; 680373, 3065126; 680293, 3065093; 680150, 3065089; 680100, 3065059; 680018, 3065075; 679993, 3065020; 680000, 3064913; 679978, 3064899; 679954, 3064823; 679931, 3064622; 679914, 3064610; 679839, 3064679; 679842, 3064740; 679803, 3064745; 679814, 3064802; 679804, 3064858; 679830, 3064914; 679824, 3064940; 679726, 3065061; 679680, 3065085; 679750, 3065104; 679742, 3065148; 679590, 3065107; 679475, 3064996; 679426, 3065030; 679417, 3065054; 679442, 3065069; 679519, 3065059; 679514, 3065098; 679533, 3065134; 679552, 3065139; 679549, 3065185; 679600, 3065194; 679608, 3065227; 679670, 3065302; 679739, 3065464; 679753, 3065535; 679789, 3065583; 679879, 3065561; 679909, 3065518; 679974, 3065497; 679963, 3065453; 679979, 3065422; Thence returning to 679957, 3065348.

679279, 3065246; 679262, 3065177; 679297, 3065087; 679201, 3065090; 679154, 3065176; 679027, 3065064; 679170, 3065253; 679212, 3065238; 679248, 3065252; 679243, 3065326; 679286, 3065405; 679542, 3065741; 679556, 3065742; 679454, 3065602; 679450, 3065545; 679321, 3065373; Thence returning to 679279, 3065246.

Excluding:

Unit TX-9, Nueces County, Texas. Coordinates are in UTM Zone 14N, North American Datum 1983 (meters E, meters N):

679470, 3064705; 679400, 3064695; 679346, 3064722; 679336, 3064743; 679421, 3064827; 679472, 3064789; 679498, 3064742; Thence returning to 679470, 3064705.

678914, 3064411; 678895, 3064395; 678861, 3064399; 678794, 3064348; 678788, 3064289; 678807, 3064247; 678784, 3064243; 678748, 3064266; 678728, 3064200; 678701, 3064216; 678677, 3064194; 678636, 3064215; 678624, 3064250; 678551, 3064300; 678525, 3064321; 678531, 3064333; 678722, 3064549; 678896, 3064638; 678993, 3064619; 678947, 3064541; 678912, 3064537; 678902, 3064521; 678904, 3064476; 678885, 3064458; Thence returning to 678914, 3064411.

Unit TX-10: Shamrock Island and Adjacent Mustang Island Flats. This unit consists of three subunits:

(1) Subunit TX-10A: Shamrock Island: 5 hectares (12 acres) in Nueces County, Texas.

(i) Unit TX-10, Subunit A, Nueces County, Texas. Coordinates are in UTM Zone 14N, North American Datum 1983 (meters E, meters N):

680551, 3071356; 680539, 3071357; 680529, 3071447; 680507, 3071466; 680495, 3071520; 680517, 3071516; 680559, 3071458; 680564, 3071372; Thence returning to 680551, 3071356.

680287, 3071911; 680270, 3071903; 680264, 3071860; 680204, 3071901; 680234, 3071939; 680228, 3071961; 680241, 3071975; 680266, 3071968; Thence returning to 680287, 3071911.

679983, 3071174; 679961, 3071171; 679911, 3071208; 679893, 3071240; 679889, 3071297; 679896, 3071440; 679947, 3071564; 679952, 3071747; 679972, 3071892; 680020, 3071975; 680185, 3072099; 680221, 3072107; 680030, 3071955; 680000, 3071908; 679979, 3071837; 679982, 3071621; 679944, 3071508; 679943, 3071417; 679910, 3071343; 679922, 3071263; 679981, 3071216; Thence returning to 679983, 3071174.

680741, 3072445; 680771, 3072420; 680766, 3072399; 680681, 3072440; 680598, 3072432; 680661, 3072465; Thence returning to 680741, 3072445.

680868, 3072484; 680904, 3072444; 680879, 3072415; 680830, 3072450; 680786, 3072436; 680752, 3072474; 680770, 3072496; 680813, 3072481; 680846, 3072499; Thence returning to 680868, 3072484.

(2) Subunit TX-10B: Mustang Island: Unnamed sand flat: 1 hectare (2 acres) in Nueces County, Texas.

(i) Unit TX-10, Subunit B, Nueces County, Texas. Coordinates are in UTM Zone 14N, North American Datum 1983 (meters E, meters N):

681497, 3070434; 681460, 3070459; 681467, 3070612; 681524, 3070776; 681568, 3070799; 681492, 3070603; 681483, 3070489; Thence returning to 681497, 3070434.

(3) Subunit TX-10C: Mustang Island: Lagoon Complex: 134 hectares (331 acres) in Nueces County, Texas.

(i) Unit TX-10, Subunit C, Nueces County, Texas. Coordinates are in UTM Zone 14N, North American Datum 1983 (meters E, meters N):

680304, 3067245; 680367, 3067238; 680443, 3067190; 680444, 3067140; 680317, 3067166; 680277, 3067209; 680190, 3067174; 680145, 3067138; 680154, 3067187; 680170, 3067176; 680157, 3067190; 680208, 3067226; 680264, 3067302; 680304, 3067323; 680289, 3067264; Thence returning to 680304, 3067245.

681001, 3067433; 681008, 3067396; 680977, 3067417; 680893, 3067396; 680909, 3067354; 680869, 3067344; 680869, 3067298; 680845, 3067226; 680483, 3067147; 680481, 3067213; 680564, 3067206; 680511, 3067269; 680526, 3067301; 680547, 3067251; 680607, 3067224; 680651, 3067228; 680680, 3067251; 680690, 3067296; 680713, 3067310; 680715, 3067380; 680763, 3067453; 680746, 3067514; 680703, 3067532; 680679, 3067526; 680667, 3067471; 680575, 3067409; 680549, 3067357; 680537, 3067365; 680526, 3067423; 680609, 3067540; 680699, 3067556; 680789, 3067540; 680797, 3067468; 680737, 3067302; 680761, 3067312; 680821, 3067389; 680848, 3067363; 680871, 3067457; 680915, 3067522; 680924, 3067632; 680966, 3067590; Thence returning to 681001, 3067433.

681234, 3067399; 681378, 3067304; 681410, 3067245; 681269, 3067338; 681230, 3067323; 681263, 3067294; 681264, 3067264; 681210, 3067269; 681160, 3067309; 681158, 3067334; 681124, 3067330; 681081, 3067379; 681018, 3067394; 680985, 3067576; 680924, 3067649; 680949, 3067773; 681004, 3067783; 681060, 3067607; 681088, 3067576; 681144, 3067564; 681231, 3067444; Thence returning to 681234, 3067399.

680636, 3067764; 680654, 3067783; 680651, 3067894; 680717, 3067831; 680729, 3067765; 680784, 3067724; 680797, 3067640; 680755, 3067631; 680709, 3067729; 680674, 3067674; 680687, 3067606; 680660, 3067597; 680599, 3067648; 680587, 3067728; 680570, 3067740; 680557, 3067686; 680505, 3067606; 680523, 3067593; 680555, 3067641; 680575, 3067645; 680583, 3067598; 680546, 3067557; 680559, 3067516; 680496, 3067482; 680473, 3067423; 680421, 3067412; 680352, 3067355; 680366, 3067446; 680464, 3067574; 680477, 3067672; 680526, 3067774; 680544, 3067871; 680530, 3067887; 680547, 3067918; 680585, 3067878; 680617, 3067784; Thence returning to 680636, 3067764.

680746, 3067919; 680719, 3067844; 680654, 3067907; 680711, 3067924; 680684, 3067991; 680712, 3068055; 680731, 3068064; 680757, 3068054; 680762, 3068028; Thence returning to 680746, 3067919.

681564, 3068600; 681726, 3068541; 681872, 3068403; 681853, 3068518; 681864, 3068524; 681890, 3068478; 681921, 3068456; 681894, 3068530; 681908, 3068547; 681953, 3068497; 681968, 3068417; 682083, 3068335; 682164, 3068314; 682117, 3068272; 682103, 3068230; 682130, 3068092; 682094, 3068068; 682119, 3068008; 682105, 3067971; 682120, 3067891; 682097, 3067898; 682025, 3067844; 681993, 3067871; 681964, 3067956; 681894, 3068009; 681924, 3068047; 681919, 3068105; 681871, 3068274; 681830, 3068331; 681814, 3068407; 681721, 3068497; 681671, 3068517; 681648, 3068491; 681610, 3068495; 681606, 3068480; 681651, 3068366; 681685, 3068342; 681686, 3068287; 681732, 3068201; 681738, 3068128; 681672, 3068088; 681695, 3068047; 681719, 3068047; 681723, 3068023; 681666, 3068006; 681587, 3068042; 681565, 3068041; 681552, 3068021; 681575, 3067981; 681632, 3067938; 681650, 3067936; 681673, 3067961; 681701, 3067944; 681687, 3067913; 681649, 3067901; 681658, 3067886; 681713, 3067874; 681724, 3067848; 681714, 3067820; 681697, 3067812; 681631, 3067829; 681619, 3067809; 681631, 3067787; 681669, 3067770; 681672, 3067744; 681614, 3067762; 681582, 3067809; 681497, 3067809; 681473, 3067799; 681473, 3067779; 681527, 3067747; 681510, 3067725; 681475, 3067744; 681384, 3067741; 681379, 3067707; 681348, 3067671; 681302, 3067698; 681335, 3067757; 681300, 3067755; 681269, 3067740; 681267, 3067706; 681247, 3067710; 681229, 3067676; 681170, 3067699; 681147, 3067681; 681125, 3067616; 681103, 3067636; 681075, 3067625; 681045, 3067788; 681109, 3067967; 681138, 3068006; 681096, 3068023; 681070, 3068085; 681148, 3068247; 681154, 3068311; 681189, 3068403; 681274, 3068505; 681404, 3068584; 681564, 3068600; 681513, 3068562; 681435, 3068548; 681468, 3068524; 681538, 3068515; 681531, 3068564; 681513, 3068562; 681476, 3068261; 681498, 3068264; 681508, 3068292; 681486, 3068292; 681476, 3068261; 681523, 3068258; 681534, 3068216; 681601, 3068182; 681602, 3068211; 681565, 3068263; 681542, 3068277; 681523, 3068258; 681644, 3068189; 681649, 3068154; 681680, 3068138; 681703, 3068146; 681690, 3068190; 681653, 3068202; 681644, 3068189; 681374, 3067977; 681388, 3067936; 681453, 3067936; 681466, 3067871; 681523, 3067838; 681528, 3067858; 681446, 3067999; 681374, 3067977; 681350, 3067865; 681305, 3067881; 681279, 3067838; 681329, 3067821; 681350, 3067865; 681175, 3067855; 681131, 3067858; 681110, 3067812; 681110, 3067775; 681160, 3067811; 681175, 3067855; 681325, 3067970; 681306, 3067967; 681346, 3067939; 681347, 3067953; Thence returning to 681325, 3067970.

681154, 3068712; 681222, 3068703; 681237, 3068666; 681206, 3068660; 681118, 3068710; 681053, 3068639; 680914, 3068580; 680917, 3068628; 680875, 3068675; 680821, 3068502; 680809, 3068505; 680873, 3068714; 680901, 3068735; 680913, 3068704; 680974, 3068656; 680990, 3068667; 680989, 3068719; 681055, 3068743; Thence returning to 681154, 3068712.

682358, 3068803; 682457, 3068702; 682465, 3068712; 682444, 3068739; 682444, 3068769; 682494, 3068765; 682514, 3068790; 682613, 3068809; 682696, 3068767; 682698, 3068738; 682629, 3068775; 682552, 3068772; 682526, 3068740; 682521, 3068643; 682468, 3068636; 682436, 3068663; 682416, 3068711; 682360, 3068742; 682333, 3068747; 682289, 3068725; 682260, 3068677; 682277, 3068639; 682236, 3068580; 682242, 3068541; 682269, 3068529; 682265, 3068428; 682213, 3068392; 682268, 3068342; 682269, 3068288; 682229, 3068314; 682211, 3068346; 682099, 3068362; 682032, 3068411; 681995, 3068412; 681993, 3068512; 681961, 3068546; 681960, 3068572; 682006, 3068644; 682053, 3068609; 682076, 3068622; 682106, 3068579; 682135, 3068581; 682191, 3068694; 682210, 3068688; 682254, 3068727; 682238, 3068772; 682254, 3068796; 682285, 3068805; 682259, 3068845; 682327, 3068841; 682358, 3068803; 682114, 3068444; 682155, 3068469; 682162, 3068511; 682143, 3068519; 682110, 3068505; 682114, 3068444; 682166, 3068444; 682135, 3068384; 682181, 3068388; 682190, 3068442; Thence returning to 682166, 3068444.

681062, 3068954; 681097, 3068917; 681109, 3068836; 681152, 3068754; 681134, 3068748; 681136, 3068731; 681066, 3068749; 681094, 3068756; 681086, 3068799; 681033, 3068827; 681073, 3068852; 681069, 3068882; 680997, 3068871; 680978, 3068855; 680973, 3068895; 680945, 3068884; 680821, 3068735; 680812, 3068704; 680869, 3068716; 680802, 3068510; 680767, 3068525; 680681, 3068309; 680672, 3068365; 680731, 3068526; 680738, 3068628; 680787, 3068745; 680791, 3068812; 680837, 3068798; 680838, 3068870; 680925, 3068973; 680971, 3068973; 680996, 3068947; 681031, 3068985; Thence returning to 681062, 3068954.

682407, 3069004; 682433, 3068941; 682490, 3068955; 682488, 3068851; 682463, 3068808; 682403, 3068868; 682401, 3068930; 682380, 3068923; 682355, 3068957; 682335, 3068915; 682298, 3068892; 682269, 3068959; 682274, 3068984; 682297, 3068984; 682355, 3069063; 682382, 3069058; Thence returning to 682407, 3069004.

681296, 3069042; 681335, 3068911; 681295, 3068886; 681286, 3068895; 681302, 3068925; 681278, 3069011; 681218, 3069031; 681246, 3069074; Thence returning to 681296, 3069042.

681426, 3069038; 681451, 3069034; 681452, 3068948; 681375, 3068898; 681329, 3069009; 681341, 3069018; 681332, 3069085; 681381, 3069086; Thence returning to 681426, 3069038.

681117, 3069166; 681158, 3069115; 681158, 3069071; 681145, 3069055; 681056, 3069028; 681044, 3069101; 681007, 3069113; 681000, 3069159; 681050, 3069161; 681063, 3069198; Thence returning to 681117, 3069166.

682032, 3070113; 682262, 3069996; 682404, 3069955; 683002, 3069708; 682899, 3069670; 682924, 3069615; 682998, 3069607; 682988, 3069575; 682883, 3069581; 682822, 3069500; 682817, 3069409; 682852, 3069354; 682794, 3069310; 682799, 3069223; 682829, 3069222; 682823, 3069187; 682836, 3069170; 682780, 3069018; 682765, 3069078; 682746, 3069087; 682726, 3069091; 682699, 3069058; 682579, 3069106; 682630, 3069164; 682679, 3069176; 682691, 3069226; 682746, 3069306; 682745, 3069344; 682784, 3069408; 682820, 3069562; 682808, 3069668; 682765, 3069748; 682712, 3069783; 682600, 3069800; 682429, 3069873; 682368, 3069868; 682331, 3069949; 682292, 3069932; 682279, 3069959; 682235, 3069979; 682170, 3069962; 682134, 3069925; 682107, 3069927; 682059, 3070047; 682029, 3070003; 681999, 3069997; 681957, 3070077; 681783, 3070085; 681771, 3070100; 681782, 3070129; 681876, 3070110; 681913, 3070163; Thence returning to 682032, 3070113.

681378, 3070218; 681407, 3070221; 681426, 3070155; 681264, 3069907; 681274, 3069681; 681244, 3069604; 681202, 3069570; 681235, 3069475; 681225, 3069444; 681174, 3069435; 681168, 3069401; 681180, 3069373; 681229, 3069419; 681340, 3069409; 681375, 3069374; 681385, 3069326; 681359, 3069266; 681285, 3069252; 681277, 3069175; 681226, 3069132; 681138, 3069176; 681105, 3069293; 681131, 3069323; 681140, 3069370; 681091, 3069433; 681087, 3069471; 681135, 3069582; 681139, 3069687; 681186, 3069751; 681213, 3069938; 681316, 3070121; 681332, 3070216; 681378, 3070218; 681235, 3069244; 681267, 3069266; 681279, 3069296; 681283, 3069378; 681261, 3069400; 681213, 3069378; 681196, 3069340; 681208, 3069267; Thence returning to 681235, 3069244.

681629, 3070187; 681627, 3070165; 681544, 3070106; 681509, 3070110; 681489, 3070168; 681530, 3070197; 681565, 3070188; 681573, 3070238; 681598, 3070249; 681632, 3070235; Thence returning to 681629, 3070187.

Excluding:

Unit TX-10 Subunit C, Nueces County, Texas. Coordinates are in UTM Zone 14N, North American Datum 1983 (meters E, meters N):

681267, 3069266; 681235, 3069244; 681208, 3069267; 681196, 3069340; 681213, 3069378; 681261, 3069400; 681283, 3069378; 681279, 3069296; Thence returning to 681267, 3069266.

681531, 3068564; 681538, 3068515; 681468, 3068524; 681435, 3068548; 681513, 3068562; Thence returning to 681531, 3068564.

682155, 3068469; 682114, 3068444; 682110, 3068505; 682143, 3068519; 682162, 3068511; Thence returning to 682155, 3068469.

682181, 3068388; 682135, 3068384; 682166, 3068444; 682190, 3068442; Thence returning to 682181, 3068388.

681498, 3068264; 681476, 3068261; 681486, 3068292; 681508, 3068292; Thence returning to 681498, 3068264.

681602, 3068211; 681601, 3068182; 681534, 3068216; 681523, 3068258; 681542, 3068277; 681565, 3068263; Thence returning to 681602, 3068211.

681703, 3068146; 681680, 3068138; 681649, 3068154; 681644, 3068189; 681653, 3068202; 681690, 3068190; Thence returning to 681703, 3068146.

681528, 3067858; 681523, 3067838; 681466, 3067871; 681453, 3067936; 681388, 3067936; 681374, 3067977; 681446, 3067999; Thence returning to 681528, 3067858.

681347, 3067953; 681346, 3067939; 681306, 3067967; 681325, 3067970; Thence returning to 681347, 3067953.

681350, 3067865; 681329, 3067821; 681279, 3067838; 681305, 3067881; Thence returning to 681350, 3067865.

681160, 3067811; 681110, 3067775; 681110, 3067812; 681131, 3067858; 681175, 3067855; Thence returning to 681160, 3067811.

Unit TX-14: East Flats: 239 hectares (591 acres) in Nueces County, Texas.

(1) Unit TX-14, Nueces County, Texas. Coordinates are in UTM Zone 14N, North American Datum 1983 (meters E, meters N):

686175, 3079064; 686157, 3079068; 686243, 3079125; 686225, 3079089; Thence returning to 686175, 3079064.

686589, 3079231; 686569, 3079233; 686592, 3079252; Thence returning to 686589, 3079231.

686675, 3079267; 686725, 3079074; 686685, 3079078; 686684, 3079039; 686590, 3079021; 686582, 3079000; 686597, 3078973; 686740, 3079012; 686757, 3078944; 686729, 3078927; 686722, 3078889; 686796, 3078541; 686766, 3078556; 686735, 3078609; 686708, 3078624; 686717, 3078703; 686663, 3078719; 686657, 3078767; 686702, 3078802; 686696, 3078821; 686656, 3078833; 686602, 3078816; 686589, 3078948; 686562, 3078975; 686506, 3078981; 686475, 3078941; 686385, 3078886; 686340, 3078889; 686327, 3078924; 686273, 3078951; 686315, 3079024; 686299, 3079130; 686360, 3079108; 686438, 3079143; 686429, 3079118; 686380, 3079102; 686387, 3079077; 686483, 3079127; 686516, 3079116; 686538, 3079155; 686593, 3079169; 686626, 3079230; 686650, 3079224; 686675, 3079267; 686610, 3079086; 686616, 3079054; 686633, 3079057; 686661, 3079084; 686660, 3079110; Thence returning to 686610, 3079086.

687864, 3080065; 687957, 3080071; 687971, 3080040; 688029, 3080048; 688062, 3080070; 688049, 3080019; 687955, 3079954; 688036, 3079955; 688071, 3079986; 688100, 3079936; 688160, 3080009; 688164, 3080036; 688217, 3080049; 688258, 3080025; 688269, 3079998; 688221, 3079925; 688219, 3079897; 688233, 3079893; 688341, 3080023; 688419, 3080013; 688457, 3079986; 688539, 3079796; 688523, 3079756; 688468, 3079792; 688444, 3079789; 688437, 3079771; 688484, 3079632; 688434, 3079548; 688437, 3079420; 688426, 3079388; 688350, 3079376; 688321, 3079428; 688302, 3079427; 688121, 3079281; 688085, 3079304; 688034, 3079246; 687954, 3079229; 687956, 3079211; 687989, 3079188; 688031, 3079124; 688080, 3079126; 688083, 3079080; 688103, 3079050; 688157, 3079039; 688126, 3078959; 688130, 3078892; 688149, 3078880; 688192, 3078921; 688219, 3078907; 688310, 3079019; 688350, 3078897; 688346, 3078847; 688329, 3078823; 688285, 3078829; 688292, 3078782; 688280, 3078761; 688201, 3078729; 688151, 3078732; 688144, 3078680; 688129, 3078667; 688104, 3078666; 688090, 3078700; 688077, 3078696; 688046, 3078519; 688044, 3078410; 688024, 3078347; 688000, 3078333; 687964, 3078339; 687946, 3078399; 687875, 3078422; 687838, 3078407; 687825, 3078419; 687827, 3078448; 687809, 3078461; 687763, 3078464; 687723, 3078434; 687737, 3078487; 687774, 3078520; 687795, 3078609; 687753, 3078573; 687749, 3078593; 687708, 3078584; 687697, 3078626; 687657, 3078606; 687636, 3078558; 687628, 3078671; 687574, 3078674; 687607, 3078598; 687613, 3078543; 687559, 3078556; 687527, 3078518; 687501, 3078427; 687481, 3078404; 687504, 3078347; 687489, 3078316; 687488, 3078253; 687401, 3078207; 687409, 3078190; 687482, 3078197; 687480, 3078179; 687421, 3078136; 687386, 3078133; 687279, 3078186; 687224, 3078242; 687333, 3078235; 687370, 3078262; 687409, 3078266; 687415, 3078290; 687443, 3078294; 687436, 3078344; 687459, 3078385; 687368, 3078403; 687302, 3078393; 687293, 3078409; 687302, 3078449; 687240, 3078446; 687234, 3078437; 687263, 3078412; 687262, 3078360; 687117, 3078308; 687127, 3078280; 687185, 3078248; 687193, 3078226; 687088, 3078305; 687064, 3078355; 687074, 3078410; 687238, 3078518; 687236, 3078542; 687220, 3078547; 687221, 3078591; 687171, 3078613; 687103, 3078528; 687051, 3078505; 686958, 3078509; 686902, 3078551; 686802, 3078995; 686823, 3078999; 686817, 3079070; 686799, 3079084; 686785, 3079063; 686736, 3079288; 686773, 3079287; 686783, 3079326; 686726, 3079495; 686708, 3079617; 686738, 3079689; 686774, 3079974; 686785, 3080002; 686905, 3080026; 686933, 3079982; 686986, 3079990; 687019, 3080049; 687102, 3080066; 687149, 3079993; 687264, 3079953; 687305, 3079920; 687382, 3079942; 687411, 3079965; 687527, 3079986; 687574, 3079927; 687634, 3079913; 687703, 3079869; 687720, 3079890; 687695, 3079936; 687722, 3079944; 687746, 3079924; 687758, 3079936; 687721, 3079983; 687719, 3080023; 687679, 3080050; 687679, 3080066; 687806, 3080092; 687864, 3080065; 687208, 3079502; 687237, 3079509; 687261, 3079541; 687270, 3079593; 687260, 3079646; 687232, 3079568; 687189, 3079538; 687208, 3079502; 686905, 3078605; 686931, 3078604; 686853, 3078923; 686833, 3078907; Thence returning to 686905, 3078605.

Excluding:

Unit TX-14, Nueces County, Texas. Coordinates are in UTM Zone 14N, North American Datum 1983 (meters E, meters N):

687237, 3079509; 687208, 3079502; 687189, 3079538; 687232, 3079568; 687260, 3079646; 687270, 3079593; 687261, 3079541; Thence returning to 687237, 3079509.

686633, 3079057; 686616, 3079054; 686610, 3079086; 686660, 3079110; 686661, 3079084; Thence returning to 686633, 3079057.

686853, 3078923; 686931, 3078604; 686905, 3078605; 686833, 3078907; Thence returning to 686853, 3078923.

Unit TX-15: North Pass: 326 hectares (805 acres) in Aransas County, Texas.

(1) Unit TX-15, Aransas County, Texas. Coordinates are in UTM Zone 14N, North American Datum 1983 (meters E, meters N):

694159, 3086654; 694117, 3086676; 694105, 3086736; 694156, 3086725; Thence returning to 694159, 3086654.

694094, 3086822; 694103, 3086805; 694071, 3086813; 694058, 3086779; 694012, 3086846; 694046, 3086870; Thence returning to 694094, 3086822.

693527, 3087373; 693541, 3087343; 693580, 3087316; 693776, 3087289; 693828, 3087231; 693836, 3087139; 693957, 3087101; 694016, 3087049; 694130, 3087035; 694141, 3087055; 694123, 3087103; 694149, 3087123; 694156, 3087091; 694200, 3087061; 694170, 3087040; 694267, 3086979; 694314, 3086869; 694271, 3086858; 694239, 3086872; 694219, 3086968; 694117, 3087015; 694097, 3087012; 694095, 3086994; 694147, 3086970; 694152, 3086924; 694199, 3086899; 694198, 3086883; 694125, 3086868; 694081, 3086886; 693920, 3086900; 693892, 3086935; 693871, 3086937; 693862, 3086964; 693812, 3086987; 693756, 3086955; 693734, 3086982; 693728, 3087058; 693668, 3087111; 693578, 3087104; 693569, 3087052; 693540, 3087045; 693497, 3087142; 693445, 3087194; 693428, 3087335; 693434, 3087369; 693512, 3087383; Thence returning to 693527, 3087373.

693737, 3087760; 693876, 3087776; 693917, 3087761; 693867, 3087736; 693861, 3087716; 693792, 3087736; 693769, 3087728; 693769, 3087707; 693830, 3087606; 693823, 3087580; 693779, 3087609; 693751, 3087654; 693708, 3087635; 693708, 3087721; 693630, 3087762; 693638, 3087836; 693607, 3087858; 693600, 3087890; 693615, 3087893; Thence returning to 693737, 3087760.

694729, 3088064; 694795, 3088051; 694837, 3088064; 694891, 3088051; 694906, 3088029; 694897, 3088016; 694770, 3088001; 694727, 3088019; 694715, 3088065; Thence returning to 694729, 3088064.

695080, 3087975; 695060, 3087976; 695052, 3087996; 695050, 3088053; 695119, 3088085; 695131, 3088107; 695118, 3088169; 695070, 3088189; 695157, 3088235; 695176, 3088168; 695168, 3088080; 695121, 3088001; Thence returning to 695080, 3087975.

695554, 3088319; 695834, 3087982; 694642, 3086181; 694100, 3086243; 694100, 3086259; 694076, 3086263; 694058, 3086247; 693907, 3086264; 693905, 3086289; 693873, 3086311; 693854, 3086298; 693860, 3086269; 693650, 3086292; 693619, 3086317; 693664, 3086316; 693722, 3086289; 693740, 3086309; 693796, 3086315; 693826, 3086346; 693826, 3086365; 693763, 3086400; 693746, 3086354; 693690, 3086361; 693619, 3086434; 693573, 3086392; 693466, 3086447; 693447, 3086434; 693459, 3086376; 693510, 3086351; 693545, 3086356; 693538, 3086304; 693364, 3086323; 693324, 3086346; 693298, 3086348; 693286, 3086332; 693046, 3086357; 693036, 3086390; 693013, 3086406; 692967, 3086394; 692925, 3086447; 692924, 3086474; 692883, 3086506; 692878, 3086558; 692836, 3086614; 692857, 3086621; 692908, 3086570; 692953, 3086593; 692971, 3086627; 692946, 3086672; 692982, 3086692; 692990, 3086747; 693050, 3086778; 693036, 3086932; 693012, 3086957; 692983, 3086957; 692938, 3087034; 693066, 3087156; 693088, 3087142; 693088, 3087100; 693117, 3087082; 693073, 3087049; 693090, 3087029; 693083, 3087007; 693023, 3087015; 693010, 3086995; 693014, 3086975; 693034, 3086983; 693060, 3086961; 693074, 3086835; 693068, 3086698; 693115, 3086698; 693114, 3086639; 693150, 3086649; 693170, 3086608; 693170, 3086566; 693205, 3086568; 693212, 3086552; 693178, 3086508; 693180, 3086460; 693139, 3086491; 693124, 3086480; 693127, 3086426; 693173, 3086372; 693199, 3086382; 693238, 3086491; 693261, 3086517; 693313, 3086543; 693342, 3086535; 693325, 3086561; 693330, 3086630; 693298, 3086745; 693297, 3086785; 693318, 3086815; 693273, 3086859; 693276, 3086895; 693335, 3086873; 693366, 3086789; 693459, 3086843; 693593, 3086828; 693673, 3086864; 693741, 3086806; 693692, 3086761; 693695, 3086725; 693717, 3086703; 693736, 3086708; 693771, 3086685; 693798, 3086693; 693838, 3086743; 693887, 3086720; 693934, 3086733; 693893, 3086820; 693913, 3086840; 693982, 3086781; 694027, 3086784; 694035, 3086739; 694067, 3086711; 694057, 3086637; 694111, 3086588; 694091, 3086575; 694096, 3086554; 694144, 3086531; 694156, 3086548; 694148, 3086577; 694212, 3086601; 694305, 3086616; 694332, 3086634; 694417, 3086619; 694477, 3086711; 694476, 3086736; 694369, 3086833; 694364, 3086854; 694405, 3086866; 694433, 3086853; 694477, 3086792; 694493, 3086807; 694492, 3086853; 694463, 3086900; 694372, 3086900; 694358, 3086912; 694425, 3086928; 694445, 3086956; 694489, 3086914; 694505, 3086917; 694515, 3086938; 694502, 3086973; 694519, 3086985; 694394, 3087023; 694401, 3087049; 694458, 3087066; 694475, 3087090; 694448, 3087146; 694400, 3087136; 694357, 3087188; 694394, 3087198; 694604, 3087168; 694588, 3087206; 694544, 3087239; 694484, 3087253; 694459, 3087278; 694464, 3087292; 694594, 3087277; 694582, 3087247; 694628, 3087231; 694639, 3087259; 694628, 3087286; 694592, 3087314; 694553, 3087315; 694555, 3087331; 694598, 3087348; 694706, 3087280; 694718, 3087304; 694708, 3087326; 694635, 3087382; 694713, 3087370; 694756, 3087433; 694799, 3087447; 694800, 3087473; 694835, 3087471; 694838, 3087509; 694743, 3087582; 694721, 3087616; 694645, 3087662; 694648, 3087683; 694675, 3087699; 694674, 3087737; 694648, 3087758; 694677, 3087769; 694679, 3087792; 694619, 3087847; 694565, 3087861; 694489, 3087939; 694453, 3087950; 694416, 3087937; 694328, 3087874; 694259, 3087884; 694166, 3088019; 694047, 3088135; 694036, 3088163; 694058, 3088185; 694059, 3088259; 694145, 3088289; 694280, 3088211; 694289, 3088151; 694273, 3088136; 694194, 3088156; 694138, 3088223; 694111, 3088221; 694102, 3088198; 694129, 3088165; 694281, 3088073; 694299, 3088019; 694233, 3088069; 694215, 3088070; 694208, 3088053; 694238, 3088027; 694248, 3087987; 694274, 3087969; 694244, 3087958; 694250, 3087935; 694293, 3087901; 694321, 3087905; 694325, 3087939; 694357, 3087956; 694350, 3088081; 694370, 3088110; 694433, 3088018; 694566, 3087928; 694629, 3087916; 694638, 3087962; 694671, 3087980; 694684, 3087972; 694759, 3087872; 694827, 3087812; 694891, 3087786; 694875, 3087771; 694803, 3087785; 694744, 3087774; 694728, 3087742; 694745, 3087697; 694732, 3087653; 694771, 3087652; 694782, 3087669; 694772, 3087716; 694818, 3087756; 694827, 3087706; 694910, 3087677; 694941, 3087707; 694939, 3087765; 694959, 3087788; 694998, 3087788; 695022, 3087865; 694991, 3087893; 694929, 3087911; 694869, 3087891; 694814, 3087978; 694870, 3087954; 694929, 3087970; 694990, 3087950; 695025, 3087982; 695046, 3087937; 695031, 3087905; 695037, 3087887; 695088, 3087862; 695075, 3087900; 695088, 3087918; 695081, 3087936; 695104, 3087945; 695122, 3087926; 695132, 3087971; 695157, 3087987; 695189, 3088047; 695209, 3088095; 695198, 3088150; 695226, 3088210; 695322, 3088186; 695347, 3088201; 695321, 3088272; 695361, 3088269; 695381, 3088295; 695440, 3088308; 695554, 3088319; 694545, 3086654; 694579, 3086660; 694590, 3086684; 694529, 3086722; 694514, 3086698; 694545, 3086654; 694624, 3086654; 694591, 3086643; 694512, 3086572; 694481, 3086530; 694485, 3086505; 694547, 3086482; 694625, 3086480; 694631, 3086533; 694596, 3086559; 694641, 3086592; 694641, 3086643; 694624, 3086654; 694472, 3086461; 694475, 3086492; 694458, 3086497; 694420, 3086472; 694416, 3086444; 694441, 3086436; 694472, 3086461; 694254, 3086440; 694195, 3086425; 694083, 3086432; 694058, 3086523; 693983, 3086569; 693922, 3086644; 693888, 3086631; 693867, 3086657; 693796, 3086661; 693738, 3086642; 693706, 3086613; 693715, 3086593; 693755, 3086573; 693755, 3086557; 693719, 3086528; 693739, 3086474; 693826, 3086411; 693898, 3086457; 693898, 3086518; 693955, 3086500; 693981, 3086448; 693959, 3086426; 693962, 3086407; 693984, 3086401; 693985, 3086369; 693964, 3086348; 694044, 3086275; 694073, 3086308; 694081, 3086348; 694050, 3086411; 694186, 3086379; 694171, 3086360; 694101, 3086338; 694115, 3086320; 694194, 3086311; 694230, 3086345; 694254, 3086440; 694512, 3086391; 694539, 3086428; 694543, 3086458; 694525, 3086471; 694501, 3086448; Thence returning to 694512, 3086391.

694914, 3088227; 694861, 3088220; 694804, 3088279; 694672, 3088321; 694610, 3088397; 694623, 3088407; 694671, 3088394; 694882, 3088309; 694908, 3088284; Thence returning to 694914, 3088227.

693900, 3088871; 693921, 3088847; 693865, 3088848; 693939, 3088788; 694037, 3088652; 694101, 3088592; 694159, 3088581; 694158, 3088616; 694167, 3088614; 694268, 3088547; 694449, 3088479; 694526, 3088423; 694537, 3088409; 694532, 3088378; 694432, 3088404; 694413, 3088383; 694584, 3088135; 694535, 3088157; 694485, 3088230; 694388, 3088283; 694257, 3088403; 694251, 3088312; 694203, 3088331; 694174, 3088362; 694207, 3088385; 694097, 3088514; 694027, 3088537; 693825, 3088532; 693750, 3088615; 693695, 3088608; 693668, 3088578; 693621, 3088437; 693634, 3088326; 693620, 3088261; 693406, 3088225; 693344, 3088178; 693318, 3088177; 693295, 3088148; 693268, 3088149; 693254, 3088101; 693300, 3088039; 693312, 3087983; 693284, 3087931; 693241, 3087922; 693226, 3087897; 693235, 3087821; 693281, 3087740; 693346, 3087723; 693374, 3087689; 693442, 3087684; 693492, 3087633; 693550, 3087621; 693620, 3087565; 693630, 3087511; 693583, 3087516; 693504, 3087592; 693440, 3087570; 693447, 3087518; 693323, 3087551; 693268, 3087539; 693252, 3087410; 693313, 3087287; 693290, 3087214; 693258, 3087219; 693220, 3087273; 693194, 3087262; 693199, 3087213; 693144, 3087215; 693104, 3087258; 693068, 3087358; 693036, 3087391; 693013, 3087387; 692952, 3087311; 692920, 3087296; 692908, 3087406; 692961, 3087639; 692982, 3087676; 693034, 3087662; 693071, 3087813; 693170, 3087966; 693182, 3088104; 693170, 3088117; 693143, 3088110; 693143, 3088136; 693179, 3088180; 693263, 3088226; 693295, 3088272; 693474, 3088321; 693454, 3088495; 693397, 3088539; 693434, 3088679; 693426, 3088713; 693469, 3088764; 693455, 3088794; 693410, 3088817; 693417, 3088846; 693550, 3088967; 693639, 3089078; 693725, 3089121; 693794, 3089093; 693864, 3088916; 693900, 3088871; 693179, 3087696; 693211, 3087696; 693224, 3087723; 693159, 3087803; 693136, 3087810; 693123, 3087779; 693129, 3087751; 693144, 3087715; Thence returning to 693179, 3087696.

694993, 3088931; 694961, 3088919; 694972, 3088834; 694961, 3088825; 694856, 3089014; 694853, 3089052; 694818, 3089098; 694805, 3089156; 694838, 3089173; 694981, 3089003; Thence returning to 694993, 3088931.

694650, 3089180; 694659, 3089149; 694680, 3089141; 694692, 3089184; 694681, 3089228; 694706, 3089233; 694761, 3089187; 694778, 3089086; 694805, 3089051; 694765, 3088983; 694771, 3088954; 694805, 3088919; 694798, 3088899; 694730, 3088888; 694726, 3088912; 694698, 3088914; 694671, 3088945; 694646, 3088929; 694651, 3088889; 694677, 3088880; 694683, 3088840; 694728, 3088763; 694733, 3088720; 694815, 3088641; 694884, 3088610; 694933, 3088624; 694983, 3088678; 694990, 3088653; 694975, 3088622; 694994, 3088553; 695007, 3088545; 695024, 3088576; 695075, 3088519; 695116, 3088338; 695207, 3088323; 695214, 3088297; 695094, 3088327; 694720, 3088469; 694578, 3088578; 694511, 3088598; 694335, 3088745; 694204, 3088759; 693967, 3088953; 693903, 3089040; 693907, 3089074; 693926, 3089096; 694096, 3089159; 694106, 3089142; 694082, 3089124; 694077, 3089081; 694092, 3089013; 694112, 3088990; 694118, 3089135; 694149, 3089124; 694196, 3089136; 694215, 3089046; 694214, 3088946; 694231, 3088919; 694247, 3088960; 694230, 3089128; 694284, 3089155; 694321, 3089146; 694327, 3089178; 694315, 3089219; 694242, 3089255; 694249, 3089266; 694410, 3089284; 694498, 3089144; 694534, 3089143; 694564, 3089101; 694590, 3089145; 694583, 3089167; 694559, 3089165; 694568, 3089196; 694553, 3089256; 694590, 3089294; 694642, 3089258; 694635, 3089227; 694650, 3089180; 694009, 3089086; 693990, 3089083; 693988, 3089043; 693999, 3089005; 694018, 3088996; 694023, 3089039; Thence returning to 694009, 3089086.

Excluding:

Unit TX-15, Aransas County, Texas. Coordinates are in UTM Zone 14N, North American Datum 1983 (meters E, meters N):

694023, 3089039; 694018, 3088996; 693999, 3089005; 693988, 3089043; 693990, 3089083; 694009, 3089086; Thence returning to 694023, 3089039.

693224, 3087723; 693211, 3087696; 693179, 3087696; 693144, 3087715; 693129, 3087751; 693123, 3087779; 693136, 3087810; 693159, 3087803; Thence returning to 693224, 3087723.

694579, 3086660; 694545, 3086654; 694514, 3086698; 694529, 3086722; 694590, 3086684; Thence returning to 694579, 3086660.

693867, 3086657; 693888, 3086631; 693922, 3086644; 693983, 3086569; 694058, 3086523; 694083, 3086432; 694195, 3086425; 694254, 3086440; 694230, 3086345; 694194, 3086311; 694115, 3086320; 694101, 3086338; 694171, 3086360; 694186, 3086379; 694050, 3086411; 694081, 3086348; 694073, 3086308; 694044, 3086275; 693964, 3086348; 693985, 3086369; 693984, 3086401; 693962, 3086407; 693959, 3086426; 693981, 3086448; 693955, 3086500; 693898, 3086518; 693898, 3086457; 693826, 3086411; 693739, 3086474; 693719, 3086528; 693755, 3086557; 693755, 3086573; 693715, 3086593; 693706, 3086613; 693738, 3086642; 693796, 3086661; Thence returning to 693867, 3086657.

694631, 3086533; 694625, 3086480; 694547, 3086482; 694485, 3086505; 694481, 3086530; 694512, 3086572; 694591, 3086643; 694624, 3086654; 694641, 3086643; 694641, 3086592; 694596, 3086559; Thence returning to 694631, 3086533.

694472, 3086461; 694441, 3086436; 694416, 3086444; 694420, 3086472; 694458, 3086497; 694475, 3086492; Thence returning to 694472, 3086461.

694539, 3086428; 694512, 3086391; 694501, 3086448; 694525, 3086471; 694543, 3086458; Thence returning to 694539, 3086428.

Unit TX-16: San Jose Beach: 558 hectares (1,378 acres) in Aransas and Calhoun Counties, Texas.

(1) Unit TX-16, Aransas County, Texas. Coordinates are in UTM Zone 14N, North American Datum 1983 (meters E, meters N):

705653, 3099957; 704409, 3098570; 703190, 3097168; 700934, 3094423; 700844, 3094304; 700813, 3094222; 700747, 3094134; 700050, 3093252; 699238, 3092180; 699088, 3092014; 698235, 3090890; 697335, 3089664; 696512, 3088500; 695772, 3087410; 695295, 3086677; 694761, 3085797; 694692, 3085644; 694159, 3084774; 694057, 3084548; 693647, 3083839; 693411, 3083347; 693251, 3083050; 692808, 3081995; 692783, 3081831; 692665, 3081506; 692626, 3081356; 692571, 3080884; 692478, 3080931; 692402, 3080995; 692443, 3080988; 692462, 3081012; 692516, 3081429; 692599, 3081766; 692597, 3081790; 692521, 3081781; 692540, 3081893; 692631, 3081918; 692700, 3082062; 692835, 3082419; 692857, 3082577; 692924, 3082729; 692929, 3082779; 692953, 3082786; 692973, 3082873; 693021, 3082954; 693060, 3083083; 693085, 3083104; 693121, 3083275; 693232, 3083518; 693242, 3083550; 693214, 3083559; 693204, 3083580; 693247, 3083603; 693262, 3083631; 693288, 3083751; 693319, 3083753; 693400, 3083985; 693386, 3084022; 693431, 3084049; 693450, 3084107; 693471, 3084122; 693475, 3084174; 693453, 3084254; 693499, 3084221; 693534, 3084217; 693538, 3084272; 693566, 3084323; 693560, 3084356; 693573, 3084385; 693593, 3084389; 693607, 3084426; 693753, 3084604; 693761, 3084687; 693793, 3084702; 693862, 3084804; 693906, 3084800; 693915, 3084824; 693876, 3084862; 693891, 3084899; 693961, 3084982; 693993, 3084998; 694011, 3085076; 694033, 3085115; 694050, 3085118; 694155, 3085307; 694196, 3085346; 694230, 3085440; 694296, 3085546; 694326, 3085640; 694359, 3085608; 694373, 3085608; 694392, 3085640; 694479, 3085857; 694594, 3086048; 694617, 3086138; 694642, 3086181; 695834, 3087982; 695841, 3088035; 695912, 3088140; 695987, 3088162; 696028, 3088218; 696037, 3088245; 696025, 3088286; 696051, 3088316; 696048, 3088341; 696361, 3088664; 696389, 3088715; 696459, 3088781; 696495, 3088851; 696566, 3088897; 696727, 3089136; 696872, 3089288; 696939, 3089406; 696971, 3089421; 696970, 3089454; 697053, 3089539; 697054, 3089578; 697089, 3089590; 697273, 3089833; 697529, 3090208; 698016, 3090861; 698045, 3090878; 698085, 3090953; 698218, 3091118; 698264, 3091152; 698258, 3091175; 698365, 3091290; 698482, 3091468; 698710, 3091760; 698723, 3091795; 698817, 3091876; 698923, 3092020; 698944, 3092021; 698974, 3092084; 699096, 3092257; 700080, 3093545; 700201, 3093735; 700557, 3094156; 700788, 3094465; 701388, 3095191; 702101, 3096086; 703101, 3097281; 704989, 3099451; 705010, 3099450; 705015, 3099470; 705051, 3099494; 705062, 3099523; 705398, 3099897; 705408, 3099893; 705475, 3099988; 705498, 3099990; 705516, 3100036; 705556, 3100059; 705571, 3100091; 705928, 3100481; 705962, 3100501; 705993, 3100561; 706027, 3100576; 706051, 3100623; 706076, 3100636; 706197, 3100795; 706272, 3100860; 706427, 3101042; 706453, 3101052; 706474, 3101092; 706634, 3101253; 706673, 3101310; 706755, 3101371; 706762, 3101405; 706803, 3101457; 706821, 3101458; 706981, 3101648; 707231, 3101903; 707267, 3101964; 707405, 3102089; 707869, 3102613; 708606, 3103397; 708609, 3103418; 708767, 3103571; 708766, 3103588; 708840, 3103649; 709300, 3104142; 709310, 3104172; 709355, 3104200; 709465, 3104319; 709465, 3104335; 709578, 3104440; 709830, 3104740; 709848, 3104744; 709959, 3104863; 710005, 3104891; 710004, 3104929; 710026, 3104953; 710126, 3105018; 710123, 3105047; 710250, 3105152; 710955, 3105868; 711033, 3105767; 710426, 3105119; 709763, 3104453; 709034, 3103648; 707637, 3102155; 707258, 3101720; Thence returning to 705653, 3099957.

(2) Unit TX-16, Calhoun County, Texas. Coordinates are in UTM Zone 14N, North American Datum 1983 (meters E, meters N):

711166, 3105913; 711033, 3105767; 710955, 3105868; 711336, 3106255; 711423, 3106031; 711291, 3105930; Thence returning to 711166, 3105913.

Unit TX-18: Cedar Bayou/Vinson Slough: 998 hectares (2,465 acres) in Aransas and Calhoun Counties, Texas.

(1) Unit TX-18, Aransas County, Texas. Coordinates are in UTM Zone 14N, North American Datum 1983 (meters E, meters N):

701739, 3102551; 701702, 3102550; 701707, 3102620; 701765, 3102668; 701815, 3102675; 701823, 3102663; Thence returning to 701739, 3102551.

701870, 3103304; 701917, 3103310; 701931, 3103295; 701939, 3103179; 701989, 3103198; 702063, 3103172; 702076, 3103151; 702101, 3103151; 702103, 3103167; 702068, 3103205; 702074, 3103231; 702209, 3103238; 702224, 3103162; 702242, 3103160; 702247, 3103108; 702345, 3103196; 702321, 3103237; 702341, 3103275; 702438, 3103234; 702453, 3103185; 702420, 3103091; 702158, 3102925; 702220, 3103014; 702222, 3103037; 702184, 3103071; 702119, 3103096; 702084, 3103092; 702041, 3103018; 702083, 3103003; 702088, 3102984; 702045, 3102970; 702039, 3102899; 702052, 3102858; 701918, 3102773; 701918, 3102809; 701878, 3102809; 701847, 3102857; 701806, 3102884; 701749, 3102980; 701739, 3103060; 701680, 3103138; 701657, 3103123; 701653, 3103067; 701620, 3103039; 701620, 3102939; 701594, 3102958; 701575, 3103034; 701554, 3103045; 701506, 3102951; 701493, 3102882; 701510, 3102856; 701509, 3102803; 701529, 3102747; 701519, 3102668; 701492, 3102634; 701413, 3102613; 701434, 3102577; 701481, 3102557; 701512, 3102606; 701548, 3102606; 701570, 3102584; 701595, 3102614; 701653, 3102605; 701657, 3102534; 701529, 3102530; 701488, 3102504; 701484, 3102480; 701522, 3102416; 701508, 3102370; 701529, 3102321; 701519, 3102262; 700890, 3101437; 700865, 3101429; 700871, 3101413; 700852, 3101387; 700828, 3101410; 700809, 3101399; 700778, 3101428; 700678, 3101351; 700588, 3101313; 700471, 3101323; 700430, 3101364; 700393, 3101353; 700271, 3101378; 700270, 3101463; 700340, 3101538; 700442, 3101597; 700517, 3101748; 700585, 3101814; 700590, 3101843; 700718, 3101979; 700745, 3101939; 700767, 3101990; 700823, 3102032; 700821, 3102083; 700886, 3102162; 700945, 3102144; 700994, 3102222; 701070, 3102273; 701085, 3102301; 701071, 3102319; 701084, 3102380; 701073, 3102420; 701102, 3102570; 701125, 3102584; 701180, 3102560; 701199, 3102533; 701219, 3102580; 701259, 3102598; 701239, 3102622; 701242, 3102640; 701196, 3102657; 701187, 3102677; 701238, 3102719; 701317, 3102712; 701311, 3102755; 701245, 3102772; 701211, 3102806; 701208, 3102834; 701236, 3102917; 701262, 3102944; 701286, 3102934; 701305, 3102795; 701331, 3102872; 701358, 3102839; 701423, 3102873; 701460, 3102943; 701430, 3103044; 701471, 3103092; 701488, 3103175; 701614, 3103322; 701651, 3103290; 701710, 3103291; 701739, 3103230; 701794, 3103214; 701825, 3103220; 701853, 3103260; 701799, 3103303; 701800, 3103320; 701838, 3103337; Thence returning to 701870, 3103304.

704554, 3104448; 704559, 3104409; 704628, 3104409; 704418, 3104303; 704451, 3104334; 704489, 3104446; Thence returning to 704554, 3104448.

703595, 3105526; 703610, 3105511; 703659, 3105560; 703689, 3105567; 703705, 3105493; 703750, 3105493; 703763, 3105434; 703734, 3105404; 703708, 3105420; 703694, 3105394; 703663, 3105381; 703667, 3105355; 703722, 3105352; 703729, 3105333; 703682, 3105262; 703655, 3105260; 703633, 3105223; 703610, 3105225; 703609, 3105250; 703582, 3105268; 703584, 3105305; 703608, 3105342; 703549, 3105430; 703560, 3105468; 703511, 3105479; 703390, 3105449; 703365, 3105455; 703373, 3105473; 703477, 3105536; 703502, 3105520; 703587, 3105592; 703600, 3105585; Thence returning to 703595, 3105526.

707757, 3106675; 707675, 3106626; 707644, 3106625; 707663, 3106649; 707660, 3106677; 707682, 3106665; 707757, 3106689; Thence returning to 707757, 3106675.

709811, 3106833; 709844, 3106819; 709828, 3106748; 709783, 3106845; Thence returning to 709811, 3106833.

706421, 3106676; 706473, 3106672; 706606, 3106705; 706619, 3106634; 706595, 3106616; 706481, 3106604; 706308, 3106537; 706264, 3106470; 706142, 3106413; 706133, 3106389; 706088, 3106363; 706024, 3106351; 706013, 3106364; 705953, 3106346; 705929, 3106386; 706114, 3106474; 706290, 3106598; 706335, 3106657; 706258, 3106699; 706297, 3106744; 706572, 3106808; 706537, 3106772; 706500, 3106766; 706449, 3106727; 706448, 3106698; Thence returning to 706421, 3106676.

705638, 3106865; 705654, 3106850; 705702, 3106860; 705684, 3106803; 705714, 3106756; 705680, 3106731; 705654, 3106755; 705619, 3106844; 705615, 3106858; Thence returning to 705638, 3106865.

710582, 3106973; 710512, 3106936; 710441, 3106955; 710377, 3106947; 710341, 3106925; 710293, 3106993; 710325, 3106991; 710339, 3106967; 710378, 3106992; 710437, 3106991; 710476, 3106966; 710536, 3107001; 710586, 3106985; Thence returning to 710582, 3106973.

705445, 3106811; 705442, 3106775; 705460, 3106754; 705507, 3106734; 705581, 3106735; 705589, 3106716; 705496, 3106698; 705450, 3106735; 705397, 3106732; 705393, 3106760; 705364, 3106790; 705266, 3106738; 705211, 3106686; 705157, 3106720; 705099, 3106705; 705067, 3106715; 705077, 3106740; 705139, 3106743; 705153, 3106757; 705153, 3106780; 705100, 3106802; 705160, 3106884; 705207, 3106908; 705378, 3106947; 705443, 3106935; 705475, 3106897; 705479, 3106845; 705440, 3106826; Thence returning to 705445, 3106811.

707099, 3106989; 707133, 3106991; 707151, 3106967; 707116, 3106905; 706985, 3106968; 706882, 3106945; 706837, 3106963; 706814, 3106951; 706851, 3106873; 706934, 3106886; 706954, 3106853; 706950, 3106841; 706913, 3106843; 706898, 3106799; 706983, 3106811; 707011, 3106896; 707041, 3106899; 707050, 3106882; 707090, 3106870; 707070, 3106843; 707020, 3106841; 707021, 3106780; 706991, 3106761; 707021, 3106740; 706973, 3106718; 706943, 3106668; 706895, 3106667; 706923, 3106642; 707005, 3106660; 707030, 3106689; 707091, 3106719; 707077, 3106749; 707094, 3106772; 707192, 3106807; 707183, 3106719; 706990, 3106616; 706944, 3106533; 706894, 3106483; 706867, 3106474; 706893, 3106554; 706915, 3106563; 706913, 3106612; 706764, 3106690; 706799, 3106762; 706792, 3106810; 706753, 3106854; 706756, 3106917; 706703, 3106943; 706689, 3106977; 706747, 3107000; 706779, 3106980; 706866, 3106981; 707068, 3107010; Thence returning to 707099, 3106989.

707392, 3107096; 707469, 3107060; 707490, 3107033; 707312, 3107015; 707181, 3107046; 707223, 3107077; Thence returning to 707392, 3107096.

705805, 3107169; 705745, 3107144; 705993, 3107146; 705873, 3107091; 705843, 3107059; 705857, 3107038; 705908, 3107048; 705964, 3107004; 706026, 3106991; 706096, 3106990; 706263, 3107030; 706433, 3107026; 706457, 3107006; 706431, 3106967; 706437, 3106914; 706367, 3106927; 706002, 3106927; 705959, 3106940; 705903, 3107003; 705665, 3107042; 705563, 3107023; 705547, 3107052; 705507, 3107070; 705513, 3107091; 705540, 3107105; 705534, 3107148; 705547, 3107162; 705817, 3107187; Thence returning to 705805, 3107169

707515, 3107207; 707397, 3107139; 707276, 3107148; 707193, 3107132; 707189, 3107096; 707173, 3107084; 707109, 3107079; 707101, 3107095; 707270, 3107199; 707344, 3107194; 707436, 3107215; Thence returning to 707515, 3107207.

704999, 3106922; 704865, 3106837; 704841, 3106914; 704740, 3106915; 704942, 3107058; 704965, 3107105; 704973, 3107173; 704988, 3107180; 705080, 3107107; 705118, 3107025; 705066, 3106993; Thence returning to 704999, 3106922.

705977, 3107379; 706015, 3107376; 706031, 3107353; 706018, 3107306; 705961, 3107291; 705998, 3107257; 705972, 3107244; 705927, 3107266; 705915, 3107330; 705946, 3107357; 705918, 3107370; 705914, 3107411; 705952, 3107418; Thence returning to 705977, 3107379.

711325, 3107600; 711406, 3107541; 711510, 3107510; 711492, 3107455; 711309, 3107494; 711231, 3107473; 711123, 3107368; 711042, 3107220; 711002, 3107189; 710998, 3107142; 710955, 3107155; 710935, 3107100; 710879, 3107060; 710873, 3107122; 710822, 3107206; 710878, 3107264; 710951, 3107407; 711095, 3107514; 711235, 3107585; 711325, 3107600; 711032, 3107382; 711028, 3107360; 710990, 3107367; 710924, 3107288; 710896, 3107245; 710906, 3107207; 710987, 3107222; 711014, 3107307; 711053, 3107324; 711096, 3107435; 711055, 3107437; 711032, 3107382; 710924, 3107176; 710895, 3107173; 710901, 3107123; 710928, 3107149; Thence returning to 710924, 3107176.

706620, 3107519; 706657, 3107496; 706696, 3107509; 706680, 3107452; 706700, 3107425; 706727, 3107476; 706752, 3107486; 706748, 3107517; 706789, 3107511; 706802, 3107464; 706729, 3107306; 706676, 3107381; 706625, 3107388; 706657, 3107313; 706614, 3107331; 706594, 3107364; 706560, 3107484; Thence returning to 706620, 3107519.

705286, 3107815; 705282, 3107706; 705314, 3107736; 705378, 3107857; 705436, 3107916; 705470, 3107909; 705514, 3107929; 705549, 3107896; 705468, 3107869; 705355, 3107678; 705251, 3107652; 705291, 3107625; 705294, 3107595; 705275, 3107581; 705224, 3107591; 705219, 3107506; 705160, 3107450; 705204, 3107443; 705289, 3107382; 705339, 3107402; 705379, 3107383; 705479, 3107410; 705519, 3107505; 705522, 3107557; 705549, 3107583; 705554, 3107618; 705619, 3107631; 705642, 3107669; 705772, 3107766; 705908, 3107802; 705917, 3107784; 705883, 3107739; 705885, 3107713; 705818, 3107667; 705822, 3107575; 705873, 3107556; 705887, 3107523; 705968, 3107545; 706151, 3107532; 706162, 3107520; 706160, 3107476; 705996, 3107460; 705604, 3107337; 705562, 3107307; 705470, 3107182; 705443, 3107178; 705428, 3107213; 705393, 3107188; 705372, 3107210; 705340, 3107198; 705318, 3107237; 705280, 3107236; 705288, 3107307; 705247, 3107311; 705202, 3107404; 705152, 3107405; 705120, 3107441; 705129, 3107488; 705110, 3107542; 705135, 3107552; 705138, 3107581; 705160, 3107603; 705135, 3107631; 705157, 3107667; 705142, 3107693; 705126, 3107693; 705086, 3107649; 705063, 3107652; 705041, 3107682; 705010, 3107657; 704956, 3107668; 704914, 3107642; 704840, 3107653; 704810, 3107682; 704773, 3107682; 704718, 3107713; 704728, 3107745; 704750, 3107747; 704814, 3107732; 704886, 3107760; 704954, 3107719; 705135, 3107754; 705172, 3107785; 705171, 3107910; 705214, 3107954; 705241, 3108031; 705281, 3108009; 705275, 3107957; 705297, 3107866; Thence returning to 705286, 3107815.

708915, 3108154; 708921, 3108088; 708890, 3108067; 708823, 3108083; 708843, 3108149; 708867, 3108127; Thence returning to 708915, 3108154.

709028, 3108189; 709014, 3108152; 709070, 3108139; 709093, 3108174; 709071, 3108219; 709129, 3108241; 709183, 3108174; 709209, 3108171; 709237, 3108188; 709261, 3108119; 709245, 3108086; 709177, 3108114; 709113, 3108073; 709054, 3108078; 709045, 3108094; 708992, 3108105; 708944, 3108137; 708942, 3108182; 708975, 3108198; 708983, 3108247; 709020, 3108239; Thence returning to 709028, 3108189.

708168, 3108287; 708126, 3108272; 708092, 3108282; 708073, 3108255; 708063, 3108182; 708028, 3108203; 708091, 3108322; 708161, 3108303; Thence returning to 708168, 3108287.

708507, 3108341; 708545, 3108315; 708579, 3108328; 708724, 3108327; 708748, 3108308; 708761, 3108285; 708625, 3108258; 708594, 3108225; 708680, 3108089; 708687, 3108052; 708517, 3108191; 708582, 3108249; 708585, 3108270; 708516, 3108264; 708467, 3108336; Thence returning to 708507, 3108341.

706885, 3108307; 706848, 3108286; 706844, 3108264; 706911, 3108168; 707013, 3108103; 707112, 3108067; 707129, 3108022; 707165, 3108032; 707167, 3108001; 707237, 3108028; 707240, 3108003; 707205, 3107985; 707269, 3107947; 707252, 3107919; 707204, 3107900; 707009, 3107917; 706998, 3107926; 707027, 3107943; 707120, 3107947; 707123, 3107968; 707083, 3107982; 706994, 3107962; 706918, 3107985; 707086, 3108042; 707027, 3108075; 706864, 3108109; 706865, 3108141; 706891, 3108149; 706846, 3108206; 706811, 3108239; 706748, 3108249; 706776, 3108309; 706826, 3108301; 706866, 3108336; Thence returning to 706885, 3108307.

707849, 3108511; 708128, 3108485; 708036, 3108378; 708004, 3108364; 708006, 3108394; 708067, 3108450; 708070, 3108470; 708043, 3108460; 707997, 3108471; 707986, 3108433; 707959, 3108432; 707960, 3108400; 707931, 3108416; 707861, 3108393; 707836, 3108493; Thence returning to 707849, 3108511.

706114, 3108764; 706137, 3108735; 706219, 3108746; 706261, 3108730; 706220, 3108684; 706159, 3108692; 706156, 3108663; 706133, 3108633; 706224, 3108553; 706086, 3108550; 706025, 3108582; 706096, 3108588; 706102, 3108652; 706085, 3108686; 706099, 3108708; 706083, 3108739; Thence returning to 706114, 3108764.

705971, 3108734; 706030, 3108735; 706027, 3108700; 705984, 3108682; 705982, 3108647; 705921, 3108671; 705932, 3108771; 705963, 3108774; Thence returning to 705971, 3108734.

704083, 3108500; 704041, 3108464; 703991, 3108319; 704035, 3108291; 704045, 3108177; 704122, 3108175; 704152, 3108144; 704143, 3108104; 704193, 3108092; 704196, 3108076; 704165, 3108026; 704125, 3108036; 704101, 3107993; 704064, 3107963; 704035, 3107985; 704047, 3108042; 704022, 3108092; 703993, 3108111; 703932, 3108115; 703891, 3108031; 703902, 3107944; 703844, 3107929; 703840, 3107903; 703906, 3107887; 703915, 3107916; 703951, 3107941; 703951, 3107999; 703971, 3108018; 703998, 3107980; 703973, 3107934; 703977, 3107914; 704104, 3107924; 704141, 3107855; 704089, 3107774; 704080, 3107709; 704200, 3107685; 704262, 3107708; 704273, 3107761; 704325, 3107754; 704268, 3107681; 704325, 3107683; 704300, 3107620; 704373, 3107578; 704540, 3107660; 704589, 3107747; 704636, 3107767; 704654, 3107808; 704680, 3107757; 704612, 3107708; 704586, 3107609; 704599, 3107535; 704571, 3107481; 704574, 3107435; 704547, 3107396; 704576, 3107342; 704571, 3107316; 704490, 3107267; 704487, 3107184; 704472, 3107164; 704404, 3107151; 704375, 3107163; 704301, 3107105; 704292, 3107072; 704254, 3107030; 704222, 3106937; 704211, 3106845; 704246, 3106829; 704310, 3106851; 704340, 3106838; 704363, 3106801; 704362, 3106741; 704300, 3106609; 704306, 3106553; 704366, 3106543; 704453, 3106566; 704479, 3106525; 704513, 3106526; 704526, 3106449; 704631, 3106408; 704966, 3106459; 705117, 3106448; 705261, 3106525; 705342, 3106547; 705379, 3106548; 705436, 3106520; 705497, 3106524; 705525, 3106533; 705526, 3106547; 705438, 3106603; 705459, 3106629; 705503, 3106629; 705574, 3106596; 705645, 3106583; 705575, 3106533; 705575, 3106480; 705670, 3106378; 705704, 3106290; 705759, 3106274; 705767, 3106231; 705710, 3106176; 705554, 3105952; 705501, 3105848; 705498, 3105815; 705545, 3105763; 705621, 3105753; 705601, 3105707; 705502, 3105716; 705452, 3105767; 705365, 3105780; 705161, 3105707; 705155, 3105730; 705248, 3105811; 705269, 3105858; 705317, 3105885; 705303, 3105909; 705327, 3105950; 705374, 3105969; 705467, 3106117; 705619, 3106247; 705644, 3106327; 705628, 3106375; 705597, 3106389; 705435, 3106391; 705291, 3106368; 705305, 3106351; 705381, 3106362; 705439, 3106310; 705523, 3106274; 705487, 3106259; 705395, 3106285; 705401, 3106265; 705443, 3106237; 705441, 3106147; 705387, 3106174; 705339, 3106238; 705281, 3106241; 705255, 3106343; 705237, 3106363; 704938, 3106308; 704768, 3106242; 704436, 3105960; 704415, 3105886; 704420, 3105852; 704526, 3105789; 704741, 3105722; 704781, 3105677; 704807, 3105668; 704924, 3105700; 705013, 3105771; 705047, 3105772; 705106, 3105805; 705134, 3105737; 705077, 3105704; 705075, 3105683; 705202, 3105663; 705217, 3105631; 705119, 3105521; 705098, 3105534; 705078, 3105584; 705059, 3105580; 705026, 3105513; 704964, 3105468; 704940, 3105374; 704862, 3105311; 704818, 3105302; 704808, 3105315; 704773, 3105402; 704775, 3105446; 704798, 3105469; 704779, 3105497; 704742, 3105495; 704716, 3105437; 704627, 3105432; 704567, 3105395; 704644, 3105368; 704781, 3105084; 704868, 3105038; 704887, 3105043; 704945, 3105122; 704981, 3105114; 705017, 3105154; 705061, 3105151; 705112, 3105221; 705134, 3105207; 705172, 3105228; 705163, 3105169; 705223, 3105159; 705300, 3105238; 705319, 3105249; 705339, 3105238; 705476, 3105343; 705520, 3105409; 705555, 3105368; 705589, 3105355; 705580, 3105254; 705596, 3105215; 705643, 3105188; 705770, 3105177; 705874, 3105122; 705948, 3105108; 705911, 3105075; 705687, 3105019; 705497, 3104903; 705461, 3104871; 705442, 3104823; 705293, 3104746; 705274, 3104750; 705261, 3104730; 705108, 3104652; 705005, 3104634; 704950, 3104601; 704898, 3104546; 704815, 3104504; 704791, 3104560; 704732, 3104540; 704669, 3104570; 704656, 3104607; 704605, 3104635; 704485, 3104599; 704454, 3104573; 704414, 3104435; 704352, 3104344; 704366, 3104300; 704389, 3104288; 704221, 3104202; 704221, 3104240; 704207, 3104243; 704181, 3104189; 704076, 3104184; 704034, 3104255; 703942, 3104250; 703898, 3104192; 703810, 3104166; 703782, 3104135; 703753, 3104144; 703747, 3104180; 703728, 3104182; 703710, 3104142; 703684, 3104133; 703661, 3104096; 703576, 3104079; 703479, 3103993; 703463, 3104006; 703435, 3103986; 703366, 3103978; 703340, 3104012; 703366, 3104097; 703365, 3104152; 703339, 3104157; 703285, 3104118; 703315, 3104195; 703430, 3104333; 703425, 3104380; 703390, 3104409; 703389, 3104473; 703402, 3104482; 703518, 3104438; 703493, 3104488; 703427, 3104540; 703410, 3104623; 703427, 3104663; 703466, 3104665; 703498, 3104600; 703522, 3104609; 703557, 3104575; 703769, 3104596; 703889, 3104691; 703964, 3104802; 703997, 3104815; 704021, 3104862; 704071, 3104897; 704081, 3104935; 704053, 3105007; 704139, 3105007; 704172, 3104866; 704251, 3104874; 704319, 3104908; 704347, 3104903; 704442, 3104975; 704444, 3105109; 704478, 3105161; 704467, 3105194; 704438, 3105204; 704378, 3105135; 704347, 3105131; 704341, 3105160; 704372, 3105238; 704348, 3105330; 704290, 3105380; 704203, 3105416; 704169, 3105457; 704125, 3105464; 704115, 3105486; 704130, 3105513; 704123, 3105559; 704100, 3105534; 704054, 3105585; 703997, 3105599; 703905, 3105566; 703820, 3105648; 703760, 3105649; 703719, 3105678; 703713, 3105721; 703663, 3105769; 703630, 3105778; 703627, 3105857; 703643, 3105894; 703685, 3105919; 703699, 3105947; 703722, 3105944; 703761, 3105828; 703882, 3105802; 703941, 3105657; 703969, 3105630; 704085, 3105632; 704151, 3105583; 704215, 3105664; 704229, 3105664; 704243, 3105642; 704238, 3105557; 704251, 3105531; 704417, 3105438; 704555, 3105433; 704632, 3105465; 704691, 3105467; 704710, 3105491; 704707, 3105539; 704679, 3105575; 704600, 3105597; 704503, 3105658; 704443, 3105611; 704405, 3105686; 704299, 3105713; 704296, 3105737; 704320, 3105770; 704306, 3105794; 704157, 3105815; 704109, 3105800; 704014, 3105828; 704008, 3105868; 704038, 3105909; 704027, 3105920; 704026, 3105972; 703989, 3105999; 703875, 3105952; 703829, 3105954; 703886, 3106011; 704133, 3106058; 704156, 3106109; 704112, 3106186; 704108, 3106229; 704129, 3106244; 704196, 3106234; 704278, 3106259; 704287, 3106414; 704265, 3106449; 704221, 3106465; 704220, 3106670; 704248, 3106708; 704245, 3106735; 704163, 3106724; 704092, 3106633; 704048, 3106656; 703989, 3106632; 703981, 3106653; 703947, 3106644; 703930, 3106664; 703868, 3106664; 703861, 3106681; 703871, 3106740; 703923, 3106723; 703969, 3106738; 704105, 3106722; 704152, 3106751; 704165, 3106839; 704129, 3106880; 704160, 3106945; 704151, 3107041; 704186, 3107156; 704084, 3107153; 704068, 3107133; 704059, 3107071; 704028, 3107093; 703973, 3107000; 703847, 3106913; 703832, 3106924; 703862, 3107036; 703834, 3107074; 703794, 3107052; 703797, 3106985; 703746, 3106935; 703683, 3106913; 703666, 3106937; 703619, 3106946; 703556, 3106882; 703525, 3106893; 703504, 3107013; 703476, 3106997; 703466, 3106962; 703432, 3106973; 703427, 3107011; 703389, 3107038; 703386, 3107074; 703408, 3107129; 703486, 3107236; 703512, 3107253; 703567, 3107245; 703587, 3107271; 703587, 3107297; 703548, 3107309; 703535, 3107368; 703554, 3107381; 703555, 3107451; 703640, 3107532; 703676, 3107601; 703668, 3107650; 703638, 3107668; 703663, 3107820; 703768, 3107962; 703754, 3108081; 703789, 3108186; 703847, 3108194; 703861, 3108235; 703901, 3108251; 703918, 3108355; 703879, 3108349; 703882, 3108431; 703893, 3108468; 703939, 3108462; 703943, 3108505; 703921, 3108565; 703895, 3108573; 703892, 3108607; 703949, 3108604; 703974, 3108490; 703992, 3108482; 704025, 3108523; 704013, 3108559; 703976, 3108601; 704007, 3108644; 704001, 3108692; 704139, 3108744; 704249, 3108715; 704249, 3108687; 704211, 3108676; 704155, 3108590; 704164, 3108546; 704107, 3108536; 704083, 3108500; 704479, 3105263; 704556, 3105290; 704576, 3105318; 704480, 3105318; 704464, 3105300; 704479, 3105263; 705118, 3104738; 705081, 3104699; 705156, 3104715; 705187, 3104761; 705118, 3104738; 705033, 3104736; 704982, 3104716; 704970, 3104687; 704990, 3104682; 705037, 3104714; Thence returning to 705033, 3104736.

704422, 3109145; 704477, 3109149; 704462, 3109085; 704479, 3109089; 704495, 3109127; 704520, 3109100; 704589, 3109148; 704636, 3109142; 704675, 3109116; 704682, 3109144; 704706, 3109162; 704745, 3109150; 704769, 3109088; 704745, 3109066; 704752, 3109025; 704731, 3109004; 704731, 3108984; 704783, 3109018; 704903, 3109017; 704880, 3108910; 704851, 3108883; 704859, 3108860; 704916, 3108895; 704970, 3108869; 705012, 3108878; 705009, 3108894; 704951, 3108907; 704951, 3108965; 705020, 3109071; 705087, 3108960; 705100, 3108967; 705106, 3109019; 705122, 3109014; 705128, 3108966; 705085, 3108920; 705105, 3108901; 705152, 3108955; 705178, 3108942; 705230, 3108949; 705255, 3108932; 705323, 3108966; 705346, 3108933; 705320, 3108889; 705340, 3108883; 705342, 3108863; 705486, 3108890; 705511, 3108857; 705484, 3108832; 705385, 3108829; 705347, 3108804; 705357, 3108763; 705335, 3108692; 705374, 3108643; 705345, 3108623; 705299, 3108629; 705280, 3108651; 705283, 3108697; 705239, 3108711; 705178, 3108785; 705161, 3108784; 705141, 3108755; 705125, 3108779; 705094, 3108765; 705098, 3108806; 705147, 3108843; 705099, 3108857; 705080, 3108852; 705059, 3108754; 705033, 3108751; 704986, 3108694; 704958, 3108730; 704971, 3108778; 704955, 3108811; 704899, 3108794; 704855, 3108755; 704847, 3108717; 704873, 3108669; 704948, 3108697; 704963, 3108668; 704993, 3108664; 705045, 3108611; 705094, 3108585; 705055, 3108547; 705009, 3108583; 705002, 3108556; 704965, 3108530; 704966, 3108469; 704990, 3108437; 704944, 3108402; 704937, 3108369; 705007, 3108350; 704991, 3108245; 704994, 3108139; 704966, 3108105; 704890, 3108093; 704850, 3108137; 704831, 3108138; 704767, 3108109; 704737, 3108069; 704711, 3108079; 704693, 3108139; 704652, 3108139; 704627, 3108182; 704517, 3108149; 704409, 3108179; 704445, 3108221; 704527, 3108242; 704565, 3108292; 704568, 3108340; 704558, 3108343; 704478, 3108268; 704428, 3108242; 704413, 3108249; 704415, 3108288; 704405, 3108292; 704357, 3108230; 704340, 3108182; 704311, 3108182; 704279, 3108119; 704241, 3108102; 704227, 3108221; 704189, 3108170; 704178, 3108174; 704210, 3108294; 704198, 3108343; 704247, 3108369; 704236, 3108406; 704184, 3108390; 704239, 3108463; 704282, 3108470; 704325, 3108444; 704397, 3108433; 704445, 3108399; 704553, 3108448; 704586, 3108403; 704624, 3108403; 704655, 3108377; 704755, 3108386; 704802, 3108367; 704812, 3108379; 704795, 3108401; 704788, 3108479; 704753, 3108537; 704682, 3108562; 704674, 3108547; 704728, 3108515; 704718, 3108500; 704674, 3108492; 704608, 3108505; 704632, 3108534; 704646, 3108658; 704582, 3108614; 704596, 3108568; 704546, 3108570; 704528, 3108600; 704501, 3108560; 704471, 3108585; 704485, 3108644; 704468, 3108683; 704504, 3108731; 704486, 3108756; 704478, 3108819; 704526, 3108856; 704521, 3108869; 704455, 3108862; 704442, 3108882; 704447, 3108912; 704484, 3108953; 704470, 3108969; 704476, 3109013; 704396, 3108983; 704375, 3108938; 704345, 3108929; 704349, 3108905; 704334, 3108885; 704257, 3108876; 704244, 3108834; 704219, 3108842; 704232, 3108884; 704191, 3108965; 704378, 3109154; 704410, 3109163; Thence returning to 704422, 3109145.

706249, 3109228; 706294, 3109233; 706332, 3109209; 706354, 3109157; 706496, 3109152; 706544, 3109133; 706558, 3109117; 706542, 3109076; 706553, 3109049; 706646, 3108980; 706616, 3108966; 706555, 3108987; 706516, 3108967; 706521, 3108953; 706700, 3108880; 706809, 3108817; 706955, 3108830; 706987, 3108770; 707054, 3108740; 707106, 3108689; 707133, 3108685; 707163, 3108631; 707161, 3108604; 707149, 3108605; 707127, 3108639; 707095, 3108641; 707052, 3108681; 706970, 3108696; 706934, 3108687; 706949, 3108642; 706985, 3108636; 706985, 3108599; 707000, 3108586; 707038, 3108581; 707066, 3108599; 707162, 3108540; 707238, 3108553; 707357, 3108505; 707416, 3108501; 707597, 3108321; 707671, 3108224; 707735, 3108248; 707786, 3108225; 707808, 3108183; 707825, 3108182; 707919, 3108203; 707960, 3108245; 708110, 3108091; 708348, 3107941; 708634, 3107811; 708784, 3107774; 708818, 3107750; 708854, 3107752; 708871, 3107723; 708960, 3107701; 709011, 3107663; 709169, 3107594; 709366, 3107470; 709417, 3107461; 709430, 3107409; 709473, 3107387; 709466, 3107367; 709495, 3107342; 709489, 3107326; 709460, 3107322; 709422, 3107349; 709401, 3107346; 709380, 3107387; 709348, 3107387; 709324, 3107361; 709248, 3107389; 709215, 3107370; 709189, 3107377; 709196, 3107298; 709128, 3107213; 709133, 3107163; 709170, 3107202; 709239, 3107210; 709279, 3107156; 709315, 3107146; 709348, 3107163; 709371, 3107236; 709384, 3107236; 709404, 3107198; 709444, 3107173; 709464, 3107107; 709509, 3107081; 709534, 3107041; 709514, 3106899; 709487, 3106886; 709496, 3106830; 709557, 3106746; 709675, 3106657; 709679, 3106636; 709650, 3106633; 709646, 3106601; 709659, 3106574; 709691, 3106558; 709694, 3106519; 709715, 3106489; 709756, 3106457; 709791, 3106472; 709795, 3106533; 709751, 3106636; 709742, 3106693; 709808, 3106633; 709846, 3106546; 709906, 3106472; 709950, 3106436; 709975, 3106499; 710007, 3106480; 710028, 3106429; 710058, 3106421; 710076, 3106349; 710097, 3106341; 710136, 3106354; 710137, 3106327; 710190, 3106240; 710233, 3106222; 710288, 3106139; 710362, 3106088; 710426, 3106080; 710540, 3106118; 710597, 3106168; 710702, 3106219; 710726, 3106259; 710790, 3106298; 710925, 3106486; 710942, 3106535; 710984, 3106546; 711020, 3106601; 711216, 3106721; 711330, 3106843; 711385, 3107009; 711394, 3107089; 711420, 3107086; 711471, 3107000; 711498, 3106997; 711464, 3107150; 711469, 3107295; 711549, 3107370; 711610, 3107390; 711568, 3107281; 711567, 3107161; 711602, 3106898; 711581, 3106849; 711456, 3106666; 711288, 3106456; 711140, 3106300; 710912, 3106118; 710913, 3105957; 710955, 3105868; 710250, 3105152; 710242, 3105185; 710279, 3105292; 710271, 3105354; 710288, 3105446; 710272, 3105465; 710265, 3105519; 710318, 3105643; 710303, 3105696; 710271, 3105722; 710253, 3105787; 710202, 3105799; 710123, 3105865; 710044, 3105864; 709816, 3106007; 709791, 3106044; 709662, 3106146; 709547, 3106207; 709298, 3106515; 709259, 3106530; 709217, 3106593; 709094, 3106704; 708897, 3106785; 708840, 3106793; 708743, 3106775; 708602, 3106719; 708492, 3106605; 708400, 3106430; 708341, 3106416; 708497, 3106763; 708338, 3106811; 708075, 3106792; 708103, 3106828; 708267, 3106858; 708227, 3106900; 708090, 3106883; 708088, 3106851; 708022, 3106836; 707953, 3106840; 707766, 3106805; 707714, 3106729; 707324, 3106512; 707112, 3106351; 706899, 3106116; 706878, 3106169; 706847, 3106174; 706604, 3106073; 706622, 3106112; 706744, 3106237; 706737, 3106257; 706720, 3106257; 706563, 3106182; 706559, 3106209; 706609, 3106274; 706670, 3106309; 706813, 3106443; 706837, 3106442; 706841, 3106401; 706855, 3106386; 706917, 3106409; 707037, 3106535; 707104, 3106643; 707222, 3106713; 707243, 3106711; 707231, 3106664; 707332, 3106701; 707378, 3106762; 707358, 3106788; 707368, 3106821; 707453, 3106928; 707492, 3106917; 707572, 3106983; 707619, 3106997; 707653, 3107068; 707766, 3107120; 707833, 3107126; 707895, 3107168; 707868, 3107211; 707819, 3107202; 707777, 3107172; 707771, 3107145; 707656, 3107116; 707597, 3107063; 707521, 3107062; 707504, 3107093; 707471, 3107110; 707478, 3107129; 707579, 3107150; 707620, 3107192; 707705, 3107210; 707775, 3107202; 707931, 3107266; 707936, 3107192; 707910, 3107173; 707918, 3107167; 708068, 3107170; 708065, 3107157; 707982, 3107122; 708008, 3107092; 708145, 3107121; 708386, 3107111; 708428, 3107131; 708428, 3107152; 708406, 3107164; 708274, 3107145; 708213, 3107151; 708219, 3107187; 708113, 3107218; 708125, 3107250; 708079, 3107257; 708075, 3107270; 708097, 3107289; 708167, 3107301; 708173, 3107332; 708158, 3107356; 708068, 3107391; 708042, 3107309; 708013, 3107310; 708005, 3107420; 708084, 3107466; 708074, 3107569; 708109, 3107573; 708138, 3107542; 708169, 3107550; 708183, 3107582; 708230, 3107586; 708328, 3107522; 708376, 3107525; 708408, 3107551; 708486, 3107533; 708525, 3107502; 708543, 3107456; 708536, 3107442; 708479, 3107485; 708441, 3107472; 708462, 3107456; 708493, 3107370; 708442, 3107398; 708411, 3107395; 708399, 3107416; 708317, 3107407; 708231, 3107486; 708185, 3107479; 708173, 3107465; 708183, 3107441; 708267, 3107409; 708252, 3107363; 708207, 3107366; 708200, 3107354; 708207, 3107328; 708236, 3107324; 708244, 3107300; 708279, 3107300; 708291, 3107334; 708333, 3107329; 708357, 3107367; 708419, 3107364; 708475, 3107323; 708564, 3107288; 708574, 3107256; 708639, 3107292; 708748, 3107299; 708773, 3107285; 708820, 3107315; 708861, 3107297; 708890, 3107339; 708823, 3107379; 708843, 3107406; 708841, 3107481; 708781, 3107489; 708760, 3107525; 708733, 3107504; 708746, 3107442; 708728, 3107428; 708688, 3107508; 708651, 3107515; 708626, 3107492; 708610, 3107541; 708582, 3107558; 708382, 3107575; 708131, 3107637; 708043, 3107627; 707991, 3107597; 707984, 3107558; 708024, 3107563; 708053, 3107512; 707971, 3107460; 707842, 3107490; 707744, 3107492; 707643, 3107471; 707554, 3107492; 707526, 3107547; 707475, 3107522; 707401, 3107528; 707387, 3107583; 707369, 3107589; 707340, 3107589; 707316, 3107512; 707011, 3107566; 706773, 3107574; 706618, 3107556; 706543, 3107607; 706552, 3107660; 706599, 3107691; 706598, 3107707; 706566, 3107725; 706302, 3107643; 706150, 3107684; 706163, 3107709; 706234, 3107747; 706372, 3107753; 706430, 3107796; 706496, 3107800; 706534, 3107858; 706625, 3107867; 706659, 3107844; 706665, 3107801; 706648, 3107766; 706675, 3107741; 706823, 3107730; 706984, 3107695; 707006, 3107701; 707005, 3107715; 706964, 3107755; 707023, 3107765; 707037, 3107798; 706943, 3107854; 706952, 3107870; 707005, 3107872; 707112, 3107819; 707156, 3107821; 707195, 3107851; 707311, 3107815; 707335, 3107796; 707307, 3107765; 707324, 3107742; 707431, 3107766; 707819, 3107744; 707877, 3107753; 707888, 3107774; 707846, 3107837; 707559, 3108039; 707537, 3108063; 707523, 3108125; 707454, 3108142; 707205, 3108298; 707205, 3108346; 707188, 3108371; 707163, 3108369; 707158, 3108400; 707012, 3108389; 707008, 3108309; 706961, 3108345; 706884, 3108350; 706906, 3108378; 706896, 3108389; 706864, 3108388; 706837, 3108358; 706810, 3108353; 706737, 3108359; 706725, 3108381; 706744, 3108409; 706738, 3108430; 706606, 3108413; 706304, 3108427; 706311, 3108446; 706424, 3108453; 706486, 3108441; 706649, 3108459; 706687, 3108478; 706776, 3108470; 706804, 3108486; 706813, 3108522; 706750, 3108659; 706635, 3108661; 706380, 3108775; 706144, 3108797; 706125, 3108832; 705952, 3108861; 705982, 3108908; 706026, 3108912; 706023, 3108954; 706067, 3108992; 706054, 3109023; 705997, 3109037; 706009, 3109071; 706030, 3109088; 706077, 3109075; 706091, 3109120; 706120, 3109130; 706142, 3109170; 706178, 3109197; 706197, 3109261; 706249, 3109228; 708779, 3107128; 708797, 3107035; 708894, 3106989; 708924, 3106928; 709012, 3106880; 709067, 3106819; 709139, 3106769; 709204, 3106666; 709268, 3106622; 709302, 3106556; 709364, 3106502; 709413, 3106420; 709481, 3106356; 709538, 3106274; 709594, 3106217; 709629, 3106204; 709518, 3106365; 709470, 3106466; 709440, 3106575; 709406, 3106607; 709332, 3106731; 709263, 3106796; 709247, 3106834; 709271, 3106866; 709315, 3106880; 709334, 3106857; 709344, 3106869; 709345, 3106906; 709324, 3106945; 709335, 3106975; 709353, 3106954; 709400, 3106958; 709432, 3106972; 709449, 3107001; 709389, 3107055; 709334, 3107056; 709324, 3107113; 709301, 3107105; 709294, 3107073; 709233, 3107108; 709234, 3107077; 709271, 3107012; 709271, 3106980; 709299, 3106938; 709259, 3106943; 709090, 3107031; 708995, 3107119; 708922, 3107101; 708814, 3107134; 708779, 3107128; 708491, 3106821; 708535, 3106846; 708558, 3106827; 708799, 3106885; 708831, 3106902; 708824, 3106938; 708772, 3106982; 708718, 3106980; 708579, 3107058; 708390, 3107037; 708374, 3107071; 708251, 3107090; 708277, 3107039; 708231, 3107065; 708185, 3107068; 707996, 3107016; 707961, 3106998; 707935, 3106962; 707937, 3106942; 707962, 3106925; 708154, 3106925; 708299, 3106969; 708302, 3106949; 708346, 3106925; 708410, 3106845; 708466, 3106817; Thence returning to 708491, 3106821.

706309, 3109431; 706309, 3109401; 706341, 3109381; 706353, 3109337; 706326, 3109313; 706279, 3109368; 706212, 3109376; 706200, 3109402; 706174, 3109365; 706141, 3109395; 706199, 3109484; 706212, 3109459; 706268, 3109454; Thence returning to 706309, 3109431.

Excluding:

Unit TX-18, Aransas County, Texas. Coordinates are in UTM Zone 14N, North American Datum 1983 (meters E, meters N):

711096, 3107435; 711053, 3107324; 711014, 3107307; 710987, 3107222; 710906, 3107207; 710896, 3107245; 710924, 3107288; 710990, 3107367; 711028, 3107360; 711032, 3107382; 711055, 3107437; Thence returning to 711096, 3107435.

710928, 3107149; 710901, 3107123; 710895, 3107173; 710924, 3107176; Thence returning to 710928, 3107149.

708814, 3107134; 708922, 3107101; 708995, 3107119; 709090, 3107031; 709259, 3106943; 709299, 3106938; 709271, 3106980; 709271, 3107012; 709234, 3107077; 709233, 3107108; 709294, 3107073; 709301, 3107105; 709324, 3107113; 709334, 3107056; 709389, 3107055; 709449, 3107001; 709432, 3106972; 709400, 3106958; 709353, 3106954; 709335, 3106975; 709324, 3106945; 709345, 3106906; 709344, 3106869; 709334, 3106857; 709315, 3106880; 709271, 3106866; 709247, 3106834; 709263, 3106796; 709332, 3106731; 709406, 3106607; 709440, 3106575; 709470, 3106466; 709518, 3106365; 709629, 3106204; 709594, 3106217; 709538, 3106274; 709481, 3106356; 709413, 3106420; 709364, 3106502; 709302, 3106556; 709268, 3106622; 709204, 3106666; 709139, 3106769; 709067, 3106819; 709012, 3106880; 708924, 3106928; 708894, 3106989; 708797, 3107035; 708779, 3107128; Thence returning to 708814, 3107134.

708374, 3107071; 708390, 3107037; 708579, 3107058; 708718, 3106980; 708772, 3106982; 708824, 3106938; 708831, 3106902; 708799, 3106885; 708558, 3106827; 708535, 3106846; 708491, 3106821; 708466, 3106817; 708410, 3106845; 708346, 3106925; 708302, 3106949; 708299, 3106969; 708154, 3106925; 707962, 3106925; 707937, 3106942; 707935, 3106962; 707961, 3106998; 707996, 3107016; 708185, 3107068; 708231, 3107065; 708277, 3107039; 708251, 3107090; Thence returning to 708374, 3107071.

704556, 3105290; 704479, 3105263; 704464, 3105300; 704480, 3105318; 704576, 3105318; Thence returning to 704556, 3105290.

705156, 3104715; 705081, 3104699; 705118, 3104738; 705187, 3104761; Thence returning to 705156, 3104715.

705037, 3104714; 704990, 3104682; 704970, 3104687; 704982, 3104716; 705033, 3104736; Thence returning to 705037, 3104714.

(2) Unit TX-18, Calhoun County, Texas. Coordinates are in UTM Zone 14N, North American Datum 1983 (meters E, meters N):

711794, 3106966; 711892, 3106965; 711902, 3106952; 711944, 3106959; 712011, 3106940; 711378, 3106297; 711336, 3106255; 710955, 3105868; 710913, 3105957; 710912, 3106118; 711140, 3106300; 711288, 3106456; 711456, 3106666; 711581, 3106849; 711602, 3106898; 711567, 3107161; 711568, 3107281; 711610, 3107390; 711706, 3107423; 711738, 3107416; 711720, 3107238; 711670, 3107160; 711663, 3107106; 711692, 3107004; Thence returning to 711794, 3106966.

Unit TX-19: Matagorda Island Beach: 976 hectares (2,413 acres) in Calhoun County, Texas.

(1) Unit TX-19, Calhoun County, Texas. Coordinates are in UTM Zone 14N, North American Datum 1983 (meters E, meters N):

755093, 3142812; 755325, 3142614; 755502, 3142533; 755638, 3142434; 755676, 3142436; 755764, 3142378; 755845, 3142271; 755999, 3141953; 756049, 3141664; 756045, 3141334; 755953, 3141071; 755751, 3140640; 755560, 3140341; 755467, 3140158; 755353, 3140022; 755137, 3139664; 755049, 3139558; 755028, 3139471; 754906, 3139282; 754816, 3139176; 754619, 3138884; 753678, 3137676; 753030, 3136954; 752639, 3136560; 751488, 3135520; 751175, 3135304; 751084, 3135215; 750920, 3135100; 750770, 3134971; 749539, 3134175; 749148, 3133942; 748301, 3133502; 747980, 3133363; 746620, 3132692; 746410, 3132612; 745915, 3132382; 745777, 3132300; 744933, 3131893; 743633, 3131207; 743246, 3130971; 743154, 3130938; 742297, 3130449; 741969, 3130298; 741289, 3129879; 740799, 3129615; 739385, 3128778; 738374, 3128157; 737144, 3127356; 735974, 3126562; 735194, 3126017; 734575, 3125563; 734172, 3125318; 732351, 3124020; 730202, 3122414; 727120, 3120041; 725296, 3118595; 723296, 3116945; 721308, 3115232; 721106, 3115073; 720632, 3114646; 720355, 3114422; 718131, 3112439; 716176, 3110628; 715659, 3110169; 714557, 3109123; 713509, 3108160; 712655, 3107344; 712547, 3107257; 712369, 3107063; 711666, 3106384; 711454, 3106128; 711378, 3106297; 712011, 3106940; 712159, 3107065; 712744, 3107644; 713724, 3108561; 713855, 3108664; 713850, 3108681; 714768, 3109533; 714960, 3109720; 714971, 3109766; 715004, 3109772; 715035, 3109818; 715068, 3109828; 715081, 3109859; 715192, 3109951; 715200, 3109979; 715264, 3109999; 715311, 3110084; 715611, 3110320; 715969, 3110635; 717033, 3111616; 717204, 3111792; 717241, 3111807; 717330, 3111900; 717395, 3111946; 717601, 3112137; 717614, 3112166; 717749, 3112265; 717784, 3112315; 717851, 3112363; 718679, 3113122; 719785, 3114092; 719807, 3114127; 719916, 3114205; 720463, 3114702; 721429, 3115535; 721839, 3115870; 722058, 3116070; 723459, 3117257; 724673, 3118251; 724712, 3118298; 724810, 3118362; 725330, 3118796; 725361, 3118803; 725410, 3118861; 725570, 3118973; 726001, 3119335; 726074, 3119377; 726102, 3119417; 726188, 3119473; 726290, 3119575; 726326, 3119587; 726455, 3119685; 726530, 3119755; 726520, 3119770; 726583, 3119793; 726829, 3119998; 726917, 3120053; 726921, 3120078; 726859, 3120097; 726856, 3120145; 726895, 3120113; 726964, 3120096; 727176, 3120250; 727868, 3120793; 727899, 3120824; 727943, 3120935; 727928, 3120943; 727929, 3120969; 727969, 3120953; 727958, 3120908; 728008, 3120917; 728059, 3120962; 728057, 3120986; 728232, 3121082; 728671, 3121427; 728699, 3121476; 728764, 3121494; 728759, 3121527; 728797, 3121574; 728887, 3121656; 728912, 3121642; 729013, 3121780; 729156, 3121837; 729188, 3121798; 729203, 3121809; 729214, 3121862; 729266, 3121930; 729333, 3121958; 729341, 3121983; 729392, 3122025; 729445, 3122027; 729472, 3122065; 729575, 3122114; 729619, 3122180; 729624, 3122198; 729607, 3122216; 729693, 3122236; 729725, 3122267; 729725, 3122315; 729701, 3122345; 729755, 3122351; 729748, 3122297; 729763, 3122296; 729800, 3122301; 729852, 3122336; 729878, 3122355; 729858, 3122374; 729867, 3122398; 729885, 3122421; 729917, 3122427; 729917, 3122461; 729939, 3122480; 729961, 3122449; 730178, 3122639; 730239, 3122618; 730236, 3122657; 730290, 3122710; 730372, 3122750; 730381, 3122767; 730370, 3122790; 730427, 3122799; 730439, 3122842; 730512, 3122834; 730527, 3122845; 730504, 3122858; 730557, 3122870; 730612, 3122924; 730700, 3122956; 730716, 3122990; 730807, 3123042; 730849, 3123100; 730874, 3123102; 730924, 3123190; 730940, 3123155; 730972, 3123165; 730993, 3123184; 730971, 3123219; 731073, 3123254; 731105, 3123291; 731153, 3123307; 731198, 3123353; 731250, 3123376; 731604, 3123639; 731654, 3123691; 731709, 3123715; 731743, 3123759; 731808, 3123793; 731834, 3123828; 731991, 3123927; 732234, 3124113; 732324, 3124196; 732321, 3124242; 732280, 3124298; 732310, 3124287; 732336, 3124252; 732350, 3124265; 732345, 3124242; 732362, 3124219; 732477, 3124282; 732543, 3124350; 732643, 3124412; 732732, 3124492; 732811, 3124532; 732811, 3124550; 732857, 3124562; 732896, 3124601; 732964, 3124635; 732993, 3124674; 733077, 3124720; 733265, 3124866; 733440, 3124975; 733448, 3124998; 733507, 3125024; 733729, 3125187; 733840, 3125273; 733838, 3125345; 733856, 3125312; 733886, 3125302; 733966, 3125343; 733978, 3125371; 734212, 3125498; 734328, 3125585; 734422, 3125621; 735062, 3126081; 735077, 3126126; 735045, 3126156; 735045, 3126174; 735058, 3126177; 735110, 3126126; 735162, 3126144; 736041, 3126775; 737868, 3128010; 738281, 3128251; 738291, 3128273; 738673, 3128501; 738676, 3128520; 738761, 3128552; 739426, 3128955; 739413, 3128992; 739441, 3129005; 739482, 3128999; 739595, 3129062; 740189, 3129426; 740803, 3129775; 740826, 3129801; 740930, 3129838; 741003, 3129882; 741029, 3129917; 741287, 3130044; 741308, 3130073; 741476, 3130167; 741486, 3130197; 741466, 3130214; 741473, 3130220; 741507, 3130199; 741544, 3130200; 741814, 3130340; 742270, 3130610; 742343, 3130640; 742352, 3130667; 742366, 3130674; 742373, 3130661; 742835, 3130932; 743331, 3131195; 743395, 3131245; 744051, 3131584; 744066, 3131627; 744116, 3131630; 744278, 3131709; 744301, 3131738; 744461, 3131809; 744552, 3131876; 744661, 3131918; 745049, 3132121; 745010, 3132134; 745042, 3132154; 745186, 3132173; 745180, 3132187; 745297, 3132259; 745354, 3132267; 745471, 3132335; 745641, 3132406; 745658, 3132424; 745653, 3132436; 745751, 3132459; 745784, 3132478; 745788, 3132499; 745826, 3132502; 746017, 3132585; 746077, 3132622; 746085, 3132640; 746073, 3132661; 746097, 3132660; 746100, 3132646; 746141, 3132648; 746239, 3132693; 746243, 3132718; 746273, 3132706; 746311, 3132721; 746780, 3132933; 746803, 3132949; 746821, 3132992; 746870, 3132986; 746888, 3133027; 746932, 3133021; 747016, 3133051; 747110, 3133110; 747167, 3133118; 747191, 3133143; 747278, 3133175; 747254, 3133212; 747277, 3133236; 747278, 3133209; 747312, 3133203; 747373, 3133225; 747451, 3133259; 747437, 3133297; 747447, 3133305; 747462, 3133305; 747463, 3133275; 747615, 3133344; 747599, 3133368; 747639, 3133397; 747632, 3133365; 747688, 3133374; 747806, 3133442; 748002, 3133524; 748254, 3133653; 748248, 3133688; 748218, 3133697; 748215, 3133720; 748227, 3133731; 748265, 3133721; 748272, 3133680; 748308, 3133681; 748706, 3133872; 748763, 3133915; 748851, 3133946; 748947, 3134015; 749044, 3134038; 749151, 3134119; 749219, 3134136; 749464, 3134278; 749464, 3134292; 749445, 3134297; 749443, 3134332; 749504, 3134339; 749518, 3134316; 749542, 3134324; 749525, 3134341; 749539, 3134357; 749577, 3134346; 749608, 3134357; 749664, 3134394; 749677, 3134427; 749723, 3134441; 749744, 3134466; 749743, 3134500; 749778, 3134504; 749777, 3134529; 749852, 3134566; 749858, 3134584; 749874, 3134572; 749889, 3134597; 749939, 3134608; 749944, 3134633; 749986, 3134652; 749995, 3134677; 750072, 3134680; 750128, 3134721; 750184, 3134729; 750194, 3134752; 750298, 3134807; 750443, 3134935; 750496, 3134941; 750539, 3134990; 750578, 3134991; 750649, 3135056; 750812, 3135159; 750844, 3135165; 750917, 3135239; 750910, 3135274; 751003, 3135313; 751036, 3135371; 751071, 3135357; 751088, 3135368; 751076, 3135404; 751206, 3135495; 751202, 3135539; 751243, 3135549; 751287, 3135522; 751270, 3135571; 751308, 3135565; 751312, 3135593; 751335, 3135602; 751325, 3135647; 751420, 3135650; 751472, 3135678; 751463, 3135691; 751495, 3135691; 751512, 3135758; 751564, 3135740; 751546, 3135785; 751606, 3135774; 751608, 3135791; 751593, 3135795; 751601, 3135803; 751625, 3135788; 751637, 3135813; 751664, 3135814; 751653, 3135870; 751719, 3135866; 751771, 3135914; 751755, 3135916; 751746, 3135951; 751776, 3135971; 751778, 3136046; 751806, 3136081; 751800, 3136092; 751862, 3136099; 751876, 3136128; 751898, 3136105; 751935, 3136153; 751953, 3136139; 751962, 3136153; 751931, 3136191; 751947, 3136226; 752026, 3136191; 752017, 3136229; 752050, 3136243; 752038, 3136265; 752068, 3136275; 752094, 3136262; 752097, 3136295; 752077, 3136307; 752104, 3136359; 752123, 3136359; 752130, 3136398; 752236, 3136447; 752260, 3136493; 752328, 3136544; 752338, 3136587; 752418, 3136627; 752446, 3136609; 752448, 3136626; 752432, 3136634; 752526, 3136687; 752522, 3136711; 752497, 3136709; 752498, 3136725; 752548, 3136734; 752567, 3136801; 752640, 3136788; 752648, 3136810; 752628, 3136841; 752660, 3136839; 752673, 3136821; 752710, 3136839; 752692, 3136849; 752706, 3136862; 752688, 3136879; 752721, 3136888; 752778, 3136855; 752798, 3136860; 752818, 3136879; 752794, 3136899; 752803, 3136909; 752827, 3136898; 752883, 3136937; 752920, 3136994; 752919, 3137058; 752949, 3137081; 752961, 3137124; 753038, 3137177; 753049, 3137149; 753047, 3137231; 753077, 3137260; 753075, 3137282; 753105, 3137301; 753102, 3137318; 753173, 3137359; 753170, 3137380; 753246, 3137431; 753278, 3137492; 753372, 3137555; 753374, 3137577; 753429, 3137626; 753469, 3137689; 753505, 3137700; 753499, 3137746; 753596, 3137826; 753678, 3137871; 753664, 3137930; 753752, 3137961; 753769, 3138029; 753799, 3138030; 753808, 3138112; 753876, 3138172; 753919, 3138176; 753909, 3138204; 753936, 3138216; 753915, 3138237; 753910, 3138267; 753941, 3138316; 753974, 3138330; 753983, 3138385; 754065, 3138469; 754107, 3138478; 754139, 3138447; 754168, 3138485; 754109, 3138494; 754094, 3138526; 754130, 3138574; 754204, 3138599; 754217, 3138618; 754200, 3138679; 754216, 3138729; 754249, 3138774; 754350, 3138787; 754365, 3138862; 754421, 3138931; 754438, 3138996; 754494, 3139028; 754507, 3139107; 754551, 3139179; 754591, 3139167; 754627, 3139197; 754661, 3139193; 754649, 3139217; 754660, 3139218; 754672, 3139297; 754720, 3139435; 754699, 3139444; 754735, 3139458; 754725, 3139546; 754756, 3139541; 754791, 3139601; 754814, 3139595; 754831, 3139636; 754832, 3139687; 754791, 3139715; 754801, 3139747; 754836, 3139746; 754893, 3139958; 754929, 3139964; 754958, 3139944; 754986, 3139946; 754979, 3139968; 755028, 3140006; 755042, 3140054; 755066, 3140070; 755116, 3140060; 755133, 3140081; 755140, 3140118; 755116, 3140133; 755111, 3140161; 755144, 3140185; 755157, 3140220; 755169, 3140207; 755179, 3140218; 755167, 3140251; 755182, 3140267; 755178, 3140292; 755257, 3140346; 755285, 3140477; 755376, 3140560; 755388, 3140542; 755404, 3140553; 755390, 3140579; 755401, 3140628; 755441, 3140623; 755435, 3140652; 755455, 3140654; 755436, 3140681; 755455, 3140699; 755451, 3140763; 755500, 3140762; 755497, 3140789; 755553, 3140845; 755548, 3140892; 755564, 3140894; 755572, 3140947; 755595, 3140962; 755720, 3141221; 755731, 3141301; 755721, 3141355; 755702, 3141368; 755681, 3141375; 755690, 3141332; 755655, 3141332; 755679, 3141312; 755649, 3141281; 755636, 3141230; 755608, 3141210; 755599, 3141153; 755574, 3141146; 755588, 3141088; 755571, 3141058; 755506, 3141108; 755477, 3141099; 755437, 3141030; 755485, 3140982; 755440, 3140948; 755366, 3140934; 755339, 3140975; 755354, 3141017; 755388, 3141014; 755428, 3141132; 755459, 3141165; 755516, 3141183; 755564, 3141290; 755617, 3141351; 755692, 3141550; 755721, 3141583; 755727, 3141627; 755669, 3141833; 755690, 3141849; 755680, 3142053; 755644, 3142039; 755630, 3142048; 755613, 3142154; 755618, 3142205; 755604, 3142242; 755537, 3142290; 755528, 3142348; 755507, 3142350; 755476, 3142414; 755316, 3142474; 755251, 3142512; 755213, 3142562; 755191, 3142557; 755153, 3142582; 755045, 3142715; 755035, 3142748; 755005, 3142770; 755006, 3142792; 754973, 3142802; 755077, 3142486; 755075, 3142452; 755045, 3142432; 755069, 3142424; 755102, 3142297; 755176, 3142156; 755177, 3142024; 755209, 3141946; 755208, 3141868; 755243, 3141784; 755267, 3141617; 755224, 3141505; 755176, 3141476; 755102, 3141376; 755099, 3141423; 755085, 3141447; 755065, 3141446; 755055, 3141358; 755029, 3141294; 755029, 3141207; 754932, 3140925; 754850, 3140937; 754886, 3141234; 754858, 3141337; 754843, 3141531; 754820, 3141638; 754845, 3141840; 754805, 3142123; 754810, 3142204; 754789, 3142236; 754786, 3142292; 754808, 3142363; 754928, 3142528; 754948, 3142575; 754945, 3142702; 754903, 3142779; 754836, 3142810; 754807, 3142860; 754756, 3142887; 754729, 3142938; 754721, 3143047; 754744, 3143071; 754791, 3143083; 754867, 3143060; Thence returning to 755093, 3142812.

Unit TX-22: Decros Point: 220 hectares (544 acres) in Calhoun and Matagorda Counties, Texas.

(1) Unit TX-22, Calhoun County, Texas. Coordinates are in UTM Zone 14N, North American Datum 1983 (meters E, meters N):

756144, 3143397; 756096, 3143341; 756061, 3143349; 756063, 3143379; 756090, 3143392; 756063, 3143400; 756063, 3143415; 756112, 3143433; 756144, 3143416; Thence returning to 756144, 3143397.

756218, 3143719; 756223, 3143746; 756220, 3143744; 756218, 3143719; 756218, 3143719; 756098, 3143555; 755963, 3143488; 755903, 3143434; 755893, 3143398; 755857, 3143395; 755749, 3143289; 755734, 3143250; 755759, 3143177; 755799, 3143132; 755824, 3143113; 755867, 3143160; 756051, 3143105; 756106, 3143107; 756233, 3143175; 756271, 3143163; 756231, 3143139; 756368, 3143109; 756544, 3143103; 756677, 3143164; 756680, 3143200; 756644, 3143243; 756654, 3143262; 756890, 3143331; 756798, 3142798; 756525, 3142689; 756404, 3142687; 756212, 3142713; 755731, 3143030; 755666, 3143119; 755641, 3143206; 755922, 3143520; 756078, 3143609; 756111, 3143651; 756149, 3143763; 756225, 3143844; 756255, 3143899; 756274, 3143918; 756295, 3143916; 756361, 3143977; 756420, 3144079; 756600, 3144172; 756687, 3144174; 756777, 3144202; 756716, 3144161; 756603, 3144151; 756574, 3144128; 756593, 3144089; 756578, 3144068; 756597, 3144062; 756599, 3144045; 756464, 3143994; 756354, 3143899; 756356, 3143884; 756239, 3143766; 756235, 3143753; 756291, 3143702; 756376, 3143685; 756386, 3143670; 756401, 3143696; 756393, 3143736; 756374, 3143721; 756304, 3143770; 756346, 3143774; 756386, 3143753; 756403, 3143770; 756431, 3143706; 756475, 3143700; 756467, 3143683; 756439, 3143685; 756431, 3143666; 756460, 3143653; 756515, 3143681; 756537, 3143653; 756562, 3143683; 756579, 3143679; 756604, 3143628; 756607, 3143573; 756549, 3143560; 756522, 3143530; 756535, 3143492; 756509, 3143459; 756518, 3143444; 756565, 3143434; 756471, 3143393; 756460, 3143342; 756405, 3143278; 756281, 3143274; 756190, 3143298; 756160, 3143318; 756135, 3143366; 756148, 3143387; 756243, 3143391; 756250, 3143402; 756224, 3143431; 756303, 3143550; 756281, 3143579; 756222, 3143584; 756203, 3143630; 756218, 3143626; Thence returning to 756218, 3143719.

757069, 3144373; 757064, 3144336; 757029, 3144350; 756939, 3144286; 756881, 3144280; 756883, 3144225; 756824, 3144201; 756761, 3144210; 756674, 3144197; 756729, 3144231; 756807, 3144231; 756807, 3144244; 756771, 3144254; 756784, 3144274; 756947, 3144326; 757036, 3144377; Thence returning to 757069, 3144373.

757080, 3144446; 757073, 3144395; 756956, 3144409; 757025, 3144441; 757036, 3144424; 757061, 3144428; 757034, 3144445; 757051, 3144453; Thence returning to 757080, 3144446.

Excluding:

Unit TX-22, Calhoun County, Texas. Coordinates are in UTM Zone 14N, North American Datum 1983 (meters E, meters N):

756223, 3143746; 756218, 3143719; 756220, 3143744; Thence returning to 756223, 3143746.

(2) Unit TX-22, Matagorda County, Texas. Coordinates are in UTM Zone 14N, North American Datum 1983 (meters E, meters N):

757114, 3144349; 757132, 3144326; 757064, 3144336; 757069, 3144373; Thence returning to 757114, 3144349.

757106, 3144443; 757178, 3144436; 757188, 3144392; 757170, 3144352; 757152, 3144388; 757129, 3144401; 757073, 3144395; 757080, 3144446; Thence returning to 757106, 3144443.

757712, 3145133; 757725, 3145118; 757725, 3145080; 757710, 3145093; 757685, 3145085; 757569, 3145004; 757376, 3144796; 757336, 3144712; 757285, 3144661; 757296, 3144644; 757283, 3144617; 757274, 3144625; 757253, 3144587; 757270, 3144530; 757236, 3144549; 757209, 3144513; 757182, 3144513; 757169, 3144532; 757188, 3144595; 757158, 3144574; 757241, 3144731; 757281, 3144777; 757412, 3144866; 757482, 3144947; 757467, 3144953; 757484, 3144972; 757600, 3145074; Thence returning to 757712, 3145133.

757899, 3145276; 757919, 3145287; 757914, 3145264; 757871, 3145243; Thence returning to 757899, 3145276.

757899, 3145276; 757795, 3145160; 757867, 3145238; 757873, 3145222; 757916, 3145226; 757891, 3145208; 757891, 3145179; 757836, 3145115; 757810, 3145146; 757778, 3145133; 757806, 3145110; 757772, 3145101; 757771, 3145082; 757734, 3145066; 757732, 3145114; 757716, 3145140; 757753, 3145134; 757814, 3145209; 757820, 3145264; 757759, 3145192; 757742, 3145194; 757797, 3145321; 757846, 3145389; 758053, 3145601; 758155, 3145675; 758322, 3145834; 758379, 3145867; 758466, 3145978; 758684, 3146161; 758963, 3146301; 759004, 3146289; 759009, 3146271; 758928, 3146282; 758798, 3146176; 758702, 3146129; 758613, 3146051; 758597, 3146018; 758580, 3146020; 758506, 3145950; 758474, 3145893; 758347, 3145764; 758331, 3145770; 758338, 3145760; 758263, 3145696; 758231, 3145645; 758022, 3145469; 757918, 3145330; 757899, 3145276; 757880, 3145381; 757952, 3145406; 758010, 3145502; 757954, 3145465; 757918, 3145412; 757844, 3145366; 757880, 3145381; 758136, 3145622; 758187, 3145637; 758235, 3145721; 758096, 3145616; 758117, 3145607; Thence returning to 758136, 3145622.

759358, 3146497; 759372, 3146483; 759328, 3146494; Thence returning to 759358, 3146497.

759209, 3146541; 759188, 3146483; 759099, 3146432; 759105, 3146403; 759095, 3146405; 759093, 3146384; 759076, 3146430; 759084, 3146445; 759135, 3146466; 759183, 3146522; 759156, 3146532; Thence returning to 759209, 3146541.

759272, 3146526; 759294, 3146508; 759213, 3146541; Thence returning to 759272, 3146526

759065, 3146657; 758980, 3146572; 758972, 3146538; 758970, 3146574; 759042, 3146649; 759057, 3146693; 759177, 3146778; 759141, 3146737; 759122, 3146682; Thence returning to 759065, 3146657.

761407, 3147140; 761515, 3147154; 761599, 3147079; 761374, 3146911; 760678, 3146503; 760464, 3146360; 760075, 3146044; 759657, 3145736; 759445, 3145549; 758541, 3144679; 758386, 3144510; 758278, 3144339; 758092, 3144126; 757659, 3143435; 757468, 3143250; 757272, 3143019; 757086, 3142914; 756798, 3142798; 756890, 3143331; 756936, 3143357; 756961, 3143408; 757105, 3143467; 757171, 3143520; 757238, 3143590; 757306, 3143730; 757340, 3143770; 757437, 3143789; 757526, 3143867; 757660, 3144022; 757744, 3144151; 758077, 3144443; 758214, 3144612; 758297, 3144686; 758415, 3144760; 758648, 3144968; 759230, 3145525; 759967, 3146162; 759994, 3146208; 760115, 3146280; 760142, 3146323; 760219, 3146361; 760259, 3146409; 760301, 3146422; 760339, 3146477; 760413, 3146500; 761307, 3147038; 761328, 3147057; 761345, 3147110; 761336, 3147180; 761346, 3147218; 761384, 3147224; 761386, 3147154; Thence returning to 761407, 3147140.

759820, 3147183; 759811, 3147187; 759840, 3147218; Thence returning to 759820, 3147183.

759882, 3147275; 759875, 3147268; 759893, 3147309; Thence returning to 759882, 3147275.

759718, 3147493; 759724, 3147476; 759699, 3147449; 759686, 3147480; Thence returning to 759718, 3147493.

760083, 3147612; 760079, 3147593; 760062, 3147595; 760068, 3147567; 760037, 3147607; 759978, 3147581; 760007, 3147607; 760103, 3147644; Thence returning to 760083, 3147612.

760153, 3147620; 760159, 3147601; 760115, 3147624; 760148, 3147658; 760140, 3147641; Thence returning to 760153, 3147620.

760707, 3147904; 760679, 3147885; 760500, 3147853; 760219, 3147764; 760098, 3147690; 760026, 3147618; 759971, 3147605; 759859, 3147538; 759802, 3147485; 759791, 3147453; 759795, 3147431; 759800, 3147449; 759823, 3147444; 759831, 3147408; 759791, 3147328; 759622, 3147182; 759469, 3147002; 759416, 3146911; 759425, 3146905; 759450, 3146932; 759461, 3146911; 759452, 3146862; 759427, 3146839; 759417, 3146856; 759378, 3146852; 759372, 3146831; 759406, 3146799; 759366, 3146801; 759355, 3146822; 759368, 3146883; 759412, 3146919; 759427, 3146970; 759550, 3147123; 759770, 3147330; 759778, 3147366; 759764, 3147417; 759751, 3147432; 759753, 3147413; 759734, 3147408; 759717, 3147449; 759759, 3147499; 760206, 3147777; 760498, 3147861; Thence returning to 760707, 3147904.

760707, 3147904; 760815, 3147946; 760842, 3147982; 760851, 3148007; 760836, 3148045; 760800, 3148054; 760829, 3148059; 760861, 3148041; 760853, 3148012; 760863, 3147990; 760825, 3147942; 760772, 3147910; Thence returning to 760707, 3147904.

Excluding:

Unit TX-22, Matagorda County, Texas. Coordinates are in UTM Zone 14N, North American Datum 1983 (meters E, meters N):

758136, 3145622; 758117, 3145607; 758096, 3145616; 758235, 3145721; 758187, 3145637; Thence returning to 758136, 3145622.

757880, 3145381; 757844, 3145366; 757918, 3145412; 757954, 3145465; 758010, 3145502; 757952, 3145406; Thence returning to 757880, 3145381.

Unit TX-23: West Matagorda Peninsula Beach: 732 hectares (1,808 acres) in Matagorda County, Texas.

(1) Unit TX-23, Matagorda County, Texas. Coordinates are in UTM Zone 14N, North American Datum 1983 (meters E, meters N):

794998, 3166954; 795058, 3166920; 795090, 3166937; 795134, 3166804; 795016, 3166417; 794989, 3166385; 794944, 3166385; 794915, 3166413; 794926, 3166514; 794843, 3166543; 794768, 3166544; 794548, 3166469; 794150, 3166265; 793944, 3166178; 793663, 3166021; 793518, 3165958; 793395, 3165925; 793172, 3165799; 792681, 3165580; 792613, 3165566; 792476, 3165501; 792386, 3165491; 792237, 3165445; 792084, 3165355; 791974, 3165315; 791729, 3165186; 791684, 3165181; 791602, 3165145; 791384, 3165026; 791034, 3164868; 790882, 3164791; 790777, 3164715; 790379, 3164514; 790143, 3164405; 790049, 3164393; 789926, 3164312; 789730, 3164213; 789515, 3164138; 789342, 3164036; 789061, 3163915; 789006, 3163870; 788591, 3163656; 787268, 3163020; 786928, 3162831; 785690, 3162217; 783809, 3161232; 783766, 3161194; 783561, 3161093; 783080, 3160816; 783021, 3160797; 782112, 3160298; 781945, 3160187; 779312, 3158763; 779021, 3158591; 778735, 3158450; 778435, 3158283; 778356, 3158222; 778041, 3158059; 777655, 3157835; 777552, 3157791; 777151, 3157543; 776616, 3157251; 774162, 3155789; 773866, 3155590; 771809, 3154316; 770189, 3153238; 769386, 3152669; 768586, 3152130; 768014, 3151702; 767939, 3151663; 767463, 3151320; 765711, 3150005; 765107, 3149512; 764382, 3148892; 763644, 3148208; 763289, 3147857; 762933, 3147441; 762617, 3146969; 762265, 3147300; 762270, 3147310; 762363, 3147244; 762438, 3147245; 762454, 3147203; 762535, 3147242; 762557, 3147226; 762612, 3147276; 762726, 3147506; 762744, 3147492; 762772, 3147536; 762760, 3147551; 762788, 3147556; 762803, 3147613; 762841, 3147619; 762873, 3147677; 762861, 3147687; 762892, 3147711; 762920, 3147711; 762961, 3147783; 762982, 3147789; 763038, 3147857; 763046, 3147902; 763070, 3147893; 763111, 3147916; 763157, 3147982; 763310, 3148128; 763329, 3148152; 763319, 3148179; 763350, 3148178; 763519, 3148342; 763548, 3148426; 763556, 3148410; 763588, 3148424; 763697, 3148513; 763735, 3148566; 764060, 3148862; 764128, 3148935; 764129, 3148952; 764144, 3148947; 764200, 3148989; 764344, 3149135; 764714, 3149450; 764734, 3149496; 764743, 3149472; 764772, 3149490; 764837, 3149563; 764919, 3149622; 764931, 3149656; 764966, 3149657; 764967, 3149672; 765022, 3149704; 765026, 3149729; 765054, 3149753; 765184, 3149833; 765248, 3149888; 765251, 3149908; 765318, 3149943; 765402, 3150017; 765391, 3150029; 765560, 3150128; 765654, 3150205; 765665, 3150233; 765694, 3150239; 766019, 3150509; 766060, 3150507; 766056, 3150528; 766242, 3150643; 766231, 3150659; 766264, 3150670; 766290, 3150706; 766349, 3150720; 766403, 3150762; 766410, 3150776; 766400, 3150784; 766432, 3150810; 766478, 3150816; 766553, 3150894; 766580, 3150895; 766591, 3150919; 766638, 3150935; 766681, 3150980; 766851, 3151092; 766826, 3151100; 766834, 3151111; 766869, 3151109; 766917, 3151167; 766987, 3151195; 766985, 3151213; 767051, 3151232; 767051, 3151251; 767155, 3151320; 767227, 3151389; 767261, 3151391; 767276, 3151420; 767416, 3151492; 767409, 3151512; 767478, 3151551; 767485, 3151571; 767518, 3151576; 768233, 3152078; 768238, 3152099; 768976, 3152590; 769058, 3152662; 769368, 3152855; 769420, 3152910; 769658, 3153054; 769821, 3153184; 770092, 3153356; 770434, 3153606; 771182, 3154087; 771201, 3154119; 771224, 3154119; 771302, 3154178; 771296, 3154199; 771375, 3154238; 771372, 3154277; 771386, 3154285; 771403, 3154267; 771449, 3154295; 771449, 3154276; 771475, 3154279; 771489, 3154314; 771468, 3154329; 771484, 3154342; 771514, 3154323; 771521, 3154336; 771506, 3154349; 771629, 3154407; 771640, 3154394; 771662, 3154432; 771773, 3154490; 771764, 3154504; 771847, 3154539; 771846, 3154581; 771890, 3154564; 771952, 3154615; 772048, 3154661; 772056, 3154686; 772135, 3154716; 772126, 3154764; 772141, 3154765; 772152, 3154735; 772309, 3154838; 772364, 3154849; 772356, 3154867; 772473, 3154950; 772514, 3154966; 772534, 3154957; 772537, 3154985; 772561, 3155011; 772618, 3155032; 772631, 3155101; 772691, 3155103; 772702, 3155079; 772798, 3155130; 772770, 3155157; 772782, 3155164; 772824, 3155147; 772957, 3155220; 772957, 3155241; 772941, 3155244; 772943, 3155274; 772965, 3155272; 772971, 3155237; 773333, 3155448; 773335, 3155460; 773317, 3155462; 773328, 3155489; 773349, 3155500; 773345, 3155475; 773366, 3155474; 773571, 3155590; 773800, 3155743; 773798, 3155799; 773785, 3155807; 773772, 3155780; 773766, 3155793; 773770, 3155843; 773875, 3155895; 773905, 3155835; 773937, 3155833; 773909, 3155859; 773943, 3155903; 773950, 3155887; 773965, 3155890; 773951, 3155928; 773977, 3155940; 773997, 3155908; 774009, 3155943; 774039, 3155946; 774038, 3155962; 774049, 3155966; 774062, 3155943; 774074, 3155946; 774065, 3155964; 774106, 3155956; 774092, 3156000; 774145, 3156002; 774136, 3156022; 774352, 3156126; 774319, 3156197; 774403, 3156217; 774411, 3156239; 774440, 3156235; 774449, 3156266; 774501, 3156271; 774622, 3156336; 774657, 3156309; 774646, 3156346; 774668, 3156365; 774683, 3156360; 774701, 3156393; 774726, 3156383; 774735, 3156399; 774810, 3156418; 774825, 3156441; 774879, 3156462; 774857, 3156480; 774871, 3156494; 774924, 3156492; 774903, 3156518; 774935, 3156516; 774955, 3156497; 774980, 3156504; 774967, 3156527; 775026, 3156559; 775051, 3156557; 775050, 3156580; 775099, 3156573; 775109, 3156590; 775173, 3156614; 775236, 3156655; 775259, 3156678; 775254, 3156698; 775274, 3156712; 775292, 3156688; 775440, 3156715; 775460, 3156759; 775442, 3156804; 775476, 3156805; 775551, 3156843; 775560, 3156867; 775596, 3156873; 775616, 3156913; 775662, 3156897; 775728, 3156958; 775729, 3156991; 775785, 3156991; 775801, 3157010; 775830, 3157003; 775853, 3157031; 775904, 3157050; 775946, 3157047; 775953, 3157084; 776040, 3157083; 776045, 3157116; 776022, 3157180; 776078, 3157118; 776118, 3157125; 776090, 3157149; 776131, 3157159; 776136, 3157198; 776183, 3157191; 776189, 3157207; 776176, 3157230; 776217, 3157225; 776286, 3157272; 776292, 3157308; 776319, 3157331; 776295, 3157373; 776348, 3157387; 776354, 3157358; 776341, 3157334; 776352, 3157315; 776376, 3157310; 776490, 3157347; 776545, 3157416; 776572, 3157419; 776554, 3157519; 776594, 3157504; 776584, 3157563; 776710, 3157558; 776751, 3157593; 776795, 3157573; 776809, 3157590; 776870, 3157592; 776920, 3157641; 776896, 3157733; 776916, 3157749; 776981, 3157710; 777005, 3157755; 777000, 3157825; 777052, 3157795; 777047, 3157810; 777061, 3157816; 777085, 3157807; 777100, 3157825; 777128, 3157824; 777136, 3157854; 777380, 3157859; 777414, 3157888; 777421, 3157918; 777371, 3158011; 777367, 3158052; 777413, 3157996; 777423, 3158007; 777376, 3158074; 777374, 3158106; 777554, 3158063; 777622, 3158097; 777590, 3158159; 777524, 3158371; 777557, 3158387; 777667, 3158228; 777720, 3158210; 777822, 3158226; 777867, 3158162; 777921, 3158224; 778288, 3158394; 778319, 3158391; 778393, 3158441; 778436, 3158473; 778462, 3158554; 778533, 3158601; 778551, 3158642; 778674, 3158666; 778759, 3158639; 778789, 3158648; 778780, 3158674; 778752, 3158693; 778858, 3158724; 778839, 3158750; 779002, 3158792; 779198, 3158891; 779307, 3158924; 779722, 3159149; 779805, 3159202; 779824, 3159222; 779823, 3159246; 779894, 3159251; 780100, 3159357; 780156, 3159407; 780184, 3159404; 780268, 3159447; 780367, 3159526; 780372, 3159584; 780392, 3159580; 780413, 3159547; 780436, 3159550; 780519, 3159602; 780485, 3159643; 780545, 3159622; 780556, 3159642; 780500, 3159673; 780489, 3159696; 780552, 3159678; 780592, 3159692; 780655, 3159688; 780690, 3159671; 781001, 3159852; 780997, 3159876; 781037, 3159873; 781086, 3159894; 781316, 3160022; 781407, 3160094; 781431, 3160082; 781448, 3160115; 781539, 3160152; 781544, 3160173; 781474, 3160223; 781478, 3160261; 781612, 3160218; 781669, 3160217; 781825, 3160304; 781835, 3160329; 781909, 3160348; 782128, 3160476; 782333, 3160568; 782462, 3160654; 782488, 3160655; 782597, 3160742; 782581, 3160818; 782539, 3160870; 782564, 3160919; 782609, 3160857; 782618, 3160812; 782636, 3160864; 782630, 3160898; 782649, 3160917; 782674, 3160890; 782760, 3160920; 782768, 3160964; 782808, 3160981; 782830, 3160948; 782972, 3160950; 782962, 3160969; 782995, 3161004; 782928, 3160991; 782910, 3161004; 782919, 3161024; 783089, 3161043; 783213, 3161096; 783220, 3161111; 783173, 3161144; 783179, 3161156; 783226, 3161146; 783263, 3161120; 783299, 3161127; 783882, 3161445; 783893, 3161500; 783879, 3161520; 783896, 3161532; 783944, 3161514; 784013, 3161513; 784436, 3161745; 784671, 3161860; 784710, 3161861; 784685, 3161880; 784653, 3161979; 784655, 3162020; 784702, 3161998; 784748, 3161932; 784773, 3161928; 784795, 3161949; 784788, 3162008; 784815, 3161973; 784885, 3161985; 784870, 3162027; 784910, 3162050; 784903, 3162100; 785103, 3162113; 785169, 3162136; 785192, 3162188; 785161, 3162277; 785178, 3162285; 785245, 3162208; 785280, 3162230; 785287, 3162205; 785319, 3162202; 785343, 3162225; 785384, 3162220; 785375, 3162249; 785353, 3162254; 785339, 3162280; 785371, 3162299; 785387, 3162285; 785388, 3162251; 785419, 3162240; 785449, 3162251; 785460, 3162259; 785453, 3162295; 785427, 3162294; 785418, 3162308; 785431, 3162323; 785417, 3162350; 785464, 3162332; 785491, 3162365; 785555, 3162388; 785540, 3162419; 785577, 3162435; 785706, 3162417; 785808, 3162443; 786235, 3162661; 786222, 3162726; 786241, 3162747; 786282, 3162748; 786296, 3162708; 786313, 3162705; 786408, 3162739; 787397, 3163242; 787445, 3163272; 787445, 3163303; 787386, 3163391; 787407, 3163392; 787470, 3163328; 787515, 3163318; 787548, 3163337; 787538, 3163387; 787553, 3163433; 787510, 3163517; 787580, 3163471; 787607, 3163488; 787593, 3163461; 787593, 3163378; 787644, 3163442; 787641, 3163516; 787715, 3163519; 787728, 3163533; 787752, 3163523; 787807, 3163552; 787811, 3163582; 787852, 3163578; 787866, 3163547; 787961, 3163579; 788012, 3163561; 788102, 3163592; 788746, 3163898; 789174, 3164131; 789237, 3164170; 789261, 3164207; 789293, 3164219; 789325, 3164210; 789390, 3164239; 789407, 3164304; 789427, 3164320; 789441, 3164301; 789492, 3164297; 789618, 3164343; 789689, 3164395; 789693, 3164432; 789735, 3164457; 789760, 3164450; 789823, 3164487; 789834, 3164539; 789815, 3164710; 789823, 3164734; 789859, 3164690; 789897, 3164676; 789880, 3164738; 789850, 3164773; 789759, 3164821; 789751, 3164856; 789831, 3164916; 789845, 3164980; 790001, 3164775; 790015, 3164790; 790071, 3164774; 790091, 3164789; 790083, 3164812; 789994, 3164857; 790153, 3164852; 790182, 3164863; 790158, 3164902; 790268, 3164862; 790409, 3164873; 790455, 3164860; 790439, 3164879; 790466, 3164886; 790515, 3164845; 790561, 3164860; 790573, 3164896; 790652, 3164913; 790700, 3164943; 790686, 3164985; 790627, 3165047; 790687, 3165093; 790658, 3165156; 790798, 3165128; 790843, 3165087; 790858, 3165095; 790855, 3165112; 790894, 3165091; 790909, 3165128; 790887, 3165131; 790885, 3165108; 790879, 3165143; 790889, 3165160; 790946, 3165161; 790956, 3165219; 791017, 3165172; 791022, 3165203; 791034, 3165204; 791042, 3165140; 791090, 3165139; 791130, 3165185; 791127, 3165218; 791175, 3165313; 791185, 3165392; 791210, 3165391; 791274, 3165352; 791308, 3165295; 791302, 3165249; 791376, 3165227; 791832, 3165407; 792079, 3165546; 792372, 3165683; 792643, 3165768; 793089, 3165964; 793193, 3166034; 793218, 3166074; 793323, 3166133; 793400, 3166136; 793497, 3166116; 793612, 3166196; 793662, 3166206; 793673, 3166192; 793692, 3166234; 793729, 3166224; 793740, 3166257; 793799, 3166289; 793953, 3166317; 793958, 3166343; 793999, 3166327; 794001, 3166339; 794049, 3166332; 794057, 3166358; 794044, 3166380; 794102, 3166394; 794098, 3166427; 794177, 3166450; 794190, 3166472; 794237, 3166468; 794260, 3166496; 794290, 3166485; 794313, 3166501; 794303, 3166522; 794353, 3166523; 794450, 3166564; 794498, 3166564; 794504, 3166587; 794550, 3166580; 794606, 3166655; 794624, 3166633; 794587, 3166595; 794820, 3166662; 794825, 3166646; 794850, 3166647; 794935, 3166683; 794992, 3166683; 795017, 3166700; 795006, 3166702; 795022, 3166736; 795014, 3166766; 795031, 3166779; 795044, 3166835; 795042, 3166868; 794997, 3166892; 794963, 3166951; 794941, 3166950; 794976, 3167088; 795067, 3167204; 795177, 3167238; 795284, 3167342; 795318, 3167327; 795313, 3167286; 795265, 3167234; 795106, 3167163; 795040, 3167114; 795005, 3167056; Thence returning to 794998, 3166954.

Unit TX-27: East Matagorda Bay/Matagorda Peninsula Beach West: 366 hectares (905 acres) in Matagorda County, Texas.

(1) Unit TX-27, Matagorda County, Texas. Coordinates are in UTM Zone 14N, North American Datum 1983 (meters E, meters N):

815151, 3177276; 815182, 3177233; 813690, 3176252; 813397, 3176083; 813325, 3176088; 813301, 3176051; 813243, 3176007; 813000, 3175875; 811516, 3174967; 809757, 3173949; 808939, 3173496; 806536, 3172223; 805649, 3171790; 805549, 3171722; 804997, 3171465; 804930, 3171413; 804257, 3171102; 804079, 3170992; 803100, 3170524; 802419, 3170178; 802076, 3170019; 801924, 3169969; 800796, 3169381; 800372, 3169187; 800298, 3169170; 800014, 3169018; 799867, 3168961; 799772, 3168893; 799509, 3168766; 799393, 3168739; 799193, 3168614; 798902, 3168493; 798794, 3168415; 798598, 3168344; 798514, 3168291; 797999, 3168062; 797826, 3167949; 797631, 3167894; 797477, 3167805; 797168, 3167677; 796768, 3167470; 796648, 3167436; 796348, 3167278; 796199, 3167230; 795692, 3166923; 795497, 3166822; 795415, 3166788; 795250, 3166772; 795169, 3166770; 795134, 3166804; 795090, 3166937; 795207, 3167035; 795336, 3167107; 795392, 3167189; 795420, 3167269; 795426, 3167183; 795446, 3167150; 795589, 3167209; 795703, 3167186; 795722, 3167161; 795776, 3167162; 795794, 3167197; 795881, 3167214; 796325, 3167451; 796435, 3167491; 796437, 3167504; 796557, 3167564; 796574, 3167555; 796578, 3167572; 796632, 3167583; 796710, 3167640; 797631, 3168070; 797669, 3168107; 797735, 3168118; 797904, 3168210; 798045, 3168263; 798047, 3168277; 798354, 3168404; 798511, 3168485; 798507, 3168499; 798596, 3168532; 798605, 3168549; 798673, 3168567; 798677, 3168594; 798692, 3168583; 798775, 3168613; 798845, 3168642; 798837, 3168655; 798992, 3168720; 799025, 3168748; 799024, 3168766; 799000, 3168758; 799023, 3168804; 799041, 3168807; 799046, 3168785; 799060, 3168785; 799092, 3168820; 799158, 3168967; 799237, 3168998; 799271, 3168945; 799301, 3168927; 799358, 3168923; 799328, 3168957; 799377, 3168934; 799455, 3168944; 799681, 3169037; 799860, 3169124; 799881, 3169190; 799866, 3169191; 799887, 3169218; 799942, 3169196; 799939, 3169221; 799991, 3169201; 800056, 3169220; 800066, 3169229; 800069, 3169315; 800115, 3169258; 800237, 3169309; 800233, 3169352; 800219, 3169368; 800227, 3169380; 800269, 3169380; 800268, 3169436; 800295, 3169417; 800289, 3169373; 800302, 3169357; 800367, 3169382; 800382, 3169460; 800413, 3169433; 800516, 3169441; 800511, 3169483; 800493, 3169499; 800504, 3169510; 800529, 3169509; 800549, 3169536; 800587, 3169485; 800642, 3169500; 800690, 3169526; 800702, 3169587; 800731, 3169583; 800744, 3169562; 800770, 3169572; 800763, 3169627; 800775, 3169651; 800790, 3169617; 800819, 3169597; 800845, 3169610; 800837, 3169658; 800882, 3169629; 800903, 3169630; 800899, 3169656; 800954, 3169648; 800995, 3169677; 800980, 3169701; 801024, 3169695; 801021, 3169734; 801038, 3169748; 801063, 3169718; 801111, 3169719; 801139, 3169739; 801117, 3169772; 801182, 3169778; 801170, 3169842; 801185, 3169848; 801201, 3169800; 801220, 3169800; 801212, 3169775; 801232, 3169778; 801382, 3169846; 801369, 3169859; 801420, 3169867; 801456, 3169908; 801513, 3169912; 801556, 3169947; 801598, 3169951; 801700, 3170013; 801744, 3170017; 801814, 3170067; 802079, 3170173; 802228, 3170258; 802294, 3170275; 802700, 3170473; 802713, 3170495; 802704, 3170571; 802743, 3170564; 802739, 3170618; 802825, 3170599; 802836, 3170618; 802898, 3170634; 802954, 3170600; 803004, 3170624; 803058, 3170695; 803106, 3170695; 803112, 3170678; 803177, 3170703; 803492, 3170870; 803513, 3170868; 803696, 3170956; 803709, 3170972; 803697, 3170984; 803734, 3171021; 803791, 3171024; 803858, 3171068; 803881, 3171064; 803887, 3171086; 803938, 3171130; 803978, 3171133; 804003, 3171117; 804006, 3171142; 804053, 3171151; 804055, 3171166; 804024, 3171168; 804033, 3171207; 804107, 3171225; 804128, 3171211; 804164, 3171227; 804175, 3171212; 804203, 3171263; 804251, 3171232; 804278, 3171264; 804346, 3171284; 804358, 3171296; 804355, 3171328; 804370, 3171328; 804372, 3171309; 804410, 3171312; 804464, 3171340; 804469, 3171365; 804455, 3171374; 804467, 3171380; 804486, 3171357; 804496, 3171382; 804514, 3171370; 804524, 3171381; 804512, 3171393; 804530, 3171413; 804547, 3171386; 804597, 3171425; 804655, 3171439; 804696, 3171464; 804706, 3171503; 804753, 3171488; 804744, 3171515; 804816, 3171513; 804854, 3171536; 804859, 3171568; 804896, 3171563; 804966, 3171612; 804987, 3171605; 805080, 3171639; 805128, 3171660; 805127, 3171687; 805220, 3171710; 805426, 3171810; 805441, 3171850; 805486, 3171849; 805760, 3171992; 805777, 3172145; 805892, 3172114; 805943, 3172152; 806021, 3172162; 806027, 3172144; 806051, 3172139; 806069, 3172154; 806045, 3172175; 806209, 3172242; 806287, 3172251; 806408, 3172329; 806487, 3172357; 806511, 3172385; 806517, 3172421; 806549, 3172412; 806547, 3172389; 806577, 3172392; 806631, 3172428; 806646, 3172472; 806664, 3172467; 806732, 3172514; 806746, 3172493; 806869, 3172554; 806877, 3172566; 806866, 3172587; 806882, 3172594; 806902, 3172580; 806998, 3172618; 807011, 3172642; 807178, 3172748; 807224, 3172849; 807239, 3172838; 807402, 3172863; 807565, 3172914; 807718, 3173033; 807712, 3173128; 807812, 3173111; 807834, 3173141; 807878, 3173118; 807957, 3173150; 808005, 3173153; 808089, 3173193; 808168, 3173255; 808274, 3173287; 808300, 3173338; 808340, 3173332; 808351, 3173355; 808482, 3173408; 808523, 3173439; 808521, 3173454; 808540, 3173473; 808523, 3173513; 808658, 3173521; 808747, 3173571; 808762, 3173531; 808798, 3173549; 808796, 3173586; 808811, 3173581; 808804, 3173607; 808816, 3173631; 808887, 3173645; 808912, 3173673; 808953, 3173670; 809003, 3173738; 809005, 3173779; 809022, 3173810; 809063, 3173816; 809123, 3173783; 809144, 3173786; 809267, 3173836; 809240, 3173879; 809290, 3173869; 809374, 3173910; 809373, 3173930; 809466, 3173972; 809515, 3173959; 809527, 3173981; 809569, 3173988; 809568, 3173998; 809542, 3173991; 809533, 3174007; 809587, 3174008; 809669, 3174075; 809844, 3174156; 809831, 3174198; 809791, 3174247; 809801, 3174268; 809782, 3174281; 809780, 3174304; 809975, 3174255; 810104, 3174315; 810121, 3174302; 810256, 3174405; 810363, 3174452; 810540, 3174570; 810772, 3174673; 810799, 3174695; 810758, 3174710; 810783, 3174730; 810834, 3174743; 810837, 3174714; 811361, 3175015; 811517, 3175132; 812200, 3175515; 812254, 3175565; 812248, 3175588; 812282, 3175603; 812304, 3175592; 812413, 3175651; 812994, 3176005; 813205, 3176153; 813618, 3176380; 813617, 3176422; 813583, 3176449; 813650, 3176441; 813631, 3176431; 813639, 3176418; 813678, 3176423; 813753, 3176466; 813831, 3176532; 813794, 3176609; 813974, 3176652; 814024, 3176680; 814050, 3176732; 814081, 3176734; 814339, 3176881; 814577, 3177065; 814602, 3177104; 814643, 3177108; 814643, 3177136; 814714, 3177150; 814767, 3177181; 814761, 3177197; 814867, 3177257; 814887, 3177248; 814954, 3177283; 814970, 3177319; 814996, 3177320; 815058, 3177361; 815085, 3177368; Thence returning to 815151, 3177276.

Unit TX-28: East Matagorda Bay/Matagorda Peninsula Beach East: 194 hectares (481 acres) in Matagorda County, Texas.

(1) Unit TX-28, Matagorda County, Texas. Coordinates are in UTM Zone 14N, North American Datum 1983 (meters E, meters N):

826255, 3184413; 826144, 3184255; 826082, 3184209; 825729, 3184026; 825639, 3183994; 824822, 3183472; 824219, 3183064; 823959, 3182871; 823794, 3182779; 823448, 3182551; 823260, 3182448; 822578, 3181993; 821871, 3181551; 821687, 3181407; 821599, 3181564; 821804, 3181677; 821805, 3181730; 821845, 3181733; 821868, 3181713; 821881, 3181737; 821874, 3181761; 821887, 3181769; 821923, 3181749; 821931, 3181789; 821995, 3181805; 821994, 3181835; 821952, 3181919; 822021, 3181956; 822017, 3181906; 821993, 3181883; 822034, 3181865; 822073, 3181905; 822110, 3181893; 822144, 3181948; 822145, 3181985; 822181, 3181986; 822189, 3182046; 822296, 3182105; 822362, 3182082; 822398, 3182112; 822398, 3182145; 822422, 3182151; 822406, 3182179; 822693, 3182372; 822814, 3182421; 822845, 3182474; 822893, 3182506; 822951, 3182513; 822967, 3182545; 822989, 3182545; 823000, 3182511; 823030, 3182494; 823060, 3182504; 823077, 3182533; 823045, 3182559; 823077, 3182605; 823164, 3182633; 823163, 3182666; 823386, 3182716; 823413, 3182751; 823377, 3182799; 823426, 3182812; 823438, 3182780; 823509, 3182846; 823591, 3182896; 823645, 3182873; 823793, 3183006; 824179, 3183243; 824191, 3183260; 824169, 3183278; 824074, 3183300; 824095, 3183334; 824155, 3183341; 824209, 3183378; 824368, 3183417; 824371, 3183454; 824415, 3183476; 824443, 3183482; 824479, 3183461; 824539, 3183482; 824635, 3183568; 824790, 3183647; 824792, 3183670; 824813, 3183684; 824777, 3183731; 824756, 3183799; 824759, 3183881; 824891, 3183871; 824909, 3183819; 824958, 3183806; 825029, 3183822; 825125, 3183886; 825180, 3183904; 825196, 3183917; 825179, 3183973; 825251, 3184071; 825179, 3184141; 825163, 3184192; 825309, 3184221; 825350, 3184198; 825363, 3184205; 825375, 3184184; 825364, 3184135; 825381, 3184105; 825537, 3184169; 825445, 3184230; 825465, 3184261; 825526, 3184253; 825539, 3184330; 825530, 3184355; 825567, 3184383; 825649, 3184398; 825705, 3184380; 825848, 3184381; 825929, 3184354; 826013, 3184373; 826009, 3184399; 826190, 3184525; 826276, 3184554; 826411, 3184646; 826400, 3184577; 826353, 3184503; Thence returning to 826255, 3184413.

830205, 3186883; 830049, 3186765; 830013, 3186765; 829946, 3186699; 829382, 3186350; 828066, 3185574; 827164, 3185085; 826836, 3184954; 826943, 3185048; 826987, 3185216; 827003, 3185207; 827072, 3185230; 827085, 3185260; 827084, 3185327; 827110, 3185354; 827210, 3185365; 827252, 3185392; 827287, 3185385; 827377, 3185461; 827440, 3185465; 827512, 3185500; 827551, 3185497; 827572, 3185471; 827594, 3185480; 827621, 3185551; 827733, 3185595; 827745, 3185647; 827847, 3185743; 827904, 3185777; 827968, 3185772; 828020, 3185747; 828075, 3185764; 828145, 3185803; 828158, 3185843; 828244, 3185846; 828245, 3185880; 828414, 3185951; 828418, 3186022; 828501, 3186031; 828502, 3186064; 828550, 3186076; 828558, 3186101; 828612, 3186117; 828679, 3186113; 828774, 3186175; 828762, 3186197; 828790, 3186228; 828855, 3186206; 828863, 3186226; 828966, 3186248; 829054, 3186316; 829078, 3186310; 829148, 3186353; 829189, 3186400; 829268, 3186437; 829288, 3186490; 829362, 3186541; 830412, 3187170; 830529, 3187068; Thence returning to 830205, 3186883.

Unit TX-31: San Bernard NWR Beach: 162 hectares (401 acres) in Brazoria and Matagorda Counties, Texas.

(1) Unit TX-31, Brazoria County, Texas. Coordinates are in UTM Zone 14N, North American Datum 1983 (meters E, meters N):

845107, 3196259; 845109, 3196228; 845094, 3196220; 845074, 3196229; 845012, 3196214; 844789, 3196124; 844698, 3196051; 844637, 3195948; 844638, 3195822; 844631, 3195763; 844611, 3195738; 844645, 3195687; 844580, 3195695; 844354, 3195499; 843993, 3195392; 843666, 3195222; 843102, 3194895; 843008, 3194826; 842964, 3194814; 842745, 3194673; 842540, 3194566; 841475, 3193902; 840906, 3193575; 840873, 3193674; 840883, 3193749; 840904, 3193744; 840926, 3193790; 840903, 3193797; 840916, 3193814; 840902, 3193812; 840968, 3193922; 840984, 3193875; 841026, 3193872; 841030, 3193889; 841039, 3193879; 841065, 3193891; 841064, 3193916; 841078, 3193900; 841117, 3193903; 841178, 3193918; 841239, 3193971; 841278, 3193963; 841318, 3193988; 841306, 3194010; 841342, 3194027; 841361, 3194013; 841396, 3194050; 841440, 3194059; 841450, 3194079; 841484, 3194086; 841494, 3194118; 841552, 3194133; 841695, 3194218; 841704, 3194241; 842261, 3194573; 842322, 3194596; 842529, 3194742; 842704, 3194832; 842808, 3194909; 843042, 3195025; 843088, 3195056; 843084, 3195074; 843115, 3195072; 843158, 3195097; 843158, 3195112; 843238, 3195149; 843242, 3195171; 843341, 3195194; 843402, 3195234; 843423, 3195266; 843433, 3195256; 843468, 3195289; 843554, 3195319; 843555, 3195334; 843673, 3195389; 843741, 3195447; 843830, 3195469; 843849, 3195480; 843851, 3195502; 843897, 3195527; 843934, 3195528; 843937, 3195547; 843967, 3195554; 843955, 3195571; 844007, 3195571; 844013, 3195590; 844041, 3195594; 844096, 3195648; 844198, 3195670; 844280, 3195735; 844334, 3195759; 844369, 3195753; 844459, 3195808; 844503, 3195860; 844554, 3195872; 844560, 3195908; 844591, 3195936; 844582, 3195969; 844593, 3196000; 844661, 3196087; 844707, 3196123; 844992, 3196283; 845121, 3196321; Thence returning to 845107, 3196259.

(2) Unit TX-31, Matagorda County, Texas. Coordinates are in UTM Zone 14N, North American Datum 1983 (meters E, meters N):

839649, 3192913; 839630, 3192824; 839613, 3192799; 839508, 3192750; 839098, 3192452; 839023, 3192428; 838813, 3192271; 838270, 3191930; 838203, 3191872; 837748, 3191599; 836314, 3190660; 836078, 3190523; 836034, 3190623; 836053, 3190665; 836283, 3190768; 836312, 3190807; 836350, 3190813; 836386, 3190875; 836466, 3190881; 836542, 3190928; 836529, 3190954; 836538, 3190961; 836646, 3190987; 836715, 3191029; 836768, 3191083; 836849, 3191129; 836878, 3191168; 836956, 3191189; 837036, 3191257; 837089, 3191281; 837100, 3191313; 837181, 3191370; 837272, 3191391; 837302, 3191427; 837333, 3191427; 837373, 3191456; 837374, 3191474; 838050, 3191909; 838100, 3191939; 838145, 3191939; 838147, 3191973; 838190, 3191977; 838224, 3192019; 838276, 3192051; 838274, 3192081; 838329, 3192083; 838392, 3192135; 838413, 3192124; 838409, 3192153; 838423, 3192173; 838447, 3192174; 838457, 3192200; 838474, 3192200; 838505, 3192239; 838553, 3192245; 838545, 3192261; 838618, 3192303; 838667, 3192291; 838662, 3192320; 838746, 3192330; 838736, 3192356; 838769, 3192356; 838779, 3192413; 838813, 3192455; 838897, 3192493; 838931, 3192481; 838955, 3192618; 839013, 3192626; 839073, 3192608; 839076, 3192633; 839122, 3192615; 839123, 3192653; 839153, 3192647; 839154, 3192684; 839214, 3192718; 839221, 3192767; 839298, 3192758; 839334, 3192814; 839379, 3192806; 839419, 3192820; 839441, 3192858; 839464, 3192865; 839445, 3192936; 839489, 3192935; 839515, 3192910; 839525, 3192920; 839427, 3192977; 839402, 3193017; 839435, 3193128; 839423, 3193182; 839474, 3193188; 839505, 3193171; 839618, 3193009; Thence returning to 839649, 3192913.

840883, 3193749; 840873, 3193674; 840906, 3193575; 840754, 3193476; 840604, 3193400; 840474, 3193299; 840195, 3193155; 839950, 3193003; 839807, 3192959; 839722, 3192960; 839670, 3193003; 839509, 3193215; 839394, 3193303; 839377, 3193380; 839399, 3193507; 839447, 3193568; 839491, 3193580; 839564, 3193495; 839547, 3193432; 839610, 3193325; 839726, 3193312; 839720, 3193333; 839775, 3193352; 839861, 3193324; 839880, 3193234; 839874, 3193181; 839888, 3193152; 839908, 3193151; 839985, 3193200; 840032, 3193201; 840081, 3193224; 840092, 3193256; 840110, 3193246; 840266, 3193337; 840375, 3193419; 840369, 3193438; 840345, 3193447; 840383, 3193489; 840424, 3193501; 840470, 3193478; 840528, 3193489; 840535, 3193508; 840569, 3193518; 840639, 3193586; 840774, 3193676; 840794, 3193688; 840811, 3193673; 840826, 3193692; 840821, 3193714; 840846, 3193694; 840854, 3193734; Thence returning to 840883, 3193749.

840943, 3193941; 840968, 3193922; 840902, 3193812; 840887, 3193825; 840911, 3193871; 840879, 3193929; Thence returning to 840943, 3193941.

Unit TX-32: Gulf Beach Between Brazos and San Bernard Rivers: 225 hectares (556 acres) in Brazoria County, Texas.

(1) Unit TX-32, Brazoria County, Texas. Coordinates are in UTM Zone 14N, North American Datum 1983 (meters E, meters N):

853029, 3199397; 852994, 3199291; 852973, 3199145; 852864, 3198840; 852815, 3198760; 852748, 3198714; 852344, 3198593; 852136, 3198490; 851941, 3198432; 851707, 3198337; 851659, 3198350; 851373, 3198256; 850903, 3198055; 850790, 3198014; 850728, 3198011; 850320, 3197848; 850211, 3197825; 849540, 3197571; 849448, 3197524; 849268, 3197475; 849135, 3197410; 848611, 3197221; 848398, 3197161; 847953, 3196990; 847336, 3196798; 846786, 3196588; 846675, 3196569; 846342, 3196448; 845229, 3195980; 844645, 3195687; 844611, 3195738; 844631, 3195763; 844638, 3195822; 844637, 3195948; 844698, 3196051; 844789, 3196124; 845012, 3196214; 845074, 3196229; 845094, 3196220; 845109, 3196228; 845107, 3196259; 845142, 3196272; 845167, 3196301; 845215, 3196303; 845237, 3196334; 845262, 3196325; 845273, 3196348; 845424, 3196419; 845606, 3196444; 845641, 3196469; 845640, 3196503; 845653, 3196509; 845677, 3196510; 845683, 3196466; 845734, 3196476; 845744, 3196505; 845791, 3196516; 845823, 3196548; 845890, 3196579; 845911, 3196608; 845964, 3196626; 846022, 3196620; 846056, 3196663; 846085, 3196675; 846100, 3196665; 846118, 3196693; 846191, 3196698; 846209, 3196721; 846192, 3196726; 846198, 3196746; 846218, 3196761; 846299, 3196762; 846313, 3196881; 846346, 3196895; 846501, 3196810; 846707, 3196822; 846761, 3196860; 846683, 3196872; 846669, 3196898; 846639, 3196912; 846520, 3196897; 846501, 3196914; 846514, 3196943; 846552, 3196954; 846723, 3196942; 846820, 3196915; 846839, 3196942; 847062, 3196966; 847068, 3196983; 846988, 3196998; 847098, 3197024; 847198, 3197027; 847331, 3197007; 847493, 3197060; 847517, 3197084; 847696, 3197131; 847713, 3197148; 847697, 3197178; 847713, 3197200; 847749, 3197196; 847808, 3197153; 847843, 3197165; 847873, 3197197; 847957, 3197177; 847986, 3197185; 848073, 3197221; 848087, 3197255; 848387, 3197337; 848393, 3197356; 848487, 3197381; 848503, 3197369; 848528, 3197402; 848657, 3197427; 848722, 3197461; 848892, 3197489; 849089, 3197555; 849166, 3197605; 849247, 3197610; 849256, 3197636; 849362, 3197667; 849380, 3197691; 849437, 3197693; 849591, 3197765; 849597, 3197790; 849637, 3197808; 849660, 3197793; 849697, 3197797; 849821, 3197852; 849997, 3197912; 850082, 3197925; 850128, 3197958; 850218, 3197980; 850219, 3198012; 850249, 3198030; 850278, 3198021; 850271, 3198051; 850291, 3198055; 850271, 3198094; 850256, 3198085; 850257, 3198134; 850288, 3198156; 850290, 3198104; 850321, 3198039; 850338, 3198042; 850369, 3198059; 850363, 3198076; 850378, 3198104; 850452, 3198083; 850490, 3198125; 850502, 3198111; 850538, 3198134; 850556, 3198107; 850571, 3198114; 850582, 3198157; 850603, 3198128; 850616, 3198191; 850631, 3198191; 850645, 3198166; 850740, 3198192; 850750, 3198207; 850736, 3198227; 850685, 3198222; 850683, 3198234; 850730, 3198261; 850744, 3198238; 850788, 3198224; 850802, 3198242; 850773, 3198280; 850914, 3198295; 850960, 3198323; 850988, 3198285; 851014, 3198294; 851019, 3198318; 851066, 3198354; 851108, 3198352; 851102, 3198378; 851126, 3198379; 851154, 3198356; 851186, 3198372; 851203, 3198388; 851192, 3198413; 851202, 3198416; 851219, 3198383; 851252, 3198380; 851299, 3198415; 851331, 3198393; 851384, 3198445; 851401, 3198409; 851420, 3198408; 851434, 3198420; 851429, 3198448; 851458, 3198515; 851451, 3198566; 851500, 3198614; 851478, 3198671; 851550, 3198702; 851565, 3198647; 851587, 3198620; 851593, 3198650; 851668, 3198675; 851735, 3198660; 851766, 3198689; 851776, 3198721; 851747, 3198755; 851768, 3198827; 851792, 3198792; 851811, 3198792; 851865, 3198654; 851976, 3198664; 851978, 3198682; 852021, 3198709; 852189, 3198684; 852204, 3198687; 852198, 3198698; 852248, 3198691; 852267, 3198723; 852311, 3198690; 852321, 3198740; 852361, 3198734; 852378, 3198758; 852485, 3198822; 852521, 3198814; 852539, 3198837; 852570, 3198827; 852655, 3198869; 852699, 3198938; 852743, 3198978; 852782, 3199052; 852791, 3199099; 852773, 3199162; 852683, 3199153; 852686, 3199175; 852713, 3199192; 852781, 3199202; 852766, 3199249; 852724, 3199269; 852766, 3199277; 852767, 3199335; 852704, 3199332; 852707, 3199358; 852735, 3199382; 852767, 3199362; 852788, 3199366; 852806, 3199449; 852842, 3199509; 852835, 3199542; 852857, 3199556; 852859, 3199576; 852840, 3199588; 852888, 3199657; 852919, 3199669; 852917, 3199704; 852960, 3199781; 852964, 3199894; 852947, 3200031; 852893, 3200124; 852935, 3200170; 852985, 3200126; 853017, 3200074; 853035, 3199951; 853090, 3199908; 853152, 3199814; 853155, 3199724; 853121, 3199554; 853100, 3199497; 853062, 3199466; Thence returning to 853029, 3199397.

Unit TX-33: Bryan Beach and Adjacent Beach: 85 hectares (211 acres) in Brazoria County, Texas.

(1) Unit TX-33, Brazoria County, Texas. Coordinates are in UTM Zone 14N, North American Datum 1983 (meters E, meters N):

857107, 3203393; 856954, 3203237; 856504, 3202856; 856027, 3202390; 855972, 3202358; 855205, 3201603; 855064, 3201442; 854944, 3201352; 854860, 3201254; 854447, 3200890; 854419, 3200839; 854299, 3200702; 854203, 3200634; 854165, 3200577; 854048, 3200475; 853671, 3200028; 853567, 3199956; 853447, 3199827; 853333, 3199776; 853258, 3199781; 853188, 3199823; 853130, 3200052; 853080, 3200129; 853038, 3200249; 853029, 3200293; 853061, 3200335; 853084, 3200356; 853100, 3200337; 853140, 3200182; 853233, 3199992; 853257, 3199984; 853282, 3200035; 853313, 3200036; 853344, 3199998; 853323, 3199957; 853337, 3199936; 853427, 3199983; 853558, 3200131; 853578, 3200181; 853691, 3200317; 853737, 3200293; 854041, 3200602; 853992, 3200705; 854094, 3200786; 854146, 3200781; 854169, 3200741; 854271, 3200850; 854276, 3200948; 854319, 3200983; 854308, 3201001; 854324, 3201014; 854354, 3201000; 854348, 3200979; 854369, 3200949; 854386, 3200956; 854378, 3200997; 854404, 3200991; 854416, 3201006; 854417, 3201046; 854436, 3201057; 854438, 3201017; 854484, 3201058; 854496, 3201134; 854529, 3201152; 854558, 3201133; 854784, 3201345; 854782, 3201396; 854815, 3201379; 855116, 3201662; 855121, 3201712; 855157, 3201708; 855182, 3201724; 855233, 3201795; 855264, 3201810; 855327, 3201893; 855330, 3201926; 855305, 3201957; 855301, 3202034; 855324, 3202063; 855347, 3202021; 855375, 3202009; 855387, 3201970; 855425, 3202034; 855378, 3202031; 855352, 3202050; 855339, 3202086; 855412, 3202105; 855422, 3202075; 855447, 3202073; 855465, 3202050; 855477, 3202094; 855557, 3202145; 855545, 3202169; 855496, 3202194; 855504, 3202210; 855560, 3202196; 855675, 3202272; 855669, 3202286; 855612, 3202280; 855607, 3202301; 855697, 3202387; 855677, 3202438; 855696, 3202463; 855707, 3202466; 855718, 3202395; 855734, 3202394; 855776, 3202407; 855857, 3202485; 855995, 3202547; 856665, 3203144; 856699, 3203184; 856700, 3203229; 856656, 3203223; 856604, 3203251; 856577, 3203298; 856574, 3203343; 856612, 3203392; 856746, 3203420; 856823, 3203388; 856834, 3203335; 856871, 3203348; 857231, 3203647; 857292, 3203715; 857345, 3203741; 857351, 3203789; 857405, 3203645; 857323, 3203563; 857237, 3203514; 857107, 3203393.

BILLING CODE 4310-55-S

Dated: May 8, 2009.
Stephen Guertin,
Acting Deputy Director, U.S. Fish and Wildlife Service.

[FR Doc. E9-11245 Filed 5-18- 09; 8:45 am]

BILLING CODE 4310-55-C